DEPARTMENT OF HOMELAND SECURITY

Coast Guard

46 CFR Parts 1, 10, 11, 12, 13, 14, and 15

[Docket No. USCG-2004-17914]

RIN 1625-AA16

Implementation of the Amendments to the International Convention on Standards of Training, Certification and Watchkeeping for Seafarers, 1978, and Changes to National Endorsements

AGENCY: Coast Guard, DHS.

ACTION: Final rule.

SUMMARY: The Coast Guard issues this final rule to implement the International Convention on Standards of Training, Certification and Watchkeeping for Seafarers, 1978, as amended (STCW Convention), as well as the Seafarers' Training, Certification and Watchkeeping Code (STCW Code), to address the comments received from the public in response to the supplemental notice of proposed rulemaking (SNPRM), and to incorporate the 2010 amendments to the STCW Convention that came into force on January 1, 2012. In addition, this final rule makes other changes not required by the STCW Convention or Code, but necessary to reorganize, clarify, and update these regulations.

DATES: This final rule is effective March 24, 2014 except for 46 CFR part 10, subpart C, which is effective January 23, 2014. The incorporation by reference of certain publications listed in the rule is approved by the Director of the Federal Register on March 24, 2014.

ADDRESSES: Comments and material received from the public, as well as documents mentioned in this preamble as being available in the docket, are part of docket USCG-2004-17914 and are available for inspection or copying at the Docket Management Facility (M-30), U.S. Department of Transportation, West Building Ground Floor, Room W12-140, 1200 New Jersey Avenue SE., Washington, D.C. 20590, between 9 a.m. and 5 p.m., Monday through Friday, except Federal holidays. You may also find this docket on the Internet by going to http://www.regulations.gov, inserting USCG-2004-17914 in the “Keyword” box, and then clicking “Search.”

FOR FURTHER INFORMATION CONTACT: If you have questions on this rule, call or email Mr. Mark C. Gould, Maritime Personnel Qualifications Division, Coast Guard; phone (202) 372-1409; email mark.c.gould@uscg.mil. If you have questions on viewing the docket, call Renee V. Wright, Program Manager, Docket Operations, telephone 202-366-9826.

SUPPLEMENTARY INFORMATION:

Table of Contents for Preamble

I. Executive Summary

A. Basis and purpose

B. Summary for major provisions

C. Costs and benefits

II. Abbreviations

III. Regulatory History

IV. Overview

V. Tables of Changes

VI. Discussion of Comments and Explanation of Changes

A. Summary of changes from the SNPRM

B. Public comments on the SNPRM

C. Discussion of Public Comments in Response to the Merchant Marine Personnel Advisory Committee (MERPAC) and the Merchant Mariner Medical Advisory Committee (MEDMAC) Recommendations

D. Additional Request for Comments

VII. Incorporation by Reference

VIII.Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Executive Summary

A. Basis and purpose

The United States has a well-established program for credentialing personnel serving on U.S. vessels that is governed by domestic law in United States Code, titles 5, 14, 33 and 46, and Code of Federal Regulations, title 46, subchapter B. Through these domestic statutes and regulations, the United States also implements the provisions of the International Convention on Standards of Training, Certification and Watchkeeping for Seafarers, 1978, as amended.

The STCW Convention and Code set forth minimum training and certification requirements for merchant mariners. The IMO adopted amendments to the STCW in 1995. Those amendments entered into force on February 1, 1997. The Coast Guard implemented those amendments through an interim rule revising 46 CFR subchapter B, which published on June 26, 1997 (62 FR 34505). The Convention was subsequently amended in 2002 and 2007.

In 2008, the IMO embarked on a comprehensive review of the entire STCW Convention and the STCW Code, which sets forth provisions for implementing the STCW Convention. Five meetings were held at IMO headquarters in London on the comprehensive review, at which the Coast Guard represented the U.S. and the draft 2010 amendments to the Convention were developed. The Coast Guard held public meetings prior to each one of the IMO review meetings to determine what positions U.S. delegations should advocate and to exchange views about amendments to STCW that were under discussion. In addition, the Coast Guard also obtained input from MERPAC on developments and implementation of the requirements relating to the 2010 amendments. After completing its review, the IMO adopted these amendments on June 25, 2010, at the STCW Diplomatic Conference in Manila, Philippines. They entered into force for all ratifying countries on January 1, 2012.

The STCW Convention is not self-implementing; therefore, the United States, as a signatory to the STCW Convention, must initiate regulatory changes to ensure compliance with its treaty obligations through full implementation of the amendments to the STCW Convention and STCW Code. Accordingly, the Coast Guard is amending 46 CFR subchapter B to: Fully harmonize and incorporate the requirements for national licenses with those of the STCW Convention; to incorporate the 2010 amendments to the STCW Convention that came into force on January 1, 2012; and to make other changes not required by the STCW Convention that are necessary to reorganize, clarify, and update those regulations. A discussion of the 2010 amendments implemented in this final rule is available in the preamble of the SNPRM (76 FR 45908).

All signatories to the STCW Convention are presumed to be fulfilling their obligations under the Convention and, by publishing and implementing this final rule, the U.S. is joining the other signatories, including, but not limited to, Australia, Canada, France, Germany, Norway, Russia, Sweden, and the United Kingdom. The U.S. is also ensuring that the U.S. remains on the IMO “White List” of countries giving the Convention full and complete effect. Inclusion on this list entitles U.S.-flag vessels to equal treatment under foreign nation port state control procedures, and enables U.S. mariners to compete in the global workforce. This final rule also ensures that U.S. mariner credentialing requirements are consistent with international standards. Additionally, the rule strengthens U.S. authority to enforce the STCW Convention and STCW Code against foreign flag vessels in U.S. waters.

Parties to the STCW Convention have port state control authority to detain vessels that do not comply with the Convention. If U.S. regulations are non-compliant with the STCW Convention and STCW Code, there is a risk that U.S. vessels will be detained in foreign ports and that U.S. mariners not in compliance with the STCW Convention would be ineligible to serve on foreign flag vessels.

Over 90 percent of ships visiting U.S. waters are foreign-flag carrying multinational crews, and are subject to STCW. Additionally, approximately 1044 U.S. documented commercial vessels operate on ocean or near coastal voyages and are subject to the provisions of STCW. Implementation and enforcement of the STCW requirements promote shipboard practices that reduce the risk of human errors that could potentially lead to an accident in U.S. waters.

B. Summary of Major Provisions

This section lists the major provisions in this final rule. Both a summary and a detailed explanation of the reasons for changes from the SNPRM can be found in Section VI of this preamble, Discussion of Comments. All of the changes below were made to the rule as proposed in the SNPRM in response to comments from the public, MERPAC, or MEDMAC.

The Coast Guard is publishing this final rule to implement amendments to the STCW Code, including the 2010 amendments, and ensure that the U.S. is meeting its obligations under the Convention. In addition, the Coast Guard is issuing this final rule to respond to the comments, feedback, and concerns received from the public in response to the SNPRM. In order to address those comments and concerns, the final rule will: Clarify transitional provisions for STCW endorsements and for the issuance of medical certificates; provide additional training topics for STCW endorsements as part of approved formal training; remove the new apprentice mate (steersman) of towing (utility), master of towing (utility) and master of towing (harbor assist) endorsements; clarify the application of security requirements; grant sea service credit towards STCW endorsements for mariners who hold a national endorsement but serve on STCW compliant vessels; provide additional means for mariners holding a domestic tankerman endorsement to qualify for STCW tankerman endorsements; clarify the course approval provisions; and include compliance with industry-wide systems, such as International Organization for Standardization (ISO) and International Safety Management (ISM), as an alternate means of compliance with the Quality Standards System (QSS) provisions.

C. Costs and Benefits

The changes between the SNPRM and this final rule do not result in additional impacts to the maritime industry except for the transitional provision that delays the implementation of the QSS requirements until January 1, 2017. This provision was included in this final rule based on the public comments received on the SNPRM and will delay the cost impact of QSS requirements to training providers. For a detailed discussion of comments, the changes, and their additional impacts, please see “Regulatory Analyses,” section VIII, of the preamble.

Table 1—Summary of Affected Population, Costs and Benefits
Category | Final rule
Affected Population | 60,000 U.S. mariners ¹; 316 owners and operators of 1,044 U.S. flag vessels; and 141 STCW training providers.
Costs ($ millions, 7-percent discount rate) | $32.6 (annualized).
| $230.3 (10-year)
Benefits | • Increase in vessel safety and a resulting decrease in the risk of shipping casualties and their consequences (fatalities, injuries, property loss and environmental damage).
| • Prevention and mitigation of accidents on STCW Convention-compliant foreign vessels in U.S. waters due to increased ability of the Coast Guard to enforce requirements. See Executive Summary for additional information.
| • Increase in mariners' situational awareness and situational assessment.
| • Reduction of potential impacts of medical conditions on human error.
| • Earlier detection and treatment of medical conditions.
| • Fulfillment of U.S. obligations under the STCW Convention.
| • Maintenance of U.S. status on the IMO “White List” and avoidance of detention of U.S. flagged vessels in foreign ports due to noncompliance with the STCW Convention.
| • Assurance that U.S. mariners can compete in the global workforce market.
| • Assurance that U.S. credentialing regulations are consistent with international performance standards based on international consensus and the IMO convention, which minimizes variation in standards of training and watchkeeping.
¹ Includes all mariners to which STCW applies, which is limited to voyages beyond the boundary line.

II. Abbreviations

ABET Accreditation Board for Engineering and Technology

A/B Able seaman

ATB Articulated tug barge vessel

AGT Any gross tons

BRM Bridge resource management

BST Basic safety training

BT Basic training

COI Certificate of inspection

CPR Cardiopulmonary resuscitation

DDE Designated duty engineer

DE Designated examiner

DHS Department of Homeland Security

DME Designated medical examiner

DOT U.S. Department of Transportation

DP Dynamic positioning

DPO Dynamic positioning officer

ECDIS Electronic chart display and information system

EOOW Engineering officer of the watch

ERM Engineroom resource management

ETO Electro-technical officer

FR Federal Register

FSD Functional speech discrimination

FWT Fireman/Watertender

GMDSS Global maritime distress and safety system

GRT Gross register tonnage

GT Gross tonnage

HP Horsepower

HSC High-speed craft

ILO International Labour Organization

IMO International Maritime Organization

IR Interim rule

ISM International Safety Management

ISPS International Ship and Port Facility Security

ISO International Organization for Standardization

ITB Integrated tug-barge

ITC International Tonnage Convention

KUPs Knowledge, understanding, and proficiencies

MARAD U.S. Department of Transportation Maritime Administration

MERPAC Merchant Marine Personnel Advisory Committee

MMC Merchant mariner credential

MMD Merchant mariner's document

MEDMAC Merchant Mariner Medical Advisory Committee

MODU Mobile offshore drilling unit

NMC National Maritime Center

NPRM Notice of proposed rulemaking

NVIC Navigation Vessel Inspection Circular

OCMI Officer in charge, marine inspection

OICEW Officer in charge of an engineering watch

OICNW Officer in charge of a navigational watch

OIM Offshore installation manager

OPA 90 Oil Pollution Act of 1990

OSRV Oil spill response vessel

OSV Offshore supply vessel

PIC Person in charge

PSC Proficiency in survival craft

QA Qualified assessor

QMED Qualified member of the engine department

QSS Quality Standards System

RFPEW Rating forming part of an engineering watch

RFPNW Rating forming part of a navigational watch

Ro-Ro Roll-on/roll-off

SMCP Standard marine communication phrases

SNPRM Supplemental notice of proposed rulemaking

STCW Convention International Convention on Standards of Training, Certification and Watchkeeping for Seafarers, 1978

STCW Code Seafarers' Training, Certification and Watchkeeping Code

TRC Type rating certificate

TSAC Towing safety advisory committee

TOAR Towing officer assessment record

TWIC Transportation worker identification credential

U.S.C. United States Code

USCG United States Coast Guard

VSO Vessel security officer

III. Regulatory History

The Coast Guard published changes to the regulations governing the credentialing of merchant mariners serving on U.S. flag vessels with an interim rule (IR) on June 26, 1997 (62 FR 34505). The 1997 IR ensured that credentials issued by the U.S. met International Maritime Organization (IMO) standards, thereby reducing the possibility of U.S. vessels being detained in a foreign port for non-compliance.

In 2009, the Coast Guard proposed to update the changes made by the 1997 IR to reflect experience gained during the implementation of that rule. The Coast Guard published a notice of proposed rulemaking (NPRM) on November 17, 2009 (74 FR 59354). The NPRM sought to incorporate all effective amendments to the International Convention on Standards of Training, Certification and Watchkeeping for Seafarers, 1978 (STCW Convention) and Seafarers' Training, Certification and Watchkeeping Code (STCW Code) as of that publication date. Five public meetings were held to receive comments on the NPRM. These meetings were announced in the Federal Register on November 18, 2009 (74 FR 59502).

The public comment period for the NPRM ended on February 17, 2010. After considering comments, feedback, and concerns received from the public in response to the NPRM, and due to the adoption of the 2010 amendments to the STCW Convention and Code, the Coast Guard recognized a need to make substantial changes to the merchant mariner credentialing program and regulations beyond those proposed in the NPRM. Because of these substantial changes, the Coast Guard recognized the necessity of developing a more comprehensive rule, and of providing additional opportunity, through a supplemental notice of proposed rulemaking (SNPRM), for the public to comment on these changes.

The Coast Guard published a notice on March 23, 2010 (75 FR 13715), announcing that we were revisiting the approach proposed in the NPRM and considering publishing an SNPRM as a next step. The notice further explained that the review of the approach was based on feedback received on the NPRM and because of the adoption of the 2010 amendments to the STCW Convention. The IMO approved the 2010 amendments at the June Diplomatic Conference, where it was agreed that all provisions of the STCW Convention, including the 2010 amendments, would enter into force by January 1, 2012.

The Coast Guard published an SNPRM on August 1, 2011 (76 FR 45908), providing 2 months for public comment. The SNPRM proposed to make changes to the implementation of the STCW Convention and Code to incorporate the 2010 amendments to the STCW Convention that came into force on January 1, 2012, and address the comments received from the public in response to the NPRM. In addition, the SNPRM proposed to make other changes not required by the STCW Convention or Code, but necessary to reorganize, clarify, and update these regulations. Four public meetings were held to receive comments on the SNPRM. These meetings were announced in the Federal Register on August 2, 2011 (76 FR 46217). The comments received during these four meetings are discussed in the “Discussion of Comments” section of this preamble.

On November 3, 2011, the Coast Guard publicly announced the availability of recommendations from MERPAC and the Merchant Mariner Medical Advisory Committee (MEDMAC) concerning the SNPRM and invited public comment (76 FR 68202). The 30-day public comment period closed on December 5, 2011. The comments received in response to these recommendations are also discussed in the “Discussion of Comments” section of this preamble.

On January 4, 2012, the Coast Guard published a notice of policy informing the public that the 2010 amendments to the STCW Convention entered into force for all ratifying nations on January 1, 2012 (77 FR 232). The notice also encouraged vessels operating in foreign ports to implement provisions of the 2010 amendments concerning hours of rest and security training to minimize potential port state control detentions.

IV. Overview

This final rule is intended to ensure that U.S. mariners comply with the standards set forth in the STCW Convention and Code and to clarify and update the regulations in 46 CFR subchapter B, Merchant Marine Officers and Seamen. As a result of the comments, feedback, and concerns received from the public in response to the SNPRM, the Coast Guard made changes to the proposed regulations.

Most seagoing merchant mariners must comply with the requirements of the STCW Convention and STCW Code. The Coast Guard recognizes that the CFR regulations implementing the STCW Convention and STCW Code requirements have been the subject of different interpretations and that the requirements reflected in the CFR are not currently organized in a manner that is easy to read and understand.

This final rule also revises other sections of 46 CFR subchapter B in order to clarify, address omissions in, and update those regulations.

V. Tables of Changes

The following table provides a crosswalk showing changes from the existing regulations to this final rule.

Current cite | Cite under final rule | Summary of changes
Subchapter B | Subchapter B | Changes Domestic to National when used to describe endorsements.
|  | The use of “domestic” to describe endorsements that are restricted to United States waters inside the STCW boundary line has been replaced by “national” to avoid confusion when discussing the domestic endorsements of other countries.
§ 10.107 | N/A | Removes the definition of Apprentice mate (steersman) of towing vessels (utility).
|  | Endorsement has been removed from regulations.
§ 10.107 | N/A | Removes definition of Competent Person.
|  | Moved relevant information into part 13 to ensure consistency, because “competent person” applies only to endorsements covered in that part.
§ 10.107 | N/A | Removes the definition of Limited.
|  | Definition is not needed because it has the same meaning as in standard English language usage.
§ 10.107 | N/A | Removes the definition of Restricted.
|  | Definition is not needed because it has the same meaning as in standard English language usage.
§ 10.107 | N/A | Removes definition for self-propelled tank vessel.
|  | Eliminates redundancy with the definition of tankship.
§ 10.107 | § 10.107 | Revises the definition for Coast Guard-accepted.
|  | The definition is being revised to provide clarification on the instances where something may be approved by the Coast Guard for use in meeting a particular requirement.
§ 10.107 | § 10.107 | Revises definition of Day.
|  | This revised definition will link the definition to the U.S. Code and provide further clarification regarding service on MODUs and cadet service on a maritime training ship within the regulations.
§ 10.107 | § 10.107 | Revises definition of Designated Examiner (DE).
|  | The definition was revised to ensure that a DE applies to the Towing Officer Assessment Record only, as DE previously applied to all qualification processes.
§ 10.107 | § 10.107 | Revises definition of Endorsement.
|  | The definition was revised to clarify that all endorsements are listed in § 10.109.
§ 10.107 | § 10.107 | Revises definition of Inland waters.
|  | The definition was revised to allow sea service credit towards STCW on certain inland vessels.
§ 10.107 | § 10.107 | Revises the definition of Near-coastal.
|  | Amends to include exceptions for operator of uninspected passenger vessels (OUPVs) in order to formalize a pre-existing exception for OUPVs.
|  | Includes near-coastal waters identified by another country's Administration when entering into a treaty or an agreement with that country.
§ 10.107 | § 10.107 | Revises definition for Qualified Assessor.
|  | Clarifies this person's role and professional development.
§ 10.109 | § 10.109 | Revises list of endorsements.
|  | Adds new endorsements in accordance with parts 11 and 12 to ensure that the lists of endorsements are consistent throughout the regulations.
§ 10.205 | § 10.205 | Revises postdating.
|  | Clarifies and simplifies the postdating process. Postdating will occur unless the applicant specifies otherwise.
§ 10.209, 10.231 | § 10.209, 10.231 | Adds required documentation for medical examinations.
|  | Adds a medical certificate issued by the Coast Guard.
|  | This serves as documentary proof of passing the medical examination.
§ 10.209, 11.480 | § 10.209, 10.480 | Electronic submission of required documents.
|  | Allows course completion certificates, including radar observer, to be submitted electronically.
§ 10.215 | Part 10, subpart C | Transfers medical requirements to a new subpart. Revises the physical requirements for mariners applying for a Coast Guard-issued credential. These changes include: annual submission of physicals by pilots, revision of vision standard, revision of hearing standard, clarification regarding demonstration of physical ability.
|  | Provides the Coast Guard some flexibility in the acceptance of other tests.
|  | The requirement to demonstrate physical ability provides information required for those mariners serving on vessels to which STCW applies.
§ 10.215 | § 10.301 | Revises medical certificate validity period.
|  | Adds issuance of the new medical certificates with the following period of validity:
|  | (1) 2 years for STCW-endorsed mariners, unless the mariner is under the age of 18, in which case the maximum period of validity would be 1 year;
|  | (2) 2 years for a mariner who is serving as a first-class pilot, or acting as a pilot under § 15.812; and
|  | (3) 5 years for all other mariners, consistent with the current practice and requirements.
§ 10.215 | § 10.305 | Revises vision requirements.
|  | The 2010 amendments have expanded the applicability of vision standards from one eye to both eyes for deck personnel with STCW endorsements.
§ 10.217 | § 10.217 | Removes reference to temporary permits.
|  | Formalizes long-standing Coast Guard practice of no longer issuing temporary permits.
§§ 10.227, 10.231 | §§ 10.227, 10.231 | Revises renewal requirements for credentials.
|  | Removes the requirement to submit an old, original credential in an application for renewal.
|  | This permits mariners to retain their previous credentials.
§ 10.303 | § 10.410 | Removed Quality Standards System (QSS) requirements from § 10.303 and moved them into a new § 10.410.
|  | Adds QSS information into a new section and adds requirement for training providers to develop a QSS.
|  | This reflects the STCW requirement to use a QSS.
|  | Includes ISM, which is an industry-wide system, as alternate means of compliance for the QSS provision.
|  | Adds implementation date (January 1, 2017) for QSS requirements in accordance with the STCW Convention.
N/A | § 10.107 | Adds the definition of Able-seafarer deck.
|  | Provides consistency with the STCW Convention.
N/A | § 10.107 | Adds the definition of Able-seafarer engine.
|  | Provides consistency with the STCW Convention.
N/A | § 10.107 | Adds the definition of Boundary line.
|  | Adding the definition will assist applicants in understanding the limits of the STCW Convention.
N/A | § 10.107 | Adds definition of Ceremonial license.
|  | Provides mariners an MMC endorsement suitable for framing.
|  | This is in response to mariner demand for a ceremonial license.
N/A | § 10.107 | Adds definition of Chemical tanker.
|  | Adds definition for the differentiation of dangerous liquids into two endorsements under STCW.
|  | Clarifies the type of vessel on which mariners must serve to qualify for an STCW endorsement for advanced chemical tanker cargo operations.
N/A | § 10.107 | Adds the definition of a Coast Guard-accepted Quality Standards System (QSS) organization.
|  | Adds definition regarding those organizations that may conduct QSS activities in regard to training, consistent with STCW requirements.
N/A | § 10.107 | Adds definition of Coastwise Voyage.
|  | To clarify the boundaries of these types of voyages.
N/A | § 10.107 | Adds the definition of Communicable disease.
|  | Clarifies what a physician should look for when conducting medical examinations.
N/A | § 10.107 | Adds definition of Deck department.
|  | To clarify the functions of this department.
N/A | § 10.107 | Adds definition of Designated medical examiner.
|  | To clarify who can give medical examinations to mariners, establishing a network of medical examiners who have demonstrated an understanding of mariner fitness.
N/A | § 10.107 | Adds the definition of Domestic voyage.
|  | To clarify that domestic service does not include entering foreign waters.
|  | This will assist those operating small passenger vessels in waters close to or adjacent to foreign waters in determining whether the operator would be required to hold an STCW endorsement.
|  | The definition was revised to include voyages beginning and ending at a U.S. port and passing through the waters of another country if the U.S. has entered into a treaty or agreement with that country.
N/A | § 10.107 | Adds definition of Dual-mode integrated tug barge (ITB).
|  | To clarify what is included in the operations and configuration of this type of ITB.
N/A | § 10.107 | Adds the definition of Electro-technical officer.
|  | Provides consistency with the STCW Convention.
N/A | § 10.107 | Adds the definition of Electro-technical rating.
|  | Provides consistency with the STCW Convention.
N/A | § 10.107 | Adds definition of Engine department.
|  | To clarify the functions of this department.
N/A | § 10.107 | Adds definition of Gross register tons (GRT).
|  | Provides definition for term used in the proposed rule and establishes an abbreviation for the use of this term throughout this subchapter.
|  | This will help the mariner to readily distinguish between GRT and gross tonnage.
N/A | § 10.107 | Adds the definition of Gross tonnage (GT).
|  | This will provide consistency with the STCW Convention and simplify the regulations by establishing an abbreviation for use throughout this subchapter.
N/A | § 10.107 | Adds the definition of High-speed craft type rating.
|  | Adds a definition and requirement for a high-speed craft type rating to be compliant with the high-speed craft code. This puts into regulations existing processes that had previously been completed through Navigation Vessel Inspection Circular (NVIC) and policy letter.
N/A | § 10.107 | Adds the definition of ILO.
|  | Establishes an abbreviation for the use of this term throughout this subchapter.
N/A | § 10.107 | Adds definition of Integrated tug barge.
|  | To specify and make clear the features and capabilities of this type of tug barge combination.
N/A | § 10.107 | Adds the definition of International Safety Management Code.
|  | This term is referenced in part 10.
N/A | § 10.107 | Adds the definition of Kilowatt (kW).
|  | To provide clarity and consistency, as the term is used in conjunction with the implementation of the STCW Convention and STCW Code.
N/A | § 10.107 | Adds definition of Lifeboatman-Limited.
|  | To provide for a new endorsement for persons serving in a position similar to Lifeboatman but on a vessel without a lifeboat.
N/A | § 10.107 | Adds definition of Liquefied gas tanker.
|  | Adds definition for the change in STCW tanker cargo operations endorsements.
N/A | § 10.107 | Adds the definition of Management level.
|  | To explain that master, chief mate, chief engineer and first assistant engineer (second engineer officer) are considered management level under the STCW Convention.
N/A | § 10.107 | Adds definition of Medical certificate.
|  | To describe a new document that serves as proof that a mariner meets the required medical and physical standards.
N/A | § 10.107 | Adds definition of Officer in Charge of an Engineering Watch (OICEW).
|  | To clarify that this endorsement is at the operational level.
N/A | § 10.107 | Adds definition of Officer in Charge of a Navigational Watch (OICNW).
|  | To clarify that this endorsement is at the operational level.
N/A | § 10.107 | Adds definition of Oil tanker.
|  | Adds definition for the differentiation of dangerous liquids into two STCW endorsements.
N/A | § 10.107 | Adds the definition of Operational level.
|  | Provides that officer endorsements other than management level are considered operational level under the STCW Convention.
|  | This will provide consistency with STCW Convention/Code.
N/A | § 10.107 | Adds the definition of Periodically unattended engine room.
|  | Provides clarity in the application of the service requirements for engineers.
N/A | § 10.107 | Adds the definition of Propulsion power.
|  | To provide consistency with the use of the term “propulsion power” in STCW and to encompass methods of measurement, such as horsepower (HP) and kilowatts (kW).
N/A | § 10.107 | Adds definition of Push-mode ITBs.
|  | To specify what is included in the configuration of this tug barge unit.
N/A | § 10.107 | Adds definition of Qualified Assessor.
|  | To clarify the qualifications for this type of evaluator.
N/A | § 10.107 | Adds the definition of Quality Standard System (QSS).
|  | To ensure conformity with STCW requirements for use of a QSS and provide clarification of what is intended by this term when used in this subchapter.
N/A | § 10.107 | Adds definition of Seagoing service.
|  | Clarify for the mariner what is included in this type of service, including Great Lakes and inland service.
N/A | § 10.107 | Adds the definition of Seagoing vessel.
|  | To ensure the definition captures all vessels to which STCW Convention and Code apply.
|  | There is no commercial vessels restriction, as appears in the current definition in § 15.1101, because that would have excluded vessels such as yachts and government-owned vessels, which are required to be operated by mariners holding an STCW endorsement.
N/A | § 10.107 | Adds the definition of Ship.
|  | To provide clarity regarding the types of propulsion modes for these vessels.
N/A | § 10.107 | Adds the definition of Training program.
|  | To provide clarity regarding what is encompassed within training programs.
N/A | § 10.107 | Adds the definition of Unlimited.
|  | Clarifies the annotation on an MMC authorizing service on vessels of any tonnage or any propulsion power.
N/A | § 10.205(h) | Adds provision regarding Document of Continuity.
|  | To explain the process of replacing a Document of Continuity with an MMC.
N/A | § 10.209 | Adds ceremonial license.
|  | Allows mariners to request a ceremonial license when renewing his or her credential.
N/A | §§ 10.232, 11.401, 11.404, 11.405, and 11.406 | Expands provisions granting sea service credit towards STCW endorsements to include those mariners who hold a national endorsement and provide proof of service on vessels to which STCW applies, whether on inland or coastwise service.
|  | Service on vessels to which STCW applies, whether inland or coastwise, will be credited on a day-for-day basis.
N/A | § 10.405 | Adds requirements for qualification as a qualified assessor or designated examiner.
|  | To ensure that qualified individuals conduct evaluations of mariners in conformity with the STCW Convention. See Section A-I/6 of the STCW Code.
|  | Adds a provision requiring qualified assessors who renew their qualifications to provide evidence of experience, training, or instruction within the past 5 years.
|  | To ensure that qualified assessors are trained in proper assessment techniques and have completed an “assessor training” course as part of an accepted training program.
N/A | § 10.409 | Adds requirements for approval as a Coast Guard-accepted QSS organization.
|  | Requires organizations wishing to accept and monitor training to submit application for approval. Coast Guard-accepted QSS organizations will be audited once every five years.
|  | This is to ensure compliance with STCW Convention/Code and to provide oversight of these organizations.
N/A | § 10.411 | Adds simulator performance standards.
|  | To provide consistency with existing requirements and Section A-I/12 of the STCW Code.
N/A | § 10.412 | Adds distance and e-learning,
|  | Adds a provision that will allow mariners to complete certain approved training via distance or e-learning courses.
|  | This will allow more options for obtaining training.
§§ 11.201, 11.205 | § 11.201 | Re-organizes and consolidates all general requirements applicable to all domestic and STCW officer endorsements.
|  | Consolidates all endorsement requirements from the various sections (including §§ 11.201, 11.205) into a general section with sub-titles to allow for easy reference.
§ 11.202 | § 15.817 | Moves section for Global Maritime Distress and Safety System (GMDSS) competency without substantive change.
|  | Requires that all deck officers serving on vessels equipped with GMDSS provide an endorsement for GMDSS.
|  | This re-organizes the regulations to make them easier to access and follow.
§ 11.202 | § 15.816 | Moves section for Automatic Radar Plotting Aids (ARPA) competency without substantive change.
|  | Requires that all deck officers serving on vessels equipped with ARPA prove competency.
|  | This re-organizes the regulations to make them easier to access and follow.
§ § 11.202, 11.205 | §§ 11.301, 11.302 and 11.303 | Re-organizes and consolidates all requirements applicable to all STCW officer endorsements.
|  | Title changes from Basic safety training (BST) to Basic Training (BT) to be consistent with the STCW Convention.
|  | Consolidates all endorsement requirements from various sections (including §§ 11.202 and 11.205) into a general section with sub-titles to allow for easy reference. General requirements (§ 11.301), Basic training (§ 11.302) and Advanced firefighting (§ 11.303).
§ 11.202(c) | §§ 11.305 to 11.321 | Moves the requirement for ARPA from the general section.
|  | To place the requirement in the appropriate operational-level and management-level certificate.
§ 11.202(d) | §§ 11.305 to 11.321 | Moves the requirement for the training and assessment on GMDSS from the general section.
|  | Incorporates the GMDSS requirement with the requirement for the appropriate operational-level and management-level certificate to simplify and clarify the GMDSS requirement.
§ 11.202(e) | §§ 11.305 to 11.321 | Changes the name of Procedures for Bridge Team Work to Bridge Resource Management (BRM).
|  | The BRM will be required for the operational level credential and leadership and managerial skills will be required for the management level credential.
|  | This will provide consistency with STCW.
§ 11.202(e) | §§ 11.305 to 11.321 | Moves the requirement for Bridge Resource Management.
|  | Moves the BRM requirement to the appropriate operational-level certificate in order to clarify and simplify the requirement.
§ 11.202(b) | § 11.302 | Moves requirements for Basic Training.
|  | Adds requirements for BT, including the requirement to maintain the standard of competence every 5 years through a combination of drills and onboard training and experience with shore-side assessments.
|  | This will ensure mariners maintain knowledge of BT.
§ 11.202(f) | § 11.301(h) and (i) | Moves exemptions and relaxations for vessels that are not subject to any obligation under STCW.
|  | Moves exemption and relaxation requirements applicable to vessels that are exempt from the requirements or that are applicable because of their special operating condition as small vessels in domestic voyages.
|  | This was done to simplify the regulations by placing all STCW requirements in one subpart.
§ 11.205(c) | N/A | Removes letters of reference requirement.
|  | Removes the requirement to submit letters of reference because of the depth of new background investigation procedures by both the Coast Guard and the Transportation Security Administration.
§ 11.205(d) | § 11.201(h) | Reduces firefighting training requirements for certain endorsements.
|  | Reduces the training from basic and advanced firefighting to basic firefighting training for vessels of less than 200 GRT in ocean services.
|  | This will reduce the burden on mariners serving on these vessels.
§ 11.205(d) | § 11.201(h) | Adds firefighting training requirements for certain endorsements.
|  | Mandates basic firefighting training for some endorsements on non-ocean services.
|  | This is to ensure that mariners with those endorsements have basic firefighting skills and to improve overall maritime safety.
§ 11.211 | § 11.211 | Adds provisions to accept certain towing vessel service, including service in inland tug-barge combinations such as ATBs and integrated tug barges (ITBs), based on the aggregate tonnage of the tug and barge(s) when greater than 1,600 GRT.
|  | Grants credit for service on towing vessels using the aggregate tonnage on a 1-for-2 basis (2 days experience equals 1 day of creditable service) for up to 50 percent of the total service on vessels of 1,600 GRT or more.
§§ 11.211 (a) and (b), 11.213 | § 10.232 | Creates new section for sea service.
|  | Inserts new section to discuss sea service issues applicable to all credentials, including foreign sea service, documentation to show proof of sea service, and sea service as a member of the armed forces.
|  | This is in response to public comments requesting further clarification on sea service requirements.
|  | Expands list of items applicants must provide as documentary evidence of sea service.
|  | Revises to include sea service credit for cadets serving onboard academy training ships where sea service is part of an approved training program.
|  | Will grant ½ days of sea service credit for each day a cadet serves aboard an academy training ship where sea service is part of an approved training program.
§ 11.211(d) | § 11.211(c) | Expands sea service credit on Articulated Tug Barges (ATBs).
|  | The Coast Guard will allow the service on ATBs to qualify for unlimited tonnage officer endorsements.
|  | This will reduce the burden on the mariner seeking to qualify for these endorsements.
§ 11.301 | § 11.301 | Revises to provide mariners the opportunity to use the new STCW training requirements when applying for credentials.
|  | Provides that persons who hold or have held an STCW operational-level endorsement issued prior to the effective date of this final rule, and are seeking to upgrade to an STCW management-level endorsement, will not be required to do the assessments for STCW operational-level endorsements.
§ 11.301 | § 10.401 | Revises the applicability to include training programs.
|  | Clarifies that the STCW Convention covers all training used to pursue certification, whether or not it is part of an approved course or training program. See Regulation I/6 of the STCW Convention and Section A-I/6 of the STCW Code.
§ 11.302 | § 10.402 | Revises the credit that can be provided by course approval to allow for multiple purposes.
|  | Provides industry more flexibility to complete the requirements as current regulations are too confining.
§ 11.302 | § 10.402 | Revises the requirements for the request for course approval.
|  | Incorporates previously issued guidance documents.
|  | This is to assist industry in understanding otherwise vague requirements.
|  | Revises course approvals to implement the IMO model course format and terminology.
§ 11.302 | § 10.402 | Clarifies the circumstances that could lead to the suspension of course approval for a training course.
|  | Organizes the requirements for suspension of course approvals.
|  | This is being done in response to public comments regarding course approval suspensions.
§ 11.302 | § 10.402 | Revises the reasons for withdrawal of course approval.
|  | Clarifies reasons for withdrawal of course approval.
§ 11.302 | § 10.407 | Revises the requirements for the request for program approval.
§ 11.303 | § 10.403 | Revises section to require that each student demonstrate practical skills appropriate for the course.
|  | Ensures that the training provided meets the requirements of the STCW Convention, i.e., not only ensuring applicant knowledge, understanding and proficiency (KUP), but also requiring a demonstration of skills. See STCW Regulation I/6 of the STCW Convention.
§ 11.303 | § 10.403 | Revises the records and reports required for each approved course.
|  | Provides the Coast Guard the ability to be consistent with obligations under the STCW Convention to validate the training received by merchant mariners. See Regulation I/8 of the STCW Convention.
§ 11.303 | § 10.403 | Adds QSS requirements for an approved course.
|  | Provides consistency with the obligation under the STCW Convention for approved training to be part of a QSS. See Regulation I/8 of the STCW Convention.
§ 11.304 | § 10.404 | Revises the requirement to substitute all sea service for successful completion of an approved training program.
|  | Provides service credit for training programs, because they regularly provide more extensive training situations and broader opportunities to demonstrate proficiency.
§ 11.305 | N/A | Removes specific requirements regarding radar-observer certificates and qualifying courses.
|  | Removes requirements now unnecessary due to other proposed changes throughout this subpart.
§ 11.309 | § 10.409 | Revises section to reduce redundant language from other sections of this subpart.
|  | Provides clarification with reference to § 10.402 for collecting the necessary information.
§ 11.309 | § 10.409 | Adds QSS requirements for accepted training.
|  | Provides consistency with the STCW Convention for approved training to be part of a QSS. See Regulation I/8 of the STCW Convention.
§ 11.401 | N/A | Removes the requirement for deck officers to obtain a qualification as able seaman.
|  | Provides consistency with the STCW Convention that does not require a qualification as able seaman for seagoing deck officers.
§ 11.402 | § 11.402 | Revises tonnage limitations for an unlimited officer endorsement by setting the minimum to 2,000 GRT.
|  | Establishes a revised minimum tonnage limitation. It was previously possible to obtain a limitation of less than 2,000 GRT.
|  | This requirement eases the burden on mariners seeking removal of tonnage limitations on their licenses.
§ 11.400 et seq. | § 11.400 et seq. | Establishes a link between national and STCW deck officer endorsements.
|  | Provides better organization and clarification by linking the endorsements.
§ 11.463 | § 11.463(g) | Adds a restriction to a specific type of towing vessel and/or towing operation. Adds the requirement for towing vessel officers serving on seagoing vessels to comply with the STCW Convention.
|  | Adds provision for a towing vessel restriction such as articulated tug barge (ATB) vessels that do not routinely perform all of the tasks in the Towing Officer Assessment Record (TOAR).
|  | Clarifies the regulations and policy for officers on towing vessels.
§ 11.463 | § 11.463 | Re-opens grandfathering provision.
|  | Minimizes the burden on mariners by re-opening grandfathering provision for those who met training and service requirements prior to May 21, 2001.
§ 11.465 | § 11.465 | Adds a time limit for acceptance of TOARs.
|  | The TOAR must be completed within 5 years of application for license to be consistent with the continued proficiency requirements for the renewal of a towing endorsement.
§ 11.467 | § 11.467 | Adds the limitation to the endorsement as operator of uninspected passenger vessels to not more than 100 nautical miles offshore.
|  | Clarifies that this endorsement is limited to domestic near-coastal waters not more than 100 nautical miles offshore.
|  | This makes clear that this endorsement authorizes only domestic voyages.
§ 11.482 | § 11.482 | Clarifies limitations for assistance towing endorsements.
|  | Clarifies and simplifies the application of the assistance towing endorsement.
§ 11.491 | § 11.491 | Raises the tonnage limitations on national Offshore Supply Vessel (OSV) endorsements.
|  | Raises the tonnage limitation for officers with a 500 GRT limitation to 1,600 GRT.
§ 11.493 | § 11.493 | Revises language for Master (OSV).
|  | Eliminates unnecessary language and ensures consistency with STCW Convention and Code requirements by expanding the sea service requirements for this endorsement.
§ 11.495 | § 11.495 | Revises language for Chief Mate (OSV).
|  | Eliminates unnecessary language and ensures consistency with STCW Convention and Code requirements.
§ 11.497 | § 11.497 | Revises language for Mate (OSV).
|  | Eliminates unnecessary language and ensures consistency with STCW Convention and Code requirements.
§ 11.500 et seq. | § 11.500 et seq. | Establishes a link between national and STCW engineer officer endorsements.
|  | Simplifies the regulations by providing link to appropriate section to add engineer STCW endorsement to existing national endorsement.
§ 11.501(d) | § 11.501(d) | Adds Gas Turbine Propulsion.
|  | Clarifies propulsion mode limitations to engineer's licenses.
§ 11.518 | § 11.518 | Removes oceans restriction from chief engineer (limited) endorsement.
|  | Simplifies the regulations by removing the geographical restriction.
|  | To sail beyond the boundary line, the holder of this endorsement must hold the appropriate STCW endorsement.
§ 11.520 | § 11.520 | Removes chief engineer (limited near-coastal) endorsement.
|  | Allows all engineers who currently hold a license as chief engineer (limited near-coastal) to be upgraded to chief engineer (limited) without further sea service or testing requirements.
§ 11.522 | § 11.522 | Removes oceans restriction from assistant engineer (limited) endorsement.
|  | Simplifies the regulations by removing the geographical restriction.
|  | To sail beyond the boundary line, the holder of this endorsement must hold the appropriate STCW endorsement.
§ 11.553 | § 11.553 | Revises language for Chief Engineer (OSV).
|  | Eliminates unnecessary language and ensures consistency with STCW Convention and Code requirements by expanding the sea service requirements for this endorsement.
§ 11.555 | § 11.555 | Revises language for Assistant Engineer (OSV).
|  | Eliminates unnecessary language and ensures consistency with STCW Convention and Code requirements.
§ 11.709 | § 11.709 | Revises language for first-class pilot annual physical examinations.
|  | Integrates the first-class pilot's annual physical into the biennial medical certificate system.
§ 11.811 | § 11.337 | Moves requirements for Vessel Security Officer (VSO) to STCW officer endorsement requirements without substantive change.
|  | Groups all STCW officer endorsements together.
§ 11.821 | § 11.821 | Defines the applicability of the High-speed craft type rating.
|  | Limits the requirement to hold High-speed craft type rating to mariners operating vessels to which the High speed craft code applies.
§ 11.901 | § 11.901 | Removes the list of endorsements requiring STCW endorsement.
|  | Amends section because the list of endorsements was redundant and unnecessary in this location.
§ 11.903 | § 11.903 | Revises the list of endorsements requiring examination.
|  | Removes the endorsements that do not require an examination, based on a change in policy and progression consistent with the STCW Convention, i.e., master and second mate.
|  | Adds endorsements that require an examination, based on a change in policy and progression consistent with the STCW Convention (mate of near-coastal vessels of less than 200 GRT, master of near-coastal vessels of less than 100 GRT, and mate of Great Lakes and inland/river vessels of less than 200 GRT).
§ 11.910 | § 11.910 | Revises table 1 to 11.910.
|  | Clarifies and simplifies the regulations by reflecting the combined endorsements at the management and operational levels.
§ 11.910 | § 11.910 | Revises table 2 to 11.910.
|  | To revise the table of subjects in order to reflect combined examinations at the operational and management levels and the STCW Convention.
§§ 11.1001 to 11.1005 | N/A | Deletes requirements for roll-on/roll-off passenger ships.
|  | To reflect the 2010 STCW amendment changes to include requirements for passenger ships.
|  | This also simplifies the regulations by merging requirements from subparts J and K.
§ 11.1105 | § 11.1105 | Amends requirements for officers on passenger ships when in international voyages.
|  | Reflects the 2010 STCW amendment changes to include requirements for passenger ships.
|  | Expands the 2010 STCW amendment changes to include training in crowd management, passenger ship safety training, crisis management and human behavior, and training in passenger safety, cargo safety, and hull integrity.
|  | This also simplifies the regulations by merging requirements from subparts J and K.
N/A | § 11.301(a) | Adds alternative methods for Standard of Competence.
|  | Adds alternative methods of demonstrating competence to provide mariners with multiple options, where allowed by the STCW Convention.
N/A | § 11.301(b) | Revises Great Lakes and inland service.
|  | Grants day-for-day equivalency for Great Lakes service up to 100 percent and one- for-one up to 50 percent for inland service.
|  | This is in response to public comments requesting equivalency for Great Lakes service.
|  | Service accrued on vessels with dual tonnages.
|  | Service will be credited using the international tonnage.
|  | This ensures consistency with the STCW Convention.
N/A | § 11.301(d) | Rating service for management-level endorsements.
|  | Service as a rating is not acceptable for management-level STCW endorsements.
|  | This ensures consistency with the STCW Convention.
N/A | § 11.301(g) | Grandfathering provisions.
|  | These provisions will ease the transition for mariners with existing endorsements.
|  | Ensure consistency with the 2010 amendments to the STCW Convention and Code.
N/A | § 11.303 | Requirements for Advanced Firefighting.
|  | Adds requirements for Advanced Firefighting including the requirement to maintain the standard of competence every 5 years through a combination of drills and onboard training and experience with shore-side assessments.
|  | This ensures consistency with the STCW Convention.
N/A | § 11.304 | List of STCW deck officer endorsements.
|  | List of endorsements included in the applicable subsequent sections.
|  | This re-organizes the regulations to make them easier for the mariner to access.
N/A | § 11.323 | List of STCW engineer officer endorsements.
|  | List of endorsements included in the applicable subsequent sections.
|  | This re-organizes the regulations to make them easier for the mariner to access.
N/A | §§ 11.303 to 11.321; §§ 11.323 to 11.335 | Requirements for STCW deck and engineer officer endorsements.
|  | Includes the STCW Convention list of requirements in order to obtain the endorsement.
|  | This re-organizes the regulations to make them easier for the mariner to access.
N/A | §§ 11.305 to 11.321; §§ 11.325 to 11.335 | Sea service requirements for STCW deck and engineer officer endorsements.
|  | Includes STCW Convention language providing various alternatives for sea service.
|  | This re-organizes the regulations to make them easier for the mariner to access.
|  | This also provides for acceptance of various modes of sea service.
N/A | §§ 11.305 to 11.321; §§ 11.325 to 11.335 | Standard of competence from the STCW Code.
|  | Provides a specific requirement to meet the standard of competence from the appropriate tables in the STCW Code.
|  | This ensures consistency with the STCW Convention.
N/A | §§ 11.305 to 11.325; §§ 11.323 to 11.335 | Requirement for training.
|  | Includes STCW Convention mandatory training.
|  | Adds classroom or formal training topics required for STCW endorsements.
|  | This ensures consistency with the STCW Convention.
N/A | §§ 11.305 to 11.321; §§ 11.325 to 11.335 | Gap closing measures from the 2010 amendments.
|  | Includes training necessary to comply with the 2010 amendments.
|  | This ensures consistency with the STCW Convention.
N/A | §§ 11.305 to 11.321; §§ 11.325 to 11.335 | Exemptions from the standard of competence.
|  | Provides for exemptions from the tables of competence based on vessel type.
N/A | §§ 11.305 to 11.321; §§ 11.325 to 11.335 | Inserts tables specifying entry paths from national endorsements to STCW endorsements.
|  | Describes various entry points to obtain an equivalent STCW endorsement.
|  | This provides a method of determining which STCW endorsements are attainable for each national endorsement.
N/A | § 11.335 | Adds a new section providing the requirements for STCW officer endorsement as electro-technical officer.
|  | This ensures consistency with the STCW Convention. See regulation III/6 of the STCW Convention and Section A-III/6 of the STCW Code.
N/A | § 11.335 | Provides equivalency accepted for personnel serving in a similar capacity.
|  | Allows for the issuance of the STCW officer endorsement as electro-technical officer to personnel with equivalent credentials and sea service.
|  | This makes it easier for an applicant to obtain this endorsement.
|  | Adds classroom or formal training topics required for STCW endorsements.
|  | Clarifies grandfathering provisions for Electro-Technical Officer.
N/A | § 11.335 | Provides equivalency accepted for engineer officers.
|  | Allows for the issuance of the STCW officer endorsement as electro-technical officer to OICEW, second engineer officer and chief engineer officer.
|  | This makes it easier for an applicant to obtain this endorsement.
N/A | § 11.425 | Adds a new section for mate of ocean, self-propelled vessels of less than 200 GRT.
|  | Allows for the issuance of this national endorsement.
|  | Provides a path of progression to master of oceans self-propelled vessels of less than 200 GRT, and in accordance with Regulation II/3 of the STCW Convention.
N/A | § 11.821 | Adds high-speed craft qualifications.
|  | Establishes qualifications for operating high-speed craft.
|  | This ensures consistency with the STCW Convention.
N/A | Subpart J | Revises subpart to add new provisions on recognition of STCW officer endorsements issued by a foreign government.
|  | Establishes requirements for the recognition of STCW Certificates issued by foreign governments. Recognition is restricted to non-U.S. licensed officers and mariners with officer endorsements (except masters) found in § 15.720(b). Application for a recognition certificate via the employer.
|  | This ensures consistency with the STCW Convention.
§ 12.02-7 | § 15.401 | Moves this requirement to § 15.401.
|  | Moves section to part 15 as it is a manning requirement.
|  | This re-organizes the regulations to make them easier to understand.
|  | Adds implementation date (January 1, 2017) for medical certificates in accordance with STCW Convention.
§ 12.02-17 | § 12.205(c) | Amends provisions for re-testing.
|  | Amends waiting period after third failed examination. Deletes maximum waiting period of 30 days after initial failure.
|  | This allows applicants to re-test earlier than the current time period.
§ 12.03 | Subpart D (§ 10.400 series) | Consolidates Coast Guard-accepted and approved training into one subpart.
|  | Streamlines the regulations.
§ 12.05-1 | § 12.401 | Adds able seaman endorsements.
|  | Adds able seaman-fish, and able seaman-sail.
|  | This codifies Coast Guard policy into the regulations.
§ 12.05-1(a) and (b) | § 15.401 | Moves this requirement to § 15.401 without substantive change.
|  | Moves paragraphs to part 15 as it is a manning requirement.
|  | This re-organizes the regulations to make them easier to understand.
§ 12.05-3 | § 12.401 | Revises the general requirements to obtain an endorsement as able seaman (A/B) to include holding or qualified to hold an endorsement as lifeboatman.
|  | Clarifies the A/B requirement to allow being qualified for lifeboatman, and removes the requirement to pass the lifeboatman exam if the individual already holds the appropriate endorsement.
|  | This eases the burden on mariners seeking to obtain this endorsement.
§ 12.05-3(a)(2), 12.15-5, 12.25-20 | § 12.401 | Moves requirement to § 12.401 without substantive change.
|  | Consolidates general requirements for certification.
|  | This re-organizes the regulations to make them easier for the mariner to access.
§ 12.05-3(b) | § 12.602 | Moves requirements for Basic Safety Training (BST).
|  | Title changes from BST to Basic Training (BT).
|  | Adds requirements for BT, including the requirement to maintain the standard of competence every 5 years through a combination of drills and onboard training and experience with shore-side assessments.
|  | This ensures consistency with the STCW Convention.
§ 12.05-3(c) | § 12.605 | Adds a new section to provide the requirements for ratings forming part of a navigational watch (RFPNW).
|  | Provides requirements for RFPNW, required by the STCW Convention, in one location.
|  | This ensures consistency with the STCW Convention.
§ 12.05-7 | § 12.403 | Adds service and training requirements for new rating endorsements.
|  | Adds service and training requirements for able seaman-fish, and able seaman-sail.
|  | This codifies Coast Guard policy into the regulations.
§ 12.05-9 | § 12.405 | Adds requirement in paragraphs (a) and (c) to show that the listed demonstrations have been performed in a Coast Guard-approved course.
|  | This consolidates existing policy into the regulations.
§ 12.10 | § 12.407 | Moves this requirement to § 12.407 from § 12.10.
|  | Moves requirement to STCW section.
|  | This re-organizes the regulations to make them easier to understand without substantive change.
§ 12.10-1 | § 15.401 | Moves this requirement to § 15.401 without substantive change.
|  | Moves section to part 15 as it is a manning requirement.
|  | This re-organizes the regulations to make them easier to understand.
§ 12.10-3 | § 12.609 | Moves requirements to qualify for an STCW endorsement as a rating forming part of an engineering watch (RFPEW) without substantive change.
|  | Moves requirement to STCW section.
|  | This re-organizes the regulations to make them easier to understand.
§ 12.10-7 | § 15.404 | Moves this requirement to § 15.404 without substantive change.
|  | Moves section to part 15 as it is a manning requirement.
|  | This re-organizes the regulations to make them easier to understand.
§ 12.10-9 | § 12.617 | Revises the requirements for certificates of proficiency in fast rescue boats, adding the specific areas of competence the STCW Convention requires.
|  | Provides additional information clarifying the STCW Convention requirements to obtain an endorsement for proficiency in fast rescue boats.
|  | This ensures consistency with the STCW Convention.
§ 12.13-3 | § 12.619 | Revises the requirements for certificates of proficiency for medical first-aid provider, adding the specific areas of competence the STCW Convention requires.
|  | Provides additional information clarifying the STCW Convention requirements to obtain an endorsement for medical first-aid provider.
|  | This ensures consistency with the STCW Convention.
§ 12.13-3 | § 12.619 | Revises this basis-of-documentary-evidence section to include those persons who have alternative qualifications.
|  | Adds the additional process to meet this requirement through the possession of a professional license or alternative professional qualification.
|  | This opens up additional options for mariners to utilize in obtaining this endorsement.
§ 12.13-3 | § 12.621 | Revises the requirements for certificates of proficiency for person-in-charge of medical care, adding the specific areas of competence the STCW Convention requires.
|  | Provides additional information clarifying the STCW Convention requirements to obtain an endorsement for person-in-charge of medical care.
|  | This ensures consistency with the STCW Convention.
§ 12.13-3 | § 12.621 | Revises this basis-of-documentary-evidence section to include those persons who have alternative qualifications.
|  | Adds the additional process to meet this requirement through the possession of a professional license or alternative professional qualification.
|  | This opens up additional options for mariners to utilize in obtaining this endorsement.
§ 12.15-1 | § 15.401 | Moves this requirement to § 15.401 without substantive change.
|  | Moves section to part 15 as it is a manning requirement.
|  | This re-organizes the regulations to make them easier to understand.
§ 12.15-3(e) | § 12.501 | Revises the RFPEW requirement for Qualified Member of the Engineering Department (QMED).
|  | Removes the specific requirement for the STCW endorsement as RFPEW associated with QMED and moves it to its own section.
|  | This re-organizes the regulations to make them easier to understand.
§ 12.15-3(e) | § 12.609 | Adds a new section to provide the requirements for RFPEW.
|  | Provides requirements for RFPEW, required by the STCW Convention, in one location.
|  | This re-organizes the regulations to make them easier to understand.
§ 12.15-7 | § 12.501 | Revises the requirement to provide a more general requirement that a QMED endorsement applicant must complete an appropriate training program.
|  | There is no need to provide specific information regarding the training programs and courses; this information is included in the course approval letters provided to each training provider.
|  | This makes the regulations easier to follow.
§ 12.15-9 | § 12.501 | Reduces the number of QMED ratings from 10 to 5.
|  | This simplifies the regulations by removing several endorsements that are no longer used and combines several others.
§ 12.15-11 | § 12.505 | QMED rating endorsement list.
|  | Revises the list of QMED rating endorsements to make the regulations easier to follow.
§ 12.15-13 | N/A | Deletes deck engine mechanic rating as an MMC endorsement.
|  | Deletes this rating for new applicants; however, companies that wish to continue to employ mariners in this rating may do so.
|  | This simplifies the regulations by removing several endorsements that are rarely used and combines several others.
§ 12.15-15 | N/A | Deletes engineman rating as an MMC endorsement.
|  | Deletes this rating for new applicants; however, companies that wish to continue to employ mariners in this rating may do so.
|  | This simplifies the regulations by removing several endorsements that are rarely used and combines several others.
§ 12.25-1 | § 12.701 | Changes section title from “Credentials required” to “Credentials required for entry-level and miscellaneous ratings”.
|  | Revises for clarity; no substantive change.
§ 12.25-10 | § 12.703 | Moves general requirements.
|  | Consolidates general requirements for entry-level ratings.
|  | This makes the regulations easier to follow.
§ 12.25-45 | § 15.818 | Moves section for GMDSS at-sea maintainer.
|  | Requires that anyone serving as at-sea maintainers on vessels equipped with GMDSS must provide documentary evidence of competency.
|  | This re-organizes the regulations to make them easier to access and follow.
§ 12.25-45 | § 12.623 | Revises section to provide more specific information regarding the qualification requirements for an endorsement as GMDSS at-sea maintainer.
|  | Specifies the methods of qualification allowed to obtain the endorsement.
|  | This ensures consistency with the STCW Convention and makes the regulations easier to follow.
§ 12.30 | N/A | Deletes requirements for ro-ro passenger ships.
|  | Reflects the 2010 STCW amendment changes to include requirements for passenger ships, including ro-ro passenger ships.
§ 12.35 | § 12.905 | Amends requirements for ratings on passenger ships when in international voyages.
|  | Reflects the 2010 amendment changes to include requirements for passenger ships.
|  | Merges requirements from subparts 12.30 and 12.35.
|  | This ensures consistency with the STCW Convention.
N/A | § 12.201 | Adds section with general requirements for national and STCW rating endorsements.
|  | Consolidates all requirements applicable to all rating endorsements contained in this part.
|  | This makes the regulations easier to follow.
N/A | § 12.203 | Adds section with documentation of sea service for ratings.
|  | Provides information on where to find the requirements for documentation and proof of sea service for ratings.
|  | This makes the regulations easier to follow.
N/A | § 12.409 | Adds new section with requirements for lifeboatman-limited endorsement.
|  | This endorsement is for mariners who serve on vessels without installed lifeboats.
|  | Mariners serving on vessels without lifeboats could not qualify for the lifeboatman endorsement under current regulations.
N/A | § 12.601 | Adds section with general requirements applicable to STCW rating endorsements.
|  | Adds provisions to provide mariners the opportunity to use the new STCW training requirements when applying for credentials.
|  | Consolidates all requirements applicable to STCW endorsements in this subpart. Establishes list of STCW rating endorsements.
|  | Establishes that the mariner with an STCW endorsement must also hold the equivalent national endorsement.
|  | This makes the regulations easier to follow.
N/A | § 12.601 | Adds section with standard of competence.
|  | Adds alternative methods of demonstrating competence.
|  | This provides mariners with multiple options, where allowed by the STCW Convention.
N/A | § 12.601 | Adds section with grandfathering provisions.
|  | Adds provisions for the implementation of the amendments to the requirements, including the 2010 amendments to the STCW Convention and Code.
|  | This eases the burden on mariners with existing endorsements.
N/A | §§ 12.603-12.609 | Insert tables specifying entry paths from national endorsements to STCW endorsements.
|  | Describes various entry points to obtain an equivalent STCW endorsement.
|  | This provides a method of determining which STCW endorsements are attainable for each national endorsement.
N/A | § 12.603 | Adds new section with requirements for STCW rating endorsement as able seafarer-deck.
|  | Includes the STCW Convention requirements in order to obtain the endorsement.
|  | Includes grandfathering provisions.
|  | This ensures consistency with the STCW Convention.
N/A | § 12.605 | Adds new section providing the requirements for RFPNW.
|  | Provides specific requirements for this STCW endorsement.
|  | This ensures consistency with the STCW Convention.
N/A | § 12.607 | Adds a new section with requirements for STCW endorsement as able seafarer-engine.
|  | Includes the STCW Convention requirements in order to obtain the endorsement.
|  | Includes grandfathering provisions.
|  | This ensures consistency with the STCW Convention.
N/A | § 12.609 | Adds new section providing the requirements for RFPEW.
|  | Provides specific requirements for this STCW endorsement.
|  | This ensures consistency with the STCW Convention.
N/A | § 12.609(d) | Adds a new section to provide the requirements for RFPEW.
|  | Limits RFPEW endorsement to propulsion mode if all STCW competencies are not completed.
N/A | § 12.611 | Adds a new section providing the requirements for STCW officer endorsement as electro-technical rating.
|  | Includes the STCW Convention requirements in order to obtain the endorsement. See regulation III/7 of the STCW Convention and Section A-III/7 of the STCW Code.
|  | This ensures consistency with the STCW Convention.
|  | Adds classroom or formal training topics required for STCW endorsements.
|  | Clarifies grandfathering provisions for Electro-Technical Rating.
N/A | § 12.611 | Equivalent arrangements for personnel serving in a similar capacity.
|  | Allows for the issuance of the STCW endorsement as electro-technical rating to personnel with equivalent credentials and sea service.
|  | This provides applicants with multiple paths to obtain this endorsement.
N/A | § 12.613 | Adds new section with requirements for Proficiency in survival craft and rescue boats other than fast rescue boats (PSC).
|  | Adds requirements to maintain the standard of competence every 5 years through a combination of drills and onboard training and experience with shore-side assessments.
|  | This ensures consistency with the STCW Convention.
N/A | § 12.615 | Adds new section to provide a new endorsement for proficiency in survival craft and rescue boats other than lifeboats and fast rescue boats (PSC-limited).
|  | Adds new section because there are individuals assigned to vessels without lifeboats who do not need to meet the full requirements for proficiency in survival craft and rescue boats other than fast rescue boats (PSC), but must still meet the proficiency in the survival craft installed on their vessels.
|  | This ensures consistency with the STCW Convention.
N/A | § 12.615 | Adds new section with requirements for Proficiency in survival craft and rescue boats other than lifeboats and fast rescue boats (PSC).
|  | Adds requirements to maintain the standard of competence every 5 years through a combination of drills and onboard training and experience with shore-side assessments.
|  | This ensures consistency with the STCW Convention.
N/A | § 12.617 | Adds new section with requirements for Proficiency in fast rescue boats.
|  | Adds requirements to maintain the standard of competence every 5 years through a combination of drills and onboard training and experience with shore-side assessments.
|  | This ensures consistency with the STCW Convention.
N/A | § 12.625 | Adds new section with requirements to qualify for an STCW endorsement as vessel personnel with designated security duties.
|  | Adds requirement for certification of personnel with security duties (except VSOs) in accordance with the 2010 amendments.
|  | This ensures consistency with the STCW Convention.
|  | Adds the STCW transitional provisions for seafarers with designated security duties that allow existing mariners who took a course and/or can document service on board vessels to obtain an endorsement.
N/A | § 12.627 | Adds new section with requirements to qualify for an STCW endorsement in security awareness.
|  | Adds requirement for all other personnel working onboard the vessels, in accordance with the 2010 amendments.
|  | This ensures consistency with the STCW Convention.
|  | Adds the STCW transitional provisions for security awareness that allows existing mariners who took a course and/or can document service onboard vessels to obtain an endorsement.
§ 13.120 | § 13.120 | Amends the requirements for transfers for the renewal of tankerman endorsements.
|  | Also adds requirements for STCW certification valid for tank vessels.
|  | Clarifies the types of transfers required according to the type of endorsement being renewed.
§ 13.121 | § 13.121 | Includes tables of topics for each tanker course.
|  | Clarifies and updates list of subjects that the tanker courses must cover.
§ 13.127 | § 13.127 | Revises service requirements for tankerman-engineer.
|  | Clarifies information that must be included in the service letter for tankerman-engineer.
§ 13.127 | § 13.127 | Amends sea service credit for service onboard ATBs on a case-by-case basis.
§ 13.201 | § 13.121 | Moves the cargo course and firefighting course requirements of this section to § 13.121.
|  | Clarifies existing requirements and makes the regulations easier to read.
§ 13.301 | § 13.121 | Moves the cargo course and firefighting course requirements of this section to § 13.121.
|  | Clarifies existing requirements and makes the regulations easier to read.
§ 13.307, § 13.309 | § 13.121 | Moves the firefighting and cargo course requirements of this section to § 13.121.
|  | Provides firefighting and cargo training course subjects in the appropriate table.
§ 13.401 | § 13.401 | Amends Tankerman-Assistant requirements.
|  | Adds an examination requirement for mariners who qualify for the endorsement on sea service alone.
|  | This ensures that an applicant has the necessary knowledge to obtain this endorsement.
§ 13.407, § 13.409 | § 13.121 | Moves the firefighting and cargo course requirements of this section to § 13.121.
|  | Provides firefighting and cargo training course subjects in the appropriate table.
|  | This makes the regulations easier to follow.
§ 13.501 | § 13.121 | Moves the cargo course and firefighting course requirements of this section to § 13.121.
|  | Clarifies existing requirements and makes the regulations easier to read.
N/A | § 13.601 | Adds new section with alternative methods of demonstrating competence to provide mariners with multiple options, where allowed by the STCW Convention.
|  | This opens additional paths of demonstrating competence.
N/A | § 13.603 | Adds requirements for an STCW endorsement as advanced oil tanker cargo operations.
|  | Allows mariners serving on tank barges as tankerman-PIC (barge) to qualify for this STCW endorsement with a limitation to non-self-propelled vessels.
|  | Allows engineer officers serving as tankerman engineer to qualify for this STCW endorsement for certain tanker operations with a limitation to maintenance and repair of cargo equipment.
|  | Adds the effective date for new mariners to obtain original STCW tanker endorsements of March 24, 2014, in accordance with the provisions of the 2010 amendments.
|  | This ensures consistency with the STCW Convention.
N/A | § 13.605 | Adds requirements for an STCW endorsement as advanced chemical tanker cargo operations.
|  | Allows mariners serving on tank barges as tankerman-PIC (barge) to qualify for this STCW endorsement with a limitation to non-self-propelled vessels.
|  | Allows engineer officers serving as tankerman engineer to qualify for this STCW endorsement for certain tanker operations with a limitation to maintenance and repair of cargo equipment.
|  | Adds the effective date for new mariners to obtain original STCW tanker endorsements of March 24, 2014, in accordance with the provisions of the 2010 amendments.
|  | This ensures consistency with the STCW Convention.
N/A | § 13.607 | Adds requirements for an STCW endorsement as advanced liquefied gas tanker cargo operations.
|  | Allows mariners serving on tank barges as tankerman-PIC (barge) to qualify for this STCW endorsement with a limitation to non-self-propelled vessels.
|  | Allows engineer officers serving as tankerman engineer to qualify for this STCW endorsement for certain tanker operations with a limitation to maintenance and repair of cargo equipment.
|  | Adds the effective date for new mariners to obtain original STCW tanker endorsements of March 24, 2014, in accordance with the provisions of the 2010 amendments.
|  | This ensures consistency with the STCW Convention.
N/A | § 13.609 | Adds requirements for an STCW endorsement as basic oil and chemical tanker cargo operations.
|  | Adds the effective date for new mariners to obtain original STCW tanker endorsements of March 24, 2014, in accordance with the provisions of the 2010 amendments.
|  | This ensures consistency with the STCW Convention.
N/A | § 13.611 | Adds section to include requirements for an STCW endorsement as basic liquefied gas tanker cargo operations.
|  | Adds the effective date for new mariners to obtain original STCW tanker endorsements of March 24, 2014, in accordance with the provisions of the 2010 amendments.
§ 14.309 | § 14.309 | Expands options for payment of wages upon discharge of a mariner.
|  | In order to reflect current practices for electronic fund transfer for payment of wages, the Coast Guard will allow companies to provide, instead of payment, a statement of wages due and when wages will be deposited.
§ 15.103 | § 15.105 | Adds clarification that a safe manning certificate may be issued to uninspected vessels on an international voyage.
|  | Provides uninspected vessels on international voyages the necessary information they will need to provide port state control Officers in foreign ports.
|  | Adds pilot vessels on pilotage duty to the list of vessels not subject to STCW.
|  | This ensures consistency with the STCW Convention.
§ 15.515 | § 15.515 | Clarifies the requirement regarding passenger vessels.
|  | Provides clarification to assist in understanding manning requirements because existing language is confusing.
§ 15.605 | § 15.605 | Adds the requirement that individuals serving on uninspected passenger vessels (UPVs) on international voyages must comply with the STCW Convention.
|  | UPVs operating on near-coastal domestic voyages are held to be substantially in compliance with the STCW Convention. However, the STCW Convention requires all individuals to be in compliance with the STCW Convention when on international voyages.
|  | This ensures consistency with the STCW Convention.
|  | This also makes it clear that operators on UPVs on international voyages must obtain the appropriate STCW endorsement.
§§ 15.805, 15.810, 15.820, 15.825, 15.840, 15.845, 15.850, and 15.860 | §§ 15.805, 15.810, 15.820, 15.825, 15.840, 15.845, 15.850, and 15.860 | Adds provisions requiring mariners who serve on vessels subject to STCW to also hold an STCW endorsement appropriate to the tonnage/propulsion power for the vessel upon which he or she is operating.
§ 15.805 | § 15.805 | Provides for all UPVs on international voyages to be under the control of an individual holding a license or endorsement as master.
|  | Provides consistency with the STCW Convention, which requires that all vessels on an international voyage, including UPVs, must be operated by an individual who complies with the STCW Convention.
§ 15.845 | § 15.845 | Adds manning provision for new lifeboatman-limited rating.
|  | Provides an alternative for those vessels without lifeboats and sets the provisions to use the lifeboatman-limited endorsement instead of the lifeboatman endorsement.
§ 15.915 | § 15.915 | Removes chief engineer (limited near-coastal) endorsement.
|  | Allows all engineers who currently hold a license as chief engineer (limited near-coastal) to be upgraded to chief engineer (limited) 1,600 GRT without further sea service or testing requirements.
§ 15.1101 | § 15.1101 | Moves definitions of this section to § 10.107, and this section now provides a list of vessels exempt from having to comply with the STCW Convention. Also provides for certificates for a single international voyage for persons serving on vessels exempted under this section.
|  | Complies with STCW requirements and makes the regulations easier to read.
§ 15.1103 | § 15.1103 | Adds requirement for medical certificate as a condition of employment.
|  | In addition, provides an extension, not to exceed 90 days, if the certificate expires during a voyage.
|  | All mariners must have a medical certificate. The 2010 amendments to the STCW Convention require a 2-year medical certificate for all seafarers holding STCW endorsements.
|  | Adds provisions requiring mariners who serve as able seafarer-deck or able seafarer-engine on vessels subject to STCW to also hold an STCW endorsement appropriate to the tonnage/propulsion power for the vessel upon which he or she is operating.
|  | Adds implementation date (January 1, 2017) for medical certificates and for endorsements as able seafarer-deck and able seafarer-engine in accordance with the STCW Convention.
|  | This ensures consistency with the STCW Convention.
§ 15.1111 | § 15.1111 | Revises hours of work and rest periods for mariners.
|  | The following changes are included as part of the 2010 amendments: (1) Expanded the application for hours of rest periods for mariners; (2) amended the weekly rest hour requirements from 70 hours to 77 hours; (3) recording of hours of rest and (4) included flexibility from the rest hour requirements in exceptional circumstances.
|  | Revises provision regarding records of daily hours of rest for mariners so that mariners must receive a copy of the records pertaining to them.
|  | This ensures consistency with the STCW Convention.
§ 15.1113 | § 15.1113 | Adds requirements for persons to hold an STCW endorsement for personnel with security duties.
|  | This requirement has already been implemented with regards to VSOs.
|  | This ensures consistency with the STCW Convention.
§ 15.1113 | § 15.1113 | Adds requirements for persons to hold an STCW endorsement in security awareness.
|  | Adds requirement for all other personnel working onboard the vessels to hold an STCW endorsement in security awareness, in accordance with the 2010 amendments.
|  | This ensures consistency with the STCW Convention.
§ 15.1113 | § 15.1113 | Adds requirements for contractors to receive security familiarization and that records be maintained onboard.
|  | This ensures consistency with the STCW Convention.
§ 15.1113 | § 15.1113 | Adds implementation date for security personnel to effective date of final rule.
|  | Clarifies the progression for security-related training from “security awareness” as the lowest level of training, to “vessel personnel with designated security duties” as the next-higher level of training, to “vessel security officer” as the highest level of training.
N/A | § 15.403 | Adds new section to establish when credentials for ratings are required.
|  | Requires mariners serving on vessels over 100 GRT to produce the appropriate credential for the position sought.
|  | This ensures consistency with the U.S. Code.
N/A | § 15.404 | Adds new section to provide the various endorsements required for service.
|  | Explains specific endorsements required and covered under these manning requirements.
|  | This makes the regulations easier to follow.
N/A | § 15.865 | Adds manning provision for qualified member of the engine department (QMED).
|  | Explains that QMEDs are required and covered under these manning requirements
|  | This ensures consistency with the STCW Convention.

The following table provides a crosswalk showing changes from the SNPRM to this final rule.

Cite | Summary of changes
Subchapter B | Tonnage limitation format for endorsements has been returned to the current format. The tonnage limit format that was proposed in the SNPRM created limitations that were not consistent with vessel documented tonnages.
Subchapter B | Changes domestic to national when used to describe endorsements.
| The use of “domestic” to describe endorsements that are restricted to United States waters inside the STCW boundary line has been replaced by “national” for greater clarity when discussing the domestic endorsements of other countries.
| An MMC endorsement will not use either the word domestic or national.
§ 10.107 | Adds the definition of able-seafarer deck.
| Provides consistency with the STCW Convention.
§ 10.107 | Adds the definition of able-seafarer engine.
| Provides consistency with the STCW Convention.
§ 10.107 | Removes the definition of apprentice mate (steersman) of towing vessels (utility).
| Endorsement has been removed from regulations.
§ 10.107 | Adds definition of chemical tanker.
| Adds definition for the differentiation of dangerous liquids into two endorsements under STCW.
| Clarifies the type of vessel on which mariners must serve to qualify for an STCW endorsement for advanced chemical tanker cargo operations.
§ 10.107 | Adds the definition of communicable disease.
| Clarifies what a physician should look for when conducting medical examinations.
§ 10.107 | Revises definition of day.
| Adds clarification on cadet service on a maritime training ship.
§ 10.107 | Revises definition of disabled vessel.
| The definition was revised to provide greater clarity regarding the scope of the assistance towing endorsement.
§ 10.107 | Changes definition of domestic officer endorsement to national officer endorsement.
| The use of “domestic” to describe endorsements that are restricted to United States waters inside the STCW boundary line has been replaced by “national” for greater clarity when discussing the domestic endorsements of other countries.
| This change has been made throughout subchapter B.
§ 10.107 | Changes definition of domestic rating endorsement to national rating endorsement.
| The use of “domestic” to describe endorsements that are restricted to United States waters inside the STCW boundary line has been replaced by “national” for greater clarity when discussing the domestic endorsements of other countries.
| This change has been made throughout subchapter B.
§ 10.107 | Revises definition of domestic voyage.
| The definition was revised to include voyages beginning and ending at a U.S. port and passing through the waters of another country if the U.S. has entered into a treaty or agreement with that country.
§ 10.107 | Adds the definition of electro-technical officer.
| Provides consistency with the STCW Convention.
§ 10.107 | Adds the definition of electro-technical rating.
| Provides consistency with the STCW Convention.
§ 10.107 | Revises definition of Endorsement.
| The definition was revised to clarify that all endorsements are listed in § 10.109.
§ 10.107 | Adds the definition of high-speed craft type rating.
| Adds a definition and requirement for a high-speed craft type rating to be compliant with the high-speed craft code. This puts into regulations existing processes that had previously been completed through Navigation Vessel Inspection Circular and policy letter.
§ 10.107 | Adds the definition of International Labor Organization.
| This will provide clarification regarding information incorporated by reference.
§ 10.107 | Adds the definition of International Safety Management Code.
| This term is referenced in part 10.
§ 10.107 | Revises definition of inland waters.
| The definition was revised to allow sea service credit towards STCW on certain inland vessels.
§ 10.107 | Removes the definition of limited.
| Definition is not needed because it has the same meaning as in standard English language usage.
§ 10.107 | Adds definition of liquefied gas tanker.
| Adds definition for the change in STCW tanker cargo operations endorsements.
§ 10.107 | Adds definition of medical certificate.
| To describe a new document that serves as proof that a mariner meets the required medical and physical standards.
§ 10.107 | Revises definition for near-coastal.
| Includes near-coastal waters identified by another country's Administration when entering into a treaty or an agreement with that country.
§ 10.107 | Adds definition of oil tanker.
| Adds definition for the differentiation of dangerous liquids into two STCW endorsements.
§ 10.107 | Revises definition for qualified assessor.
| Clarifies this person's role and professional development.
§ 10.107 | Removes the definition of restricted.
| Definition is not needed because it has the same meaning as in standard English language usage.
§ 10.107 | Revises definition of seagoing vessel.
| To ensure the definition captures all vessels to which STCW Convention and Code apply.
§ 10.107 | Revises the definition of self-propelled.
| Reverts back to existing language regarding self-propelled vessels that are fitted with both sails and mechanical propulsion.
§ 10.107 | Removes definition for self-propelled tank vessel.
| Eliminates redundancy with the definition of tankship.
§ 10.107 | Revises the definition of ship.
| To provide clarity regarding the types of propulsion modes for these vessels.
§ 10.107 | Adds the definition of unlimited.
| Clarifies the annotation on an MMC authorizing service on vessels of any tonnage or any propulsion power.
§ 10.205 | Revises postdating.
| Clarifies and simplifies the postdating process. Postdating will occur unless the applicant specifies otherwise.
§§ 10.209, 10.480 | Electronic submission of required documents.
| Allows course completion certificates, including radar observer, to be submitted electronically.
§ 10.219 | Removes proposed amendments in the SNPRM that limited user fee payment options to credit card or electronic payment only. This change gives mariners the ability to pay by cash, by attaching a check or money order to their application package, or by electronic means.
§ 10.301 | Revises medical certificate validity period.
| Adds issuance of the new medical certificates with the following period of validity: 2 years for a mariner who is serving as a first-class pilot, or acting as a pilot under § 15.812.
§ 10.232 | Revises to include sea service credit for cadets serving onboard academy training ships where sea service is part of an approved training program.
| Will grant 1½ days of sea service credit for each day a cadet serves aboard an academy training ship where sea service is part of an approved training program.
| Expands list of items applicants must provide as documentary evidence of sea service.
§§ 10.232, 11.401, 11.404, 11.405, and 11.406 | Expands provisions granting sea service credit towards STCW endorsements to include those mariners who hold a national endorsement and provide proof of service on vessels to which STCW applies, whether on inland or coastwise service.
| Service on vessels to which STCW applies, whether inland or coastwise, will be credited on a day-for-day basis.
§ 10.402 | Revises course approvals to implement the International Maritime Organization model course format and terminology.
§ 10.405 | Adds a provision requiring qualified assessors who renew their qualifications to provide evidence of experience, training, or instruction within the past 5 years.
| Ensures that qualified assessors are trained in proper assessment techniques and have completed an “assessor training” course as part of an accepted training program.
§ 10.407 | Revises the requirements for the request for program approval.
§ 10.410 | Adds a new paragraph (g) to include International Safety Management, which is an industry-wide system, as alternate means of compliance for the Quality Standards System (QSS) provision.
| Adds implementation date (January 1, 2017) for QSS requirements in accordance with the STCW Convention.
§ 11.211 | Revises to accept certain towing vessel service, including service in inland tug-barge combinations such as articulated tug barges (ATBs) and integrated tug barges (ITBs), based on the aggregate tonnage of the tug and barge(s) when greater than 1,600 GRT.
| Grants credit for service on towing vessels using the aggregate tonnage on a 1-for-2 basis (2 days experience equals 1 day of creditable service) for up to 50 percent of the total service on vessels of 1,600 GRT or more.
§ 11.301 | Revises to provide mariners the opportunity to use the new STCW training requirements when applying for credentials.
| Provides that persons who hold or have held an STCW operational-level endorsement issued prior to the effective date of this final rule, and are seeking to upgrade to an STCW management-level endorsement, will not be required to do the assessments for STCW operational-level endorsements.
§ 11.301 | Separates Basic Safety Training and Advanced Firefighting requirements from the general section (§ 11.301) into new sections (§§ 11.302 and 11.303, respectively).
| Title changes from Basic Safety training (BST) to Basic Training (BT).
§ 11.304 | Moves the list of STCW deck officer endorsements from § 11.303.
§§ 11.305 to 11.321; §§ 11.325 to 11.335 | Increased the number of classroom or formal training topics required for STCW endorsements.
§ 11.335 | Adds to the number of classroom or formal training topics required for STCW endorsements.
| Clarifies grandfathering provisions for Electro-Technical Officer.
§ 11.337 | Moves requirements for Vessel Security Officer from § 11.811 to STCW officer endorsement requirements.
| Groups all STCW officer endorsements together.
§ 11.425 | Adds endorsement for mate of ocean self-propelled vessels of less than 200 GRT.
| Allows for the issuance of this national endorsement.
| Provides a path of progression to master of oceans self-propelled vessels of less than 200 GRT, and in accordance with Regulation II/3 of the STCW Convention.
§ 11.465 | Removes SNPRM proposal for endorsement for master of towing vessels (harbor assist), and removes endorsement for master of towing vessel (utility).
| Coast Guard is currently considering moving these issues to another rulemaking or seeking additional input from the Towing Safety Advisory Committee (TSAC), which would give the public additional time to comment on this matter.
§ 11.466 | Removes SNPRM proposal for endorsement as apprentice mate (steersman) of towing vessels (utility).
| Coast Guard is currently considering moving this issue to another rulemaking or seeking additional input from the TSAC, which would give the public additional time to comment on this matter.
§ 11.491 | Raises the tonnage limitations on national Offshore Supply Vessel endorsements.
| Raises the tonnage limitation for officers with a 500 GRT limitation to 1,600 GRT.
§ 11.493 | Revises language for Master (OSV).
| Expands the sea service requirements for this endorsement.
§ 11.495 | Revises language for Chief Mate (OSV).
| Expands the sea service requirements for this endorsement.
§ 11.497 | Revises language for Mate (OSV).
| Eliminates unnecessary language and ensures consistency with STCW Convention and Code requirements.
| Expands the sea service requirements for this endorsement.
§ 11.518 | Removes oceans restriction from chief engineer (limited) endorsement.
| Simplifies the regulations by removing the geographical restriction.
| To sail beyond the boundary line, the holder of this endorsement must hold the appropriate STCW endorsement.
§ 11.520 | Removes chief engineer (limited near-coastal) endorsement.
| Allows all engineers who currently hold a license as chief engineer (limited near-coastal) to be upgraded to chief engineer (limited) without further sea service or testing requirements.
§ 11.522 | Removes oceans restriction from assistant engineer (limited) endorsement.
| Simplifies the regulations by removing the geographical restriction.
| To sail beyond the boundary line, the holder of this endorsement must hold the appropriate STCW endorsement.
§ 11.553 | Revises language for Chief Engineer (OSV).
| Expands the sea service requirements for this endorsement.
§ 11.555 | Revises language for Assistant Engineer (OSV).
| Expands the sea service requirements for this endorsement.
§ 11.709 | Revises language for first-class pilot annual physical examinations.
| Integrates the first-class pilot's annual physical into the biennial medical certificate system.
§ 11.821 | Defines the applicability of the High-speed craft type rating.
| Limits the requirement to hold High-speed craft type rating to mariners operating vessels to which the High-speed craft code applies.
§ 11.903 | Revises the list of endorsements requiring examination.
| Adds endorsements (that were removed in the SNPRM) that require an examination, based on a change in policy and progression consistent with the STCW Convention (offshore installation manager, barge supervisor, ballast control operator, chief engineer (MODU), assistant engineer (MODU).
| Adds endorsements that require an examination, based on a change in policy and progression consistent with the STCW Convention (mate of near-coastal vessels of less than 200 GRT, master of near-coastal vessels of less than 100 GRT, and mate of Great Lakes and inland/river vessels of less than 200 GRT).
§ 11.1105 | Expands the 2010 STCW amendment changes to include training in crowd management, passenger ship safety training, crisis management and human behavior, and training in passenger safety, cargo safety, and hull integrity.
§ 12.601 | Separates Basic Safety Training from the general section (§ 12.601) into a new section (§ 12.602).
| Title changes from Basic Safety training to Basic Training.
§ 12.601 | Establishes that the mariner with an STCW endorsement must also hold the equivalent national endorsement.
§ 12.601 | Revises to provide mariners the opportunity to use the new STCW training requirements when applying for credentials.
§ 12.603 | Includes grandfathering provisions that will be accepted for STCW rating endorsement as able seafarer-deck.
| This ensures consistency with the STCW Convention.
§ 12.607 | Includes grandfathering provisions that will be accepted for STCW rating endorsement as able seafarer-engine.
| Includes all domestic Qualified Member of the Engine Department endorsements that will be eligible for the STCW endorsement as able seafarer-engine.
| Provides an alternate path with a reduced sea service requirement to the able seafarer-engine endorsement that will facilitate the transition from domestic to STCW endorsements.
| This ensures consistency with the STCW Convention.
§ 12.611 | Adds to the number of classroom or formal training topics required for STCW endorsements.
| Clarifies grandfathering provisions for Electro-Technical Rating.
§ 12.625 | Revises to include the STCW transitional provisions for seafarers with designated security duties that allow existing mariners who took a course and/or can document service on board vessels to obtain an endorsement.
§ 12.627 | Revises to include the STCW transitional provisions for security awareness that allows existing mariners who took a course and/or can document service onboard vessels to obtain an endorsement.
§ 13.127 | Amends sea service credit for service onboard ATBs on a case-by-case basis.
§ 13.603 | Revises to include only requirements for an STCW endorsement as advanced oil tanker cargo operations. This endorsement was combined with advanced chemical tanker cargo operations in the SNPRM and is now located in § 13.605.
| Allows mariners serving on tank barges as tankerman-PIC (barge) to qualify for this STCW endorsement with a limitation to non-self-propelled vessels.
| Allows engineer officers serving as tankerman engineer to qualify for this STCW endorsement for certain tanker operations with a limitation to maintenance and repair of cargo equipment.
| Revises the effective date for new mariners to obtain original STCW tanker endorsements from January 1, 2017, to March 24, 2014, in accordance with the provisions of the 2010 amendments.
§ 13.605 | Revises to include only requirements for an STCW endorsement as advanced chemical tanker cargo operations.
| Allows mariners serving on tank barges as tankerman-PIC (barge) to qualify for this STCW endorsement with a limitation to non-self-propelled vessels.
| Allows engineer officers serving as tankerman engineer to qualify for this STCW endorsement for certain tanker operations with a limitation to maintenance and repair of cargo equipment.
| Revises the effective date for new mariners to obtain original STCW tanker endorsements from January 1, 2017, to March 24, 2014, in accordance with the provisions of the 2010 amendments.
§ 13.607 | Revises to include only requirements for an STCW endorsement as advanced liquefied gas tanker cargo operations.
| Allows mariners serving on tank barges as tankerman-PIC (barge) to qualify for this STCW endorsement with a limitation to non-self-propelled vessels.
| Allows engineer officers serving as tankerman engineer to qualify for this STCW endorsement for certain tanker operations with a limitation to maintenance and repair of cargo equipment.
| Revises the effective date for new mariners to obtain original STCW tanker endorsements from January 1, 2017, to March 24, 2014, in accordance with the provisions of the 2010 amendments.
§ 13.609 | Revises to include only requirements for an STCW endorsement as basic oil and chemical tanker cargo operations.
| Revises the effective date for new mariners to obtain original STCW tanker endorsements from January 1, 2017, to March 24, 2014, in accordance with the provisions of the 2010 amendments.
§ 13.611 | Adds section to include requirements for an STCW endorsement as basic liquefied gas tanker cargo operations.
| Adds the effective date for new mariners to obtain original STCW tanker endorsements from January 1, 2017, to March 24, 2014, in accordance with the provisions of the 2010 amendments.
§§ 15.105, 15.403, 15.1101 | Adds pilot vessels on pilotage duty to the list of vessels not subject to STCW. Pilots are exempt from STCW requirements.
§ 15.401 | Adds implementation date (January 1, 2017) for medical certificates in accordance with STCW Convention.
§§ 15.805, 15.810, 15.820, 15.825, 15.840, 15.845, 15.850, and 15.860 | Includes provisions requiring mariners who serve on vessels subject to STCW to also hold an STCW endorsement appropriate to the tonnage/propulsion power for the vessel upon which he or she is operating.
§ 15.865 | Adds manning provision for qualified member of the engine department (QMED).
| Explains that QMEDs are required and covered under these manning requirements
| This ensures consistency with the STCW Convention.
§ 15.915 | Removes chief engineer (limited near-coastal) endorsement.
| Allows all engineers who currently hold a license as chief engineer (limited near-coastal) to be upgraded to chief engineer (limited) 1,600 GRT without further sea service or testing requirements.
§ 15.1103 | Includes provisions requiring mariners who serve as able seafarer-deck or able seafarer-engine on vessels subject to STCW to also hold an STCW endorsement appropriate to the tonnage/propulsion power for the vessel upon which he or she is operating.
| Adds implementation date (January 1, 2017) for medical certificates and for endorsements as able seafarer-deck and able seafarer-engine in accordance with the STCW Convention.
§ 15.1111 | Revises provision regarding records of daily hours of rest for mariners so that mariners must receive a copy of the records pertaining to them.
§ 15.1113 | Adds requirements for contractors to receive security familiarization and that records be maintained onboard.
| Revises implementation date for security personnel to the effective date of this final rule.
| Clarifies the progression for security-related training from “security awareness” as the lowest level of training, to “vessel personnel with designated security duties” as the next-higher level of training, to “vessel security officer” as the highest level of training.
| This ensures consistency with the STCW Convention.

VI. Discussion of Comments and Explanation of Changes

In this section, we discuss comments on the SNPRM and changes made in response to them. The section consists of four subsections, the first of which contains a summary of the changes made from the SNPRM. Subsection B follows with a more in-depth discussion of comments and recommendations received from the public, MERPAC, and MEDMAC, together with associated changes. MERPAC and MEDMAC recommendations are discussed in separate groups that appear at the end of the subsection. Subsection C contains a discussion of public comments in response to the MERPAC and the MEDMAC recommendations. The Coast Guard announced the availability of those recommendations in a notice published in the Federal Register on November 3, 2011 (76 FR 68202). Subsection D, entitled “Additional Request for Comments”, contains a discussion of public comments solicited by the Coast Guard on six specific issues in the SNPRM (76 FR 45909).

A. Summary of Changes From the SNPRM

The following list provides a brief description of the major provisions in this final rule, including changes to the provisions proposed in the SNPRM. A detailed explanation of the reasons for these and other changes can be found in subsection B of this section, Public comments on the SNPRM. All of the changes to the SNPRM described in the summary below were made in response to comments from the public, MERPAC, or MEDMAC.

1. Medical

The Coast Guard is changing the validity period of a medical certificate issued to a mariner who is serving as a first-class pilot from 1 year, as proposed in the SNPRM, to a maximum period of 2 years. The Coast Guard is making this change in response to comments from the public, MEDMAC, and MERPAC. The comments raised concerns that the Coast Guard would not be able conduct medical evaluations and issue medical endorsements in a reasonable amount of time with a 1-year validity period. Aligning the validity period of a medical certificate issued to a first-class pilot with the validity period of STCW medical certificates will help to minimize the numbers of mariners who will require more frequent medical evaluation. This change should decrease the workload on the medical evaluation staff and help to reduce the possibility of unreasonable time delays. The requirement for pilots to obtain annual physical examinations remains unchanged.

Additionally, the Coast Guard received comments requesting clear direction on implementation of the 2-year medical certificate. The 2010 STCW amendments require that issuance of medical certificates with 2-year validity periods be fully implemented by January 1, 2017. Accordingly, the Coast Guard is including that implementation date in this final rule. To facilitate implementation, the Coast Guard will start issuing 2-year medical certificates 30 days after the publication of this final rule.

2. STCW Training

The Coast Guard received comments opposing the increase in on-the-job training permitted as an alternative to current implementing policy on classroom training. Commenters cited many reasons, including concerns that the proposed increase would result in degradation of the competence and proficiency of U.S. mariners. Commenters also worried that the proposed increase might not be practical because many vessels are currently minimally manned, and personnel may not have time to provide more on-the-job training.

The Coast Guard recognizes that the STCW Convention is competence-based and not training-based. For this reason, each administration bears the responsibility of establishing the appropriate combination of training and experience necessary to achieve the necessary level of competence, and to establish when and how training must be accomplished.

The Coast Guard agrees that a more appropriate balance between on-the-job training and formal training is required. Accordingly, the Coast Guard increased the number of classroom or formal training topics required for STCW endorsements in this final rule. These additional training topics were part of the extensive list of topics proposed in the NPRM, which were omitted from the SNPRM in response to comments requesting greater opportunities for on-the-job training. This final rule strikes an appropriate balance between the two proposals. This increase in the number of classroom or formal training topics does not change the overall cost estimates presented in the regulatory analyses because those cost estimates reflect the costs if all of the training were formal or classroom training.

Parts 11 and 12 of 46 CFR are amended to include a combination of training and in-service requirements and assessments, to provide mariners with flexibility, and ensure that seafarers achieve the level of competence required for STCW endorsements. This final rule generally increases required classroom training compared to the SNPRM, but the overall amount of training of all kinds has not changed. At the same time, this rulemaking increases flexibility compared to the SNPRM by providing for the use of onboard training programs, approved individual company training programs, approved workshop skills training, approved laboratory training, and where appropriate, approved simulator training. We also added an opportunity for a candidate to complete an approved program by taking individual courses offered by different providers. This change also addresses the concerns that shipboard factors, including reduced manning, higher mariner workload, and mariner fatigue issues, could make it a challenge for seafarers onboard vessels to train others.

3. Utility and Harbor Assist Towing

The Coast Guard is not including the endorsements for apprentice mate (steersman) of towing (utility), master of towing (utility), and master of towing (harbor assist) that were proposed in the SNPRM. Public comment raised sufficient concerns with these provisions, as discussed below in “Discussion of Public Comments,” that the Coast Guard wants to seek additional comment from the industry. We are currently considering moving the issue to another rulemaking or seeking additional input from the Towing Safety Advisory Committee (TSAC), which would give the public additional time to comment on this matter.

4. Transitional Provisions

Unless specified otherwise, STCW provisions in this final rule will be phased in beginning on the effective date of this final rule with full compliance required by January 1, 2017.

Additionally, unless specified otherwise, national endorsement provisions in this final rule will be phased in beginning on the effective date of this final rule. Individuals seeking an original credential or raise-of-grade to an existing credential during this period, who began training or service before the effective date of this final rule, need only meet the requirements in place when they began training or service. Those individuals who start training or service on or after the effective date of this final rule must meet all provisions described in this final rule. Changes in terminology on national endorsements will be made at the first renewal or raise-of-grade following the effective date of this final rule.

Other transitional provisions for STCW and national endorsement provisions are discussed below in the applicable sections of this summary.

5. Chief Engineer (limited near-coastal)

The Coast Guard is removing the endorsement for chief engineer (limited near-coastal) currently found in § 11.520. We have also removed the word “oceans” from the remaining chief engineer (limited) and assistant engineer (limited) titles in response to recommendations from the public and MERPAC that all engineers who currently hold a license as chief engineer (limited near-coastal) should be upgraded to chief engineer (limited) without further testing requirements.

New applicants for chief engineer (limited) are required to provide proof of 2 years of sea service in accordance with § 11.518 and take the appropriate examination. Further, we are keeping the 2-year sea service requirement to upgrade from assistant engineer (limited) to chief engineer (limited). Since the written examination for both chief engineer (limited) categories are identical, those mariners going from chief engineer (limited near-coastal) to chief engineer (limited) will not be required to take an examination. However, a chief engineer (limited near-coastal) upgrading to chief engineer (limited) must present at least 1 year of sea service either as chief engineer (limited near-coastal), or in combination with assistant engineer (limited). Current mariners who hold a chief engineer (limited near-coastal) credential may continue to renew that credential.

6. Articulated Tug Barges (ATBs)

The Coast Guard is making changes in accepting certain towing vessel service, including service in inland tug-barge combinations such as ATBs and integrated tug barges (ITBs), based on the aggregate tonnage of the tug and barge(s) when greater than 1,600 GRT. We made this change in response to comments from the public and MERPAC, who recommended that the Coast Guard reconsider its position of not granting service credit on ATBs toward an STCW endorsement without limitation, and adopt a regulation or policy whereby inland tug-barge combinations are accepted in computing license tonnage ratings as they presently are for ITB and ATB service.

This change will facilitate the towing industry's need for career paths to retain highly-skilled personnel. This service will be accepted only when properly documented by the towing company.

7. STCW Applicability

The Coast Guard is exempting pilot vessels engaged on pilotage duty from STCW requirements. The Coast Guard made this change in response to comments from the public and MERPAC, who recommended that the Coast Guard interpret the STCW Convention to regard pilot vessels as not being seagoing ships because they operate “in waters within, or closely adjacent to, sheltered waters or areas where port regulations apply” in accordance with Article II of the STCW Convention.

We agree that pilot vessels should not be considered seagoing vessels, and that persons serving aboard them while engaged in pilotage duty are exempt from application of the STCW Convention. This position is consistent with the U.S. interpretation of the STCW Convention, and stating it explicitly in regulations clarifies the proper treatment of such vessels and personnel for mariners and marine inspectors.

8. Able Seafarer-Deck and Able Seafarer-Engine

The Coast Guard is clarifying the STCW transitional provisions for able seafarer-deck and able seafarer-engine endorsements by adding grandfathering provisions and deadlines for compliance. We made this change in response to comments from the public and MERPAC, who recommended that the Coast Guard set an effective date for compliance with those endorsement requirements that afford affected mariners and the National Maritime Center (NMC) enough time to process the necessary applications. This change will help facilitate an orderly transition to full compliance with the new requirements of the 2010 amendments by January 1, 2017.

9. STCW Assessments of Competence

The Coast Guard is changing the STCW endorsement requirements in §§ 11.301 and 12.601, which will provide mariners the opportunity to use the new STCW training requirements when applying for credentials. The Coast Guard made these changes in response to comments from the public requesting that onboard and on-the-job training remain available as an option to demonstrate proficiency for the credentialing of mariners.

In addition, the Coast Guard is adding a new paragraph, § 11.301(g)(4), providing that persons who hold or have held an STCW operational-level endorsement issued prior to the effective date of this final rule, and are seeking to upgrade to an STCW management-level endorsement, will not be required to do the assessments for STCW operational-level endorsements. The Coast Guard made this change in response to commenters who were concerned that the SNPRM would require applicants for management-level STCW endorsements who hold domestic management-level endorsements to provide evidence of operational-level training and assessments. The Coast Guard agrees that these mariners should not be required to do assessments for STCW operational-level endorsements because they will be deemed to have completed these assessments under the STCW Convention.

10. Sea Service Credit for Mariners Holding National Endorsements on STCW Vessels

The Coast Guard is further expanding provisions granting sea service credit towards STCW endorsements to include those mariners who hold a national endorsement and provide proof of service on vessels to which STCW applies, whether on inland or coastwise service. We made this change in response to comments from the public and MERPAC, who recommended that mariners serving on vessels to which STCW applies, and that engage in coastwise voyages and inland waters, should be granted day-for-day service credit.

This change is applicable to vessels operating on the Inside Passage between Puget Sound and Cape Spencer, Alaska. Service on vessels to which STCW applies, whether inland or coastwise, will be credited on a day-for-day basis.

11. STCW Tanker Endorsements

The Coast Guard is including provisions to allow mariners serving on tank barges to qualify for an STCW endorsement with a limitation to non-self-propelled vessels. The Coast Guard made this change in response to comments from the public and MERPAC, who requested that mariners who hold an endorsement as tankerman-PIC (barge) be allowed to qualify for an STCW endorsement for advanced oil tanker cargo operations, advanced chemical tanker cargo operations, or advanced liquefied gas tanker cargo operations.

This change is necessary because these barges operate beyond the boundary line and are, consequently, subject to the STCW Code and Convention. Mariners serving on them must hold STCW endorsements, and this change will allow mariners who hold an endorsement as tankerman-PIC (barge) to qualify for an STCW endorsement for advanced oil tanker cargo operations, advanced chemical tanker cargo operations, or advanced liquefied gas tanker cargo operations provided that they meet the appropriate sea service requirements and the standards of competence of the STCW Code.

The Coast Guard is also including provisions to allow engineer officers to qualify for an STCW endorsement for certain tanker operations with a limitation to maintenance and repair of cargo equipment. The Coast Guard made this change in response to comments from the public and MERPAC, who requested that mariners who hold a national endorsement as tankerman-engineer be allowed to qualify for an STCW endorsement for advanced oil tanker cargo operations, advanced chemical tanker cargo operations, or advanced liquefied gas tanker cargo operations. The limitation to maintenance and repair of cargo equipment is necessary because it aligns with the duties of a national tankerman-engineer endorsement.

Engineers serving onboard tank vessels subject to STCW are required to hold a tankerman endorsement. This change will allow engineer officers serving on such vessels, who hold or qualify for a national tankerman-engineer endorsement, to qualify for an STCW endorsement for advanced oil tanker cargo operations, advanced chemical tanker cargo operations, or advanced liquefied gas tanker cargo operations without having to complete the onboard assessment requirements for tankerman-PIC.

In addition, the Coast Guard will accept service onboard some ATBs toward the national and STCW tankerman endorsements, provided the ATB equipment is equivalent to comparable tankship equipment. The Coast Guard made this change in response to comments from the public and MERPAC, who requested that mariners receive credit for service onboard ATBs, taking into account that new ATBs have cargo-handling equipment identical to the equipment on tankships. This change is necessary to ensure career paths remain available and to facilitate the use of new ATBs as qualifying platforms for tankerman endorsements.

The Coast Guard is amending applicable sections in 46 CFR part 13 to correct the date by which mariners must meet the new STCW requirements to obtain original tanker endorsements from January 1, 2017, to the effective date of this final rule, in accordance with the provisions of the STCW 2010 amendments. After the effective date of this final rule, all seafarers applying for an original tankerman endorsement must meet those requirements. These corrections are necessary to maintain consistency with 46 CFR parts 11 and 12, and we made them in response to comments requesting clarification of effective dates.

12. Offshore Supply Vessel (OSV) Endorsements

The Coast Guard is making changes to the national OSV endorsements for both deck and engineer officers in response to comments from the public objecting to inconsistencies between national and STCW endorsements. We are changing the OSV endorsements for both deck and engineer officers by separating the national and STCW credentials to ensure consistency with other requirements. The exemption from meeting the STCW requirements in the existing regulations remains unchanged. Additional changes to national OSV endorsements include: (1) Revisions to sea service requirements for OSV endorsements to make those requirements comparable to other credentials; (2) the option to complete an approved course for a mate or assistant engineer to meet the sea service requirements; and (3) the progression from vessels less than 1,600 GRT/3,000 GT to more than 1,600 GRT/3,000 GT for chief mate and master.

The change described in (3) above addresses Section 617 of the Coast Guard Authorization Act of 2010 (Pub. L. 111-281) and its removal of the 500 GRT tonnage limits on OSVs. These amendments will ensure that mariners with existing licenses or MMCs can progress to higher credentials.

13. Security

The Coast Guard is making changes to the security requirements in parts 12 and 15 in response to comments expressing concern that the SNPRM did not include all of the requirements and different means of compliance, commonly referred to as “flexibilities”, contained in the Convention. The Coast Guard agrees. Based on comments to the SNPRM, the Coast Guard included additional security provisions in this rulemaking, which are described below, to better facilitate an orderly transition.

In addition, after the development of the SNPRM, the IMO published Circular STCW.7/Circ.17 in June 2011, advising administrations and port state control authorities that mariners may comply with section 13 of the International Ship and Port Facility Security (ISPS) Code instead of Regulation VI/6 of the STCW Convention until January 1, 2014. The Coast Guard has added a provision in this final rule consistent with the circular, but amended the date to the effective date of this final rule, to facilitate mariner compliance with the new requirements.

The Coast Guard is making changes to the security provisions in part 15 to clarify that all contractors, whether part-time, full-time, temporary, or permanent are required to have knowledge of the security topics listed in 33 CFR 104.225, either through training or equivalent job experience. The Coast Guard is making this change in response to comments from the public and MERPAC indicating a potential for misinterpreting this requirement as not covering contractors or passenger vessels. The 2010 amendments to the STCW Convention (Section A-VI/6) require that all persons employed or engaged on a seagoing ship receive security familiarization. The term “all persons” includes seafarers and other personnel, including contractors, whether part-time, full-time, temporary, or permanent.

In addition, the Coast Guard is making changes to the security application requirements in order to clarify that Regulations VI/5 and VI/6 of the 2010 amendments apply only to vessels of 500 GT or more. The STCW security requirements only apply to vessels subject to the STCW Convention—which are vessels operating beyond the boundary line—except for those vessels listed in § 15.1101 of this final rule. The Coast Guard is making this change in response to comments from the public and MERPAC questioning the proper application of the tonnage limitation required by the STCW Convention. The security requirements in the STCW Convention are meant to support the requirements of the ISPS Code, which applies to vessels of 500 GT or more.

Additionally, the Coast Guard is changing transitional provisions for security awareness and for seafarers with designated security duties by adding grandfathering provisions and deadlines for compliance. The Coast Guard is making this change in response to comments from the public and MERPAC requesting greater clarity on the subject. This change will help mariners meet the implementation date requirements of the 2010 amendments, and will provide mariners further flexibility by allowing them to obtain an STCW endorsement when they have completed a Coast Guard-approved course and/or can provide proof of service onboard vessels. In accordance with Section A-VI/6 of the STCW Convention, these transitional provisions will only be available until March 24, 2014.

The Coast Guard also added a provision permitting mariners to satisfy the security-related training requirements in Regulation VI/6 of the 2010 amendments by complying with 33 CFR 104.220 and 104.225. The Coast Guard made this change in response to a recommendation from IMO Circular STCW.7/Circ.17, published in June 2011, advising Administrations and port state control authorities that mariners may comply with section 13 of the ISPS Code instead of Regulation VI/6 until January 1, 2014. However, the Coast Guard has amended the date to the effective date of this final rule. The Coast Guard has determined that requirements in 33 CFR 104.220 and 104.225 meet the requirements of section 13 of the ISPS Code and is amending § 15.1113 accordingly. This change will promote an orderly transition and help ensure that mariners meet the implementation date requirements.

The Coast Guard is making changes to clarify that the security training requirements in the STCW Convention and Code were developed as a progression where “security awareness” is the lowest level of training, “vessel personnel with designated security duties” is the next-higher level of training, and “vessel security officer” (VSO) is the highest level of training. The Coast Guard agrees with comments from the public and MERPAC suggesting that mariners with a higher level of training should be allowed to serve in positions that require a lower level of training. Under this system, for example, mariners who completed VSO training would be eligible for any position with a security training requirement at the VSO level or lower.

14. Course Approvals

The Coast Guard is changing § 10.402 regarding course approvals in order to implement the IMO model course format and terminology. We made this change in response to comments from the public and MERPAC, who recommended that the Coast Guard minimize administrative burden and cost on training providers by requiring only the information currently required for IMO model courses.

This change will retain an existing industry practice to use the IMO model course format and terminology for the submission of requests for Coast Guard-approved courses. This change will also allow minor modifications to courses to be submitted to the Coast Guard for review without requiring training providers to resubmit the entire course.

15. Quality Standards System (QSS)

In response to comments from MERPAC and the public, the Coast Guard is amending the proposed QSS requirements to include ISM, which is an additional industry-wide system, as an alternate means of compliance with one or more of the QSS provisions. The Coast Guard agrees with these comments because it recognizes that overlapping ISM and QSS requirements allow use of ISM as an alternative to certain corresponding QSS requirements.

Additionally, the Coast Guard is including a deadline for implementation of the QSS requirements. We made this change in response to a commenter who requested clarification of the implementation deadline. This transitional provision will help ensure that all courses, programs, and training creditable towards STCW will meet the requirements of a QSS by January 1, 2017.²

² We are aligning this deadline with the implementation of the training requirements in this rulemaking in order to provide industry with ample opportunity to implement the change.

16. Post-Dating of Credentials

The Coast Guard is changing § 10.205 regarding post-dating of credentials, by reducing the permissible post-dating of an MMC renewal from 12 months to 8 months after the date that the Coast Guard accepts a complete application. This change is in accordance with § 614 of the Coast Guard Authorization Act of 2010 (Pub. L. 111-281) (as codified in 46 U.S.C. 7302), which only allows post-dating of credentials for up to 8 months.

In addition, the Coast Guard has amended § 10.205 to require automatic post-dating with the option for immediate issuance. The Coast Guard made this change in response to commenters who requested that the Coast Guard ensure that post-dating is automatically completed for every renewal.

17. Retention of Cash Payment for User Fees

The Coast Guard is not including the provisions proposed in § 10.219 of the SNPRM, which would have required user fees to be paid by credit card or electronic payment only. This proposed change would have eliminated the ability for mariners to pay user fees by cash or to attach a check or money order to their application package. Public comment raised concerns that mariners should not be forced to pay by credit card and that not all mariners have credit cards.

The Coast Guard agrees, is not including this proposed requirement, and will continue to accept cash, checks, and money orders, as well as credit cards and electronic payments for MMCs and associated endorsements. The Coast Guard has amended § 10.219 accordingly.

18. Academy Sea-Service Equivalency

The Coast Guard is amending § 10.232 to include sea service credit for cadets serving onboard academy training ships where sea service is part of an approved training program. The Coast Guard made this change based on a comment recommending that the Coast Guard grant 1½ days of sea service credit for each day a cadet serves aboard an academy training ship where sea service is part of an approved training program.

This change is consistent with the Coast Guard's existing practice of crediting academy training ship sea service reported to the International Maritime Organization. To maintain consistency, the Coast Guard is making a similar revision to the definition of “day” in § 10.107.

19. Qualified Assessor (QA) Approval

The Coast Guard is amending the definition of “Qualified Assessor” in § 10.107 in order to clarify this person's role and professional development. We made this change in response to comments from the public and MERPAC, who requested clarification of QA training requirements and approval. This change ensures that any person serving as an assessor for STCW endorsements has demonstrated the requisite level of competence in the task for which the assessment is being made, and has been individually approved by the Coast Guard.

For the same reasons, the Coast Guard is also adding a provision requiring QAs who renew their qualifications to provide evidence of experience, training, or instruction within the past 5 years.

In response to the same comment, the Coast Guard is also amending § 10.405 to ensure that QAs are trained in proper assessment techniques and have completed an “assessor training” course as part of an accepted training program. This topic will be further discussed in the guidance the Coast Guard is developing concerning QAs.

20. Endorsement for Mate of Ocean Self-Propelled Vessels of Less Than 200 GRT

In response to a commenter's request, the Coast Guard is including an endorsement in § 11.425 for mate of ocean self-propelled vessels of less than 200 GRT. We made this change to provide a path of progression to master of oceans self-propelled vessels of less than 200 GRT, and in accordance with Regulation II/3 of the STCW Convention.

21. Electro-Technical Officer/Rating

The Coast Guard is amending § 11.335 and § 12.611 to include additional training topics appropriate for an STCW endorsement for an electro-technical officer and electro-technical rating. We made this change in response to commenters who requested clarification of STCW training and grandfathering requirements applicable to these endorsements. In addition, § 11.335 and § 12.611 are amended to clarify the grandfathering provisions applicable to these endorsements in accordance with the 2010 amendments of the STCW Convention.

22. Manning

In response to commenters' requests, the Coast Guard has included provisions in 46 CFR part 15, subpart H, requiring mariners who serve on vessels subject to STCW to also hold an STCW endorsement appropriate to the tonnage/propulsion power for the vessel upon which he or she is operating. This change ensures consistency with domestic manning requirements and avoids confusion or disagreement with port state inspectors regarding which mariners on U.S. vessels must hold STCW endorsements.

B. Public Comments on the SNPRM

The Coast Guard received more than 900 comments in response to the SNPRM published on August 1, 2011. These comments consist of letters to the docket, remarks at the public meetings in Miami, New Orleans, Seattle, and Washington, DC, comments submitted by MERPAC, and comments submitted by MEDMAC. The following discussion contains an analysis of comments received and an explanation of any changes made to the rule as proposed in the SNPRM.

Several comments note grammatical and non-substantive errors in the SNPRM. The Coast Guard has incorporated these comments, where appropriate, without further discussion.

1. Comment Period

Thirty-two commenters request that due to the complexity and broad ranging impacts of this rulemaking, the Coast Guard extend the comment period beyond the 60 days given in the SNRPM to permit the necessary comprehensive review of the provisions.

The Coast Guard disagrees. The 2010 amendments to the STCW Convention came into force on January 1, 2012. As a signatory State to the Convention, the U.S. needed to demonstrate by that date, or as soon as possible thereafter, that it remains in compliance with its requirements to minimize the risk of U.S. flag vessels being detained in foreign ports. However, while we did not extend the original comment period, we provided an additional 30-day comment period that closed on December 5, 2011 to respond to MERPAC and MEDMAC recommendations (76 FR 68202).

2. Definitions

Two commenters recommend that the Coast Guard amend the definition of “Coast Guard-accepted” because the commenters believe the proposed definition does not take into account Coast Guard-accepted training for instructors, supervisors, or assessors (i.e., Train-The-Trainer courses) or other types of training that are accepted by the Coast Guard to meet the familiarization training requirements of the STCW Convention.

The Coast Guard disagrees. The definition in § 10.107 would include this training even though particular types of training are not explicitly set out in the definition.

Five commenters recommend that the Coast Guard amend the definition of “day.” In their view, the definition for a day should be the same for vessels of every tonnage. If it is a condition of employment to work 12 hours a day, then the mariner should receive 1½ days of sea service even if working on a vessel less than 100 gross tons.

The Coast Guard agrees in part. The definition of day already includes language that vessels allowed to work 12-hour days as defined in the U.S. Code will receive 1½ days sea service credit. However, changes to regulations on this subject are limited by statutory restrictions on the type and tonnage of vessels and the number of watches that may be run. Accordingly, the definition of day permits mariners who work 12-hour days to receive 1½ days of sea-service credit, to the extent permitted by statute.

One commenter recommends that the Coast Guard amend the definition for “domestic officer endorsement” to provide that the holder of an MMC with this endorsement will be restricted to service on vessels on domestic voyages only.

The Coast Guard disagrees. Vessel manning requirements are specified in part 15 and it would be inappropriate to include them in the definition of the endorsements.

Two commenters recommend that the Coast Guard change the term “domestic officer endorsement” to “national officer endorsement” and “domestic rating endorsement” to “national rating endorsement” to avoid confusion with usage of the term “domestic” in other phrases used throughout the SNPRM.

The Coast Guard agrees, and has changed “domestic endorsement” to “national endorsement” to eliminate confusion.

Thirteen commenters recommend that the Coast Guard amend the definition of “domestic voyage” to include voyages between Washington State and Alaska through the Inside Passage or Mexico and the United States.

The Coast Guard agrees, and has amended the definition to include voyages beginning and ending at a U.S. port and passing through the waters of another country if the U.S. has entered into a treaty or agreement with that country.

One commenter recommends that the Coast Guard amend the definition of “increase in scope” by citing a few examples. The commenter states that this would help avoid confusion between this term and “raise of grade.”

The Coast Guard agrees. The key distinction between the two definitions is “existing credential.” The Coast Guard has amended both definitions for clarity by adding examples.

Two commenters state that the definitions of “limited” and “restricted” are very similar and should each be more clearly defined to avoid confusion.

The Coast Guard agrees in part. The Coast Guard recognizes that the two terms have been used interchangeably in the past and that there is no consistency in the use of the terms in relation to the title of the credential. The Coast Guard is of the opinion that all limited endorsements or credentials have inherent in their qualifications some sort of constraint which reduces the authority of the credential. Therefore, to avoid confusion, the Coast Guard is deleting, rather than further defining, the two definitions because the terms have the same meaning as in standard English language usage. Five commenters recommend that the Coast Guard amend the definition of “near-coastal” by adding the following sentence: “While a near-coastal endorsement does not preclude its use in another Administration's waters, that endorsement is limited to the near-coastal waters as determined and accepted by the local administration.”

The Coast Guard agrees in part. Amending the definition of “near-coastal” is not necessary because a foreign administration would not be bound to honor such a provision in the Coast Guard's regulations absent an agreement with the United States. The Coast Guard, however, has amended the definition of “domestic voyage” to include voyages beginning and ending at a U.S. port and passing through the waters of another country if the U.S. has entered into a treaty or agreement with that country.

Two commenters recommend that the Coast Guard amend the definition of “overriding operational condition” so that the intent and its use are not abused or over applied.

The Coast Guard disagrees. Because the definition comes directly from the STCW Convention and the meaning of the phrase is straightforward, adopting it in U.S. regulations is not discretionary. Additionally, the definition was written with the flexibility necessary to embrace unforeseen circumstances, which cannot all be listed in this final rule.

Three commenters recommend that the Coast Guard amend the definition of “passenger vessel” in § 11.1103. The commenters expressed concern that all provisions of Regulation V/2 of the STCW Convention and A-V/2 of the STCW Code will be imposed on passenger vessels, when some of the provisions are clearly applicable only to roll-on/roll-off (Ro-Ro) passenger vessels.

The Coast Guard agrees in part. The 2010 amendments to the STCW Convention and Code consolidated passenger vessel requirements, which are applicable to seafarers serving on Ro-Ro passenger vessels. The 2010 amendments also consolidated the requirements applicable to seafarers serving on passenger vessels other than a Ro-Ro passenger vessel. The application of the 2010 amendments is based on the responsibilities of the seafarer onboard the vessels and the type of vessel they served on: (1) Personnel assisting passengers in emergency situations must complete crowd management training; (2) personnel providing direct service to passengers in passenger spaces onboard passenger vessels shall have completed the safety training; (3) personnel with designated responsibility for the safety of passengers in emergency situations onboard passenger vessels must have completed approved training in crisis management and human behavior; and (4) personnel assigned immediate responsibility for embarking and disembarking passengers, loading, discharging or securing cargo, or closing hull openings onboard Ro-Ro passenger vessels shall have completed approved training in passenger safety, cargo safety and hull integrity. To avoid confusion and facilitate the implementation, the Coast Guard has amended § 11.1105 to specify the types of training necessary.

One commenter recommends that the Coast Guard amend the definition of “Quality Standard Systems or QSS” as it is too vague.

The Coast Guard disagrees. The QSS definition derives from established quality system practices. The provisions in § 10.410 provide further information on the specific elements of the QSS. The Coast Guard will be developing additional guidance on the implementation of the QSS.

Three commenters recommend that the Coast Guard amend the definition of “rest.” In their view, the requirement to record periods of rest either should be placed on the mariner, or be removed in its entirety because employers cannot assure that their mariners actually rest when they are away from the workplace.

The Coast Guard disagrees, and is retaining the existing definition for “rest” in § 10.107. The definition for “rest” is consistent with the STCW convention. The phrase “and is allowed to sleep without interruptions” in the definition does not imply that the master needs to force the mariner to sleep, but that the mariner is afforded time for rest and allowed to sleep. The 2010 amendments to the STCW Convention, specifically Section A-VIII/1, paragraph 7, require that records of daily hours of rest be maintained onboard the vessel. This final rule does not specify who is responsible for recording rest periods because that determination is within the discretion of each vessel master.

One commenter recommends that the term “sailor” be defined in § 10.107 rather than in a portion of a specific regulation (§ 15.705).

The Coast Guard disagrees. Because the Coast Guard's reference to “sailor” is clarified solely for the purpose of part 15, inclusion of the definition in § 10.107 would be inappropriate.

One commenter recommends that the Coast Guard amend the definition of “seagoing service” to include service on the Great Lakes and inland waters.

The Coast Guard disagrees. The definition is intentionally a general one. The specific requirements for sea service, which may be earned on the Great Lakes and inland waters, and the individual requirements for each credential, are detailed in § 10.232.

One commenter asks for clarification of the definition of “seagoing service.” The commenter asks if it is the Coast Guard's intent that a mariner serving on a vessel that is crewed-up, capable, and occasionally operates outside the boundary line, will receive all seagoing service.

The Coast Guard has expanded the sea service credit requirements in § 10.232 to ensure mariners operating on inland and Great Lakes waters can get credit toward an STCW credential. Therefore, even if the vessel has time on both ocean-going and inland waters, credit will be awarded accordingly.

One commenter recommends that the Coast Guard amend the definition of “senior company official” by replacing the phrase “a lower level employee” with “a person designated.”

The Coast Guard agrees and has changed “lower level employee” to “another employee.”

One commenter recommends that the Coast Guard define the term “training ship” in § 10.109.

The Coast Guard disagrees. A “training ship” as used in § 12.601(b)(1)(ii) is determined by whether or not, and to what extent, the vessel is used as part of an approved program.

Twenty-seven commenters recommend that the Coast Guard delete part (2) of the proposed definition of “utility towing.” They pointed out that TSAC did not recommend part (2), and the proposed definition appears to conflict with the Coast Guard Commandant's ruling in a 2009 USCG District 7 Appeal.

The Coast Guard agrees that further consideration is necessary. Therefore, the Coast Guard is not including the proposed new endorsements for utility towing and harbor assist, and the definition for “utility towing.” Instead, we are retaining the existing definition of “disabled vessel.”

Two commenters recommend that the Coast Guard amend the term “vessel personnel with security duties” to “vessel personnel with designated security duties,” saying that using the latter phrase as it will appear on the MMC endorsement will add consistency and clarity.

The Coast Guard agrees and has added “designated” to the definition. The amended definition is consistent with the 2010 amendments to the STCW Convention.

Two commenters recommend that the definition of “vessel personnel with security duties” should state “those with duties as defined in the vessel's security plan or Alternate Security Program.” In their view, clarification is needed so that the skills and abilities an employee brings to the job may be recognized as equivalent to training.

The Coast Guard agrees. The Coast Guard is revising the definition “vessel personnel with designated security duties” to harmonize it with the guidance in Section B-VI/6 of the STCW Code and to ensure consistency with the requirements in 33 CFR 104.220 and 104.225. The expression “with designated security duties” denotes those having specific security duties and responsibilities in accordance with the vessel security plan. The Coast Guard has also amended the requirements in §§ 12.625 and 15.1113 to ensure that the term “vessel personnel with designated security duties” is used throughout.

One commenter recommends that the definition of “Vessel Security Officer or VSO” be amended to “Vessel Security Officer or VSO means a person onboard the vessel accountable to the master, designated by the Company as responsible for security of the vessel, including implementation and maintenance of the Vessel Security Plan, and for liaison with the Facility Security Officer and the vessel's Company Security Officer.”

The Coast Guard disagrees. The requirements for VSOs in § 11.352 are intended to meet the requirements of the STCW Convention. The definition provided in § 10.107 is consistent with the definition in the STCW Convention.

One commenter objects to the Coast Guard changing the format of the definition of “Western Rivers.”

The Coast Guard disagrees. Although the format of the definition was changed from a single paragraph of text to a numbered list, there was no substantive change to the current definition.

3. Medical

One commenter notes that MMCs are valid for 5 years, yet the medical certificates for STCW endorsements are to be updated every 2 years. The commenter poses five questions:

(1) Will the mariner be required to renew his or her STCW endorsements with the Coast Guard every 2 years when the medical certificate is renewed?

No, the medical certificate will be managed as a separate stand-alone document.

(2) Will there be an expiration date within the MMC under the international pages for their physical every 2 years?

No, the medical certificate will be managed as a separate stand-alone document.

(3) Who will track this information if it is not indicated in the MMC?

As with all credentials, it is incumbent upon the mariner to track whether his or her credential is valid. Additionally, it is the responsibility of the company, operator, or master to ensure that persons serving on a vessel hold valid documents, see § 15.401.

(4) How will the requirement be enforced?

This will be enforced through regular inspections, boardings, and company/master verification. It is the responsibility of the company, operator, or master to ensure that persons serving on a vessel hold valid documents, in accordance with § 15.401.

(5) Will the National Maritime Center (NMC) be able to handle the additional work load associated with a 2-year physical as required by the STCW ³?

³ Mariners with significant medical conditions are encouraged to submit documentation at least 6 months in advance in order to obtain a credential prior to expiration. Other mariners may submit as late as two weeks prior to expiration of the certificate. 46 U.S.C. 7507 and 7508 (see Public Law 112-213, § 306) authorizes the extension of credentials and medical certificates for up to 1 year.

It is expected that the NMC will be able to handle the additional workload through a clarification of medical guidelines. Additionally, with more frequent exams there should be the ability to have additional flexibility with certain medical conditions. Although additional funding to support personnel and credentialing activities at the NMC is one of the Coast Guard's many budget priorities, in the absence of additional funding the Coast Guard will continue to evaluate its limited resources and seek efficiencies to best handle the additional workload.

One commenter notes that the requirement for “Medical certificates/endorsements issued to a mariner who is serving as a first-class pilot, or acting as a pilot under § 15.812 of this subchapter, to be issued for a maximum period of 1 year” is inconsistent with Navigation Vessel Inspection Circular (NVIC) 8-94 which indicates that the annual physical exam is only required if serving on vessels greater than 1,600 GRT.

To ensure consistency with 46 U.S.C. 7101(e)(3) and to avoid any ambiguity, the Coast Guard has amended §§ 11.709(b), 11.709(d), and 15.812 for clarity as recommended by the commenter.

One commenter recommends that the Coast Guard amend the proposed regulations to provide that pilots be issued 2-year, rather than 1-year, medical certificates. In the commenter's view, such a change would not impact public or navigation safety and would provide much needed administrative and workload relief to the Coast Guard's medical review program staff at the NMC.

The Coast Guard agrees and has amended § 10.301(b)(2) accordingly.

One commenter believes that this rulemaking is an opportunity to improve marine safety, if implemented effectively. In the commenter's view, 5 years between medical certifications among an aging workforce is not practical. While the direct impact from incidents that are due to medical conditions is unclear from Coast Guard and National Transportation Safety Board statistics, most operators know it is a major concern, the commenter says, and if established effectively, a new system that better tracks mariner fitness will have major positive effects on keeping mariners and the public safe. Additionally, two commenters believe that additional clarification is required regarding the extent of training, the approval process, and the bodies that would be accepted for the licensing of these designated medical examiners (DME) by the Coast Guard.

The Coast Guard disagrees that more frequent medical certificates for all mariners are needed. The Coast Guard is establishing within this rule the process to issue limitations, restrictions, and waivers for medical conditions, which will allow the Coast Guard to track mariner fitness where necessary. Provisions in this final rule will allow for the use of DMEs in the future. Plans are underway for the development of a DME Program, which will address the information sought by this commenter, and the Coast Guard will issue future guidance on this program. During the development of that guidance, the public will be invited to participate to ensure the creation of the best possible system.

One commenter requests that cadets issued endorsements as “cadet (deck) or cadet (engine)” who are enrolled in an approved 4-year academy training program and who have obtained a medical certificate, not be required to obtain another medical certificate until they complete their training and apply for their original MMC as Officer in Charge of a Navigational Watch (OICNW) or Officer in Charge of an Engineering Watch (OICEW).

There are no medical requirements for the “cadet” endorsement in parts 10 or 12 of this final rule. Cadets will not be entitled to receive an STCW endorsement until successful completion of the training program.

Six commenters support the inclusion of the “designated medical examiner” to the list of those who can complete a mariner's physical exam, but do so with concern. They caution not to develop a system that relies too heavily on these designated personnel, which may require a mariner to travel great distances for a physical examination.

The Coast Guard agrees. As previously noted, plans for the development of a DME Program are underway. Changes in this rulemaking will allow for the use of DMEs in the future. The Coast Guard will issue future guidance for the DME Program.

One commenter states that, due to the complexity of the mariner's physical exam, he would not be in favor of the DME being anything other than a licensed medical doctor or licensed nurse practitioner.

The Coast Guard agrees in part. We believe that the physician's assistant has the necessary training and knowledge to conduct a physical examination. Mid-level provider utilization for fitness examinations has been previously implemented with other transportation agencies, such as the Federal Motor Carrier Safety Administration.

Furthermore, the DME program has not been developed. During the development process, the public will be invited to participate to ensure the creation of the best possible system.

Three commenters note that in § 15.401(c), the proposed regulation fails to specify an effective date. As it will take mariners and the Coast Guard time to process the required medical examinations and to issue these certificates/endorsements, the commenters recommend a phase-in period be specified in the final rule as recommended by STCW 7/Circ.16.

The Coast Guard has included an implementation date in §§ 15.401 and 15.1103. Compliance with the 2010 amendments to the STCW Convention and Code requires that full implementation of the issuance of medical certificates is achieved by 2017. To facilitate implementation, the Coast Guard will start issuing 2-year medical certificates 30 days after the publication of this final rule.

Three commenters state that, with regard to § 15.401(f), this is an improvement over current practice and is strongly supported.

The Coast Guard agrees, and this section remains unchanged from the SNPRM.

Three commenters state that, with regard to the demonstration of physical ability, the Coast Guard has removed the section which allows those applying for entry level positions to demonstrate physical ability, rather than undergo a complete physical examination. The commenters recommend that this section be reinserted.

The Coast Guard agrees, and the text is now included in § 10.304(d)(1)(ii).

Two commenters recommend that the Coast Guard consider publishing a list of acceptable eye tests for Engineers that meet the four-color standard.

The Coast Guard agrees, and has added a new sentence at the end of § 10.305: “The Coast Guard will accept Farnsworth D-15 Hue Test as a color vision test to meet the requirements of this subparagraph.” This test is part of Commission Internationale de l'Eclarage Color Vision Report as part of the recommended testing to qualify for Standard 3. Additionally, the Coast Guard will publish guidance on additional acceptable tests.

One commenter requests that the Coast Guard consider working with the U.S. Department of Transportation (DOT) to develop common medical certificate standards. He also recommends that the Coast Guard accept the results of medical tests conducted in accordance with other agency regulations.

There are no current plans for the Coast Guard to combine medical credentialing with the other transportation agencies. We are currently working with other agencies on a limited basis to improve our medical credentialing process and guidelines.

Thirteen commenters recommend that, with regard to Medical Certification—subpart C, the Coast Guard delay implementation of issuing medical certificates/endorsements for a maximum period of 2 years until the NMC can be properly staffed with trained medical doctors for reviewing medical documents.

The Coast Guard disagrees. Immediate implementation of the STCW 2-year medical certificate is a requirement set by the 2010 amendments to the STCW.

One commenter states that, with regard to § 10.231(c)(8), the Coast Guard must clarify that physicals are still valid for 3 years on a license upgrade.

The Coast Guard agrees in part. The 3-year validity of the physical for license upgrade is only applicable to national endorsements. This is no longer applicable for the issuance of STCW credentials, since the medical certificate is valid for only 2 years. The Coast Guard has amended § 10.231 accordingly to ensure clarity.

One commenter notes that § 10.301(b)(1) states that medical certificates/endorsements issued to a mariner serving under the authority of an STCW endorsement will be issued for a maximum period of 2 years unless the mariner is under the age of 18, in which case the maximum period of validity will be 1 year. The commenter asks what policy and/or procedures will be implemented to ensure that those sailing on the Great Lakes will not have their renewal applications delayed because the evaluators will be unaware that Great Lakes service will not require a biennial physical, in accordance with § 10.301(b)(3).

The STCW Convention does not apply to the Great Lakes; therefore, mariners applying for a medical certificate to serve on these vessels will be issued a 5-year medical certificate. The Coast Guard will develop guidance for the medical evaluators to ensure that the correct requirement is applied to the mariner's application.

Twelve commenters note that the term “medical certificate,” used throughout the rulemaking, is not defined. If it is envisioned that this would be a document separate from a mariner's credential issued by the NMC, the commenters recommend that the item be removed until it can be fully defined.

The Coast Guard agrees in part. Implementation of a 2-year medical certificate is a requirement set by the 2010 amendments to the STCW. A new definition has been added in § 10.107.

Two commenters believe that it is wrong to determine the medical fitness of mariners remotely, based upon the submission of medical records and tests to an evaluator who has not physically examined the mariner. The commenters believe that a process which isolates the evaluator from the mariner results in excessive and expensive medical testing, and lengthy time delays in processing licenses that can interfere with the mariner's ability to rejoin their vessels for scheduled assignments.

Two other commenters state that the new requirement on medical examiners to be Coast Guard certified raises concerns with accessibility, since many mariners live in isolated Alaskan communities and currently use local health care professionals for merchant marine physicals. The commenters expect additional expenses for crewmembers from small coastal communities who will need to travel farther for the new biennially required Coast Guard physicals. The commenters recommend that the Coast Guard either remove the Coast Guard certification requirement from this definition or make a simple, fair, and cost-effective certification process for the limited number of Alaskan medical providers.

Plans for the development of a DME program are underway. Provisions in this final rule allow for the use of DMEs in the future. The Coast Guard is reviewing programs used by other agencies and foreign administrations when developing the maritime model. The Coast Guard will issue future guidance for the DME program. Additionally, it is envisioned that mariners will retain the option to use personal medical providers qualified under § 10.302, which is expected to mitigate the impacts on mariners in remote locations.

One commenter recommends that, with regard to § 10.301, the Coast Guard define what exam requirements IMO and the International Labour Organization (ILO) deem necessary for the 2-year medical exam and consider a modified or limited exam focused on these specific requirements, along with significant changes in health history and medications. This limited exam would be conducted as an interval exam in between the 4- or 5-year complete (Coast Guard Form CG-719K) physical exam.

The Coast Guard disagrees. The examination and reporting requirements in the rule match those from STCW, which requires medical exams every 2 years. The Coast Guard will continue to use one set of forms, the CG-719K and CG-719K/E forms, which contain the exam requirements for all U.S. medical examinations irrespective of the validity dates.

One commenter notes that proposed § 10.304(b) (current § 10.215(d)(2)) states that applicants for food-handler endorsement must obtain a statement from a licensed physician, physician assistant, or nurse practitioner attesting that they are free of “communicable diseases.” The commenter notes that, aside from the fact that there is no definition provided in 46 CFR part 10 for communicable diseases, this requirement is way too broad and makes it very unclear as to what the physician needs to be looking for.

The Coast Guard agrees and has added a definition of “communicable diseases”.

Twelve commenters note that when a mariner submits an application for examination or renewal and a medical condition requires a review, the time required to complete the review is excessive. The commenters recommend that the Coast Guard provide prescriptive guidance for a mariner's physician to make the sole determination as to whether or not a condition will disqualify a mariner from successfully completing the credentialing process.

The Coast Guard will continue to review determinations of medical disqualification to ensure consistency, oversight, and provide mariners the ability to appeal adverse determinations. Plans for the development of a DME program are underway. Provisions in this final rule will allow for the use of DMEs in the future. The Coast Guard will issue future guidance for the DME program. The Coast Guard is also working with MEDMAC to develop guidance on medical conditions.⁴

⁴ The DME program was proposed consistent with public comments on the SNPRM to increase the availability of medical personnel for examinations. The program is based on broad statutory authority to ensure mariners are physically and mentally fit (14 U.S.C. 2 and 633 authorize the Coast Guard to issue regulations for the promotion of life and safety on waters under the jurisdiction of the United States; 46 U.S.C. 2103 provides the Coast Guard broad authority over merchant marine personnel; and 46 U.S.C. Chapters 71 and 73 include requirements that mariners be physically qualified for endorsements). Because of the extent of the training and administration needed to establish and run a DME program, it is best to develop guidance for those areas. Subsequently, the Coast Guard will consider revising the medical evaluation regulations in §§ 10.301 through 10.306 of this final rule, and converting DME program guidance to regulations. Existing medical evaluation regulations can be found in 46 CFR 10.215.

One commenter recommends that the Coast Guard retain the existing 5-year rule for validity of medical endorsements.

The Coast Guard disagrees. Implementation of the STCW 2-year medical certificate is required by the 2010 amendments to the STCW and is not discretionary. The United States is obligated, as a signatory to the Convention, to implement the 2-year certificate.

The same commenter suggested, alternatively, that the Coast Guard increase manning at the NMC so that applications for medical endorsements can be completed within a specified time period. The commenter suggests that this evaluation period should be something on the order of 2 weeks from receipt of the application by the NMC. If the application cannot be completed in time, the mariner should be provided with a temporary or conditional medical endorsement. Regarding the determination of fitness for duty, the commenter states that the Coast Guard should adopt language stating that in no case should the medical opinion of any generalist be of a higher priority than the medical opinion of a specialist in their field of specialty practice.

With regard to the commenter's suggestion on the evaluation period, the Coast Guard disagrees. While the average time for evaluating medical fitness is less than 2 weeks, the evaluation may take longer for those with more complex medical conditions. Where a mariner has made a timely application or the Coast Guard has a backlog, his/her credential may be extended. With regard to the comment on fitness for duty, the Coast Guard partially agrees and will continue to review determinations of medical disqualification to ensure consistency, oversight, and provide mariners the ability to appeal adverse determinations. Furthermore, the development of a DME program, including interim authority issues, is underway and should provide some relief to the medical evaluation program. Provisions in this final rule allow for the use of designated medical examiners in the future. The Coast Guard is reviewing programs used by other agencies to assist in developing the maritime model. We intend to work with stakeholders in the development of the DME program and will issue future guidance on this subject. Under the DME program the Coast Guard will ensure these physicians receive training on the maritime industry and the identification of medical conditions that they must refer to the Coast Guard for evaluation.

One commenter stated that a 2-year limit for deep-sea medical examinations seems a bit harsh and could become expensive. Could there be a minimum period of validity of 2 years and a maximum of 3 years? The commenter also suggested that better controls for tracking the pilot submittal for their annual physical should be given some thought.

As discussed above, the Coast Guard disagrees. Implementation of the STCW 2-year medical certificate is a requirement set by the 2010 amendments to the STCW and is not discretionary. The Coast Guard has implemented controls to track submittals from pilots as well as medical waivers. Additionally, with the establishment of medical certificates, it will be easier to track all medical evaluations.

Two commenters are concerned that the NMC Medical Evaluations Division will not be able conduct medical evaluations and issue medical endorsements in a reasonable time frame under its current structure and staffing. Furthermore, the commenters say, the Coast Guard did not include the cost for review and issuance in the proposal. They recommend that the Coast Guard set aside this proposal until it can ensure an efficient, accurate, and timely review of Medical Endorsement applications. Additionally, the commenters believe, the current practice of medical vetting must be revised. This should include the acceptance of reports from medical specialists at “face value.” The commenters believe the Coast Guard should not presume to have general practitioners and/or physician's assistants vetting and “second guessing” the evaluations and reports from medical specialists holding the requisite credentials. The commenters recommend that the Coast Guard put a hold on proposed § 10.301(b)(1) until NVIC 04-08 can be rewritten for a realistic 2-year STCW schedule that will not place a large financial burden on the mariner. They also recommend a suspension until the medical review process can be vastly improved to handle a timely 2-year review process.

The Coast Guard disagrees. Implementation of the STCW 2-year medical certificate is a requirement set by the 2010 amendments to the STCW and is not discretionary. Any delay in implementation will fail to meet the requirements of these amendments, and will subject mariners and vessels on which they serve to an increased risk of port-state detention.

The Coast Guard is taking action in this final rule to minimize the number of mariners who will require more frequent medical evaluation. The Coast Guard also has limited authority to grant interim operating authorization to mariners serving under the authority of an STCW endorsement. The Coast Guard has amended § 15.1103(h)(3) to allow mariners to continue to operate if the mariner's medical certificate expires during a voyage, provided the period after expiration does not exceed 90 days. This is consistent with the STCW 2010 amendments. Additionally, the Coast Guard Authorization Act of 2010 provides the Coast Guard with the authority to grant extensions of up to 12 months for national endorsements when the Coast Guard experiences a backlog.

Furthermore, the Coast Guard will be working to develop the DME program to help mitigate any workload issues. Plans for the development of a DME program, including interim authorities, are underway. The Coast Guard is reviewing programs used by other agencies when developing the maritime model, and the Coast Guard intends to work with its stakeholders in the development of the DME program.

The Coast Guard will issue future guidance for the DME program. The use of DMEs will also require the Coast Guard to ensure these physicians receive training on the maritime industry and the medical conditions that must be evaluated by the Coast Guard, using training methods similar to those already employed by other federal agencies. The Coast Guard is also working with the MEDMAC to review and improve policy in this area.

The Coast Guard did not factor in any potential reduction in the cost for review and issuance of medical certificates in the proposal as the degree to which DME will alleviate burden and the timing of a DME program being up and running is still under development. Furthermore, the Coast Guard is seeking and will continue to seek to improve efficiencies in the use of our limited resources, as noted in our response to comment 5 above. The Coast Guard estimated that the costs of implementing the new STCW requirements, including medical, will be less than $4 million on a recurring basis.

Finally, mariners are not paying any fees to the Coast Guard for the review of their medical records and the issuance of their medical certificates, and will not pay any fees associated with the review and issuance of medical certificates. Provisions in this final rule will allow for the use of DMEs in the future.

One commenter notes that the Coast Guard is incorporating STCW revisions to its regulations pertaining to medical standards and that the revisions will increase the frequency of required medical evaluations of mariners from once every 5 years to once every 2 years. However, the commenter believes the 2-year interval will not alert the Coast Guard to significant changes in a mariner's health that might develop within even shorter periods. The commenter recommends that the Coast Guard require mariners to report to the Coast Guard, in a timely manner, any substantive changes in their medical status or medication use that occur between required medical evaluations.

The Coast Guard disagrees. As discussed above, the 2-year reporting interval is consistent with the 2010 amendments. Moreover, there are valid concerns that requiring more frequent medical reporting could overload available medical evaluation staff and heighten the possibility of undesirable processing delays.

One commenter requests that the Coast Guard use the term medical “waivers” appropriately. In the commenter's view, by any common or generally accepted definition, a “waiver” should only be used to describe a situation in which a mariner does not meet the applicable medical fitness standards. Because of mitigating circumstances, however, the NMC “waives” the medical standard or standards and grants the credential or endorsement. To clarify this point, the commenter recommends that the Coast Guard include specific language from NVIC 04-08 dealing with NMC credential issuing actions/options, and that proposed regulation § 10.303(b) be amended.

The Coast Guard agrees. The use of the term “waivers” has caused confusion; therefore the Coast Guard is clarifying the meaning of medical waivers to avoid ambiguity and to improve consistency. A “waiver” will be used to describe a situation in which a mariner does not meet the applicable medical fitness standards. Operational limitations will be issued on medical and physical conditions and restrictions will be issued based upon medical and physical conditions. The operational limitations and restrictions will be reflected in the medical certificate.

The same commenter argues that the distinction between Great Lakes pilots' physical exams and those for other mariners should be eliminated. The commenter recommends that proposed regulations in § 10.302(b) be amended by striking the last sentence of this subparagraph (i.e., “Medical examinations for Great Lakes pilots must be conducted by a licensed medical doctor in accordance with the physical exam requirements in 46 CFR 402.210.”). The commenter states that there is no statutory requirement or policy justification to require Great Lakes pilots to see a “licensed medical doctor” when all other mariners have the option of seeing other types/classes of medical professionals.

The Coast Guard disagrees. The Coast Guard did not propose in this rulemaking any changes to the physical examination requirements for Great Lakes pilots contained in 46 CFR 402.210, but may consider such changes in a future rulemaking. The existing requirement in § 10.215(a)(2) has been moved to § 10.302, but otherwise remains unchanged to ensure that mariners are not confused when applying for a medical certificate.

Two commenters feel that proposed §§ 11.709(b) and (d) are not clear and should be amended to remove ambiguity as to Coast Guard authority with respect to credential invalidation. According to these commenters, amending this proposed regulation would also ensure that the regulation accurately reflects the reality of pilot submission of annual physical examinations.

The Coast Guard agrees, and has amended those sections accordingly.

One commenter states that the Coast Guard/NMC should be given flexibility from the Department of Homeland Security (DHS) Secretary to utilize existing resources as interim approved DMEs. Most major shipping companies already require annual physicals, so they have developed a network of providers, utilizing both union physicians and private companies, that has been effective in determining mariners' fitness for duty.

The Coast Guard intends to work with its stakeholders in the development of the DME program, and interim authority issues would be addressed in that future DME proposal.

One commenter asks, with regard to § 10.301, why a Coast Guard medical review is required every 2 years for a STCW medical certificate if the mariner is getting a medical review every 5 years for a renewal.

The implementation of the STCW 2-year medical certificate is required by the 2010 amendments to the STCW, and is not discretionary. The United States is obligated, as a signatory to the Convention, to implement the 2-year certificate. This final rule implements the 2-year certificate, which will help ensure the Coast Guard and mariners meet the requirements of these amendments. Mariners to whom STCW applies seeking to renew their MMC may either submit a valid medical certificate or a new form CG-719K.

Five commenters note that the proposed amendments would require endorsement or notation on an MMC every 2 years following a mandatory medical certification. Presently, MMCs are re-issued every 5 years. By requiring medical recertification to be noted on the MMC, this will increase the burden on crewmembers to obtain a new MMC every 2 years. The commenters believe this would result in a waste of resources when crewmembers will not only have to obtain medical certification, but also a new MMC.

The MMC will remain valid for a 5-year period. The Coast Guard has amended § 10.301 and will issue a separate medical certificate with the appropriate validity date through the NMC to avoid overburdening the system and the application process.

Five commenters recommend that the Coast Guard establish a process to grant “interim operating authorization” to mariners who submit their medical information in a timely manner but whose medical certificates cannot be processed by the NMC before expiration of the MMC.

The Coast Guard partially agrees. The Coast Guard has limited authority to grant interim operating authorization to mariners serving under the authority of an STCW endorsement and has amended § 15.1103(h)(3) to allow mariners to continue to operate if the mariner's medical certificate expires during a voyage, provided the period after expiration does not exceed 90 days.⁵ This is consistent with the STCW 2010 amendments to the STCW Convention. Additionally, the Coast Guard Authorization Act of 2010 provides the Coast Guard with authority to grant limited extensions for national endorsements when the Coast Guard experiences a backlog.⁶

⁵ A mariner not engaged on a voyage on the expiration date of the medical certificate wouldn't receive an extension under this provision. The Coast Guard may grant an extension, however, to a mariner who has made timely application, or if the issuance of the credential is delayed due to backlog, or due to natural catastrophe.

⁶ For all activities at NMC a backlog is considered to be more than 9,000 pending applications. For the appeals process, a backlog occurs when the average processing time for appeals exceeds 90 days.

One commenter asks whether the medical certificate is separate from, or part of, a person's Merchant Mariners Document (MMD). If it is a separate certificate, would there be fees for the review and issuance? The commenter notes that there is no mention of this in the rulemaking.

The Coast Guard will issue a separate medical certificate through the NMC. This approach will impose less burden on mariners and the Coast Guard than the production of medical endorsements to be added to the MMC. This final rule does not include additional fees associated with the medical certificate because the Coast Guard will not collect any fees from the mariners for the review of medical records and issuance of medical certificates to mariners.

The same commenter asks if a mariner would be required to pay for and obtain an MMD if the medical certificate is part of a person's MMD, and the mariner was serving on small passenger vessels and not currently required to have an MMD.

The Coast Guard plans to continue the existing practice for personnel who do not hold an MMC or MMD. They will not be required to apply for a separate medical certificate.

One commenter states that the proposed medical document system is overly burdensome to the industry in view of the very small gain in safety that might possibly be achieved.

The Coast Guard disagrees. Implementation of the STCW 2-year medical certificate is a requirement set by the 2010 amendments to the STCW, and is only applicable to seafarers serving on vessels to which STCW applies. The Coast Guard is taking action in this final rule to minimize the number of mariners who will require more frequent medical evaluation by not requiring 2-year medical certificates for mariners seeking only national endorsements. Medical certificates for such endorsements will be valid for 5 years unless the mariner has a limitation, restriction, or waiver for a medical condition. The Coast Guard also has limited authority to grant interim operating authorization to mariners serving under the authority of an STCW endorsement. The Coast Guard has amended § 15.1103(h)(3) to allow mariners to continue to operate if the mariner's medical certificate expires during a voyage, provided the period after expiration does not exceed 90 days. This is consistent with the 2010 amendments. The Coast Guard will also be working to develop the DME program to help mitigate any workload issues, and the Coast Guard Authorization Act of 2010 provides the Coast Guard with the authority to grant limited extensions for national endorsements when the Coast Guard experiences a backlog.

Additionally, unidentified medical conditions can impair a mariner's ability to perform tasks and respond, thus contributing to the human element of casualties. This final rule will require more frequent medical exams for STCW mariners, thus reducing the potential impacts of medical conditions on human error. In combination, the provisions of this final rule are expected to reduce potential for vessel accidents.

In summary, the 2-year medical certificate requirement is consistent with the STCW Convention requirement for seagoing mariners, and strikes an appropriate balance between maritime safety and the administrative processing burden.

One commenter recommends that the Coast Guard update its medical reporting systems, to take advantage of computer interface capabilities, make it more secure and Health Insurance Portability and Accountability Act compliant, prior to requiring mandatory medical certification at a minimum of every other year. Additionally, the commenter believes common sense would dictate scaling frequency of these renewals to a mariner's age. For instance, it's currently 5 years; at age 50, it becomes annual.

The Coast Guard disagrees. We are currently working on improving our medical credentialing process and guidelines and will issue future guidance on this subject. However, we are not planning on delaying implementation of the medical certificate. The 2010 amendments to the STCW Convention and Code requires that full implementation of the issuance of medical certificates be achieved by January 1, 2017. To facilitate implementation, the Coast Guard will start issuing 2-year medical certificates 30 days after the publication of this final rule. In addition, the STCW Convention does not base the frequency of medical examinations on the age of the seafarer. Therefore, there are no plans for age-based examinations at this time.

4. Training

One commenter supports the way the Coast Guard has adopted the STCW standards of competence at the management and operational levels for deck officer endorsements in § 11.301(a). The commenter believes that, by publishing them in the rules, mariners can see the options available to them under STCW. By adhering to the terms of the Convention rather than reflecting the assumed intent of delegates to the IMO, the commenter says, the Coast Guard is meeting its obligations to the international maritime community and U.S. mariners in a responsible, reasonable fashion.

The same commenter stated that the Coast Guard's proposed revision of § 12.605 in response to the comments of MERPAC is laudable. In view of the anticipated changes, the commenter recommends revision of the provisions of NMC Policy Letter 14-02 to reflect these standards.

The Coast Guard is currently reviewing guidance in this area and will consider future revisions to the Policy Letter that might be necessary as a result of this rulemaking.

Thirty-three commenters oppose the introduction of onboard assessments as an alternative to the current regime of structured training. The reasons cited include concerns that this alternative method would result in the degradation of the competency and proficiency of the U.S. mariner, potentially shift the overall training responsibilities to vessel's personnel onboard minimally manned vessels, possibly conflict with STCW Section A-I/6, allow the conduct of assessments that cannot be safely done onboard the vessels, and fail to allow for competencies that are not conducive to self-learning and must be supplemented with formal training.

Thirteen commenters agree with the Coast Guard moving away from only accepting classroom training as demonstration of proficiency for the credentialing of mariners. The commenters state that onboard and on-the-job training should remain an important part of the industry, and support this change.

The Coast Guard responds that the STCW Convention is a competence-based Convention and not a training-based Convention. Further, approved classroom training is not the only means of acquiring knowledge; on the contrary, on-the-job training conveys certain knowledge, understanding and proficiencies more thoroughly and efficiently. The STCW Convention does not specify what competencies (including knowledge, understanding, and proficiencies) require approved, formal training. It is up to the Administration to establish the required training and/or experience necessary to achieve the level of competence, and to establish when and how the training should be obtained.

The Coast Guard recognizes commenters' concerns that shipboard operations might make it challenging for seafarers onboard vessels to train others, particularly when reduced manning, higher mariner workload, and mariner fatigue issues are taken into account. The Coast Guard also recognizes that not all STCW competencies and individual knowledge, understanding, and proficiencies must be accomplished as part of a formal structured, training as there are areas where in-service experience may fulfill the competency requirement. Taking this into account, the Coast Guard reviewed the tables of competencies and identified the training topics that must be accomplished as part of approved formal training.

The increased number of training topics that must be covered by approved training will strike an appropriate balance between providing flexibility and ensuring mariners achieve a sufficient level of competence for STCW endorsements. These training topics in the final rule were part of the extensive list of topics proposed in the NPRM, as well as those listed in the SNPRM. Parts 11 and 12 of this final rule are amended to include a combination of training and in-service requirements, validated through assessments, to ensure that seafarers achieve the necessary level of competence. However, these changes do not prohibit companies and organizations from developing approved in-service training.

One commenter recommends that e-learning not be proctored.

The Coast Guard agrees. E-learning is optional under § 10.412 and Section B-I/6 of the STCW Code, and neither require proctoring of e-learning courses. However, all testing must be proctored to ensure secure procedures for the examination system to prevent cheating. Additionally, all assessments must be monitored by qualified assessors.

One commenter notes that deck officers are spending time with cadets and teaching and assessing them on required tasks, after the cadet learns the material in the classroom. The commenter specifically noted that we can hardly expect an officer to teach a three-star fix, explain a mid-latitude sailing, work an amplitude and do his job, the commenter says. In the commenter's view, not only might a deck officer feel uncomfortable teaching those elements (which are no longer a daily part of his job), there simply may not be the time to do so.

The Coast Guard agrees in part. The SNPRM did not propose to require deck officers to teach cadets onboard. We agree, however, that the development of onboard assessments is not intended as the wholesale transfer of the training of seafarers from shoreside educational establishments to the shipboard personnel responsible for the oversight of the vessel's operation. The Coast Guard recognizes that onboard duties can preclude the time needed to provide a comprehensive training program for subordinates, but that there is still a burden to ensure that they are competent to perform their duties, which include assisting supervisors and other shipboard personnel with their duties. The Coast Guard also recognizes that STCW is a competency-based system and that by differing combinations of exposure, training and self-study each mariner may independently acquire individual STCW competencies while onboard vessels. Therefore, onboard assessments do not contain a training component beyond the feedback needed by the candidates to further develop themselves and should reasonably be within the scope of the duties of an assessor. The Coast Guard will be developing guidance that includes the development of qualified assessors, pertinent guidelines and other standards that will be needed for the successful use of onboard assessments.

A training institution asks the reasons for the Coast Guard's decision to eliminate most of the existing approved education/training and assessor qualifications (§ 11.301(a)(1)) for certification as an OICNW, chief officer, and master on unlimited tonnage vessels. They asked “what prompted the Coast Guard to change its interpretation after 10 years of precedence?”

The 1997 interim rule, implementing the 1995 amendments to STCW with changes to 46 CFR parts 10 and 12, did not limit the permissible means of demonstrating required competencies to formal training. Since the publication of the interim rule, mariners have pointed out the benefit of permitting greater flexibility in demonstrating competence through the many methods allowed by the Code. Further, the SNPRM reflected the more flexible approach to demonstrating competence in the 2010 amendments.

The same commenter asks if the Coast Guard knows of any other flag state that shares this interpretation of STCW competence and training requirements, and if, from a public policy perspective, the Coast Guard believes this change is a reduction in the safety standards for the industry.

The Coast Guard is aware of a number of countries that share parts or all of the interpretations of the flexibilities that exist within the STCW Convention and Code. These flexibilities are the basis for these regulations, which do not represent a reduction in safety standards for the industry. This rulemaking will ensure a consistent implementation of the Convention requirements throughout the industry. A consistent implementation of the proper combination of training, assessment and sea service will further increase safety, security and environmental protection.

One commenter requests that current § 10.404(a)(3), which addresses the use of sea service that is credited as a result of completing an approved course, be clarified.

The Coast Guard agrees in part. We did not propose a change to the existing requirements in this section. However, we included new language in § 10.404(a)(4) to clarify the applicability of this provision to STCW endorsements.

One commenter states that the sections of this SNPRM regarding the training and assessment for OICNW operational level and for chief mate/master at the management level represent a circumvention of the intent and spirit of IMO's Resolution 7—Promotion of technical knowledge, skills and professionalism of seafarers; In particular paragraphs .1 through .4 and .6 of the Resolution.

The Coast Guard disagrees. The use of on-board-training supports the intent of Resolution 7, to ensure that mariners are involved in the development of junior officers to ensure qualified professionals.

One commenter stated that the low level of understanding of basic meteorology exhibited by candidates for endorsement as OICNW extends, to a lesser degree, to sailing Masters “grandfathered before STCW.” The commenter recommends that the Coast Guard review the Detailed Teaching Syllabus from IMO model course Section 11 and require that OICNW candidates be required to complete this course.

The Coast Guard agrees. Meteorology was added to the list of training subjects that must be completed as part of structured training at the operational level.

Two commenters like the option of using alternate methods of demonstrating competence.

One commenter states that the Coast Guard should task MERPAC with reviewing the training areas for all ratings/licenses to ensure developing technologies and operations are incorporated into the requirements in a timely manner. The commenter states that a comprehensive review by MERPAC relative to these concerns is warranted and will be valuable in assuring the necessary competencies are required for mariners holding specific endorsements.

The Coast Guard agrees, and asked MERPAC, in task statement 75, to review the STCW SNPRM and provide comments and recommendations to the Coast Guard, including: (1) Developing a list of training elements (in addition to those in the proposed SNPRM) for operational and management level deck and engineer officers, where and if appropriate, that should be completed as part of a structured program/training course to address the knowledge, understanding, and proficiencies (KUPs) in the competence tables; and (2) identifying which of the training elements can be accomplished onboard vessels, and which could better be accomplished ashore in a formal classroom setting.

During its October 5, 2011, meeting, MERPAC recommended the competencies that must be subject to formal training and also recommended that the content of the training should be appropriate to the tonnage, route and/or type of vessel. The Coast Guard agrees with some of the areas identified by MERPAC concerning formal training and has amended part 11, subpart C, and part 12, subpart F, of this final rule to include a combination of training and in-service requirements (validated through assessments) to ensure that the seafarers achieve the level of competence. These formal training topics were part of the NPRM published in 2009.

One commenter recommends that consideration be given to authorizing approved training facilities that meet Coast Guard and STCW quality system standards to issue certificates of proficiency on completion of an approved course and assessment that would be accepted by the Coast Guard as meeting the requirements for STCW endorsement.

The Coast Guard disagrees. The STCW Convention authorizes the issuance of “certificates of proficiency” by training institutions for some of the competency requirements. However, authorizing training institutions to issue certificates of proficiency places additional burdens on them, and would create significant oversight difficulties. Training institutions would be required to deal with port state control authorities around the world on confirmations of the validity and authenticity of the document issued by the institution. Authorizing training institutions to issue certificates of proficiency would also require those institutions to be responsible for preventing the issuance of fraudulent certificates and ensuring they meet a standardized format.

One commenter recommends that § 12.623(a)(2)(ii) be deleted as there are currently no approved Global Maritime Distress and Safety System (GMDSS) maintainer courses in the United States and there are no published guidelines for what such a course should contain. Alternatively, the commenter says, the Coast Guard should publish course guidelines/criteria for development of a GMDSS maintainer course.

The Coast Guard agrees in part. Until such time as the Coast Guard establishes criteria for and approves such “GMDSS at sea maintainer courses,” § 12.623(a)(2)(ii) will not be a viable option to demonstrate competency. Nonetheless, the Coast Guard has included this option because it intends to soon begin the process of promulgating guidelines for GMDSS course content and approval.

One commenter recommends that, in § 11.305(d), allowance should be made for a mariner to crossover from the 500-1,600-ton master to second mate, then with training and sea service progress to unlimited master, such as the progression in § 11.404.

The Coast Guard disagrees. The Coast Guard is providing this career progression in § 11.305(d) in support of STCW Regulation II/2. The length of qualifying service required for master and chief mate on vessels of 3,000 GT or more in STCW Regulation II/2, paragraph 2, is the same as that required for master and chief mate on vessels of between 500 and 3,000 GT in paragraph 4 of the same regulation. This career progression recognizes that service, and provides a method for mariners holding the lower tonnage credential to obtain the master of vessels of 3,000 GT or more upon completion of additional service and any assessments that have not been completed.

One commenter notes that proposed § 10.404(a)(3) states that: “Unless otherwise allowed, training obtained before receiving an endorsement may not be used for subsequent raises of grade, increases in scope, or renewals.” The commenter says that this provision would discourage OICNW candidates from pursuing training beyond the minimum required. If they opt to receive training in higher level professional abilities at the management level, they become more valuable to the safe operation of the vessel, the commenter states, and they can benefit from practical experience by applying those higher abilities at the operational level to assist senior officers.

In addition, one other commenter states that, with regard to § 10.404(a)(3), unless there are provisions made within this section, individuals may need to take the same class twice to receive or to maintain a credential when upgrading or increasing the scope of their license. The commenter states that this is an expensive and unnecessary training requirement.

The Coast Guard partially agrees. The existing requirements in § 10.404(a)(3) apply to national endorsements where the training is used in “lieu” of “service” or “exam.” This requirement is not applicable to STCW provisions, since the Convention allows for the attainment of training and assessment for management level at the operational level. The Coast Guard has added § 10.404(a)(4) to ensure that this does not apply to STCW courses.

One commenter asks if, with regard to §§ 11.309(a)(4)(iii) and 11.319(a)(5)(iii), it would be possible to include Standard Marine Communication Phrases (SMCP) training in the “Flashing Light” course requirement for STCW.

The Coast Guard allows training providers broad discretion in determining how to establish their courses and programs, and the course can be approved to meet both requirements. The Coast Guard will allow training providers to include the SMCP training in a “Flashing Light” course, but will not require it.

The same commenter asks if the same methods of demonstrating competence will be allowed for chief mates in the future. In other words, will the course requirements for advancing to chief mate no longer be mandatory?

Section 11.307 of this final rule requires the completion of approved training in several subject areas for an endorsement as chief mate on vessels of 3,000 GT or more. That section specifies the acceptable methods of demonstrating competence and the training requirements for this endorsement.

One commenter requests that, with regard to the Towing Officer Assessment Record (TOAR), sections for barge work be allowed on simulators and a DE should be authorized to sign off on them.

The Coast Guard agrees but does not believe a change to the rule is needed. The guidance in NVIC 4-01 allows for the use of simulators in this case.

One commenter asks if consideration has been given to modifying § 11.516(a)(6) to change the present 3-year requirement for an accepted training program for an original unlimited third assistant engineer horse power license to some shorter period of time.

The Coast Guard agrees and has removed the 3-year duration in § 11.516(a)(6) for the training program because each program will be evaluated based upon its individual merits and its ability to provide the theoretical knowledge, understanding and proficiency to enable the candidate to serve as third assistant engineer.

One commenter recommends removal of the requirement in §§ 12.501 and 12.607 for holding/service as a Qualified Member of the Engine Department/able seafarer-engine for engineer officer credentials.

The Coast Guard disagrees. The requirements to become an engineering officer are contained in § 11.516 and not in §§ 12.501 or 12.607. We are keeping the requirement in § 11.516 for service as QMED as part of an option to become a third assistant engineer “coming up through the hawsepipe.” There are five classes of QMED listed in § 12.501 through which this service can be met; some stand watch, while others don't. The Coast Guard does not wish to restrict mariners from these choices. Candidates for third mate and rating forming part of a navigational watch need directed watchstanding duty experience, whereas third assistant engineer and ratings forming part of an engineering watch candidates can gain relevant experience sailing in any of the QMED ratings.

One commenter proposes, that because of the burdens imposed by STCW on domestic mariners, that the United States, pursuant to Article XV of the SCTW Convention, advise the IMO that the U.S. domestic credentialing program is “sufficient for mariners serving on vessels of 200 to 1,600 GRT (500 to 300 tons IRT) in domestic coastwise waters.”

The Coast Guard disagrees. Although Article XV provides for a country's withdrawal from the entire Convention, it does not allow a country to opt out of certain provisions of the Convention to which it does not agree. Additionally, it is the Coast Guard's view that, overall, the requirements of STCW are justified in the interests of safety, security, and protection of the marine environment. Finally, recognizing that STCW allows a variety of ways for a mariner to demonstrate competence other than formal classroom training, this final rule now includes implementation of assessment-based processes that allow acceptance of these various methods.

One commenter states that the SNPRM preamble, on page 45917, says that § 10.401 revises the applicability to include training programs, but the commenter can't find that in the cited section. Is it someplace else?

The requirements in § 10.401 apply to both approved courses and training programs.

5. Utility and Harbor Assist Towing

One commenter states that he is a Commercial Tow Boat Operator on Lake Washington, and that he typically moves boats (18′ to 40′) to a repair shop, not unlike taking your car to a shop with a flat tire. He asks if someone can tell him why he would need to have any special treatment or license to do this.

Under section 8904 of 46 U.S.C., mariners towing a disabled vessel for compensation must be credentialed by the Coast Guard. Additionally, if the towing vessel is greater than 26 feet in length, the operator must be credentialed by the Coast Guard to operate the vessel in the location.

One commenter states that the practical demonstration required in § 10.227(e)(6) is too vague, that the assessment and its conditions need to be further defined. According to the commenter, “ongoing participation in training and drills during the validity of the license or MMC may be used to renew but this section does not define what type of training or drills are required. This section should define these issues.”

The Coast Guard disagrees. The Coast Guard has provided the towing industry the documentation being sought for this issue through guidance in NVIC 04-01 revision 1. The review of NVIC 04-01 and the TOARs is ongoing with the TSAC task statement 08-01.

Two commenters recommend that, with regard to the provision for new towing endorsements included in the SNPRM, the Coast Guard remove these provisions and transfer them to the new subchapter M proposed rulemaking dealing with the inspection of towing vessels. In the commenters' view, the creation of the new towing endorsements is unrelated to the STCW, raises serious safety concerns, and should not be fast-tracked as part of a final rule to implement the STCW amendments.

In addition, seven other commenters oppose the creation of the new master of towing (utility) and master of towing (harbor assist) licenses.

The Coast Guard is not including in this final rule the endorsements for apprentice mate (steersman) of towing (utility), master of towing (utility), and master of towing (harbor assist) that were proposed in §§ 11.466(c), 11.464(d), and 11.464(e) of the SNPRM. Public comment raised sufficient concerns with these provisions, as discussed below in “Discussion of Public Comments,” that the Coast Guard wants to seek additional comment from the industry. We are currently considering moving the issue to another rulemaking and seeking additional input from TSAC, which would give the public additional time to comment on this matter. However, we are retaining the existing definition of “disabled vessel.”

One commenter recommends that the Coast Guard look closely at the requirements of the model TOAR in NVIC 4-01 to ensure that they are easily used for all towing vessels without imposing a towing requirement which is inconsistent with a vessel's design or capability.

This issue is outside the scope of this rulemaking. TSAC is currently amending NVIC 4-01—Model TOAR under task statement 08-01.

6. Chief Engineer (Limited Near-Coastal)

One commenter recommends that the Coast Guard amend § 11.512. The minimum service required to qualify an applicant for endorsement as first assistant engineer of steam, motor, and/or gas turbine-propelled vessels is 1 year of service as an assistant engineer while holding a license or MMC endorsement as second assistant engineer. The commenter states that service as a chief engineer (limited-oceans/limited-near-coastal) supersedes that of an assistant engineer (limited). However, the NMC does not recognize this, thereby refusing to accept service as chief engineer (limited-oceans/limited-near-coastal) in the same manner as assistant (limited).

The Coast Guard agrees with including sea service as chief engineer (limited) as an option in the service requirements for first assistant engineer and has amended § 11.512 accordingly. Please note, as discussed below, that the Coast Guard has eliminated the chief engineer (limited near-coastal) endorsement and dropped the “Ocean” designation from both chief and assistant engineer (limited). Also included in this rulemaking is a crossover path from assistant engineer (limited) to third assistant engineer.

One commenter recommends that all engineers who hold a license as chief engineer (limited) 1,600 GRT near-coastal or ocean prior to January 1, 2013, should be given an STCW endorsement as chief engineer meeting the requirements of STCW III/2, but with a tonnage limitation to 1,600 GRT. Evidence of meeting the standard of competence for leadership and management skills and for management of electrical and electronic control equipment should be required at the first renewal of such an endorsement, the commenter says.

The Coast Guard disagrees with the suggestion that mariners holding certain national endorsements be “given” an STCW endorsement. Most national credential holders qualify in some way for an STCW endorsement; however, they must also meet the additional STCW sea service, training, and/or assessments involved, as appropriate. These mariners are able to apply for a particular STCW endorsement outlined in the relevant crossover table in the STCW sections of the rule (part 11, subpart C, and part 12, subpart E).

The same commenter recommends that all engineers who currently hold a license as chief engineer (limited near-coastal) should be upgraded to chief engineer (limited-ocean) 1,600 GRT without further sea service or testing requirements and given the same STCW III/2 endorsement restricted to vessels less than 1,600 GRT.

The Coast Guard agrees in part and has amended the regulations to remove chief engineer (limited near-coastal). New applicants for chief engineer (limited) and those wishing to upgrade from near-coastal to the new, single credential will have to sail the additional year already specified in the regulations. Current mariners who hold a chief engineer (limited near-coastal) credential may continue to renew that credential. However, since the written examination for both chief engineer (limited) categories are identical, those mariners going from chief engineer (limited near-coastal) to chief engineer (limited) will not be required to take an examination.

Five commenters recommend that the Coast Guard eliminate the chief engineer (limited near-coastal) license and replace it with a chief engineer (limited) license limited to vessels less than 1,600 GRT, unlimited horsepower (HP). Consistent with the corresponding service requirements for deck licenses, the commenters recommend that the service time required for a chief engineer (limited) license also be reduced from 5 years to 4 years. There are many unlicensed engineers and limited scope licensed engineers who perform duties and have responsibility as engineer aboard vessels sailing internationally. The commenters recommend grandfather provisions for these engineers upon proof of sea service. They feel that these mariners should be granted a limited-scope license and an STCW endorsement that allows them to continue to serve in the capacity in which they have sailed. The commenters state that this limitation could be restricted to a specific type of vessel, tonnage, and/or equipment the Coast Guard finds appropriate, but it is crucial that these qualified mariners are able to continue sailing.

The Coast Guard agrees in part and has amended the regulations to remove chief engineer (limited near-coastal). New applicants for chief engineer (limited) and those wishing to upgrade from near-coastal to the new single oceans credential will have to sail the additional year already specified in the regulations, for a total of 5 years. However, since the written examination for both chief engineer (limited) categories are identical, those mariners going from chief engineer (limited near-coastal) to chief engineer (limited) will not be required to take an examination. The Coast Guard does not agree with the request to reduce service time from 5 years to 4 years as it is inconsistent with the STCW Convention and Code.

One commenter believes that limiting the geographical routes for an engineer's license to anything other than near-coastal or oceans is superfluous. The commenter states that limits of 1,000 HP are also fairly useless since few towing vessels for offshore service are so underpowered, and that a limit of 4,000 HP is more realistic.

The Coast Guard disagrees. Current national standards apply to more than towing vessels and are also applicable to all vessels of less than 1,600 GRT. Further, the Designated Duty Engineer (DDE) endorsements carry not only horsepower restrictions but also tonnage and route restrictions. Industry has demonstrated a use for the 1,000 HP endorsement. Therefore, we are retaining it in subpart E of part 11. Additionally, we have eliminated the chief engineer (limited near-coastal) endorsement from § 11.520. All limited engineers are now authorized to sail upon oceans on vessels of less than 1,600 GRT but are not restricted as to horsepower.

One commenter recommends that the Coast Guard amend § 11.510, which sets out the service requirements for domestic endorsements as chief engineer of steam, motor, and/or gas turbine-propelled vessels. As proposed in the SNPRM, the section accepted service as a first assistant engineer or while holding a license or MMC endorsement for that position. The commenter points out that chief engineer (limited-oceans/limited-near-coastal) and assistant engineer (limited) are recognized as “management level” endorsements. Therefore, the commenter says, this section should be amended to include the following: Service as chief engineer (limited oceans/limited near-coastal) or assistant engineer (limited), while holding a license as first assistant engineer, is creditable as first assistant engineer on a two-for-one basis (2 days of service creditable as 1 day) on vessels over 1,600 GRT and over 4,000 HP, applicable to 100 percent of the total required service.

The Coast Guard agrees and has amended § 11.510 to allow creditable sea service as the commenter suggests.

7. Articulated Tug Barges (ATBs)

One commenter recommends that the Coast Guard reconsider its present position in the SNPRM, and adopt a regulation or policy whereby inland tug-barge combinations are accepted in computing license tonnage ratings as they presently are for ITB and ATB service.

In order to facilitate the towing industry's need for career paths to retain highly-skilled personnel, the Coast Guard has amended text in §§ 10.232 and 11.211 to accept certain towing vessel service based on the aggregate tonnage of the tug and barge(s) when greater than 1,600 GRT. This service will be accepted only when properly documented by the towing company.

One commenter notes that § 11.211(d) provides specific sea service credit for ATBs. The commenter asks how far back will the Coast Guard grant sea service credit with proper documentation on an ATB.

Service on ATBs will be accepted subject to the same time considerations as service on other vessels. Generally, the only applicable conditions are that a portion of a mariner's qualifying service must meet the “recency” requirements of § 11.201(c).

One commenter notes that § 11.463(g) acknowledges that the Coast Guard will issue a towing endorsement restricted to specific types of vessels, such as ATBs. It has been accepted that not all tasks on a TOAR apply to an ATB and, consequently, someone on an ATB may not be able to obtain a completed TOAR. In the commenter's view, § 11.464(i) should contain a provision to authorize an ATB endorsement for mariners who are unable to complete the TOAR because some requirements in the TOAR do not apply or the equipment is not specifically fitted on an ATB. The same provision should be made in § 11.465(d)(2).

The Coast Guard disagrees. Both sections reference the requirements for a TOAR in § 10.404(c). This section requires mariners to complete a TOAR approved by the Coast Guard. Additionally, the regulations and implementing policy provide mariners the opportunity to revise the TOAR to make it appropriate for the vessel upon which they serve, if they get those changes approved by the Coast Guard. As part of the approval, the Coast Guard will note the routes and/or vessels for which the TOAR is approved. Mariners serving on ATBs will be considered to have met the requirement to hold a completed TOAR if they have completed the Coast Guard-approved TOAR for ATBs on the applicable routes.

Three commenters recommend that if the Coast Guard intends to credit ATB sea time the same as unlimited vessels, the Coast Guard is obligated to ensure that these combined tonnage vessels are manned as ships, inspected as ships, and that the crews and vessels meet all international conventions as ships. Two of the commenters further recommend that sea service credit for ATBs should be limited to no more than one day of sea service credit for every 3 days served, up to a maximum of 6 months credit toward a raise in grade of unlimited level licenses. The third commenter recommends that the Coast Guard award sea service credit for mariners serving on ATBs on a 2 for 1 basis (2 days of service is awarded 1 day of sea service credit).

The Coast Guard disagrees. The proposed standard provides a comparable service credit to the existing regulations, and there is no evidence to demonstrate that it would increase risk in marine transportation.

Three commenters state that, in § 11.211(d), service on ATBs or sophisticated tank barges should be permissible to qualify for a tankerman-PIC endorsement.

The Coast Guard agrees. The Coast Guard has amended § 13.127 to accept service onboard some ATBs toward the national and STCW tankerman endorsements (including tankerman-PIC), provided the ATB equipment is equivalent to comparable tankship equipment. This change is necessary to ensure career paths and to facilitate the use of new ATBs as qualifying platforms for tankerman endorsements. In addition, the Coast Guard has provided a means for mariners serving on tank barges to qualify for an STCW endorsement with a limitation to non-self-propelled vessels.

8. Manning

Thirty-four commenters were concerned that, as worded, § 15.515(b) would not allow passenger vessels with the minimum crew complement required by the Certificate of Inspection (COI) to conduct drills or shore side operations (like vehicle inspections) requiring crew members to be off the vessel. The commenters recommend that the Coast Guard clarify that the crew complement required by the COI may be off the vessel in rescue boats or shore side as needed to accomplish routine operations or emergency response and drills.

The Coast Guard disagrees. Due to passenger vessels' minimum manning, it is essential for the safety of the passengers to ensure there are sufficient personnel on the vessel to respond to emergencies and passenger needs.

One commenter states that the proposed change to the 4-on-8-off watch schedule would greatly affect working conditions on ships such as his, working in inland waters on a 6-on-6-off watch schedule.

The Coast Guard disagrees. We have not proposed to require a 4-hours-on, 8-off watch schedule in § 15.1111. The section requires that all mariners subject to STCW must receive: (1) A minimum 10 hours of rest in any 24-hour period; and (2) 77 hours of rest in any 7-day period. Mariners subject to STCW, such as the commenter, who work on vessels utilizing a 6-on, 6-off watch schedule, would be given sufficient rest, receiving 12 hours of rest in any 24-hour period, and 84 hours of rest in a 7-day period.

One commenter states that, in § 15.403(c), the phrase “each person serving as an able seafarer-deck” could lead to confusion because of the lack of a definition of that individual. The commenter recommends that it be clearly stated that A/B-deck is equivalent to able seaman (A/B), which is consistent with the qualification standards in § 12.603.

The Coast Guard agrees and has amended §§ 15.404(b) and 15.404(d)(3) accordingly.

One commenter states that in § 15.404(b), which sets out certain requirements for serving aboard a vessel, the last sentence makes it sound like all persons on a vessel must comply, not just those serving as a rating as A/B. The commenter recommends that the application of this provision should be clarified to affect just those endorsement holders who are serving to fill a manning standard.

The Coast Guard agrees and has amended the last sentence in § 15.404(b) to read “Each person serving as a non-watchstanding A/B on vessels must also hold an STCW endorsement as able seafarer-deck.”

One commenter asks, with regard to § 12.603, which sets out requirements to qualify for an STCW endorsement as able seafarer-deck, how the COIs will be worded. Will COIs now list both domestic and STCW endorsements required?

COIs will list both national and STCW endorsements. The Coast Guard will be revising safe manning documents to be consistent with the changes in this final rule.

One commenter notes that § 15.1105 does not reference the STCW-required security familiarization.

At this time, the Coast Guard intends to satisfy the STCW 2010 amendments regarding security familiarization requirements through the regulations in existing 33 CFR subchapter H, subpart B, which require that mariners meet the knowledge requirements via training or equivalent job experience. The requirements in 33 CFR 104.220 and 104.225 meet the requirements for familiarization training. If any changes to 33 CFR 104.220 and 104.225 are needed, the Coast Guard will consider including them in a separate, future rulemaking.

Three commenters believe that the requirements of proposed § 15.1113 are written for a cargo vessel, where the entire vessel is defined as a secure or restricted space, and does not take into account the operation of a typical passenger vessel, on which most spaces are open to the general public.

The Coast Guard agrees in part. The 2010 amendments to the STCW Convention (Section A-VI/6) require that all persons employed or engaged on a seagoing vessel receive security familiarization. The requirements will apply equally to both cargo and passenger vessels. The term “all persons” includes seafarers and other personnel, including contractors, whether part-time, full-time, temporary, or permanent.

As discussed above, the Coast Guard intends to meet the STCW 2010 amendments regarding security requirements via the regulations in 33 CFR subchapter H, specifically 33 CFR 104.225, which requires that all contractors, whether part-time, full-time, temporary, or permanent, must have knowledge on a number of topics, through training or equivalent job experience. Accordingly, the Coast Guard has amended § 15.1113 to ensure that all contractors, whether part-time, full-time, temporary, or permanent, must have knowledge of the topics listed in 33 CFR 104.225 through training or equivalent job experience.

One commenter recommends that the Coast Guard amend § 15.1113 to read as follows:

(a) Onboard a seagoing vessel of 200 GRT/500 GT or more:

(1) All persons performing duties as Vessel Security Officer (VSO) must hold a valid endorsement as VSO;

(2) After July 1, 2012, all personnel with designated security duties must hold a valid endorsement as vessel personnel with designated security duties, or a certificate of course completion from an appropriate Coast Guard-accepted course meeting the requirements of 33 CFR 104.220; and

(3) After July 1, 2012, all other vessel personnel, including contractors, whether part-time, full-time, temporary, or permanent, must hold a valid endorsement in security awareness, or a certificate of course completion from an appropriate Coast Guard-accepted course meeting the requirements of 33 CFR 104.225.

The Coast Guard agrees and has amended § 15.1113 to address the following issues: (1) Provide for the appropriate application to vessels over 500 GT; (2) include all transitional provisions from the STCW Convention applicable to existing mariners; (3) include an implementation date of March 24, 2014, for new mariners; (4) amend the requirements applicable to contractors and other personnel to ensure that they do not have to obtain an endorsement; and (5) ensure persons meeting the VSO requirements are considered to have met the requirements of training for personnel with or without security duties.

Two commenters recommend that the Coast Guard review the language in § 15.812(a)(1) to ensure that the intent of this section is not to require “all coastwise towing vessels,” which are propelled by machinery and subject to inspection under 46 U.S.C. chapter 33, to carry a pilot irrespective of whether they are actually engaged in towing.

The Coast Guard proposed no changes to existing § 15.812(a)(1), and that provision remains unchanged in this final rule. For that reason, the commenter's request to revise the conditions under which coastwise towing vessels are required to carry a pilot is outside the scope of the rulemaking. The Coast Guard may consider this matter in a future, separate rulemaking.

Two commenters recommend that, in order to avoid confusion (or disagreement with port state control on what endorsements are required for mariners on towing vessels), the Coast Guard should work with vessel owners to clarify, on a vessel's Safe Manning Document, what STCW requirements must be met (e.g., 1 master (STCW III/2), 2 licensed mates (STCW III/1), etc.).

The Coast Guard agrees and is amending the manning requirements in §§ 15.805 and 15.810 accordingly. Furthermore, the Coast Guard will be revising safe manning documents to be consistent with the changes in this final rule.

Fifteen commenters note that, throughout the current language of Part 10 of title 46 of the Code of Federal Regulations, there remain inaccurate and outdated statements that mariner credentials are valid only when accompanied by a current Transportation Worker Identification Credential (TWIC). Since enactment of the Coast Guard Authorization Act of 2010 (section 809 of Pub. L. 111-281), these are incorrect statements as a matter of law. Section 809 relieved a mariner with a Coast Guard credential who does not need unescorted access to a secure or restricted space on a vessel that has a Coast Guard-approved vessel security plan (as required by the Maritime Transportation Security Act of 2004, as amended) from the requirement of obtaining a TWIC. The commenters recommend that references to TWIC should be altered to state “if required” or “as appropriate.”

The Coast Guard agrees, and is in the process of amending the TWIC requirements in a separate rulemaking (RIN 1625-AB80). Additionally, the Coast Guard recently published CG-CVC Policy Letter 11-15 to revise the credentialing enforcement in regard to TWIC.

One commenter states that the SNPRM creates a de facto manning requirement for any vessel subject to STCW to carry a chief engineer. As the STCW Convention only draws restrictions for chief engineer endorsements by horsepower, and most seagoing towing vessels are well over 4,000 HP, the commenter states that the regulations will effectively make an unlimited chief engineer endorsement required on all towing vessels. The commenter recommends that the Coast Guard take steps to minimize the impact of this rule and assure that the United States meets the requirements of the STCW convention.

The Coast Guard agrees in part. Those mariners sailing with chief engineer (limited) and DDE-unlimited endorsements may obtain a corresponding STCW endorsement at the management level without raising the grade or increasing the scope of their national endorsement under §§ 11.325, 11.327, and 11.331.

One commenter recommends that, with regard to existing mariners, the Coast Guard expand the grandfathering provisions so that chief engineer endorsements may be issued for engineers who are already deemed qualified and currently sail as engineers on seagoing towing vessels over 4,000 HP. Upon appropriate presentation of proof of sea service, the commenter recommends that these mariners be granted a limited-scope license and STCW endorsement that allows them to continue to serve in their current capacity.

The Coast Guard disagrees. Paths for existing mariners with national engineering endorsements to obtain an STCW endorsement are already included in §§ 11.325, 11.327, 11.329, and 11.331.

One commenter notes that developing future mariners for engineering licenses will be more difficult. The engineering department for towing vessels have historically consisted of one-man engine departments, with future engineers being developed by identifying talented and motivated deckhands or mechanics and training them as an extra person under the tutelage of the engineer for several months (and, often augmented by professional classroom training) until they are deemed qualified. One possible solution to this, the commenter says, is to ensure that safe manning certificates for these vessels only require a DDE and OICEW (III/1). The commenter states that this is also appropriate, as from a competency-based evaluation, an operational-level engineer is all that is required to operate these engine rooms due to the level of support from shoreside management in management-level tasks.

The Coast Guard disagrees that a change in the proposed rule is necessary. Under existing regulations, engineers are developed through on-the-job training and formal courses. The commenter's suggested solution is already allowed under current regulations, and the cognizant Officer in Charge, Marine Inspection (OCMI) has the authority to set manning requirements on a vessel's COI.

One commenter recommends that the Coast Guard make the electro-technical officer (ETO) and electro-technical rating positions mandatory on a vessel's COI.

The Coast Guard disagrees. We are not planning to require these two positions at this time in §§ 11.335 and 12.611. Not all vessels require an ETO or rating. There is no identified need at this time.

9. Transitional Provisions

One commenter states that §§ 11.493 through 11.497 seem to be inconsistent with the underlying concept of a domestic credential forming the “base” document upon which an individual can receive an STCW endorsement. If the primary requirement for these endorsements is that an individual meet the standard for the STCW endorsement, the commenter asks, why not simply put these sections in Subpart C? In the commenter's view, it seems unsupportable to require an applicant for OSV mate to meet the full requirements for OICNW in § 11.309 and then serve an additional 12 months to cross over to an STCW OICNW as stated in Table 11.309(e).

The Coast Guard partially agrees. The Coast Guard amended §§ 11.491, 11.493, 11.495, and 11.497 to separate the national and STCW credentials to ensure consistency with other endorsement requirements. The Coast Guard made additional changes to the OSV endorsements for both deck and engineer officers to include: (1) Sea service requirements comparable to other credentials; (2) the option to complete an approved course for a mate or assistant engineer to meet the sea service requirements; and (3) the progression from vessels less than 1,600 GRT/3,000 GT to more than 1,600 GRT/3,000 GT for chief mate and master. These changes also address the recent passage of the Coast Guard Authorization Act of 2010 (Section 617) and the removal of the 500 GRT tonnage limits on OSVs. These amendments will ensure that mariners with existing licenses or MMCs will have the opportunity to progress to higher credentials.

One commenter states that the value of the transitional provisions will depend on the date of the requirement to hold an STCW endorsement as able seafarer-Deck in accordance with §§ 15.403(c) and 15.1103(b). If that requirement comes into force on January 1, 2012, the commenter says, it will be impossible for mariners to receive the proper endorsements by the end of this year, even under the transitional qualification requirements. The commenter recommends that the Coast Guard set a date of compliance that will give the affected mariners and the NMC enough time to process the applications required.

The Coast Guard agrees. To ensure an orderly transition consistent with STCW, full implementation and compliance is expected to be achieved by January 1, 2017. The Coast Guard amended § 15.1103 to reflect full compliance by January 1, 2017.

10. Assessments

One commenter recommends that the Coast Guard amend § 11.323(b)(2) by specifying the reference to “steam” distilling plants in proposed § 11.323(b)(2) and also recommends adding “or completing STCW boiler competencies” after “accepted training” to allow demonstration of proficiency in addition to training.

The Coast Guard disagrees. The common limitations placed on an engineering credential will be for service on vessels without certain equipment, including auxiliary boilers, waste heat boilers, distilling plants, oily water separators, and sewage treatment plants. An applicant may remove any limitation at any time by demonstrating the appropriate competencies. Although the Coast Guard disagrees with the comment, we updated and clarified § 11.323(b)(2) by including oily water separators and sewage treatment plants as additional limitations, and revising the method available to an applicant to remove these restrictions for his or her MMC.

One commenter asks whether, if the Coast Guard allows onboard assessments for meeting portions of the STCW standards of competence, those vessels will be required to meet the same QSS as outlined in § 10.410 since they are in effect acting as a “training provider.” Onboard assessments are not training, the commenter states, and therefore, they should not have to meet the requirements for a QSS.

The Coast Guard disagrees. Because onboard assessments are not training, they will not have to meet the requirements for a QSS. However, the Coast Guard will be developing guidance for the training and certification of qualified assessors and will be implementing an oversight process for them as part of that guidance.

One commenter states that requiring the knots to be demonstrated as part of a Coast Guard-approved course (see § 12.405(c)) is unduly restrictive. The commenter recommends accepting this demonstration if it is performed as a Coast Guard-approved assessment without the framework of a course, in the same way as many of the proficiency demonstrations required for an STCW officer endorsement.

The Coast Guard agrees. In general, the Coast Guard will be approving a system of qualified assessors as part of this rulemaking. It is envisioned that this system will allow for the demonstration of assessments via an approved course or separate from an approved course. Any assessment, associated with a course or not, and used to satisfy STCW requirements, must be submitted to the NMC for approval prior to initiation. The Coast Guard agrees that demonstration of the knots is a skill that can be obtained outside an approved course; therefore, a demonstration of competence may be achieved via assessment only.

The same commenter states that it would be extremely helpful to list in §§ 12.613(b)(3), 12.615(b)(3), and 12.617(b)(2) what assessments must be conducted ashore.

The Coast Guard has amended text in §§ 12.613, 12.615, and 12.617 to specify the assessments that must be conducted ashore for proficiency in survival craft, basic safety training, and advanced firefighting.

11. Sea Service

One commenter recommends that mariners serving on the inside waters of southeast Alaska should be granted day-for-day service credit.

The Coast Guard agrees, and has revised § 10.232 to accept service where STCW is applicable on a day-for-day credit.

Two commenters believe that there will be an excess of mariners sailing internationally as RFPNW if they are not restricted to lookout duties until they become able seamen-special in accordance with the CFR. While the RFPNW earns sea time and satisfies the requirements of A/II-5 of the Code, the path to A/B-special remains balanced if the restriction remains in place, the commenters state. Under the 1995 amended STCW Convention, an 11-month program was created from entry to A/B-special to meet the RFPNW/A/B-special training and assessment requirements. Most of the competencies of A/II-5 are accomplished in this program. This existing program can be modified to allow competencies for able seafarer-deck to be added if the NMC will continue to grant sea service credit. Therefore, the commenters recommend that the Coast Guard grant sea service credit and actual sea service time to mariners who are enrolled in an approved program and who have completed all other requirements of able seafarer-deck and are otherwise qualified for the endorsement.

The Coast Guard disagrees. The 2010 amendments to the STCW Convention allow for the reduction of sea service requirements as part of an approved training program. The applicant must also meet the requirements for RFPNW and the standards of competence for able seafarer deck in Section A-II/5 of the STCW Code. Section 12.603 is consistent with the STCW requirements for able seafarer deck. Furthermore, an able seaman special would still need to meet an additional sea service requirement of 6 months.

One commenter asks if, with regard to § 11.305, the holder of a chief mate credential working as the mate on a fishing vessel of more than 1,600 GRT/3,000 GT would receive sea service credit as a chief mate, even though manning does not require he or she to hold this license and the vessel is not subject to STCW.

The Coast Guard replies that where the mariner holds a chief mate credential, and fills the position as mate on the fishing vessel, and the position meets the definition of chief mate found in § 10.107, that service will be credited as chief mate.

Two commenters recommend that the Coast Guard reduce the qualifying time for near-coastal mate on vessels of less than 200 GRT to a more attainable level, perhaps more in line with the domestic requirement of 1 year of sea time.

The Coast Guard agrees. Section 11.321 of the SNPRM and this final rule allows seafarers holding a national endorsement as mate near-coastal of less than 200 GRT with 6 months of sea service to qualify for an STCW endorsement as OICNW of less than 200 GRT/500 GT. This provision is consistent with Regulation II/3, paragraph 4 of the STCW Convention.

One commenter believes that sea service credit should be based on horsepower and tonnage for engineer and unlicensed engine room ratings and that the same should apply to deck license and ratings unless the scope of service is excessively limited. The commenter believes the latter should be evaluated on a case-by-case basis. Also, the commenter suggests that the NMC train or supply their evaluators with specific guidelines to preclude the apparent inconsistencies issuing forth from that office.

The Coast Guard partially agrees with the commenter's first statement, realizing that there are differences in acceptable sea time structure between the deck and engine departments simply because of inherent differences in what deck officers and engineers are responsible for. Skills for masters and mates are relative to conditions, such as power versus sail propulsion and the routes upon which they sail. Engineers must have training and skills related to the size and type of propulsion units they operate, such as diesel engines, steam boiler and turbines, or gas turbines.

Currently, sea time for a credential for licensed engineers (officer endorsements) is based on both horsepower and tonnage, depending on the credential sought. Service is further restricted to inland vessels only for mariners who hold DDE 1,000 HP credentials. However, we removed the “near-coastal” route restriction on chief engineer (limited) endorsements.

Engine unlicensed (rating endorsements) sea time is accepted from any vessel on which such ratings are required. Likewise, sea time for the various categories of able seamen is established in law (46 U.S.C 7306). There has been no proposal to change this practice.

With regard to the commenter's second suggestion, deck endorsements that are excessively limited are currently evaluated on a case-by-case basis.

The NMC receives and measures feedback from its customers, and updates evaluator training. Specific guidance and checklists tailored to the endorsement under review are important parts of all evaluators' tools.

12. Endorsements

Three commenters ask, with regard to the separation of STCW and domestic endorsements, whether a mariner could have a domestic endorsement that is a level up or down from his/her STCW endorsement. If so, and if there is a mismatch, which endorsement is controlling?

The Coast Guard has amended §§ 11.201(a), 12.201(a), and 13.601(a) to ensure alignment between a mariner's national and STCW endorsements. The duties and responsibilities must match. In order to be considered for an STCW endorsement, the applicant must have or be receiving the equivalent national endorsement. Also, the applicant cannot request nor be considered for a lesser or greater STCW endorsement than the equivalent national endorsement that they hold or will be receiving on their MMC.

Two commenters state that, with regard to § 11.422(a), the removal of the 150-ton category will be very helpful to mariners who have been stranded at the 150 GRT limitation.

The Coast Guard agrees and has retained the removal of the 150 ton endorsement.

Two other commenters recommend that the Coast Guard reduce the tonnage requirement for STCW endorsements over 200 GRT/500 GT and less than 1,600 GRT/3,000 GT to 50 GRT.

The Coast Guard disagrees. It would be inappropriate to reduce the tonnage to 50 GRT, because of the differences in equipment requirements on vessels of such limited tonnage. The Coast Guard, however, is revising the lower tonnage to 100 GRT as was proposed in § 11.402 of the SNPRM.

The same commenters recommend that the Coast Guard include OICNW on vessels of less than 200 GRT/500 GT (§ 11.309) in “may qualify for” master domestic 500 GRT oceans (§ 11.418(c)).

The Coast Guard agrees to the crossover from master of ocean or near-coastal self-propelled vessel less than 500 GRT to OICNW of vessels 200 GRT/500 GT or more (§ 11.309), and has amended § 11.418 accordingly.

Four commenters recommend that all masters and mates on existing subchapter T/K U.S. flag vessels built prior to July 18, 1982, with dual tonnages be allowed to have their Coast Guard licenses/MMC's endorsed by the Coast Guard to show the vessel's International Tonnage Certificate (ITC) tonnage.

The Coast Guard disagrees. The determination of a vessel's ITC tonnage is between the OCMI and the vessel owner for each vessel. Except as noted for 200 GRT/500 GT and 1,600 GRT/3,000 GT, our credentialing scheme is based on GRT. In addition, this suggestion would inappropriately allow a mariner to raise the tonnage authority of their endorsements without serving on progressively larger vessels. Also, where the ITC tonnage is higher, mariners must meet the higher credentialing requirement to receive the appropriate STCW endorsement.

One commenter notes that § 12.607(c) states:

“Seafarers holding a rating endorsement as QMED before January 1, 2017 will be eligible for this endorsement upon showing evidence of holding an endorsement as an RFPEW.” The commenter requests that the Coast Guard amend this section so there is no confusion as to which QMED endorsements apply to this section.

The Coast Guard agrees and has amended § 12.607 to distinguish between QMED endorsements.

One commenter does not believe Table 12.607(e) is easy to read and understand. The commenter says the table should be rewritten and reformatted to provide a complete understanding of the requirements to obtain the endorsement of able seafarer-engine.

The Coast Guard agrees and has rewritten and reformatted Table 1 to 12.607(e) to include all domestic QMED endorsements that will be eligible for the STCW endorsement as rating as able seafarer-engine in table 1 to 12.607(e). This table provides an alternate path with a reduced sea service requirement to the able seafarer-engine endorsement that will facilitate the transition from domestic to STCW endorsements. Additionally, the Coast Guard modified all similar tables to avoid confusion.

One commenter recommends that Table 12.609(d) should be rewritten and reformatted to provide a complete understanding of the requirements to obtain the endorsement of electro-technical rating.

The Coast Guard agrees and has corrected the errors in Table 1 to 12.611(c), which was mislabeled as Table 12.609(d).

One commenter recommends that the Coast Guard add the words, “* * * retain the STCW endorsements and authority in force prior to 7/1/13” at the end of § 11.301(i)(2) to make the intent clear.

The Coast Guard disagrees that greater clarity is needed. This section, as proposed, already provided for grandfathering, and the commenter's suggestion addresses manning requirements that are addressed in part 15. In addition, in the event that the operating authority of a mariner's STCW endorsement changes, this final rule provides a means for them to qualify for the appropriate endorsements.

One commenter recommends that the Coast Guard reconsider its acceptance of foreign service and experience in § 11.201(c)(4). In the commenter's view, any blanket acceptance of foreign service would be deemed irresponsible in the assurance of marine safety and protecting the marine environment.

The Coast Guard agrees in part, but asserts that no change is needed in proposed § 11.201(c)(4). That section does not provide for a blanket acceptance of foreign service. Rather, it provides for the Coast Guard to determine that the foreign service is fair, reasonable and equivalent to the service acquired on a U.S. vessel. In addition, these mariners will also be required to meet any training and assessment requirements.

One commenter recommends that the Coast Guard establish a single endorsement for Proficiency in Survival Craft as contained in the STCW Convention. The actual proficiencies for this endorsement should cover all commonly used survival craft. The commenter believes the proposed segregation is unnecessarily burdensome and the multiple layers of certification for such a simple group of proficiencies are pointless.

The Coast Guard disagrees. The endorsement requirements were drafted to ensure that mariners do not have to meet the training requirements for lifeboats if they sail onboard vessels that do not carry lifeboats.

13. Security

Nine commenters object to § 15.1113(b) and (c). The current requirements allow companies to tailor their training to their particular operation and eliminate areas that don't apply. In the commenters' view, the proposed rule would require companies to send all personnel to a school to learn subjects not pertaining to their company's operation, which would be an unacceptable burden.

The Coast Guard disagrees. The 2010 amendments to the STCW Convention require that persons serving onboard STCW-compliant vessels meet a standard of competence specified in the Convention. At this time, the Coast Guard intends to meet the STCW 2010 amendments on security training through the existing regulations in 33 CFR subchapter H, subpart B, which requires that such persons meet the knowledge requirements via training or equivalent job experience. For that reason, paragraphs (b) and (c) of § 15.1113 in this final rule remain unchanged from the SNPRM. If any changes to 33 CFR 104.220 and 104.225 are needed, the Coast Guard will consider including them in a separate, future rulemaking.

Fifteen commenters note that the proposed rule contains requirements regarding training for vessel personnel with security duties and also imposes a responsibility for all other vessel personnel to demonstrate training in security. In the commenter's view, these provisions appear to apply only to mariners serving on vessels subject to the STCW Convention.

The 2010 amendments to the STCW Convention (Section A-VI/6) require all persons employed or engaged on a seagoing vessel to have received security familiarization. The term “all persons” includes seafarers and other personnel, including contractors, whether part-time, full-time, temporary, or permanent. At this time, the Coast Guard intends to meet the STCW 2010 amendments regarding this subject through the regulations in 33 CFR 104.225, which requires that all contractors, whether part-time, full-time, temporary, or permanent, must have knowledge on a number of topics, through training or equivalent job experience. The Coast Guard has also amended § 15.1113 to ensure that all contractors have knowledge of the requirements, through training or equivalent job experience, of 33 CFR 104.225.

Eight commenters object to any suggestion in § 15.1113 to extend STCW security training provisions to crew members of vessels in domestic service not subject to STCW.

The Coast Guard agrees. Under § 15.1101, subpart K of part 15 applies only to seagoing vessels subject to the STCW Convention, except vessels in § 15.1101(a)(1) and (a)(2). Accordingly, § 15.1113 applies only to vessels subject to STCW as provided in § 15.1101. The Coast Guard is not applying these requirements to crewmembers on vessels in domestic service that are not subject to STCW. However, 33 CFR 104.220 and 104.225 contain the security personnel requirements for vessels in domestic service.

Seven commenters believe that the requirements of § 15.1113(b) are too stringent and exceed the requirements of the STCW 2010 amendments. In the commenters' view, it fails to take into account the transitional provisions provided in STCW Code A-VI/6(5) and (9).

The Coast Guard agrees. To ensure mariners can meet the implementation date requirements, the Coast Guard has amended the proposed requirements in §§ 12.625 and 12.627. The revised sections will include the STCW transitional provisions for security awareness and for seafarers with designated security duties that would allow existing mariners that took a course and/or can document service onboard vessels to obtain an endorsement. In accordance with Section A-VI/6 of the STCW Convention, this transitional provision will only be available until March 24, 2014.

The same commenter would like confirmation that individuals who complete a Coast Guard-approved VSO course, or those mariners whose MMC is endorsed as VSO, will meet the training and/or endorsement requirements as vessel personnel with designated security duties.

The Coast Guard agrees. The security training requirements in the STCW were developed as a progression where “security awareness” is the lowest level of training and “vessel security officer” is the highest level of training. Therefore, the VSO training meets the requirements for vessel personnel with security duties, and the vessel personnel with security duties meets the requirements for security awareness. The Coast Guard has added § 11.337 to state the requirements for VSO, amended § 12.625 to clarify requirements for vessel personnel with designated security duties, and amended §§ 15.1113(b) and (d) to establish the hierarchal relationship between the three endorsements. Under this system, for example, mariners who completed VSO training would be eligible for any position with a security training requirement at the VSO level or lower.

One commenter asks how the additional requirements in STCW regarding competencies related to anti-piracy and anti-armed attack will be addressed for existing VSOs and grandfathered vessel personnel with specific security duties and Maritime Security Awareness-certified seafarers. Will their current certifications be grandfathered, will there be “bridging” courses covering these additional requirements, or will they have to take a new approved course by a certain date?

At this time, the Coast Guard intends to meet the STCW 2010 amendments on this subject through the regulations in 33 CFR 104.220 and 104.225. The Coast Guard will consider changes to 33 CFR 104.220 and 104.225 as part of a separate rulemaking. Under this final rule, all existing VSOs, vessel personnel with security duties and other personnel will be grandfathered and will not be required to take refresher training on piracy.⁷

⁷ In regard to grandfathering, in general, each STCW endorsement has grandfathering provisions associated with it to accept the credentials issued prior to the effective date of this rule except where STCW imposes additional requirements. The Coast Guard does not expect to add training requirements on piracy for those mariners identified in our response until 33 CFR part 104 is revised as part of a separate rulemaking. A projected effective date of that rule is not yet available.

One commenter notes § 15.1113(b) states that “all personnel with security duties” must hold a valid endorsement as vessel personnel with designated security duties. Unless this section is revised, the commenter says, it could be construed so broadly as to include every person in the crew (except for the VSO), which raises the concern—particularly for cargo vessels with crews of limited size—of placing an unnecessary and unwieldy certification or formal training burden on mariners and vessel operators. The commenter recommends that this section should use the term “personnel with designated security duties” throughout.

The Coast Guard agrees. The Coast Guard is revising the definition of “Vessel personnel with designated security duties” to harmonize it with the guidance in Section B-VI/6 of the STCW Code and to ensure consistency with the requirements in 33 CFR 104.220 and 104.225. The expression “with designated security duties” denotes those having specific security duties and responsibilities in accordance with the vessel security plan. The Coast Guard amended the requirements in §§ 12.625 and 15.1113 to ensure that the term “vessel personnel with designated security duties” is used throughout.

The same commenter recommends minor revisions to §§ 12.625 and 12.627, where STCW endorsements for “vessel personnel with designated security duties” and “security awareness” are obtained by providing “satisfactory documentary evidence” of meeting the requirements in 33 CFR 104.220. Since “satisfactory documentary evidence” is not defined, the commenter recommends adding language to read “Present satisfactory documentary evidence, such as a certificate or letter signed by a company official, or a certificate of completion from an approved training course, of meeting the requirements in 33 CFR 104.220.”

The Coast Guard agrees and has amended the text accordingly. At this time, the Coast Guard intends to meet the STCW 2010 amendments regarding security training via the regulations in 33 CFR 104.220 and 104.225, which require personnel to have knowledge on a number of topics. Documentary evidence may include a certificate or letter signed by a company official or a certificate of course completion from a Coast Guard accepted course.

One commenter states that, with regard to §§ 12.625(a) and 12.627(a), the Coast Guard does not describe or identify the process for obtaining security endorsements or certificates for existing mariners that have already received security awareness, security system and security duties-related training. The “grandfathering” of existing mariners who received the appropriate training and are working under a MTSA-required security system prior to July 1, 2012, is not addressed. Neither does the proposal indicate if the organization may issue course completion certificates for existing mariners or define a process for documentation of past training and service under a security system. Previous training needs to be accepted as meeting the requirements for issuance of certification prior to July 1, 2012.

The Coast Guard agrees and has amended the proposed requirements in §§ 12.625 and 12.627. These sections will include the STCW transitional provisions for security awareness and for seafarers with designated security duties that would allow existing mariners who took a course and/or can document service onboard vessels to obtain an endorsement. In accordance with Section A-VI/6 of the STCW Convention, this transitional provision will only be available until March 24, 2014.

One commenter states that these requirements should include the acceptance of approved, non-proctored, eLearning Computer Based Training (CBT) to meet the requirements of § 15.1113.

The Coast Guard agrees. The requirements in 33 CFR 104.220 and 104.225 allow for the use of in-house training, which includes eLearning and distance learning. The Coast Guard will consider a separate, future rulemaking if changes to those sections are needed.

One commenter recommends that the Coast Guard amend § 12.625 to read as follows:

(a) An applicant for an STCW endorsement as vessel personnel with designated security duties must:

(1) Present satisfactory documentary evidence of meeting the requirements in 33 CFR 104.220; and

(2) Meet the physical examination requirements in 46 CFR, part 10, subpart C.

The same commenter recommends that the Coast Guard amend § 12.627 to read as follows:

(a) An applicant for an endorsement for security awareness must:

(1) Present satisfactory documentary evidence of meeting the requirements in 33 CFR 104.225; and

(2) Meet the physical examination requirements in 46 CFR, part 10, subpart C.

The Coast Guard partially agrees. The two requirements proposed by the commenter are included in this final rule in §§ 12.625 and 12.627. However, an additional requirement to meet the safety and suitability requirements and the National Driver Registry review requirements in § 10.209(e) is included in this final rule in accordance with 46 U.S.C. 7101.

One commenter notes that, with regard to § 15.1113, applicants will, in the near term, have to rely on the STCW Code transitional provisions, which permit use of experience, as opposed to approved training, to qualify for these endorsements until January 1, 2014. This will not be an option for new mariners and others without relevant experience. Not only are adequate training resources unlikely to be available, but the commenter states it is also not clear that there will be sufficient time for compliance by those with adequate experience. Presumably mariners cannot apply for, and the Coast Guard cannot issue, endorsements until they are authorized by regulation.

The STCW Convention requires that mariners who commenced service after January 1, 2012, meet the training requirements for vessel personnel with designated security duties and security awareness, as appropriate. In addition, the STCW Convention also provides transitional provisions for mariners who started service prior to January 1, 2012. Recognizing that the implementation date was fast approaching, and that there may be practical difficulties for all seafarers with security related requirements to obtain necessary certifications and/or the necessary endorsements required in accordance with Regulation VI/6 of the 2010 amendments to the STCW Code and Convention, the IMO issued Circular STCW.7/Circ.17 providing advice for port state control officers on transitional arrangements leading up to full implementation of the 2010 amendments to the STCW Code and Convention on January 1, 2017. The circular recommends that administrations should inform their port state control authorities that, until March 24, 2014, even if a seafarer's documentation with regard to the security-related training in regulation VI/6 is not in accordance with the 2010 amendments to the STCW Convention and Code, it would be sufficient to accept compliance with section 13 of the ISPS Code. Taking the information in the circular into account, the Coast Guard has amended § 15.1113 to implement the requirements for “vessel personnel with designated security duties” and for “security awareness.” The requirements in 33 CFR 104.220 and 104.225 meet the requirements of Section 13 of the ISPS Code.

14. Course approvals

One commenter requests existing guidance on instructor qualification be published immediately and prior to the intended NVIC.

The Coast Guard is working to provide guidance on this subject as soon as practicable with a NVIC within 60 days of publication of this rule or as soon as possible.

Two commenters offered several recommendations for improvement of the course/program approval process through clarification, elimination, or addition of certain requirements. More specifically, the commenters suggested that the Coast Guard provide guidance on the content of course approval application components, including the cover letter, teaching syllabus, goal statement, assessment tools, and course completion certificates.

The Coast Guard agrees in part with these recommendations and some have been incorporated into this final rule while some will be published in a NVIC. For clarification, the cover letter should contain a general description to clearly describe the request. The goal statement should explain the overall intent of the course or program while the performance objectives should support the goal statement with individual components of the entire course. Assessment instruments include all methods used to measure the abilities of the student to successfully complete the course/program. For both initial and renewed approvals, instructors must have performed the instruction within the previous 5 years or provide evidence of current training in instructional techniques (i.e. Train the Trainer).

One commenter believes the copy of the course completion certificate in the course approval submission is redundant.

The Coast Guard disagrees. The certificates are required to ensure they will contain the necessary information used by professional qualification evaluators at NMC to verify course completion. The Coast Guard hopes to eliminate the need for course completion certificates with a future electronic solution. Until then, the certificates are a required component of the course approval submission package.

One commenter notes that, in § 10.403(a)(2), the phrase “visual aids for realism” is vague and unnecessary. He recommends that the item read, “Have the equipment necessary, including simulators where appropriate. . . .”

The Coast Guard agrees and has changed “visual aids for realism” to “the necessary equipment. . . .” Necessary equipment encompasses more than just visual aids.

The same commenter notes that § 11.301(a)(1)(xiii) probably should read “ . . . successful completion of an approved course” because the courses are approved. An approved school could run a non-approved course.

The Coast Guard agrees. This change has been made to ensure consistency with other sections.

One commenter contends that the proposed requirements to obtain course approval in § 10.402 are excessive and exceed the information required in IMO model courses. It is recommended that the Coast Guard minimize the administrative burden and cost on all training providers by requiring only the information currently required for IMO model courses.

The Coast Guard partially agrees. All of the course approval application requirements in § 10.402 are critical components of a curriculum package and are required for review by the regulatory agency granting approval. The IMO model courses are not meant to be the documentation model for approval. They are meant to help organize and present the training course. To ensure consistency in the use of the terminology, the Coast Guard has amended § 10.402 to use the IMO model course terminology.

The same commenter states that § 10.402 for course approval and § 10.403 for general standards for courses appears to have been written with non-academy training institutions in mind, who offer only individual stand-alone courses. The commenter therefore recommends that the Coast Guard consider separating the requirement for approved courses and approved programs by adding a separate section in the regulations that apply only to maritime academies, or other similar institutions that operate under multi-year approved education and training programs.

The Coast Guard agrees and new section § 10.407 has been created to apply solely to training programs. The Coast Guard recognizes that the 4-year academy training programs are subject to standards by state and regional/national accrediting bodies and therefore will accept information from these accrediting bodies to meet one or more of the course approval requirements. Standardization of the requirements for training programs will simplify the regulations and reduce administrative costs, which can be passed on to mariners as a reduction of the cost of training.

The same commenter notes that in the Coast Guard's response to comments on the NPRM, which were published in the SNPRM, concerning the need for greater specificity regarding the qualification requirements for instructors, the Coast Guard states that this beneficial information would be better provided by a NVIC or similar guidance document. The commenter urges the Coast Guard to engage in a dialogue with the public academies before initiating any such policy.

The Coast Guard agrees. Additional details on the qualification for instructors in § 10.402 will be provided by a NVIC or similar guidance document which we plan on issuing after the publication of the final rule. The Coast Guard will gather industry input and comment through MERPAC and/or through notice and comment.

Three commenters object to § 10.403(a)(7), which states that each school with an approved course must not change its approved curricula without approval from the NMC as specified in § 10.402(e) of this subpart. Supplemental material to enhance relevant learning points is regularly used to enhance Coast Guard-approved courses and approved curriculum. This allows students to stay current with industry and regulatory changes between course approval submissions. The commenter recommends that this section be changed to read “not significantly change its approved curriculum without approval from the NMC”.

Another commenter recommends that the Coast Guard define which significant changes to courses or training programs require approval, including changes in curriculum, classrooms, and new simulators.

The Coast Guard agrees and has amended § 10.403(a)(7) to ensure that only significant changes are submitted for review and approval. We plan to issue additional details on changes to curricula by a NVIC or similar guidance document after the publication of the final rule. The Coast Guard will gather industry input and comment through MERPAC or through notice in the Federal Register.

One commenter states that all course providers know and understand that the Coast Guard currently uses internal guidance on instructor qualifications for approval in each course area. This guidance would be beneficial to maritime training providers and would assist them in saving time, effort, and resources. The commenter believes that the Coast Guard should publish the current internal guidance until a NVIC can be published.

The Coast Guard agrees that all guidance on instructor qualification should be made available to the public. The Coast Guard will make available any of the current instructor qualification requirements on the NMC's Web site. Additional details on the qualification for instructors will be provided by a NVIC or similar guidance document, which we plan on issuing after the publication of the final rule. The Coast Guard will gather industry input and comment through MERPAC and/or through notice in the Federal Register.

Two commenters recommend that, in § 10.402(b)(5)(iii) the word “hold” should be changed to “has held” in the requirement that course instructors “hold a license, endorsement, or other professional credentials . . . .” There are mariners who have come ashore and, for whatever reason, did not renew their licenses.

Another commenter objects to the requirement in § 10.402(b)(5) that course instructors “hold a license, endorsement, or other professional credential that provides proof of having attained a level of qualification equal or superior to the relevant level of knowledge, skills, and abilities described in the performance objective.” Many maritime security instructors come from military or law enforcement backgrounds and have substantial relevant experience, but no piece of paper that proves their qualifications.

The Coast Guard agrees, and has deleted the requirement that the instructor hold a license, endorsement, or other professional credential in proposed § 10.402(b)(5) and broadened the requirement for instructors now found in § 10.402(b)(2)(iii)(C). The instructor must have the level of experience and qualification equal or superior to the relevant level of knowledge, skills, and abilities described in the performance objective.

One commenter notes that training onboard vessels and on-the-job training are critical to a mariner's growth and experience. However, the commenter states that ships' facilities and areas used as “training rooms” may not meet the Coast Guard requirements for shore-side facilities. This seems in conflict with the Coast Guard's initial reasoning for establishing such classroom criteria. Additionally, the working environment onboard a continually operating, revenue generating ship may be in conflict with a focused, uninterrupted learning environment for sufficiently rested mariners. Will vessels providing training to meet the onboard assessments (e.g., Basic Safety Training's first aid element) be required to meet the same course requirements, training facility requirements, and serve the Coast Guard the same 21-day advanced notice of training? If not, then the commenter says there is a major discrepancy between shore side and onboard training.

All Coast Guard-approved training will have to meet the requirements in the regulation. The Coast Guard will issue a NVIC with additional information on any departure or any interpretation of these regulations regarding on-the-job training. The option for onboard training and assessments is permitted provided the vessel has the equipment and capabilities necessary for successful execution.

Two commenters object to the requirements in § 10.402(b)(1)(ii) and (b)(6), which require training providers seeking course approval to submit detailed site information. Holding a course at an alternative location already requires approval from the NMC.

This is an integral part of the oversight process and is necessary to prevent the use of spaces unsuitable for classroom purposes. Further, detailed site information is required as part of an application for course approval, which is not redundant with any subsequent request for approval of an alternative location. However, the Coast Guard appreciates the concern and will make efforts to expedite the process. We plan to issue additional details on changes to curricula by a NVIC or similar guidance document after the publication of the Final Rule. The Coast Guard will gather industry input and comment through MERPAC and/or through notice in the Federal Register.

15. Quality Standards System (QSS)

One commenter notes that the Coast Guard proposes to add QSS requirements for Coast Guard-approved courses. The commenter states that this proposal is incomplete in that it does not include the standard of performance metrics that are to be applied. Furthermore, it does not provide exemptions for companies that maintain and audit their training programs to ISM or ISO codes. While the proposal does appear to provide for the application of ISM or ISO codes, the commenter says it seems to do so outside of a company's existing ISM safety management system and framework.

The same commenter notes that the Coast Guard proposes to accept documentation from a national academic accreditation body or from a national or international quality standard system as meeting one or more of the QSS requirements. The commenter states that this proposal is superfluous and, if implemented, its application should be limited to maritime training institutions and schools.

Section 10.410(e) as currently written is broad and does not apply only to training institutions and schools. That paragraph of the SNPRM provided that Coast Guard will accept documentation from a training institution certified under ISO as evidence of satisfying one or more of the requirements in § 10.410(c). However, the Coast Guard recognizes that other management systems should be included as a means to comply with the QSS requirement. Therefore, the Coast Guard has added a new paragraph (g) to include ISM, which is an industry-wide system, as an alternate means of compliance for the QSS provision. This will allow schools that currently implement ISM to comply with the new QSS requirements without needing to modify their programs. Regarding the issue of performance metrics, the STCW Convention already specifies the metrics. It is expected that the QSS ensure compliance with the STCW requirements as implemented by the regulations.

One commenter asks for justification and confirmation regarding the QSS requirements contained in § 10.410 as they apply to the state maritime academies. Based on the rigorous standards for accreditation by regional and national organizations, and the ongoing self-assessment review of their licensing programs and individual courses at each of the academies, as well as Coast Guard and U.S. Department of Transportation Maritime Administration (MARAD) oversight of their training programs through the Joint Coast Guard/MARAD/Academy Review Committee Charter utilized since the implementation of the 1995 STCW amendments, the commenter believes the academies already meet the spirit and intent for a QSS as allowed by STCW Sections B-l/8-5 and 7 where “education quality standards” and “government agencies” are permitted to satisfy the QSS requirements.

The Coast Guard disagrees. The Coast Guard does not have flexibility in whether or not the QSS or the independent evaluation is implemented, since this is a Convention requirement. All courses and programs in support of an STCW certificate must meet the STCW requirements. Section 10.410(e) was included to give the academies credit for their accreditation program. The Coast Guard recognizes that there is some overlap between the oversight provided by the different accreditation bodies and the Coast Guard responsibility for oversight to meet the STCW requirements. While we recognize the Academies' courses are already subject to a review and oversight process, it does not assess compliance with STCW, nor does this process ensure a quality system oversight of those STCW items. It is envisioned that the academies can use documentation from the academy accreditation process to meet the requirements for a QSS. Consequently, the manual may take the form of a reference document for those areas that are part of the Academies' accreditation program, and detailed information will be required to fill gaps between the QSS requirements and the Academies' accreditation information.

One commenter recommends that, with regard to § 11.410, the Coast Guard consider a transitional provision, which would approve stand-alone courses containing any new training or assessments mandated by the 2010 STCW amendments, and would be required for mariners who begin their service or training on or after July 1, 2013. This provision would allow training providers until January 1, 2017, to implement a QSS for all stand-alone Continuing Education courses offered after that date.

The Coast Guard agrees that a transitional provision is necessary to ensure course providers are afforded time for implementation. The Coast Guard has amended § 10.410(f) to ensure that all courses, programs and training creditable towards STCW meet the requirements of a QSS by January 1, 2017. Furthermore, during this transitional period, the Coast Guard will accept course completion certificates submitted with mariner applications in order to ensure mariners are not impacted while the course providers are in the process of coming into compliance with the QSS requirements.

One commenter notes that the Coast Guard proposes to add QSS requirements for training schools offering Coast Guard-approved STCW courses. According to the commenter, bona fide training schools will have few issues with this if done in a reasonable and cost-effective manner. However, in the commenter's view, there has been a lack of any substantive or realistic oversight by the Coast Guard of training schools. If the Coast Guard does not engage itself in meaningful and practical training school oversight, it's not clear how a QSS will solve this issue.

The Coast Guard agrees with the need for robust oversight. The QSS requirements are meant to work with the new oversight provisions in §§ 10.409 and 10.410. The Coast Guard continues to work to improve its oversight responsibilities over the training schools.

One commenter notes that, with regard to § 10.410, course providers have not actually “arranged” for any Coast Guard audits. The commenter expects that the Coast Guard will continue to notify training providers of the dates of intended administrative visits.

The Coast Guard agrees and has amended the text in § 10.410 to clarify this point.

One commenter believes, with regard to § 10.410, that the Coast Guard must retain oversight and provide a no-cost option for a QSS.

The Coast Guard agrees. The Coast Guard is not mandating the third-party auditor. The Coast Guard is providing two alternatives for the QSS in § 10.410(b): (1) Third party quality system oversight through a Coast Guard-accepted QSS organization; or (2) where the organization develops their own QSS and the Coast Guard does the oversight.

One commenter asks why, in § 10.409(f), in the information to be submitted by the QSS Organization related to approved courses, a one-paragraph description of course content is required. Wouldn't it be better to have a standard course code, developed by Coast Guard/NMC, to which the QSS Organization refers in the submission document?

The Coast Guard disagrees. We allow training providers discretion to tailor their courses or programs to meet their unique needs, and the Coast Guard will approve such courses and programs for any requirements the training may satisfy. Accordingly, we consider it infeasible to require the use of standard, “one size fits all” course codes because such a step would significantly reduce flexibility for training providers.

One commenter asks whether the reference to certification of international quality management systems standards acceptable for training providers in § 10.410 includes maritime education and training standards such as ones being used internationally by the commenter's QSS organization, which are based on ISO 9001, and are designed especially for maritime training providers and courses.

Yes. The Coast Guard has provided for the use of other nationally and internationally-accepted quality management systems standards (e.g., ISO 9001) in § 10.410(e).

One commenter asks if the applicability of the requirement for approval of training courses and programs in § 10.401 include courses and programs put on by ship owners and operators for their own seafarers or others. If so, must these ship owners/operators have their own QSS? And if so, will the QSS system need approval?

The requirements in § 10.401 do not differentiate between courses provided at a training institution or onboard a vessel. Therefore, all courses which may be accepted instead of service experience or examination required by the Coast Guard must meet the requirements in § 10.401. Courses offered by vessel owners/operators will also need to meet the QSS requirements. The Coast Guard recognizes that vessels subject to STCW are also subject to the ISM and that there is some overlap between the QSS requirements in § 10.410 and the ISM requirements. To address this overlap the Coast Guard has included a new subparagraph § 10.410(g). It is envisioned that the vessel owners and operators will use ISM documentation to meet the requirements for a QSS.

One commenter is concerned that the proposed requirement to participate with a QSS is not clear. It is unclear whether or not Coast Guard approval of a training course is an alternative to using a QSS. Nonetheless, it is important that a course provider, having Coast Guard approval for one or two courses, be allowed to continue to submit these courses directly to the Coast Guard for approval. For small companies that have one or two courses, a relationship with a QSS is impractical, burdensome and unnecessarily expensive.

Section 10.410(a) requires that all providers of Coast-Guard approved courses, programs, training and Coast Guard-accepted training towards an STCW endorsement maintain a QSS. The Coast Guard is providing two alternatives for the QSS in § 10.410(b): (1) Third-party quality system oversight through a Coast Guard-accepted QSS organization; or (2) where the organization develops their own QSS and the Coast Guard does the oversight. Furthermore, the Coast Guard is accepting documentation from equivalent standards as meeting one or more of the QSS requirements: (1) A national academic accreditation body; (2) a national or international quality management system standard (e.g., ISO 9001); and/or (3) ISM.

Three commenters ask if the QSS requirements apply only to STCW courses. If it applies to all courses, this is a huge expansion, the commenters said, and doesn't add any benefit to non-STCW courses compared to the pain imposed on small maritime educators.

The QSS requirements in § 10.410 only apply to Coast-Guard approved courses, programs, training and Coast Guard-accepted training leading towards an STCW endorsement.

One commenter agrees with the QSS proposal as written. However, the commenter says there needs to be further explanation of the “National Academic accreditation body” the Coast Guard is proposing. Who, what, and where is the organization based, what are their credentials, and how do they apply to the maritime industry?

The Coast Guard agrees in part. Because of the large volume of academic accreditation bodies in the U.S., the Coast Guard is not including them in the rulemaking. The Coast Guard will publish guidance on those accreditation bodies accepted by the Coast Guard. The accreditation bodies include: (a) The New England Association of Schools and Colleges; (b) Middle States Association of Schools and Colleges; (c) Southern Association of Schools and Colleges; (d) North Central Association of Schools and Colleges; (e) Western Association of Schools and Colleges; and (f) American Council on Education.

One commenter asks, with regard to § 10.409, if there will be user fees associated with conducting audits, reviewing programs, and issuing letters of acceptance to QSS.

The Coast Guard may consider establishing such fees as part of a separate, future rulemaking.

16. Applicability

Four commenters state that a lot of the regulations start out with the phrase “all personnel.” However, STCW mainly applies only to self-propelled vessels. The commenters ask the Coast Guard to differentiate the application of the regulations.

The Coast Guard agrees in part. The Coast Guard has made some additional changes to the text to ensure clarity. Section 15.1101 specifies that the regulations in subpart K apply only to vessels subject to the STCW Convention. The requirements apply to self-propelled vessels that operate beyond the boundary line specified in 46 CFR part 7, except for those vessels exempted from the application under § 15.1101(a)(1), and small vessels engaged exclusively on domestic voyages that are not subject to any obligations under the STCW Convention under § 15.1101(a)(2).

One commenter recommends that the Coast Guard should interpret the STCW Convention to regard pilot vessels as not being considered seagoing ships because they operate “in waters within, or closely adjacent to, sheltered waters or areas where port regulations apply” in accordance with Article II of the STCW Convention.

The Coast Guard agrees and has revised §§ 15.105(f) and 15.1101(a) to exclude pilot vessels engaged on pilotage duties from the application of STCW.

One commenter asks how the A/B- Mobile Offshore Drilling Unit (MODU) endorsement, which is recognized in the Marine Safety Manual, will be affected by the proposed rulemaking.

The rating of A/B-MODU is not affected by this rulemaking. Unlike the other A/B ratings established pursuant to 46 U.S.C. 7306-7311a, A/B-MODU is not a rating authorized by statute or regulation. The A/B-MODU endorsements for ratings were issued to address a perceived deficit of seaman qualified for the unique requirements of serving onboard a MODU. However, it is likely that the Coast Guard will work to phase out this endorsement, providing transitional procedures that will allow those currently holding this rating to continue to serve aboard MODUs.

Two commenters state that proposed § 12.409(a) requires every person serving onboard vessels fitted with liferafts, but not fitted with lifeboats, to hold an endorsement as lifeboatman-limited. The commenter recommends that the Coast Guard amend this section to read that “those serving under the authority of this rating endorsement” must hold the endorsement.

The Coast Guard agrees and has amended § 12.409(a) to clarify that persons fulfilling the manning requirements for lifeboatman must hold a lifeboatman-limited endorsement.

One commenter states that proposed § 15.520(e) would exempt a dynamically-positioned drillship from its requirements. As written this section requires that a drillship be under the command of an MMC officer with an endorsement as master when underway, and an endorsement as offshore installation manager (OIM) when on location. Appendix (i) to the Coast Guard-BOEMRE Deepwater Horizon Joint Investigation Final Report concluded that a dynamically-positioned drillship is never on location. Therefore, the commenter concludes that a dynamically-positioned drillship master would not require an OIM endorsement since it is never on location.

The Coast Guard disagrees. The text in § 15.520(e) has been amended to clarify that drillships operating with a dynamic positioning system (DP) must be under the command of a master with an OIM endorsement.

One commenter notes that the proposed rule changes apply to mariners who operate internationally, seaward of the boundary line. The Coast Guard states in the SNPRM that it does not intend to “apply strict international standards upon our domestic mariners. . . .” The commenter does not agree that operations on the Great Lakes and in the Inside Passage (extending between Seattle, Washington; British Columbia, Canada; and southeast Alaska) should be exempt from the STCW Code. Those areas are as navigationally complex and operationally challenging as international oceangoing voyages and thus deserve the high safety standards that STCW provides, standards which, the commenter believes, are not met by existing Coast Guard domestic regulations for inland waters.

The Coast Guard partially agrees. The STCW Convention applies to mariners serving on seagoing vessels, except pleasure craft, fishing vessels, and vessels entitled to sovereign immunity such as warships. Article II of the STCW Convention defines a seagoing ship as a ship other than one that “navigates exclusively in inland waters or in waters within, or closely adjacent to, sheltered waters or areas where port regulations apply.” The STCW Convention does not apply to vessels operating on the Great Lakes. The provisions in this final rule that would implement amendments to the STCW Convention only apply to commercial vessels operating seaward of the boundary line, as specified in 46 CFR part 7. Vessels on the Inside Passage between Puget Sound and Cape Spencer, Alaska, are not exempted from the application of the STCW Convention. Discretionary application of STCW standards on inland waters is neither necessary nor supported by historical casualty data, which do not demonstrate the need for substantive changes to domestic regulations for inland waters. The Coast Guard does not intend to apply international standards to our domestic mariners in this regard.

One commenter states that the final rule should clearly state that the requirements of STCW do not apply to inland towing operations or to crewmembers who work on inland towing vessels.

The Coast Guard agrees and emphasizes the STCW Convention applies to mariners serving on seagoing vessels, except pleasure craft, fishing vessels, and vessels entitled to sovereign immunity such as warships. Article II of the Convention defines a seagoing ship as a ship other than one that “navigates exclusively in inland waters or in waters within, or closely adjacent to, sheltered waters or areas where port regulations apply.” The provisions in this final rule that implement amendments to the STCW Convention only apply to commercial vessels operating seaward of the boundary line, as specified in 46 CFR part 7.

Three commenters state that, since the STCW Convention and Code were written to correct the well-documented lack of competence and professionalism on some large, deep-sea vessels with large and diverse crews, the authors and users of the U.S. MMC regulations need to remember that the U.S. workboat fleet, consisting of tugs, OSVs, crewboats, seismic boats, etc., are NOT small ships. These boats have simplistic and redundant propulsion systems, wheelhouse engine control, small crew size, and typically operate on nearshore voyages with well-documented competence and an exemplary safety record. As such, a “one-size-fits-all” STCW system is unwarranted, unworkable, and unfair to the workboat fleet, say the commenters. They note and appreciate that the SNPRM has shown some flexibility in application to workboats, but say more flexibility is needed to avoid damage to this industry.

The Coast Guard recognizes that one-size-fits-all is not the correct implementation of the STCW Convention to the U.S. industry. Taking this into account, the Coast Guard has included the flexibilities provided by the Convention in this rule. For example, the regulatory text in 46 CFR part 11 includes an allowance for knowledge, understanding and proficiencies that may not be applicable to a certain type of vessel, in which case a limitation would be issued. Such exemptions are consistent with the Convention flexibility that allows for limitations based on size, operational area and vessel type.

Three commenters state that §§ 15.403(c) and 15.404(a) are too broad. They recommend that the Coast Guard replace “200 GRT/500 GT or more” with “500 GRT or more on a domestic voyage or 200 GRT/500 GT or more on an international voyage” for clarity and accuracy.

The Coast Guard disagrees. The Coast Guard has amended §§ 15.403(c) and 15.404(a) by replacing “200 GRT/500 GT or more” with “500 GT or more” consistent with the STCW requirements for RFPNW and able seafarer-deck. The STCW is a binding agreement with foreign countries, and these tonnage cutoffs are required by the STCW Convention.

The same commenters feel that the last sentences in §§ 15.404(b) and 15.404(d)(3) are overly broad. They suggest replacing them with “An Able Seaman filling an A/B billet on the COI and serving onboard a seagoing vessel, except those vessels listed in § 15.105(f) or (g) of this part, must also hold an STCW endorsement as able seafarer-deck.” They also suggest replacing the last sentence in § 14.404(d)(3) with “A QMED filling a QMED billet on the Certificate of Inspection and serving onboard a seagoing vessel, except those vessels listed in § 15.105(f) or (g) of this part, must also hold an STCW endorsement as able seafarer-engine.”

The same commenters feel that §§ 15.404(e) and 15.404(f) are inaccurate as drafted. They suggest that “Persons serving on vessels subject to the STCW Convention” be replaced with “Persons serving as Lifeboatman onboard a seagoing vessel, except those vessels listed in § 15.105(f) or (g) of this part”.

The Coast Guard disagrees with adding the proposed text because it would be redundant with the text in § 15.105(f) and (g). Furthermore, to add such a phrase might lead to confusion on those vessels that have a lifeboatman manning requirement without the associated STCW manning requirement. Finally, the exemptions in §§ 15.105(f) and (g) apply to all of 46 CFR part 15, including § 15.404. Vessels listed in § 15.105(f) or (g) are already exempted from STCW compliance.

The same commenters ask if the endorsements in §§ 15.404(i), (j) and (k) are national endorsements, STCW endorsements, or both.

These endorsements are STCW endorsements.

Three commenters recommend that the Coast Guard amend proposed § 15.1103(b) by replacing “200 GRT/500 GT or more” with “over 500 GRT on a domestic voyage or over 200 GRT/500 GT on an international voyage” for clarity and accuracy.

The Coast Guard disagrees. The Coast Guard amended §§ 15.403(c) and 15.404(a) by replacing “200 GRT/500 GT or more” with “500 GT or more” consistent with the STCW requirements for RFPNW. STCW is a binding agreement with foreign countries, and these tonnage cutoffs are required by the STCW Convention.

One commenter states that, in § 15.1101(a)(2)(ii), STCW vessel certificates don't apply to vessels of less than 200 GRT/500 GT. However in § 15.1103(c), language is missing which would exempt 200 GRT/500 GT vessels. The commenter recommends that the exclusion language in § 15.1103(b) be included in § 15.1103(c).

The Coast Guard disagrees. The applicability of the entire subpart is identified in § 15.1101. The applicability of endorsements for deck ratings in § 15.1103(b) and (c) is 500 GT or more. The applicability of endorsements for engineering ratings in § 15.1103(d) and (e) is 1,000 HP/750 kW. These applicability requirements are consistent with Chapters II and III of the STCW Convention. Using the deck rating limitations on engineering ratings would be inconsistent with the STCW Convention.

Three commenters recommend that the Coast Guard amend §§ 15.1105(b) and (c) by replacing “Onboard a seagoing vessel,” with “Onboard a seagoing vessel, except those vessels listed in §§ 15.105(f) or (g) of this part.”

The Coast Guard agrees, and has amended §§ 15.1105(b) and (c) to ensure it clearly specifies the applicability of the section.

Three commenters feel that the proposed applicability in proposed § 15.1109 seems overly broad. In place of “all masters” they suggest it should say “all masters, except those serving on the vessels listed in § 15.105(f) or (g) of this part.”

The Coast Guard agrees and has amended § 15.1109 as recommended for clarity.

Three commenters observe that § 15.1109, concerning watchkeeping principles, refers to provisions of the Convention and Code that consist of more than 21 pages. In comparison, proposed § 15.1111 inserted the STCW Code text nearly verbatim. The commenters believe that if the Coast Guard is going to require the master to observe an external standard, it should at least summarize it in this section.

The Coast Guard agrees in part. While the full text of the STCW Convention and STCW Code is not readily available to individuals, the Coast Guard intends to publish NVICs with the relevant text of the Convention and Code, most notably the tables of competency from Part A of the STCW Code, consistent with the copyright held by the IMO. These NVICs will be made available online and will enable the public to view them as necessary.

One commenter is concerned that, on page 45933 of the SNPRM preamble, the Coast Guard notes that individual variances issued to small vessels on international voyages by local Captains of the Port for vessels on short international voyages to Canada, the Bahamas, the British Virgin Islands, and Mexico will be rendered null and void once the proposed rulemaking becomes final. The commenter requests that the Coast Guard clarify the mariner credential, endorsement and manning requirements for small vessels of less than 200 GRT/500 GT, including towing vessels, engaged in international voyages to nearby foreign countries, such as Canada, the Bahamas, the British Virgin Islands, and Mexico.

The Coast Guard disagrees that the proposed regulations are unclear. Existing regulations excepting smaller vessels in § 15.105(e) and (f) remain unchanged. Small vessels are considered to be in compliance with STCW when on domestic voyages. The regulations also provide for issuance of a restricted STCW endorsement for an occasional international voyage for these vessels. This regulatory provision has never provided for these endorsements to be used for routine international voyages. For those operators that routinely operate on international voyages, we have clarified the requirements for these STCW endorsements consistent with the STCW Convention and Code. Further, those small vessel operators that make routine international voyages have always been responsible for holding the appropriate STCW endorsement or certificate.

Four commenters state that it is the clear intent of 46 U.S.C. Chapter 143 and the IMO to not impose increased regulatory burdens on industry if the Convention measurement were used for applicability determinations of domestic and international rules. Therefore, they feel that any revisions to the regulations should include language to the effect of: “Existing Subchapter T/K vessels built prior to July 18, 1982 shall be allowed to apply United States regulations and international conventions, including SOLAS, STCW and MARPOL using their respective US regulatory tonnages that were in force prior to coming into force of the International Convention on Tonnage Measurement 1969 (ITC) for the life of the vessel.”

The Coast Guard disagrees. Owners of vessels built prior to the ITC are not required to obtain an ITC tonnage. However, if they do, they must comply with the provisions of STCW and other international conventions that apply GRT.

Four commenters state that all U.S. flag vessels with dual tonnages built prior to July 18, 1982, should have the following statements placed on the COI, International Ship Security Certificate, Safety Management Certificate, and SOLAS Passenger Ship Safety Certificates: (1) “The gross tonnage according to the measurement system previously in force to the measurement system of the International Convention on Tonnage Measurement, 1969 is {insert U.S. Regulatory Tonnage}, according to the regulations of the United States of America.”; and (2) “When operating on an International Voyage: All licensed individuals must hold licenses authorizing service on vessels of a tonnage at least equal to the vessel's U.S. Regulatory Tonnage as indicated on this Certificate of Inspection.”

With regard to (1), this recommendation is beyond the scope of this rulemaking. With regard to (2), the Coast Guard disagrees. STCW and the International Tonnage Convention require mariners on international voyages to meet the credentialing requirements applicable to the tonnage indicated for the voyage on which they are engaged.

One commenter states that uninspected fishing industry vessels are currently exempt from STCW. The United States is not currently a signatory party to the STCW-F convention which applies to fishing industry vessels; however, the commenter recommends that the domestic license structure be altered to include the second engineer, similar to the proposed limited, OSV, and MODU engineer license tracks.

The Coast Guard disagrees. The STCW Convention does not apply to fishing vessels. This final rule is intended to implement the STCW Convention, and provisions solely addressing domestic credentialing are outside its scope.

One commenter wants to exempt persons serving on pilot boats from application of the STCW Convention. The commenter recommends that the United States interpret the STCW Convention regarding pilot vessels as follows: Pilot vessels are not considered seagoing ships because they operate “in waters within, or closely adjacent to, sheltered waters or areas where port regulations apply.” Consistent with this recommended interpretation of the U.S. obligations under the STCW Convention, persons serving aboard pilot boats should be exempt from application of the STCW. Therefore, the commenter recommends that a new subparagraph (5) be inserted in § 15.105(f) as follows: (5) Pilot boats.

The Coast Guard agrees, and has amended §§ 15.105(f)(5) and 15.1101(a)(1)(v) to exempt pilot vessels engaged in pilotage duty from STCW requirements in those sections.

One commenter states that there is no exclusionary language in § 15.404(c) exempting vessels of less than 200 GRT/500 GT. They request that such an exemption be inserted in this section.

The Coast Guard disagrees. The STCW Convention's RFPEW requirements are based on HP/KW limitations and not tonnage limitation. The change proposed by the commenter would be inconsistent with the Convention.

One commenter states that there is a long history of cooperation between Canada and the United States concerning reciprocity of recognizing domestic licensing schemes. The commenter requests clarification of STCW applicability to vessels on voyages on these waters.

The Coast Guard agrees and has amended text in § 10.232(b)(3) so that seafarers working under national endorsements but who sail on STCW-equipped and -manned vessels inside the boundary line can claim STCW sea service on a one-for-one basis.

17. General requirements

One commenter appreciates the Coast Guard efforts to listen to comments to NPRM. Another commenter appreciates the separation of the domestic and the STCW licensing schemes, and a third commenter states that NMC Policy Letter 11-07 was very beneficial to their company.

The Coast Guard appreciates these comments.

One commenter notes that § 11.301(c)(2) specifies the form for providing evidence of continued competence in fire fighting for STCW endorsements, but the proposal has no similar provision for the fire-fighting training required for domestic endorsements. The commenter recommends that a statement be included to describe the form of acceptable evidence to document continued competence for domestic endorsements.

The Coast Guard disagrees. Changes to fire-fighting training in this final rule are required by the STCW Convention and Code. The requested changes to fire-fighting training for domestic endorsements are outside the scope of this rulemaking because the Coast Guard proposed no changes in that area in the SNPRM. Therefore, we are not extending this requirement to vessels to which STCW does not apply.

One commenter is concerned that the Coast Guard is narrowing the spectrum of jobs that will qualify for sea service credit in § 10.232(f).

The Coast Guard disagrees. The Coast Guard did not change the types of jobs that will receive sea service credit. The change in sea service credit was limited to: (1) Consolidating all requirements in parts 10, 11 and 12 into one section that addresses sea service; and (2) expanding the type of service creditable towards STCW credentials to include near-coastal and Great Lakes service.

One commenter states that the various tables in 46 CFR part 11, subparts C, D, and E are confusing and do not clearly show how someone with a domestic license (e.g., second mate) can enter and qualify for an appropriate STCW endorsement (e.g., chief mate). The commenter recommends that these tables be combined into a single table, or shown as a figure instead of a table.

The Coast Guard disagrees. The separate tables in part 11 describe the endorsement requirements more clearly than a single consolidation would and are co-located with the associated requirements referenced in the tables.

Two commenters recommend that the Coast Guard publish a list of existing policy documents (or portions of policy documents) that it intends to cancel upon publication of the final rule.

The Coast Guard agrees. All policy letters that have been incorporated or overcome by this final rule will be cancelled, and the Coast Guard will notify the public as soon as possible through a notice in the Federal Register.

18. Hours of Rest

Fourteen commenters feel that, with regard to § 15.1111(g), requiring records of daily hours of rest for mariners would be redundant with records kept in the official ship's logbook. This will impose an unnecessary administrative burden upon vessel officers, mariners and oversight authorities since the information required by this section should be available for all parties to check in the official ship's logbook. They also recommend that the Coast Guard change the last sentence to read “A copy of the records shall be provided to the mariner upon request.”

The Coast Guard agrees in part. The Coast Guard will accept entries in the logbook. This section, as drafted, does not preclude the use of the logbook as a means to keep records of rest periods. The Coast Guard will consider developing a consolidated form to capture mandated work/rest information. In response to the commenters' second recommendation, the 2010 amendments to the STCW Convention require that seafarers receive a copy of the records pertaining to them. Although the language of the provision has been altered slightly from what was proposed in the SNPRM, the requirement to provide seafarers with a copy of their records, whether requested or not, has been retained.

One commenter notes that the SNPRM proposes to increase the amount of rest that mariners must be provided in any 7-day period from 70 hours to a minimum of 77 hours. This increase enhances mariners' ability to reduce fatigue. However, the commenter notes that the change still falls short in two areas. First, the commenter believes, it does not apply to mariners in domestic service, including those transiting the Great Lakes and the Inside Passage. Second, it does not address the hours of the day/night during which the rest should be obtained, and thus does not preclude disrupted circadian rhythms or fragmented sleep periods from adversely affecting mariner performance. The commenter believes that the Coast Guard should modify its hours of service rules accordingly. Moreover, the commenter urges the Coast Guard to work with the IMO to change international rules to ensure that mariners worldwide operate under work schedules that, in accordance with the scientific literature on circadian rhythms, provide sufficient rest.

One commenter stated that language should be added to § 15.1111(g) to the effect that if the vessel is a day boat, records of daily hours of rest are not required. Why record the rest period for a crew member if they have left the vessel for home and are returning a different day for another run?

The Coast Guard disagrees. The hours of rest in part 15, subpart K only apply to vessels subject to STCW and not inland vessels. We are unable to modify the hours of rest for vessels to which STCW does not apply as part of this rulemaking because it would require changes to the U.S. Code and is therefore outside the scope of this rulemaking.

Two commenters recommend that, with regard to § 15.1111, the Coast Guard, working with MERPAC, develop a U.S. standard record keeping form or program for the maintenance of daily hours of rest so a uniform system across the U.S. flag fleet can be implemented. This will not only assist port state control oversight but also lessen any additional burden upon the U.S. mariner.

The Coast Guard agrees in part. The Coast Guard will accept entries in the logbook and the use of the standard IMO/ILO record of hours of rest as a means to document hours of rest. The text as currently drafted does not preclude the use of the logbook as a means to keep records of rest periods. The Coast Guard will consider developing a consolidated form to capture mandated work/rest.

One commenter notes that, in § 15.1111, the term “rest period” has no real definition. It should be replaced with the term “off duty period” for the sake of clarity.

The Coast Guard disagrees and is retaining the existing definition for “rest” in § 10.107, which provides, in part, that rest is a period of time during which the person concerned is off duty.

Two commenters state that, with regard to § 15.1111, the proposal is ambiguous and requires amendments to address, or exclude, off-watch work-related hours spent on travel, dead-heads, etc. The proposal fails to outline a method by which crews working a 12-hour watch, commuting to and from the vessel on a daily or nightly basis, are to record so called “rest periods.” Lastly, the full definition of a “rest period” needs to be presented and clarified.

The Coast Guard disagrees. Rest is defined in 46 U.S.C. 8104 and in § 10.107 of this final rule, as that period when the mariner is off duty, not performing work, and allowed to sleep without interruption. The Coast Guard has previously established policy that traveling to and from the vessel is neutral time, which is neither rest nor work.

Seafarers serving onboard vessels authorized to implement a 12-hour watch under 46 U.S.C. 8104 will be required to document the hours of rest. The Coast Guard will accept entries in the logbook and the use of the standard IMO/ILO record of hours of rest as means to document hours of rest. The Coast Guard will also consider developing a consolidated form to capture mandated work/rest. The Coast Guard plans to retain the definition for “rest” in § 10.107, which provides, in part, that rest is a period of time during which the person concerned is off duty.

One commenter asks, with regard to § 15.1111, if the Coast Guard will summarize the impact of this requirement on vessel operations and potentially manning, as it will apply not only to watchkeepers, but also to those with safety, pollution prevention and security responsibilities—this includes the master and chief engineer.

The rest requirements apply to all persons assigned duty as an OICNW or OICEW, or duty as ratings forming part of a navigational or engineering watch, or designated safety, prevention of pollution, and security duties onboard any vessel. It is the company's responsibility to ensure that all persons mentioned above are afforded rest in accordance with § 15.1111.

Three commenters note that § 15.1111(g) requires both the master and each mariner to “endorse” the rest schedule. This “endorsement” is not required by the STCW Code and will reduce the rest of all vessel personnel, if reporting to a central location to sign the rest schedule after each watch is required. The commenters recommend dropping the proposed endorsement requirement.

The Coast Guard agrees. The copy of the records due to the mariner is what is required to be endorsed, and we have amended § 15.1111(g) to reflect this.

With regard to § 15.1111, one commenter believes that requiring more rest for mariners equates to requiring more crew. Many U.S. shipping companies are at minimum manning due to the high cost of maintaining crews and vessels. Additional regulations will only drive business overseas and deplete the U.S. fleet further.

The Coast Guard disagrees because no commenter has provided, and the Coast Guard is not aware of, any data in support of these arguments. Additionally, the STCW Code and Convention prescribes training, not manning, requirements, and the hours of rest are international requirements that apply to all vessels subject to STCW.

As discussed in the SNPRM and supporting Regulatory Analysis, we believe that the new requirements can be accommodated without changing existing watch rotations or current crew sizes, therefore resulting in no additional cost. According to Coast Guard industry experts, STCW vessels engaged in transoceanic voyages are staffed with a 3-watch crew rotation. Even for STCW vessels staffed with only 2 watches, resulting in an average of 12 hours of rest per day or 84 hours a week, the 77 hours a week rest requirement should be able to be met without change in watch schedules. The Coast Guard will monitor the implementation of rest hour requirements and report any new data it finds on industry costs to implement these requirements.

One commenter notes that offshore petroleum operators are required to meet both the work-hour requirements of the Oil Pollution Act of 1990 (OPA 90) and rest hour requirements of STCW. The SNPRM includes a definition of “rest” but not one for “work.” This is problematic, as it could be interpreted that a mariner, who is not resting, therefore, must be working. If that were the case, it will be impossible for some operators to meet the requirements of OPA 90, since drills will be considered work. The commenter recommends that a definition of “work” be added that explicitly states emergencies and drills will not be considered “work.” This will allow petroleum operators the flexibility to track all work/rest/drill hours in one continuous log rather than maintain separate logs for each purpose under unclear guidelines.

The Coast Guard disagrees. Part 15, subpart K applies to vessels subject to STCW, and the Convention does not address work. Therefore, it was not included in this rulemaking. Adding a definition for “work” would need to be part of a separate rulemaking subject to public notice and comment.

One commenter believes that the need to track both work and rest hours may be overly burdensome for these mariners. With that said, however, the commenter states that there may be some trends in identifying fatigue, or advantages in tracking rest in lieu of work or vice-versa. The commenter recommends that the Coast Guard examine the efficacy of tracking hours of rest and hours of work.

This is outside the scope of this rulemaking. This rulemaking only made changes related to the hours of rest in the STCW Convention. This rulemaking does not include changes to work-hour requirements. Furthermore, we are unable to modify the hours of service as part of this rulemaking because it would require changes to the U.S. Code.

19. Radar Endorsements

One commenter notes that currently mariners need only carry the radar certificate with them and it does not have to be endorsed on their new credential. The commenter says the Coast Guard has provided no rationale for the change in § 11.480(d), which requires that an applicant for a radar observer endorsement or for renewal of such an endorsement to submit evidence of training to the Coast Guard. The commenter states that this is both time-consuming and an additional expense for mariners, and recommends that the current policy remain in place.

The Coast Guard disagrees. The Coast Guard proposed changes to the radar observer requirements that explicitly permit mariners to submit evidence of training in person, by mail, fax, or other electronic means. The requirement to submit such evidence, however, predates this rulemaking, and was established by a rule published in the Federal Register on September 11, 2008, (73 FR 52789).

Two commenters note that § 10.209 states that if the applicant desires a credential with a radar-observer endorsement in accordance with § 11.480 of this subchapter, either the radar-observer certificate or a certified copy must be presented. The commenter notes that current Coast Guard policy is to accept copies of any certificate when submitting the application. The commenters recommend that the current policy be retained and that the Coast Guard continue to accept copies of any training certificates and documents submitted with the application.

The Coast Guard agrees. We currently accept copies of all course-completion certificates, including those for radar, and we have amended § 10.209 accordingly.

20. Ratings

Four commenters note that, in §§ 12.603(b) and 12.607(b), it says “Until January 1, 2017, seafarers may be considered to have met the requirements of this section.” The phrase “may be” is unclear. The commenters recommend replacing “may be” with “will be” to improve application and clarity. Assuming the effective date of the final rule will be very soon, this flexibility will be necessary to avoid overwhelming the Coast Guard with able seafarer applications and stripping the U.S. flag fleet of qualified crew members while awaiting thousands of new STCW endorsements.

The Coast Guard agrees and has revised the sections as recommended to ensure clarity.

One commenter notes that, in proposed § 12.701, the paragraph begins with “Every person employed in a rating other than A/B or QMED aboard U.S. flag vessels requiring such persons.” As drafted, this paragraph appears intended to apply 46 U.S.C. 8701, but instead expands the requirements of the law. The commenter suggests it say instead “Every person employed as a rating aboard U.S. flag vessels of 100 GRT/100 GT or more, except as exempted by 46 U.S.C. 8701.”

The Coast Guard agrees in part. As written, the paragraph appears to require MMDs in more situations than envisioned by 46 U.S.C. 8701. Section 12.701 has been revised to clarify: (1) That a rating endorsement on an MMC qualifies as holding an MMD; and (2) that the requirement to hold an MMD only applies to vessels subject to 46 U.S.C. 8701. The MMD requirement in the statute extends beyond those employed as a rating to anyone employed or engaged upon the vessel.

One commenter notes that, in light of STCW standards for able seafarer-deck that go far beyond the U.S. requirements for service and training that have served our mariners well, it is laudable that the Coast Guard has adopted transitional provisions in §§ 12.603(a) and (b) that will delay, if not mitigate, the additional burdens imposed by the Convention. The table in § 12.603(e), however, could be read to “trump” those provisions. The commenter recommends changing § 12.603(e) to the effect that, “Except as provided in (b) and (c), seafarers with the following . . . .”

The Coast Guard agrees in part. The table in § 12.603(e) already accounts for the provisions in § 12.603(a). Additionally, to avoid misinterpretation, the Coast Guard amended footnote “*” to link the table to the requirements for certification as a RFPNW in § 12.603(a)(2) and (3). The Coast Guard amended § 12.603(e) to ensure that it does not override the provisions in paragraphs (b) and (c).

Two commenters express concern that the A/B maintenance and watchstander billets will be replaced by the ordinary seaman, who does not have enough experience to be steering vessels. Therefore, the commenter recommends leaving the RFPNW restricted to lookout duties until he becomes able seaman-special.

The Coast Guard disagrees. RFPNW is a prerequisite for able seaman but requires competence in lookout duties, steering, etc. U.S. Code and existing manning regulations also include provisions on when an ordinary seaman can actually assume the duties of a helmsman as well as standing watches.

Two commenters state it is their understanding that our domestic RFPNW able seaman-special will no longer be able to sail internationally (outside the boundary lines) until he obtains an able seafarer-deck endorsement (§§ 15.404 and 12.603). The commenters ask if a mariner sails as a RFPNW, will this reduce the need for able seafarer-deck onboard. They would like the assurance that entry level mariners will not replace able seamen onboard ships sailing beyond the boundary line.

Entry-level mariners will not replace able seamen onboard vessels sailing beyond the boundary line. The numbers of able seamen are required by regulation. Section 15.404(b) has been amended to clarify the manning of vessels with A/Bs holding either RFPNW or able seafarer-deck.

One commenter states that § 12.607(e) could be misconstrued to take precedence over the transitional provisions in paragraphs (b) and (c).

The Coast Guard agrees in part. The table in § 12.607(e) already accounts for the provisions in § 12.607(a). Additionally, to avoid misinterpretation the Coast Guard amended footnote “*” to link the table to the requirements for certification as a RFPNW in § 12.607(a)(2) and (3). The Coast Guard also is amending § 12.607(e) to ensure that it does not override the provisions in paragraphs (b) and (c).

21. Recognition of Certificates

One commenter suggested that the MMCs issued to foreign mariners in recognition of their STCW endorsement contain specific language describing the scope and authority of the MMC.

The Coast Guard agrees with the concerns of the commenter and notes that foreign mariners will not be issued an MMC. Rather, they will be issued a separate document. The Coast Guard has yet to decide upon the specific design of this document, and will consider the recommendations of the commenter when the document is designed. Part 11, subpart J of this final rule contains provisions on recognition of STCW certificates issued by foreign nations.

One commenter disagrees with the proposal to recognize certificates issued by other parties to the STCW Convention. Presently there is a shortage of U.S. merchant mariners, and the commenter says it is incumbent upon our regulatory bodies as well as industry itself to promote the U.S. merchant marine to maintain a strong maritime presence in the U.S. and worldwide.

The Coast Guard disagrees. The U.S. will recognize certificates issued by other parties to the STCW Convention in accordance with existing laws of the United States. Under 46 U.S.C. 8103(b)(3)(A), the citizenship requirements can be waived for mariners other than master on OSVs operating from a foreign port. To ensure compliance with the STCW Convention, in the limited cases of OSVs, the U.S. needs to recognize seafarer competence certificates from other countries that have ratified the STCW Convention.

22. Qualified Assessors (QA)

One commenter notes that, in § 10.405(c), the requirement for a “Train-the-Trainer” course to follow IMO model course 6.09 is contrary to the Coast Guard's existing policy of allowing most 40-hour “Train-the-Trainer” courses offered by State educational systems. The commenter recommends that the current policy continue to be accepted as meeting “another Coast Guard-accepted syllabus.”

The Coast Guard agrees and has amended § 10.405(c) to broaden the acceptance of courses based on another Coast Guard-accepted syllabus.

Thirty three commenters feel that, just because a mariner may possess any given rating or license, this does not mean that this mariner is also proficient in teaching and assessment competencies. The commenters believe that any program that includes onboard teaching and assessments should be Coast Guard certified as meeting QSS requirements including ongoing oversight of assessor qualifications including periodic audits consistent with the requirements already imposed on shore based training providers.

The Coast Guard agrees and will be developing guidance for qualified assessors (QAs) and the assessment of STCW proficiencies.

One commenter states that one valuable thing that a well-rounded licensed officer must have is experience on all type of vessels, in all types of waters under all types of conditions. The licenses for third and second mate allow the mariner to “sail” on all types of vessels. However, the proposed rules will allow assessments to be made on only one type of vessel. How could a mariner sailing on an OSV gain any knowledge of a container ship, car carrier, tanker, tug boat, etc.? Years of training have given the U.S. airline industry one of the safest records in the world. The commenter believes that the maritime industry needs to follow this plan.

The Coast Guard disagrees. The STCW requirements and the U.S. credentialing system allow for mariners to sail on all types of vessels; however, the average mariner does not have experience on all types of vessels. The competence requirements in the STCW convention and U.S. regulations are supplemented by familiarization requirements onboard the vessel prior to the seafarer taking the responsibilities of his or her assigned duties.

The Coast Guard will be developing guidance for QAs and the assessment of STCW proficiencies. It is important that the U.S. not reduce its commitment to ensuring that its mariners develop according to a high standard of competence. However, the Coast Guard also recognizes that this development of competencies must be flexible and multifaceted to facilitate mariner training. The use of QAs and standardized assessments will provide options for mariner development, as well as providing standards for the training and maritime industries to use in development of required and optional courses and programs. Those courses and programs will also provide other options for mariner training and development.

One commenter recommends that § 10.405(c) become § 10.405(b)(4). The commenter points out that applicants for QA positions may provide documentary evidence of a “Train-the-Trainer” course, which seems inappropriate. The commenter recommends that a “train the assessor” course be added as an acceptable program.

The Coast Guard agrees and has amended § 10.405 to ensure that the QA is trained in proper assessment techniques, by means of an “assessor training” course. In addition, this topic will also be discussed in the guidance that the Coast Guard is developing concerning QAs.

The Coast Guard disagrees, however, with re-designating § 10.405(c) as § 10.405(b)(4). Section 10.405(c) provides specific information applicable to both § 10.405(a) and § 10.405(b), which set out the requirements for QA and DE respectively.

One commenter notes that in § 11.301(a)(1)(i), it says that assessments are signed by a DE, but he believes that it should read “qualified assessor” because these provisions are specific to STCW endorsements.

The Coast Guard agrees, and has revised § 11.301(a)(1)(i) as recommended.

23. License Progression

One commenter states that, with regard to § 11.305(e), he strongly supports the crossover paths from domestic to STCW endorsements. These advancement opportunities will not only encourage ambitious individuals to enter the maritime workforce, they will motivate those individuals to obtain the training needed to establish the required competence.

The Coast Guard appreciates this support.

One commenter recommends that the Coast Guard develop career paths for chief engineer (MODU) and assistant engineer (MODU).

The Coast Guard disagrees. The MODU industry has established processes for their personnel and the Coast Guard already has established progression tasks for engineers who wish to transition to a conventional vessel.

Three commenters note that § 11.305 requires evidence of 36 months service as OICNW to qualify for an STCW endorsement as unlimited master oceans without any time required as chief mate. In current § 11.404, the minimum service required to qualify an applicant for an endorsement as master of ocean any gross tons is 1 year of service as chief mate or a minimum of 6 months as chief mate with 12 months as second or third mate. The proposed reduction in experience is a deskilling of the unlimited master ocean license. The commenter recommends retaining the current requirements.

Another commenter notes that proposed § 11.305 has a provision that would permit a master of less than 1,600 GRT/3,000 GT to cross over to master 3,000 GT or more (unlimited) with only 6 months service on vessels of under 1,600 GRT/3,000 GT and no experience on vessels of unlimited size. Under the current regulations, a master 1,600 GRT oceans can cross over to third mate unlimited oceans with 12 months service or second mate unlimited with an examination. The commenter says that permitting the proposed drastic reduction in experience from the current regulation in essence allows an individual with a license that formerly was considered equivalent to third or second mate unlimited to progress to unlimited ocean master with only 6 months experience in ships of limited size. The commenter says this is an astounding reduction of standards, and recommends retaining the current requirements.

The Coast Guard disagrees. This cross over provision, which is consistent with the STCW Convention, is available only to those mariners who have already obtained a national endorsement with authority to operate vessels of unlimited tonnage or offshore support vessels of up to 10,000 GT. Additionally, the STCW competence and training requirements will ensure that those persons seeking to obtain the management-level STCW endorsement have demonstrated competence and achieved the required level of training.

One commenter notes that the definition of “chief mate” in § 10.107 clearly characterizes the role and responsibility of a 1,600 GRT mate on a vessel allowed to operate under a two-watch system. Therefore the commenter expects that the use of the term “chief mate” in § 11.311 will permit such service (or service while holding a master endorsement) to satisfy the provision allowing for a reduction in service to 24 months provided that 12 months is “served as chief mate.” However, the commenter is concerned that the provision will be misconstrued as written and recommend that it be reworded to allow the reduction “. . . if the applicant served in the capacity of chief mate for not less than 12 months.”

The Coast Guard agrees in part. Where the mariner holds a management-level credential, and fills the position as mate, and the position meets the definition of chief mate found in § 10.107, then that service will be credited as chief mate. However, the Coast Guard does not believe this section is confusing and likely to be misconstrued, nor did the Coast Guard revise this definition as part of this rulemaking project.

One commenter recommends that the Coast Guard consider streamlining ocean, OSV, and Uninspected Vessel qualification training pipelines by utilizing current STCW certifications for their basis rather than the HP rating.

The Coast Guard did not propose a change in the national endorsement scheme. Regulatory changes on that subject would need to be part of a separate rulemaking and subject to public notice and comment.

One commenter notes that, for unlimited tonnage vessels (at least 1,600 GRT), the U.S. domestic license structure provides for four licenses, whereas the STCW convention provides for three licenses. The commenter says that our domestic licensing system works well and is easily adaptable to meet STCW requirements. It supports a three-watch system or periodically unmanned engine rooms.

The Coast Guard has been using the four-license national structure to fit in with the STCW three-license system since the 1997 IR. The national third assistant engineer and second assistant engineer endorsements, as well as the national third and second mate endorsements, fall neatly within the STCW OICNW and OICEW endorsements. Typically, national master and chief mate align with their STCW counterparts, and the national chief engineer and first assistant engineer endorsements also align with theirs.

One commenter notes that, for limited tonnage vessels (at least 500 GT up to 1,600 GT), our domestic license structure provides for only two licenses, whereas the STCW convention provides for three licenses. Currently, the limited assistant engineer license is endorsed for oceans. The restricted limited chief engineer license is endorsed for near-coastal, where the unrestricted limited chief engineer license is endorsed for oceans. Therefore, the commenter recommends that the Coast Guard restructure the domestic license track to mirror STCW and introduce a limited second engineer license. Any restrictions, in terms of routes, would be issued strictly on the basis of STCW certification. Without the appropriate STCW certificate, the domestic license would be restricted to near-coastal, regardless of the level of the license. With the appropriate STCW certificate, the scope of the license would be extended to oceans, again regardless of the level of the license. This proposed license structure would support a two- or three-watch system or a periodically unmanned engine room.

The same commenter proposes that the domestic license tracks for OSV and MODU follow the same pattern as proposed for the limited-license track, introducing a second engineer license. This proposed license structure would support a two- or three-watch system or periodically unmanned engine rooms.

The same commenter also notes that, for limited tonnage vessels less than 500 GT, our domestic license structure provides for three designated duty engineer licenses, although most vessels would carry just one licensed engineer. The restrictions placed on the DDE license are based on horsepower and routes as a function of qualifying sea service in the engine room. The commenter recommends that the horsepower limits be based on conventional methods used for the other license tracks, rather than sea service requirements.

The Coast Guard agrees in part and has removed the endorsement for chief engineer (limited-near-coastal) in § 11.520. We also amended sections §§ 11.518 and 11.522 to establish new crossover points from limited to unlimited national engineering endorsements. However, the remainder of the commenter's suggested progression paths are unnecessarily complex. The Coast Guard's licensing scheme is clearer and is based upon the Coast Guard's long experience and the maritime industry's needs.

Ten commenters believe that the proposed changes in the engineering training requirements in the SNPRM represent a significant improvement over the NPRM. The commenters believe, though, that additional changes are needed to ensure an engineering career path that meets the twin goals of safety and practicality. The commenters recommend the removal of all route restrictions in § 15.915 so an engineer seeking to sail on an international or ocean voyage will require an STCW endorsement. The commenters believe that the need to obtain an STCW endorsement creates a route restriction.

Additionally, five commenters recommend that the Coast Guard allow direct crossover from lower-level to upper-level licenses where appropriate, including a new crossover from chief engineer (limited) to first assistant engineer (unlimited).

Similarly, five commenters recommend that the Coast Guard provide a direct crossover from third assistant engineer to DDE-unlimited HP and assistant engineer (limited) to vessels under 1,600 GRT, and from second assistant engineer to chief engineer (limited) to vessels under 1,600 GRT.

The Coast Guard agrees with most of these comments. In this final rule, the Coast Guard has provided a crossover from chief engineer (limited) to first assistant engineer. Direct crossover from third assistant engineer and assistant engineer (limited) to DDE is already permitted in current regulations. Additionally, the Coast Guard has added, in figure § 11.505(a) of this final rule, a direct crossover from third assistant engineer to assistant engineer (limited). The Coast Guard does not agree, though, with the need for a crossover from second assistant engineer to chief engineer (limited) because first assistant engineer is the crossover point to chief engineer (limited). Also, removal of the national route restrictions would require a separate rulemaking subject to public notice and comment.

One commenter encourages the Coast Guard to take this opportunity to review engineer endorsements and licenses for the operation of 46 CFR chapter I, subchapter H vessels on inland waters within three miles from land.

The Coast Guard disagrees. The current regulations allow the OCMI to set manning requirements and national credentials already exist to cover this type of operation, and changes to these regulations are outside the scope of this rulemaking.

One commenter states that proposed new language will allow officers serving on vessels subject to 46 CFR chapter I, subchapters T and K to obtain an STCW endorsement, but at the same time will prohibit officers serving on the vessels subject to 46 CFR chapter I, subchapter H from realizing the same benefit. The commenter recommends that the Coast Guard reverse this policy and grant STCW endorsements to those officers serving on 46 CFR chapter I, subchapter H vessels.

The Coast Guard disagrees. STCW applies to seagoing commercial vessels, except fishing vessels. However, special provisions allow for exempting smaller vessels on near-coastal voyages from unreasonable or impracticable requirements. The exemptions for small passenger vessels engaged exclusively on domestic voyages is limited to vessels less than 100 GRT and engaged in domestic trade. In 1997, the Coast Guard determined that an equivalency between STCW requirements and current U.S. laws and industry practice is justified. The revisions to the rules on inspection and certification of small passenger vessels (46 CFR chapter I, subchapters T and K), as well as the fact that the Coast Guard has the opportunity to perform direct oversight of the operational aspects of these vessels, supports such an equivalency. Therefore, this final rule imposes no new requirements either on personnel serving on these vessels or on their owners or operators. In contrast, 46 CFR chapter I, subchapter H applies to vessels of more than 100 GRT. Because these vessels are more complex, and can carry more passengers onboard, STCW regulations require additional training, service, and assessments.

One commenter recommends that Figure 11.403 should include the master of towing vessels progression and appropriate crossover points.

The Coast Guard agrees, but has provided the separate progression paths as well as credentialing crossovers in Figure 11.463 for improved readability.

One commenter recommends that the Coast Guard add to § 11.412 an upgrade from master 500 GRT Oceans (domestic) to 1,600 GRT oceans (domestic) with one additional year of sea service under the authority of the license above 50 GRT. This is congruent with the service requirement in Table 1 to § 11.311(d) for ocean master more than 200 GRT/500 GT and less than 1,600 GRT/3,000 GT.

The Coast Guard agrees in part and has added a paragraph noting that mariners may raise the grade of an officer endorsement as master from less than 500 GRT to less than 1,600 GRT with 1 year of service as a master, mate, or master or mate (pilot) of towing vessels on vessels over 100 GRT.

One commenter disagrees with the route limitation in § 15.915(a)(1) and recommends that the Coast Guard remove it, because there is a lot of towing commerce between the West Coast, Alaska, and Hawaii. The commenter believes insertion of this route restriction will hurt the towing industry.

The Coast Guard disagrees. The Coast Guard did not propose any changes to this paragraph. This final rule provides for a progression to endorsements valid for oceans service. If mariners serve on vessels operating on oceans, they may obtain one of the engineer endorsements authorizing service on oceans.

One commenter notes that § 11.420 requires 1 year of service as mate in order to obtain an original mate 500 GRT Ocean license. This is illogical, the commenter says, as a mate position is an entry level deck officer position. A provision allowing for an original 500 GRT mate license with 3 years of service on ocean or near-coastal routes on vessels greater than 50 GRT should be added.

The Coast Guard disagrees. The Coast Guard did not propose any changes to the service requirements for an endorsement as mate less than 500 GRT in § 11.420. The requirement in that section for an applicant to have at least 1 year service as a master, mate or equivalent supervisory service, of which at least 6 months must be on vessels of more than 50 GRT, to qualify for this endorsement remains unchanged from the current regulation.

One commenter notes that there are currently two paths to master on vessels of less than 200 GRT: 36 months on vessels of greater than 200 GRT; and 1 year acting as master on a towing vessel, but there are no tonnages mentioned in regulation.

The Coast Guard agrees and has deleted the tonnage requirement from § 11.317(a)(1).

Two commenters recommend that the Coast Guard look very closely at the implementation schedule proposed for these credentials, especially for those vessels of less than 200 GRT. There will be a great shortage for engineers on these vessels. The commenters say the Coast Guard should work with industry to develop career paths and a realistic implementation period.

The Coast Guard disagrees. The rule provides an implementation period ending on January 1, 2017. In addition, we have provided multiple progression paths to facilitate engineers operating on tow boats to be able to obtain an STCW endorsement.

Two commenters believe that the new STCW requirements will make it even more challenging for their industry to develop future engineers. The commenters recommend that QMED time be credited on a 2-for-1 basis for up to 50 percent of the service time required for upgrade. They believe that such a provision is necessary in order to allow individuals with significant service time as unlicensed engineer to obtain the STCW endorsement needed to continue their career in the towing industry.

The Coast Guard disagrees. The STCW Convention does not allow for the use of rating time towards management level credentials. We have added new progression paths in part 12, subpart F to ensure engineering ratings can qualify.

24. License Separation Scheme

Four commenters state that separation of the STCW endorsements from the domestic licensing scheme does nothing to make it easier for mariners to read and understand the requirements for each STCW endorsement. By separating the two sides of the existing credentialing scheme, the commenters believe the Coast Guard fails to consider the simplicity of the STCW scheme and the manner in which it accounts for credentialing options limited to near-coastal voyages.

The Coast Guard disagrees. This final rule clarifies endorsement requirements, while being responsive to comments to the SNPRM and NPRM from industry supporting separate schemes. The final rule also provides clearer career progression paths from national to STCW endorsements.

One commenter is in agreement with the proposal to separate the two licensing schemes, but notes that there are many domestic mariners who either have come from the STCW realm and continue to work as mariners or are deep-sea mariners who work domestically during periods of time off and then return to their regular duties. The commenter recommends that OCMIs should evaluate training and drill programs of the domestic fleets and allow credit for any training and drills that meet OCMI/NMC guidelines.

The Coast Guard agrees in part. Evaluation of training courses and evidence of drills are part of the NMC's functions. Providing these functions from a central location ensures a uniform and consistent implementation of the STCW Convention requirements. One of the functions of the Regional Examination Centers is to provide oversight for the courses.

One commenter states that, in the requirements for a domestic 500 GRT oceans master endorsement (§ 11.418) in accordance with paragraph (c), an individual “may qualify for an STCW endorsement, according to §§ 11.307, 11.311, 11.313 and 11.315 of this part.” However, the proposed rules do not provide an STCW endorsement as master beyond 200 GRT/500 GT without additional sea service; nor do they provide ability to work as an OICNW on vessels of less than 200 GRT/500 GT, requirements which would have been met according to § 11.309.

The Coast Guard agrees. This rulemaking only allows the master of oceans self-propelled vessels of less than 500 GRT to obtain an endorsement as master of vessels of less than 500 GT without providing additional service. If a seafarer holds an STCW endorsement as OICNW, §§ 11.307, 11.311, 11.313, and 11.315 of this final rule contain provisions for obtaining the management-level endorsements.

Two commenters state that, according to § 11.305(d), seafarers holding an STCW endorsement as master of vessels of 200 GRT/500 GT or more and less than 1,600 GRT/3,000 GT in accordance with § 11.311 are eligible to apply for the endorsement as master on vessels of 1,600 GRT/3,000 GT or more upon completion of 6 months of sea service, under authority of the endorsement; and complete any items in §§ 11.305(a)(2) and (a)(3) not previously satisfied. The commenters ask if this means that someone holding the respective domestic license would be able to upgrade to an unlimited master.

As previously noted, we are separating the national officer endorsement from the STCW endorsement in this final rule, and mariners must meet the separate qualification requirements for each endorsement.

25. GT/GRT Equivalency

One commenter states that, in § 15.915(a), the Coast Guard has added the 200 GRT wording to what currently only says 500 GT. The commenter believes this has a great effect on uninspected towing vessels between the 200 and 300 GRT range, which would mean that a DDE-unlimited would no longer be able to work on vessels in this range. The commenter recommends either retaining the original language, or substituting terms of uninspected vessels which would limit it to 300 GRT, or defining it as 300 GRT/500 ITC. This, the commenter believes, would allow engineers who have been working on these vessels for many years to continue doing so.

The Coast Guard agrees, and has restored the 500 GRT limit as found in existing § 15.915(a). DDEs working on vessels subject to STCW are covered by their STCW endorsements as found in §§ 11.325 and 11.331. However, the DDE limitations on their national endorsements still apply.

One commenter states that § 11.301(d)(4) regarding dual-tonnage service may cause confusion and result in unintended consequences and notes that several dual-tonnage vessels have tonnage that falls above one threshold but below the other (i.e., 199 GRT/538 ITC or 235 GRT/424 ITC). In these instances, the commenter believes, the manning requirements are primarily driven by whether the vessel is operating domestically or internationally. The commenter recommends that this be considered and that the Coast Guard modify this section so that the mariner is given sea service credit at whichever equivalency is higher.

The Coast Guard agrees that using dual-tonnage may cause confusion. In order to address this issue, the Coast Guard will issue guidance to specify the process for determining the tonnage to be used when applying for a credential.

26. High-Speed Craft (HSC)

Four commenters feel that the type rating certificate renewal period every 2 years is too short a span and should be increased to 5 years to match all other industry standard MMCs. The commenters recommend that, if the HSC licensing has to remain at 2-year renewal intervals: (1) 90 days sea service should be required as opposed to 180 days; and, (2) 4 round trips over each route instead of 12 round trips, as long as the licensed deck officer also has current first-class pilotage over the routes. Another option could be to stay with the present 12 required round trips every 2 years, but allow trips aboard non-HSC type vessels to be credited on a 2-for-1 basis for up to 50 percent of the trips so long as the licensed deck officer is also a first-class pilot for those routes.

The Coast Guard disagrees. This proposal would diminish the requirements applied under the HSC code that were taken directly from that code. The Coast Guard has amended the HSC code section to ensure it is only applicable to seafarers operating vessels subject to the HSC Code.

Three commenters are concerned that the wording in § 11.821 could cause a problem for every operator of a vessel to which the HSC Code does not apply. The commenters recommend that the wording be changed because the Coast Guard inspectors may apply this to any vessel that operates at high speed. Alternatively, the commenters believe the Coast Guard should further define the application here and the term “High Speed Craft” should be added to the definitions section in part 10, so that it is clear to all that the Coast Guard is not requiring every operator of every craft that goes over 25 knots to be type rated.

The Coast Guard agrees and has amended the HSC code section to ensure it is only applicable to seafarers operating vessels to which that code applies.

One commenter is opposed to having a separate type rating certificate (TRC) for each type of HSC and believes it would require repetition in the already archaic licensing application process. If existing licensed crew members are hired, and they have to have a separate individual type rating added to their existing license, the commenter believes it will stall the entire process of hiring.

The Coast Guard disagrees. The HSC code requires an operator to be trained on specific vessels or classes of vessels. If the HSC code is applicable to a vessel, the Coast Guard will continue to require compliance with that requirement; however, the training requirement would not apply to the owners and operators of those vessels not subject to the HSC code.

Three commenters believe that it is inappropriate and confusing to insert TRC in proposed § 11.821 and that the requirement for a TRC for a HSC is derived from the HSC code, not from STCW. The commenters note that the HSC code is not referenced and not incorporated into this rulemaking and that there are currently two vessels in the U.S. operating in compliance with the HSC code, and a fleet of vessels that are not “code boats.” The commenters believe it would be confusing to the Coast Guard and the industry to have this section of a separate code incorporated here without sufficient definition or explanation. As a result, the commenter believes the entire section should be deleted.

The Coast Guard agrees in part. We proposed to include the high-speed craft provisions in the SNPRM, and included them in this final rule, because these vessels are in use within the U.S. and the existing regulations did not account for them. These new requirements will further promote safe operation of these vessels. Section 11.821 has been amended to clarify that it applies only to vessels subject to the HSC code.

27. Horsepower

One commenter observes that trade publications highlighting significant new vessel deliveries noted all of the offshore vessels and many inland boats had propulsion power exceeding 4,000 HP. For that reason, the commenter recommends increasing all current domestic credential HP breakpoints to better reflect the current fleet composition. The commenter recommends that the Coast Guard submit a paper to a future STCW meeting to increase the STCW limits from the current 1,000/4,000 HP breakpoints. More realistic breakpoints could be 4,000/10,000/20,000 HP. Alternatively, on a vessel with multiple identical main engines, regulators could count only the power level of a single engine as the required power limit on the engineer credential.

This comment is outside the scope of this rulemaking. The Coast Guard did not propose any new requirements in this area, and regulatory changes would require a separate rulemaking, including public notice and comment.

28. Designated Examiners (DE)

Six commenters agree with the new definition that restricts DEs to only evaluating the proficiency of any applicant for a towing-vessel endorsement. The commenter also believes that the current system of applying for recognition through the NMC is appropriate.

The Coast Guard agrees and will continue to approve the DEs for evaluation of applicants for towing endorsements.

Three commenters ask if the definition of “designated examiner” indicates that he or she could be approved by either the Coast Guard or a Coast Guard-accepted organization.

The definition in § 10.107(b) has been revised to reflect that the Coast Guard will continue to approve all DEs.

29. Equivalency

One commenter urges the Coast Guard to recognize the limited size and scope of towing vessel engine rooms and account for this by issuing safe manning certificates for towing vessels subject to STCW that allow an individual serving as officer in charge of an engineering watch or designated duty engineer in a periodically manned towing vessel engine room meeting the operational (STCW III/1) rather than management (STCW III/2) level training requirements to serve as chief engineer.

Pursuant to the STCW Convention, persons with chief engineer functions are required to meet Regulation III/2 or III/3 as appropriate. STCW does not provide for any exemptions from these requirements. If a DDE is the only engineer on the boat, then he is the de-facto chief engineer and must meet Regulation III/2 or III/3 of the STCW Convention. If he or she is an engineer in addition to another who is acting as the chief engineer, then he or she would only be required to meet Regulation III/1 of the STCW Convention.

One commenter requests that the Coast Guard allow OCMI's to exempt crew members, or at least members of the steward's department, on passenger vessels operating on very short-duration cruises inside completely protected bays and harbors from the requirement to obtain MMCs.

The same commenter requests that the Coast Guard designate San Francisco Bay and San Diego Harbor as “Rivers” when applying the MMC requirement.

This comment is outside the scope of this rulemaking. The Coast Guard did not propose any new requirements in this area, and regulatory changes would require a separate rulemaking, including public notice and comment.

30. Electro-Technical Officer (ETO)

One commenter recommends that an additional requirement to qualify for an endorsement as an ETO aboard an unlimited tonnage vessel (§ 11.335) should be an endorsement as an OICEW (engineers' license). Service as an ETO requires a thorough knowledge and operational experience of all shipboard engineering systems.

The Coast Guard disagrees. Qualification as an OICEW is not a prerequisite for an ETO endorsement under the STCW Convention. In addition, the Convention provides for other personnel without a marine engineering credential to qualify for this endorsement.

One commenter states that there is no clear education, training or certification requirement for ETO. The commenter states that the minimum requirement for an applicant should be that he or she hold a GMDSS maintainer license and be certified as CompTia A+ Network+ and Security+. There should also be a requirement that he or she is also certified in the repair and operation of Automatic Identification System, Long Range Identification and Tracking, Ship Security Alert System, Simplified Voyage Data Recorder Radar/Electronic Chart Display and Information System (ECDIS) and all bridge electronics. The commenter also recommends that there should be a recertification requirement.

The Coast Guard partially agrees. Section 11.335 has been amended to include training requirements appropriate for an ETO. The Coast Guard disagrees that the GMDSS maintainer should be a pre-requisite for the ETO since the STCW Convention does not expressly require it. This final rule allows companies to add this requirement as an additional responsibility of an ETO.

One commenter recommends that the Coast Guard establish the following minimum knowledge for § 11.335, ETO and Electro-technical rating: Each applicant for an endorsement/license as an electro-technical officer/rating shall furnish evidence that he or she meets the standard of the GMDSS maintainers as required by the Coast Guard and having met the requirements for electro-technical officer/rating as outlined in STCW A-III/6 or A-III/7.

The Coast Guard disagrees. The GMDSS maintainer and ETO are separate endorsements that are now established in STCW. This final rule allows companies to add this requirement as an additional responsibility of an ETO.

One commenter asks, with regard to § 11.335:

(1) In what engine room capacity does the potential ETO have to serve?

(2) If proficiencies are demonstrated onboard a vessel, who signs the competencies?

(3) Does any new OICEW or greater endorsement qualify as ETO without additional training, service, or assessment?

(4) Is ETO to be a subsidiary duty of any OICEW or higher?

(5) Is this the intended outcome or is the ETO to be a specialized Electronics/Automation/Controls engineer?

The STCW Convention is not a manning document; therefore, the Coast Guard will not require that any vessel carry a mariner holding this ETO endorsement. However, anyone serving in the capacity of ETO must hold the endorsement. If proficiencies are demonstrated onboard a vessel, a qualified assessor would sign the competencies. Any new OICEW must meet the requirements of § 11.335 in order to qualify as an ETO. Any mariner who meets the ETO requirements in § 11.335 will be issued an ETO endorsement without regard to whether they also hold or qualify for a corresponding national endorsement or any other STCW endorsement.

31. Examinations

One commenter notes that § 11.201(j)(2) contains a recommendation that an applicant take the exam “as soon as possible,” even though the preamble of the SNPRM (76 FR 45939) states that the Coast Guard agreed with a comment that the advice is unnecessary and would be dropped. The commenter recommends deleting the statement.

The Coast Guard agrees, and § 11.201(j)(2) has been amended to delete this language and indicate only that the approval for examination is good for 1 year.

One commenter recommends that, in § 12.205, the Coast Guard add a consequence to the last sentence of (c), such as “or the application will be voided.”

The Coast Guard disagrees. The regulatory text is clear that the approval for examination is good for 1 year.

Two commenters note that § 11.201(j)(1)(iii) requires applicants (e.g., cadets) enrolled in a comprehensively approved program of training, service and assessment be authorized for the Coast Guard exam “not more than 3 months prior to the completion of the program provided all applicable sea service requirements are completed prior to the examination.” The commenters believe the 3-month period is more restrictive than the 6-month period previously allowed by the Coast Guard and recommended that the 6-month period be retained.

The Coast Guard agrees in part. The exams need to be completed soon before or after issuance of the credential to ensure that new officers have the knowledge prior to receipt of their officer endorsement. However, the Coast Guard recognizes that some training schools complete the training program ahead of time and the rest of the time is spent prepping for the exam. In order to facilitate the examination process while ensuring that the examinees have the knowledge for the exam, the Coast Guard has added an additional sentence to allow applicants to test earlier (a maximum of 6 months prior to the program end and graduation), provided they have completed all parts of the comprehensive program that pertain to maritime credentialing requirements.

One commenter states that, in Table 11.910-2, the examination topics should make reference and include specific knowledge, understanding and proficiencies required in the STCW tables in the applicable deck or engine license category.

The Coast Guard agrees in part. The exam subject tables in § 11.910 cover the general subjects and topics for each credential issued. Subjects, topics, and sub-topics related to STCW KUPs will be defined in guidance issued by the Coast Guard.

One commenter asks how the Coast Guard will approve simulators discussed in § 11.901(c).

The Coast Guard does not approve individual simulators. The Coast Guard approves courses that use simulators and, as part of the approval process, evaluates whether the simulator is suitable for the proposed training.

One commenter states that Tables 11.910-2, 11.930-2, and 12.950-2 do not include security training requirements.

Tables 11.910-2, 11.930-2, and 12.950-2 depict exam topics for endorsements requiring examinations. The security endorsements do not require examinations.

One commenter suggests that, if the tables of examination topics (§§ 11.910 and 11.950) were relocated to the “Examination Guide,” they could be more quickly updated as necessary. If strictly adhered to, these tables would provide essential direction to the testing mariner without compromising the integrity of the examination.

The Coast Guard agrees in part. The tables need to remain in the regulations until such time as the Coast Guard replaces them in regulation or issues guidance. The tables are necessary to provide the mariners with the topics for the exams. The Coast Guard will consider issuing a task to MERPAC to develop suitable information on exam topics.

The same commenter notes that, with regard to § 10.219(a), the current regulations used “Upper Level” to apply specifically to unlimited master any gross tons (AGT), near-coastal/oceans chief mate AGT near-coastal or oceans, second mate AGT near-coastal or oceans, third mate AGT near-coastal or oceans, chief, first, second, and third engineers without tonnage or route restrictions. But in the reference beneath this SNPRM table, “Upper Level” is defined as AGT or unlimited horsepower. Is the master inland AGT considered “unlimited” here for fee purposes? The new Deck Examination Guide relies on the old § 10.107 definitions, which included “Upper Level” as defined above and distinguishes two retesting procedures and two waiting periods for “Upper and Lower Levels.”

The same commenter also pointed out that “Upper Level” candidates who failed three sections of their examinations were required to retest on all sections. “Lower Level” candidates did not have to meet this threshold. “Upper Level” candidates had to wait 3 months before beginning a new exam cycle after having failed a previous go-round; “Lower Level” candidates had to wait only 2 months. Will the procedures of the Deck Examination Guide remain in place or will the testing procedures and waits change to one system for all candidates as described in § 10.219?

The Coast Guard has changed the testing procedures and waiting periods for both deck and engine “Upper and Lower” level examinations to one system for all candidates as detailed in § 11.217(a) of this final rule. The examination guide will be changed accordingly. Additionally, the Coast Guard has added a definition for “unlimited” in § 10.107.

The same commenter noted that § 11.418(b) should be changed to provide for a limited examination instead of a full examination.

The Coast Guard agrees, and provisions in the existing regulations calling for a limited examination remain unchanged. We will also retain the existing regulation specifying a limited examination in §§ 11.418(b), 11.429(a)(3), 11.446(b), 11.456(a)(3), and 11.467(f)(3).

One commenter requests a near-term update to the tables of examination subjects in part 11 to reflect the 1995 and 2010 STCW amendments. Of great importance, the commenter believes, is the accuracy of the list of examination subjects, which enables maritime educators to determine more precisely what must be included in training and education programs to ensure their students can adequately prepare for the Coast Guard's exam.

The Coast Guard agrees and has amended the examination tables to include the general topics for the various examinations. The Coast Guard recognizes that additional information may be necessary to further develop these topics. The Coast Guard will consider issuing a task to MERPAC to develop suitable additional information on exam topics.

The same commenter asks, as an example, if a mariner has an STCW endorsement as chief mate on vessels of 1,600 GRT/3,000 GT or more, would the candidate, among other requirements, have to pass the chief mate unlimited near-coastal/ocean examination? And, having passed that examination, later on, would the candidate meet the service and tonnage requirements of the domestic chief mate any gross tons, and would he or she be required to take the unlimited master/chief examination again?

A mariner as described in this comment would not be required to retake examinations previously and successfully completed at a lower level.

32. Dynamic Positioning

One commenter expresses disappointment that the SNPRM does not include an endorsement for Dynamic Positioning Officers (DPO) under B-V/f of the STCW Code. Issuing this endorsement, even if not required by the COI on U.S. flag vessels, would highlight the unique training and experience of DPOs and set a standard among other STCW signatory nations. The commenter urges the Coast Guard to consider creating such an endorsement.

DP requirements are being addressed in a separate rulemaking. Additionally, § 15.520 has been amended to clarify the status of a MODU on DP.

33. Fast Rescue Boats

One commenter recommended that, since existing SOLAS and U.S. requirements mandate that the STCW competency of “Operate Fast Rescue Boat Engine” be accomplished at least once a month, the Coast Guard should add to the list of STCW competencies that it will accept as onboard training for the STCW competency “Operate Fast Rescue Boat Engine.”

The Coast Guard agrees and has amended § 12.617 to include operating the fast rescue boat engine as a competency that can be completed onboard vessels.

34. Deck Officer Requirements

Four commenters note that on page 45918 of the preamble the Coast Guard cites § 11.401 as “removing the requirement for deck officers to obtain a qualification as Able Seaman,” which “provides consistency with the STCW Convention.” Although the requirement is absent from STCW endorsements, it is still found in §§ 11.407(a)(1), 11.414(a)(2), 11.416(a), and 11.421(a), which are the prerequisite credentials to obtain STCW authority. Moreover, the prerequisite to hold A/B is also found in Great Lakes and Inland §§ 11.437, 11.444, and 11.448. The commenters recommend that the Coast Guard remove the prerequisite of holding an A/B endorsement from these sections.

The Coast Guard agrees and has amended §§ 11.407(a)(1), 11.414(a)(2), 11.416(a), 11.421(a), 11.437(a)(1), 11.444(a)(1), and 11.448 to remove the requirement that applicants for these endorsements must hold an able seaman endorsement.

35. Ceremonial License

Six commenters acknowledge and thank the Coast Guard for recognizing the importance of a mariner's credential by creating the “ceremonial license.” The commenters added that this document demonstrates respect for the professionalism of the mariner and that a ceremonial license means a document that reflects a mariner's existing domestic officer endorsement and is suitable for framing, but is not valid for use as an MMC.

One commenter states that, although he appreciates the Coast Guard's willingness to make the ceremonial license available, it would be nice to recognize the issue number which is a source of pride to experienced mariners as well as a valuable tool for potential employers.

The Coast Guard appreciates the desirability of including an issue number on the ceremonial license. Because the MMC does not currently contain an issue number, though, the Coast Guard is unable to include such a number on the ceremonial license. The ceremonial license, however, would show the existing national officer or rating endorsement.

One commenter states that a ceremonial license would fill the gap left by the current passport format license. The commenter adds that passengers have come to expect to see the master's license publicly displayed onboard with all the other documents.

The Coast Guard agrees that passengers have come to expect to see the master's license publicly displayed onboard, and 46 U.S.C. 7110 requires the posting of the master's MMC. However, the ceremonial license “is not valid for use as a Merchant Mariner Credential” (see § 10.107), so its posting would not satisfy 46 U.S.C. 7110. The Coast Guard is unable to change this requirement without a revision of the statute.

36. Basic Training

Two commenters state that, in current §§ 11.301(b) and 11.301(c)(3), the onboard assessments for STCW elementary first aid are not equal for officers and ratings.

The Coast Guard did not propose onboard assessments for elementary first aid. The Coast Guard agrees that the requirements for officers and ratings should be the same and has revised those requirements accordingly. The requirements for BT, including elementary first aid, have been broken out into separate sections in §§ 11.302 and 12.602. The Coast Guard has changed the term “basic safety training” to “basic training” to be consistent with the STCW Convention.

One commenter expresses concern over the provision in § 11.201(h)(1) allowing mariners to demonstrate having maintained the standard of competence in basic and/or advanced firefighting and felt this posed an additional burden to inland mariners. The commenter recommends leaving in place acceptance of 1 year of sea service in the last 5 years as meeting the requirements for demonstrating competence in basic and advanced firefighting for domestic, inland credentials.

The Coast Guard disagrees. There are no firefighting maintenance or renewal requirements for national endorsements in § 11.201(h). The firefighting requirements in § 11.201(h) apply to the original issue of one of the specified officer endorsements. It does not apply to the renewal of an endorsement, or to a raise of grade from one of the enumerated endorsements. However, the Coast Guard has revised this section to add new provisions specifically stating that the firefighting requirement only applies to a raise of grade if the applicant had not previously met the requirement.

One commenter remarked that instructors in first aid and cardio-pulmonary resuscitation (CPR) should be required to demonstrate their familiarity with the most recent techniques through certification by the American Heart Association and/or the American Red Cross.

The Coast Guard agrees that instructors must be familiar with the most current techniques, but does not feel a change is needed. When courses are approved or renewed, the Coast Guard evaluates the qualifications of instructors to ensure they are qualified to teach the course. In addition, continued professional competence of instructors should be addressed in the school's QSS, and will be subject to periodic audit by the Coast Guard.

Two commenters note that § 11.301(b)(3) allows for certain areas of basic safety training (BST) to be satisfied with onboard experience. However, § 12.601 does not list continued proficiency being granted for the same areas through onboard experience and drills.

The Coast Guard agrees, and has relocated the requirements for STCW ratings to accomplish BT to § 12.602. The new section accepts sea service as demonstrating continued proficiency in elementary first aid and personal safety and social responsibilities.

The same commenters state that first aid and CPR are dynamic, ever-changing courses. They express concern about how maritime personnel will be properly trained, while onboard ship, in the most current/updated procedure and by whom.

The Coast Guard disagrees. Because STCW does not require proof of continued competence in elementary first aid or personal safety and social responsibilities, we will accept onboard training and experience, through evidence of 1 year of sea service within the last 5 years as meeting the requirements for these portions of BT.

Two commenters state that, with regard to BST and advanced firefighting renewal requirements, it may be difficult to obtain shoreside assessment/competency as there are very few facilities that have the equipment for these training purposes.

The Coast Guard disagrees. This final rule implements the 2010 amendments, which are very explicit about which areas of the standard of competence can be accomplished onboard and which ones can be accomplished ashore. Initial BT and advanced firefighting training is accomplished ashore through Coast Guard approved courses that cover all aspects of knowledge, understanding and proficiency for all the competence areas. Consequently, we believe that there are sufficient courses with the equipment and teaching resources necessary to cover this training.

One commenter recommends that BST standards and requirements be expanded by the Coast Guard to include all fishing vessels, fish tender vessels, and certain vessels operating inside the boundary line.

The Coast Guard disagrees. The STCW Convention applies to mariners serving on seagoing vessels, except pleasure craft, fishing vessels, and vessels entitled to sovereign immunity, such as warships. Article II of the Convention defines a seagoing ship as a ship other than one that “navigates exclusively in inland waters or in waters within, or closely adjacent to, sheltered waters or areas where port regulations apply.” The provisions in this final rule which would implement amendments to the STCW Convention only apply to commercial vessels operating seaward of the boundary line, as specified in 46 CFR part 7. The Coast Guard does not intend, and is not required by STCW, to apply international standards to our domestic mariners in this regard. Furthermore, 46 U.S.C. 8105 prohibits the application of the STCW Convention to fishing vessels.

Two commenters ask what evidence must be produced by the vessel master to verify compliance with §§ 11.1105(c)(1) and 11.1105(c)(2), and whether all MMCs will now have an STCW endorsement for BST.

The proof of compliance will be on the MMC in the form of an endorsement. The Coast Guard will place an endorsement for basic training, formerly known as BST, on the MMC.

One commenter challenges the concept, as outlined in §§ 11.301(b)(3) and 12.601(b)(3), that time served aboard a vessel can in and of itself constitute an ongoing demonstration of competency with regard to the emergency response skills required by Table A-VI/1 of the STCW Code.

The Coast Guard disagrees. The 2010 amendments to the STCW Convention, specifically Section A-VI/1, paragraph 4, are very explicit about which areas of the standard of competence can be accomplished through training and experience onboard and which ones must be accomplished ashore. The allowance in the Convention to demonstrate competence onboard a vessel does not exempt mariners with vessel service from the requirement to demonstrate that they have maintained the standards of competency through onboard training and drills.

The same commenter adds that, depending on their muster-list assignments, many mariners on vessels that are running realistic drills may never have the opportunity to perform certain emergency duties or demonstrate competence performing them, such as boarding a survival craft from the ship while wearing a lifejacket. If a mariner's sea time is served wholly aboard a vessel whose survival craft are inflatable liferafts, and the vessel does not launch and inflate a liferaft, how can it be said that individual has demonstrated the ability to board their survival craft from the ship?

The Coast Guard has addressed this issue in § 12.615. Seafarers holding an STCW endorsements for OICNW, OICEW, and able seafarer-deck are required to meet the requirements for proficiency in survival craft and rescue boats other than fast rescue boats, or proficiency in survival craft and rescue boats other than lifeboats and fast rescue boats. These requirements are consistent with the STCW 2010 amendments.

Five commenters state that the proposed regulations pertaining to requirements for STCW officer and STCW rating endorsements in §§ 11.301, 12.601, 12.615, and 12.617, respectively, are a change from current Coast Guard policy that recognizes at least 1 year of sea service in the last 5 years as meeting the BST, advanced firefighting, survival craft and fast rescue boat proficiency standards. The commenter believes that this is an unnecessary and unwieldy change to the policy, and will significantly impact mariners who will be required to attend a shore-side school to complete these assessments when no other shore side assessment option is available. The STCW Convention does not allow all assessments to be conducted onboard. Therefore, the administration can only choose to accept onboard assessment for those permitted by the Convention.

The Coast Guard disagrees. We have not changed the requirement for mariners to provide evidence of continued professional competence in BT, advanced firefighting, survival craft, and fast rescue boat through 1 year of sea service within the last 5 years. Further, the 2010 amendments to the STCW Convention require that seafarers provide evidence of continued professional competence in those areas every 5 years. However, the new amendments also identify those areas from the standard of competence that must be assessed ashore. Implementation of shore-based training and assessment is required by the 2010 amendments and is not discretionary.

One commenter believes that § 11.301 is confusing as written because the commenter is unable to determine if mariners are required to retake the advanced firefighting and personal survival courses every 5 years, or if shipboard drills, training and sea service will be sufficient to establish continued professional competence. In the commenter's view, the proficiency in these two areas can be maintained on the vessel through specific drills, training and testing aboard vessels.

The Coast Guard agrees in part. The 2010 amendments to the STCW Convention require that seafarers provide evidence of continued professional competence in BT every 5 years. Continued professional competence may be achieved through a combination of ashore assessments, and onboard drills and training. Furthermore, the new amendments identify those areas from the standard of competence that can be maintained while sailing onboard vessels through drills and onboard training, and those areas that must be assessed ashore. If a mariner cannot complete competencies onboard, then he or she will have to re-take the original courses, or refresher courses, as applicable. The Coast Guard has added new sections on this subject in §§ 11.302(e), 11.303(e), and 12.602(e). As the same issue would also apply to proficiency in survival craft and fast rescue boats, we have also added new §§ 12.613(b)(4), 12.615(b)(4), and 12.617(b)(4).

Three commenters expressed concern that the Coast Guard will be unable to track sea service dates that have a bearing on whether a mariner will meet certain re-qualifying requirements. More specifically, the commenters point out that § 12.601(c) states that mariners may provide evidence of 1 year of sea service within the last 5 years, as meeting the requirement for BT. The commenters feel that implementation of the new regulations will put a huge burden on the NMC that will require rigorous evaluator training and strict oversight.

The Coast Guard disagrees. The Coast Guard will track BT and will keep course completion certificates and sea service records needed to support issuance of the endorsement. A BT endorsement will be issued where the expiration will coincide with the expiration date of the MMC. The Coast Guard intends to implement the BT continued professional competence requirements by: (1) requiring the course completion certificate as proof that the mariner demonstrated the areas that must be refreshed ashore; and (2) requiring 1 year of sea service in the last 5 years as proof that the seafarer demonstrated the topics that can be demonstrated onboard the vessel.

37. MMC return

Three commenters question the requirement in § 10.209(g) that mariners must return all previously issued MMCs when a new MMC is issued.

This is an existing requirement in § 10.227(d)(4). The MMC is used as a mariner identification document and a previously issued MMC will need to be returned if it is still valid when a new MMC is issued. Computer verification is not always used and the potential misuse for the credential warrants returning valid credentials to the Coast Guard. We agree, however, that there is no need to return an expired credential and the text has been changed to reflect that.

38. Renewal requirements

Two commenters recommend that the term “Qualified Instructor,” as defined in § 10.107, be included in §§ 10.227(e)(1)(iv) and 10.232(f) to ensure that maritime academy instructors will be considered as meeting the “closely related service” professional standard for renewal of an MMC.

The Coast Guard agrees, and has amended §§ 10.227(e)(1)(iv) and 10.232(g) to include qualified instructors.

One commenter states that the required 360 days of sea service in the last 5 years to renew/upgrade a license is excessive.

The Coast Guard disagrees. With regard to STCW endorsements, the service requirements are as specified in the STCW Convention and the Coast Guard does not have discretion to modify them.

39. Safety and Suitability

One commenter recommends that Coast Guard consider amending §§ 10.225 and 11.201 to permit maritime academies or other institutions that submit applications on behalf of a cadet or mariner, to inform the Coast Guard, when necessary, of an applicant's “character and habits of life”, which may not be revealed by Coast Guard or Transportation Security Administration (TSA) background checks alone. Another commenter recommends that the Coast Guard add text allowing authorized vessel officers and company representatives to submit applications on behalf of applicants and be allowed to inform the Coast Guard, when necessary, of an applicant's “character and habits of life” that may not be revealed by Coast Guard or TSA background checks.

The Coast Guard disagrees. The focus on criminal convictions in §§ 10.225 and 11.201 is important because the mariner has been provided significant constitutional protections in criminal trials, the facts of a particular incident have been fully investigated, and matters of contention have been fully adjudicated. Input from the mariner's educational institution or mariner's employers, while potentially valuable, may be problematic. The Coast Guard does not have the resources or the authority to investigate and adjudicate contested matters that occur at an Academy. The benefit of this information is outweighed by the possibility of abuse and privacy concerns. Information on convictions is readily available and already fully documented.

Academies are free to report violations of law of which they are aware to the appropriate enforcement authorities at the time of the offense. Furthermore, matters that are significant enough to warrant denying a credential also probably involve violations of institutional codes of conduct, which are probably more properly dealt with by the institution's disciplinary system.

Additionally, marine employers are required to report violations of law of which they are aware to the appropriate enforcement authorities at the time of the offense. For certain vessels, the official logbook would provide sufficient documentation and a legal method for reporting the items in 46 U.S.C. 11301. Matters significant enough to prevent issuance of a credential probably warrant referral to the Coast Guard for action under 46 CFR part 5.

40. Sea Service

Two commenters thanked the Coast Guard for reconsidering the issue of Great Lakes and inland sea service credit.

One commenter wants to confirm the change in § 11.402(a)(1) from the previous requirement that all service be on vessels of more than 200 GRT (§ 11.402(a)) to all service must be on vessels of 100 GRT or more.

Yes, the Coast Guard has made this change, accepting that many vessels of 100 GRT have characteristics that can be applied towards the unlimited tonnage vessel without endangering safety. Additionally, the requirement that half of the experience be gained on vessels of 1,600 GRT or more ensures that mariners will have sufficient experience for these credentials.

One commenter recommends that the Coast Guard amend § 10.232(f) to allow closely related service to be applied to the raise-of-grade to original management-level endorsements in the manner of the existing rule. In addition, this closely related service should be accepted as meeting the requirements for “recency” when applying for renewal or raise-of-grade.

The Coast Guard disagrees. The regulations already allow using this credit toward raise-of-grade. Such service would be inappropriate to grant an original management-level endorsement. Closely related service does not adequately prepare mariners to demonstrate the competencies required for a management level endorsement. Additionally, § 11.201(c) requires recent qualifying service on vessels.

One commenter recommends that the Coast Guard amend § 10.232(a)(1) by adding “pilot association letter of attestation” to the list of acceptable forms to document sea service. In addition, the commenter suggests § 10.232(a)(2) be amended by inserting “, as practicable,” between the words “must” and “contain.” This latter change will allow for the reality that for full-time independent professional compulsory pilots, it is not necessary or practicable to include the precise number of vessels piloted and the specific vessel information for the hundreds of ships that may have been piloted during a particular reporting period.

The Coast Guard agrees in part. We recognize the burden placed on pilots and pilot associations to document pilotage sea service pursuant to § 10.232. The Coast Guard has amended § 10.232 to accept pilot association letters of attestation for renewals. However, the Coast Guard is unable to accept the same letter for original officer endorsements or raises in grade as there is not sufficient information with regard to the vessel tonnage, horsepower or propulsion mode. Without the specific vessel information, it is difficult to determine whether a pilot meets the specific requirements for credential transactions other than renewal.

Two commenters request that instructors who teach Coast Guard-approved courses be able to self-certify on those courses that they teach when those courses are required for license renewal.

The Coast Guard agrees and has added § 10.227(e)(1)(v) to recognize that qualified instructors who have taught a course, accepted or approved by the Coast Guard, at least twice within the past 5 years have met the standards needed to receive a course completion certificate for that course.

One commenter recommends that the Coast Guard delete § 11.407(b). The Great Lakes Maritime Academy intends to request a change to their approval letter to request their training programs be approved for oceans and/or near-coastal licenses based on sea service obtained on the Great Lakes.

The Coast Guard agrees in part. The Coast Guard has amended § 11.407(b) to provide for an endorsement to be issued depending on the program completed. The distinction between the near-coastal and oceans programs at the Great Lakes Maritime Academy is based on several differences in route, assessment, and examination. The change is consistent with the revisions in § 11.401 for oceans and near-coastal endorsements.

One commenter recommends that the Coast Guard amend § 10.232(g) by adding a paragraph (5) that says: “On academy training ships where sea service is part of an approved training program, a day may be creditable as 1½ days of service.” The commenter believes this is in keeping with the Coast Guard's existing practice of crediting academy training ship sea service as reported to IMO.

The Coast Guard agrees, and has revised this section accordingly. We have also made a similar revision to the definition of “day” in § 10.107.

Fourteen commenters recommend that § 11.211 have language that allows service on inspected Ro/Ro passenger vessels to be credited day-for-day for STCW endorsement, regardless of route. This is justified, the commenters believe, by the fact that § 11.1005 requires that masters, chief engineers, mates, and engineers are required to have STCW endorsements. If required to carry the endorsement, the commenters believe credit should be given to those officers and ratings who work on inspected Ro/Ro passenger vessels.

The Coast Guard agrees. Persons serving on vessels to which STCW applies will be credited day for day sea service credit, and § 10.232 has been amended accordingly.

One commenter notes that § 11.412(a) requires any seafarer who desires to upgrade to master 1,600 GRT to sail for 2 years aboard a towing vessel. The commenter believes this is an unreasonable requirement, since many seafarers will never sail aboard a towing vessel. For those who will, the requirement elsewhere to gain a TOAR will suffice to provide the necessary training and experience for towing. A similar requirement is contained in § 11.414 for those desiring to get a mate 1,600 GRT endorsement (1 year on towing vessels required).

The Coast Guard agrees that towing vessels are not the only way to earn sea service credit, and has amended §§ 11.412 and 11.414. Mariners may upgrade to master on vessels of less than 1,600 GRT with service in a licensed position on any number of vessels, including, but not limited to, towing vessels.

One commenter notes that § 11.412(a) requires 4 years total service to upgrade from mate 1,600 GRT to master 1,600 GRT. The commenter also notes that § 11.418(a)(1) requires 3 years total service to upgrade from mate 500 tons to master 500 tons. Over the past year, the commenter notes, there have been several successful appeals of this requirement, and several clarifying letters from the Coast that have effectively changed this requirement. The commenter believes this would seem to be the right time to correct this requirement in the CFR so as to prevent further confusion on this issue for the future.

The Coast Guard agrees, and has amended §§ 11.412 and 11.418 accordingly.

Two commenters recommend that the Coast Guard remove §§ 10.232(b)(1) and 10.232(b)(2), which specify the credit allowed for service on the Great Lakes and other inland navigable waters, as they have no useful purpose whatsoever and only serve to make professional advancement more difficult, thereby decreasing the availability of mariners for service on ocean-going ships.

The Coast Guard disagrees. Service on Great Lakes and inland waters was not previously permitted to count toward an STCW endorsement. Inclusion of these sections will actually increase the availability of mariners for service on ocean-going vessels.

One commenter states that, with regard to § 12.605(a)(2)(i), leaving the proposed section as “six months of seagoing service” is overburdening the mariner for a simple bridge lookout/helmsman position. The commenter believes a minimum number of watches should be specified.

The Coast Guard disagrees. This requirement is clearly specified in Regulation II/4.2.2.1 of the STCW Convention.

One commenter suggests that the term “full mission simulator” be deleted from the proposed regulations as there are other simulation software that can be used that do not meet the requirements of a “full mission” simulator.

The Coast Guard agrees that a full mission simulator is not required for all required training and assessment, but notes that we did not use this term in the proposed rule, or in this final rule. As used throughout this final rule, a simulator does not need be a full mission simulator, it need only be capable of supporting the training and assessment objectives for its proposed use.

Two commenters do not support the proposal in § 10.232, which states that, “service on inland waters, other than Great Lakes, that are navigable waters of the United States, may be substituted for up to 50 percent of the total required service toward an oceans, near-coastal, or STCW endorsement.” The commenters believe there are insufficient similarities in experience between inland and ocean service to justify crediting inland time toward full ocean service requirements. An exception, the commenter believes, should provide that inland service be credited for a limited STCW endorsement for “service on vessels of any gross tons upon the sheltered waters of British Columbia as defined in the treaty between the United States and Canada signed 11 August 1934.”

The Coast Guard disagrees. The STCW defines seagoing service as “service onboard a ship relevant to the issue or revalidation of a certificate or other qualification.” The Coast Guard recognizes that some “relevant” experience can be gained on inland vessels creditable toward an STCW document. Accordingly, the Coast Guard is allowing day-for-day credit for inland service for up to 50 percent of the total required service. The credit of service is justified because many of the inland navigable waters of the United States are of such length and/or breadth that they have the characteristics of ocean or near-coastal waters.

One commenter requests that, with regard to § 11.211(b)(2), which sets out service requirements for national and STCW officer endorsements, consideration be given for service on inland vessels of 1,600 GRT/3,000 GT and 4,000 HP that have equivalent equipment to ocean vessels. The commenter recommends that credit be given on a day-by-day basis for engine (OICEW) and engine ratings endorsements.

Another commenter also requests the same change with regard to § 11.301(d)(3), which sets out requirements for STCW officer endorsements. The commenter suggests consideration be given for service on inland vessels of 1,600 GRT/3,000 GT and 4,000 HP that have equivalent equipment to ocean vessels. The commenter requests that credit be given on a day-by-day basis for engine (OICEW) and engine ratings endorsements.

The Coast Guard agrees in part. Section 11.301(d)(3), which has been re-numbered as § 11.301(b)(3), has been revised to provide day-for-day credit for service on inland waters. Although there are sufficient common skills and experience to justify allowing credit for service on inland waters, the differences between inland waters and ocean service prevent allowing use of this credit to meet 100 percent of the sea service requirement. Therefore, both § 11.211(b)(2) and § 11.301(b)(3) allow credit for inland service to be credited on a day-for-day basis for up to 50 percent of the total required service.

One commenter recommends that, with regard to § 11.329, the proposed reduction in the requirements to obtain endorsement as an OICEW be eliminated. Reducing the requirement to a mere 12 months of a combination of sea service and approved training program, the commenter believes, will not produce the quality of marine engineer that the U.S. is accustomed to.

The Coast Guard disagrees. The requirement is that the applicant must complete an approved training program. That program must include a combination of workshop skills and seagoing service of not less than 12 months. Furthermore, the training program must satisfy the standards of competence in Section A-III/1 of the STCW Code, which typically takes 3 years. The requirements mirror those for the officer endorsement of third assistant engineer which requires either 3 years of service, or completion of an approved program.

Three commenters state that historically, almost all sea service has been creditable on a day-for-day basis for upgrading a mariner's credentials. In recent years, the commenters believe licensing for chief engineers became subject to geographic restrictions, although no reason was provided for this. Even once this practice was in place, however, most sea time was still creditable on a day-for-day basis for 100 percent of the required time. The commenters believe the proposed language in § 10.232(b) would reduce the creditable sea service to 50 percent of what's actually earned and then limit it to a maximum of 50 percent of the required time. The commenters believe the existing sea-service applicability should remain as it currently stands.

The Coast Guard partially agrees. Section 10.232(b) allows mariners serving onboard vessels operating on inland waters or the Great Lakes to receive credit towards an oceans or STCW endorsement. It was not the Coast Guard's intent to reduce the creditable sea service for national credentials. In fact, this provision permits broader application of Great Lakes and Inland service towards both STCW and national ocean endorsements than is allowed under current regulations. To avoid confusion, the Coast Guard has also added a new paragraph § 10.232(c) that would ensure day-for-day credit for 100 percent of the required time when applying for Great Lakes or inland credentials. We have also re-designated existing paragraphs (c) through (h) as new paragraphs (d) through (i).

Eighteen commenters support proposed section § 11.211 “Creditable service and equivalents for domestic and STCW officer endorsements” as it will recognize time served on inland voyages for the issuance of STCW officer endorsements. However, the commenters are disappointed that inland service is to be substituted for only up to 50 percent of the total required service. They recommend that the proposed language be amended so that inland time is credited on a day-for-day basis, as is service on the Great Lakes.

The Coast Guard disagrees. Although there are sufficient common skills and experience involved in service on inland waters and oceans to justify allowing credit for service on inland waters, the differences between inland waters and ocean service prevent allowing use of this credit to meet 100 percent of the service requirement for near-coastal, oceans, or STCW endorsements.

One commenter believes that the military/government service option is a step in the right direction to encourage an experienced but un-certificated mariner to bring their experience to the merchant fleet. However, without a specific statement granting STCW support-level service credit for watchstanding petty officers, operational-level service credit for service as an underway officer on duty or engineer on watch, and management-level service credit for service as commanding officer/executive officer/engine officer, the intended benefit will be minimized or non-existent. The commenters also believe it is likely §§ 11.301(f) and 11.305(a)(1) would block any applicant from getting an STCW endorsement at the management level directly following service in a management-level billet on a military/government vessel, despite table 11.305(d) creating this path. Perhaps additional elaboration in the final regulation on the intended interaction of §§ 11.301 and 11.305 for military/government mariners would be helpful to allow and clarify the full benefit intended.

The Coast Guard will provide additional guidance in the future to address how to implement assessments for STCW endorsements, including guidance for those in military or government service. Such guidance will address the methods by which a military/government seafarer may demonstrate satisfaction of service requirements, as well as the military/government assessments and training that may be accepted towards the credentials being sought.

One commenter believes that § 10.232(d) is a large step backward and will discourage mariners from beginning service or remaining on military or public vessels, and that the section is even more restrictive and inequitable than the current NMC Policy Letter 09-01 addressing these atypical vessels. The proposed regulations, the commenter believes, treat mariners on a MODU, on a liftboat, or a shoreside port captain significantly differently, while all are “atypical” service. The commenter recommends that § 10.232(d) specifically state that it does not apply to liftboats when operating in the elevated mode. If this proposal is not acceptable, the commenter thinks at least the 180-day service cap should be removed.

The Coast Guard agrees in part. This requirement is not a change from current requirements and sea service limits. The Coast Guard will conduct an evaluation of vessel operations and determine whether additional credit should be allowed; however, the Coast Guard still firmly believes that a mariner must have experience operating a vessel in order to obtain an original endorsement or a raise in grade.

One commenter is concerned with the provisions of § 10.232 regarding the crediting of sea service on vessels that may spend a significant amount of their time moored. Oil Spill Response Vessels (OSRVs) and their crews are in a constant state of readiness to respond. The commenter recommends that NMC Policy Letter 09-01 be reviewed with a view towards enhancement and then adopted in this final rule for sea time credit for personnel serving aboard OSRVs to recognize the important service of these mariners.

The Coast Guard agrees in part. This requirement is not a change from § 10.232 and current sea service limits. The Coast Guard will conduct an evaluation of vessel operations and determine whether additional credit should be allowed; however, the Coast Guard still firmly believes that a mariner must have experience operating a vessel in order to obtain an original endorsement or a raise in grade. Where the Coast Guard conducts an evaluation of vessel operations and determines a need for change, NMC Policy Letter 09-01, or its successor, will be revised.

Six commenters, with regard to § 10.232, believe that mariners on vessels of less than 100 GRT should be credited 1½ days if working a 12-hour watch schedule. The size of the vessel does not reduce the experience gained. Although they appreciate the Coast Guard acknowledging and crediting the experience gained for service on the Great Lakes, they still feel service on inland waters should count day-for-day as well. Navigating on inland waters requires just as much and in some instances much more navigating, piloting, training and drilling than service on oceans and the Great Lakes.

The Coast Guard disagrees. The definition of “day” provides that vessels allowed to work 12-hour days, as defined in the U.S. Code, will receive 1½ days sea service credit. However, changes to regulations on this subject are limited by statutory restrictions on the type and tonnage of vessels and the number of watches that may be run. Further, although there are sufficient common skills and experience to justify allowing credit for service on inland waters, the differences between inland waters and ocean service prevent allowing use of this credit to meet 100 percent of the service requirements for near-coastal, oceans, or STCW endorsements.

One commenter notes that under domestic regulations, the time required to obtain a near-coastal mate on vessels of less than 200 GRT/500 GT is and has always been 1 year. No change is proposed to this requirement. Under STCW, however, the same license for international voyages would require an endorsement as OICNW, which would require 3 years of total time, and a further 2 years to obtain the endorsement. These voyages have been made safely and successfully for many years. Quintupling the time required to obtain a small-tonnage near-coastal mate's license will effectively eliminate foreign voyages of any kind for our vessels, resulting in substantial restraint of trade.

The Coast Guard disagrees. The time required to obtain a small-tonnage near-coastal mate's license has not increased by 4 years. The minimum service required to qualify an applicant for an endorsement as mate of ocean self-propelled vessels of less than 200 GRT (§ 11.427) is 12 months of total service in the deck department of ocean or near-coastal self-propelled, sail, or auxiliary sail vessels. The minimum service required to qualify an applicant for an endorsement as mate of near-coastal self-propelled vessels of less than 500 GRT (§ 11.421) is 2 years of total service in the deck department of ocean or near-coastal self-propelled, sail, or auxiliary sail vessels. A mariner holding an oceans or near-coastal mate less than 200 GRT would need to complete the following additional service to obtain an appropriate STCW endorsement: (1) Twelve months under the authority of the endorsement, in order to obtain an OICNW endorsement for vessels less than 200 GRT/500 GT; and (2) six months under the authority of the endorsement, in order to obtain an OICNW endorsement for vessels less than 200 GRT/500 GT limited to near-coastal waters. These entry paths from mate of oceans or near-coastal to STCW endorsements as OICNW of vessels less than 200 GRT/500 GT are provided in table 1 of 11.319(d) for ocean waters and table 1 of 11.321(d) for near-coastal waters.

Five commenters object to the Coast Guard proposing to grant 3-for-1 sea service credit for liftboats when they are elevated, but the mariner on a supply boat gets 1-for-1 while the boat is dockside, at anchor or moored to a structure. The commenters note that mariners work under our COIs at all times, when elevated or not, and recommends day-for-day credit at all times on a liftboat.

The Coast Guard agrees in part. This requirement is not a change from current requirements in § 10.232 and sea service limits. The Coast Guard will conduct an evaluation of vessel operations and determine whether additional credit should be allowed or sea service limits should be reduced. However, the Coast Guard still firmly believes that a mariner must have experience operating a vessel in order to obtain an original endorsement or a raise in grade.

One commenter is concerned that, with the proposal to grant 3-for-1 sea service credit for liftboats when they are elevated, mariners will not be able to renew their 1,600 GRT oceans license.

The Coast Guard appreciates the commenter's concerns, and notes that § 10.227(e)(1) of this final rule provides alternatives for mariners without sufficient or recent sea service to renew their credentials.

One commenter notes that § 12.403 for A/B-unlimited requires that all sea service be obtained on ocean waters. The commenter recommends that this should be modified to allow ocean or near-coastal service to be acceptable.

The Coast Guard agrees, but a change is unnecessary. The definition for “ocean” in § 10.107 includes near-coastal waters, so this service would be acceptable towards an A/B endorsement.

One commenter suggested that the Coast Guard move the boundary line closer to the coast of portions of Alaska and Washington state to enable mariners to earn sea service creditable towards an STCW endorsement on voyages seaward of the new boundary line.

The Coast Guard cannot include such a provision in this final rule because moving boundary lines is not within the scope of this rulemaking, and changes in this area would require a separate rulemaking. Additionally, boundary lines affect the application of several statutes and regulations beyond those in this final rule, including those governing the inspection of seagoing barges and vessels. However, the Coast Guard has amended § 10.232 so that persons serving on vessels to which STCW applies will be credited day-for-day sea service credit.

41. STCW Officer Endorsements

One commenter notes that § 11.301 does not clearly state that a mariner cannot apply for any STCW officer endorsement without holding a “domestic” endorsement. The commenter recommends that the requirement be included, possibly as a blanket statement in this section or within each of the sections for STCW endorsements.

The Coast Guard agrees, and has amended § 11.201 to require that a national endorsement must be held that corresponds to the STCW endorsement being sought.

42. Tankerman

Six commenters state that mariners who hold an endorsement as tankerman-PIC (barge) should be allowed to qualify for an STCW endorsement for advanced oil and/or chemical tanker operations.

Additionally, four commenters noted that § 15.860 should be revised to allow mariners who hold domestic tankerman-PIC (barge) endorsements to serve on tank barges.

The Coast Guard agrees, and has revised § 15.860 accordingly. Personnel on non-tank vessels towing a barge will be required to meet the STCW requirements. For this reason, we provided a means in §§ 13.603, 13.605, and 13.607 for mariners serving on tank barges to qualify for an STCW endorsement with a limitation to non-self-propelled vessels.

One commenter recommends that the Coast Guard amend § 13.107(d) by removing “including the loading of fuel oil” because, as the section currently reads, it implies that a tankerman-engineer endorsement is needed for bunkering.

The Coast Guard agrees with the comment and has amended § 13.107(d) to ensure that it is not read to apply to the transfer of anything other than bulk liquid cargoes and that a tankerman endorsement is not needed for bunkering.

One commenter notes that the STCW treats advanced oil and chemical tanker operations as separate endorsements, and recommended that the Coast Guard do the same, while another commenter recommended that these should be combined into a single endorsement for both cargoes.

The Coast Guard agrees with the first commenter, and has separated qualification requirements for oil tankers and for chemical tankers into two sections, §§ 13.603 and 13.605, consistent with the STCW. Nevertheless, it is possible for a single “cargo course” to be acceptable for both endorsements, and if the vessel the mariner serves on is certified to carry both oil and chemical cargoes, the mariner will be permitted under this final rule to use the same service to qualify for both endorsements.

One commenter notes that it should be possible to renew tankerman endorsements via in-service experience.

The Coast Guard agrees. Section 13.120 allows for the renewal of national tankerman endorsements with in-service experience and cargo transfers, or completion of an approved course. In addition, for STCW tankerman endorsements, the STCW Code allows for the use of in-service experience to renew the credential.

Two commenters state that the service requirements for STCW endorsements for advanced oil and/or chemical tanker operations should be specifically stated.

The Coast Guard agrees and has added the specific service requirements for these endorsements in §§ 13.603 and 13.605.

One commenter states that there should be reduced requirements for mariners who hold STCW tanker operations endorsements for one cargo (oil, chemical, or liquefied gases) to “crossover” to an endorsement for another cargo.

The Coast Guard agrees in part. Therefore, we are retaining the existing regulations in part 13, subpart F for a “crossover” for a national tankerman endorsement. The STCW does not provide for such a crossover, and mariners must meet the full service requirements applicable to each cargo.

The same commenter recommends that a mariner should be able to qualify for an STCW endorsement for advanced oil and/or chemical tanker operations via a 28-day approved training program.

The Coast Guard agrees in part. Because the STCW Code allows for the use of a 30-day training program, we amended §§ 13.603 and 13.605 of this final rule to permit an approved training program as an alternative means to qualify for these endorsements. However, to be consistent with the requirements of STCW and the definition of “month” in § 10.107, the approved program must be at least 30 days. A similar provision applicable to liquefied gas tankers has been added to § 13.607.

Two commenters note that engineers serving on tank vessels who hold or qualify for a tankerman-engineer endorsement should be allowed to qualify for an STCW endorsement for advanced oil and/or chemical tanker operations without having to meet the requirements for tankerman-PIC.

The Coast Guard agrees. The STCW Convention requires that engineers onboard tank vessels to which STCW applies hold a tankerman endorsement. Therefore, part 13, subpart F of this final rule has provided a means for engineers to qualify for an STCW endorsement with a limitation to maintenance and repair of cargo equipment.

Two commenters note that mariners should qualify for tankerman endorsements with a combination of sea service, shipboard experience, and classroom training.

The Coast Guard agrees and has provided, in part 13, for qualification for endorsements with a combination of training, sea service, and practical experience aboard tank vessels.

43. Tonnage Limitations

Two commenters do not agree with the placement of a tonnage limitation in § 11.437(a)(3). If the Coast Guard closes this avenue, towing vessel operators can never reach the unlimited tonnage licenses without leaving the pilothouse and working as an A/B.

The Coast Guard disagrees. Mariners must have appropriate experience on vessels of appropriate tonnage for the credential being sought, including those for vessels of more than 1,600 GRT. The tonnage provisions in § 11.437 have existed for many years, and the Coast Guard has not proposed to change them. The regulations also provide a path for a mariner receiving a tonnage limitation to remove such a limitation.

One commenter asks the Coast Guard to address what tonnage limitations will be placed on officers with domestic credentials limited to vessels of not more than 500 GRT or 1,600 GRT when they use the paths enabling them to cross over to STCW endorsements. The crossover tables link the national endorsements with the STCW endorsements. Therefore, the commenter believes, any limitation for national should correspond to the appropriate STCW limitation.

The Coast Guard agrees, and limitations on the national endorsement correspond to the appropriate STCW limitation, as shown in the crossover tables.

Two commenters note that a domestic 1,600 GRT/3,000 GT master (§ 11.412) is not listed as qualifying for OICNW on vessels of less than 200 GRT/500 GT. Implicit in STCW is the recognition that you are qualified to serve both in your highest rated capacity and in lower-level positions. The commenters believe this must be reflected in the domestic rules and that requiring time above 200 GRT/500 GT for STCW advancement for master and chief mate more than 200 GRT/500 GT and less than 1,600 GRT/3,000 GT is incongruent with the recognition elsewhere in the SNPRM that tonnage should be relative to the size of license being sought. The commenters believe that this tonnage requirement should be reduced to more than 50 GRT.

The Coast Guard agrees in part. The Coast Guard has removed the specific tonnage requirement from §§ 11.311 and 11.313, and added the requirement for an applicant to hold an appropriate national officer endorsement. As a result, the service requirements for master 1,600 GRT should be adequate to obtain the STCW endorsement as master less than 3,000 GT. The Coast Guard did not include the master endorsement in table 1 of 11.321(d) because that endorsement is associated with the corresponding STCW endorsement for master on vessels of 500 GT or more and less than 3,000 GT instead of the STCW endorsement for OICNW on vessels of less than 500 GT.

The same commenters believe that tonnage requirements for respective licenses should also be brought into parity such that someone who has acquired all of their time on a vessel of more than 100 GRT for a domestic unlimited ocean license according to proposed § 11.402(a)(1) is not rejected because they do not have time on vessels of more than 200 GRT/500 GT required for the STCW endorsement under § 11.305.

The Coast Guard agrees in part. Service acquired to obtain the national endorsement will be credited towards the STCW endorsement. If specific service is required, it will be specified in the associated transition tables found in part 11, subpart C. Should a mariner fail to have sufficient tonnage and receive a tonnage limitation on their domestic endorsement, that same limitation will be placed on the STCW endorsement.

One commenter notes that, in the past, Coast Guard licenses have been designated as “not more than.” For example, a mariner currently holds a master on steam or motor vessels of not more than 1,600 GRT. However, the STCW and domestic endorsements will now describe the tonnages on the approximate credentials as master on vessels of 1,600 GRT/3,000 GT or more (STCW) and master of ocean or near-coastal vessels of less than 1,600 GRT/3,000 GT (domestic). Where does the current master 1,600 oceans near-coastal fit? Given the floating one ton, is this mariner considered to hold both the STCW for vessels 1,600 GRT or more and the domestic for vessels 1,600 GRT or more, one but not the other, or neither?

The Coast Guard changed domestic endorsements from “not more than” to “less than” to better align the national endorsements with the STCW endorsements. This will reduce the likelihood that a mariner could hold a national endorsement and an STCW endorsement and still not be able to operate the vessel due to the `floating ton'. In addition, we have included manning requirements to show both national and STCW provisions required to sail onboard.

The same commenter notes that § 11.414(a)(2) requires 3 years of service in the deck department on ocean or near-coastal voyages on vessels greater than 200 GRT/500 GT. This was modified from the original NPRM, which changed the requirement to service on vessels greater than 100 GRT. The commenter recommends that the Coast Guard revert back to what was in the NPRM and this service should be required only on vessels greater than 100 GRT.

The Coast Guard agrees, and has amended § 11.414 (a)(2) to use the current 100 GRT tonnage limit, which is consistent with § 11.402.

44. Fees

Twenty-seven mariners object to the proposed requirement in § 10.219(d) that fee payments for MMCs and associated endorsements must be made by credit card or by electronic payment. They claim that it would be a hardship on mariners as they do not always have these means of payment available to them.

The Coast Guard agrees and is withdrawing this proposed revision. The verbiage in the current section will be retained allowing for multiple forms of payment.

45. Post-Dating MMCs

Eighteen commenters support the proposal in § 10.205 to allow the post-dating of MMCs. The commenters add that this is a much-needed step in ensuring that a mariner receives the full 5 years on an MMC for which the mariner has paid. Fourteen of these commenters requested that the Coast Guard go further and adjust the proposed language to ensure that the post-dating is automatically completed by the Coast Guard for every renewal.

The Coast Guard agrees with post-dating credential renewals with the option for a mariner to choose immediate issuance. The credentials will be post-dated to align with the expiration of the existing credential. The Coast Guard has amended § 10.205(a) to require automatic post-dating with the option for immediate issuance.

46. Wages

Two commenters object to the proposed language in § 14.309(a)(4), which would allow the master or individual responsible for paying the mariner his wages at the conclusion of a voyage to forego the payment of wages due and instead issue a statement of when the wages due will be paid or deposited. The commenters continue by stating that the requirement for payment of wages due at the end of a voyage upon which shipping articles are required has been in place for many years. It recognizes the fact that the voyage may have been of significant duration and ensures that the interests of the mariner are represented in the area of timely compensation for work already provided.

The Coast Guard agrees, and the current § 14.309(a)(4) and (b) remain unchanged.

47. Advanced Firefighting

One commenter objects to the Coast Guard's requirement in proposed § 11.201(c)(4) that a mariner must show evidence of maintaining the standard of competence in advanced firefighting by completing certain assessments ashore.

The Coast Guard disagrees that all knowledge, understanding, and proficiency under the competence “control firefighting operations aboard ships” should be done onboard vessels. The 2010 amendments are very explicit on the areas of the standard of competence that can be accomplished onboard and those that can be accomplished ashore.

One commenter asks the Coast Guard to clarify the nature of the “evidence” mariners are required to provide in proposed § 11.201(h)(1).

Mariners will be required to provide a sea service letter and course completion certificate, as appropriate. This section remains unchanged from that proposed in the SNPRM.

Two commenters state that, with reference to §§ 11.301(c), 12.613, and 12.617, there are no provisions containing specific statements as to how to re-qualify if unable to meet the continued professional competence in these areas.

The Coast Guard agrees, and amended §§ 11.301(c), 12.613, and 12.617 by adding a new paragraph clearly providing that a mariner who cannot demonstrate the required continued competency by sea service will need to do so in training ashore. This training may be the entire course, or an approved refresher course. If needed, the Coast Guard may issue additional guidance in the form of a NVIC on how this requirement may be met.

48. NMC Web Site

Two commenters believe that the absence of information on the NMC Web site detailing the endorsement requirements satisfied by approved courses violates proposed § 10.406. The commenters recommend the approvals information be returned to the Web site.

The Coast Guard disagrees. Section 10.406 requires the NMC to maintain on its Web site a list of training organizations and the approved courses they offer, and the NMC does so. Due to the sheer volume of approved courses and limited manpower assets at the NMC, the Coast Guard has not provided the information requested by the commenters on the NMC Web site since 2009. The public can use the search function on the NMC Web site for provider and course information. For more information, the public can communicate with the individual course providers. The NMC Web site contains links to provider's Web sites, which normally provide additional up-to-date information about specific approved training.

49. Offshore Supply Vessels

Three commenters note that qualifications for the new OSV endorsements reflect the applicable requirements of the STCW Convention and Code. The commenters are of the view that certain deck and engineering equipment needed for crew to demonstrate competencies required by the STCW assessment tables are not always installed on OSVs. Similarly, it is impossible to get service as an OICEW to qualify as chief engineer when an OSV is not required to carry, and normally has no position for, an OICEW. Thus, it is impossible to comply with the deep-draft ship-oriented assessments and service requirements of the STCW without reasonable and realistic accommodations for OSVs and other small work boats, such as towing vessels and geophysical vessels, among others. Similarly, it is unclear why an OSV-limited endorsement that has the identical service and STCW assessment and training requirements as a deep-draft vessel crewmember endorsement was proposed. The general requirements for OSV endorsements, and particularly domestically limited OSV endorsements, should “take account of the special characteristics, methods of operation, and nature of service of OSVs” versus mandating the deep-draft STCW standards currently proposed.

Additionally, two commenters note that the domestic license and STCW requirements are not separate, despite the preamble statements in the SNPRM to the contrary (see §§ 11.493, 11.495, 11.497, 11.553, and 11.555). The commenters recommend that the Coast Guard retain part of the existing regulatory language, which says, “The Coast Guard may exempt an applicant from meeting any requirement under STCW that the Coast Guard determines to be inappropriate or unnecessary for service on an OSV, or that the applicant meets under the equivalency provisions of Article IX of STCW.” The same commenters recommend placing such regulatory language in an appropriate location, such as § 11.201, and amending §§ 11.493, 11.495, 11.497, 11.553 and 11.555.

The Coast Guard has changed the OSV endorsements for both deck and engineer officers by separating the national and STCW endorsements to ensure consistency with other requirements. The exemption from meeting the STCW requirements included in existing §§ 11.493, 11.495, 11.497, 11.553, and 11.555 remains unchanged. The Coast Guard made additional changes to the OSV endorsements for both deck and engineer officers to include: (1) Sea service requirements comparable to other credentials; (2) the option to complete an approved course for a mate or assistant engineer to meet the sea service requirements; and (3) the progression from vessels of less than 1,600 GRT/3,000 GT to more than 1,600 GRT/3,000 GT for chief mate and master. These changes also comply with § 617 of the Coast Guard Authorization Act of 2010, which removed the 500 GRT tonnage limits on OSVs. These amendments will ensure that mariners with existing licenses or MMCs can progress to higher credentials.

Because of the separation of national and STCW requirements, the Coast Guard amended the crossover requirements from OSV mate (§ 11.497) to OICNW (§ 11.309(e)) to give credit for the approved training program. The Coast Guard envisions that the approved training program in §§ 11.497(a)(2) and 11.555(a)(2) will meet the requirements for the STCW approved training program in §§ 11.309(a)(1) and 11.329(a)(1).

The same commenters recommend that the 200 GRT/500 GT criteria for an RFPNW or able seafarer, inter-alia, should be changed to read “over 200 GRT/500 GT on an international voyage or over 500 GRT on a domestic voyage. . . .”

The Coast Guard disagrees. The Coast Guard amended §§ 15.403(c) and 15.404(a) by replacing “200 GRT/500 GT or more” with “500 GT or more” consistent with the STCW requirements for RFPNW and able seafarer-deck. The STCW is a binding agreement with foreign countries, and these tonnage cutoffs are required by STCW.

50. Proficiency in Survival Craft

One commenter recommends that, in § 12.613(b)(2), the Coast Guard add to the list of STCW competencies that it will accept as onboard training the STCW competency “Operate Survival Craft Engine”.

The Coast Guard agrees and has amended both §§ 12.615 and 12.617 to include starting the lifeboat engine as part of the assessments done onboard the vessel.

51. Bridge Resource Management (BRM)

One commenter supports the BRM, leadership and teamworking skills, and leadership and managerial skills proposal as written with a comment. BRM is the basis for mitigating marine casualties, breaking the error chain and conditioning the human element, and the commenter believes it is paramount that more emphasis is put towards building that team and getting participants out of the classrooms. The commenter believes a “team” must be built using skills gained through situational awareness and emergency situations while underway or at a training facility utilizing a full mission bridge simulator.

The Coast Guard agrees. The requirements for BRM, engineroom resource management (ERM), leadership and teamworking skills, and leadership and managerial skills were included in the STCW Convention in response to a request from the United States maritime industry through MERPAC task statement 64. The required training and demonstrations of competence taken together should provide the following three skills commensurate with an officer's responsibilities: teamwork, leadership, and management. The Coast Guard would prefer that emergency situations for training purposes not be staged while underway, and that training for such emergencies be accomplished through simulator or other training while not underway.

One commenter suggests that the benefits of BRM training should not be limited to international operators, and urges the Coast Guard to adopt similar rules for domestic operators as well.

The Coast Guard does not possess sufficient casualty or other data to support expansion of STCW requirements for BRM/ERM, leadership and teamworking skills, and leadership and managerial skills to inland vessels in this rulemaking. The STCW Convention applies to mariners serving on seagoing vessels, except pleasure craft, fishing vessels, and vessels entitled to sovereign immunity such as warships. Article II of the STCW Convention defines a seagoing ship as a ship other than one that “navigates exclusively in inland waters or in waters within, or closely adjacent to, sheltered waters or areas where port regulations apply.” The provisions in this final rule, which would implement amendments to the STCW Convention, only apply to commercial vessels operating seaward of the boundary line, as specified in 46 CFR part 7. The Coast Guard does not intend to apply strict international standards to our domestic mariners in this regard.

One commenter notes that his or her company has worked extensively to develop the skill sets of all of its mariners and particularly senior officers with regard to their leadership and management skills. The commenter believes these are vital skills that are not easy to learn and have a serious impact on the safe and efficient operation of any vessel. The commenter suggests that mariners who have participated in company training be allowed to present it for renewal/upgrade, even if the class was taken prior to the implementation of this rulemaking. Companies that can successfully demonstrate they have trained their senior officers on similar principles, the commenter states, should be allowed to renew/upgrade in the same fashion.

The Coast Guard agrees, but a regulatory change is not required. The Coast Guard will evaluate training given prior to the effective date of this final rule, and will grant credit for training that meets the requirements of this final rule.

52. Engineroom Resource Management

One commenter objects to the requirement in §§ 11.305, 11.307, and 11.325(b)(1) that applicants provide evidence of leadership and managerial skills. The commenter states that evidence of this is provided by completion of an approved bridge and engineroom resource management course. The commenter notes that most companies already evaluate their officers' leadership and management skills during a promotion and the assignment process. The commenter recommends that this requirement be accomplished by alternate means or be removed.

The Coast Guard agrees in part. In this final rule, we implement the proposals in the SNPRM that allow mariners to demonstrate meeting the applicable standards for leadership and managerial skills by alternative methods that include, but are not limited to, completing approved training.

53. Incorporation by Reference (IBR)

Five commenters request that the Coast Guard either publish the pertinent text of the STCW Code and Convention in the CFR or provide the Code and Convention to the public online rather than incorporate them by reference.

The Coast Guard agrees in part. As background, IBR allows Federal agencies to comply with the requirement to publish rules in the Federal Register and the CFR by referring to materials already published elsewhere. The legal effect of IBR is that the material is treated as if it were published in the Federal Register and CFR. This material, like any other properly issued rule, has the force and effect of law. Congress authorized IBR in the Freedom of Information Act to reduce the volume of material published in the Federal Register and CFR. (5 U.S.C. 552(a) and 1 CFR part 51).

While the Coast Guard endeavors to promulgate references needed to implement these regulations, reproducing all of the relevant STCW text in this final rule would be impracticable because doing so would significantly increase the volume of the regulation. Instead, the Coast Guard has incorporated the Convention and Code by reference, and intends to publish NVICs with the relevant tables of competency from part A of the Code. These NVICs will be made available to the public online, which will enable the public to view relevant parts of the STCW Convention and Code as needed.

54. Identification Cards

One commenter notes that a mariner who holds a resident alien card issued by the U.S. Citizenship and Immigration Services or a work authorization card issued by DHS, may use that card as valid identification to obtain a TWIC. The commenter, therefore, requests that the DHS work authorization card be accepted as valid proof of identification to obtain an MMC.

The Coast Guard disagrees. Application for an MMC with an officer endorsement requires that an applicant be a U.S. citizen (46 U.S.C. 7102). Applications for all other MMCs require that an applicant be either a United States citizen or a resident alien, lawfully admitted into the United States for permanent residency (46 CFR 10.221(a)(2)). Because a DHS work authorization card may be obtained by someone who is neither a U.S. citizen nor a resident alien, lawfully admitted into the United States for permanent residency, it is an unacceptable form of identification for application for an MMC. Changing this requirement is outside the scope of this rulemaking.

55. Economic Comments

One commenter states that, with regard to Regulatory Analyses, Section B. Small Entities of the SNPRM preamble, the Coast Guard's discussion of the proposed rule includes audit and quality systems requirements for training providers. The commenter states the cost analysis that has been conducted by the Coast Guard is only for the costs to training providers to implement and maintain a QSS. What the analysis of this SNPRM does not include, the commenter notes, is the economic impact on many training providers via lost revenue if the SNPRM becomes regulation, but also from the impact of CG-CVC Policy Letter 11-07 of July 1, 2011. Both the SNPRM and CG-CVC Policy Letter 11-07, the commenter believes, rescind the required approved training courses for an OICNW at the operational level on vessels of more than 500 GT (ITC). The commenter believes the SNPRM also rescinds the chief mate and master (management level) approved training presently required by NMC Policy Letter 04-02. Numerous training providers have spent years engaged in curriculum and training course development to be able to provide Coast Guard approved STCW deck officer training courses at the operational and management levels. It should be obvious, the commenter believes, that training providers make substantial financial investment to be in the position to provide the myriad of required training courses to our mariners.

This final rule does not rescind the STCW deck officer training courses at the operational and management levels. In fact, it will require mariners to complete the following STCW courses: BST refresher, advanced firefighting refresher, PSC refresher, fast rescue boat refresher, medical care provider, ERM, ECDIS, leadership and managerial skills, and IMO SMCP. In addition, the number of mariners who will need to complete some of these courses will significantly increase and should generate additional revenue to training facilities. The Coast Guard does not believe there would be revenue loss because this final rule requires STCW deck officer training courses at the operational and management levels that the commenter mentions.

The Coast Guard has included some additional training in this final rule to address some of the concerns raised during the public comment period. The Coast Guard reviewed the tables of competences and identified the training topics that must be accomplished as part of structured training. These topics were part of the NPRM published in 2010. Parts 11 and 12 of this final rule are amended to include a combination of training and service requirements (through assessments) to ensure that seafarers achieve the necessary level of competence.

One commenter believes the costs to maintain a QSS as described in § 10.410, to maintain training programs and courses in accordance with § 10.402, and to maintain records for 5 years in accordance with § 10.403 are significantly underestimated. Internal costs, the commenter notes, are not necessarily cheaper and the assumption that these costs will not be passed on is inaccurate. The analysis also does not take into account the annual costs to maintain these new requirements.

Additionally, two other commenters believe that the Coast Guard has underestimated the burden of implementing a QSS, at least with regard to providers of maritime security training, many of which are small businesses that do not offer other types of maritime training.

The commenters do not provide any specific data or estimates of their own regarding the QSS costs other than mentioning the QSS costs incurred by another training provider who already implemented QSS as part of ISO certification. The Coast Guard conducted a review of available data that support the estimated costs of QSS requirements, and disagrees with the commenters. As addressed in the SNPRM, the Coast Guard included a range of cost estimates to develop a QSS program between $4,320 and $12,240. This range of options includes the use of a professional outside consultant, a non-governmental entity QSS organization, or internal human resources to develop a QSS. Also, training providers have all the elements and procedures in place that are necessary to develop and write a QSS manual on their own without hiring a third-party company, which would potentially minimize their QSS costs.

Six commenters state that it is crucial that Coast Guard take into account the cost and cumulative impact of this regulation on small business. The commenters note that small companies are doing everything they can to survive in this volatile economy, and are greatly concerned about the economic burdens imposed by the cumulative impact of numerous Federal laws and regulations including the SNPRM. In recent years, the commenters note, passenger vessel operators have had to absorb costs associated with Coast Guard maritime security mandates, higher assumptions about average passenger weight for purposes of calculating vessel stability, new rules for serving customers with disabilities and EPA permit requirements for discharges incidental to the normal operation of a vessel.

Another commenter states that federal regulators must also take into account that many passenger vessel association operators have seasonal businesses, and that they frequently compete with land-based venues. Since the potential customer can often find similar services or attractions ashore, more burdensome rules placed on the vessel operator (such as hiring mariners with burdensome credentialing requirements) create a financial disadvantage, since the land-based competitor does not have to shoulder a similar regulatory burden.

The Coast Guard acknowledges that Executive Order 13563 of January 2011 (“Improving Regulation and Regulatory Review”) asks Federal regulatory agencies to “tailor regulations to impose the least burden on society, consistent with obtaining regulatory objectives, taking into account, among other things, and to the extent practicable, the costs of cumulative regulations”. Therefore, the Coast Guard sought to minimize the cumulative impacts on industry by allowing alternative methods of proving competence that would be potentially less costly to the mariners and their employers.

Please see Appendix D (Cumulative Programmatic Costs) of the Regulatory Analysis of this final rule for a detailed discussion of the cumulative impacts of STCW rulemakings since the 1997 interim rule. We estimate the cumulative annualized costs of STCW regulations to be about $37.2 million. This includes $32.6 million from this final rule and $4.6 million from the 1997 interim rule (estimates discounted at 7 percent). As previously discussed, these estimates may overestimate costs due to unquantified cost savings from alternative methods of proving competence that the final rule allows.

56. Grandfathering

One commenter notes that the SNPRM preamble on page 45912 states that the cutoff for grandfathering for domestic credentials is January 1, 2012, which is significantly different from the grandfathering provisions for STCW endorsements and, in the commenter's view, highlights the vague and sometimes strained relationship between the two forms of authority. If a domestic endorsement is needed to get the STCW authority attached to it, the commenter states, the grandfathering provisions for both should be the same.

The Coast Guard agrees. Domestic requirements provided in this final rule will be transitioned during a 5-year-period after the effective date of this final rule to coincide with the renewal of existing national endorsements. Individuals seeking an original credential or raise of grade to an existing credential during this period, and who begin training or service before the effective date of this final rule, need only meet the requirements in place before that date. Those individuals who start training or service on or after the effective date of this final rule, will be required to meet all provisions described in this final rule.

Another commenter recommends combining the two different sections governing grandfathering (one for domestic and one for STCW) into one section.

The Coast Guard disagrees. The domestic grandfathering process and STCW grandfathering processes will need to be handled differently to avoid confusion and ensure public awareness, because of the mandatory compliance dates within the STCW Convention and Code. The grandfathering provisions are specific to the individual endorsement requirements. To avoid confusion, the Coast Guard included grandfathering provisions within the STCW requirements.

One commenter states that § 13.603(b), concerning grandfathering, is not clear and requests clarification.

The Coast Guard agrees and has amended the applicable sections in part 13 (§§ 13.603(e) and 13.605(e)) to make it clear that seafarers applying for an original endorsement after March 24, 2014 must meet the new requirements, which will ensure that all seafarers meet the STCW compliance date of January 1, 2017.

One commenter asks if the grandfathering of approved courses will include applicable maritime security courses approved by Coast Guard QSS organizations.

Any security course or program that is approved or accepted by the Coast Guard on the effective date of this final rule will be grandfathered for the term of its current approval or no later than January 1, 2017, whichever is sooner. After that date, all security courses or programs must meet the requirements of STCW. The course or program must include any additional, relevant competencies or KUPs that have been added by the 2010 amendments to the STCW Convention and Code before the student completes that course or program.

One commenter recommends that mariners holding a DDE-unlimited license should be given an STCW endorsement as OICEW meeting the requirements of STCW III/1.

The Coast Guard disagrees with the suggested language that mariners holding certain national endorsements be “given” an STCW endorsement. Most national credential holders qualify in some way for an STCW endorsement, but there are sea service requirements, training, and/or assessments attached. These mariners are able to apply for a particular STCW endorsement outlined in the relevant crossover table in the STCW sections of this final rule (part 11, subpart C, and part 12, subpart F).

The same commenter recommends that mariners holding a DDE-unlimited license should qualify as a chief engineer (limited) to vessels less than 1,200 GT (III/2). In order to obtain an unlimited STCW endorsement as chief engineer, they would require evidence of meeting the additional sea service and training requirements.

The Coast Guard agrees in part. Because there is no basis for the 500 GRT/1,200 GT equivalency, it has not been added in this final rule. However, upon satisfying the requirements for chief engineer set forth in § 11.325 and Table 1 of 11.325(d), a DDE-unlimited will qualify for an STCW chief engineer endorsement limited to 500 GRT.

Two commenters state that all grandfathering provisions should be in effect for any original application submitted prior to January 1, 2013, and for any renewal prior to January 1, 2017.

The Coast Guard disagrees. Unless specified otherwise, STCW provisions in this final rule will be phased in beginning March 24, 2014 with full compliance required by January 1, 2017. This is consistent with the STCW Convention transitional provisions.

Two commenters state that mariners who hold an endorsement as tankerman-PIC (barge) should be “grandfathered” in § 13.603 for an STCW endorsement for advanced oil and/or chemical tanker operations.

The Coast Guard agrees in part. In this final rule, we allow for grandfathering to an STCW endorsement, but do not agree to extend grandfathering to self-propelled vessels because the requirements for tankerman-PIC are different than the requirements for tankerman-PIC (barge).

Three commenters state that there must be provisions to accommodate mariners who are using the current system to advance in their careers. The SNPRM preamble implies a domestic credential phase-in period but the actual regulations are silent on this point and must clarify the phase-in scheme. Additionally the phase-in should allow a mariner the option to apply under either the existing system requirements or the new requirements.

The Coast Guard agrees that the grandfathering provisions are an important part of this final rule. The grandfathering provisions in § 11.301(g)(3) permit mariners who commenced service or training before March 24, 2014, to use the existing requirements until January 1, 2017. The changes to the national credentials will be phased in over a 5-year period starting with the effective date of this final rule, consistent with the Coast Guard's normal approach to implementing credentialing rules.

Four commenters note that §§ 11.301(f)(2) and (3) require applicants for management-level STCW endorsements who hold domestic management-level endorsements to provide evidence of operational-level training and assessments. In the past, the Coast Guard considered that holding a qualifying endorsement was evidence that the individual had experience and competence equivalent or superior to that required at the operational level. Also, this would negate the grandfather provisions in both the 1995 and 2010 STCW amendments, as those mariners cannot show this evidence. Moreover, the crossover tables (Table 1 to 11.305(e), Table 1 to 11.307(e), etc.) require only management-level assessments and training. The commenters recommend continuing the previous grandfathering policy and following the crossover tables as written. To avoid confusion, the reference to operational-level training and assessment should be dropped or specifically excluded for applicants using the crossover tables.

The Coast Guard agrees and has added a new paragraph § 11.301(g)(4) so that persons who hold or have held an STCW operational-level endorsement issued prior to the effective date of this final rule, and are seeking to upgrade to an STCW management-level endorsement, will not be required to do the assessments for STCW operational-level endorsements as required in paragraph (f)(2) of that section.

Three commenters note that § 11.301(i)(3) states that mariners with service prior to July 1, 2013, “will be required to comply with the requirements of this part existing before the publication of these regulations . . . .” Although it is laudable to allow mariners to follow the rules on which they based decisions relating to their careers, these commenters say, it would also be unfair to deny them the improved provisions the Coast Guard has worked so hard to implement. They recommend changing “will be required” to “may qualify under the requirements existing either before or after [EFFECTIVE DATE OF THIS RULE] at the applicants choice . . . .”

The Coast Guard agrees and has amended § 11.301(g)(3) to provide the mariner with the opportunity to use the new requirements when applying for credentials. Some of the new requirements provide additional flexibilities that were not available to mariners before. Taking this into account, the Coast Guard is also adding a new paragraph § 11.301(g)(4) in order to extend the grandfathering provisions to persons with an operational-level endorsement upgrading to a management-level endorsement, who should not be required to do assessments for STCW operational-level endorsements, as they would be deemed to have completed them.

One commenter notes that, in Table 11.465(a), there is new language which “requires completion of a TOAR within 5 years.” The commenter is concerned about current mariners who have been sailing on an inspected license and a TOAR that was completed more than 5 years ago, because they're not required to put that on their license endorsement at this time. Therefore, the commenter recommends that it be made clear in policy or CFR language that mariners be allowed to obtain the mate towing endorsement at their next renewal over the next 5 years regardless of when they completed their TOAR.

The Coast Guard agrees. The proposed 5-year time limit has been removed from this final rule. It is the Coast Guard's intent to allow mariners to attain these competencies as they are able and as they have time in their current position. Furthermore, the Coast Guard, when initially implementing the rules for licensing and manning for officers of towing vessels, did not require that mariners add these endorsements. For this reason, we will allow the addition of these towing endorsements for those who currently hold master or mate of inspected self-propelled vessels greater than 200 GRT with evidence that the mariner has completed the TOAR, regardless of the length of time since they achieved it.

One commenter notes that § 12.603(c)(2) requires a higher level of Proficiency in Survival Craft for those being grandfathered than is required for an original able seafarer-deck endorsement. Section 12.603(a)(5) allows for providing evidence of completing either a PSC or PSC-limited training, while § 12.603(c)(2) only allows grandfathering for those with a full PSC. The commenter recommends that § 12.603(c)(2) be modified to contain the same language as § 12.603(a)(5).

The Coast Guard agrees and has amended § 12.603(c)(2) as recommended.

One commenter notes that the SNPRM requires any seafarer who holds an STCW endorsement prior to January 1, 2012, to provide evidence of meeting the appropriate standard of competence for the applicable STCW endorsement by January 1, 2017. The commenter asks if he is correct to interpret this as meaning that a seafarer seeking to renew their MMC prior to July 1, 2013, will be bound by the present rules, whereas a seafarer seeking to renew their MMC after that time will be bound by the new rules.

Mariners who hold an STCW endorsement issued prior to March 24, 2014, seeking to renew their endorsements prior to July 1, 2017, will be governed by existing regulations. However, in order for them to sail on or after January 1, 2017, mariners with certain endorsements must meet some additional requirements as specified in individual provisions for endorsements found in parts 11 and 12.

Mariners seeking an STCW endorsement who start service or training after March 24, 2014 will be required to meet the requirements in this final rule.

57. Miscellaneous Comments

One commenter recommends that the Coast Guard take full advantage of the flexibilities incorporated into the STCW Convention and of the robustness of an existing licensing scheme, without compromising safety, security and protection of mariners or of the marine environment. The commenter also recommends that the Coast Guard interpret the STCW Convention in a manner which will not compromise the ability of the U.S. flag merchant fleet to compete in the international trades.

The Coast Guard agrees. The regulatory text in this final rule incorporates some of the flexibilities provided by the STCW Convention with regard to sea service, training, and assessment. However, in some instances, the U.S. system provides a higher standard than the STCW Convention.

The same commenter recommends that the Coast Guard adopt guiding principles for the interpretation of the STCW Convention/Code that will ensure consistency in its interpretation as Coast Guard administrations change and future comprehensive reviews occur. In the commenter's view, such interpretations should be preserved in a manner consistent with international and national laws, regulations, and policies.

The Coast Guard agrees that guiding principles can be helpful. Accordingly, we followed the principles below in the development of this final rule, and will continue to do so during implementation:

(1) The Coast Guard will implement the STCW Convention and Code within its constraints, taking advantage of its flexibilities to the extent possible without compromising safety, security, and protection of the marine environment;

(2) Requirements should not place any unnecessary burdens on the industry and the mariners;

(3) Because the STCW Convention is competence-based and not training-based, training will only be required if it is specifically required by the Convention or if it is demonstrated that the competence can only be obtained via structured training; and

(4) Assessments will be required for all STCW standards of competence.

It is worth noting that these guiding principles were also followed during the development of the 1997 IR.

One commenter asks the Coast Guard to provide the analysis used to determine that Regulations I/6, I/8, II/1, II/2, and II/3 do not apply to the table of competencies listed in Chapter II, Part A of the STCW Code.

Because the Coast Guard has determined that those regulations apply to all tables of competencies throughout the STCW Convention, no such analysis exists. The Tables in part A of the STCW Code establish the standards of competence, which provide ways and means to demonstrate the knowledge, understanding, and proficiencies needed to meet each standard. The Convention is very specific about which standards of competence require training. Basic training, Electronic Chart Display and Information System, and Automatic Radar Plotting Aids (ARPA) are examples of such required training.

In most instances, however, the STCW Convention does not specify whether structured training is required to meet the standards of competence. It is up to each administration to establish the training and experience necessary to achieve the level of competence, and when structured training should be obtained.

Regulations II/1, II/2, II/3, III/1, III/2, III/3, and III/6 require that candidates complete education and training and meet the standard of competence specified in the appropriate sections of the STCW Code. Regulation I/6 requires that the training and assessment specified under the STCW Convention be administered and supervised by the administration in accordance with Section A-I/6 of the STCW Code for certification. The administration must also ensure that all instructors and assessors are appropriately qualified for the types and levels of training or assessment of competence of seafarers, either onboard a vessel, at shore-side facilities, or by use of simulators. Those involved in training and/or assessment must be qualified for the competence for which the training/assessment is being conducted, and must also have the required training in instructional techniques and assessment methods, as appropriate.

In accordance with Regulation I/8, all training and assessment of competence, certification, endorsement and revalidation activities should be continuously monitored by a quality standards system.

One commenter notes that § 10.225(a)(2) states that an applicant must apply as an original if the MMC sought is the first credential issued to applicants after their previous credential has expired and they do not hold a Document of Continuity under § 10.227(g) of this part or an equivalent unexpired continuity endorsement on their license. The commenter believes that this section conflicts with §§ 10.227 (b) and 10.227(i).

The Coast Guard agrees, and has amended § 10.225(a)(2) to include the words “beyond the grace period” after the words “after their previous credential has expired.” That section is no longer in conflict with § 10.227(b) and (i).

One commenter recommended that the rule clarify the roles of Coast Guard offices to better facilitate a smooth transition to implementation of the new requirements.

The Coast Guard agrees, and has amended §§ 1.01-10(b)(ii)(A), 1.01-10(b)(ii)(D), and 1.01-15(d) of this final rule to clarify the roles of the Director of Prevention Policy (CG-5P), the Office of Vessel Activities (CG-CVC), and the National Maritime Center.

58. Administrative

One commenter disagrees with the last paragraph of Section V of the SNPRM preamble, which states that if U.S. regulations are non-compliant with the STCW Convention and Code, there is a risk that U.S. ships will be detained in foreign ports by member nations and that U.S. mariners would not be able to seek employment on foreign flag vessels. The commenter states that the threat of detention is overstated in the SNPRM, and that a proposed rulemaking based on such a threat due to some minor non-conformity with the STCW Code or Convention is inappropriate.

The Coast Guard disagrees. The 2010 amendments to the STCW Convention, specifically Regulation I/7 and Section A-I/7, require that the Parties submit a report on the steps taken to implement the 2010 amendments as part of the independent evaluation report (I/8 report). Furthermore, Section A-I/8 requires that the 5-year independent evaluation includes all applicable provisions of the STCW Convention and Code, including the amendments. The independent evaluation report is subject to review by a panel of competent persons. Failure to report implementation of the changes could potentially result in the removal from the “List of Parties giving the Convention full and complete effect” (the so-called “White List”). In turn, removal from the so-called “White List” could result in potential detentions and delays.

59. Editorial

One commenter states that § 10.209(d) lists eight items of application paperwork that can be supplied by fax or electronic means, but item four says that the applicants for a radar observer endorsement must submit either the certificate or a certified copy, making it sound like a paper document is required. The commenter recommends allowing electronic versions of that document as well. Given the fact that a “certificate of training” is acceptable documentation under § 15.815, the commenter also recommends using the phrase “certificate of training required by § 15.815” in place of “radar-observer certificate.”

The Coast Guard agrees and has amended § 10.209(d)(4) to clarify that copies of all course-completion certificates, including those for radar, are accepted. The Coast Guard also has amended § 11.480(d) to maintain consistency with § 15.815.

The same commenter recommends that, in § 10.402(a)(1), “sea service” might be better than “service experience” for consistency.

The Coast Guard agrees, and has amended § 10.402(a)(1) to read “sea service” for consistency.

The same commenter notes that § 11.201(b) provides an exception in § 11.467(h), which should be (i).

The Coast Guard agrees and has made this change in § 11.201(b).

The same commenter notes that § 11.301(b) says that mariners qualified under paragraph (e) of this section must document continued competence. It appears the management level, (f), is not included in the requirement. The commenter recommends including the management level.

The Coast Guard agrees. Basic training has been re-located to § 11.302, and the recommended changes have been made there.

The same commenter believes that, in both §§ 11.426 and 11.427, the correct section to cite in paragraph (a) should be § 15.105.

The Coast Guard agrees that the citation should have been to § 15.105. The citation has been removed from §§ 11.426, 11.427, 11.428, and 11.429, and has been corrected in § 11.323.

The same commenter notes that, in § 11.1003, the citation of § 11.1105 in paragraph (d) should be § 11.1005.

The Coast Guard agrees and has amended the cited reference in § 11.1003(d) to § 11.1005.

The same commenter recommends that, in § 12.409(b)(3), the word “lifeboatman” should be “lifeboatman-limited.”

The Coast Guard agrees and has made the suggested change in § 12.409(b)(3).The same commenter notes that, in § 12.621, the terminology for the approved course should be consistent with the requirements for training in “management of medical care” found in deck management-level qualification standards. The commenter recommends using that phrase in § 12.621(a)(1).

The Coast Guard agrees and has amended § 12.621(a)(1) to include the appropriate course name.

One commenter notes that an error in the change list on page 45916 should be corrected—the reference to § 10.205(h) should be § 10.205(i).

The Coast Guard agrees. Although the comment relates to the preamble of the SNPRM, it is in the Table of Changes, parts of which have been carried over to this final rule. We have amended § 10.205(h) to read § 10.205(i).

The same commenter notes that, in table 10.302(a), the able seafarer-engine vision test reference should be § 10.305(b), not § 10.305(a).

The Coast Guard agrees. We have changed the reference in table 1 to 10.302(a) to § 10.305(b).

Two commenters suggest that § 11.317(a) should read “to qualify for an STCW endorsement as master.”

The Coast Guard agrees, and has amended § 11.317 as suggested.

One commenter believes that in § 15.610(a), the last sentence was superseded by the recent change to 46 U.S.C. 8905 and should be deleted.

The Coast Guard agrees and has deleted the last sentence of § 15.610(a). This is a housekeeping issue to address a change in statute and does not pose a burden to the public. The deletion is consistent with the change in 46 U.S.C. 8905 exempting vessels of less than 200 gross tons engaged in the offshore mineral and oil industry if the vessel has offshore mineral and oil industry sites or equipment as its ultimate destination or place of departure, from the requirement that the vessel must be operated by an individual licensed by the DHS Secretary.

Two commenters note that to receive an STCW endorsement as master of vessels less than 200 GRT/500 GT (§ 11.315), service of 36 months is required as OICNW with no tonnage requirement. It goes on to state that this period of service may be reduced to 24 months if 12 months are served as OICNW.

The Coast Guard agrees that, under STCW, the 12 months should be served as chief mate, and has amended § 11.315(a)(1) accordingly.

The same commenters note that, in § 11.317, the requirements listed for qualification as master less than 200 GRT/500 GT near-coastal are those for chief mate 1,600 GRT/3,000 GT or more.

The Coast Guard agrees and has amended § 11.317(a). One commenter recommends that the Coast Guard move § 11.811, requirements to qualify for an STCW endorsement as VSO, to subpart C.

The Coast Guard agrees and has transferred the requirements for VSO, currently in § 11.811 to § 11.337. The appropriate sections in 33 CFR 104.215 will be amended accordingly.

One commenter notes that § 11.903(a) does not contain all of the MODU officer endorsements.

The Coast Guard agrees. Offshore Installation Manager, barge supervisor, and ballast control operator examination subjects are described in § 11.920-2. However, these endorsements should be listed in § 11.903, and the Coast Guard has amended it to do so.

Three commenters state that, in proposed § 11.201(h)(1), the Coast Guard mistakenly said that “mariners who completed a firefighting course within the previous 5 years . . .” but that this was a typographical error that should read, “mariners who completed a firefighting course more than 5 years ago . . .”

The Coast Guard agrees and has revised this section as recommended.

60. Comments Outside the Scope of This Rulemaking

This section describes comments requesting changes that are outside the scope of this rulemaking. Although the Coast Guard is unable to include these suggested changes in this final rule, the Coast Guard may consider them if and when the Coast Guard conducts an additional rulemaking on these subjects.

One commenter claims that, with regard to proposed § 11.910 and table 11.910-2, the public has a right to free access to the latest version of every question and answer, and the Coast Guard must keep that database up-to-date.

The commenter's suggestion is outside the scope of this rulemaking. The Coast Guard did not propose any regulatory changes concerning access to examination questions and answers.

One commenter states that, given the already complex STCW requirements and regulations, plain-language guidance is critical for mariners.

The issuance of guidance is outside the scope of this rulemaking. However, the Coast Guard will consider issuing guidance in the future.

One commenter recommends that the Coast Guard work with MERPAC and other industry stakeholders to develop a plain-language guidance document that will help mariners subject to STCW to understand readily which STCW endorsement they require and what they must do to obtain it. This is outside the scope of this rulemaking. However, the Coast will consider issuing plain-language guidance.

One commenter noted that he or she submitted correspondence to the Coast Guard several months ago concerning NVIC 11-07.

This is outside the scope of this rulemaking. NVIC 11-07 is not part of this rulemaking.

61. MERPAC Comments

Below, the Coast Guard responds to comments received from MERPAC. Several of MERPAC's comments noted non-substantive, editorial errors in the SNPRM. The Coast Guard has incorporated these comments where appropriate, without further discussion.

MERPAC believes that any persons serving as an assessor need to be qualified with training in the skills required to assess competency and approved by the Coast Guard, whether as a QA or as a DE. Therefore, a definition of Qualified Assessor should be added as follows: “Qualified assessor or QA means a person who is qualified to evaluate, for STCW endorsements, whether an applicant has demonstrated the level of competence in the task for which the assessment is being made. This person must be approved by the Coast Guard or successfully complete a CG approved or accepted program of training.”

As previously discussed, the Coast Guard has amended the definition of “Qualified Assessor” in § 10.107 to require Coast Guard approval and to clarify this person's role and professional development.

MERPAC recommends that Coast Guard work with MERPAC to develop the standards for a QA, including developing an approval process and an auditing and oversight program. A task statement should be developed for MERPAC.

The Coast Guard agrees. Section 10.405 includes requirements for qualified assessors. The Coast Guard will consider developing a task statement for MERPAC to address in the future.

MERPAC recommends that a definition for “Certificate of Registry” be added.

The Coast Guard disagrees. The Certificate of Registry is included under the MMC definition in 46 U.S.C. Subtitle II, Part E, with the definitions of the other credentialing documentation that the MMC replaced.

MERPAC says that the definition of a “domestic” officer endorsement is confusing, and recommends striking “domestic” and replacing with “National” globally.

The Coast Guard agrees, and has changed “domestic endorsement” to “national endorsement” to eliminate confusion.

MERPAC recommends the Coast Guard change the definition of “disabled vessel” by removing the last sentence of the proposed definition, and revert to the original definition. As proposed, MERPAC believes this definition would mean that any time a vessel maneuvers to and from the dock with an assist tug, or a vessel takes an assist/escort tug, that vessel would be deemed to be a disabled vessel, which would be incorrect in many instances.

The Coast Guard agrees and has deleted the sentence. The intent was not to change the definition, and the Coast Guard is only making editorial changes to the original definition of “disabled vessel” in § 10.107.

MERPAC notes the absence of a definition for “direct supervision” and recommends that one be added.

The Coast Guard agrees and is using the definition of “directly supervised” to also address “direct supervision”.

MERPAC recommends that the definition of “drug test” be amended to broaden the testing procedure to be in line with 49 CFR 40.195.

The Coast Guard disagrees. MERPAC's recommended change to the definition of “drug test” is outside the scope of this rulemaking. The Coast Guard did not propose any changes to the definition of “drug test”.

MERPAC recommends that the term “STCW endorsement” include additional language clarifying that the underlying domestic endorsement must be held by the applicant for an STCW endorsement.

The Coast Guard agrees because the requested change clarifies the requirement for mariners to hold national endorsements as a prerequisite to an applicable STCW endorsement unless otherwise specified. The Coast Guard has amended §§ 11.201 and 12.601 accordingly.

MERPAC recommends that a definition for “medical certificate” be added.

The Coast Guard agrees. To ensure consistency with other terms, a definition for “medical certificate” has been added to § 10.107.

MERPAC recommends that the “coastwise voyage” definition encompass voyages to nations in which we have a treaty or other arrangements between nations that allow coastwise transit. Furthermore, MERPAC recommends that the definition of “domestic voyage” should not include the phrase “without entering waters under the jurisdiction of another country.”

The Coast Guard partially agrees. This definition is consistent with STCW, which requires that each Administration ensure that all mariners serving on foreign vessels working in their waters meet the full STCW requirements or the near coastal provisions in the Convention as implemented by the Administration. The Convention allows for the entry into informal agreements between countries. Section 10.107 was amended so that the definition for “domestic voyage” includes voyages beginning and ending at a U.S. port and passing through the waters of another country if the U.S. has entered into a treaty or agreement with that country.

MERPAC recommends adding the definition of “ILO”, because the term is used in part 14.

The Coast Guard agrees. The ILO is referenced within Subchapter B and should be defined. Section 10.107 has been amended accordingly.

MERPAC recommends that the definition of “limited” include horsepower.

The Coast Guard disagrees. For purposes of this final rule, the term “limited” is intended to be given its normal meaning, and the definition has been removed from § 10.107.

Where used, it is explained within the regulation how it will be applied. For example, § 11.463(c) explains that for national endorsement as master, mate (pilot) and apprentice mate (steersman) of towing vessels, “limited” means an endorsement to operate a towing vessel of less than 200 GRT only within a local area within the Great Lakes, inland waters, or Western Rivers designated by the OCMI.

MERPAC recommends that the Coast Guard review the definitions of a “self propelled tank vessel” and “tankship” to ensure inclusion of all vessels.

The Coast Guard has reviewed these definitions for consistency and the inclusion of all vessels. It has been determined that the current definitions do not need revision. To address new requirements for STCW endorsements on tank vessels, we have added definitions for “oil tanker,” “chemical tanker” and “liquefied gas tanker.”

MERPAC recommends correction of the definition of “utility towing.” MERPAC believes it conflicts with the proposed definition for “disabled vessel.”

Because the Coast Guard is not including the requirements for utility towing credentials in this final rule, we have deleted the definition of “utility towing” from § 10.107.

MERPAC recommends that the Coast Guard amend the definition of “restricted” to read “. . . endorsement, for example, specific.”

The Coast Guard agrees in part. The Coast Guard recognizes that the terms “restricted” and “limited” have been used interchangeably in the past and that there is no consistency in the use of the terms in relation to the title of the credential. The Coast Guard is of the opinion that all limited endorsements or credentials have inherent in their qualifications some sort of constraint that reduces the authority of the credential. Therefore, to avoid confusion, the Coast Guard deleted the two definitions because the terms have the same meaning in standard English language usage.

MERPAC recommends that the definition of “safe and suitable person” needs to include “safety and security of life or property.”

The Coast Guard agrees that this addition will clarify the definition and has amended § 10.107 as suggested.

MERPAC recommends that the definition of “support level” should coincide with STCW Code (A-I/1)—management level and operational level.

The Coast Guard agrees that the definition should be consistent with the STCW definition and has amended § 10.107 accordingly.

MERPAC recommends that the definition “vessel personnel with security duties” be revised. Currently, it does not accurately capture security duties and it should be changed to harmonize with text from B-VI/6 in STCW.

The Coast Guard agrees. As previously discussed, the Coast Guard has revised the definition of “vessel personnel with designated security duties” to harmonize it with the guidance in Section B-VI/6 of the STCW Code and to ensure consistency with the requirements in 33 CFR 104.220 and 104.225.

MERPAC recommends that § 10.225 be amended to allow postdating of endorsements for up to 12 months unless the applicant makes a written request to the contrary.

The Coast Guard agrees. As previously discussed, the Coast Guard has amended § 10.205 to allow for the post-dating of credentials for up to 8 months with the option for a mariner to choose immediate issuance.

MERPAC recommends that a copy of a radar course certificate should not have to be certified, as proposed in § 10.209(d)(4).

The Coast Guard agrees and has amended § 11.480 to maintain consistency with § 15.815. Section 10.209(d)(4) was amended in response to another comment and no longer specifically applies to radar course certificates.

MERPAC recommends that all references linking the TWIC to the MMC be modified to reflect changes in the Coast Guard Authorization Act of 2010.

The Coast Guard agrees. However, as discussed previously, this issue is being addressed in a separate rulemaking.

MERPAC does not support limiting payment of fees to only electronic means. Mariners should not be forced to pay via credit card, because not all mariners have a credit card. The Coast Guard should allow for payments to be accepted in cash, certified/cashier's check, or money order.

The Coast Guard agrees and will continue to accept cash, checks, and money orders, as well as credit cards and electronic payments for MMCs and associated endorsements. Section 10.219 has been amended accordingly.

MERPAC recommends that the Coast Guard add a new paragraph to § 10.221 to address means of proving citizenship since a TWIC is no longer required for all MMCs.

The Coast Guard agrees. However, as discussed previously, TWIC-related changes from the Coast Guard Authorization Act of 2010 are being addressed separately.

MERPAC recommends that, if there is going to be a national medical certificate, the Coast Guard de-link the medical certificate from the MMC and issue a separate medical certificate. Coast Guard needs to check for consistency with other regulations (e.g., § 10.302) and consider a Legislative Change Proposal if necessary to assure that credentials are issued after evaluating a mariner's professional qualifications alone.

The Coast Guard agrees. As previously discussed, under § 10.301 of this rulemaking, the Coast Guard will issue a separate medical certificate through the NMC.

MERPAC recommends that the Coast Guard insert a new paragraph in § 10.232(b) that would allow the issuance of an STCW restricted certificate based on seagoing service on the waters of British Columbia and the inland passage (as day-for-day service on inland waters) to ensure continued service credit for seafarers working in this area.

The Coast Guard agrees and has amended § 10.232(b) to: (1) Allow day-for-day STCW sea service credit on Great Lakes vessels and aboard inland vessels that maintain STCW standards, especially those inland vessels, that by the nature of their service must occasionally go outside the boundary line; and (2) allow day-for-day service on vessels to which STCW applies, whether inland or coastwise. Service on the waters of the Inside Passage between Puget Sound and Cape Spencer, Alaska, will be credited toward near-coastal and STCW endorsements.

MERPAC is concerned that the change to the medical review process requiring the implied issuance of a medical certificate will exceed the capabilities of the NMC because of the increase in the number of reviews necessitated by the proposed 1- and 2-year cycle of certificates, and an unacceptable backlog will be created. Therefore, mariner's jobs would be jeopardized. MERPAC suggests the Coast Guard replace § 10.301(a) “operational limitations” with “limitations and/or other conditions” (to assure consistency with NVIC).

As previously discussed, the Coast Guard has no discretion over the issuance of 2-year medical certificates in compliance with the STCW Convention. However, the Coast Guard is taking actions in this final rule to minimize the numbers of mariners who will require more frequent medical evaluation, including the removal of the 1-year certificate for pilots. This change should decrease the workload on the medical evaluation staff and help to reduce the possibility of unreasonable time delays. Additionally, the Coast Guard Authorization Act of 2010 provides the Coast Guard with authority to grant limited extensions for national endorsements when the Coast Guard experiences a backlog. Furthermore, the Coast Guard will be working to develop the DME program to reduce workload issues.

MERPAC recommends that every person holding a license or MMC endorsement as first-class pilot must have a thorough physical examination each year, to be completed by the first day of the month following the anniversary of the individual's most recently completed Coast Guard required physical examination. Every fifth year, in accordance with the medical certificate/endorsement requirements in § 10.301(b), the results of the physical examination must be recorded on a CG-719K form and submitted to the Coast Guard no later than 30 calendar days after completion of the physical examination. MERPAC strongly prefers the above recommendation. However, as a “Plan B” in the event the Coast Guard does not accept MERPAC's recommendations that first-class pilots and mariners merely “serving as” a pilot be required to have 5-year medical certificates, MERPAC recommends that first-class pilots and “serving as” pilots be required to have 2-year medical certificates. Under “Plan B”, §§ 11.709(b) and (d) should be amended as follows: Every person holding a license or MMC endorsement as first-class pilot must have a thorough physical examination each year, to be completed by the first day of the month following the anniversary of the individual's most recently completed Coast Guard required physical examination. Every other year, in accordance with the medical certificate/endorsement requirements in § 10.301(b), the results of the physical examination must be recorded on a CG-719K form and submitted to the Coast Guard no later than thirty (30) calendar days after completion of the physical examination. Finally, if the Coast Guard moves forward with a certificate for National mariners, pilots should be included in § 10.301(b)(3).

The Coast Guard agrees with MERPAC's plan B and has amended §§ 10.301(b)(2), 10.709(b) and 10.709(d) so that first-class pilots will continue to be subject to annual physical examinations, but will only be issued the biennial medical certificate. Annual physicals for first-class pilots are required by 46 U.S.C. 7101. The 2-year medical certificate requirement is consistent with the STCW Convention requirement for oceangoing mariners, and strikes an appropriate balance between maritime safety and the administrative processing burden.

MERPAC recommends that the Coast Guard define communicable disease and define exactly what the concerns are. Mariners who have only a food-handler credential are receiving extensive, potentially unnecessary medical testing. Clarification needs to be provided in guidance as there currently is no standard for “communicable.”

The Coast Guard agrees and amended § 10.107 to provide a definition of “communicable disease.” The Coast Guard will clarify these requirements in future guidance in an effort to balance the impact on the individual mariner and the potential risks to public safety and health.

MERPAC recommends that the demonstration of physical ability in § 10.304(d)(2) remain in guidance and be struck from the text.

The Coast Guard disagrees. There is a need to provide minimum requirements and standards for a medical examination.

MERPAC recommended amending § 10.403(a)(7) by adding the word “significant” before “change”, to reduce the load on course providers and the NMC by not requiring that every minor change be handled as an original submission for course approval.

The Coast Guard agrees, and has amended § 10.403(a)(7) as recommended. Additionally, the Coast Guard will issue guidance in the future because any changes to a finite or time-based curriculum will have an effect on the delivery of the entire curriculum and, hence, require approval.

MERPAC recommends amending § 10.404(a)(3) by adding “substitution of required service as a result of . . .” to avoid requiring individuals to take the same class twice to maintain an endorsement when upgrading.

The Coast Guard agrees in part. This is an existing requirement that applies to national endorsements where the training is used in “lieu” of “service” or “exam.” This requirement is normally not applicable to STCW provisions, since the Convention allows for the attainment of training and assessment for management level at the operational level. In some specific instances, however, it is applicable to STCW, as it is in the case for tanker refresher training. The Coast Guard has amended § 10.404(a)(3) so that an applicant who has taken a required course prior to upgrading from a lower level, can retain the credit for that course when upgrading to the level for which the course was intended.

MERPAC recommends that the Coast Guard amend § 10.410 to include a requirement that if company training is included under the ISM, Coast Guard should accept ISM to the extent that it meets the QSS requirements.

The Coast Guard agrees. This section of the SNPRM was broad and did not apply only to training institutions and schools. However, the Coast Guard recognizes that other management systems should be included as a means to comply with the QSS requirement. Therefore, the Coast Guard has amended § 10.410 by adding a new paragraph (g) to include ISM as an alternate means of compliance for the QSS provision.

MERPAC is concerned that the incorporation by reference provision in § 11.102(a) is not helpful and recommends that the Coast Guard somehow make STCW available to the general public. It is not sufficient to incorporate by reference, since the document is only available by purchase.

The Coast Guard agrees in part and will be making relevant portions of STCW available to the public. Please see the incorporation by reference section in the discussion of comments above.

MERPAC recommends that § 11.201(j)(1)(iii) be amended to allow applicants attending approved programs to test up to 6 months prior to graduation.

The Coast Guard recognizes that some training schools complete the training program ahead of time and the rest of the time is spent prepping for the exam. If an applicant completes all parts of a comprehensive program that pertain to maritime credentialing requirements, including all sea service and required courses and assessments of competency, a maximum of 6 months prior to completion of the program, an examination will be authorized. This provision is necessary to facilitate the examination process while ensuring that new officers have the required knowledge prior to receipt of their officer endorsement.

MERPAC recommends that the Coast Guard should extend grandfathering provisions found in § 11.301(i) so that persons with an operational level endorsement upgrading to management level should not be required to do the assessments for operational level, because they were already completed.

The Coast Guard agrees and has added a new paragraph § 11.301(i)(4) so that persons who hold or have held an STCW operational level endorsement issued prior to the effective date of this rulemaking and are seeking to upgrade to an STCW management level will not be required to complete the assessments for STCW operational level endorsements as required in subparagraph (f)(2) of that section.

MERPAC recommends in § 11.307(b)(1), but also globally, that the Coast Guard define leadership competency and how is it achieved by amending regulations or policy concerning what kind of evidence will be used.

The Coast Guard agrees and has amended § 11.307(b) and other regulations to require leadership training. This change is necessary to implement requirements in the STCW Code for mariners to demonstrate leadership competence at both the management and operational levels. In addition, the Coast Guard is developing guidance with sample assessments to be used by QAs in their development of assessments to be used onboard vessels.

MERPAC recommends that § 11.325(c) be amended so an applicant who holds an STCW endorsement as OICEW, second engineer officer, or chief engineer officer will be allowed to receive the ETO endorsements upon completion of the requirements in Section A-III/6 of the STCW Code.

The Coast Guard agrees and has corrected § 11.335(c) accordingly. The STCW Convention provides for the issuance of ETO endorsements to OICEW, second engineer officer, or chief engineer officer.

MERPAC is concerned that, based upon § 11.404 (et seq.), Great Lakes time is linked with inland time and needs to be broken out, 12 months for Great Lakes and 24 months for inland all the way through, even in uninspected fishing vessels and towing vessels. The new policy recognizing Great Lakes time as equivalent to ocean is not carried through part 11.

The Coast Guard disagrees. Inland and Great Lakes service time for the advancement of inland and Great Lakes endorsements continues to be on a 1-for-1 basis. Therefore, the Great Lakes and inland service time does not need to be separated. However, they have been separated when this service time is being used for oceans and STCW endorsements in this rulemaking. This was done so mariners can use Great Lakes service time on a 1-for-1 basis, up to 100 percent of the required sea service, and inland service time on a 1-for-1 basis, up to 50 percent of the required sea service. The Coast Guard has also reviewed and amended § 11.404 to clarify this.

MERPAC recommends using the following table to replace or modify Table 11.505(a). The effect is to eliminate the chief engineer, limited-near coastal endorsement. Taking into account that STCW applies to all vessels operating outside of the boundary line, there is a need to provide crossovers between national and STCW endorsements. MERPAC recommends that the regulations need to better explain the crossover from unlimited DDE to OICEW. Furthermore, MERPAC recommends that the Coast Guard negotiate the development of assessments for chief engineer (limited) at the 43rd session of the IMO subcommittee on standards of training and watchkeeping.

The Coast Guard partially agrees. We have amended Figure 11.505(a) as suggested, except chief engineer (limited) remains at 5 years sea service, and crossovers to STCW endorsements are not part of the figure due to space limitations but are contained in separate tables in part 11, subpart C.

MERPAC recommends that § 11.516(a)(3) be amended by replacing “graduation from” with “completion of an Engineering Officer Qualification Course.” An engineering officer of the watch (EOOW) letter from the Army, Coast Guard, or Navy should be prima facie evidence of competence.

The Coast Guard disagrees. Section 11.516(a)(3) provides for specific 4-year academic programs which require graduation in order to receive credit for the training and experience requirements for an STCW and national endorsement. The completion of an EOOW course does not meet all of the STCW competency requirements.

MERPAC recommends that a different term than “invalid” be used in § 11.709(d) and § 11.713(a).

The Coast Guard disagrees. The term is appropriate and is further supported by the last sentence in the same paragraph, which states “the individual may not operate under the authority of that endorsement until a physical examination has been satisfactorily completed.”

MERPAC recommends that § 11.821 be amended. This standard was extracted from a different HSC code and is confusing and inappropriate. At a minimum, add clarification about the HSC code (reference the code) and to what vessels it applies.

The Coast Guard agrees, and has amended § 11.821 to ensure that it is only applicable to seafarers operating vessels to which the HSC code applies.

MERPAC is concerned that tables 11.910-2 and 11.950-2 are pre-STCW 95. MERPAC recommends that the tables be separated by operational and management levels. A small working group should be formed to discuss and locate any differences between national and STCW endorsements that occur in this table. As far as this rulemaking is concerned, the following should be considered: (1) Completely remove tables 11.910-2 and 11.950-2 from the SNPRM; (2) in lieu of the table, the Coast Guard should issue documentation with considerable detail as to what is contained in each exam for each license level; (3) MERPAC should assist in the development of this documentation, which might take the form of a module description as has been used in the past; and (4) MERPAC Task 71 regarding license exam questions cannot logically proceed until implementation of recommendations 1-3 are well underway.

The Coast Guard disagrees. The tables need to remain in the regulations until the Coast Guard replaces them in regulation or issues guidance. The tables are necessary to provide the mariners with the topics for the exams. The Coast Guard will consider issuing a task statement to MERPAC to develop suitable information about endorsement examination topics.

MERPAC recommends that a footnote be added to Table 12.603(e) to allow for the reduction of the 6-month sea service requirement by taking an approved course for able-seafarer-deck.

The Coast Guard agrees that completion of an approved course for able seafarer-deck justifies the requested reduction in sea service, and has amended Table 1 to 12.603(e).

MERPAC recommends that a footnote be added to Table 12.605(c) to allow for the reduction of sea service (4 months) by taking an approved course for RFPNW.

The Coast Guard agrees that completion of an approved course for RFPNW justifies the requested reduction in sea service, and has amended Table 1 to 12.605(c).

MERPAC recommends that §§ 12.625 and 12.627 be amended to ensure that it provides all of the transitional provisions from STCW and to check § 15.1113 for consistency.

The Coast Guard agrees and has amended §§ 12.625, 12.627, and 15.1113 by adding implementation deadlines for security training requirements. These changes are required by the STCW Convention.

MERPAC recommends that § 13.107(d) be amended as follows: (1) Remove “and for maintaining and operating the bunker systems including the fuel oil” (tankerman engineer is specifically for cargo operations. Delete everything after the semicolon.); and (2) add “liquid cargo in bulk.” MERPAC recommends that the Coast Guard ensure that text does not apply to the transfer of other than bulk liquid cargoes and a tankerman endorsement is not needed.

The Coast Guard agrees and has amended § 13.107(d) to ensure it does not apply to the transfer of other than bulk liquid cargoes and a tankerman endorsement is not needed.

MERPAC recommends that § 13.117 be revised to allow the applicant to complete an approved course for renewal of a tankerman endorsement that expired more than 12 months (see § 13.120(a)(3)). Many mariners are not aware that taking a course counts toward renewal of tankerman endorsements. This would allow mariners the ability to maintain their tankerman endorsement following expiration of greater than 12 months. Furthermore, MERPAC recommends changing the reference from “tankerman rating” to “tankerman endorsement”.

The Coast Guard disagrees with the recommendation to amend § 13.117. The requirement in that section is consistent with situations where a credential has expired beyond the grace period.

The Coast Guard agrees with the recommendation to change the reference from “tankerman rating” to “tankerman endorsement.” This change is consistent with the classification of endorsements in § 10.109.

MERPAC recommends that § 13.120(a)(1) be amended by inserting ”including service aboard a barge, as appropriate” after the words “tank vessel.” This is to enable mariners serving on towing vessels, with tankerman credentials, the ability to renew those credentials.

The Coast Guard agrees in part. We agree that certain service on tank barges should receive credit. However, we do not believe a change to the regulations is required because the term “tank vessel” includes tank ships and tank barges.

MERPAC recommends that § 13.203 be amended to give mariners serving on ATBs full credit for sea time and experience (loads/discharges) towards full tankerman-PIC endorsement. Many new ATBs have identical cargo-handling equipment as tankships.

The Coast Guard agrees. The Coast Guard has amended § 13.127 to accept service onboard some ATBs toward the national and STCW tankerman endorsements (including tankerman-PIC), provided the ATB equipment is equivalent to comparable tankship equipment. This change is necessary to ensure career paths and to facilitate the use of new ATBs as qualifying platforms for tankerman endorsements. In addition, the Coast Guard has provided a means for mariners serving on tank barges to qualify for an STCW endorsement with a limitation to non-self-propelled vessels.

MERPAC recommends that the regulations include a crossover program from different types of tankers. Seafarers would already have tanker experience. A shorter course consistent with the STCW could be appropriate.

The Coast Guard agrees in part. We are retaining the existing provisions for a “crossover” for a domestic tankerman endorsement. The STCW does not provide for such a crossover, and mariners must meet the full service requirements applicable to each cargo.

MERPAC recommends that the regulations split oil and chemical tanker requirements into separate sections and incorporate the STCW code properly and include fast track language in Regulation V/I-1. Seafarers serving onboard tankers certified to carry both oil and chemicals should receive sea credit for both oil and chemicals.

The Coast Guard agrees that the STCW has separate qualification requirements for oil tankers and for chemical tankers, and has separated these two endorsements into their own sections, §§ 13.603 and 13.605. Nevertheless, it is possible for a single “cargo course” to be acceptable for both endorsements, and if the vessel the mariner serves on is certified to carry both oil and chemical cargoes, to use the same service to qualify for both endorsements.

MERPAC recommends that § 13.603 be amended to allow tankerman-engineers to obtain an STCW endorsement for advanced oil tanker cargo operations and advanced chemical tanker cargo operations so chief engineers and first assistant engineers don't have to get tankerman-PIC endorsements. Under this proposed text, chief engineers and first assistant engineers will be unable to do the loading and discharges. This section should include language that allows mariners with STCW management-level engine endorsements and tankerman-engineer national endorsement to receive an STCW advanced tanker cargo operations endorsement if they complete the STCW assessments. Changes may be accomplished by amending the domestic requirements (in § 13.201) and the STCW requirements.

The Coast Guard agrees and has added § 13.603(c) as a means for engineers to qualify for an STCW endorsement as the appropriate advanced tanker cargo operations with a limitation to maintenance and repair of cargo equipment.

MERPAC recommends that §§ 13.603 and 13.605 be amended to include an STCW endorsement for appropriate advanced tanker cargo operations with a limitation to non-self-propelled vessels.

The Coast Guard agrees. As previously discussed, personnel on non-tank vessels towing a barge outside the boundary line will be required to meet the STCW requirements. Consequently, we provided a means in § 13.603(b) and 13.605(b) for mariners serving on tank barges to qualify for an STCW endorsement with a limitation to non-self-propelled vessels.

MERPAC recommends that the Coast Guard amend part 15 by adding a section about manning documents and COIs that separately specify the STCW endorsements that must be carried onboard for international voyages.

COIs will list both national and STCW endorsements. The Coast Guard will be revising safe manning documents to be consistent with the changes in this final rule.

MERPAC recommends that the Coast Guard issue a notice to all ship owners explaining the implementation of the U.S. medical certificate to facilitate port state control inspections.

The Coast Guard agrees and will be issuing a notice to IMO and all port state control organizations worldwide. The Coast Guard will publish this notice on the NMC Web site.

MERPAC recommends that part 15 be amended. The text should honor the original agreement with DOT that the STCW application in domestic trade would start at 500 GRT. MERPAC recommends the Coast Guard amend part 15 as follows: (1) Global change in part 15—add “or 500 GRT on a domestic voyage” wherever 200/500 tonnages are used. This is pursuant to the DOT agreement to use 500 GRT on the application of the STCW; (2) Global change- add “seagoing vessel” wherever horsepower is mentioned. The tonnage should be also mentioned (200 GRT/500 GT). For example, “seagoing vessel of 200 GRT/500 GT or more driven by main propulsion machinery of 1,000 HP/750 kW propulsion power or more . . .”

The Coast Guard recognizes that the regulations and policies implementing the STCW requirements have been the subject of different interpretations, and is therefore issuing this final rule to ensure clarity of interpretations and applicability of the STCW Convention. STCW-related provisions in part 15 have been amended to incorporate the 500 GT threshold consistent with the STCW requirements. Therefore, STCW tonnage thresholds were not inserted in the engineering requirements. The Coast Guard has added the phrase “seagoing vessel of 500 GT or more driven by main propulsion machinery of 1,000 HP/750 kW propulsion power or more or on an international voyage” to § 15.1103(a) in response to this comment.

MERPAC recommends that a new paragraph (g)(3) of § 15.105 be added as follows: “Pilot vessels are not considered seagoing ships because they operate within, or closely adjacent to, sheltered waters or areas where port regulations apply.”

The Coast Guard agrees, and has amended §§ 15.105(f)(5) and 15.1101(a)(1)(v) to exempt pilot vessels engaged in pilotage duty from STCW requirements in those sections. This change is appropriate because STCW applies only to seagoing vessels that operate outside the boundary line, but generally does not apply to pilot vessels.

MERPAC recommends that § 15.404(d)(3) be deleted. That section requires that ratings, including wipers, must possess an endorsement as able seafarer-engine instead of QMEDs. The Coast Guard needs to categorize which QMED categories should be RFPEW (watchstanding) (Fireman/Watertender (FWT), oiler) and which QMED categories should be able seafarer-engine (non-watchstanding) (all others) to reflect the rating who stands a watch and who does not. Requirements should reflect that all watchstander A/Bs and QMEDS are required to hold a RFPNW or RFPEW. QMEDs serving on vessels in a non-watchstanding position, excluding wipers, oilers and FWT, must hold able seafarer-engine endorsements.

The Coast Guard disagrees. The number of QMEDs and able seamen are specified in the COI, and those serving in such positions must also hold an STCW endorsement. In addition, the Coast Guard has amended § 15.404 to specify the correlation of national rating endorsements and STCW rating endorsements based upon the SNPRM's grandfathering provisions and the usual, customary duties of each rating.

MERPAC is concerned that § 15.515(b), concerning requirements for crew to be aboard when passengers are embarked on a passenger vessel, is overly restrictive and impossible during normal vessel operations and recommends that the text be amended.

The Coast Guard disagrees. It is essential for the safety of the passengers to ensure there are sufficient personnel to respond to emergencies and passenger needs. This is an existing requirement, and this final rule adds explanatory detail for clarification purposes.

MERPAC noted that there are no guidelines for GMDSS maintainer courses in the United States. These need to be developed and provided to industry.

The Coast Guard agrees. Until such time as the Coast Guard establishes criteria for and approves such “GMDSS at sea maintainer courses,” § 12.623(a)(2)(ii) will not be a viable option to demonstrate competency. Nonetheless, the Coast Guard has included this option because it intends to soon begin the process of promulgating guidelines for GMDSS course content and approval.

MERPAC recommends that § 15.1105(c)(1) be changed from “BST or safety familiarization” to “BT and safety familiarization specific to that vessel.”

The Coast Guard disagrees. The term “BST or safety familiarization” does not appear in § 15.1105(c)(1) of the SNPRM. The text in § 15.1105(c)(1) refers to basic training or instruction and not familiarization training. We have made a global change in this final rule, changing “basic safety training” to “basic training” to be consistent with the STCW Convention. The Coast Guard does not agree to change § 15.1105(c)(1) as suggested because basic training or basic instruction refers to the four numbered items under paragraph (c), which are more extensive than safety familiarization. This text is consistent with the STCW requirements in Regulation VI/1 and Section A-VI/1.

MERPAC recommends that § 15.1109 be amended by adding “serving on seagoing vessels, except those vessels listed in 15.1101 of this part.”

The Coast Guard agrees and has amended § 15.1109 as recommended for clarity. That section refers to § 15.105(f) and (g), which contains the same exemptions as § 15.1101. This change is appropriate because STCW watchkeeping requirements apply only to seagoing vessels.

MERPAC states § 15.1113 should be amended to ensure (a), (b), and (c) apply only to vessels over 500 GT.

The Coast Guard agrees with the recommendation to ensure that the requirements in § 15.1113 apply only to vessels of more than 500 GT. In accordance with the 2010 amendments to the STCW Convention, the security requirements are meant to support the requirements of the ISPS Code which applies to vessels of 500 GT or more. Therefore, the Coast Guard has amended § 15.1113 to ensure that the application of the security requirements is only to vessels of 500 GT or more.

MERPAC recommends that § 15.1113 be amended to include all transitional provisions from STCW.

The Coast Guard agrees. As previously discussed, the Coast Guard has amended § 15.1113 to include all transitional provisions from the STCW Convention applicable to vessel personnel with designated security duties and security awareness.

MERPAC recommends that § 15.1113 be amended to account for existing mariner compliance by 2012, and to account for new mariners compliance by 2014. The Coast Guard agrees. As previously discussed, the Coast Guard has amended § 15.1113 to include all transitional provisions from the STCW Convention applicable to existing and new mariners.

MERPAC recommends § 15.1113 be amended to address contractors and other personnel who should not be required to obtain an endorsement.

The 2010 amendments to the STCW Convention (Section A-VI/6) require all persons employed or engaged on a seagoing vessel to have received security familiarization. The term “all persons” includes seafarers and other personnel, including contractors, whether part-time, full-time, temporary, or permanent. At this time, the Coast Guard intends to meet the STCW 2010 amendments through the regulations in 33 CFR 104.225, which requires that all contractors, whether part-time, full-time, temporary, or permanent, must have knowledge on a number of topics, through training or equivalent job experience. The Coast Guard has also amended § 15.1113 to ensure that all contractors have knowledge of the requirements in 33 CFR 104.225 through training or equivalent job experience.

MERPAC recommends that § 15.1113 be amended to provide that individuals who have completed a USCG accepted VSO course, or have been designated as VSO are considered to have met the requirements of training for personnel with or without security duties.

The Coast Guard agrees, and has amended the requirements in § 15.1113 to ensure persons meeting the VSO requirements are considered to have met the requirements of training for personnel with or without security duties. The Coast Guard is revising the definition “vessel personnel with designated security duties” to harmonize it with the guidance in Section B-VI/6 of the STCW Code and to ensure consistency with the requirements in 33 CFR subchapter H. The expression “with designated security duties” denotes those having specific security duties and responsibilities in accordance with the vessel security plan. The Coast Guard amended the requirements in §§ 12.625 and 15.113 to ensure that the term “vessel personnel with designated security duties” is used throughout.

MERPAC recommends that § 15.1113 be amended to ensure that requirements take into account STCW Circ 7(16) providing a compliance waiver until 2017.

The STCW Convention requires that mariners who commenced service after January 1, 2012, meet the training requirements for vessel personnel with designated security duties and security awareness, as appropriate. In addition, the STCW Convention also provides transitional provisions for mariners who started service prior to January 1, 2012. Recognizing that the implementation date was fast approaching, and that there may be practical difficulties for all seafarers with security-related requirements to obtain necessary certifications and/or the necessary endorsements required in accordance with regulation VI/6 of the 2010 amendments to the STCW Convention and Code, the IMO issued Circular STCW.7/Circ.17 providing advice for port state control officers on transitional arrangements leading up to full implementation of the 2010 amendments to the STCW Convention and Code on January 1, 2017. The Circular recommends that Administrations should inform their port state control authorities that, until January 1, 2014, even if a seafarer's documentation with regard to the security-related training in regulation VI/6 is not in accordance with the 2010 amendments to the STCW Convention and Code, it would be sufficient to accept compliance with section 13 of the ISPS. Taking the information in the Circular into account, the Coast Guard has amended § 15.1113 to implement the requirements for “vessel personnel with designated security duties” and for “security awareness.” The requirements in 33 CFR 104.220 and 104.225 meet the requirements of Section 13 of the ISPS Code.

MERPAC notes the lack of training requirements within the SNPRM as follows: (1) Generally, the officers do not have the time to perform training and assessment onboard due to minimal manning, higher workload and operational constraints; (2) under STCW mandatory rest period rules, the time available for training is limited; (3) The officers may not have the requisite knowledge to teach and assess the needed subjects effectively; (4) training is not part of a ship's officers job description; (5) most officers have not been exposed to “train the trainer” techniques; (6) most officers are reluctant to assume the legal liability of training; (7) some subjects can be better conducted ashore due to safety and economic reasons; and (8) if a company wants to address the above issues, then the company must provide the resources to conduct approved onboard training. Therefore, MERPAC recommends that additional formal classroom training be required.

The STCW Convention is a competence-based Convention, and not a training-based Convention. The Coast Guard does not believe that training is the only means of imparting knowledge, and recognizes that some knowledge, understanding, and proficiency is better acquired through experience.

The Tables in part A of the STCW Code establish the standards of competence, which provide ways and means to demonstrate the knowledge, understanding, and proficiencies needed to meet each standard. The Convention is very specific about which standards of competence require training. Basic training, Electronic Chart Display and Information System, and Automatic Radar Plotting Aids are examples of such required training.

In most instances, however, the STCW Convention does not specify whether structured training is required to meet the standards of competence. It is up to each Administration to establish the training and experience necessary to achieve the level of competence, and when structured training should be obtained.

The Coast Guard recognizes concerns raised by comments that shipboard factors, including reduced manning, higher mariner workload, and mariner fatigue issues, could make it a challenge for seafarers onboard vessels to train others. The Coast Guard also recognizes that not all STCW competencies, individual knowledge, understanding and proficiencies must be accomplished as part of structured training because there are areas where in-service experience may fulfill the competency requirement. For these reasons, the Coast Guard reviewed the tables of competencies and identified the training topics that must be accomplished as part of approved formal training. The training topics in the final rule were part of the extensive list of topics proposed in the NPRM, as well as those listed in the SNPRM.

Accordingly, parts 11 and 12 of this final rule have been amended to include a combination of training and in-service requirements, which will be validated through assessments, to ensure that seafarers achieve the necessary level of competence.

MERPAC also recommends that the content of the training should be appropriate to the tonnage, route and/or type of vessel. For example, advanced and emergency ship handling can be performed onboard OSVs, tugs, and ferries, rather than in a full mission simulator.

The Coast Guard partially agrees. The text in part 11, subpart C has been amended in each appropriate section for each STCW endorsement to indicate which courses will be required. The Coast Guard also agrees with the comment that the content of training should be appropriate to the tonnage, route and/or type of vessel. The regulatory text also includes a provision to allow for the modification of KUPs based on the characteristics and size of vessels, and for the issuance of the appropriate limitations and restrictions.

MERPAC recommends amending § 11.480 to ensure the current practice of not putting radar endorsements on MMCs is stated.

The Coast Guard did not propose any changes in this area. The requested change is outside the scope of this rulemaking.

MERPAC recommends that a working group be formed with Coast Guard Headquarters, NMC, and industry to clarify and define the certification process for single or limited size engineroom staffing. In addition, this working group should also develop the same for deck staffing on vessels of limited size.

Although this suggestion is beyond the scope of this rulemaking, the Coast Guard will consider issuing a task on this subject to MERPAC in the future.

MERPAC recommends that the NMC process refocus the medical review of mariners so that the process is risk-based.

The Coast Guard agrees that the focus should be reviewed for possible improvement, but this is outside the scope of this rulemaking. The Coast Guard is considering plans for the development of a DME program. The Coast Guard will develop guidance on the DME program in the future.

MERPAC recommends that the government pursue creating methods of funding for maritime education due to the impact of the regulatory training and education requirements. (46 U.S.C. 51103).

Although this suggestion is outside the scope of this rulemaking, the Coast Guard will continue to promote maritime education.

62. MEDMAC Comments

Below, the Coast Guard responds to recommendations received from MEDMAC.

MEDMAC recommends replacing the term “medical certificate/endorsement” with “medical certificate” throughout the document.

The Coast Guard agrees and has made this change throughout the document. This change is appropriate because the Coast Guard will be issuing separate medical certificates rather than endorsements to existing MMCs.

MEDMAC recommends removing the last sentence of § 10.301(a) and replacing it with the text from NVIC 04-08, Enclosure (6), Paragraph 7.

The Coast Guard agrees and has replaced the last paragraph of § 10.301(a) with the recommended text. This change is appropriate because it continues and codifies established Coast Guard policy on the evaluation of physical examinations.

MEDMAC recommends that §§ 10.301(b)(1) and (2) be amended to allow pilots to be issued 2-year medical certificates but not change the statutory requirement for pilots to undergo annual physicals.

The Coast Guard agrees and has amended § 10.301(b)(2) to allow pilots to be issued 2-year medical certificates to ensure consistency with the statute and to avoid any ambiguity.

MEDMAC recommends in § 10.303(b) removing the text “for medical conditions and medications when” and replacing it with “when an applicant does not meet the applicable medical standards, but”.

The Coast Guard agrees that the suggested language is more accurate, and has made this change in § 10.303(b).

MEDMAC recommends removing the last sentence of § 10.304(a) and replacing it with the content of paragraph § 10.304(c), and then removing § 10.304(c).

The Coast Guard agrees that issuing future guidance on disqualifying medical conditions is preferable to the incomplete list in the last sentence of § 10.304(a) of the SNPRM. Accordingly, we have amended § 10.304(a) and have removed § 10.304(c).

MEDMAC requests clarification of guidance on food handlers found in § 10.304(b) that relates to NVIC 04-08 Enclosure 1 “food handler” link to Homeport.

The requested guidance is beyond the scope of this rulemaking. However, the Coast Guard has provided in this rulemaking a definition for “communicable disease,” which should have direct impact on MEDMAC's concerns. The Coast Guard also will be revising policies associated with this rulemaking and publishing them as required to ensure broadest notification.

MEDMAC recommends that all food handlers be required to submit a general medical exam.

The Coast Guard disagrees. Our requirements must be consistent with the underlying statutes. At present, the Coast Guard does not have authority to require entry-level food handlers to complete the general medical exam.

MEDMAC requests clarification from the Coast Guard on how practitioners shall perform each of the listed demonstrations in § 10.304(d)(2). If the Coast Guard does not have clarification, working group 11-03 recommends a task statement be developed to address this section.

The information regarding demonstrations should be addressed in the revision of NVIC 04-08 which is already a task statement provided to the MEDMAC (MEDMAC Task Statement 1).

C. Discussion of Public Comments in Response to the Merchant Marine Personnel Advisory Committee (MERPAC) and the Merchant Mariner Medical Advisory Committee (MEDMAC) Recommendations

On November 3, 2011, the Coast Guard announced the availability of recommendations from MERPAC in response to Task Statement 75, in which the Coast Guard requested review of the SNPRM (76 FR 68202). The Coast Guard also announced the availability of recommendations from MEDMAC after its review of the SNPRM. The recommendations from both committees were made available to the public for comment. The public comments to these recommendations and the Coast Guard response to the comments received are detailed below.

One commenter supports MERPAC's recommendation that Qualified Assessors should be approved by the Coast Guard.

The Coast Guard agrees. As previously discussed, we have amended the definition of “Qualified Assessor” in § 10.107 to add clarification of this person's role and professional development.

The same commenter supports the MERPAC recommendations regarding Listing of Training Elements for 46 CFR part 11 (Deck Competencies with Formal Training Requirements) in its entirety. The commenter states that interpreting the Code to require an approved education and training system for deck officer competencies is in keeping with the generally accepted view of the international maritime community and Coast Guard policy for nearly 10 years. That system would be operated under a QSS and is described in Tables A-II/1, A-II/2 et al. of the STCW Code.

The Coast Guard partially agrees. The Coast Guard reviewed the tables of competencies and identified the training topics that must be accomplished as part of approved formal training. These topics were part of the NPRM published in 2010. Parts 11 and 12 of this final rule are amended to include a combination of training and in-service requirements, validated through assessments, to ensure that the seafarers achieve the necessary level of competence.

One commenter disagrees with MERPAC's recommendation that mariners should not be able to obtain an STCW endorsement without meeting the service requirements for the associated national endorsement. MERPAC adds that its recommendation is about progression requirements rather than qualification requirements. The commenter states that this MERPAC recommendation would reverse the Coast Guard's stated intent to separate STCW and domestic endorsements. By recombining domestic and STCW sea-service requirements, irrespective of possible conflicts between the two, the Coast Guard would undermine another of its stated intentions, that the new regulations will be easier for mariners to read and understand the requirements for each MMC endorsement.

The Coast Guard disagrees. One of the underlying principles used in the development of this rulemaking is that the STCW endorsement is an international, independent overlay of the national endorsement. Therefore, the mariner cannot have any STCW endorsement unless that mariner possesses the equivalent national endorsement.

One commenter disagrees with MERPAC's recommendation that the Coast Guard amend its definition of “disabled vessel” by removing the last sentence of the proposed definition, and by reverting to the definition currently found in the regulations. The commenter states that if the Coast Guard agrees to this recommendation, the continued financial wellbeing of many assistance companies whose livelihood depends on towing and assistance jobs allowed by the inclusion of the last sentence of the definition of “disabled vessel” in the SNPRM will be severely threatened. Many marine assistance companies have no other means of income, and for them this amendment will be disastrous.

The Coast Guard disagrees and has only retained non-substantive editorial changes to the original definition of “disabled vessel” in § 10.107. The expansion of the definition proposed in the SNPRM would have granted authority beyond the intended scope of the meaning of “disabled vessel,” and the final rule is substantially the same as the current regulation. The Coast Guard may consider possible changes to this definition after public notice and comment in a future rulemaking.

There were several comments received in the docket that were not related to MERPAC or MEDMAC recommendations. Those comments are summarized below.

One commenter states that the Coast Guard is placing mariners in peril in § 11.402(c)(1), by allowing a mariner with only 6 months' experience as master of a 1,600 GRT vessel to become a domestic master of an unlimited-tonnage vessel. The commenter states that you need experience as a chief mate on a large vessel in order to understand how to do the captain's job on such a vessel.

Because this final rule makes no changes to the current regulations in § 11.402(c)(1), this comment is outside the scope of this rulemaking.

The same commenter states that the Coast Guard is again placing mariners in peril in § 11.404(a)(2)(ii), by allowing a mariner to become a domestic master of an unlimited-tonnage vessel after 3 years of sea time, without ever having sailed as chief mate. The commenter states that you need experience as a chief mate on a large vessel in order to understand how to do the captain's job on such a vessel.

The Coast Guard disagrees that there is no requirement for experience as a chief mate on large vessels to qualify as master of such a vessel. Section 11.404(a)(2)(i) requires that, in addition to the requirements discussed in § 11.404(a)(2)(ii), mariners must provide evidence of 6 months' service as chief mate on vessels of unlimited tonnage.

One commenter asks why chief engineer (limited-near coastal) is listed above chief engineer (limited-oceans) hierarchically in Table 11.325(d). The same commenter asks if the required service is cumulative (12 months of service to get from chief engineer (limited-oceans) to chief engineer (limited-near coastal), then an additional 12 months of service to get to chief engineer on vessels of unlimited horsepower).

The order of endorsements listed in the table is not meant to be hierarchical. Further, in response to several other comments to the SNPRM docket, the Coast Guard is eliminating the endorsement for chief engineer (limited-near-coastal). An additional 12 months of service is required to cross over to first assistant engineer (unlimited), and an additional year to qualify for chief engineer (unlimited).

The same commenter asks if the proposed regulations eliminate STCW endorsements for chief engineer (limited-oceans) and chief engineer (limited-near coastal), or rather limit them to domestic service. The commenter recommends that the Coast Guard revise the SNPRM to maintain the current scope of authority for chief engineer (limited oceans and near-coastal).

As stated above, the Coast Guard is eliminating the chief engineer (limited-near-coastal) endorsement, leaving only the assistant engineer (limited) and chief engineer (limited) endorsements. Both endorsements authorize service on oceangoing vessels of any horsepower, but restrict service to vessels of less than 1,600 GRT (hence the “limited” title).

The same commenter states that the progression paths listed in the NPRM have been changed in the SNPRM. He asks if a path remains for a chief engineer (limited-oceans) to become either a chief engineer or first assistant engineer (second engineer officer) on vessels of unlimited horsepower.

As discussed in the SNPRM, there is a path for the endorsements the commenter cites. For changes to the limited engineers' officer endorsements, including crossover points, see Figure 11.505(a).

One commenter states that an unspecified section, figure or table does not appear to be a path to STCW chief engineering officer for vessels of more than 4,000 HP. In the commenter's view, the credentialing system contains “confusion,” again without specifying what the particular uncertainty might be. The commenter further takes exception to the amount of sea service proposed in the SNPRM for a chief engineer (limited) to obtain an STCW endorsement as chief engineer officer.

As discussed above, the SNPRM established the national and STCW credentials as separate entities. Figure 11.505(a) graphically displays the progression and crossover provisions for the national engineering officer endorsements only. All national limitations and restrictions apply. It is recognized that the holder of a national endorsement might also be required to hold an STCW endorsement to sail beyond the boundary line and into foreign ports. Since the applicant for an STCW endorsement must first hold an appropriate national endorsement, the purpose of the tables in § 11.325 is to list those national endorsements that might enable the holder to obtain a relevant STCW endorsement, and to indicate if additional assessment and training are required.

A common misconception is that if a mariner holds a particular national credential (e.g., chief engineer (limited)), that he/she automatically has the right to an “equivalent” STCW endorsement as chief engineer officer (e.g., more than 3,000 kW (4,000 HP)). This is not the case, as the STCW endorsement usually requires additional practical assessment, examination and/or training. The tables in part 11, subpart C are guides for mariners to obtain STCW endorsements. Another factor in the equation is that once obtained, the STCW endorsement is dependent on any restrictions on the face of the national endorsement. For example, engineers (limited) may serve on vessels of any horsepower, but are restricted to vessels of less than 1,600 GRT. The DDEs are restricted to vessels of less than 500 GRT, and some have further horsepower limitations and/or route restrictions placed on their credentials.

D. Additional Request for Comments

In the “Additional Request for Comments” section of the SNPRM, the Coast Guard sought specific comments from the public on six issues. These issues and the Coast Guard response to the comments received are outlined below. Detailed Coast Guard responses to specific comments are located above in subsection A of this section, entitled “Public comments on the SNPRM.”

1. The Coast Guard asked about the value of tonnage and route restrictions for engineering endorsements.

The Coast Guard removed route restrictions and the endorsement for chief engineer (limited near-coastal) in this final rule, but retained the 1,600 GRT limitation for the engineer (limited) series of endorsements. Likewise, the Coast Guard retained both route and tonnage restrictions for the DDE series of engineer endorsements.

2. The Coast Guard asked about alternative or additional requirements for limiting engineer authority, such as maintaining current horsepower restrictions, or any other alternative requirements.

The responses from the public ranged from a suggestion to remove the endorsement of chief engineer (limited near-coastal) to an elaborate 13-page plan for the complete revision of the national and STCW endorsement scheme. The Coast Guard has made several changes including the removal of the chief engineer (limited near-coastal) endorsement and expanded the structure of assistant engineer-OSV, as discussed previously.

3. The Coast Guard asked about potential changes to the qualification requirements for a DE for TOARs to allow mariners to serve as DEs by virtue of their endorsements without any further approval process.

The commenters believe that the current system for a DE to apply for recognition and approval through the NMC is appropriate. The Coast Guard will continue to approve the DEs through the current process.

4. The Coast Guard asked about who, within the mariner population, will take advantage of the alternatives to formal training provided to meet the standards of competence for an STCW endorsement.

Some commenters object to allowing competency to be demonstrated by alternative methods and not exclusively through approved formal training. In their view, the language of the STCW Convention and Code places a strong emphasis on formal training and assessment, and requires education and training for all categories of STCW certification. Other commenters support the concept of onboard training as an alternative to formal classroom training but believe that there are professional knowledge and development areas where in-service experience alone will not fill the need for professional training.

The Coast Guard has added training courses for STCW endorsements that must be accomplished as part of approved formal training. These courses were part of the NPRM. Parts 11 and 12 of this final rule are amended to include a combination of training and in-service requirements (validated through assessments) to ensure that the seafarers achieve the level of competence required for STCW endorsements.

5. The Coast Guard asked about the extent to which changes to sea service requirements, particularly in § 10.232, will increase the availability of mariners for service on oceangoing vessels.

Three commenters recommended that the Coast Guard remove §§ 10.232(b)(1) and 10.232(b)(2) in their entirety in regard to sea service credit for mariners serving on the Great Lakes and on inland waters. They believe there is no useful purpose for these provisions, and their inclusion would make professional advancement more difficult, thereby decreasing the availability of mariners for service on oceangoing vessels.

The Coast Guard has retained the proposed provisions in § 10.232(b)(1) (providing day-for-day credit on the Great Lakes), and § 10.232(b)(2) (providing credit up to 50 percent of total service required). These new requirements were not previously available for those mariners seeking an STCW endorsement. Further, the Coast Guard believes that the inclusion of these sections will actually increase the number of mariners with credentials necessary to make them available for service on ocean-going vessels by expanding the opportunity to earn sea service credit.

6. The Coast Guard asked about the possible changes to fee payment options, as proposed in § 10.219, which would eliminate the ability to pay by cash or check. The commenters objected to the proposed requirement in § 10.219(d) that fee payments for MMCs and associated endorsements must be made by credit card or by electronic payment. They claimed that it would be a hardship on mariners as they do not always have these means of payment available to them.

The Coast Guard is withdrawing this proposed revision. The current § 10.219(d) will be retained, allowing for multiple forms of payment.

VII. Incorporation by Reference

The Director of the Federal Register has approved the material listed in §§ 10.103, 11.102, 12.103, 13.103, and 15.103 for incorporation by reference under 5 U.S.C. 552 and 1 CFR part 51. Copies of the material are available from the sources listed in those sections.

VIII. Regulatory Analyses

We developed this final rule after considering numerous statutes and executive orders related to rulemaking. Below we summarize our analyses based on 14 of these statutes or executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This final rule has been designated a “significant regulatory action” although not economically significant, under section 3(f) of Executive Order 12866. Accordingly, this final rule has been reviewed by the Office of Management and Budget. A combined “Regulatory Analysis and Final Regulatory Flexibility Analysis” report is available in the docket as indicated under the ADDRESSES section of this preamble. A summary of the report follows:

This final rule will ensure that U.S. mariners comply with the standards set forth in the STCW Convention and Code. This final rule will implement all amendments under the Convention, including the 2010 amendments previously discussed. In addition, the Coast Guard is responding to the comments, feedback, and concerns received from the public as a result of the SNPRM. In order to address those comments and concerns, this final rule will simplify national licensing requirements and separate them from STCW requirements; provide alternative means for demonstrating competence; clarify oversight requirements for approved courses; amend lifeboatmen requirements; and allow for acceptance of sea service on vessels serving the Great Lakes and inland waters to meet STCW requirements (see “Discussion of Final Rule” for additional details).

The changes in this final rule from the current regulations that result in additional impacts involve the following categories of provisions:

1. Medical Examinations and Endorsements

The medical certificate will be reduced from a maximum period of validity of 5 years to 2 years for mariners serving onboard STCW vessels in accordance with the 2010 amendments to the STCW Convention.

2. Leadership and Managerial Skills

This final rule will require leadership and managerial skills for the management-level credential in accordance with the 2010 amendments to the STCW Convention.

3. Engineroom Resource Management

This final rule will require ERM training for engineers seeking operational-level credential, and leadership and managerial skills for the management-level credential in accordance with the 2010 amendments to the STCW Convention.

4. Tankerman Endorsements

This final rule will add new STCW endorsements for basic and advanced oil and chemical tanker cargo operations, and for basic and advanced liquefied gas tanker cargo operations, in accordance with the STCW 2010 amendments.

5. Safety Refresher Training Requirements

This final rule will require safety refresher training every 5 years for all STCW-endorsed mariners holding a credential in basic training (BT), advanced firefighting, proficiency in survival craft and rescue boats other than fast rescue boats, or proficiency in fast rescue boats, in accordance with the 2010 amendments to the STCW Convention and Code.

6. Able Seafarer Deck and Engine

This final rule will require that personnel serving on STCW vessels as able seafarers meet the requirements for certification in order to comply with the STCW 2010 amendments.

In order to address the comments received on the SNPRM, the Coast Guard made several changes to the SNPRM in this final rule. Part A of the Discussion of Comments and Explanation of Changes section summarizes the changes between this final rule and the SNPRM and the “Tables of Changes” in section V of the preamble provides a detailed explanation for each change. None of the changes between the SNPRM and this final rule, however, will result in additional impacts to the maritime industry. However, in response to comments from the public, the Coast Guard has added a transitional provision for the implementation of the QSS requirements by January 1, 2017. This will delay the cost impact of QSS requirements to training providers and provide additional time for compliance.

Costs

We estimate that this final rule will affect approximately 60,000 U.S. mariners ⁸ and 316 owners and operators of 1,044 vessels by imposing additional costs. This rule also affects U.S. mariners operating inside the boundary line by imposing new requirements. However, we do not anticipate the new requirements for national endorsements will impose additional costs. Each of the requirements will affect a different subset of these mariner and owner/operator populations. We used Coast Guard's data on mariners, publicly available information on training costs and mariner wages, and other available industry information to develop the estimates of potential costs to affected mariners and to the owners and operators employing affected mariners for each requirement. We did not find additional data or receive public comments in response to the analysis presented in the SNPRM that would result in changing these estimates for affected mariners or vessel owners and operators.

⁸ Includes all mariners to which STCW applies, which is limited to voyages beyond the boundary line.

This final rule will also affect approximately 141 STCW training providers by requiring them to implement a quality standards system and write and maintain a QSS manual; subjecting them to internal and external audit requirements of each Coast Guard-approved course, and extending the time period for which they must keep a paper or electronic record on each student completing a course. Similarly, we did not find additional data or receive public comments that would result in changing our estimates for affected STCW training providers other than delaying the cost impact of QSS requirements to training providers by 3 years and providing additional time for compliance.

The costs of this final rule are presented in Table 1. We estimate the total present value cost over the 10-year period of analysis to be $228.9 million at a 7-percent discount rate ($272.6 million at a 3-percent discount rate). Over the same 10-year period of analysis, we estimate the annualized costs to be about $32.6 million at a 7-percent discount rate ($32.0 million at a 3-percent discount rate).

Table 1—Summary of Present Value Costs of Final Rule
[$ Millions]
Year | Discount rate: 7 percent | Discount rate: 3 percent
1 | $17.0 | $17.7
2 | 38.5 | 41.5
3 | 36.0 | 40.3
4 | 35.0 | 40.8
5 | 31.8 | 38.5
6 | 29.7 | 37.4
7 | 11.3 | 14.7
8 | 10.5 | 14.3
9 | 9.8 | 13.9
10 | 9.2 | 13.5
Total* | 228.9 | 272.6
Annualized | 32.6 | 32.0
* Totals may not sum due to rounding.

We estimate the mariner training requirements are the primary cost driver throughout the 10-year period of analysis. See Table 2 for a summary of annualized costs by requirement category.

Table 2—Summary of the Annualized Costs of the Final Rule
[$ Millions]
Category | Annualized*: 7 percent | Annualized*: 3 percent
Mariner Training** | $27.06 | $26.40
2-Year Medical Examination | 3.99 | 3.99
Sea Service | 1.04 | 1.04
Training Providers | 0.50 | 0.51
Total | 32.60 | 31.96
** Includes changes for officer, engineer and rating endorsements.

The changes to mariner training make up about 83 percent of the costs throughout the 10-year period of analysis. Table 3 below presents a summary of the costs by requirement as a percentage of the total annualized costs of this final rule.

Table 3—Summary of Costs by Requirement of the Final Rule (as a percentage of annualized cost)
Requirements | Annualized cost percent
Mariner Training | 83
2-Year Medical Examination | 12
Sea Service | 3
Training Providers | 2
Total | 100

We believe that the training costs discussed above would likely be high estimates, as this final rule provides flexibility in choosing alternative methods if these are more cost effective to the mariners, owners and operators.

In the absence of additional information, such as the choice of alternative methods by company size and time differences to complete one alternative compared to another, we estimate potential regulatory compliance costs by assuming that mariners and their employers would fulfill these requirements through classroom training. This results in upper-bound monetized costs for these training provisions.

Benefits ⁹

⁹ The Coast Guard did not receive any comments from the public on the benefits analysis for the SNPRM. The changes between the SNPRM and this final rule did not result in any modifications to benefits estimated in this section.

This final rule will implement all amendments to the STCW and ensure that the U.S. is meeting its obligations under the STCW Convention. The STCW Convention sets the standards of competence for mariners internationally, bringing U.S. mariners in line with training, certification and medical standards developed by the International Maritime Organization (IMO). In addition to the benefit of improving marine safety and decreasing the risk of shipping accidents, additional benefits of this final rule are expected to accrue to the U.S. economy in the form of: (1) Preventing and mitigating accidents on STCW Convention-compliant foreign vessels in U.S. waters due to the Coast Guard's increased ability to enforce requirements; (2) Maintaining U.S. status on the “White List” and avoiding the detention of U.S. vessels in foreign ports due to non-compliance with the STCW Convention; (3) Ensuring U.S. mariners can compete in the global workforce market; and, (4) Ensuring that U.S. regulations are consistent with international performance standards based on international consensus and IMO convention, which minimizes variation in standards of training and watchkeeping.

One benefit of this final rule is an increase in vessel safety and a resulting decrease in the risk of shipping casualties. According to one study on the Review and Analysis of Accident Databases by the American Bureau of Shipping (ABS), the human element is involved in 80 percent of shipping casualties, with 45 percent of those casualties primarily due to human error, and another 35 percent attributable to a failure to adequately respond.¹⁰

¹⁰ Clifford C. Baker and Denise B. McCafferty. 2004. ABS Review and Analysis of Accident Databases. American Bureau of Shipping. Accessed at http://www.slc.ca.gov/Division_Pages/MFD/Prevention_First/Documents/2004/Human%20and%20Organizational%20Factors/McCafferty%20paper.pdf.

The final rule seeks to decrease human error and improve responsiveness through a three-pronged approach—increased training and service requirements, improved consistency of training, and enhanced medical evaluation and reporting.

Lack of mariner competence in situational awareness and assessment are primary causes of human error. The enhanced competency and service requirements of the STCW Convention are expected to increase mariners' situational awareness and situational assessment, and improve their ability to respond to potential hazards.

The requirements for training providers to develop and follow a quality standard system help to ensure that the STCW training given to mariners is of consistent quality.

Unidentified medical conditions can also impair a mariner's ability to perform tasks and respond, thus contributing to the human element of casualties. This final rule will require more frequent medical exams for STCW mariners, thus reducing the potential contribution of medical conditions to human error.¹¹ In combination, the provisions of this final rule are expected to reduce potential for vessel accidents, including those with small and large consequences.

¹¹ Examples of major accidents that resulted in deaths, injuries, environmental contamination or property damage in which an unidentified medical condition was a causal factor include: the allision of the M/V Cosco Busan with the San Francisco-Oakland Bay Bridge, the allision of the passenger ferry Andrew J. Barberi, and Towboat Robert Y. Love allision with Interstate 40 Highway Bridge. Although these did not directly involve STCW mariners, the same risk from unidentified medical conditions applies.

Based on data and information from the Coast Guard's Marine Information for Safety and Law Enforcement (MISLE) database system, between 2002 and 2009, there were an average of 11 fatalities and 126 injuries (ranging in severity) per year on U.S. flag SOLAS vessels that could be prevented or mitigated by this rulemaking. These form the baseline for this final rule. Likewise, pollution from incidents involving U.S. flag SOLAS vessels resulted in an annual average of 285,152 gallons of oil spilled per year that are also part of the baseline damages that could be prevented or otherwise mitigated by this rulemaking. Table 4 summarizes the annual damages associated with fatalities, injuries, and oil spills for U.S. flag SOLAS vessels.

These estimates do not include quantified measures of secondary impacts that result from vessel accidents.

Table 4—Annual Baseline of Fatalities, Industries, Oil Spills, and Property Damage (2002-2009)
Impact | SOLAS
Fatalities | 11.
Injuries | 126.
Oil Spills | 169.
Amount of Oil Spilled | 285,152 gallons.
Property Damage | $25.7 million.
Congestion and Delays | Not quantified.

The training, sea service and QSS provisions of the final rule would most likely reduce the risk of accident-related consequences such as fatalities, injuries, and pollution. Estimating the precise reduction in risk from improved training and sea service requirements is difficult given existing information. We found limited information on how STCW, or other competency-based marine transportation training, quantitatively increases marine safety by reducing the risk of accidents.

We did find research conducted for other industries on the impact of training programs on outcomes and behaviors. This research found a wide range of potential reductions in risk: from a low of no impact to a high of approximately 87 percent. See the “Regulatory Analysis and Final Regulatory Flexibility Analysis” report available in the docket for more information. No additional data or updates to estimates were received as part of public comments.

If the annual costs of $28.1 million we estimate for the cost of training and sea service requirements (exclusive of the QSS training provider and the medical examination requirements) are compared against the accident-related baseline damages for SOLAS vessels including fatalities, injuries, property damage and oil spilled, this final rule would have to reduce damages by 23 percent to reach break even. Using the cost of training and sea service requirements, if only fatalities are considered, the final rule would need to prevent approximately 4.5 fatalities per year to break even, out of about 11 total fatalities per year on SOLAS vessels. Accident-related fatalities represent approximately 20 percent of the total baseline damages.

The annualized cost of the training and sea service requirements (exclusive of the QSS training provider and the medical examination requirements) is approximately $28.1 million per year at a 7-percent discount rate (See Table 2 for a summary of annualized costs by requirement category). Based on the distribution of potential risk reduction derived from the studies described above applied to the baseline consequences of accident-related damages for U.S. flag, SOLAS vessels, we estimate the discounted, annualized benefits of this final rule could be about $24.3 million, with a range of $23.7 million to $29.4 million.

The medical examination requirements will also reduce risk, both for fatalities due to medical conditions and for accident-related fatalities and oil spills. The incapacitation of mariners on vessels due to undiagnosed and untreated medical and/or physical conditions could contribute to vessel mishaps and associated public safety risks. Data from the trucking industry indicate that certain medical conditions can increase the risk of accidents. For example, truck drivers with diabetes have a 19 percent higher risk of causing an accident. Similarly, drivers with cardio-vascular disease have a 43 percent greater risk of causing an accident.¹²

¹² Source: Final Rule Regulatory Evaluation, “Medical Certification Requirements as Part of the Commercial Driver's License,” Final Rule, Federal Motor Carrier Safety Administration, July 2008 (FMCSA-1997-2210-0211.1).

More frequent medical exams can help ensure that medical conditions that could impair performance and increase the risk of an incident are identified earlier, thus increasing opportunities to treat the condition and reducing the chances that uncontrolled symptoms and side-effects could cause decreased performance and increased risk of accidents.

The annual costs of the medical-related requirements are approximately $3.99 million at a 7-percent discount rate. If we compare this cost with the damages associated with the five fatalities related to medical conditions, this final rule would need to result in a 12.7 percent reduction in risk to break even.

To summarize, we estimate the monetized annualized costs of this final rule to be about $32.6 million (at a 7-percent discount rate). However, we believe that this may likely be a high cost estimate as this final rule provides flexibility in choosing alternative methods of demonstrating competency if these are more cost effective to the mariners, owners and operators.

We considered five alternatives to this final rule:

• Alternative 1: Maintain the current STCW Convention interim rule.

• Alternative 2: Implement the NPRM-proposed requirements.

• Alternative 3: Implement the SNPRM STCW-related proposed requirements only.

• Alternative 4: Implement NPRM with a separate rulemaking for 2010 STCW amendments.

• Alternative 5: Implement the SNPRM.

The first alternative is not feasible as it would not meet all U.S. responsibilities as a party to the Convention. The second alternative would partially meet U.S. responsibility, but would not implement the 2010 STCW amendments. The third alternative would meet the U.S. responsibilities under the STCW Convention, but would not provide clarifications and modification to national endorsements for which costs are minimal. The fourth alternative would not have met U.S. STCW responsibilities. The fifth alternative would not incorporate any comments, feedback, and concerns received from the public as a result of the SNPRM. Public comments helped the Coast Guard reorganize and clarify certain STCW and non-STCW provisions of the SNPRM and led this final rule to be more efficient.

The “Regulatory Analysis and Final Regulatory Flexibility Analysis” report available on the docket provides additional detail on the alternatives, costs, and benefits of this rulemaking.

At this time, based on available information, we expect that this rulemaking will not be economically significant under Executive Order 12866 (e.g., have an annual effect on the economy of $100 million or more).

B. Small Entities

Under the Regulatory Flexibility Act (5 U.S.C. 601-612), we have considered whether this final rule will have a significant economic impact on a substantial number of small entities. The term “small entities” comprises small businesses, not-for-profit organizations that are independently owned and operated and are not dominant in their fields, and governmental jurisdictions with populations of less than 50,000.

A Final Regulatory Flexibility Analysis discussing the impact of this final rule on small entities is available in the docket where indicated under ADDRESSES.

This final rule will directly regulate mariners and training providers. Individuals, such as the mariners regulated by this final rule are not small entities under the definition of a small entity in the Regulatory Flexibility Act (RFA).

This final rule includes audit and quality system requirements for training providers. Based on Coast Guard data, approximately 84 percent of the STCW training providers that are affected by this final rule are small by the (SBA) size standards.

While we do not expect training providers to offer new training programs unless it is beneficial to their business model, we have estimated the impact of this final rule to training providers as if they would not pass any of their costs to mariners. Therefore, the revenue impacts to the small training providers discussed below may be overestimates.

We found that this final rule will have a significant economic impact (more than 1 percent impact on revenue) on 62 percent of small training providers in the first year they implement QSS requirements. After the first year of implementation, we found that this final rule will have a significant economic impact on 29 percent of small training providers.

In response to comments from the public, the Coast Guard has delayed implementation of the QSS requirements to January 1, 2017. This will delay the cost impact of QSS requirements to training providers and provide additional time for compliance. The impacts discussed above are not based on discounted present value costs and do not account for the additional time for compliance.

This final rule does not directly require companies or maritime employers to pay for the final training requirements for affected mariners. However, we acknowledge that some marine employers fund training and might be indirectly impacted. In recognition of this possibility, we analyzed impacts on small entities to include a sensitivity analysis showing the impact of additional training costs on employers of mariners. We provided this analysis in the Initial Regulatory Flexibility Analysis for the SNPRM and summarized it in Final Regulatory Flexibility Analysis for this rule.

Based on this sensitivity analysis, we found that about 80 percent of the vessel owners and operators affected by this final rule will be small entities under the Regulatory Flexibility Act and the Small Business Administration (SBA) size standards. We estimate that this final rule will have a more than 1 percent cost impact on annual revenue for 69 to 83 percent of the small vessel owners and operators affected by this rulemaking, depending on the year.

However, under this final rule, the Coast Guard will accept various, flexible methods for demonstrating competence that will reduce the costs of training requirements, a potential cost relief to maritime employers that fund training.

C. Assistance for Small Entities

Under section 213(a) of the Small Business Regulatory Enforcement Fairness Act of 1996 (Pub. L. 104-121), we want to assist small entities in understanding this final rule so that they can better evaluate its effects on them and participate in the rulemaking. If this final rule would affect your small business, organization, or governmental jurisdiction and you have questions concerning its provisions or options for compliance, please consult Ms. Zoe Goss, Maritime Personnel Qualifications Division, Coast Guard; telephone 202-372-1425. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This final rule calls for modifications to collections of information under the Paperwork Reduction Act of 1995 (44 U.S.C. 3501-3520). It modifies two existing Office of Management and Budget (OMB) Collections of Information: OMB Control Number 1625-0028, “Course Approvals for Merchant Marine Training Schools;” and OMB Control Number 1625-0079, “Standards of Training, Certification and Watchkeeping for Seafarers (STCW), 1995 and 1997 Amendments to the International Convention.”

As defined in 5 CFR 1320.3(c), “collection of information” comprises reporting, recordkeeping, monitoring, posting, labeling, and other, similar actions. The title and description of the information collections, a description of those who must collect the information, and an estimate of the total annual burden follow. The estimate covers the time for reviewing instructions, searching existing sources of data, gathering and maintaining the data needed, and completing and reviewing the collection.

This final rule adds to recordkeeping requirements of training providers and credentialed merchant mariners.

Title: Course Approval and Records for Merchant Mariner Training Schools.

OMB Control Number: 1625-0028.

Title 46 United States Code (U.S.C.) 7315 authorizes a license or document applicant to substitute the completion of an approved course for a portion of the required sea service. 46 CFR 10.402 specifies the information that must be submitted for the Coast Guard to evaluate and approve each course. 46 CFR 10.403 specifies recordkeeping requirements that a school teaching approved courses must meet for each student taking each course.

Under this final rule, training providers who teach STCW Convention courses will: (1) Develop and maintain a QSS, including writing and maintaining a QSS manual; (2) Undergo an internal audit and undergo an external audit every 5 years and keep the audit records for Coast Guard inspection as needed; and (3) Store student course records for an additional 4 years.

Since training providers are currently required to store student records for 1 year and many of them store records for several years more, the burden of the new requirement that will extend recordkeeping from 1 year to 5 years is small.

Summary of the Collection of Information: A licensed mariner is authorized to substitute the completion of an approved course for a portion of the required sea service. Training providers must submit specific information to the Coast Guard to evaluate and approve each course.

This final rule will require training providers to write and maintain a QSS manual and arrange two internal audits of STCW Convention courses within 5 years.

Need for Information: The information is necessary to show evidence that training providers meet the minimum quality standards and recordkeeping requirements for each course established by the IMO.

Proposed Use of Information: The Coast Guard will use this information to document that the training level of mariners meets international requirements.

Description of the Respondents: The respondents are the mariner training schools that will be required to complete form CG-719B.

Number of Respondents: According to the Coast Guard National Maritime Center (NMC), there are approximately 285 training schools. However, only 141 training providers teach STCW courses. The number of respondents is 141 STCW training providers in the first year and recurring annually.

Frequency of Response: Respondents are required to write a QSS manual in the first year and modify it as needed. They will also arrange internal audits on their STCW courses every two and a half years.

Burden of Response: Writing a QSS manual will take a training provider approximately 206 hours in the first year (205 hours for reporting and 1 hour for recordkeeping), and modifying it will take 9 hours every year (8 hours for reporting and 1 hour recordkeeping). We estimate that it will take 10 hours for each respondent to complete an internal audit twice every 5 years (9 hours for reporting and 1 hour for recordkeeping) or approximately 4 hours per year.

Estimate of Total Annual Burden: The existing OMB-approved total annual burden, as adjusted in May 2012, is 97,260 hours. This rule will increase the burden for 141 training providers by approximately 225 hours each. The total additional hours requested for this rulemaking is 30,879 [141 × (206 + 9 + 4)]. The new annual burden for the first year is 29,046 hours and about 1,833 hours each year after the first year.

Title: Standards of Training, Certification and Watchkeeping for Seafarers (STCW), 1995 and 1997 Amendments to the International Convention.

OMB Control Number: 1625-0079.

The International Convention for Standards of Training, Certification and Watchkeeping for Seafarers (STCW) sets qualifications for masters, officers and watchkeeping personnel on seagoing merchant ships. The United States is a signatory to these conventions, which define standards of competence necessary to protect safety of life at sea and the marine environment and address the responsibilities of all State-Parties to ensure seafarers meet defined standards of competence and quality. The information collection requirements are necessary to implement the amendments to this important international convention.

This final rule makes three changes that impact this collection. This final regulation will: (1) Change the medical exam requirements for STCW credentialed mariners from once every 5 years to once every 2 years; (2) require documented evidence of security training or awareness for 2 groups of mariners—personnel with security duties (except vessel security officers) and all other mariners working aboard a vessel; and (3) recognize STCW endorsements issued by foreign governments.

To comply with changes in medical examination requirements, mariners will be required to submit a CG-719K form as filled out by a physician. To comply with security training or awareness for personnel, vessel owners/operators will need to provide documentary evidence that personnel with security duties other than VSOs meet requirements set forth in 33 CFR 104.220, and provide documentary evidence of meeting the requirements of 33 CFR 104.225 for all other personnel working on a vessel. Additionally, this final rule allows for the recognition of STCW endorsements issued by foreign governments if proper documentation is submitted by a vessel owner/operator.

Summary of the Collection of Information: The STCW Convention sets qualifications for mariners on seagoing merchant ships. As a signatory party, the United States must collect information to document that requirements described in this important international treaty are being met.

This final rule, which adopts 2010 amendments to the STCW convention, requires STCW mariners to provide documentation of a medical exam occurring once every two years; establishes the need for documentary evidence certifying security training or awareness for personnel; and provides the means to recognize STCW endorsements issued by foreign governments.

Need for Information: The collection of information is needed to ensure that mariners have completed training and medical assessment necessary to receive STCW certification or endorsement. Collection of information is also needed to demonstrate to the International Maritime Organization that the United States has in place certain specific regulations that implement the international requirements and related amendments to the STCW convention.

Proposed Use of Information: The information collected will help to ensure compliance with international requirements and to maintain acceptable quality in activities associated with training and assessment of merchant mariners.

Description of the Respondents: The respondents will be merchant mariners holding STCW endorsements who need to update their medical records with the NMC, and the vessel owner/operators employing STCW endorsed mariners.

Number of Respondents: According to Coast Guard NMC data, an estimated 60,000 merchant mariners hold STCW endorsements. Of those mariners, approximately 12,000 submit medical examination forms each year. Since this final rule requires medical exams every 2 years, approximately 18,000 additional mariners will need to respond each year.

This final rule will also require employers of STCW endorsed mariners to submit documentary evidence of security training or awareness. Approximately 316 employers will need to submit this one-time requirement for 23,413 mariners—12,020 mariners who fall under 33 CFR 104.220 and 11,393 mariners who fall under 33 CFR 104.225.

Additionally, approximately 105 owner/operators and approximately 1,800 mariners holding STCW endorsements issued by foreign governments will need to respond.

Frequency of Response: For medical examination requirements, mariners will need to respond every two years. We will assume half of the mariner population would respond annually. For security training or knowledge, mariners will need to make a one-time response that includes the proof of meeting the requirement. Credentials for mariners holding foreign-issue STCW endorsements are valid for 5 years and response will be once every 5 years.

Burden of Response: For medical examinations, the mariner will take approximately 20 minutes to complete form CG-719K and another 5 minutes to submit that form. Total response burden will be approximately 25 minutes.

For personnel with security training, we estimate it will take employers 15 minutes per mariner to provide documentary evidence of security training or awareness.

For mariners with STCW endorsements issued by foreign governments, filling out form CG-719B takes approximately 15 minutes to complete.

Estimate of Total Annual Burden: For medical examinations, existing OMB-approved total annual burden, as adjusted in January 2013, is 17,927 hours. This rule will increase the annual burden by 7,950 hours (7,500 hours for medical exams plus 450 hours for foreign-issued STCW endorsements). Additionally, this final rule will impose a one-time burden of 5,853 hours on owner/operators to provide documentary evidence of training.

This final rule will increase the annual burden on 18,000 respondents submitting medical examination forms by approximately 25 minutes each. A total of 7,500 additional hours is requested for this rulemaking [18,000 × (25/60)]. For the approximately 1,800 mariners holding STCW endorsements issued by foreign governments, this final rule will increase the annual burden by approximately 15 minutes each. The total additional hours requested for this rulemaking is 450 [1,800 × (15/60)]. For other personnel with security training or awareness, this one-time requirement will impose a burden on 316 respondents of 15 minutes each, or approximately 5,853 hours [23,413 mariners × (15/60)].

As required by the Paperwork Reduction Act of 1995 (44 U.S.C. 3507(d)), we submitted a copy of this final rule to the Office of Management and Budget (OMB) for its review of the collection of information.

You are not required to respond to a collection of information unless it displays a currently valid OMB control number.

E. Federalism

A rule has implications for federalism under Executive Order 13132, Federalism, if it has a substantial direct effect on the States, on the relationship between the national government and the States, or on the distribution of power and responsibilities among the various levels of government. We have analyzed this final rule under that Order and have determined that it does not have implications for federalism.

It is well settled that States may not regulate in categories reserved for regulation by the Coast Guard. It is also well settled that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. (See the decision of the Supreme Court in the consolidated cases of United States v. Locke and Intertanko v. Locke, 529 U.S. 89, 120 S.Ct. 1135 (March 6, 2000).)

In United States v. Locke, the Supreme Court referenced the STCW Convention as evidence that such areas are exclusively Federal, stating: “That training is a field reserved to the Federal Government is further confirmed by the circumstance that the STCW Convention addresses crew `training' and `qualification' requirements, and that the United States has enacted crew training regulations.” United States v. Locke and Intertanko v. Locke, 529 U.S. 89, 120 S.Ct. 1135 (March 6, 2000). This rule addresses the training and credentialing of mariners and would impact manning of vessels, areas reserved for regulation by the Coast Guard. Because the States may not regulate within these categories, this rule does not affect the relationship between the national government and the States, or the distribution of power and responsibilities among the various levels of government.

This rule would not extend Federal jurisdiction into those areas of pilotage that are reserved to the States in 46 U.S.C. 8501. Section 8501 provides for State regulation of pilots in the bays, rivers, harbors, and ports of the U.S. unless the law specifies otherwise.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. This final rule will not result in such an expenditure; however, we discuss the economic effects of this final rule elsewhere in this preamble.

G. Taking of Private Property

This final rule will not cause a taking of private property or otherwise have taking implications under Executive Order 12630, Governmental Actions and Interference with Constitutionally Protected Property Rights.

H. Civil Justice Reform

This final rule meets applicable standards in sections 3(a) and 3(b)(2) of Executive Order 12988, Civil Justice Reform, to minimize litigation, eliminate ambiguity, and reduce burden.

I. Protection of Children

We have analyzed this final rule under Executive Order 13045, Protection of Children from Environmental Health Risks and Safety Risks. This rule is not an economically significant rule and does not create an environmental risk to health or risk to safety that might disproportionately affect children.

J. Indian Tribal Governments

This final rule does not have tribal implications under Executive Order 13175, Consultation and Coordination with Indian Tribal Governments, because it does not have a substantial direct effect on one or more Indian tribes, on the relationship between the Federal Government and Indian tribes, or on the distribution of power and responsibilities between the Federal Government and Indian tribes.

K. Energy Effects

We have analyzed this final rule under Executive Order 13211, Actions Concerning Regulations That Significantly Affect Energy Supply, Distribution, or Use. We have determined that it is not a “significant energy action” under that order. Though it is a “significant regulatory action” under Executive Order 12866, it is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This final rule does not use technical standards. Therefore, we did not consider the use of voluntary consensus standards.

M. Environment

We have analyzed this final rule under Department of Homeland Security Management Directive 023-01 and Commandant Instruction M16475.lD, which guide the Coast Guard in complying with the National Environmental Policy Act of 1969 (42 U.S.C. 4321 et seq.), and have concluded that this action is one of a category of actions that do not individually or cumulatively have a significant effect on the human environment. This rule is categorically excluded under section 2.B.2, figure 2-1, paragraph (34) (a) and (c) of the Instruction. This rule involves the credentialing of mariners to meet IMO standards. An environmental analysis checklist and a categorical exclusion determination are available in the docket where indicated under ADDRESSES.

List of Subjects

46 CFR Part 1

Administrative practice and procedure, Organization and functions (Government agencies), Reporting and recordkeeping requirements.

46 CFR Part 10

Incorporation by reference, Penalties, Reporting and recordkeeping requirements, Schools, Seamen.

46 CFR Part 11

Incorporation by reference, Penalties, Reporting and recordkeeping requirements, Schools, Seamen, Transportation Worker Identification Card.

46 CFR Part 12

Incorporation by reference, Penalties, Reporting and recordkeeping requirements, Seamen.

46 CFR Part 13

Incorporation by reference, Cargo vessels, Reporting and recordkeeping requirements, Seamen.

46 CFR Part 14

Oceanographic research vessels, Reporting and recordkeeping requirements, Seamen.

46 CFR Part 15

Incorporation by reference, Reporting and recordkeeping requirements, Seamen, Vessels.

For the reasons discussed in the preamble, the Coast Guard amends 46 CFR parts 1, 10, 11, 12, 13, 14, and 15 as follows:

PART 1—ORGANIZATION, GENERAL COURSE AND METHODS GOVERNING MARINE SAFETY FUNCTIONS

1. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

§ 1.01-10 [Amended]

2. In § 1.01-10(d)(1)(ii)(D), after the words “under technical control of the”, remove the words “Director of Inspections and Compliance (CG-5PC),” and add, in their place, the words “Director of Prevention Policy (CG-5P), and subject to the policy and guidance of the Office of Vessel Activities (CG-CVC),”.

§ 1.01-15 [Amended]

3. In § 1.01-15(d), after the words “same authority as an OCMI”, add the words “, subject to the policy and guidance of the Office of Vessel Activities (CG-CVC),”.

§ 1.03-40 [Amended]

4. In § 1.03-40, after the words “make a formal appeal of that decision or action”, remove the text “, via the NMC,”.

PART 10—MERCHANT MARINER CREDENTIAL

5. Revise the authority citation for part 10 to read as follows:

Authority: 14 U.S.C. 633; 31 U.S.C. 9701; 46 U.S.C. 2101, 2103, 2110; 46 U.S.C. chapter 71; 46 U.S.C. chapter 73; 46 U.S.C. chapter 75; 46 U.S.C. 2104; 46 U.S.C. 7701, 8903, 8904, and 70105; Executive Order 10173; Department of Homeland Security Delegation No. 0170.1.

6. Amend § 10.101 as follows:

a. Revise the heading of § 10.101 to read as set forth below;

b. In paragraph (b), remove the word “their” and add, in its place, the words “his or her”; and

c. In paragraph (d), remove the words “holder of” and add, in their place, the words “applicant for”.

§ 10.101 Purpose.

* * * * *

§ 10.103 [Amended]

7. Amend § 10.103 as follows:

a. In paragraph (b)(1), remove “STCW—” and the year “1995”; after the word “amended” add “, 2011”; and after the words “incorporation by reference approved for §§ 10.107, 10.109,” remove the section number “and10.231” and add, in its place, the section numbers “10.201, and 10.410”; and

b. In paragraph (b)(2), after the word “amended” remove the year “1995” and add, in its place, “, 2011”; and after the words “incorporation by reference approved for §§ 10.107, 10.109,” remove the section numbers “10.227, and 10.231” and add, in their place, the section numbers “10.201, 10.404, 10.411, and 10.412”.

8. Revise § 10.107 to read as follows:

§ 10.107 Definitions in subchapter B.

(a) With respect to part 16 of this subchapter only, if the definitions in paragraph (b) of this section differ from those set forth in § 16.105, the definition set forth in § 16.105 applies.

(b) As used in this subchapter, the following terms apply only to merchant marine personnel credentialing and the manning of vessels subject to the manning provisions in the navigation and shipping laws of the United States:

Able seafarer-deck means a rating qualified in accordance with the provisions of Regulation II/5 of the STCW Convention.

Able seafarer-engine means a rating qualified in accordance with the provisions of Regulation III/5 of the STCW Convention.

Apprentice mate (steersman) of towing vessels means a credentialed mariner in training to perform bridge watchkeeping duties onboard a towing vessel, who must be under the direct supervision and in the continuous presence of a master or mate (pilot) of towing vessels.

Approved means approved by the Coast Guard.

Approved training means training that is approved by the Coast Guard or meets the requirements of § 10.408 of this part.

Articulated tug barge or ATB means any tug-barge combination which, through the use of an articulated or “hinged” connection system between the tug and barge, allows independent movement in the critical area of fore and aft pitch.

Assistance towing means towing a disabled vessel for consideration.

Assistant engineer, for national endorsements, means a qualified officer in the engine department other than the chief engineer.

Authorized official includes, but is not limited to, a Federal, State or local law enforcement officer.

Ballast control operator or BCO means an officer restricted to service on mobile offshore drilling units (MODUs) whose duties involve the operation of the complex ballast system found on many MODUs. When assigned to a MODU, a ballast control operator is equivalent to a mate on a conventional vessel.

Barge means a non-self propelled vessel as defined in 46 U.S.C 102.

Barge supervisor or BS means an officer restricted to service on MODUs whose duties involve support to the offshore installation manager (OIM) in marine-related matters including, but not limited to, maintaining watertight integrity, inspecting and maintaining mooring and towing components, and maintaining emergency and other marine-related equipment. A barge supervisor, when assigned to a MODU, is equivalent to a mate on a conventional vessel.

Boatswain means the leading seaman and immediate supervisor of deck crew who supervises the maintenance of deck gear.

Boundary line marks the dividing point between internal and offshore waters for the purposes of several U.S. statutes and, with exceptions, generally follows the trend of the seaward, highwater shorelines. See 46 CFR part 7.

Cargo engineer means a person holding an officer endorsement on a dangerous-liquid tankship or a liquefied-gas tankship whose primary responsibility is maintaining the cargo system and cargo-handling equipment.

Ceremonial license means a document that reflects a mariner's existing national officer endorsement and is suitable for framing, but is not valid for use as a Merchant Mariner Credential (MMC).

Chemical tanker means a tank vessel that is certificated to carry or carries chemicals in bulk as cargo or cargo residue. For the purposes of qualifying for an STCW endorsement for advanced chemical tanker cargo operations, this includes tank barges.

Chief engineer means the senior engineer responsible for the mechanical propulsion and the operation and maintenance of the mechanical and electrical installations of the vessel.

Chief mate means the deck officer next in rank to the master and upon whom the command of the vessel will fall in the event of incapacity of the master.

Coast Guard-accepted means—

(1) That the Coast Guard has officially acknowledged in writing that the material or process at issue meets the applicable requirements;

(2) That the Coast Guard has issued an official policy statement listing or describing the material or process as meeting the applicable requirements; or

(3) That an entity acting on behalf of the Coast Guard under a Memorandum of Agreement has determined that the material or process meets the applicable requirements.

Coast Guard-accepted QSS organization means an entity that has been approved by the Coast Guard to accept and monitor training on behalf of the Coast Guard.

Coastwise seagoing vessel means a vessel that is authorized by its Certificate of Inspection to proceed beyond the Boundary Line established in part 7 of this chapter.

Coastwise voyage is a domestic voyage and means a voyage in which a vessel proceeds—

(1) From one port or place in the United States to another port or place in the United States;

(2) From a port or place in a United States possession to another port or place in the same possession, and passes outside the line dividing inland waters from the high seas; or

(3) From a port or place in the United States or its possessions and passes outside the line dividing inland waters from the high seas and navigates on the high seas, and then returns to the same port or place.

Communicable disease means any disease capable of being transmitted from one person to another directly, by contact with excreta or other discharges from the body; or indirectly, via substances or inanimate objects contaminated with excreta or other discharges from an infected person. Pursuant to 42 U.S.C. 12113, the Department of Health and Human Services periodically publishes in the Federal Register a list of infectious and communicable diseases that are transmissible through the food supply, and that list provides examples of communicable diseases for purposes of § 10.304 of this title.

Conviction means that the applicant for a merchant mariner credential has been found guilty, by judgment or plea by a court of record of the United States, the District of Columbia, any State, territory, or possession of the United States, a foreign country, or any military court, of a criminal felony or misdemeanor or of an offense described in section 205 of the National Driver Register Act of 1982, as amended (49 U.S.C. 30304). If an applicant pleads guilty or no contest, is granted deferred adjudication, or is required by the court to attend classes, make contributions of time or money, receive treatment, submit to any manner of probation or supervision, or forgo appeal of a trial court's conviction, then the Coast Guard will consider the applicant to have received a conviction. A later expungement of the conviction will not negate a conviction unless the Coast Guard is satisfied that the expungement is based upon a showing that the court's earlier conviction was in error.

Credential means any or all of the following:

(1) Merchant mariner's document.

(2) License.

(3) STCW endorsement.

(4) Certificate of registry.

(5) Merchant Mariner Credential.

Criminal record review means the process or action taken by the Coast Guard to determine whether an applicant for, or holder of, a credential is a safe and suitable person to be issued such a credential or to be employed on a vessel under the authority of such a credential.

Dangerous drug means a narcotic drug, a controlled substance, or a controlled-substance analogue (as defined in section 102 of the Comprehensive Drug Abuse and Control Act of 1970 (21 U.S.C. 802)).

Dangerous liquid or DL means a liquid listed in 46 CFR 153.40 of this chapter that is not a liquefied gas as defined in this part. Liquid cargoes in bulk listed in 46 CFR part 153, Table 2, of this chapter are not dangerous-liquid cargoes when carried by non-oceangoing barges.

Day means, for the purpose of complying with the service requirements of this subchapter, 8 hours of watchstanding or day-working not to include overtime. On vessels authorized by 46 U.S.C. 8104 and 46 CFR 15.705, to operate a two-watch system, a 12-hour working day may be creditable as 1 1/2 days of service. On vessels of less than 100 GRT, a day is considered as 8 hours unless the Coast Guard determines that the vessel's operating schedule makes this criteria inappropriate; in no case will this period be less than 4 hours. When computing service on MODUs for any endorsement, a day of MODU service must be a minimum of 4 hours, and no additional credit is received for periods served over 8 hours. For cadet service on a training ship furnished by the Maritime Administration under 46 CFR 310.4, a day may be creditable as 1½ days of service.

Deck crew (excluding individuals serving under their officer endorsement) means, as used in 46 U.S.C. 8702, only the following members of the deck department: able seamen, boatswains, and ordinary seamen.

Deck department means the department aboard a ship responsible for navigation, cargo, command, and control functions.

Designated areas means those areas within pilotage waters for which first-class pilot's endorsements are issued under part 11, subpart G, of this chapter, by the Officer in Charge, Marine Inspection (OCMI). The areas for which first-class pilot's endorsements are issued within a particular Marine Inspection Zone and the specific requirements to obtain them may be obtained from the OCMI concerned.

Designated duty engineer or DDE means a qualified engineer, who may be the sole engineer on vessels with a periodically unmanned engine room.

Designated examiner or DE means a person who has been trained or instructed in techniques of training or assessment on towing vessels and is otherwise qualified to evaluate whether an applicant has achieved the level of proficiency required to hold a towing vessel endorsement on a merchant mariner credential (MMC). This person must be approved by the Coast Guard.

Designated medical examiner means a licensed physician, licensed physician's assistant, or licensed nurse practitioner who has been trained and approved to conduct medical and physical examinations of merchant mariners on behalf of the U.S. Coast Guard and may be delegated limited authority to grant waivers and approve physical/medical suitability for service.

Directly supervised/direct supervision (only when referring to issues related to tankermen) means being in the direct line of sight of the person-in-charge or maintaining direct, two-way communications by a convenient, reliable means, such as a predetermined working frequency over a handheld radio.

Disabled vessel means a vessel that needs assistance, whether docked, moored, anchored, aground, adrift, or underway. This does not mean a barge or any other vessel not regularly operated under its own power.

Document of Continuity means a document issued by the Coast Guard to seafarers who are unwilling or otherwise unable to meet the requirements of § 10.227, for the sole purpose of maintaining an individual's eligibility for renewal of an endorsement.

Domestic voyage means a voyage from one United States port to another United States port, without entering waters under the jurisdiction of another country unless the United States has entered into a treaty or an agreement with that country respecting mutual recognition of national mariner qualifications. This includes a voyage to nowhere that returns to the originating port.

Drug test means a chemical test of an individual's urine for evidence of dangerous drug use.

Dual-mode integrated tug barge means an integrated tug barge (ITB) involving an articulated (flexible) coupling system where the towing unit rolls and heaves (articulates) about a horizontal pivot point. Dual mode units resemble a conventional tug and are capable of towing in other configurations (astern or alongside).

Electro-technical officer means an officer qualified in accordance with the provisions of Regulation III/6 of the STCW Convention.

Electro-technical rating means a rating qualified in accordance with the provisions of Regulation III/7 of the STCW Convention.

Employment assigned to means the total period of time a person is assigned to work on MODUs, including time spent ashore as part of normal crew rotation.

Endorsement is a statement of a mariner's qualifications and, for the purposes of this chapter, includes only those endorsements listed in § 10.109 of this part.

Engine department means the department aboard a ship responsible for the main propulsion and auxiliary systems, and other mechanical, electrical, hydraulic, and refrigeration systems, including deck machinery and cargo-handling equipment.

Entry-level mariner means a mariner holding no rating other than ordinary seaman, wiper, steward's department, or steward's department food handler (F.H.).

Evaluation means processing an application, from the point of receipt to approval or denial of the application, including review of all documents and records submitted with an application as well as those obtained from public records and databases.

Fails a chemical test for dangerous drugs means that the result of a chemical test conducted under 49 CFR part 40 was reported as “positive” by a Medical Review Officer because the chemical test indicated the presence of a dangerous drug at a level equal to or exceeding the levels established in 49 CFR part 40.

First assistant engineer means the engineer officer next in rank to the chief engineer and upon whom the responsibility for the mechanical propulsion and the operation and maintenance of the mechanical and electrical installations of the vessel will fall in the event of the incapacity of the chief engineer.

Great Lakes, for the purpose of calculating service requirements for an endorsement, means the Great Lakes and their connecting and tributary waters, including the Calumet River as far as the Thomas J. O'Brien Lock and Controlling Works (between miles 326 and 327), the Chicago River as far as the east side of the Ashland Avenue Bridge (between miles 321 and 322), and the Saint Lawrence River as far east as the lower exit of Saint Lambert Lock. For purposes of requiring MMCs with rating endorsements, the connecting and tributary waters are not part of the Great Lakes.

Gross register tons or GRT means the gross ton measurement of the vessel under 46 U.S.C. chapter 145, Regulatory Measurement.

Gross tonnage or GT means the gross tonnage measurement of the vessel under 46 U.S.C. chapter 143, Convention Measurement.

Harbor assist means the use of a towing vessel during maneuvers to dock, undock, moor, or unmoor a vessel, or to escort a vessel with limited maneuverability.

High-speed craft type rating (HSC) means an endorsement for specific duty on a particular type and model of high-speed craft (compliant with the high-speed craft code).

Horsepower or HP means, for the purpose of this subchapter, the total maximum continuous shaft horsepower of the entire vessel's main propulsion machinery as determined by the manufacturer. This term is used when describing a vessel's propulsion power and also when placing limitations on an engineer officer license or endorsement. One horsepower equals 0.75 kW.

ILO means the International Labour Organization.

IMO means the International Maritime Organization.

Increase in scope means additional authority added to an existing credential, such as adding a new route or increasing the authorized horsepower or tonnage.

Inland waters means the navigable waters of the United States shoreward of the Boundary Lines as described in part 7 of this chapter, excluding the Great Lakes, and, for towing vessels, excluding the Western Rivers.

Integrated tug barge or ITB means any tug barge combination which, through the use of special design features or a specially designed connection system, has increased seakeeping capabilities relative to a tug and barge in the conventional pushing mode. An ITB can be divided into either a dual-mode ITB or a push-mode ITB. The definitions for those categories can be found elsewhere in this section.

Invalid credential means an MMC, MMD, license, STCW endorsement, or Certificate of Registry that has been suspended or revoked, has expired, has been tampered with, has not been signed, or has been superseded in accordance with § 10.205 of this part.

ISM means the International Safety Management Code.

Kilowatt or kW means 1⅓ horsepower. This term is used when describing a vessel's propulsion power and also when placing limitations on an engineer officer license or endorsement.

Large passenger vessel, for the purposes of subpart H of part 12, and part 15, means a vessel of more than 70,000 gross tons, as measured under 46 U.S.C. 14302 and documented under the laws of the United States, with capacity for at least 2,000 passengers and a coastwise endorsement under 46 U.S.C. chapter 121.

Lifeboatman means a mariner who is qualified to take charge of, lower, and operate survival craft and related survival equipment on a vessel.

Lifeboatman-Limited means a mariner who is qualified to take charge of, lower, and operate liferafts, rescue boats, and other survival equipment on vessels where lifeboats are not installed.

Liquefied gas or LG means a cargo that has a vapor pressure of 172 kPa (25 psia) or more at 37.8°C (100 °F).

Liquefied gas tanker means a tank vessel that is certificated to carry or carries liquefied gases in bulk as cargo or cargo residue. For the purposes of qualifying for an STCW endorsement for advanced liquefied gas tanker cargo operations, this includes tank barges.

Liquid cargo in bulk means a liquid or liquefied gas listed in § 153.40 of this chapter and carried as a liquid cargo or liquid-cargo residue in integral, fixed, or portable tanks, except a liquid cargo carried in a portable tank actually loaded and discharged from a vessel with the contents intact.

Management level means the level of responsibility associated with—

(1) Serving as master, chief mate, chief engineer officer or second engineer officer onboard a seagoing ship; and

(2) Ensuring that all functions within the designated area of responsibility are properly performed.

Marine chemist means a person certificated by the National Fire Protection Association as a marine chemist.

Master means the officer having command of a vessel.

Mate means a qualified officer in the deck department other than the master.

Medical Certificate means a certificate issued by the Coast Guard under 46 CFR part 10, subpart C that serves as proof that the seafarer meets the medical and physical standards for merchant mariners.

Merchant Mariner Credential or MMC means a credential issued by the Coast Guard under 46 CFR part 10. It combines the individual merchant mariner's document, license, and certificate of registry enumerated in 46 U.S.C. subtitle II part E as well as the STCW endorsement into a single credential that serves as the mariner's qualification document, certificate of identification, and certificate of service.

MMC application means the application for the MMC, as well as the application for any endorsement on an MMC.

Mobile offshore drilling unit or MODU means a vessel capable of engaging in drilling operations for the exploration for or exploitation of subsea resources. MODU designs include the following:

(1) Bottom bearing units, which include—

(i) Self-elevating (or jack-up) units with moveable, bottom bearing legs capable of raising the hull above the surface of the sea; and

(ii) Submersible units of ship-shape, barge-type, or novel hull design, other than a self-elevating unit, intended for operating while bottom bearing.

(2) Surface units with a ship-shape or barge-type displacement hull of single or multiple hull construction intended for operating in a floating condition, including semi-submersibles and drill ships.

Month means 30 days, for the purpose of complying with the service requirements of this subchapter.

National Driver Register or NDR means the nationwide repository of information on drivers maintained by the National Highway Traffic Safety Administration under 49 U.S.C. chapter 303.

National officer endorsement means an annotation on an MMC that allows a mariner to serve in the capacities listed in § 10.109(a) of this part. The officer endorsement serves as the license and/or certificate of registry pursuant to 46 U.S.C. subtitle II part E.

National rating endorsement means an annotation on an MMC that allows a mariner to serve in those capacities set out in § 10.109(b) and (c) of this part. The rating endorsement serves as the merchant mariner's document pursuant to 46 U.S.C. subtitle II part E.

NDR-listed convictions means a conviction of any of the following motor vehicle-related offenses or comparable offenses:

(1) Operating a motor vehicle while under the influence of, or impaired by, alcohol or a controlled substance; or

(2) A traffic violation arising in connection with a fatal traffic accident, reckless driving, or racing on the highways.

Near-coastal means ocean waters not more than 200 miles offshore from the U.S. and its possessions, except for MMCs endorsed as Operator of Uninspected Passenger Vessel for which near-coastal is limited to waters not more than 100 miles offshore from the U.S. and its possessions. This would also include those near-coastal waters identified by another Administration when the U.S. has entered into a treaty or an agreement with that country respecting the recognition of the U.S. near-coastal endorsement.

Non-resident alien, for the purposes of subchapter H of part 12, and part 15, means an individual who is not a citizen or alien lawfully admitted to the United States for permanent residence, but who is employable in the United States under the Immigration and Nationality Act (8 U.S.C. 1101 et seq.), including an alien crewman described in section 101(a)(15)(D)(i) of that Act who meets the requirements of 46 U.S.C. 8103(k)(3)(A).

Oceans means the waters seaward of the Boundary Lines as described in 46 CFR part 7. For the purposes of establishing sea service credit, the waters of the Inside Passage between Puget Sound and Cape Spencer, Alaska, and the inland waters of another country are not considered oceans.

Officer endorsement means an annotation on an MMC that allows a mariner to serve in the capacities listed in § 10.109 of this part.

Officer in Charge, Marine Inspection, or OCMI means, for the purposes of this subchapter, the commanding officer of the National Maritime Center, or any person designated as such by the Commandant, in accordance with 46 CFR 1.01-5(b).

Officer in charge of an engineering watch in a manned engine room or designated duty engineer in a periodically unmanned engine room (OICEW) means an engineering officer qualified at the operational level.

Officer in charge of a navigational watch (OICNW) means a deck officer qualified at the operational level.

Offshore installation manager or OIM means an officer restricted to service on MODUs. An assigned offshore installation manager is equivalent to a master on a conventional vessel and is the person designated by the owner or operator to be in complete and ultimate command of the unit.

Oil tanker means a tank vessel that is certificated to carry or carries oil in bulk as cargo or cargo residue. For the purposes of qualifying for an STCW endorsement for advanced oil tanker cargo operations, this includes tank barges.

On location means that a mobile offshore drilling unit is bottom bearing or moored with anchors placed in the drilling configuration.

Operate, operating, or operation (as applied to the manning requirements of vessels carrying passengers) refers to a vessel any time passengers are embarked whether the vessel is underway, at anchor, made fast to shore, or aground.

Operational level means the level of responsibility associated with—

(1) Serving as officer in charge of a navigational or engineering watch, or as designated duty engineer for periodically unmanned machinery spaces, or as radio operator onboard a seagoing ship; and

(2) Maintaining direct control over the performance of all functions within the designated area of responsibility in accordance with proper procedures and under the direction of an individual serving in the management level for that area of responsibility.

Orally assisted examination means an examination as described in 46 CFR, part 11, subpart I of this subchapter administered orally and documented by a Coast Guard examiner.

Overriding operational condition means circumstances in which essential shipboard work cannot be delayed due to safety or environmental reasons, or could not have reasonably been anticipated at the commencement of the voyage.

Participation, when used with regard to the service on transfers required for tankerman by §§ 13.120, 13.203, or 13.303 of this chapter, means either actual participation in the transfers or close observation of how the transfers are conducted and supervised.

Passes a chemical test for dangerous drugs means that the result of a chemical test conducted according to 49 CFR part 40 is reported as “negative” by a Medical Review Officer according to that part.

Periodically unattended engine room means a space containing main propulsion and associated machinery and all sources of main electrical supply which is not at all times manned under all operating conditions, including maneuvering.

PIC means a person in charge.

Pilot of towing vessels means a qualified officer of a towing vessel operated only on inland routes.

Pilotage waters means the navigable waters of the United States, including all inland waters and offshore waters to a distance of 3 nautical miles from the baseline from which the Territorial Sea is measured.

Practical demonstration means the performance of an activity under the direct observation of a designated examiner or qualified assessor for the purpose of establishing that the performer is sufficiently proficient in a practical skill to meet a specified standard of competence or other objective criterion.

Propulsion power means the total maximum continuous-rated output power of the main propulsion machinery of a vessel determined by the manufacturer, in either kilowatts or horsepower, which appears on the ship's Certificate of Registry or other official document and excludes thrusters and other auxiliary machinery.

Public vessel means a vessel that—

(1) Is owned, or demise chartered, and operated by the United States Government or a government of a foreign country; and

(2) Is not engaged in commercial service.

Push-mode ITBs means those ITBs that involve a rigid coupling system and, when not coupled to the barge, are incapable of conducting towing in any other configuration (such as astern or alongside) because, by themselves, they have very limited seakeeping capability. The propelling unit moves as one with the barge unit.

Qualified Assessor or QA means a person who is qualified to evaluate, for STCW endorsements, whether an applicant has demonstrated the necessary level of competence in the task for which the assessment is being made. This person must be individually approved by the Coast Guard.

Qualified instructor means a person who has been trained in instructional techniques and is otherwise qualified to provide required training to candidates for an MMC endorsement. A faculty member employed at a State maritime academy or the U.S. Merchant Marine Academy operated under 46 CFR part 310 and instructing a course on merchant marine officer or rating knowledge, understanding, or proficiency requirements is qualified to serve as a qualified instructor in his or her area of specialization without individual evaluation by the Coast Guard.

Qualified rating means various categories of able seaman, qualified member of the engine department, or tankerman endorsements issued on MMCs.

Quality Standard System or QSS means a set of policies, procedures, processes, and data required to establish and fulfill the organization's objectives.

Raise of grade means an increase in the level of authority and responsibility associated with an officer or rating endorsement, such as from mate to master or second assistant engineer to first assistant engineer.

Rating endorsement is an annotation on an MMC that allows a mariner to serve in those capacities set out in § 10.109 of this part.

Regional examination center or REC means a field office of the National Maritime Center that receives and screens credential applications, conducts approved course oversight, and administers Coast Guard examinations as required by this subchapter.

Rest means a period of time during which the person concerned is off duty, is not performing work (which includes administrative tasks such as chart correction or preparation of port-entry documents), and is allowed to sleep without interruption.

Restricted tankerman endorsement means a valid tankerman endorsement on a merchant mariner credential restricting its holder as the Coast Guard deems appropriate. For instance, the endorsement may restrict the holder to one or a combination of the following: A specific cargo or cargoes; a specific vessel or vessels; a specific facility or facilities; a specific employer or employers; a specific activity or activities (such as loading or unloading in a cargo transfer); or a particular area of water.

Rivers means a river, canal, or other similar body of water designated as such by the Coast Guard.

Safe and suitable person means a person whose prior record, including but not limited to criminal record and/or NDR record, provides no information indicating that his or her character and habits of life would support the belief that permitting such a person to serve under the MMC and/or endorsement sought would clearly be a threat to the safety and security of life or property, detrimental to good discipline, or adverse to the interests of the United States. See 46 CFR 10.211 and 10.213 for the regulations associated with this definition.

Seagoing service means service onboard a ship/vessel relevant to the issue of a credential or other qualification.

Seagoing vessel means a ship that operates beyond the boundary line specified in 46 CFR part 7.

Second engineer officer means an engineer officer next in rank to the chief engineer officer and upon whom the responsibility for the mechanical propulsion and the operation and maintenance of the mechanical and electrical installations of the ship will fall in the event of the incapacity of the chief engineer officer.

Self propelled has the same meaning as the terms “propelled by machinery” and “mechanically propelled.” This term includes vessels fitted with both sails and mechanical propulsion.

Senior company official means the president, vice president, vice president for personnel, personnel director, or similarly titled or responsible individual, or another employee designated in writing by one of these individuals for the purpose of certifying employment.

Service (as used when computing the required service for endorsements) means the time period, in days, a person is assigned to work. On MODUs, this excludes time spent ashore as part of crew rotation.

Ship means a vessel using any mode of propulsion, including sail and auxiliary sail.

Simulated transfer means a transfer practiced in a course meeting the requirements of § 13.121 of this subchapter that uses simulation to meet part of the service on transfers required for tankerman by §§ 13.203 or 13.303 of this subchapter.

Staff officer means a person who holds an MMC with an officer endorsement listed in § 10.109(a)(36) through (a)(43) of this part.

Standard of competence means the level of proficiency to be achieved for the proper performance of duties onboard vessels according to national and international criteria.

Steward's department means the department that includes entertainment personnel and all service personnel, including wait staff, housekeeping staff, and galley workers, as defined in the vessel security plan approved by the Secretary under 46 U.S.C. 70103(c). These personnel may also be referred to as members of the hotel department on a large passenger vessel.

STCW means the International Convention on Standards of Training, Certification and Watchkeeping for Seafarers, 1978, as amended (incorporated by reference, see § 10.103 of this subpart).

STCW Code means the Seafarers' Training, Certification and Watchkeeping Code (incorporated by reference, see § 10.103 of this subpart).

STCW endorsement means an annotation on an MMC that allows a mariner to serve in those capacities under § 10.109(d) of this subpart. The STCW endorsement serves as evidence that a mariner has met the requirements of the STCW Convention.

Support level means the level of responsibility associated with performing assigned tasks, duties, or responsibilities onboard a seagoing ship under the direction of an individual serving in the operational or management level.

Tank barge means a non-self-propelled tank vessel.

Tank vessel means a vessel that is constructed or adapted to carry, or that carries, oil or hazardous material in bulk as cargo or cargo residue, and that—

(1) Is a vessel of the United States;

(2) Operates on the navigable waters of the United States; or

(3) Transfers oil or hazardous material in a port or place subject to the jurisdiction of the United States.

Tankerman assistant means a person holding a valid “Tankerman-Assistant” endorsement on his or her MMC. See 46 CFR, part 13, subpart D.

Tankerman engineer means a person holding a valid “Tankerman-Engineer” endorsement on his or her MMC. See 46 CFR part 13, subpart E.

Tankerman PIC means a person holding a valid “Tankerman-PIC” endorsement on his or her MMC. See 46 CFR part 13, subpart B.

Tankerman PIC (Barge) means a person holding a valid “Tankerman-PIC (Barge)” endorsement on his or her MMC. See 46 CFR part 13, subpart C.

Tankship means any self-propelled tank vessel constructed or adapted primarily to carry oil or hazardous material in bulk as cargo or as cargo residue.

Training program means a combination of training, practical assessment, and service which provides an individual with all or part of the necessary knowledge, understanding, and proficiency required for a specific qualification.

Transfer means any movement of fuel, dangerous liquid, or liquefied gas as cargo in bulk or as cargo residue to or from a vessel by means of pumping, gravitation, or displacement.

Transportation Worker Identification Credential or TWIC means an identification credential issued by the Transportation Security Administration under 49 CFR part 1572.

Underway means that a vessel is not at anchor, made fast to the shore, or aground. When referring to a mobile offshore drilling unit (MODU), underway means that the MODU is not in an on-location or laid-up status and includes that period of time when the MODU is deploying or recovering its mooring system.

Undocumented vessel means a vessel not required to have a certificate of documentation issued under the laws of the United States.

Unlimited means an annotation on an MMC authorizing service on vessels of any tonnage or any propulsion power.

Vessel personnel with designated security duties means a person, excluding the designated security officer (e.g., Company Security Officer (CSO), as defined in 33 CFR chapter I, subchapter H, and Vessel Security Officer (VSO)), having specific security duties and responsibilities in accordance with the ship security plan.

Vessel Security Officer (VSO) means a person onboard the vessel accountable to the Master and designated by the Company as responsible for security of the vessel, including implementation and maintenance of the Vessel's Security Plan, and for liaison with the Facility Security Officer and the vessel's Company Security Officer.

Western Rivers means—

(1) The Mississippi River;

(2) The Mississippi River's tributaries, South Pass, and Southwest Pass, to the navigational demarcation lines dividing the high seas from harbors, rivers, and other inland waters of the United States;

(3) The Port Allen-Morgan City Alternate Route;

(4) That part of the Atchafalaya River above its junction with the Port Allen-Morgan City Alternate Route including the Old River and the Red River; and

(5) Those waters specified in 33 CFR 89.25.

Year means 360 days for the purpose of complying with the service requirements of this subchapter.

9. Revise § 10.109 to read as follows:

§ 10.109 Classification of endorsements.

(a) National officer endorsements. The following national officer endorsements are established in part 11 of this subchapter. The endorsements indicate that an individual holding a valid MMC with this endorsement is qualified to serve in that capacity and the endorsement has been issued under the requirements contained in part 11 of this subchapter:

(1) Master.

(2) Chief mate.

(3) Second mate.

(4) Third mate.

(5) Mate.

(6) Master of towing vessels.

(7) Master of towing vessels, limited.

(8) Mate (pilot) of towing vessels.

(9) Apprentice mate (Steersman).

(10) Apprentice mate (Steersman), limited.

(11) Assistance towing.

(12) Offshore installation manager (OIM).

(13) Barge supervisor (BS).

(14) Ballast control operator (BCO).

(15) Operator of uninspected passenger vessels (OUPV).

(16) Master of uninspected fishing industry vessels.

(17) Mate of uninspected fishing industry vessels.

(18) Master (OSV).

(19) Chief mate (OSV).

(20) Mate (OSV).

(21) Chief engineer.

(22) Chief engineer (limited).

(23) First assistant engineer.

(24) Second assistant engineer.

(25) Third assistant engineer.

(26) Assistant engineer (limited).

(27) Designated duty engineer (DDE).

(28) Chief engineer (OSV).

(29) Assistant engineer (OSV).

(30) Chief engineer MODU.

(31) Assistant engineer MODU.

(32) Chief engineer uninspected fishing industry vessels.

(33) Assistant engineer uninspected fishing industry vessels.

(34) Radio officer.

(35) First-class pilot.

(36) Chief purser.

(37) Purser.

(38) Senior assistant purser.

(39) Junior assistant purser.

(40) Medical doctor.

(41) Professional nurse.

(42) Marine physician assistant.

(43) Hospital corpsman.

(44) High-speed craft type rating.

(45) Radar observer.

(b) National rating endorsements. The following national rating endorsements are established in part 12 of this subchapter. The endorsements indicate that an individual holding a valid MMC with this endorsement is qualified to serve in that capacity and the endorsement has been issued under the requirements contained in part 12 of this subchapter:

(1) Able seaman:

(i) Unlimited;

(ii) Limited;

(iii) Special;

(iv) Special (OSV);

(v) Sail; and

(vi) Fishing industry.

(2) Ordinary seaman.

(3) Qualified member of the engine department (QMED), including the following specialty endorsements:

(i) Oiler;

(ii) Fireman/Watertender;

(iii) Junior engineer;

(iv) Pumpman/Machinist; and

(v) Electrician/Refrigerating engineer.

(4) Lifeboatman.

(5) Lifeboatman-Limited.

(6) Wiper.

(7) Steward's department.

(8) Steward's department (F.H.).

(9) Cadet (deck or engine).

(10) Student observer.

(11) Apprentice engineer.

(12) Apprentice mate.

(c) The following ratings are established in part 13 of this subchapter. The national endorsements indicate that an individual holding a valid MMC with this endorsement is qualified to serve in that capacity and the endorsement has been issued under the requirements contained in part 13 of this subchapter:

(1) Tankerman-PIC.

(2) Tankerman-PIC (Barge).

(3) Restricted Tankerman-PIC.

(4) Restricted Tankerman-PIC (Barge).

(5) Tankerman assistant.

(6) Tankerman engineer.

(d) STCW endorsements. The following STCW endorsements are issued according to the STCW Convention, the STCW Code, and parts 11, 12, and 13 of this subchapter. The endorsements indicate that an individual holding a valid MMC with this endorsement is qualified to serve in that capacity and the endorsement has been issued under the requirements contained in parts 11, 12 or 13 of this subchapter as well as the STCW Convention and STCW Code (incorporated by reference, see § 10.103 of this subpart):

(1) Master.

(2) Chief mate.

(3) Officer in charge of a navigational watch (OICNW).

(4) Chief engineer officer.

(5) Second engineer officer.

(6) Officer in charge of an engineering watch in a manned engineroom or designated duty engineer in a periodically unmanned engineroom (OICEW).

(7) Electro-technical officer (ETO).

(8) Rating forming part of a navigational watch (RFPNW).

(9) Able seafarer-deck.

(10) Rating forming part of an engineering watch in a manned engineroom or designated to perform duties in a periodically unmanned engineroom (RFPEW).

(11) Able seafarer-engine.

(12) Electro-technical rating.

(13) Basic training (BT).

(14) Advanced firefighting.

(15) Proficiency in survival craft and rescue boats other than fast rescue boats (PSC).

(16) Proficiency in survival craft and rescue boats other than fast rescue boats—limited (PSC—limited).

(17) Proficiency in fast rescue boats.

(18) Person in charge of medical care.

(19) Medical first-aid provider.

(20) GMDSS at-sea maintainer.

(21) GMDSS operator.

(22) Advanced oil tanker cargo operation.

(23) Advanced chemical tanker cargo operation.

(24) Advanced liquefied gas tanker cargo operation.

(25) Basic oil and chemical tanker cargo operation.

(26) Basic liquefied gas tanker cargo operation.

(27) Vessel Security Officer.

(28) Vessel personnel with designated security duties.

(29) Security awareness.

(30) High-speed craft (HSC) type rating certificate.

§ 10.201 [Amended]

10. Amend § 10.201 as follows:

a. In paragraph (a), remove the words “incorporated by reference in § 10.103” and add, in their place, the words “(incorporated by reference, see § 10.103 of this part)”; and

b. In paragraph (c), remove the words “National Maritime Center or at any Regional Examination Center during usual business hours, or through the mail” and add, in their place, the words “Coast Guard”.

§ 10.205 [Amended]

11. Amend § 10.205 as follows:

a. Revise paragraph (a) to read as set forth below;

b. In paragraph (b), after the words “All endorsements”, add the words “, unless otherwise noted,”;

c. In paragraph (c), remove the word “one” and add, in its place, the numeral “1” and remove the text “§ 10.227(f)” and add, in its place, the text “§ 10.227(h)”;

d. In paragraph (d), after the words “in accordance with § 10.227”, add the words “of this part”; and after the words “becomes invalid”, add the words “unless otherwise noted in paragraph (a) of this section”.

e. Remove paragraph (f), and redesignate paragraphs (g) and (h) as paragraphs (f) and (g), respectively; and

f. Add new paragraph (h) to read as follows:

§ 10.205 Validity of a merchant mariner credential.

(a) An MMC is valid for a term of 5 years from the date of issuance. Except upon the written request for the immediate issuance by the applicant, the Coast Guard will post-date the issuance of an MMC renewal that includes no other transactions up to 8 months from the date that the Coast Guard accepts a complete application as required in this part. If the expiration date of the mariner's active credential is beyond 8 months of the date that the Coast Guard accepts a complete application as required in this part, the new credential issue date will be 8 months from the date of application acceptance at which time the currently active credential will become invalid in accordance with paragraph (d) of this section. Otherwise, the new credential issue validity date will coincide with the expiration date of the active credential held by the mariner. All other MMC transactions will be processed for immediate issuance.

* * * * *

(h) When a Document of Continuity is replaced with an MMC re-issued in accordance with § 10.227 of this part, the Document of Continuity that has been replaced becomes invalid. In the event that not all endorsements on a Document of Continuity are activated, a new Document of Continuity will be issued for the remaining endorsements.

§ 10.207 [Amended]

12. In § 10.207, after the words “a unique serial number,”, add the words “called the mariner reference number,”.

13. Revise § 10.209 to read as follows:

§ 10.209 General application procedures.

(a) The applicant for an MMC, whether for an original, renewal, duplicate, raise of grade, or a new endorsement on a previously issued MMC, must establish that he or she satisfies all the requirements for the MMC and endorsement(s) sought before the Coast Guard will issue the MMC. This section contains the general requirements for all applicants. Additional requirements for duplicates, renewals, new endorsements, and raises of grade appear later in this part.

(b) The Coast Guard may refuse to process an incomplete MMC application. The requirements for a complete application for an original MMC are contained in § 10.225 of this part, the requirements for a renewal MMC application are contained in § 10.227 of this part, the requirements for a duplicate MMC application are contained in § 10.229 of this part, and the requirements for an application for a new endorsement or raise of grade are contained in § 10.231 of this part.

(c) Applications are valid for 12 months from the date that the Coast Guard approves the application.

(d) The application may be submitted in person, by mail, fax, or other electronic means. A complete MMC application, which is described in §§ 10.225, 10.227, 10.229, and 10.231 may include—

(1) The application, consent for National Driver Register (NDR) check, and notarized oath on Coast Guard-furnished forms, and the evaluation fee required by § 10.219 of this part;

(2) The applicant's continuous discharge book, certificate of identification, MMD, MMC, license, STCW endorsement, Certificate of Registry (COR), or, if it has not expired, a photocopy of the credential, including the back and all attachments;

(3) Proof, documented on CG-719K or CG-719K/E, as appropriate, that the applicant passed the applicable vision, hearing, medical, or physical exam as required by subpart C of this part, or an unexpired medical certificate issued by the Coast Guard;

(4) Copies of course completion certificates or other evidence of course completion;

(5) Evidence of sea service, or an accepted substitute for sea service, if required;

(6) For an endorsement as a medical doctor or professional nurse as required in § 11.807 of this subchapter, evidence that the applicant holds a currently valid, appropriate license as physician, surgeon, or registered nurse, issued under the authority of a state or territory of the United States, the Commonwealth of Puerto Rico, or the District of Columbia. Any MMC issued will retain any limitation associated with the medical license;

(7) Any certificates or other supplementary materials required to show that the mariner meets the mandatory requirements for the specific endorsement sought, as established in parts 11, 12 or 13 of this subchapter; and

(8) An open-book exercise, in accordance with § 10.227(e)(1) of this part.

(e) The following requirements must be satisfied before an original or renewal MMC, or new endorsement or a raise of grade added to a previously issued MMC, will be issued. These materials will be added to the individual's record by the Coast Guard:

(1) Determination of safety and suitability. No MMC will be issued as an original or reissued with a new expiration date, and no new officer endorsement will be issued if the applicant fails the criminal record review as set forth in § 10.211 of this part.

(2) NDR review. No MMC will be issued as an original or reissued with a new expiration date, and no new officer endorsement will be issued if the applicant fails the NDR review as set forth in § 10.213 of this part.

(3) Information supplied by the Transportation Security Administration (TSA). No MMC or endorsement will be issued until the Coast Guard receives the following information from the applicant's TWIC enrollment: the applicant's fingerprints, FBI number and criminal record (if applicable), photograph, proof of citizenship, or Nationality with proof of legal resident status (if applicable). If the information is not available from TSA, the mariner may be required to visit a Regional Exam Center or a TWIC enrollment center to provide this information.

(f) Upon determining that the applicant satisfactorily meets all requirements for an MMC or an endorsement thereon, the Coast Guard will issue the properly endorsed MMC to the applicant. The Coast Guard will not issue an MMC until it has received proof that the mariner holds a valid TWIC.

(g) When a new MMC is issued, the mariner must return any previously issued and unexpired MMC, license, MMD, COR, or STCW endorsement to the Coast Guard, unless the new MMC is being issued to replace a lost or stolen credential.

(h) No MMC will be issued if the applicant fails a chemical test for dangerous drugs as required in §§ 10.225(b)(5), 10.227(d)(5), and 10.231(c)(6).

(i) Ceremonial licenses. A mariner may obtain a ceremonial license when applying for his or her credential or Document of Continuity.

§ 10.211 [Amended]

14. Amend § 10.211 as follows:

a. Remove the words “table 10.211(g)” wherever they appear and add, in their place, the words “table 1 to § 10.211”;

b. In paragraph (a)(1), after the words “written disclosure of all”, add the word “prior”;

c. In paragraph (d), remove the word “disapproved” and add, in its place, the word “denied”;

d. In paragraph (e), remove the word “disapproved” and add, in its place, the word “denied”; and remove the word “disapproval” and add, in its place, the word “denial”;

e. In paragraph (g), after the words “The Coast Guard will use table 10.211(g)”, add the words “of this section”;

f. In paragraphs (h) and (i), after the words “table 10.211(g)” wherever they appear, add the words “of this section”;

g. In paragraph (j), remove the word “their” in the first sentence and add, in its place, the words “his or her”; and remove the word “disapprove” in the last sentence and add, in its place, the word “deny”; and

h. In paragraph (k), remove the word “their” in the first sentence and add, in its place, the words “his or her”; and after the words “in table 10.211(g)” wherever they appear, add the words “of this section”.

15. Revise § 10.213 to read as follows:

§ 10.213 National Driver Register.

(a) No MMC will be issued as an original or reissued with a new expiration date, and no new officer endorsement will be issued, unless the applicant consents to a check of the NDR for offenses described in section 205(a)(3)(A) or (B) of the NDR Act (i.e., operation of a motor vehicle while under the influence of, or impaired by, alcohol or a controlled substance; and any traffic violations arising in connection with a fatal traffic accident, reckless driving, or racing on the highways).

(b) The Coast Guard will not consider NDR-listed civil convictions that are more than 3 years old from the date of request unless that information relates to a current suspension or revocation of the applicant's license to operate a motor vehicle. The Coast Guard may determine minimum and maximum assessment periods for NDR-listed criminal convictions using table 10.213(c) of this section. An applicant conducting simultaneous MMC transactions is subject to only one NDR check.

(c) The guidelines in table 1 to paragraph (c) will be used by the Coast Guard in evaluating applicants who have drug or alcohol related NDR-listed convictions. Non-drug or alcohol related NDR-listed convictions will be evaluated by the Coast Guard under table 1 to § 10.211 of this part as applicable. The Coast Guard may consider non-drug or alcohol related NDR-listed convictions that are more than 3 years old from the date of the request when the information relates to a current suspension or revocation of the applicant's license to operate a motor vehicle.

Table 1 to § 10.213(c)—Guidelines for Evaluating Applicants for MMCs Who Have NDR Motor Vehicle Convictions Involving Dangerous Drugs or Alcohol ¹
Number of convictions | Date of conviction | Assessment period
1 | Less than 1 year | 1 year from date of conviction.
1 | More than 1, less than 3 years | Application will be processed, unless suspension, or revocation ² is still in effect. Applicant will be advised that additional conviction(s) may jeopardize merchant mariner credentials.
1 | More than 3 years old | Application will be processed.
2 or more | Any less than 3 years old | 1 year since last conviction and at least 3 years from 2nd most recent conviction, unless suspension or revocation is still in effect.
2 or more | All more than 3 years old | Application will be processed unless suspension or revocation is still in effect.
¹ Any applicant who has ever been the user of, or addicted to the use of, a dangerous drug must meet the requirements of paragraph (f) of this section.
² Suspension or revocation, when referred to in table 10.213, means a State suspension or revocation of a motor vehicle operator's license.

(d) Any application may be denied if information from the NDR check leads the Coast Guard to determine that the applicant cannot be entrusted with the duties and responsibilities of the endorsement for which the application is made. If an application is denied, the Coast Guard will notify the applicant in writing of the reason(s) for denial and advise the applicant that the appeal procedures in subpart 1.03 of part 1 of this chapter apply. No examination will be given pending decision on appeal.

(e) Before denying an application because of information received from the NDR, the Coast Guard will make the information available to the applicant for review and written comment. The applicant may submit records from the applicable State concerning driving record and convictions to the Coast Guard processing the application. The Coast Guard will hold an application with NDR-listed convictions pending the completion of the evaluation and delivery by the individual of the underlying State records.

(f) If an applicant has one or more alcohol or dangerous drug-related criminal or NDR-listed convictions, if the applicant has ever been the user of, or addicted to the use of, a dangerous drug, or if the applicant applies before the minimum assessment period for his or her conviction has elapsed, the Coast Guard may consider the following factors, as applicable, in assessing the applicant's suitability to hold an MMC. This list is intended as a guide for the Coast Guard. The Coast Guard may consider other factors which it judges appropriate to a particular applicant, such as—

(1) Proof of completion of an accredited alcohol or drug abuse rehabilitation program;

(2) Active membership in a rehabilitation or counseling group, such as Alcoholics Anonymous or Narcotics Anonymous;

(3) Character references from persons who can attest to the applicant's sobriety, reliability, and suitability for employment in the merchant marine, including parole or probation officers;

(4) Steady employment; and

(5) Successful completion of all conditions of parole or probation.

§ 10.215 [Removed]

16. Remove § 10.215

17. Revise § 10.217 to read as follows:

§ 10.217 Merchant mariner credential application and examination locations.

(a) Applicants for an MMC may apply to any of the Regional Examination Centers (RECs) or any other location designated by the Coast Guard. Applicants may contact the National Maritime Center at 100 Forbes Drive, Martinsburg, WV 25404, by telephone 1-888-427-5662 or 304-433-3400, or by email at IASKNMC@uscg.mil. A list of locations approved for application submittal is available through the Coast Guard Web site at http://www.uscg.mil/nmc.

(b) Exam Locations. (1) Coast Guard units abroad may conduct exams for ratings at locations other than the RECs, but are not prepared to conduct practical examinations.

(2) The Coast Guard may designate additional exam facilities/locations to provide services to applicants for MMCs.

18. Revise § 10.219 to read as follows:

§ 10.219 Fees.

(a) Use table 1 to § 10.219(a) to calculate the mandatory fees for MMCs and associated endorsements.

Table 1 to § 10.219(a)—Fees
If you apply for | And you need: Evaluation then the fee is . . . | And you need: Examination then the fee is . . . | And you need: Issuance then the fee is . . .
MMC with officer endorsement:
Original:
Upper level ¹ | $100 | $110 | $45
Lower level ² | 100 | 95 | 45
Renewal | 50 | 45 | 45
Raise of grade | 100 | 45 | 45
Modification or removal of limitation or scope | 50 | 45 | 45
Radio officer endorsement:
Original | 50 | 45 | 45
Renewal | 50 | n/a | 45
Staff officer endorsements:
Original | 90 | n/a | 45
Renewal | 50 | n/a | 45
MMC with rating endorsement:
Original endorsement for ratings other than qualified ratings | 95 | n/a | 45
Original endorsement for qualified rating | 95 | 140 | 45
Upgrade or raise of Grade | 95 | 140 | 45
Renewal endorsement for ratings other than qualified ratings | 50 | n/a | 45
Renewal endorsement for qualified rating | 50 | 45 | 45
Modification or removal of limitation or scope | 50 | 45 | 45
STCW endorsement:
Original | (⁴) | (⁴) | (⁴)
Renewal | (⁴) | (⁴) | (⁴)
Reissue, replacement, and duplicate | n/a | n/a | ³ 45
¹ Upper level means credentials authorizing service on vessels of any gross tons/unlimited tonnage or unlimited propulsion power.
² Lower level means credentials authorizing service on vessels of less than 1,600 GRT/3,000 GT.
³ Duplicate for MMC lost as result of marine casualty—No Fee.
⁴ No Fee.

(b) Fee payment procedures. Applicants may pay—

(1) All fees required by this section at the time the application is submitted; or

(2) A fee for each phase as follows:

(i) An evaluation fee when the application is submitted.

(ii) An examination fee before the first examination section is taken.

(iii) An issuance fee before issuance of the MMC.

(c) If the examination is administered at a place other than a Regional Examination Center (REC), the examination fee must be paid to the REC at least one week before the scheduled examination date.

(d) Unless the Coast Guard provides additional payment options, fees must be paid as follows:

(1) Fee payments must be for the exact amount.

(2) Fee payments may be made by electronic payment in a manner specified by the Coast Guard. For information regarding current forms of electronic payment, go to the National Maritime Center's (NMC) Web site, www.uscg.mil/nmc. To assist with the automation of mariner credential applications, applicants are encouraged to pay the fees electronically.

(3) Payments may be made by cash, check, money order, or credit card.

(4) Payments submitted by mail may not be made in cash. Mailed payments should specify the type of credential sought and the type of fee (e.g., evaluation, examination, issuance) being paid. The address for sending payment by mail can be found at the NMC Web site, www.uscg.mil/nmc.

(5) Checks or money orders must be made payable to the U.S. Coast Guard, and the full legal name and last four digits of applicant's social security number must appear on the front of each check or money order.

(e) Unless otherwise specified in this part, when two or more endorsements are processed on the same application the fees will be as follows:

(1) Evaluation fees. If an applicant simultaneously applies for a rating endorsement and a deck or engineer officer's endorsement, only the evaluation fee for the officer's endorsement will be charged. If an applicant simultaneously applies for a staff officer or radio officer endorsement along with the deck or engineer officer endorsement, only the evaluation fee for the deck or engineer officer's endorsement will be charged. No evaluation fee is charged for an STCW endorsement.

(2) Examination fees. One examination fee will be charged for each exam or series of exams for an original, raise of grade, or renewal of an endorsement on an MMC taken within 1 year from the date of the application approval. An examination fee will also be charged to process an open-book exercise used to renew an MMC. If an officer endorsement examination under part 11 of this chapter also fulfills the examination requirements in part 12 of this chapter for rating endorsements, only the fee for the officer endorsement examination is charged.

(3) Issuance fees. Only one issuance fee will be charged for each MMC issued, regardless of the number of endorsements placed on the credential. There is no fee for a Document of Continuity.

(f) The Coast Guard may assess additional charges to anyone to recover collection and enforcement costs associated with delinquent payments or failure to pay a fee. The Coast Guard will not provide credentialing services to a mariner who owes money for credentialing services previously provided.

(g) Anyone who fails to pay a fee or charge established under this section is liable to the United States Government for a civil penalty of not more than $6,500 for each violation.

(h) No-fee MMC for certain applicants. For the purpose of this section, a no-fee MMC applicant is a person who is a volunteer or a part- or full-time employee of an organization that is—

(1) Charitable in nature;

(2) Not for profit; and

(3) Youth oriented.

(i) Determination of eligibility. (1) An organization may submit a written request to U.S. Coast Guard National Maritime Center, 100 Forbes Drive, Martinsburg, WV 25404, in order to be considered an eligible organization under the criteria set forth in paragraph (h) of this section. With the written request, the organization must provide evidence of its status as a youth-oriented, not-for-profit, charitable organization.

(2) The following organizations are accepted by the Coast Guard as meeting the requirements of paragraph (h) of this section and need not submit evidence of their status: Boy Scouts of America, Sea Explorer Association, Girl Scouts of the United States of America, and Young Men's Christian Association of the United States of America.

(j) A letter from an organization determined eligible under paragraph (h) of this section must also accompany the person's MMC application to the Coast Guard. The letter must state that the purpose of the person's application is solely to further the conduct of the organization's maritime activities. The applicant will then be eligible under this section to obtain a no-fee MMC if other requirements for the MMC are met.

(k) An MMC issued to a person under paragraph (h) of this section will be endorsed restricting its use to vessels owned or operated by the sponsoring organization.

(l) The holder of a no-fee MMC issued under paragraph (h) of this section may have the restriction removed by paying the appropriate evaluation, examination, and issuance fees that would have otherwise applied.

§ 10.221 [Amended]

19. Amend § 10.221 as follows:

a. In paragraph (a)(1), remove the word “part” and add, in its place, the word “subchapter”; and

b. In paragraph (a)(2), remove the section number “§ 12.40-11” and add, in its place, the section number “§ 12.809”.

20. Amend § 10.223 as follows:

a. In paragraphs (c)(3)(i), (c)(3)(ii), and (c)(3)(iii), remove the word “chapter” and add, in its place, the word “subchapter”; and

b. Revise paragraphs (c)(2) and (c)(3)(iv) to read as set forth below.

§ 10.223 Modification or removal of limitations or scope.

* * * * *

(c) * * *

(2) Proof that the mariner either holds a valid TWIC or has applied for a TWIC.

(3) * * *

(iv) The mandatory requirements for STCW endorsements are contained in parts 11, 12, and 13 of this subchapter.

* * * * *

21. Revise § 10.225 to read as follows:

§ 10.225 Requirements for original merchant mariner credentials.

(a) An applicant must apply as an original if the MMC sought is—

(1) The first credential issued to the applicant;

(2) The first credential issued to applicants after their previous credential has expired beyond the grace period and they do not hold a Document of Continuity under § 10.227(g) of this part or an equivalent unexpired continuity endorsement on their license or MMD; or

(3) The first credential issued to applicants after their previous credential was revoked pursuant to § 10.235 of this part.

(b) A complete application for an original MMC must contain the following, except as otherwise noted in § 10.227(i) of this subpart:

(1) A completed, signed application.

(2) Proof that the mariner either holds a valid TWIC or has applied for a TWIC.

(3) All supplementary materials required to show that the mariner meets the mandatory requirements for all endorsements sought as follows:

(i) The mandatory requirements for officer endorsements are contained in part 11 of this subchapter.

(ii) The mandatory requirements for rating endorsements are contained in part 12 of this subchapter.

(iii) The mandatory requirements for tanker rating endorsements are contained in part 13 of this subchapter.

(iv) The mandatory requirements for STCW endorsements are contained in parts 11, 12, and 13 of this subchapter.

(4) The appropriate fee as set forth in § 10.219 of this part.

(5) Evidence of having passed a chemical test for dangerous drugs or of qualifying for an exemption from testing in § 16.220 of this subchapter.

(6) Where sea service is required, documentary evidence in accordance with § 10.232 of this part.

(7) Proof, documented on CG-719-K or CG-719-K/E, as appropriate, that the applicant passed all applicable vision, hearing, medical, and/or physical exams as required by subpart C of this part or a valid medical certificate issued by the Coast Guard.

(8) Consent to a Coast Guard check of the NDR for offenses described in section 205(a)(3)(A) or (B) of the National Driver Register Act of 1982, as amended.

(9) The oath as required in paragraph (c) of this section.

(c) Oath. Every person who receives an original MMC must first take an oath, before an official authorized to give such an oath, that he or she will faithfully and honestly, according to his or her best skill and judgment, without concealment or reservation, perform all the duties required by law and obey all lawful orders of superior officers. An oath may be administered by any Coast Guard-designated individual or any person legally permitted to administer oaths in the jurisdiction where the person taking the oath resides. An oath administered at a location other than the Coast Guard must be verified in writing by the administering official and submitted to the same Regional Examination Center (REC) where the applicant applied for his or her MMC. This oath remains binding for any subsequently issued MMC and endorsements added to the MMC, unless specifically renounced in writing.

22. Revise § 10.227 to read as follows:

§ 10.227 Requirements for renewal.

(a) Except as provided in paragraph (g) of this section, an applicant for renewal of a credential must establish possession of all of the necessary qualifications before the MMC will be renewed.

(b) A credential may be renewed at any time during its validity and for 1 year after expiration.

(c) No credential will be renewed if it has been suspended without probation or revoked as a result of action under part 5 of this chapter or if facts that would render a renewal improper have come to the attention of the Coast Guard.

(d) Except as provided in paragraph (g) of this section, a complete application for renewal must contain the following:

(1) A completed, signed application.

(2) Proof that the mariner either holds a valid TWIC or has applied for a TWIC.

(3)The appropriate fee as set forth in § 10.219 of this part.

(4) Any uncanceled MMD, MMC, license, STCW endorsement, Certificate of Registry (COR), or Document of Continuity held by the applicant. If one or more of these credentials are still valid at the time of application, a photocopy—front, back, and all attachments—will satisfy this requirement.

(5) Evidence of having passed a chemical test for dangerous drugs or of qualifying for an exemption from testing in § 16.220 of this subchapter.

(6) Applicants seeking a national endorsement must either hold an unexpired medical certificate or submit a medical certificate application.

(7) Consent to a Coast Guard check of the NDR for offenses described in section 205(a)(3)(A) or (B) of the National Driver Register Act of 1982, as amended.

(e) Except as provided in paragraph (e)(8) of this section and 46 CFR 13.120, the applicant must meet the following professional requirements for renewal:

(1) The applicant must either—

(i) Present evidence of at least 1 year of sea service during the past 5 years;

(ii) Pass a comprehensive, open-book exercise covering the general subject matter contained in appropriate sections of subpart (I) of this part;

(iii) Complete an approved refresher training course;

(iv) Provide evidence of employment as a qualified instructor or in a position closely related to the operation, construction, or repair of vessels (either deck or engineer as appropriate) for at least 3 years during the past 5 years. An applicant for a deck license or officer endorsement with this type of employment must also demonstrate knowledge on an applicable Rules of the Road open-book exercise; or

(v) Provide evidence of being a qualified instructor who has taught a Coast Guard-approved or -accepted course relevant to the endorsement or credential being applied for, at least twice within the past 5 years, therefore meeting the standards needed to receive a course completion certificate for that course.

(2) The qualification requirements for renewal of radar observer endorsement as contained in § 11.480 of this subchapter.

(3) Additional qualification requirements for renewal of an officer endorsement as first-class pilot as contained in § 11.713 of this subchapter.

(4) An applicant for renewal of a radio officer's endorsement must, in addition to meeting the requirements of this section, present a copy of a currently valid license as first- or second-class radiotelegraph operator issued by the Federal Communications Commission.

(5) An applicant for renewal of an endorsement as medical doctor or professional nurse must, in addition to meeting the requirements of this section, present evidence that he or she holds a currently valid, appropriate license as physician, surgeon, or registered nurse issued under the authority of a State or territory of the United States, the Commonwealth of Puerto Rico, or the District of Columbia. Any such renewal will retain the limitations placed upon the medical license by the issuing body. There are no professional requirements for renewal of an endorsement as marine physician assistant or hospital corpsman.

(6) An applicant for renewal of an endorsement as master or mate (pilot) of towing vessels, in addition to the other requirements in this paragraph, must also submit satisfactory evidence of—

(i) Having completed a practical demonstration of maneuvering and handling a towing vessel to the satisfaction of a designated examiner; or

(ii) Ongoing participation in training and drills during the validity of the license or MMC being renewed.

(7) An applicant seeking to renew a tankerman endorsement must meet the additional requirements listed in § 13.120 of this subchapter.

(8) There are no professional requirements for renewal for the following endorsements:

(i) Staff officers (all types).

(ii) Ordinary seaman.

(iii) Wiper.

(iv) Steward's department.

(v) Steward's department (F.H.).

(vi) Cadet.

(vii) Student observer.

(viii) Apprentice engineer.

(ix) Apprentice mate (issued under part 12 of this subchapter).

(x) Person in charge of medical care.

(xi) Medical first-aid provider.

(xii) GMDSS at-sea maintainer.

(xiii) GMDSS operator.

(f) Except as otherwise provided, each candidate for a renewal of an STCW endorsement must meet the applicable requirements of part 11, subpart C, and/or part 12, subpart F.

(g) Document of Continuity. (1) Applicants for renewal of national endorsements, who are unwilling or otherwise unable to meet the requirements of paragraph (d) of this section, including but not limited to the medical and physical standards of subpart C of this part, suitability standards of § 10.211 of this part, drug tests, professional requirements, and TWIC, may apply for a Document of Continuity issued by the Coast Guard. Documents of Continuity do not expire and are issued solely to maintain an individual's eligibility for renewal. A Document of Continuity does not entitle an individual to serve as a merchant mariner. A holder of a Document of Continuity may obtain a properly endorsed, valid MMC at any time by satisfying the requirements for renewal as provided in paragraphs (d), (e), or (f) of this section as applicable. When a valid MMC is issued to replace a previously held Document of Continuity, the previously issued Document of Continuity becomes void.

(2) Applications for a Document of Continuity must include the following:

(i) The endorsements to be placed into continuity.

(ii) An application including a signed statement from the applicant attesting to an awareness of the limited purpose of the Document of Continuity, his or her inability to serve, and the requirements to obtain an MMC.

(3) If not all MMC endorsements are to be converted into a Document of Continuity, a new MMC will be issued with the active endorsements. Once the new MMC and/or Document of Continuity is issued the previous MMC is no longer valid and must be returned to the Coast Guard.

(4) STCW endorsements may not be placed in continuity. If an individual continues to maintain a valid MMC while placing specific national endorsements into continuity, those STCW endorsements associated with the national endorsements that were placed in continuity are no longer valid.

(5) No credential expired beyond the 12-month administrative grace period in paragraph (h) of this section can be converted into a Document of Continuity.

(6) A holder of a Document of Continuity may obtain a properly endorsed, valid MMC, including STCW endorsements, at any time by satisfying the requirements for renewal as provided in paragraphs (d) and (f) of this section.

(h) Administrative grace period. A credential may be renewed up to 12 months after expiration. For a credential to be re-issued by the Coast Guard more than 12 months after its expiration, an applicant must comply with the requirements of paragraph (i) of this section. When an applicant's credential expires during a time of service with the Armed Forces and there is no reasonable opportunity for renewal, including by mail, this period may be extended. The period of military service following the date of expiration which precluded renewal may be added to the 12-month grace period. The 12-month grace period and any extensions do not affect the expiration date of the credential. A license, MMD, COR, STCW endorsement, MMC, and any endorsements thereon, are not valid for use after the expiration date.

(i) Re-issuance of expired credentials. (1) If an applicant applies for re-issuance of an endorsement as deck officer, engineer officer, or qualified rating more than 12 months after its expiration, instead of the requirements of paragraph (e) of this section, the applicant must demonstrate continued professional knowledge by completing a course approved for this purpose, or by passing the complete examination for original issue of the endorsement. The examination may be oral-assisted if the expired credential was awarded based on the results of an oral exam. The fees set forth in § 10.219 of this part apply to these examinations. In the case of an expired radio officer's endorsement, the endorsement may be issued upon presentation of a valid first- or second-class radiotelegraph operator license issued by the Federal Communications Commission.

(2) An endorsement for chief purser, purser, senior assistant purser, junior assistant purser, hospital corpsman, marine physician assistant, medical doctor, or professional nurse that has been expired for more than 12 months must be renewed in the same way as a current endorsement of that type. There are no additional requirements for re-issuing endorsements for chief purser, purser, senior assistant purser, junior assistant purser, hospital corpsman, marine physician assistant, medical doctor, or professional nurse that have been expired for more than 12 months.

(3) Applicants applying for re-issuance of an endorsement as master or mate (pilot) of towing vessels more than 12 months after expiration of the previous endorsement must complete the practical demonstration of maneuvering and handling a towing vessel required under (e)(6)(i) of this section.

(4) Applicants applying for re-issuance of an endorsement as any tankerman rating more than 12 months after expiration of the previous endorsement must meet the requirements in § 13.117 of this subchapter.

23. Amend § 10.229 as follows:

a. Revise the section heading to read as set forth below;

b. Revise paragraph (a) to read as set forth below;

c. In paragraph (b), in the first sentence, after the words “The duplicate”, add the word “credential” and remove the second sentence;

d. In paragraph (c), after the words “a duplicate”, add the word “credential”; and

e. In paragraph (d), after the words “the appropriate fees set out in § 10.219”, add the words “of this part”.

§ 10.229 Replacement of lost merchant mariner credentials.

(a) Upon request and without examination, a mariner may be issued a duplicate credential and medical certificate after submitting an application with an affidavit describing the circumstances of the loss. The Coast Guard will only issue the duplicate credential, MMC and/or medical certificate, after confirming the validity of the mariner's credentials and the validity of the mariner's TWIC.

* * * * *

24. Revise § 10.231 to read as follows:

§ 10.231 Requirements for raises of grade or new endorsements.

(a) This section applies to applicants who already hold a valid credential and want to make either of the following transactions:

(1) Add a new endorsement.

(2) Obtain a raise of grade of an existing endorsement.

(b) If an applicant for new endorsement or raise of grade meets the renewal requirements under § 10.227 of this subpart for every endorsement listed on the MMC and requests renewal, the applicant will receive a credential valid for 5 years. When an applicant does not meet the renewal requirements for every endorsement held, the applicant's new endorsement will be issued with the expiration date that is the same as the current MMC.

(c) A complete application for a new endorsement or raise of grade must contain the following:

(1) A completed, signed application.

(2) Proof that the mariner either holds a valid TWIC or has applied for a TWIC.

(3) All supplementary materials required to show that the mariner meets the mandatory requirements for the new endorsements sought as follows:

(i) The mandatory requirements for officer endorsements as contained in part 11 of this subchapter and paragraph (d) of this section.

(ii) The mandatory requirements for rating endorsements as contained in part 12 of this subchapter.

(iii) The mandatory requirements for tankerman rating endorsements are contained in part 13 of this subchapter.

(iv) The mandatory requirements for STCW endorsements as contained in parts 11, 12, and 13 of this subchapter.

(4) The appropriate fee as contained in § 10.219 of this part.

(5) Any uncanceled MMD, MMC, license, STCW endorsement, or COR held by the applicant. If one or more of these credentials are still valid at the time of application, a photocopy—front, back, and all attachments—will satisfy this requirement.

(6) Applicants for the following endorsements must produce evidence of having passed a chemical test for dangerous drugs or of qualifying for an exemption from testing in § 16.220 of this subchapter:

(i) Any officer endorsement.

(ii) The first endorsement as able seaman, lifeboatman, lifeboatman-limited, qualified member of the engine department, or tankerman.

(7) Where sea service is required, documentary evidence in accordance with § 10.232 of this part.

(8) Applicants seeking a new endorsement must either hold an unexpired medical certificate or submit a medical certificate application.

(9) Consent to a Coast Guard check for offenses described in section 205(a)(3)(A) or (B) of the National Driver Register Act of 1982, as amended.

(d) Additional requirements for an applicant seeking a raise of grade of an officer endorsement are as follows:

(1) Sea service acquired before the issuance of an officer endorsement is generally not accepted as any part of the service required for a raise of grade of that endorsement. However, service acquired before issuance of an officer endorsement will be accepted for certain crossovers, endorsements, or increases in scope of an MMC, as appropriate. In the limited tonnage categories for deck officers, total accumulated service is a necessary criterion for most raises of grade; therefore, service acquired before the issuance of such officer endorsements will be accepted.

(2) An applicant remains eligible for a raise of grade while on probation as a result of action under part 5 of this chapter. A raise of grade issued to a person on probation will be subject to the same probationary conditions imposed against his or her other credentials. The offense for which he or she was placed on probation will be considered on the merits of the case in determining fitness to hold the endorsement applied for. No applicant will be examined for a raise of grade during any period when a suspension without probation or a revocation imposed under part 5 of this chapter is effective against his or her credential or while an appeal from these actions is pending.

(3) Professional examination. (i) When the Coast Guard finds an applicant's experience and training for raise of grade is satisfactory, and the applicant is eligible in all other respects, the Coast Guard will authorize a professional examination.

(ii) Oral-assisted examinations may be administered in accordance with § 11.201(j) of this subchapter.

(iii) The general instructions for administration of examinations and the lists of subjects for all endorsements are found in part 11, subpart I; part 12, subpart E; and part 13, subpart A of this subchapter.

25. Add § 10.232 to read as follows:

§ 10.232 Sea service.

(a) Documenting sea service. (1) Sea service may be documented in various forms such as certificates of discharge, pilotage service and billing forms, and service letters or other official documents from marine companies signed by the owner, operator, master, or chief engineer of the vessel. The Coast Guard must be satisfied as to the authenticity and acceptability of all evidence of experience or training presented.

(2) Documentary evidence produced by the applicant, unless in the form of a Certificate of Discharge conforming to § 14.307 of this subchapter, must contain all of the following information:

(i) Vessel name(s) and official numbers listed on the registration, certificate, or document issued.

(ii) Gross tonnage of the vessel.

(iii) Propulsion power and mode of propulsion of the vessel.

(iv) The amount and nature (e.g. chief mate, assistant engineer, etc.) of the applicant's experience.

(v) Applicable dates of service for each vessel, and the ports or terminals if applicable.

(vi) The routes upon which the experience was acquired.

(vii) For those seeking service credit on towing vessels in accordance with § 11.211(e) of this subchapter, the aggregate tonnage of the tug and barges during the mariner's service.

(viii) Any other information necessary to determine the applicability of STCW to the vessel.

(ix) Whether the vessel is manned and equipped in accordance with SOLAS.

(x) Where required for an officer endorsement, time served as bridge watchkeeping or engine watchkeeping duties under the supervision of a qualified officer.

(3) An MMC endorsement, in certain cases, may be considered as satisfactory evidence of any qualifying experience for obtaining other endorsements.

(4) For service on vessels of less than 200 GRT, owners of vessels may attest to their own service and provide proof of ownership. Those who do not own a vessel must obtain letters or other evidence from licensed personnel or the owners of the vessels listed.

(5) If the required sea service is associated with watchkeeping functions and the performance of duties, as required in §§ 11.323, 11.329, and 11.333, the service must be documented as having been carried out under the direct supervision of the appropriate person. If the required sea service is associated with the performance of duties, as required in §§ 11.470, 11.472, and 11.474, the service must be documented as having been carried out under the supervision of the appropriate person.

(6) An applicant who has been acting as a pilot may submit a letter from a pilot's association attesting to the applicant's sea service. Pilots not part of an association may submit other relevant records indicating service, such as billing forms. For a raise-of-grade, pilots must comply with the requirements of paragraph (a)(2) of this section.

(b) Service toward an oceans, near-coastal, or STCW endorsement will be credited as follows:

(1) Service on the Great Lakes will be credited on a day-for-day basis up to 100 percent of the total required service.

(2) Service on inland waters, other than Great Lakes, that are navigable waters of the United States, will be credited on a day-for-day basis for up to 50 percent of the total required service.

(3) Service on vessels to which STCW applies, whether inland or coastwise, will be credited on a day-for-day basis. For establishing credit for sea service, the waters of the Inside Passage between Puget Sound and Cape Spencer, Alaska will be credited for a near-coastal and STCW endorsement.

(c) Service toward a near-coastal or a Great Lakes endorsement will be credited on a day-for-day basis and in accordance with the individual requirements for the specific credential.

(d) Sea service as a member of the Armed Forces of the United States and civilian service on vessels owned by the United States as required experience. (1) Sea service as a member of the Armed Forces of the United States will be accepted as required experience for an original, raise of grade, renewal, or increase in scope of all endorsements. In most cases, military sea service will have been performed upon ocean waters; however, inland service, as may be the case on smaller vessels, will be credited in the same manner as conventional evaluations. The applicant must submit an official transcript of sea service or history of assignments as verification of the service claimed when the application is submitted. A DD-214 is not acceptable evidence of sea service. The applicant must also provide the Coast Guard with other necessary information as to tonnage, routes, propulsion power, percentage of time underway, and assigned duties upon the vessels on which he or she served. Such service will be evaluated by the Coast Guard for a determination of its equivalence to sea service acquired on merchant vessels and the appropriate grade, class, and limit of endorsement for which the applicant is eligible. Normally, 60 percent of the total time onboard is considered equivalent underway service; however, the periods of operation of each vessel may be evaluated separately. In order to be eligible for a master's or chief engineer's unlimited endorsement, the applicant must have acquired military service in the capacity of commanding officer or engineer officer, respectively.

(2) Applicants for management-level, operational-level or support-level STCW endorsements must demonstrate competence in accordance with part 11, subpart C; part 12, subpart F; and part 13, subpart F of this subchapter.

(3) Service in deck ratings on military vessels such as seaman apprentice, seaman, boatswain's mate, quartermaster, or Radarman/Operations Specialist are considered deck service for the purposes of this part. Service in other ratings may be considered if the applicant establishes that his or her duties required a watchstanding presence on or about the bridge of a vessel. Service in engineer ratings on military vessels such as fireman apprentice, fireman, engineman, machinists mate, machinery technician, or boiler tender are considered engineer service for the purposes of this part. There are also other ratings such as electrician, hull technician, or damage controlman, which may be credited when the applicant establishes that his or her duties required watchstanding duties in an operating engine room.

(4) In addition to service on vessels that get underway regularly, members of the Armed Forces may obtain creditable service for assignment to vessels that get underway infrequently, such as tenders and repair vessels. Normally, a 25-percent factor is applied to these time periods. This experience can be equated with general shipboard familiarity, training, ship's business, and other related duties.

(5) Sea service obtained on submarines is creditable, as if it were surface vessel service, for deck and engineer officer and qualified ratings endorsements under the provision of paragraph (a) of this section. For application for deck officer and qualified ratings endorsements, submarine service may be creditable if at least 25 percent of all service submitted for the endorsement was obtained on surface vessels (e.g. if 4 years' total service were submitted for an original officer endorsement, at least 1 year must have been obtained on surface craft in order for the submarine service to be eligible for evaluation).

(6) Service gained in a civilian capacity as commanding officer, master, mate, engineer, or pilot, etc., of any vessel owned and operated by the United States, in any service in which a license or officer endorsement as master, mate, engineer, or pilot was not required at the time of such service, will be evaluated by the Coast Guard for a determination of equivalence.

(e) Sea service on vessels that do not get underway. This requirement applies to service obtained on vessels mandated by the Certificate of Inspection (COI) which are in operation but do not get underway or occasionally get underway for short voyages. Service while the vessel is not underway must be credited as follows:

(1) Engineering department. Service may be credited day-for-day for up to 50 percent of the service credit for renewal, raise in grade, and original issue for each day the engineering plant is operational.

(2) Deck department. Service may be credited as follows:

(i) Original issue and raise in grade. Service is creditable on a 3-for-1 basis (12 months of experience equals 4 months of creditable service) for up to 6 months of service credit.

(ii) Renewal. Service in any capacity in the deck department is creditable as closely related service under § 10.227(e)(1)(iv). When submitted in combination with underway service, service is creditable on a 3-for-1 basis (12 months of experience equals 4 months of creditable service) for up to 6 months of service credit.

(f) Foreign sea service. (1) Experience and service acquired on foreign vessels is creditable for establishing eligibility for an original or renewal of an officer, rating, or STCW endorsement, subject to evaluation by the Coast Guard to determine that it is a fair and reasonable equivalent to service acquired on merchant vessels of the United States with respect to grade, tonnage, horsepower, waters, and operating conditions. This experience and service is also creditable to meet recency requirements.

(2) Experience and service acquired on foreign vessels while holding a valid U.S. endorsement is creditable for establishing eligibility for a raise of grade of an officer, rating, or STCW endorsement, subject to evaluation as specified in paragraph (d)(1) of this section. This experience and service is also creditable to meet recency requirements.

(3) An applicant who has obtained qualifying experience on foreign vessels must submit satisfactory documentary evidence of such service (including any necessary official translation to the English language) in accordance with paragraph (a)(1) and (a)(2) of this section.

(g) Closely related service. The Coast Guard may accept evidence of employment in a position closely related to the operation, construction, or repair of vessels (either deck or engineer as appropriate) as meeting the sea service requirements for renewal under § 10.227(e)(1)(iv). Service as port engineer, port captain, shipyard superintendent, qualified instructor, or similar related service may be creditable for service for raise of grade of an engineer or deck officer endorsement; however, it may not be used for obtaining an original management-level endorsement. The service is creditable as follows:

(1) Port engineer, port captain or shipyard superintendent experience is creditable on a 3-for-1 basis for a raise of grade (e.g., 12 months of experience equals 4 months of creditable service). For a raise-of-grade, this credit is limited to 6 months of service.

(2) Service as a qualified instructor in a Coast Guard approved course or a training program is creditable on a 2-for-1 basis for a raise of grade (e.g., 12 months of experience equals 6 months of creditable service). For a raise-of-grade, this credit is limited to 6 months of service.

(h) Day. (1) Except as noted otherwise, for the purpose of calculating service in this subchapter, a day is equal to 8 hours of watchstanding or day-working not to include overtime.

(2) On vessels authorized by 46 U.S.C. 8104 and 46 CFR 15.705, to operate a two-watch system, a 12-hour working day may be creditable as 1½ days of service.

(3) On vessels of less than 100 GRT, a day is considered as 8 hours unless the Coast Guard determines that the vessel's operating schedule makes this criterion inappropriate; in no case will this period be less than 4 hours.

(4) When computing service on MODUs for any endorsement, a day of MODU service must be a minimum of 4 hours, and no additional credit is received for periods served over 8 hours.

(5) For cadet service on a training ship furnished by the Maritime Administration under 46 CFR 310.4, a day may be creditable as 1½ days of service.

(i) Tonnage equivalency. For the purpose of parts 10, 11 and 12, 200 GRT will be considered equivalent to 500 GT, and 1,600 GRT will be considered equivalent to 3,000 GT.

26. Amend § 10.235 as follows:

a. In paragraph (d), after the words “of those endorsements are suspended or revoked,”, remove the words “the mariner” and add, in their place, the words “he or she”, and after the words “will be issued”, add the words “, without payment of a fee,”;

b. In paragraph (e), after the words “has been suspended”, add the words “without probation”;

c. Redesignate paragraphs (f) through (h) as paragraphs (g) through (i);

d. Add new paragraph (f) to read as set forth below;

e. In redesignated paragraph (g), remove the text “§ 10.227(d)(8)(vi)(A)” and add, in its place, the words “§ 10.227(e)(6)(i) of this subpart”;

f. In redesignated paragraph (h), remove the words “Beginning April 15, 2009, if” and add, in their place, the word “If”; and

g. In redesignated paragraph (i), remove the words “Beginning April 15, 2009, a” and add, in their place, the letter “A”.

§ 10.235 Suspension or revocation of merchant mariner credentials.

* * * * *

(f) When applying for an original endorsement on an MMC, pursuant to paragraph (d) of this section, an individual's existing service and training may be considered by the Coast Guard when determining the grade of the endorsement to be issued.

* * * * *

§ 10.237 [Amended]

27. In § 10.237(a), after the words “an MMC”, add the words “, medical certificate,”; after the word “endorsement,”, add the words, “it will provide”; and after the words “listing the reason(s) for denial”, remove the words “will be provided to the applicant”.

28. Revise § 10.239 to read as follows:

§ 10.239 Quick reference table for MMC requirements.

Table 1 to § 10.239 provides a guide to the requirements for officer endorsements. Provisions in the reference section are controlling.

Table 1 to § 10.239: Quick Reference Table for MMC Requirements
[For tankerman endorsements, see table 1 to § 13.129.]
Endorsement category | Minimum age | Citizenship | Medical and physical exam | Experience | Recommendations and character check | Firefighting | Professional exam | Demonstration of professional ability | Recency of service | First aid and CPR
Master, mates | § 11.201(e) Note: exceptions. | U.S., § 10.221(a)(1) § 11.201(d) | § 10.302(a) | 46 CFR Part 11—Subpart D | N/A: Note exceptions in § 11.201(g) for original national or STCW endorsements | § 11.201(h) | § 11.201(j); § 11.903; § 11.910 Note: § 11.903(b) | N/A | original § 11.201 (c)(2) renewal § 10.227(e) | § 11.201(i) Note: exceptions.
Operator of Uninspected Passenger Vessels (OUPV) | § 11.201(e) Note: exceptions here and in § 11.201(l) | § 10.221(a)(1) § 11.201(d). | § 10.302(a) | § 11.467(c); (d); (e); (f); (g) | N/A: Note exceptions in § 11.201(g) for original national or STCW endorsements | N/A | §§ 11.201(j); 11.903; § 11.910 | N/A | original § 11.201 (c)(2) renewal § 10.227(e) | §§ 11.201(i): Note exceptions.
STCW Deck Officer endorsements | § 11.201(e) Note: exceptions. | U.S., § 10.221(a)(1) § 11.201(d). | § 10.302(a) | 46 CFR Part 11—Subpart C | N/A: Note exceptions in § 11.201(g) for original national or STCW endorsements | § 11.303 Renewal: § 11.303(b) and (c) | N/A | Master § 11.305; .311; .315; .317 Chief Mate § 11.307; .313; OICNW § 11.309; 11.319; 11.321 | original § 11.201 (c)(2) renewal § 10.227(e) | § 11.201(i).
Officer on a passenger ship when on an international voyage | N/A | N/A | N/A | N/A | N/A | N/A | N/A | § 11.1105(a)(1); (2) | § 11.1105(c) | N/A.
Engineers (original) | § 11.201(e) Note: exceptions. | U.S., § 10.221(a)(1) § 11.201(d) | 10.302(a) | 46 CFR Part 11—Subpart E | N/A: Note exceptions in § 11.201(g) for original national or STCW endorsements | § 11.201(h) | § 11.201(j); 11.903; § 11.950 Note: § 11.903(b) | N/A | original § 11.201 (c)(2) renewal § 10.227(e) | § 11.201(i).
STCW Engineering Officer endorsements | § 11.201(e) Note: exceptions. | U.S., § 10.221(a)(1) § 11.201(d) | § 10.302(a) | 46 CFR Part 11—Subpart C | N/A: Note exceptions in § 11.201(g) for original national or STCW endorsements | § 11.303 Renewal: § 11.303(b) and (c) | N/A | Chief § 11.325; § 11.331; 2nd engineer officer; § 11.327; § 11.333 OICEW/DDE § 11.329 | original § 11.201 (c)(2) renewal § 10.227(e) | § 11.201(i).
National Designated Duty Engineer (DDE) | § 11.201(e) Note: exceptions. | U.S., § 10.221(a)(1) § 11.201(d). | § 10.302(a) | 11.524(b) | N/A: Note exceptions in § 11.201(g) for original national or STCW endorsements | § 11.201(h)(1)(iv) | § 11.903 | N/A | original § 11.201 (c)(2) renewal § 10.227(e) | § 11.201(i).
Electro-technical officer | § 11.201(e) Note: exceptions. | U.S., § 10.221(a)(1) § 11.201(d). | § 10.302(a) | § 11.335(a)(1) note exception in § 11.335(b) & § 11.33 5(c) | N/A: Note exceptions in § 11.201(g) for original national or STCW endorsements | § 11.335(a)(3)(ii) | N/A | § 11.335(a)(2), (3) note exception in § 11.335(b) & (c) |  | § 11.335(a)(3)(i).
Pilot | § 11.201(e) Note: exceptions. | U.S., § 10.221(a)(1) § 11.201(d) | § 10.302(a); § 11.709 | § 11.703; § 11.705 | N/A: Note exceptions in § 11.201(g) for original national or STCW endorsements | N/A | § 11.707; § 11.903; § 11.910 | § 11.705 | § 11.705(e), § 11.713 | § 11.201(i).
Towing vessels | § 11.201(e) Note: exceptions. | U.S., § 10.221(a)(1) § 11.201(d) | § 10.302(a) | 46 CFR Part 11—Subpart D | N/A: Note exceptions in § 11.201(g) for original national or STCW endorsements | § 11.201(h)(1)(ii) § 11.201(h)(2)(ii) Note: exceptions | § 11.201(j); § 11.903; § 11.910 | § 11.464; § 11.465 | original § 11.201 (c)(2) renewal § 10.227(e) | § 11.201(i).
Offshore Supply Vessels | § 11.201(e) Note: exceptions. | U.S., § 10.221(a)(1) § 11.201(d) | § 10.302(a) | Master § 11.493 Chief Mate § 11.495 Mate § 11.497 C/E § 11.553 Engineer § 11.555 | N/A: Note exceptions in § 11.201(g) for original national or STCW endorsements | § 11.201(h) | § 11.201(j); Master § 11.493 Chief Mate § 11.495 Mate § 11.497 C/E § 11.553; § 11.903 Eng § 11.555; § 11.903 | Master § 11.493 Chief Mate § 11.495 Mate § 11.497 C/E § 11.553 Engineer § 11.555 | original § 11.201 (c)(2) renewal § 10.227(e). | § 11.201(i).
MODU licenses | § 11.201(e) Note: exceptions. | U.S., § 10.221(a)(1) § 11.201(d). | § 10.302(a) | OIM: § 11.470 B.S.: § 11.472 BCO: § 11.474 ChEng: § 11.542 Asst. Eng: § 11.544 | N/A: Note exceptions in § 11.201(g) for original national or STCW endorsements | § 11.201(h): note exceptions | § 11.201(j); § 11.903; § 11.920 | N/A | original § 11.201 (c)(2) renewal § 10.227(e). | § 11.201(i).
Uninspected fishing industry vessels | § 11.201(e) Note: exceptions. | U.S., § 10.221(a)(1) § 11.201(d). | § 10.302(a) | Deck: § 11.462(c); (d); Engine: § 11.530(c); (d); (e) | N/A: Note exceptions in § 11.201(g) for original national or STCW endorsements | § 11.201(h) Note: exceptions | § 11.201(j); § 11.903; § 11.910 | N/A | original § 11.201 (c)(2) renewal § 10.227(e). | § 11.201(i).
Radio officer | § 11.201(e) Note: exceptions. | U.S., § 10.221(a)(1) § 11.201(d). | § 10.302(a) | N/A | N/A: Note exceptions in § 11.201(g) for original national or STCW endorsements | N/A | N/A | § 11.603 | N/A | § 11.201(i).
GMDSS Operator | N/A | N/A | N/A | N/A | N/A | N/A | N/A | 11.604 | N/A | N/A.
Officer raises of grade | § 11.201(e) Note: exceptions. | U.S., § 10.221(a)(1) § 11.201(d). | § 10.302(a) | § 10.231(c); Part 11, subparts D and E | N/A | N/A | § 10.231(d); § 11.903; § 11.910; § 11.920; § 11.950 | Part 11, subparts D and E | 3 months in past 3 years, § 11.201 (c)(2) | N/A.
Officer renewals | § 11.201(e) Note: exceptions. | U.S., § 10.221(a)(1) § 11.201(d). | § 10.302(a) | § 10.227(d) and (e) Note: exceptions | N/A | N/A | N/A | Towing officers, § 10.227(d) and (e) | 1 year in past 5, § 10.227(e) and (f) Note: alternative. | N/A.
Staff officer | § 11.201(e) Note: exceptions. | U.S., § 10.221(a)(1) § 11.201(d). | § 10.302(a) | § 11.807 | N/A: Note exceptions in § 11.201(g) for original national or STCW endorsements | N/A | N/A | § 11.807 | N/A | § 11.201(i).
Staff officer renewals | § 11.201(e) Note: exceptions. | U.S., § 10.221(a)(1) § 11.201(d). | § 10.302(a) | N/A | N/A | N/A | N/A | N/A | N/A | N/A.
Able seaman | § 12.401(c)(1) | U.S. or alien admitted for permanent residence, § 10.221(a)(2) | § 10.302(a), § 12.401(c)(2) | § 12.403 | N/A | N/A | § 12.401(c)(5) | § 12.401(c)(6) § 12.405 | Renewal only, 1 year in past 5, § 10.227(e) and (f) Note: alternative | N/A.
Able-seafarer deck | § 12.603(a)(1)) | U.S. or alien admitted for permanent residence, § 10.221(a)(2) | § 10.302(a) | § 12.603(a)(3) | N/A | N/A | N/A | § 12.603(a)(2) § 12.603(a)(4) § 12.603(a)(5) | Renewal only, 1 year in past 5, § 10.227(e) and (f) Note: alternative | § 12.601(c).
Ratings for forming a navigational watch | § 12.605(a)(1) | U.S. or alien admitted for permanent residence, § 10.221(a)(2) | § 10.302(a) | § 12.605(a)(2) | N/A | N/A | N/A | § 12.605(a)(3) | Renewal only, 1 year in past 5, § 10.227(e) and (f) Note: alternative | § 12.601(c).
Qualified members of engine department | § 12.501(c)(1) | U.S. or alien admitted for permanent residence, § 10.221(a)(2) | § 10.302(a) | § 12.503 | N/A | N/A | § 12.505 | N/A | Renewal only, 1 year in past 5, § 10.227(e) and (f) Note: alternative | N/A.
Able-seafarer engine | § 12.607(a)(1) | U.S. or alien admitted for permanent residence, § 10.221(a)(2) | § 10.302(a) | § 12.607(a)(3) | N/A | N/A | N/A | § 12.607(a)(2); (4) § 12.607(b); (c) | Renewal only, 1 year in past 5, § 10.227(e) and (f) Note: alternative | § 12.601(c).
Ratings for forming an engineering watch | § 12.609(a)(1) | U.S. or alien admitted for permanent residence, § 10.221(a)(2) | § 10.302(a) | § 12.609(a)(2) | N/A | N/A | N/A | § 12.609(a)(3) | Renewal only, 1 year in past 5, § 10.227(e) and (f) Note: alternative | § 12.601(c).
Electro-technical rating | § 12.611(a)(1) | U.S. or alien admitted for permanent residence, § 10.221(a)(2) | § 10.302(a) | § 12.611(a)(2) | N/A | N/A | N/A | § 12.611(a)(3); § 12.611(b) | Renewal only, 1 year in past 5, § 10.227(e) and (f) Note: alternative. | § 12.601(c).
Entry level ratings | N/A | U.S. or alien admitted for permanent residence, § 10.221(a)(2)§ 12.803; § 12.809 | N/A; note exception in § 12.811(a)(2) Note: Food Handler (F.H.) requirements in Table § 10.302(a) (xiii) § 10.302(a) (xiv) | N/A | N/A | N/A | N/A | N/A | N/A | N/A.
Lifeboatman | N/A | U.S. or alien admitted for permanent residence, § 10.221(a)(2) | § 10.302(a) | § 12.407(b)(1) | N/A | N/A | § 12.407(b)(2); (4) | § 12.407(b)(2); (3) | Renewal only, 1 year in past 5, § 10.227(e) and (f) Note: alternative. | N/A.
Lifeboatman-Limited | N/A | U.S. or alien admitted for permanent residence, § 10.221(a)(2) | § 10.302(a) | § 12.409(b)(1) | N/A | N/A | § 12.409(b)(2); (4) | § 12.409(b)(2); (3) | Renewal only, 1 year in past 5, § 10.227(e) and (f) Note: alternative. | N/A.
Proficiency in fast rescue boats | § 12.617(a)(1) | U.S. or alien admitted for permanent residence, § 10.221(a)(2) | N/A | N/A | N/A | N/A | N/A | § 12.617(a)(2); (3); (4) | Renewal only, 1 year in past 5, § 10.227(e) and (f) Note: alternative. Renewal § 12.617(b)(2) | § 12.601(c).
Proficiency in survival craft and rescue boats other than fast rescue boats | § 12.613(a)(1) | U.S. or alien admitted for permanent residence, § 10.221(a)(2) | N/A | § 12.613(a)(2) | N/A | N/A | N/A | § 12.613(a)(3) | Renewal only, 1 year in past 5, § 10.227(e) and (f) Note: alternative. Renewal: § 12.613(b)(2) | § 12.601(c).
Proficiency in survival craft and rescue boats other than lifeboats and fast rescue boats-limited | § 12.615(a)(1) | U.S. or alien admitted for permanent residence, § 10.221(a)(2) | N/A | § 12.615(a)(2) | N/A | N/A | N/A | § 12.615(a)(3) | Renewal only, 1 year in past 5, § 10.227(e) and (f) Note: alternative. Renewal: § 12.615(b)(2) | § 12.601(c).
Assistance Towing endorsement | N/A | N/A | N/A | § 11.482 | N/A | N/A | § 11.482 | § 11.482 | original § 11.201(c)(2) | N/A.
Radar Observer endorsement | N/A | N/A | N/A | N/A | N/A | N/A | N/A | § 11.480(d); (h) | N/A | N/A.
Vessel Security Officer | § 11.337(a) | U.S. or alien admitted for permanent residence, § 10.221(a)(1) § 10.221(a)(2 | § 10.302(a) | § 11.337(a) | N/A: Note exceptions in § 11.201(g) for original national or STCW endorsements | N/A | N/A | § 11.337(a) | original § 11.201 (c)(2) renewal § 10.227(e). | § 11.201(i).
High Speed Craft | N/A | U.S. § 10.221(a)(1) | N/A | § 11.821(b)(1) § 11.821(c) | N/A: Note exceptions in § 11.201(g) for original national or STCW endorsements | N/A | N/A | § 11.821(b)(2) | Renewal: § 11.821(e) | N/A.
GMDSS at sea maintainer | § 12.623(a) | N/A | N/A | N/A | N/A | N/A | N/A | § 12.623(b) | N/A | N/A.
Medical first-aid provider | N/A | N/A | N/A | § 12.619(b) | N/A | N/A | N/A | § 12.619(a)(1); (2) | N/A | § 12.619(a)(1).
Person in charge of medical care | N/A | N/A | N/A | § 12.621(b) | N/A | N/A | N/A | § 12.621(a)(1); (2) | N/A | § 12.621(a)(1).
Vessel personnel with designated security duties | § 12.625(a)(1) | U.S. or alien admitted for permanent residence, § 10.221(a)(2)§ 12.803 | § 12.625(a)(2) | § 12.625(a)(1) | N/A | N/A | N/A | § 12.625(a)(1) | Renewal only, 1 year in past 5, § 10.227(e) and (f) Note: alternative. | N/A.
Security awareness | § 12.627(a)(1) | U.S. or alien admitted for permanent residence, § 10.221(a)(2)§ 12.803 | § 12.627(a)(2) | § 12.627(a)(1) | N/A | N/A | N/A | § 12.627(a)(1) | Renewal only, 1 year in past 5, § 10.227(e) and (f) Note: alternative. | N/A.
Ratings serving on passenger ships on international voyages | N/A | N/A | N/A | N/A | N/A | N/A | N/A | § 12.905(a); (b) | Renewal § 12.905(d) | N/A.

29. Add subpart C, consisting of §§ 10.301 through 10.306, to read as follows:

Subpart C—Medical Certification
Sec.
10.301 General requirements.
10.302 Medical and physical requirements.
10.303 Medical waivers, limitations, and restrictions.
10.304 General medical exam.
10.305 Vision requirements.
10.306 Hearing requirements.

Subpart C—Medical Certification

§ 10.301 General requirements.

(a) The Coast Guard will issue a medical certificate to a mariner meeting the medical and physical standards for merchant mariners. The medical certificate will be issued for various periods of time based upon the endorsements the mariner holds. The Coast Guard will review all information provided and will determine whether—

(1) The applicant is physically and medically qualified for the medical certificate without any limitations, waivers and/or other conditions;

(2) The applicant is physically and medically qualified for the medical certificate with limitations and/or other conditions as specified by the Coast Guard;

(3) For an applicant who does not possess the vision, hearing, or general physical condition necessary, a medical certificate may be issued with appropriate limitations, waivers and/or other conditions as specified by the Coast Guard;

(4) Additional information is necessary to determine if the applicant is physically and/or medically qualified for the medical certificate. The Coast Guard will request additional information from the applicant. The Coast Guard may hold the package pending receipt of that information before the package and/or application is denied; or

(5) The applicant is not physically and/or medically qualified for the medical certificate. The application for a medical certificate will be denied by the Coast Guard.

(b) Except as otherwise noted, medical certificates will be issued for the following periods of time:

(1) All persons employed or engaged onboard vessels to which STCW applies will be issued a medical certificate valid for 2 years unless the mariner is under the age of 18, in which case the maximum period of validity will be 1 year.

(2) Medical certificates issued to a mariner who is serving as a first-class pilot, or acting as a pilot under § 15.812 of this subchapter, will be issued for a maximum period of 2 years.

(3) Medical certificates issued to all other mariners will be issued for a maximum period of 5 years.

(4) Applicants seeking additional MMC endorsements holding a current medical certificate are not required to submit a new medical physical exam if their existing medical certification meets all of the requirements of this section for the endorsement sought.

(c) Applicants holding no endorsement other than a staff officer endorsement need not meet the medical and physical requirements of this section.

§ 10.302 Medical and physical requirements.

(a) To qualify for a medical certificate, a mariner must provide evidence of meeting the medical and physical standards in this section on a CG-719-K or CG-719-K/E, as appropriate. The Coast Guard retains final authority for determining whether a mariner is medically and physically qualified. Columns 2 through 5 of Table 1 to paragraph (a) of this section provide the specific exam, test, or demonstrations required to obtain the corresponding credential listed in column 1. Further clarifications of the requirements contained in the table are found throughout this subpart.

(b) Any required test, exam, or demonstration must have been performed, witnessed, or reviewed by a licensed medical doctor, licensed physician assistant, licensed nurse practitioner, or a designated medical examiner. All licensed medical practitioners must hold a valid license issued in the United States. Medical examinations for Great Lakes Pilots must be conducted by a licensed medical doctor in accordance with the physical exam requirements in 46 CFR 402.210.

Table 1 to § 10.302(a)—Medical and Physical Requirements for Mariner Endorsements
1 Credential | 2 Vision test | 3 Hearing test | 4 General medical exam | 5 Demonstration of physical ability
(1) Deck officer, including pilot | § 10.305(a) | § 10.306 | § 10.304(a) | § 10.304(c)
(2) Engineering officer | § 10.305(b) | § 10.306 | § 10.304(a) | § 10.304(c)
(3) Radio officer | § 10.305(b) | § 10.306 | § 10.304(a) | § 10.304(c)
(4) Offshore installation manager, barge supervisor, or ballast control operator | § 10.305(b) | § 10.306 | § 10.304(a) | § 10.304(c)
(5) Able seaman | § 10.305(a) | § 10.306 | § 10.304(a) | § 10.304(c)
(6) QMED | § 10.305(b) | § 10.306 | § 10.304(a) | § 10.304(c)
(7) Able seafarer deck | § 10.305(a) | § 10.306 | § 10.304(a) | § 10.304(c)
(8) RFPNW | § 10.305(a) | § 10.306 | § 10.304(a) | § 10.304(c)
(9) Able seafarer engine | § 10.305(b) | § 10.306 | § 10.304(a) | § 10.304(c)
(10) RFPEW | § 10.305(b) | § 10.306 | § 10.304(a) | § 10.304(c)
(11) Electro-technical rating | § 10.305(b) | § 10.306 | § 10.304(a) | § 10.304(c)
(12) Tankerman | § 10.305(b) | § 10.306 | § 10.304(a) | § 10.304(c)
(13) Lifeboatman and Proficiency in survival craft and rescue boats other than fast rescue boats (PSC) | § 10.305(b) | § 10.306 | § 10.304(a) | § 10.304(c)
(14) Lifeboatman-Limited and Proficiency in survival craft and rescue boats other than fast rescue boats—limited (PSC—limited) | § 10.305(b) | § 10.306 | § 10.304(a) | § 10.304(c)
(15) Fast Rescue Boat | § 10.305(b) | § 10.306 | § 10.304(a) | § 10.304(c)
(16) Food handler serving on vessels to which STCW does not apply |  |  | § 10.304(b) |
(17) Food handler serving on vessels to which STCW applies |  |  | § 10.304(b) | § 10.304(c)
(18) Ratings, including entry level, serving on vessels to which STCW applies, other than those listed above |  |  |  | § 10.304(c)
(19) Ratings, including entry level, serving on vessels to which STCW does not apply, other than those listed above |  |  |  |
(20) Vessel security officer | § 10.305(a) | § 10.306 | § 10.304(a) | § 10.304(c)

§ 10.303 Medical waivers, limitations, and restrictions.

(a) The Coast Guard may grant a waiver if, after review of all relevant supporting medical documents and consultation with the examining physician, as needed, an applicant does not possess the vision, hearing, or general physical condition necessary; and extenuating circumstances warrant special consideration. An applicant may submit to the Coast Guard additional correspondence, records, and reports in support of a waiver. In this regard, recommendations from agencies of the Federal Government operating government vessels, as well as owners and operators of private vessels, made on behalf of their employees, will be given full consideration.

(b) In general, medical waivers are approved when an applicant does not meet the applicable medical standards, but objective medical evidence indicates that the condition is sufficiently controlled and the effects of medication pose no significant risk to maritime and public safety. The Coast Guard retains final authority for the issuance of medical waivers.

(c) Medical waivers may be granted with specific conditions to which the applicant must adhere, such as more frequent monitoring of the medical conditions, submission of medical exams and/or tests at varying intervals to track the ongoing status of the medical condition, or operational limitations in the manner the mariner may serve under the MMC.

(d) The Coast Guard may place an operational limitation on medical and physical conditions. Any operational limitations will be reflected in the medical certificate.

(e) The Coast Guard may place a restriction on a medical certificate based upon medical and physical conditions of an applicant. Any restriction will be reflected on the medical certificate and may include restriction of route or trade.

§ 10.304 General medical exam.

(a) The general medical exam must be documented and of such scope to ensure that there are no conditions that pose significant risk of sudden incapacitation or debilitating complication. This exam must also document any condition requiring medication that impairs cognitive ability, judgment, or reaction time. The Coast Guard will provide guidance on the conduct of general medical exams. Examiners should be familiar with the content and recommended medical evaluation data compiled in the medical guidelines.

(b) Food handlers are not required to submit to a general medical exam, but must obtain a statement from a licensed physician, physician assistant, or nurse practitioner attesting that they are free of communicable diseases that pose a direct threat to the health or safety of other individuals in the workplace.

(c) Demonstration of physical ability. (1) A demonstration of physical ability is required only if—

(i) The medical practitioner conducting the general medical exam is concerned that an applicant's physical ability may impact maritime safety; or

(ii) Table 1 to § 10.302(a) of this subpart shows that the mariner must pass a demonstration of physical ability.

(2) For an applicant to satisfactorily pass a demonstration of physical ability, the examiner must be satisfied that the applicant—

(i) Has no disturbance in the sense of balance;

(ii) Is able, without assistance, to climb up and down vertical ladders and inclined stairs;

(iii) Is able, without assistance, to step over a door sill or coaming;

(iv) Is able to move through a restricted opening of 24-by-24 inches (61-by-61 centimeters);

(v) Is able to grasp, lift, and manipulate various common shipboard tools, move hands and arms to open and close valve wheels in vertical and horizontal directions, and rotate wrists to turn handles;

(vi) Does not have any impairment or disease that could prevent normal movement and physical activities;

(vii) Is able to stand and walk for extended periods of time;

(viii) Does not have any impairment or disease that could prevent response to a visual or audible alarm; and

(ix) Is capable of normal conversation.

(3) Guidance on demonstration of physical ability is contained in the relevant Coast Guard guidance for the conduct of general medical exams.

(d) Reports of medical and physical exams, demonstrations, and tests. These reports must be submitted within 12 months from the date signed by the licensed medical professional. When submitted with a complete application package, these reports remain valid for 12 months from the date the Coast Guard accepts a complete application.

§ 10.305 Vision requirements.

(a) Deck standard. (1) A mariner must have correctable vision to at least 20/40 in one eye and uncorrected vision of at least 20/200 in the same eye. The color sense must be determined to be satisfactory when tested by any of the following methods or an alternative test acceptable to the Coast Guard, without the use of color-sensing lenses:

(i) Pseudoisochromatic Plates (Dvorine, 2nd Edition; AOC; revised edition or AOC-HRR; Ishihara 14-, 24- , or 38-;plate editions).

(ii) Farnsworth Lantern.

(iii) Titmus Vision Tester/OPTEC 2000.

(iv) Optec 900.

(v) Richmond Test, 2nd and 4th edition.

(2) After January 1, 2017, applicants for an STCW endorsement must have correctable vision to at least 20/40 in both eyes and uncorrected vision of at least 20/200 in both eyes. A mariner who meets these requirements and who suffers loss of vision in one eye after being issued an MMC is subject to the requirements of paragraphs (c), (d), and (e) of this section, as applicable. A mariner holding an MMC prior to January 1, 2017, must continue to meet the requirements of paragraph (a)(1) of this section.

(b) Engineering, radio officer, tankerman, and MODU standard. A mariner must have correctable vision to at least 20/50 in one eye and uncorrected vision of at least 20/200 in the same eye and need only the ability to distinguish the colors red, green, blue, and yellow. The color sense must be determined to be satisfactory when tested by any color-vision test listed in paragraph (a) of this section, or an alternative test acceptable to the Coast Guard, without the use of color-sensing lenses. The Coast Guard will accept Farnsworth D-15 Hue Test as a color vision test to meet the requirements of this paragraph.

(c) Vision waiver. Any applicant whose uncorrected vision does not meet the 20/200 standard and is correctable to listed standards above may be granted a medical waiver in accordance with § 10.303 of this subpart. If a vision waiver is granted, a limitation will be placed on his or her MMC indicating the mariner may not serve under the authority of the endorsement unless corrective lenses are worn and spare lenses are carried onboard a vessel. Waivers are not normally granted to an applicant whose corrected vision in the better eye is not at least 20/40 for deck officers or 20/50 for engineer officers.

(d) Vision operational limitation. If corrective lenses are required in order to meet the vision standards above, a mariner may not serve under the authority of the endorsement unless corrective lenses are worn and spare lenses are carried onboard a vessel. This operational limitation will be placed on his or her medical certificate.

(e) Loss of vision. A mariner having lost vision in one eye must wait 6 months from the date of the vision loss before submitting any application, and must provide a statement of demonstrated ability on his or her medical examination.

§ 10.306 Hearing requirements.

(a) If the medical practitioner conducting the general medical exam has concerns that an applicant's ability to hear may impact maritime safety, the examining medical practitioner must refer the applicant to an audiologist or other hearing specialist to conduct an audiometer test and a speech discrimination test, as appropriate.

(b) The audiometer test must include testing at the following thresholds: 500 Hz; 1,000 Hz; 2,000 Hz; and 3,000 Hz. The frequency responses for each ear must be averaged to determine the measure of an applicant's hearing ability. Applicants must demonstrate an unaided threshold of 30 decibels or less in at least one ear.

(c) The functional speech discrimination test must be carried out at a level of 65 decibels. For issuance of an original MMC or endorsement the applicant must demonstrate functional speech discrimination of at least 90 percent. For renewal or raise of grade, the applicant must demonstrate functional speech discrimination of at least 80 percent.

(d) Hearing waivers. An applicant who is unable to meet the hearing standards of the audiometer test, but who can pass the functional speech discrimination test; or who requires hearing aids to meet the hearing standards, may be eligible for a medical waiver in accordance with § 10.303 of this subpart.

(e) Hearing operational limitation. If hearing aids are required in order to meet the hearing standards above, a mariner may not serve under the authority of the endorsement unless hearing aids are worn in the operational mode, and spare batteries are carried onboard a vessel. This operational limitation will be placed on his or her medical certificate.

30. Add subpart D, consisting of §§ 10.401 through 10.412, to read as follows:

Subpart D—Training Courses and Programs
Sec.
10.401 Applicability.
10.402 Approval of training courses.
10.403 General standards.
10.404 Substitution of training for required service, use of training-record books (TRBs), and use of towing officer assessment records (TOARs).
10.405 Qualification as qualified assessor (QA) and designated examiner (DE).
10.406 Approved courses.
10.407 Approval of training programs.
10.408 Coast Guard-accepted training other than approved courses and programs.
10.409 Coast Guard-accepted Quality Standard System (QSS) organizations.
10.410 Quality Standard System (QSS) requirements.
10.411 Simulator performance standards.
10.412 Distance and e-learning.

§ 10.401 Applicability.

This subpart prescribes the general requirements applicable to offerors of all approved courses and training programs which may be accepted instead of sea service, examination required by the Coast Guard, or STCW assessments, or which satisfy course completion requirements.

§ 10.402 Approval of training courses.

(a) Categories. The Coast Guard may approve courses designed to substitute for or fulfill any or all of the following:

(1) A portion of sea service requirement.

(2) Examinations required by the Coast Guard.

(3) Professional competency requirements.

(4) Regulatory requirements.

(b) Request for approval. Organizations desiring course approval by the Coast Guard must submit a written request and a complete curriculum package to the National Maritime Center, either by mail or electronically. The curriculum package must be provided in a format specified by the Office of Vessel Activities (CG-CVC) and include:

(1) A cover letter. The cover letter must contain—

(i) The name of the organization providing the instruction and the course name;

(ii) The locations where the course will be held;

(iii) A general description and overview of the course;

(iv) The category of acceptance being sought, as listed in paragraph (a) of this section; and

(v) Reference to regulatory requirements met by the training.

(2) Part A: Course framework. The course framework must contain—

(i) The following specific course intentions:

(A) Course scope.

(B) Course objective;

(ii) The following conditions relative to students:

(A) Student entry standards.

(B) Class-size limitations.

(C) Student/teacher ratio;

(iii) Documentary evidence that each instructor and/or assessor—

(A) Has either experience, training, or evidence of instruction in effective instructional techniques and/or effective assessment techniques;

(B) Is qualified in the task for which the training is being conducted and have relevant experience; and

(C) Has attained a level of experience and qualification equal or superior to the relevant level of knowledge, skills, and abilities described in the performance objective;

(iv) Site information, which must include—

(A) A description of the facility, measurements of the instructional space, pictures showing multiple views of the space, and a description of the instruction or assessment being performed; and

(B) A request, if applicable, to teach at an alternative site. This requires contact with the local Regional Exam Center and approval by the National Maritime Center; and

(v) A description of the following materials used for development, instruction, and performance measurement:

(A) Equipment.

(B) Teaching aids.

(C) Textbooks and presentations.

(D) Reference bibliography.

(3) Part B: Course outline. The course outline must contain—

(i) Course subjects/topics; and

(ii) Course schedule, including the duration and order of lessons, and an indication as to whether each lesson is—

(A) A classroom lecture;

(B) A practical demonstration;

(C) A simulator exercise;

(D) An examination; or

(E) Another method of instructional reinforcement.

(4) Part C: Detailed teaching syllabus. The detailed teaching syllabus must be written in a learning objective format in which the objectives describe what the student must do to demonstrate that the specific knowledge has been transferred. The detailed teaching syllabus must contain—

(i) The learning objectives as related to the subjects/topics;

(ii) The specific references from which the instruction was developed; and

(iii) Reference to the specific teaching aids, textbooks, or technical materials used for instruction and performance measurement.

(5) Part D-1: Lesson plans. The lesson plans must contain the following specific instructional contents of the individual course lessons:

(i) The main element learning objective.

(ii) Student assignments.

(iii) Training outcomes, which are statements that identify the specific knowledge, skill, or ability that students must gain and display as a result of the training or instructional activity. A training outcome is made up of three elements: expected student performance, condition, and criterion.

(6) Part D-2: Instructor notes. The instructor notes must contain—

(i) The specific instructional methodologies utilized in the particular lesson; and

(ii) The instructional materials, including instructional directions containing the following:

(A) Pre-instructional activities.

(B) Content presentation.

(C) Student participation.

(D) Assessment process.

(E) Other instructional activities, such as homework and reading assignments.

(7) Part E: Evaluations. The evaluations section must contain—

(i) Any methodology that is used to measure a student's knowledge, performance, or level of achievement, including—

(A) Homework;

(B) Quizzes;

(C) Exams;

(D) Laboratory projects;

(E) Competency assessments;

(F) Remediation; and

(G) Testing strategies;

(ii) Assessment instruments, which are any tools used to determine whether the student has achieved the desired level of knowledge, understanding, or proficiency; and

(iii) Any methodology that is used to measure the effectiveness of the training or instructor, including—

(A) Instructor evaluations;

(B) Course evaluations/surveys; and

(C) Other feedback.

(8) Course completion certificate. A sample course completion certificate that allows for the following information to be entered:

(i) Course provider number.

(ii) Course number.

(iii) Terms of approval.

(c) Approval notification. The Coast Guard will notify each applicant for course approval when an approval is granted or denied. If the Coast Guard denies a request for approval, the Coast Guard will inform the applicant of the reasons for the denial and describe the corrections required for granting an approval.

(d) Validity of course approval. Unless surrendered, suspended, or withdrawn, an approval for a course is valid for up to a maximum of 5 years after issuance, unless—

(1) The school ceases operation;

(2) The school gives notice that it will no longer offer the course;

(3) The owner or operator fails to submit any required information; or

(4) Any change occurs in the ownership of the school to which the approval was issued.

(e) Significant changes to the course approval. (1) Any significant changes to the course approval or the content of the course will be handled as a request for renewal of an approval (as specified in paragraph (f) of this section), or as a request for an original approval (as specified in paragraph (b) of this section), depending on the nature and scope of the change.

(2) The Coast Guard may not accept course completion certificates if the course does not follow the conditions of the course approval.

(f) Renewal of course approval. (1) If the owner or operator of a training school desires to have a course's approval renewed, the owner or operator must submit a request to the NMC accompanied by the information from paragraph b of this section.

(2) If satisfied that the content and quality of instruction remain satisfactory, the Coast Guard will approve the request.

(3) The renewed approval is valid as detailed in paragraph (d) of this section.

(g) Suspension of approval. (1) The Coast Guard may suspend the approval, require the holder to surrender the certificate of approval, and may direct the holder to cease claiming the course is Coast Guard-approved, if it determines that a specific course does not comply with the—

(i) Applicable provisions of 46 CFR parts 10, 11, 12, or 13;

(ii) Requirements specified in the course's approval; or

(iii) Course's curriculum package as submitted for approval.

(2) The Coast Guard will notify the approval holder in writing of the intent to suspend course approval and the reasons for suspension. If the approval holder fails to correct the conditions leading to suspension, the course will be suspended. The Coast Guard will notify the approval holder that the specific course fails to meet applicable requirements and explain how the deficiencies can be corrected.

(3) The Coast Guard may grant the approval holder up to 90 days to correct the deficiency.

(4) Course completion certificates will not be accepted for training provided during a period of suspension or expiration.

(h) Withdrawal of approval. The Coast Guard may withdraw approval for any course—

(1) When the approval holder fails to correct the deficiency of a suspended course within 90 days; or

(2) Upon determining that the approval holder has demonstrated a pattern or history of any of the following:

(i) Failing to comply with the applicable regulations or the course approval requirements.

(ii) Deviating from approved course curricula.

(iii) Presenting courses in a manner that does not achieve the learning objectives.

(iv) Falsifying any document required and integral to the conduct of the course, including, but not limited to, attendance records, written test grades, course completion grades, or assessment of practical demonstrations.

(i) Appeals of suspension or withdrawal of approval. Anyone directly affected by a decision to suspend or withdraw an approval may appeal the decision to the Commandant as provided in § 1.03-40 of this chapter.

§ 10.403 General standards.

(a) Each school with an approved course must—

(1) Have a well-maintained facility that accommodates the students in a safe and comfortable environment conducive to learning;

(2) Have the necessary equipment, including simulators where appropriate, sufficient for the number of students to be accommodated, and support the objectives of the course;

(3) Administer training entirely in the English language unless specifically approved to be presented in another language;

(4) Administer written examinations to each student appropriate for the course material and the knowledge requirements of the position or endorsement for which the student is being trained. For a course approved to substitute for a Coast Guard-administered examination, the courses must be of such a degree of difficulty that a student who successfully completes them would most likely pass, on the first attempt, an examination prepared by the Coast Guard;

(5) Require each student to successfully demonstrate practical skills appropriate for the course material and equal to the level of endorsement for which the course is approved;

(6) Effective March 24, 2014, keep physical or electronic copies of the following records for at least 5 years after the end of each student's completion or disenrollment from a course or program:

(i) A copy of each student's examination scores.

(ii) A copy of each examination or, in the case of a practical test, a report of such test.

(iii) A record of each student's classroom attendance.

(iv) A copy of each student's course completion certificate or program completion certificate, as appropriate.

(v) A summary of changes or modification to the last course submittal.

(vi) A list of all locations at which the training course was presented and the number of times it was presented at each location.

(vii) The name(s) of the instructor(s) who taught the course, which does not include lab assistants or other non-teaching assistants.

(viii) The number of students who began the training.

(ix) The number of students who successfully completed the training.

(x) The number of students who were required to retest.

(xi) The number of students who were required to retake the entire course.

(xii) The number of students who were required to retake a portion of the course;

(7) Not significantly change its approved curriculum without approval from the NMC as specified in § 10.402(e) of this subpart;

(8) Conduct an internal audit midway through the term of the course's approval and maintain the results of the audit for a period of not less than 5 years. The audit will evaluate whether—

(i) Records are being maintained according to these regulations;

(ii) The course is being presented in accordance with the approval letter; and

(iii) Surveys from students indicate that the course is meeting their needs; and

(9) At any time, allow the Coast Guard to—

(i) Inspect its facilities, equipment, and records, including scholastic records;

(ii) Conduct interviews and surveys of students to aid in course evaluation and improvement;

(iii) Assign personnel to observe or participate in the course of instruction; and

(iv) Supervise or administer the required examinations or practical demonstrations, including the substitution of an applicable Coast Guard examination in a course approved to substitute for a Coast Guard administered examination.

(b) [Reserved]

§ 10.404 Substitution of training for required service, use of training-record books (TRBs), and use of towing officer assessment records (TOARs).

(a) Substitution of training for required service. (1) Satisfactory completion of an approved training course may be substituted for a portion of the required service on deck or in the engine department for national deck or engineer endorsements. Satisfactory completion of an approved training program which includes sea service may be substituted for a portion of or all of the required service on deck or in the engine department, except as limited by law for ratings. The list of all currently approved courses and programs, including the equivalent service and applicable endorsements, is maintained by the NMC.

(2) Unless otherwise allowed, recency requirements may not be achieved by service granted as a result of successful completion of approved training or by training on a simulator; however, underway service obtained as a portion of an approved course or program may be used for this purpose.

(3) Unless otherwise allowed, training obtained before receiving an endorsement may not be used for service credit for subsequent raises of grade, increases in scope, or renewals.

(4) This provision for crediting service for training is not applicable to STCW endorsements unless provided otherwise.

(b) Use of training-record books (TRBs). (1) Approved training programs for STCW endorsements for OICNW and OICEW must maintain a TRB for each student where training and/or assessments of competence are conducted onboard the ship. The TRB must contain at least the following information:

(i) The name of the applicant.

(ii) The tasks to be performed or the skills to be demonstrated, with reference to the standards of competence set forth in the tables of the appropriate sections in part A of the STCW Code (incorporated by reference, see § 10.103 of this part).

(iii) The method for demonstrating competence to be used in determining that the tasks or skills have been performed properly, with reference to the standards of competence set forth in the tables of competence in the appropriate sections in part A of the STCW Code (incorporated by reference, see § 10.103 of this part).

(iv) A place for a qualified instructor to indicate by his or her initials that the applicant has received training in the proper performance of the task or skill.

(v) A place for a qualified assessor (QA) to indicate by his or her initials that the applicant has successfully completed a practical demonstration and has proved competent in the task or skill under the criteria, when assessment of competence is to be documented in the record books.

(vi) The printed name of each qualified instructor, including any MMC endorsements held, and the instructor's signature.

(vii) The printed name of each qualified assessor, when any assessment of competence is recorded, including any MMC endorsement, license, or document held by the assessor, and the assessor's signature confirming that his or her initials certify that he or she has witnessed the practical demonstration of a particular task or skill by the applicant.

(2) The TRB referred to in paragraph (b) of this section may be maintained electronically, provided the electronic record meets Coast Guard-accepted standards for accuracy, integrity, and availability.

(3) The Coast Guard may accept other forms of documentation as meeting the requirements to maintain the training-record book.

(c) Use of towing officer assessment records (TOARs). Each applicant for an endorsement as master or mate (pilot) of towing vessels, and each master or mate of self-propelled vessels of 200 GRT or more, seeking an endorsement for towing vessels, must complete a TOAR approved by the Coast Guard that contains at least the following:

(1) Identification of the applicant, including his or her full name, and reference number.

(2) Objectives of the training and assessment.

(3) Tasks to perform or skills to demonstrate.

(4) Criteria to use in determining that the tasks or skills have been performed properly.

(5) A means for a designated examiner (DE) to attest that the applicant has successfully completed a practical demonstration and has proved proficient in the task or skill under the criteria.

(6) Identification of each DE by his or her full name and reference number, job title, ship name and official number, and serial number of the MMC, license, or document held, and printed name and signature confirming that his or her initials certify that he or she has witnessed the practical demonstration of a particular task or skill by the applicant.

§ 10.405 Qualification as qualified assessor (QA) and designated examiner (DE).

(a) To become a QA, an applicant must have documentary evidence to establish—

(1) Experience, training, or instruction in assessment techniques;

(2) Qualifications in the task for which the assessment is being conducted; and

(3) Possession of the level of endorsement, or other professional credential, which provides proof that he or she has attained a level of experience and qualification equal or superior to the relevant level of knowledge, skills, and abilities to be assessed.

(b) To become a DE for towing officer assessment records (TOARs), an applicant must have documentary evidence to establish—

(1) Experience, training, or instruction in assessment techniques on towing vessels;

(2) Qualifications on towing vessels in the task for which the assessment is being conducted; and

(3) Possession of the level of endorsement on towing vessels, or other professional credential, which provides proof that he or she has attained a level of qualification equal or superior to the relevant level of knowledge, skills, and abilities described in the training objectives.

(c) Documentary evidence may be in the form of performance evaluations, which include an evaluation of effectiveness in on-the-job organization and delivery of training, or a certificate of successful completion from an “assessor training” course.

(d) In order to renew his or her qualifications, each QA and DE must have either experience, training, or evidence of instruction in effective assessment within the past 5 years.

§ 10.406 Approved courses.

The NMC maintains the list of training organizations and the approvals given to the training they offer. This information is available online at www.uscg.mil/nmc.

§ 10.407 Approval of training programs.

(a) Training programs approved to qualify a mariner to hold an STCW or national endorsement must meet the standards in this section or the requirements in § 10.402 of this subpart. All such programs must also meet the same standards as those found in § 10.403 of this subpart. The Coast Guard will accept information submitted by training providers to state, regional, and/or national accrediting bodies as evidence such providers satisfy one or more of the requirements of this section.

(b) Categories. The Coast Guard may approve programs designed to substitute for or fulfill any or all of the following:

(1) A portion of sea service requirements.

(2) Examinations required by the Coast Guard.

(3) Professional competency requirements.

(4) Regulatory requirements.

(c) Request for approval. Organizations desiring program approval by the Coast Guard must submit a written request and a complete curriculum package to the National Maritime Center (NMC), either by mail or electronically. The curriculum package must include the following information:

(1) A cover letter. The cover letter must contain—

(i) The name of the organization providing the instruction;

(ii) The location(s) where it will be held;

(iii) A general description and overview of the program, including the individual courses that are part of the program;

(iv) The category of acceptance being sought as listed in paragraph (b) of this section; and

(v) Reference to regulatory requirements met by the training.

(2) A goal statement(s). The goal statement should describe—

(i) The specific performance behaviors to be measured;

(ii) The conditions under which the performance behavior(s) will be exhibited; and

(iii) The level of performance behavior(s) that is to be achieved.

(3) Performance objectives. Performance objectives are statements, which identify the specific knowledge, skill, or ability the student should gain and display as a result of the training or instructional activity. A performance objective is made up of three elements: Expected student performance, condition, and criterion.

(4) Assessment instruments. Assessment instruments are any tools used to determine whether the student has achieved the desired level of knowledge, understanding, or proficiency.

(5) Instructor information. Documentary evidence that each instructor and assessor—

(i) Has either experience, training, or evidence of instruction in effective instructional techniques and/or in effective assessment techniques;

(ii) Is qualified in the task for which the training is being conducted and have relevant experience; and

(iii) Has attained a level of experience and qualification equal or superior to the relevant level of knowledge, skills, and abilities described in the performance objective.

(6) Site information. Site information must include a description of the facility or facilities at which the training will be held. Authority to teach at an alternative site requires approval by the NMC.

(7) A teaching syllabus. A detailed teaching syllabus providing the following information:

(i) Instructional strategy. Aspects of instructional strategies should include—

(A) The order of presentation;

(B) The level of interaction, including the student-to-teacher ratio;

(C) Feedback;

(D) Remediation;

(E) Testing strategies; and

(F) Media used to present information.

(ii) Instructional materials, including lesson plans containing—

(A) Pre-instructional activities;

(B) Content presentation;

(C) Student participation;

(D) Assessment processes; and

(E) Other instructional activities, such as homework and reading assignments.

(iii) Course surveys on the relevance and effectiveness of the training completed by students.

(iv) Course schedule, including the duration and order of lessons, and an indication as to whether each lesson is—

(A) A classroom lecture;

(B) A practical demonstration;

(C) A simulator exercise;

(D) An examination; or

(E) Another method of instructional reinforcement.

(8) Program completion certificate. A sample program completion certificate.

(d) Approval notification. The Coast Guard will notify each applicant for program approval when an approval is granted or denied. If the Coast Guard denies a request for approval, the Coast Guard will inform the applicant of the reasons for the denial and describe the corrections required for granting an approval.

(e) Validity of program approval. Unless surrendered, suspended, or withdrawn, an approval for a program is valid for up to a maximum of 5 years after issuance, unless—

(1) The school ceases operation;

(2) The school gives notice that it will no longer offer the program;

(3) The owner or operator fails to submit any required report; or

(4) Any change occurs in the ownership of the school to which the approval was issued.

(f) Significant changes to the course program approval. (1) Any significant changes to the program approval or the content of the program will be handled as a request for renewal of an approval (as specified in paragraph (f) of this section), or as a request for an original approval (as specified in paragraph (b) of this section), depending on the nature and scope of the change.

(2) The Coast Guard may not accept program completion certificates if the program does not follow the conditions of its approval.

(g) Renewal of program approval. (1) If the owner or operator of a training school desires to have a program's approval renewed, the owner or operator must submit a request to the NMC accompanied by the information from paragraphs (c)(1), (c)(5), (c)(6), and (c)(7) of this section.

(2) If satisfied that the content and quality of instruction remain satisfactory, the Coast Guard will approve the request.

(3) The renewed approval is valid as detailed in paragraph (d) of this section.

(h) Suspension of approval. (1) The Coast Guard may suspend the approval, require the holder to surrender the certificate of approval, and may direct the holder to cease claiming the program is Coast Guard-approved, if it determines that a specific program does not comply with the—

(i) Applicable provisions of 46 CFR parts 10, 11, 12, or 13;

(ii) Requirements specified in the program's approval; or

(iii) Program's curriculum package as submitted for approval.

(2) The Coast Guard will notify the approval holder in writing of the intent to suspend program approval and the reasons for suspension. If the approval holder fails to correct the reasons for suspension, the program will be suspended. The Coast Guard will notify the approval holder that the specific program fails to meet applicable requirements and explain how the deficiency can be corrected.

(3) The Coast Guard may grant the approval holder up to 90 days to correct the deficiency.

(4) Program completion certificates will not be accepted for training provided during a period of suspension or expiration.

(i) Withdrawal of approval. The Coast Guard may withdraw approval for any program—

(1) When the approval holder fails to correct the deficiency of a suspended program within 90 days; or

(2) Upon determining that the approval holder has demonstrated a pattern or history of any of the following:

(i) Failing to comply with the applicable regulations or the program approval requirements.

(ii) Deviating from approved program curricula.

(iii) Presenting instructional material in a manner that does not achieve the learning objectives.

(iv) Falsifying any document required and integral to the conduct of the program, including, but not limited to, attendance records, written test grades, course completion grades, or assessment of practical demonstrations.

(j) Appeals of suspension or withdrawal of approval. Anyone directly affected by a decision to suspend or withdraw an approval may appeal the decision to the Commandant as provided in § 1.03-40 of this chapter.

§ 10.408 Coast Guard-accepted training other than approved courses and programs.

(a) When the training and assessment of competence required by this part are not subject to Coast Guard approval under §§ 10.402 and 10.407 of this subpart, but are used to qualify a mariner to hold an endorsement, the offeror of the course or program must ensure that such training and assessment meets the same standards as those found in §§ 10.402 and 10.403 of this subpart.

(b) The Coast Guard will accept courses approved and monitored by a Coast Guard-accepted Quality Standard System (QSS) organization. The Coast Guard maintains a list of training organizations conducting accepted training that are independently monitored by a Coast Guard-accepted QSS organization. The Coast Guard-accepted QSS organization must comply with the following requirements:

(1) Submit a certificate of acceptance of training to the Coast Guard.

(2) Submit an updated certificate of acceptance to the Coast Guard if the terms of acceptance have been changed.

(3) Sign each certificate to the training organization owner or operator, or its authorized representative(s), stating that the training fully complies with the requirements of this section, and identifying the Coast Guard-accepted QSS organization being used for independent monitoring.

(c) The training must be audited periodically in accordance with the requirements of § 10.409(e)(7) of this subpart. If the Coast Guard determines, on the basis of its own observations or conclusions or those of the Coast Guard-accepted QSS organization, that the particular training does not satisfy one or more of the conditions described in paragraph (a) of this section—

(1) The Coast Guard or Coast Guard-accepted QSS organization will so notify the offeror of the training by letter, enclosing a report of the observations and conclusions;

(2) The offeror may, within a period of time specified in the notice, either appeal the observations or conclusions to the Commandant (CG-CVC) or bring the training into compliance; and

(3) If the appeal is denied—or if the deficiency is not corrected in the allotted time, or within any additional time period judged by the Coast Guard to be appropriate, considering progress toward compliance—the Coast Guard will remove the training from the list maintained under paragraph (b) of this section until it can verify full compliance. The Coast Guard may deny applications for endorsements based, in whole or in part, on training not on the list, until additional training or assessment is documented.

§ 10.409 Coast Guard-accepted Quality Standard System (QSS) organizations.

(a) Organizations wishing to serve as a Coast Guard-accepted QSS organization, to accept and monitor training on behalf of the Coast Guard, should apply to the National Maritime Center. An organization submitting an application may not act as a Coast Guard-accepted QSS organization until it has received its letter of acceptance.

(b) Validity of acceptance. Organizations meeting the requirements in paragraph (e) of this section will be issued a letter of acceptance valid for a maximum period of 5 years from the date of issuance.

(c) An organization wishing to become a Coast Guard-accepted QSS organization must have processes for reviewing, accepting, and monitoring training that are equal to the Coast Guard's course approval and oversight processes in §§ 10.402 through 10.410 of this subpart.

(d) Each person conducting evaluation and monitoring of the training must be knowledgeable about the subjects being evaluated or monitored and about the national and international requirements that apply to the training, and must not be involved in the training and assessment of students.

(e) The documentation submitted to the Coast Guard must contain the information listed below. An organization approved as a recognized classification society in accordance with 46 CFR part 8, subpart B, need not present evidence of compliance with paragraphs (e)(1) and (e)(8) of this section.

(1) Identification of the organization: Name of the organization, address, contact information, and organizational structure (including the QSS department).

(2) Scope of approval: Training and assessment the organization wishes to accept and monitor.

(3) Background of the organization: Historical information outlining the organization's experience reviewing and accepting training and/or assessment activities.

(4) Staffing and support infrastructure, including—

(i) Names and qualifications of the individuals who will be involved in the review, acceptance, and monitoring of training and assessment;

(ii) Description of the training given to individuals who will be conducting review, acceptance, and monitoring activities; and

(iii) Technical and support resources within the organization that support the review, acceptance and monitoring activities.

(5) Submission guidelines: Information for client organizations to submit courses for review and acceptance, including criteria for course design, instructor/assessor qualifications, syllabi, equipment, and facilities.

(6) Review and acceptance procedures. (i) Descriptions of the methods of evaluation of the physical, administrative, and infrastructure support aspects of client organizations;

(ii) Descriptions of the methods of evaluation of the instructors or qualified assessors of a client organization and the maintenance of their records;

(iii) Descriptions of format for accepting training material;

(iv) Descriptions of the methods by which the course acceptance process responds to the client organization modifications to the training curriculum, changes to instructors or examiners, changes to the infrastructure support; and

(v) Descriptions of the renewal procedures.

(7) Audit procedures: Description of the methods for auditing accepted courses. Client organizations must be audited once in a 5-year period.

(8) Quality commitment: Provide evidence of having a quality management system that includes the following elements:

(i) A documented statement of a quality policy and quality objectives.

(ii) A quality manual.

(iii) Documented procedures and records.

(iv) Documents, including records, determined by the organization to be necessary to ensure the effective planning, operation, and control of its processes.

(f) Coast Guard-accepted QSS organizations must notify the NMC of the training they have accepted within 14 days of the acceptance date. The notification must include the name and address of the institution, the course title and the requirement the course meets, and a one-paragraph description of the course's content.

(g) Audits. (1) A Coast Guard-accepted QSS organization must conduct internal audits at least once in 5 years with a minimum of 2 years between reviews. Results of the internal audits must be available upon request to the Coast Guard within 60 days of completion.

(2) Each Coast Guard-accepted QSS organization may be audited by the Coast Guard at least once every 5 years. The results of the audit will be available to the Coast Guard-accepted QSS organization within 60 days of completion of the audit.

(3) Results of Coast Guard-accepted QSS organizations' audits to client organizations must be available upon request to the Coast Guard within 60 days of completion.

(h) Disenrollment. (1) A Coast Guard-accepted QSS organization must give each client organization it serves a 180-day notice of its intention to cease to function as a Coast Guard-accepted QSS organization.

(2) If the Coast Guard determines that a Coast Guard-accepted QSS organization is not meeting its obligations to review, accept, and monitor training and assessment, the NMC will notify the organization in writing and will enclose information about the events that led to this determination. The organization will then have a specified period of time to correct the deficiency or appeal the conclusions to the Commandant (CG-5P). If the organization appeals, and the appeal is denied, or the deficiencies are not corrected within the allotted time, the NMC will withdraw the acceptance of the Coast Guard-accepted QSS organization. The NMC will notify all client organizations affected by this decision so that they may make arrangements to transfer to another Coast Guard-accepted QSS organization or seek NMC approval for their training.

(i) A Coast Guard-accepted QSS organization may not approve courses provided by subsidiary organizations.

§ 10.410 Quality Standard System (QSS) requirements.

(a) Providers of Coast Guard-approved courses, programs, training, and Coast Guard-accepted training creditable towards an STCW endorsement must establish and maintain a Quality Standard System (QSS), in accordance with Regulation I/8 of the STCW Convention (incorporated by reference, see § 10.103 of this part).

(b) The QSS must be monitored by the Coast Guard or monitored through a third party that is designated as a Coast Guard-accepted QSS organization.

(c) The Coast Guard-monitored QSS must—

(1) Have a documented quality policy and quality objectives that align with the commitment by the training institution to achieve its missions and goals;

(2) Maintain a manual that documents the objectives, authorities, and responsibilities that are essential controls for the implementation of the QSS, including—

(i) The core procedures required to meet the missions and goals of the institution;

(ii) The documents necessary for effective design, planning, operation, and control for the delivery of courses meeting the regulatory requirements;

(iii) The filing and archiving of records so they are retrievable and legible;

(iv) Action taken to stop recurrence of system, process, and product nonconformity; and

(v) Auditing, reviewing, and improving the performance of the training management system.

(d) Documentation from a nationally recognized academic accreditation body may be accepted by the Coast Guard as meeting one or more of the requirements listed in paragraph (c) of this section. The documentation must be readily available for inspection upon request.

(e) The Coast Guard will accept documentation from a training institution certified under a national or international Quality Management System Standard as meeting one or more of the requirements listed in paragraph (c) of this section. The documentation must be readily available for inspection upon request.

(f) Coast Guard-approved courses, programs, and training creditable towards an STCW endorsement must meet the requirements of this section by January 1, 2017.

(g) The Coast Guard will accept company ISM documentation as meeting one or more of the requirements listed in paragraph (c) of this section.

(h) Organizations are subject to audits at least twice in a 5-year period. Organizations must cooperate with Coast Guard audits.

§ 10.411 Simulator performance standards.

Simulators used in assessment of competence must meet the appropriate performance standards set out in Section A-I/12 of the STCW Code (incorporated by reference, see § 10.103 of this part). However, a simulator installed or brought into use before February 1, 2002, need not meet those standards if it fulfills the objectives of the assessment of competence or demonstration of proficiency.

§ 10.412 Distance and e-learning.

The Coast Guard may allow the training of mariners by means of distance learning and e-learning in accordance with the standards of training and assessment set forth in section B-I/6 (Training and assessment) of the STCW Code (incorporated by reference, see § 10.103 of this part).

31. Revise part 11 to read as follows:

PART 11—REQUIREMENTS FOR OFFICER ENDORSEMENTS

Subpart A—General
Sec.
11.101 Purpose of regulations.
11.102 Incorporation by reference.
11.103-11.105 [Reserved]
11.107 Paperwork approval.
11.109-11.113 [Reserved]
Subpart B—General Requirements for Officer Endorsements
11.201 General requirements for national and STCW officer endorsements.
11.203-11.210 [Reserved]
11.211 Creditable service and equivalents for national and STCW officer endorsements.
11.212-11.216 [Reserved]
11.217 Examination procedures and denial of officer endorsements.
11.219-11.223 [Reserved]
Subpart C—STCW Officer Endorsements
11.301 Requirements for STCW officer endorsements.
11.302 Basic training.
11.303 Advanced firefighting.
11.304 STCW deck officer endorsements.
11.305 Requirements to qualify for an STCW endorsement as master on vessels of 3,000 GT or more (management level).
11.307 Requirements to qualify for an STCW endorsement as chief mate on vessels of 3,000 GT or more (management level).
11.309 Requirements to qualify for an STCW endorsement as officer in charge of a Navigational Watch (OICNW) on vessels of 500 GT or more (operational level).
11.311 Requirements to qualify for an STCW endorsement as master on vessels of 500 GT or more and less than 3,000 GT (management level).
11.313 Requirements to qualify for an STCW endorsement as chief mate on vessels of 500 GT or more and less than 3,000 GT (management level).
11.315 Requirements to qualify for an STCW endorsement as master on vessels of less than 500 GT (management level).
11.317 Requirements to qualify for an STCW endorsement as master on vessels of less than 500 GT limited to near-coastal waters (management level).
11.319 Requirements to qualify for an STCW endorsement as Officer in Charge of a Navigational Watch (OICNW) on vessels of less than 500 GT (operational level).
11.321 Requirements to qualify for an STCW endorsement as Officer in Charge of a Navigational Watch (OICNW) on vessels of less than 500 GT limited to near-coastal waters (operational level).
11.323 STCW engineer officer endorsements.
11.325 Requirements to qualify for an STCW endorsement as chief engineer officer on vessels powered by main propulsion machinery of 3,000 kW/4,000 HP propulsion power or more (management level).
11.327 Requirements to qualify for an STCW endorsement as second engineer officer on vessels powered by main propulsion machinery of 3,000 kW/4,000 HP propulsion power or more (management level).
11.329 Requirements to qualify for an STCW endorsement as Officer in Charge on an Engineering Watch (OICEW) in a manned engineroom, or as a designated duty engineer in a periodically unmanned engineroom, on vessels powered by main propulsion machinery of 750 kW/1,000 HP propulsion power or more (operational level).
11.331 Requirements to qualify for an STCW endorsement as chief engineer officer on vessels powered by main propulsion machinery of 750 kW/1,000 HP or more and less than 3,000 kW/4,000 HP propulsion power (management level).
11.333 Requirements to qualify for an STCW endorsement as second engineer officer on vessels powered by main propulsion machinery of 750 kW/1,000 HP or more and less than 3,000 kW/4,000 HP propulsion power (management level).
11.335 Requirements to qualify for an STCW endorsement as an electro-technical officer on vessels powered by main propulsion machinery of 750 kW/1,000 HP or more (operational level).
11.337 Requirements to qualify for an STCW endorsement as vessel security officer.
Subpart D—Professional Requirements for National Deck Officer Endorsements
11.401 Ocean and near-coastal national officer endorsements.
11.402 Tonnage requirements for national ocean or near-coastal endorsements for vessels of 1,600 GRT or more.
11.403 Structure of national deck officer endorsements.
11.404 Service requirements for master of ocean or near-coastal self-propelled vessels of unlimited tonnage.
11.405 Service requirements for chief mate of ocean or near-coastal self-propelled vessels of unlimited tonnage.
11.406 Service requirements for second mate of ocean or near-coastal self-propelled vessels of unlimited tonnage.
11.407 Service requirements for third mate of ocean or near-coastal self-propelled vessels of unlimited tonnage.
11.410 Requirements for deck officer endorsements for vessels of less than 1,600 GRT.
11.412 Service requirements for master on ocean or near-coastal self-propelled vessels of less than 1,600 GRT.
11.414 Service requirements for mate on ocean self-propelled vessels of less than 1,600 GRT.
11.416 Service requirements for mate on near-coastal self-propelled vessels of less than 1,600 GRT.
11.418 Service requirements for master on ocean or near-coastal self-propelled vessels of less than 500 GRT.
11.420 Service requirements for mate on ocean self-propelled vessels of less than 500 GRT.
11.421 Service requirements for mate on near-coastal self-propelled vessels of less than 500 GRT.
11.422 Tonnage limitations and qualifying requirements for endorsements as master or mate on vessels of less than 200 GRT.
11.424 Requirements for master on ocean self-propelled vessels of less than 200 GRT.
11.425 Requirements for mate on ocean self-propelled vessels of less than 200 GRT.
11.426 Requirements for master on near-coastal self-propelled vessels of less than 200 GRT.
11.427 Requirements for mate on near-coastal self-propelled vessels of less than 200 GRT.
11.428 Requirements for master on near-coastal self-propelled vessels of less than 100 GRT.
11.429 Requirements for a limited master on near-coastal self-propelled vessels of less than 100 GRT.
11.430 Endorsements for the Great Lakes and inland waters.
11.431 Tonnage requirements for Great Lakes and inland endorsements for vessels of 1,600 GT or more.
11.433 Requirements for master of Great Lakes and inland self-propelled vessels of unlimited tonnage.
11.435 Requirements for master of inland self-propelled vessels of unlimited tonnage.
11.437 Requirements for mate of Great Lakes and inland self-propelled vessels of unlimited tonnage.
11.442 Requirements for master of Great Lakes and inland self-propelled vessels of less than 1,600 GRT.
11.444 Requirements for mate of Great lakes and inland self-propelled vessels of less than 1,600 GRT.
11.446 Requirements for master of Great Lakes and inland self-propelled vessels of less than 500 GRT.
11.448 Requirements for mate of Great Lakes and inland self-propelled vessels of less than 500 GRT.
11.450 Tonnage limitations and qualifying requirements for endorsements as master or mate of Great Lakes and inland vessels of less than 200 GRT.
11.452 Requirements for master of Great Lakes and inland self-propelled vessels of less than 200 GRT.
11.454 Requirements for mate of Great Lakes and inland self-propelled vessels of less than 200 GRT.
11.455 Requirements for master of Great Lakes and inland self-propelled vessels of less than 100 GRT.
11.456 Requirements for limited master of Great Lakes and inland self-propelled vessels of less than 100 GRT.
11.457 Requirements for master of inland self-propelled vessels of less than 100 GRT.
11.459 Requirements for national endorsement as master or mate of rivers.
11.462 Requirements for national endorsement as master or mate of uninspected fishing industry vessels.
11.463 General requirements for national endorsements as master, mate (pilot), and apprentice mate (steersman) of towing vessels.
11.464 Requirements for national endorsements as master of towing vessels.
11.465 Requirements for national endorsements as mate (pilot) of towing vessels.
11.466 Requirements for national endorsements as apprentice mate (steersman) of towing vessels.
11.467 Requirements for a national endorsement as operator of uninspected passenger vessels of less than 100 GRT.
11.468 National officer endorsements for mobile offshore drilling units (MODUs).
11.470 National officer endorsements as offshore installation manager.
11.472 National officer endorsements as barge supervisor.
11.474 National officer endorsements as ballast control operator.
11.480 Radar observer.
11.482 Assistance towing.
11.491 National officer endorsements for service on offshore supply vessels.
11.493 Master (OSV).
11.495 Chief mate (OSV).
11.497 Mate (OSV).
Subpart E—Professional Requirements for National Engineer Officer Endorsements
11.501 Grades and types of national engineer endorsements issued.
11.502 General requirements for national engineer endorsements.
11.503 Propulsion power limitations for national endorsements.
11.504 Application of deck service for national limited engineer endorsements.
11.505 National engineer officer endorsements.
11.510 Service requirements for national endorsement as chief engineer on steam, motor, and/or gas turbine-propelled vessels.
11.512 Service requirements for national endorsement as first assistant engineer of steam, motor, and/or gas turbine-propelled vessels.
11.514 Service requirements for national endorsement as second assistant engineer of steam, motor, and/or gas turbine-propelled vessels.
11.516 Service requirements for national endorsement as third assistant engineer of steam, motor, and/or gas turbine-propelled vessels.
11.518 Service requirements for national endorsement as chief engineer (limited) of steam, motor, and/or gas turbine-propelled vessels.
11.522 Service requirements for national endorsement as assistant engineer (limited) of steam, motor, and/or gas turbine-propelled vessels.
11.524 Service requirements for national endorsement as designated duty engineer (DDE) of steam, motor, and/or gas turbine-propelled vessels.
11.530 Endorsements as engineers of uninspected fishing industry vessels.
11.540 Endorsements as engineers of mobile offshore drilling units (MODUs).
11.542 Endorsement as chief engineer (MODU).
11.544 Endorsement as assistant engineer (MODU).
11.551 Endorsements for service on offshore supply vessels.
11.553 Chief engineer (OSV).
11.555 Assistant engineer (OSV).
Subpart F—Credentialing of Radio Officers
11.601 Applicability.
11.603 Requirements for radio officers' endorsements.
11.604 Requirements for an STCW endorsement for Global Maritime Distress and Safety System (GMDSS) radio operators.
Subpart G—Professional Requirements for Pilots
11.701 Scope of pilot endorsements.
11.703 Service requirements.
11.705 Route familiarization requirements.
11.707 Examination requirements.
11.709 Annual physical examination requirements.
11.711 Tonnage requirements.
11.713 Requirements for maintaining current knowledge of waters to be navigated.
Subpart H—Registration of Staff Officers and Miscellaneous Endorsements
11.801 Applicability.
11.803 Staff departments.
11.805 General requirements.
11.807 Experience requirements for registry.
11.821 High-speed craft-type rating.
Subpart I—Subjects of Examinations
11.901 General provisions.
11.903 Officer endorsements requiring examinations.
11.910 Subjects for deck officer endorsements.
11.920 Subjects for MODU endorsements.
11.950 Examination subjects for engineer officer endorsements.
Subpart J—Recognition of Other Parties' STCW Certificates
11.1001 Purpose of rules.
11.1003 General requirements.
11.1005 Employer application requirements.
11.1007 Basis for denial.
11.1009 Restrictions.
Subpart K—Officers on a Passenger Ship When on an International Voyage
11.1101 Purpose of rules.
11.1103 Definitions.
11.1105 General requirements for officer endorsements.

Authority: 14 U.S.C. 633; 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

Subpart A—General

§ 11.101 Purpose of regulations.

(a) The purpose of this part is to provide—

(1) A means of determining the qualifications an applicant must possess to be eligible for an officer endorsement as a staff officer, deck officer, engineer officer, pilot, or radio officer on merchant vessels, or for an endorsement to operate uninspected passenger vessels; and

(2) A means of determining that an applicant is competent to serve as a master, chief mate, officer in charge of a navigational watch, chief engineer officer, second engineer officer (first assistant engineer), officer in charge of an engineering watch, designated duty engineer, or Global Maritime Distress and Safety System (GMDSS) radio operator, in accordance with the provisions of the International Convention on Standards of Training, Certification and Watchkeeping for Seafarers, 1978, as amended (the STCW Convention or STCW), and other laws, and to receive the appropriate endorsement as required by STCW.

(b) With few exceptions, these regulations do not specify or restrict officer endorsements to particular types of service such as tankships, freight vessels, or passenger vessels. However, each officer credentialed under this part must become familiar with the relevant characteristics of a vessel prior to assuming his or her duties as required in the provisions of § 15.405 of this subchapter.

(c) The regulations previously found in subpart C of this part that prescribe the requirements applicable to approved training courses, training for a particular officer endorsement, and training and assessment associated with meeting the standards of competence established by the STCW Convention have been moved to 46 CFR part 10, subpart C.

§ 11.102 Incorporation by reference.

(a) Certain material is incorporated by reference into this part with the approval of the Director of the Federal Register under 5 U.S.C. 552(a) and 1 CFR part 51. To enforce any edition other than that specified in this section, the Coast Guard must publish a notice of change in the Federal Register and the material must be available to the public. All approved material is available for inspection at the Coast Guard, Office of Operating and Environmental Standards (CG-CG-OES), 2100 2nd St. SW., Stop 7126, Washington, DC 20593-7126, 202-372-1405 and is available from the sources listed below. It is also available for inspection at the National Archives and Records Administration (NARA). For information on the availability of this material at NARA, call 202-741-6030 or go to http://www.archives.gov/federal_register/code_of_federal_regulations/ibr_locations.html.

(b) International Maritime Organization (IMO), 4 Albert Embankment, London SE1 7SR, England:

(1) The International Convention on Standards of Training, Certification and Watchkeeping for Seafarers, 1978, as amended, 2011 (the STCW Convention or the STCW), incorporation by reference approved for §§ 11.201, 11.426, 11.427, 11.428, 11.429, 11.493, 11.495, 11.497, 11.553, 11.555, 11.1001, 11.1003, 11.1009, and 11.1105.

(2) The Seafarers' Training, Certification and Watchkeeping Code, as amended, 2011 (the STCW Code), incorporation by reference approved for §§ 11.201, 11.301, 11.302, 11.303, 11.305, 11.307, 11.309, 11.311, 11.313, 11.315, 11.317, 11.319, 11.321, 11.325, 11.327, 11.329, 11.331, 11.333, 11.335, 11.604, 11.901, and 11.1105.

(3) The International Convention for the Safety of Life at Sea, 1974 (SOLAS), incorporation by reference approved for § 11.601.

§§ 11.103-11.105 [Reserved]

§ 11.107 Paperwork approval.

(a) This section lists the control numbers assigned by the Office of Management and Budget (OMB) under the Paperwork Reduction Act of 1980 (Pub. L. 96-511) for the reporting and recordkeeping requirements in this part.

(b) The following control numbers have been assigned to the sections indicated:

(1) OMB 1625-0040-46 CFR 11.201, 11.202, 11.205, 11.470, 11.472, 11.474, 11.542, and 11.544.

(2) OMB 1625-028-46 CFR 11.480.

§§ 11.109-11.113 [Reserved]

Subpart B—General Requirements for Officer Endorsements

§ 11.201 General requirements for national and STCW officer endorsements.

(a) General. In addition to the requirements of part 10 of this subchapter, the applicant for an officer endorsement, whether original, renewal, duplicate, or raise of grade, must establish to the satisfaction of the Coast Guard that he or she possesses all the qualifications necessary (including but not limited to age, experience, character, physical health, citizenship, approved training, professional competence, and a test for dangerous drugs) before the Coast Guard will issue to him or her a merchant mariner credential (MMC). An applicant for any STCW endorsement must hold the appropriate national endorsement unless otherwise specified.

(b) English language requirements. Except as provided in § 11.467(i) of this part, an applicant for an officer endorsement must demonstrate an ability to speak and understand English as found in the navigation rules, aids to navigation publications, emergency equipment instructions, machinery instructions, and radiotelephone communications instructions.

(c) Experience and service. (1) Applicants for officer endorsements should refer to § 10.232 of this subchapter for information regarding requirements for documentation and proof of sea service.

(2) An applicant for a national officer endorsement must have at least 3 months of required service on vessels of appropriate tonnage or horsepower within the 3 years immediately preceding the date of application.

(3) No original officer endorsement may be issued to any naturalized citizen based on less experience in any grade or capacity than would have been required of a citizen of the United States by birth.

(4) Experience and service acquired on foreign vessels is creditable for establishing eligibility for an officer endorsement, subject to evaluation by the Coast Guard to determine that it is a fair and reasonable equivalent to service acquired on merchant vessels of the United States, with respect to grade, tonnage, horsepower, waters, and operating conditions. An applicant who has obtained qualifying experience on foreign vessels must submit satisfactory documentary evidence of such service (including any necessary translation into English) in accordance with § 10.232 of this subchapter.

(5) No applicant for an original officer endorsement who is a naturalized citizen and who has obtained experience on foreign vessels will be given an original officer endorsement in a grade higher than that upon which he or she has actually served while acting under the authority of a foreign credential.

(6) Experience acquired while the applicant was less than 16 years of age is generally not creditable. Compelling circumstances and unique experiences acquired before the applicant reaches 16 years of age will be evaluated on a case-by-case basis.

(d) Citizenship. No officer endorsement may be issued to any person who is not a citizen of the United States with the exception of operators of uninspected passenger vessels that are not documented under the laws of the United States.

(e) Age. Except as specified in this paragraph, no officer endorsement may be issued to a person who has not attained the age of 21 years. The required evidence of age may be established using any of the items submitted to establish citizenship set out in 49 CFR 1572.17.

(1) An endorsement may be granted to an applicant who has reached the age of 19 years as—

(i) Master of near-coastal, Great Lakes and inland, or river vessels of 25-200 GRT;

(ii) Third mate;

(iii) Third assistant engineer;

(iv) Mate of vessels of between 200 GRT and 1,600 GRT;

(v) Ballast control operator (BCO);

(vi) Assistant engineer (MODU);

(vii) Assistant engineer of fishing industry vessels;

(viii) Mate (pilot) of towing vessels;

(ix) Radio officer;

(x) Assistant engineer (limited); or

(xi) Designated duty engineer of vessels of less than 4,000 HP/3,000 kW.

(2) An endorsement may be granted to an applicant who has reached the age of 18 years as—

(i) Limited master of near-coastal vessels of less than 100 GRT;

(ii) Limited master of Great Lakes and inland vessels of less than 100 GRT;

(iii) Mate of Great Lakes and inland vessels of 25-200 GRT;

(iv) Mate of near-coastal vessels of 25-200 GRT;

(v) Operator of uninspected passenger vessels (OUPV);

(vi) Designated duty engineer of vessels of less than 1,000 HP/750 kW;

(vii) Apprentice mate (steersman) of towing vessels;

(viii) Officer in charge of a navigational watch (OICNW);

(ix) Officer in charge of an engineering watch (OICEW); and

(x) Electro-technical officer (ETO).

(f) Physical examination. (1) Persons serving or intending to serve in the merchant marine service are encouraged to take the earliest opportunity to ascertain, through examination, whether their visual acuity, color vision, hearing, and general physical condition, are such as to qualify them for service in that profession. Any physical impairment or medical condition that would render an applicant incompetent to perform the ordinary duties required of an officer is cause for denial of an officer endorsement.

(2) Applications for an original officer endorsement, raises of grade, and extensions of route, must be current and up to date with respect to service and the physical examination, as appropriate. Physical examinations and applications are valid for 12 months from the date the application is approved.

(g) Character check. (1) An individual may apply for an original officer endorsement, or officer or STCW endorsement of a different type, while on probation as a result of administrative action under part 5 of this chapter. The offense for which the applicant was placed on probation will be considered in determining his or her fitness to hold the endorsement applied for. An officer or STCW endorsement issued to an applicant on probation will be subject to the same probationary conditions as were imposed against the applicant's other credential. An applicant may not take an examination for an officer or STCW endorsement during any period of time when a suspension without probation or a revocation is effective against the applicant's currently held license, merchant mariner document (MMD), or MMC, or while an appeal from these actions is pending.

(2) If information about the applicant's habits of life and character is brought to the attention of the Coast Guard after an original license, certificate of registry, or officer endorsement has been issued, and if such information reasonably supports the conclusion that the applicant cannot be entrusted with the duties and responsibilities of the license, certificate of registry, or officer endorsement issued, or indicates that the application for the license, certificate of registry, or officer endorsement was false or incomplete, the Coast Guard may notify the holder in writing that the license, certificate of registry, or officer endorsement is considered null and void, direct the holder to return the credential to the Coast Guard, and advise the holder that, upon return of the credential, the appeal procedures of § 10.237 of this subchapter apply.

(h) Firefighting certificate. (1) Applicants for an original officer endorsement in the following categories must present a certificate of completion from a firefighting course of instruction that has been approved by the Coast Guard. (1) The firefighting course must have been completed within the past 5 years, or if it was completed more than 5 years before the date of application, the applicant must provide evidence of maintaining the standard of competence in accordance with the firefighting requirements for the credential sought.

(2) The following categories must meet the requirements for basic and advanced firefighting in RegulationsVI/1 and VI/3 of the STCW Convention and Tables A-VI/1-2 and A-VI/3 of the STCW Code (both incorporated by reference, see § 11.102 of this part):

(i) National officer endorsements as master or mate on seagoing vessels of 200 GRT or more.

(ii) All national officer endorsements for master or mate (pilot) of towing vessels, except apprentice mate (steersman) of the vessels, on oceans.

(iii) All national officer endorsements for MODUs.

(iv) All national officer endorsements for engineers.

(v) All national officer endorsements for OSVs.

(vi) All STCW officer endorsements except GMDSS radio operator.

(3) The following categories must meet the requirements for basic firefighting in Regulation VI/1 of the STCW Convention and Table A-VI/1-2 of the STCW Code:

(i) Officer endorsement as master on vessels of less than 500 GT in ocean service.

(ii) All officer endorsements for master or mate (pilot) of towing vessels, except apprentice mate (steersman) of towing vessels, in all services except oceans.

(4) Applicants for a raise of grade of an officer endorsement who have not previously met the requirements of paragraph (h) of this section must do so.

(i) First-aid and cardiopulmonary resuscitation (CPR) course certificates. All applicants for an original officer endorsement, except as provided in §§ 11.429, 11.456, and 11.467 of this part, must present to the Coast Guard—

(1) Evidence of continued competency in STCW basic training in accordance with § 11.302 of this part or a certificate indicating completion not more than 1 year from the date of application of —

(i) The American National Red Cross Standard First Aid course or American National Red Cross Community First Aid & Safety course; or

(ii) A Coast Guard-approved first-aid course; and

(2) A currently valid certificate of completion of a CPR course from either—

(i) The American National Red Cross;

(ii) The American Heart Association; or

(iii) A Coast Guard-approved CPR course.

(j) Professional examination. (1) When the Coast Guard finds the applicant's experience and training to be satisfactory, and the applicant is eligible in all other respects, the Coast Guard will authorize examination in accordance with the following requirements:

(i) Except for an endorsement required by the STCW Convention, any applicant for a deck or engineer officer endorsement limited to vessels less than 200 GRT, or an officer endorsement limited to uninspected fishing industry vessels, may request an orally assisted examination instead of any written or other textual examination. If there are textual questions that the applicant has difficulty reading and understanding, the Coast Guard will offer the orally assisted examination. Each officer endorsement based on an orally assisted examination is limited to the specific route and type of vessel upon which the applicant obtained the majority of service.

(ii) The general instructions for administration of examinations and the lists of subjects for all officer endorsements appear in subpart I of this part. The Coast Guard will place in the applicant's file a record indicating the subjects covered.

(iii) An applicant enrolled in an approved comprehensive program of training, service, and assessment will be authorized for an examination not more than 6 months prior to completion of the comprehensive program, provided all sea service and assessments of competency are completed prior to the examination.

(iv) The examination, whether administered orally or by other means, must be conducted only in the English language.

(2) When the application has been approved for examination, the approval is valid for 1 year.

(3) An examination is not required for a staff officer or radio officer endorsement.

(k) Radar observer. Applicants for an endorsement as radar observer must present a certificate of completion from a radar observer course as required by § 11.480 of this part.

(l) Restrictions. The Coast Guard may modify the service and examination requirements in this part to satisfy the unique qualification requirements of an applicant or distinct group of mariners. The Coast Guard may also lower the age requirement for OUPV applicants. The authority granted by an officer endorsement will be restricted to reflect any modifications made under the authority of this paragraph.

§§ 11.202-11.210 [Reserved]

§ 11.211 Creditable service and equivalents for national and STCW officer endorsements.

(a) Applicants for officer endorsements should refer to § 10.232 of this subchapter for information regarding requirements for documentation and proof of sea service.

(b) Service toward an oceans, near-coastal, or STCW endorsement will be credited as follows:

(1) Service on the Great Lakes will be credited on a day-for-day basis up to 100 percent of the total required service.

(2) Service on inland waters, other than Great Lakes, that are navigable waters of the United States, will be credited on a day-for-day basis for up to 50 percent of the total required service.

(c) Service on mobile offshore drilling units. (1) MODU service is creditable for raise of grade of an officer endorsement. Evidence of 1 year of service on MODUs as mate or equivalent while holding an officer endorsement or license as third mate, or as engineering officer of the watch or equivalent while holding an officer endorsement or license as third assistant engineer, is acceptable for a raise of grade to second mate or second assistant engineer, respectively. However, any subsequent raises of grade of unlimited, non-restricted officer licenses or endorsements must include a minimum of 6 months of service on conventional vessels.

(2) Service on MODUs maintaining station by means of dynamic positioning, may be credited as service on conventional vessels for any raise in grade; however, time more than 8 hours each day will not be credited.

(3) A day of creditable MODU service must be a minimum of 4 hours, and no additional credit will be granted for periods of more than 8 hours.

(4) Creditable MODU service excludes time spent ashore due to crew rotation.

(d) Service on Articulated Tug Barges (ATBs) and Integrated Tug Barges (ITBs). Service on ATB or Dual Mode ITB units is creditable for an original deck officer endorsement or raise of grade of any deck officer endorsement. Service on an ATB or Dual Mode ITB with an aggregate tonnage of 1,600 GRT/3,000 GT or more is creditable on a two-for-one basis (2 days experience equals 1 day of creditable service) for up to 50 percent of the total service on vessels of 1,600 GRT/3,000 GT or more required for an unlimited officer endorsement. The remaining required service on vessels of more than 1,600 GRT/3,000 GT must be obtained on conventional vessels or Push Mode ITBs.

(e) Service on towing vessels. Service as master or mate (pilot) on towing vessels, when the aggregate tonnage of the tug and barges is 1,600 GRT/3,000 GT or more, is creditable, using the aggregate tonnage, on a two-for-one basis (2 days experience equals 1 day of creditable service) for up to 50 percent of the total service on vessels of 1,600 GRT/3,000 GT or more required for an unlimited officer endorsement. The remaining required service on vessels of more than 1,600 GRT/3,000 GT must be obtained on conventional vessels. This service must be documented as specified in § 10.232(a) of this subchapter.

(f) Individuals obtaining sea service as part of an approved training curriculum pursuant to either § 11.407(a)(2) or § 11.516(a)(3) of this part must do so in the capacity of cadet (deck) or cadet (engine), as appropriate, notwithstanding any other rating endorsements the individual may hold or any other capacity in which the individual may have served.

(g) Other experience. Other experience in a marine-related area, other than at sea, or sea service performed on unique vessels, will be evaluated by the Coast Guard for a determination of equivalence to traditional service.

(h) Tonnage. When determining sea service credit for officer endorsement applicants under subpart D of this part, the tonnage of a vessel solely admeasured using the Convention measurement scheme under 46 U.S.C. Chapter 143 will be credited as Gross Register Tonnage. This paragraph does not apply to those vessels measured under the optional regulatory measurement provisions of 46 U.S.C. 14305.

§ 11.212-§ 11.216 [Reserved]

§ 11.217 Examination procedures and denial of officer endorsements.

(a) The examination fee set out in Table 1 to § 10.219(a) of this subchapter must be paid before the applicant may take the first examination section. If an applicant fails three or more sections of the examination, a complete re-examination must be taken. On the subsequent exam, if the applicant again fails three or more sections, at least 3 months must elapse before another complete examination is attempted, and a new examination fee is required. If an applicant fails one or two sections of an examination, the applicant may be retested twice on these sections during the next 3 months. If the applicant does not successfully complete these sections within the 3-month period, a complete re-examination must be taken at least 3 months from the date of the last retest, and a new examination fee is required. The 3-month retest period may be extended by the Coast Guard if the applicant presents evidence documenting sea time that prevented the taking of a retest during the 3-month period. The retest period may not be extended beyond 7 months from the initial examination. All examinations and retests must be completed within 1 year of approval for examination.

(b) If the Coast Guard refuses to grant an applicant the endorsement applied for due to the applicant's failure to pass a required examination, the Coast Guard will provide the applicant with a written statement setting forth the portions of the examination that must be retaken and the date by which the examination must be completed.

§§ 11.219-11.223 [Reserved]

Subpart C—STCW Officer Endorsements

§ 11.301 Requirements for STCW officer endorsements.

(a) Standard of competence. (1) The Coast Guard will accept one or more methods listed in the STCW Code to demonstrate meeting the standard of competence in this subpart. See Column 3—Methods for demonstrating competence—of the Tables of Competence in the STCW Code (incorporated by reference, see § 11.102 of this part). The Coast Guard will accept the following as evidence of meeting the standard of competence under each of these methods:

(i) In-service experience: Documentation of successful completion of assessments, approved or accepted by the Coast Guard, and signed by a qualified assessor (QA)—deck or engineering—as appropriate.

(ii) Training ship experience: Documentation of successful completion of an approved training program involving formal training and assessment onboard a training ship.

(iii) Simulator training: Documentation of successful completion of training and assessment from a Coast Guard-approved course involving maritime simulation.

(iv) Laboratory equipment training: Documentation of successful completion of training and assessments from an approved training course or facility.

(v) Practical training or instruction:

(A) Documentation of successful completion of assessment as part of a structured/formal training or instruction provided by an organization or company as part of an accepted safety or quality management system; or

(B) Documentation of successful completion of an approved training course from a school or facility.

(vi) Specialist training: Documentation of successful completion of assessment as part of a company training or specialized training provided by a maritime or equipment specialist.

(vii) Workshop skills training: Documentation of successful completion of assessments or completion certificate from an approved training program, school or facility.

(viii) Training program: Documentation of successful completion of an approved training program.

(ix) Training on a manned scale ship model: Documentation of successful completion of assessment as part of a structured/formal training or instruction provided by an approved training school or facility.

(x) Practical demonstration of competence: Documentation of successful completion of assessments approved or accepted by the Coast Guard.

(xi) Practical test and practical experience: Documentation of successful completion of assessments approved or accepted by the Coast Guard.

(xii) Examination: Successful completion of a Coast Guard examination.

(xiii) Instruction or course: Documentation of successful completion of an approved or accepted course of instruction.

(2) Knowledge components may be documented by—

(i) Successful completion of the Coast Guard examination for the associated officer endorsement;

(ii) Successful completion of an approved course; or

(iii) Successful completion of an approved program.

(3) The Coast Guard will publish assessment guidelines that should be used to document assessments that demonstrate meeting the standard of competence, as required by paragraph (a)(1) of this section. Organizations may develop alternative assessment documentation for demonstrations of competence; however, such documentation must be approved by the Coast Guard prior to its use and submittal with an application.

(b) Service. (1) Service as a rating will not be accepted to upgrade from the operational-level to management-level STCW endorsements.

(2) Service on the Great Lakes will be credited on a day-for-day basis for up to 100 percent of the total required service.

(3) Service on inland waters other than Great Lakes, which are navigable waters of the United States, will be credited on a day-for-day basis for up to 50 percent of the total required service.

(4) Service accrued onboard vessels with dual tonnages (both domestic and international) will be credited using the international tonnage for the credential sought.

(5) Applicants who cannot meet the requirement for 1 year of sea service within the last 5 years as described in § 11.303(c) of this subpart, will be required to meet the requirements of § 11.303(a) of this subpart.

(c) Operational-level endorsement. Applicants holding national officer endorsements, who seek to add an STCW endorsement at the operational level, must provide evidence of meeting the STCW requirements found in this subpart, including—

(1) Meeting the service requirements for the operational-level STCW endorsement;

(2) Satisfactory completion of the STCW operational-level standards of competence; and

(3) Satisfactory completion of the STCW operational-level training as required in this part.

(d) Management-level endorsement. Applicants holding national officer endorsements as master, chief mate, chief engineer, or first assistant engineer, and who seek to add an STCW endorsement at the management level, must provide evidence of meeting the STCW requirements found in this subpart, including—

(1) Meeting the service requirements for the management-level STCW endorsement;

(2) Satisfactory completion of the STCW operational- and management-level standards of competence; and

(3) Satisfactory completion of the STCW operational- and management-level training as required in this part.

(e) Training and assessment for Automatic Radar Plotting Aids (ARPA), Electronic Chart Display and Information System (ECDIS), or Global Maritime Distress and Safety System (GMDSS). Training and assessment in the use of ARPA, ECDIS, or GMDSS is not required for those who serve exclusively on ships not fitted with ARPA, ECDIS, or GMDSS. For ARPA and ECDIS, this limitation must be reflected in the endorsement issued to the seafarer concerned. GMDSS is a separate endorsement that will only be added if the applicant qualifies for it.

(f) Exemptions and Limitations. (1) The Coast Guard may exempt an applicant from meeting any individual knowledge, understanding, and proficiency required in the appropriate table of competence in the STCW Code. These exemptions must be approved by the Coast Guard based upon vessel type. Under these circumstances, the certificate may include a corresponding limitation. (2) A seafarer may have a limitation removed by providing the Coast Guard with evidence of having completed the individual knowledge, understanding, and proficiency required.

(g) Grandfathering. (1) Except as noted otherwise, each candidate who applies for a credential based on approved or accepted training or approved seagoing service that was started on or after March 24, 2014, or who applies for the MMC endorsement on or after January 1, 2017, must meet the requirements of this part.

(2) Except as noted by this subpart, seafarers holding an STCW endorsement prior to March 24, 2014, will not be required to complete any additional training required under this part to retain the STCW endorsements until January 1, 2017.

(3) Except as noted otherwise, candidates who apply for a credential based on approved or accepted training or approved seagoing service that was completed before March 24, 2014, may qualify under the requirements of this part existing before that date. This includes the assessments published prior to March 24, 2014, as well as the additional requirements for the STCW endorsement section.

(4) Persons who hold or have held an STCW operational-level endorsement issued prior to March 24, 2014 and are seeking to upgrade to an STCW management-level endorsement will not be required to complete the practical assessments for STCW operational-level endorsements as required in paragraph (d)(2) of this section.

(5) Except as noted by this subpart, the Coast Guard will continue to issue STCW endorsements meeting the requirements of this part existing before March 24, 2014, for seafarers identified in paragraph (g)(3) of this section, until January 1, 2017.

(h) Notwithstanding § 11.901 of this part, each mariner found qualified to hold any of the following national officer endorsements will also be entitled to hold an STCW endorsement corresponding to the service or other limitations of the license or officer endorsements on the MMC. The vessels concerned are not subject to further obligation under STCW because of their special operating conditions as small vessels engaged in domestic, near-coastal voyages.

(1) Masters, mates, or engineers endorsed for service on small passenger vessels that are subject to subchapter T or K of this chapter and that operate beyond the boundary line.

(2) Masters, mates, or engineers endorsed for service on seagoing vessels of less than 200 GRT, other than passenger vessels subject to subchapter H of this chapter.

(i) Mariners serving on, and owners or operators of any of the following vessels, do not need to hold an STCW endorsement, because they are exempt from application of STCW:

(1) Fishing vessels as defined in 46 U.S.C. 2101(11)(a).

(2) Fishing vessels used as fish-tender vessels as defined in 46 U.S.C. 2101(11)(c).

(3) Barges as defined in 46 U.S.C. 102, including non-self-propelled mobile offshore drilling units.

(4) Vessels operating exclusively on the Great Lakes or on the inland waters of the United States in the Straits of Juan de Fuca or on the Inside Passage between Puget Sound and Cape Spencer.

(j) Mariners serving on, and owners or operators of uninspected passenger vessels as defined in 46 U.S.C. 2101(42)(B), do not need to hold an STCW endorsement. The vessels concerned are not subject to further obligation under STCW because of their special operating conditions as small vessels engaged in domestic, near-coastal voyages.

§ 11.302 Basic training.

(a) Applicants seeking an STCW officer endorsement must provide evidence of meeting the standard of competence for basic training (BT) as follows:

(1) Personal survival techniques as set out in Table A-VI/1-1 of the STCW Code (incorporated by reference, see § 11.102 of this part).

(2) Fire prevention and firefighting as set out in Table A-VI/1-2 of the STCW Code.

(3) Elementary first aid as set out in Table A-VI/1-3 of the STCW Code.

(4) Personal safety and social responsibilities as set out in Table A-VI/1-4 of the STCW Code.

(b) Every 5 years seafarers qualified in accordance with § 11.301(c) and (d) of this subpart must provide evidence of maintaining the standard of competence for BT.

(c) The Coast Guard will accept onboard training and experience, through evidence of 1 year of sea service within the last 5 years, for the following areas:

(1) Personal survival techniques as set out in Table A-VI/1-1 of the STCW Code:

(i) Donning a lifejacket.

(ii) Boarding a survival craft from the ship, while wearing a lifejacket.

(iii) Taking initial actions on boarding a lifeboat to enhance chance of survival.

(iv) Streaming a lifeboat drogue or sea-anchor.

(v) Operating survival craft equipment.

(vi) Operating location devices, including radio equipment.

(2) Fire prevention and firefighting as set out in Table A-VI/1-2 of the STCW Code:

(i) Using self-contained breathing apparatus.

(ii) Performing a rescue in a smoke-filled space, using an approved smoke-generating device aboard, while wearing a breathing apparatus.

(3) Elementary first aid as set out in Table A-VI/1-3 of the STCW Code.

(4) Personal safety and social responsibilities as set out in Table A-VI/1-4 of the STCW Code.

(d) The Coast Guard will only accept evidence of approved assessments conducted ashore for the following areas:

(1) Personal survival techniques as set out in Table A-VI/1-1 of the STCW Code:

(i) Donning and using an immersion suit.

(ii) Safely jumping from a height into the water.

(iii) Righting an inverted liferaft while wearing a lifejacket.

(iv) Swimming while wearing a lifejacket.

(v) Keeping afloat without a lifejacket.

(2) Fire prevention and firefighting as set out in Table A-VI/1-2 of the STCW Code:

(i) Using various types of portable fire extinguishers.

(ii) Extinguishing smaller fires, e.g., electrical fires, oil fires, and propane fires.

(iii) Extinguishing extensive fires with water, using jet and spray nozzles.

(iv) Extinguishing fires with foam, powder, or any other suitable chemical agent.

(v) Fighting fire in smoke-filled enclosed spaces wearing self-contained breathing apparatus.

(vi) Extinguishing fire with water fog or any other suitable firefighting agent in an accommodation room or simulated engineroom with fire and heavy smoke.

(vii) Extinguishing oil fire with fog applicator and spray nozzles, dry chemical powder, or foam applicators.

(e) Applicants who cannot meet the requirement for 1 year of sea service within the last 5 years, as described in paragraph (c) of this section, will be required to meet the requirements of paragraph (a) of this section or complete approved or accepted refresher training.

§ 11.303 Advanced firefighting.

(a) Advanced firefighting. Applicants seeking an STCW officer endorsement must provide evidence of meeting the standard of competence as set out in Table A-VI/3 of the STCW Code (incorporated by reference, see § 11.102 of this part). Applicants for an original STCW officer endorsement, who met the requirements of § 11.201(h) of this part will be deemed to have met the requirement of this paragraph.

(b) Every 5 years seafarers qualified in accordance with paragraph (a) of this section must provide evidence of maintaining the standard of competence as set out in Table A-VI/3 of the STCW Code.

(c) The Coast Guard will accept onboard training and experience, through evidence of 1 year of sea service within the last 5 years, as meeting the requirements of paragraph (b) of this section for the following areas as set out in Table A-VI/3 of the STCW Code:

(1) Control firefighting operations aboard ships with the following knowledge, understanding, and proficiencies:

(i) Firefighting procedures at sea and in port, with particular emphasis on organization, tactics and command.

(ii) Communication and coordination during firefighting operations.

(iii) Ventilation control, including smoke extraction.

(iv) Control of fuel and electrical systems.

(v) Firefighting process hazards (dry distillation, chemical reactions, boiler uptake).

(vi) Fire precautions and hazards associated with the storage and handling of materials.

(vii) Management and control of injured persons.

(viii) Procedures for coordination with shore-based firefighters.

(2) Inspect and service fire-detection and extinguishing systems and equipment.

(i) Requirements for statutory and classification surveys.

(ii) Reserved.

(d) The Coast Guard will only accept evidence of assessments conducted ashore as meeting the requirements of paragraph (b) of this section for the following areas as set out in Table A-VI/3 of the STCW Code:

(1) Control firefighting operations aboard ships with the following knowledge, understanding, and proficiencies:

(i) Use of water for fire-extinguishing, the effect on ship stability, precautions and corrective procedures.

(ii) Firefighting involving dangerous goods.

(2) Organize and train fire parties.

(3) Inspect and service fire-detection and extinguishing systems and equipment.

(i) Fire detection. Fire-detection systems; fixed fire-extinguishing systems; portable and mobile fire-extinguishing equipment, including appliances, pumps and rescue, salvage; life-support; personal protective and communication equipment.

(ii) Reserved.

(4) Investigate and compile reports on incidents involving fire.

(e) Applicants who cannot meet the requirement for 1 year of sea service within the last 5 years, as described in paragraph (c) of this section, will be required to meet the requirements of paragraph (a) of this section or complete approved or accepted refresher training.

§ 11.304 STCW deck officer endorsements.

(a) Specific requirements for all STCW deck officer endorsements are detailed in the applicable sections in this part.

(1) Master on vessels of 3,000 GT or more (management level).

(2) Chief mate on vessels of 3,000 GT or more (management level).

(3) Officer in charge of a navigational watch (OICNW) of vessels of 500 GT or more (operational level).

(4) Master of vessels of 500 GT or more and less than 3,000 GT (management level).

(5) Chief mate of vessels of 500 GT or more and less than 3,000 GT (management level).

(6) Master of vessels of less than 500 GT (management level).

(7) Master of vessels of less than 500 GT limited to near-coastal waters (management level).

(8) OICNW of vessels of less than 500 GT (operational level).

(9) OICNW of vessels of less than 500 GT limited to near-coastal waters (operational level).

(b) [Reserved]

§ 11.305 Requirements to qualify for an STCW endorsement as master on vessels of 3,000 GT or more (management level).

(a) To qualify for an STCW endorsement as master, an applicant must—

(1) Provide evidence of 36 months of service as OICNW on vessels operating in oceans, near-coastal waters, and/or Great Lakes. This period may be reduced to not less than 24 months if the applicant served as chief mate for not less than 12 months. Service on inland waters that are navigable waters of the United States may be substituted for up to 50 percent of the total required service. Experience gained in the engine department on vessels may be creditable for up to 3 months of the service requirements;

(2) Provide evidence of meeting the standard of competence specified in Section A-II/2 of the STCW Code (incorporated by reference, see § 11.102 of this part); and

(3) Provide evidence of having satisfactorily completed approved training in the following subject areas:

(i) Advanced shiphandling.

(ii) Advanced stability.

(iii) Advanced meteorology.

(iv) Leadership and managerial skills.

(v) Search and rescue.

(vi) ARPA, if serving on a vessel with this equipment.

(vii) ECDIS, if serving on a vessel with this equipment.

(viii) GMDSS, if serving on a vessel with this equipment.

(ix) Management of medical care.

(b) For a renewal of an STCW endorsement as master of vessels of 3,000 GT or more to be valid on or after January 1, 2017, each candidate must provide evidence of successful completion of approved training in the following:

(1) Leadership and managerial skills.

(2) ECDIS, if serving on a vessel with this equipment.

(c) The Coast Guard may exempt an applicant from meeting any individual knowledge, understanding, and proficiency required in Section A-II/2 of the STCW Code. These exemptions must be approved by the Coast Guard based upon vessel type. Under these circumstances, the credential may include a corresponding limitation.

(d) Seafarers holding an STCW endorsement as masters of vessels of 500 GT or more and less than 3,000 GT, in accordance with § 11.311 of this subpart, are eligible to apply for the endorsement as master on vessels of 3,000 GT or more upon completion of 6 months of sea service, under the authority of the endorsement, and must complete any items in paragraphs (a)(2) and (a)(3) of this section not previously satisfied.

(e) Seafarers with one of the following national officer endorsements are eligible to apply for this endorsement upon completion of the requirements in table 1 to this paragraph:

Table 1 to § 11.305(e)—STCW Endorsement as Master on Vessels of 3,000 GT or More
Entry path from national endorsements | Sea service under authority of the endorsement ¹ | Competence—STCW Table A-II/2 ² | Training required by this section ³
Master ocean or near-coastal, unlimited tonnage | None | Yes | Yes.
Master OSV | None | Yes | Yes.
¹ This column provides the minimum additional service required of the seafarer in order to meet the requirements of this section.
² Complete any items in paragraph (a)(2) of this section not previously satisfied.
³ Complete any items in paragraph (a)(3) of this section not previously satisfied.

§ 11.307 Requirements to qualify for an STCW endorsement as chief mate on vessels of 3,000 GT or more (management level).

(a) To qualify for an STCW endorsement as chief mate, an applicant must—

(1) Provide evidence of 12 months of service as OICNW on vessels operating in oceans, near-coastal waters, and/or Great Lakes. Service on inland waters, bays, or sounds that are navigable waters of the United States may be substituted for up to 50 percent of the total required service. Experience gained in the engine department on vessels may be creditable for up to 1 month of the service requirements;

(2) Meet the standard of competence specified in Section A-II/2 of the STCW Code (incorporated by reference, see § 11.102 of this part); and

(3) Provide evidence of having satisfactorily completed approved training in the following subject areas:

(i) Advanced shiphandling.

(ii) Advanced stability.

(iii) Advanced meteorology.

(iv) Leadership and managerial skills.

(v) Search and rescue.

(vi) ARPA, if serving on a vessel with this equipment.

(vii) ECDIS, if serving on a vessel with this equipment.

(viii) GMDSS, if serving on a vessel with this equipment.

(ix) Management of medical care.

(b) For a renewal of an STCW endorsement as chief mate of vessels of 3,000 GT or more to be valid on or after January 1, 2017, each candidate must provide evidence of successful completion of approved training in the following:

(1) Leadership and managerial skills.

(2) ECDIS, if serving on a vessel with this equipment.

(c) The Coast Guard may exempt an applicant from meeting any individual knowledge, understanding, and proficiency required in Section A-II/2 of the STCW Code. These exemptions must be approved by the Coast Guard based upon vessel type. Under these circumstances, the credential may include a corresponding limitation.

(d) Seafarers holding an STCW endorsement as chief mate of vessels of 500 GT or more and less than 3,000 GT, in accordance with § 11.313 of this subpart, are eligible to apply for the endorsement as chief mate on vessels of 3,000 GT or more upon completion of 6 months of sea service, under the authority of the endorsement, and must complete any items in paragraphs (a)(2) and (a)(3) of this section not previously satisfied.

(e) Seafarers with one of the following national officer endorsements are eligible to apply for this endorsement upon completion of the requirements in the following table:

Table 1 to § 11.307(e)—STCW Endorsement as Chief Mate on Vessels of 3,000 GT or More
Entry path from national endorsements | Sea service under authority of the endorsement ¹ | Competence—STCW Table A-II/2 ² | Training required by this section ³
Chief mate ocean or near-coastal, unlimited tonnage | None | Yes | Yes.
Master ocean or near-coastal, less than 500 GRT | 12 months | Yes | Yes.
Chief mate OSV | None | Yes | Yes.
Master towing vessel ocean or near-coastal | 12 months | Yes | Yes.
¹ This column provides the minimum additional service required of the seafarer in order to meet the requirements of this section.
² Complete any items in paragraph (a)(2) of this section not previously satisfied.
³ Complete any items in paragraph (a)(3) of this section not previously satisfied.

§ 11.309 Requirements to qualify for an STCW endorsement as Officer in charge of a navigational watch (OICNW) of vessels of 500 GT or more (operational level).

(a) To qualify for an STCW endorsement as OICNW, an applicant must—

(1) Provide evidence of seagoing service as follows:

(i) Thirty-six months of seagoing service in the deck department on vessels operating in oceans, near-coastal waters, and/or Great Lakes. Service on inland waters, bays, or sounds that are navigable waters of the United States may be substituted for up to 50 percent of the total required service; or

(ii) Twelve months of seagoing service as part of an approved training program, which includes onboard training that meets the requirements of Section A-II/1 of the STCW Code (incorporated by reference, see § 11.102 of this part);

(2) Provide evidence of having performed, during the required seagoing service, bridge watchkeeping duties under the supervision of an officer holding the STCW endorsement as master, chief mate, second mate, or OICNW, for a period of not less than 6 months;

(3) Provide evidence of meeting the standard of competence specified in Section A-II/1 of the STCW Code; and

(4) Provide evidence of having satisfactorily completed approved training in the following subject areas:

(i) Medical first-aid provider.

(ii) Radar observer.

(iii) Search and rescue.

(iv) Basic and advanced firefighting in accordance with § 11.303 of this subpart.

(v) Proficiency in survival craft and rescue boats other than fast rescue boats.

(vi) Visual signaling.

(vii) Bridge resource management (BRM).

(viii) Terrestrial and celestial navigation, and electronic navigation systems.

(ix) Watchkeeping, including International Regulations for Preventing Collisions at Sea (COLREGS) and IMO standard marine communication phrases (SMCP).

(x) Cargo handling and stowage.

(xi) Ship handling.

(xii) Stability and ship construction.

(xiii) Meteorology.

(xiv) ARPA, if serving on a vessel with this equipment.

(xv) GMDSS, if serving on a vessel with this equipment.

(xvi) ECDIS, if serving on a vessel with this equipment.

(b) Experience gained in the engine department on vessels may be creditable for up to 3 months of the service requirements in paragraph (a)(1)(i) of this section.

(c) For a renewal of an STCW endorsement as OICNW of vessels of 500 GT or more to be valid on or after January 1, 2017, each candidate must provide the following:

(1) Evidence of meeting the standard of competence in leadership and teamworking skills.

(2) Completion of approved training in ECDIS, if serving on a vessel with this equipment.

(d) The Coast Guard may exempt an applicant from meeting any individual knowledge, understanding, and proficiency required in Section A-II/1 of the STCW Code. These exemptions must be approved by the Coast Guard based upon vessel type. Under these circumstances, the credential may include a corresponding limitation.

(e) Seafarers with one of the following national officer endorsements are eligible to apply for this endorsement upon completion of the requirements in the following table:

Table 1 to § 11.309(e)—STCW Endorsement as OICNW on Vessels of 500 GT or More
Entry path from national endorsements | Sea service under authority of the endorsement ¹ | Competence—STCW Table A-II/2 ² | Training required by this section ³
Mate ocean or near-coastal, unlimited tonnage | None | Yes | Yes.
Master ocean or near-coastal, less than 500 GRT | 6 months | Yes | Yes.
Mate ocean or near-coastal, less than 1,600 GRT | None | Yes | Yes.
Mate ocean or near-coastal, less than 500 GRT | 12 months | Yes | Yes.
Mate OSV | 12 months ¹ | Yes | Yes.
Mate towing vessel ocean or near-coastal | 6 months | Yes | Yes.
¹ This column provides the minimum additional service required of the seafarer in order to meet the requirements of this section.
² Complete any items in paragraph (a)(3) of this section not previously satisfied.
³ Complete any items in paragraph (a)(4) of this section not previously satisfied.

§ 11.311 Requirements to qualify for an STCW endorsement as master of vessels of 500 GT or more and less than 3,000 GT (management level).

(a) To qualify for an STCW endorsement as master, an applicant must—

(1) Provide evidence of 36 months of service as OICNW on vessels operating in oceans, near-coastal waters, and/or Great Lakes. However, this period may be reduced to not less than 24 months if the applicant served as chief mate for not less than 12 months. Service on inland waters, bays, or sounds that are navigable waters of the United States may be substituted for up to 50 percent of the total required service. Experience gained in the engine department on vessels may be creditable for up to 3 months of the service requirements;

(2) Provide evidence of meeting the standard of competence specified in Section A-II/2 of the STCW Code (incorporated by reference, see § 11.102 of this part); and

(3) Provide evidence of having satisfactorily completed approved training in the following subject areas:

(i) Advanced shiphandling.

(ii) Advanced stability.

(iii) Advanced meteorology.

(iv) Leadership and managerial skills.

(v) Search and rescue.

(vi) Management of medical care.

(vii) ECDIS, if serving on a vessel with this equipment.

(viii) ARPA, if serving on a vessel with this equipment.

(ix) GMDSS, if serving on a vessel with this equipment.

(b) For a renewal of an STCW endorsement as master of vessels of 500 GT or more and less than 3,000 GT to be valid on or after January 1, 2017, each candidate must provide evidence of successful completion of approved training in the following:

(1) Leadership and managerial skills.

(2) ECDIS, if serving on a vessel with this equipment.

(c) The Coast Guard may exempt an applicant from meeting any individual knowledge, understanding, and proficiency required in Section A-II/2 of the STCW Code. These exemptions must be approved by the Coast Guard based upon vessel type. Under these circumstances, the credential may include a corresponding limitation.

(d) Seafarers with one of the following national officer endorsements are eligible to apply for this endorsement upon completion of the requirements in the following table:

Table 1 to § 11.311(d)—STCW Endorsement as Master on Vessels of 500 GT or More and Less Than 3,000 GT
Entry path from national endorsements | Sea service under authority of the endorsement ¹ | Competence—STCW Table A-II/3 ² | Training required by this section ³
Master oceans or near-coastal, less than 1,600 GRT | None | Yes | Yes.
Master OSV | None | Yes | Yes.
Master oceans or near-coastal, less than 500 GRT | 12 months | Yes | Yes.
Master towing vessel oceans or near-coastal | 12 months | Yes | Yes.
¹ This column provides the minimum additional service required of the seafarer in order to meet the requirements of this section.
² Complete any items in paragraph (a)(2) of this section not previously satisfied.
³ Complete any items in paragraph (a)(3) of this section not previously satisfied.

§ 11.313 Requirements to qualify for an STCW endorsement as chief mate of vessels of 500 GT or more and less than 3,000 GT (management level).

(a) To qualify for an STCW endorsement as chief mate, an applicant must—

(1) Provide evidence of 12 months of service as OICNW on vessels operating in oceans, near-coastal waters, and/or Great Lakes. Service on inland waters, bays, or sounds that are navigable waters of the United States may be substituted for up to 50 percent of the total required service. Experience gained in the engine department on vessels may be creditable for up to 1 month of the service requirements;

(2) Provide evidence of meeting the standard of competence specified in Section A-II/2 of the STCW Code (incorporated by reference, see § 11.102 of this part); and

(3) Provide evidence of having satisfactorily completed approved training in the following subject areas:

(i) Advanced shiphandling.

(ii) Advanced stability.

(iii) Advanced meteorology.

(iv) Leadership and managerial skills.

(v) Search and rescue.

(vi) Management of medical care.

(vii) ECDIS, if serving on a vessel with this equipment.

(viii) ARPA, if serving on a vessel with this equipment.

(ix) GMDSS, if serving on a vessel with this equipment.

(b) For a renewal of an STCW endorsement as chief mate of vessels of 500 GT or more and less than 3,000 GT to be valid on or after January 1, 2017, each candidate must provide evidence of successful completion of approved training in the following:

(1) Leadership and managerial skills.

(2) ECDIS, if serving on a vessel with this equipment.

(c) The Coast Guard may exempt an applicant from meeting any individual knowledge, understanding, and proficiency required in Section A-II/2 of the STCW Code. These exemptions must be approved by the Coast Guard based upon vessel type. Under these circumstances, the credential may include a corresponding limitation.

(d) Seafarers with one of the following national officer endorsements are eligible to apply for this endorsement upon completion of the requirements in the following table:

Table 1 to § 11.313(d)—STCW Endorsement as Chief Mate on Vessels of 500 GT or More and Less Than 3,000 GT
Entry path from national endorsements | Sea service under authority of the endorsement ¹ | Competence—STCW Table A-II/2 ² | Training required by this section ³
Chief mate OSV | None | Yes | Yes.
Master oceans or near-coastal, less than 500 GRT | 6 months | Yes | Yes.
Master towing vessel oceans or near-coastal | 6 months | Yes | Yes.
¹ This column provides the minimum additional service required of the seafarer in order to meet the requirements of this section.
² Complete any items in paragraph (a)(2) of this section not previously satisfied.
³ Complete any items in paragraph (a)(3) of this section not previously satisfied.

§ 11.315 Requirements to qualify for an STCW endorsement as master of vessels of less than 500 GT (management level).

(a) To qualify for an STCW endorsement as master, an applicant must—

(1) Provide evidence of 36 months of seagoing service as OICNW on vessels operating in oceans, near-coastal waters, and/or Great Lakes; however, this period may be reduced to not less than 24 months if not less than 12 months of such seagoing service has been served as chief mate. Service on inland waters, bays, or sounds that are navigable waters of the United States may be substituted for up to 50 percent of the total required service. Experience gained in the engine department may be creditable for up to 3 months of the service requirements;

(2) Provide evidence of meeting the standard of competence specified in Section A-II/2 of the STCW Code (incorporated by reference, see § 11.102 of this part); and

(3) Provide evidence of having satisfactorily completed approved training in the following subject areas:

(i) Search and rescue.

(ii) Management of medical care.

(iii) Leadership and managerial skills.

(iv) ECDIS, if serving on a vessel with this equipment.

(v) ARPA, if serving on a vessel with this equipment.

(vi) GMDSS, if serving on a vessel with this equipment.

(b) For a renewal of an STCW endorsement as master of vessels of less than 500 GT to be valid on or after January 1, 2017, each candidate must provide evidence of successful completion of approved training in the following:

(1) Leadership and managerial skills.

(2) ECDIS, if serving on a vessel with this equipment.

(c) The Coast Guard may exempt an applicant from meeting any individual knowledge, understanding, and proficiency required in Section A-II/3 of the STCW Code. These exemptions must be approved by the Coast Guard based upon vessel type. Under these circumstances, the credential may include a corresponding limitation.

(d) Seafarers with one of the following national officer endorsements are eligible to apply for this endorsement upon completion of the requirements in the following table:

Table 1 to § 11.315(d)—STCW Endorsement as Master of Vessels of Less Than 500 GT
Entry path from national endorsements | Sea service under authority of the endorsement ¹ | Competence—STCW Table A-II/3 ² | Training required by this section ³
Master oceans or near-coastal, less than 500 GRT | None | Yes | Yes.
Master towing vessel oceans or near-coastal | None | Yes | Yes.
Master oceans or near-coastal, less than 200 GRT | 12 months | Yes | Yes.
¹ This column provides the minimum additional service required of the seafarer in order to meet the requirements of this section.
² Complete any items in paragraph (a)(2) of this section not previously satisfied.
³ Complete any items in paragraph (a)(3) of this section not previously satisfied.

§ 11.317 Requirements to qualify for an STCW endorsement as master of vessels of less than 500 GT limited to near-coastal waters (management level).

(a) To qualify for an STCW endorsement as master, an applicant must—

(1) Provide evidence of 12 months of service as OICNW, on vessels operating in oceans, near-coastal waters, and/or Great Lakes. Service on inland waters, bays, or sounds that are navigable waters of the United States may be substituted for up to 50 percent of the total required service. Experience gained in the engine department on vessels may be creditable for up to 1 month of the service requirements;

(2) Provide evidence of meeting the standard of competence specified in Section A-II/3 of the STCW Code (incorporated by reference, see § 11.102 of this part); and

(3) Provide evidence of having satisfactorily completed approved training in the following subject areas:

(i) Medical first-aid provider.

(ii) Basic and advanced firefighting in accordance with § 11.303 of this subpart.

(iii) Proficiency in survival craft and rescue boats other than fast rescue boats.

(iv) Leadership and managerial skills.

(v) ECDIS, if serving on a vessel with this equipment.

(vi) Radar observer, if serving on a vessel with this equipment.

(vii) ARPA, if serving on a vessel with this equipment.

(b) For a renewal of an STCW endorsement as master of vessels of less than 500 GT limited to near-coastal waters to be valid on or after January 1, 2017, each candidate must provide evidence of successful completion of approved training in the following:

(1) Leadership and managerial skills.

(2) ECDIS, if serving on a vessel with this equipment.

(c) The Coast Guard may exempt an applicant from meeting any individual knowledge, understanding, and proficiency required in Section A-II/3 of the STCW Code. These exemptions must be approved by the Coast Guard based upon vessel type. Under these circumstances, the credential may include a corresponding limitation.

(d) Seafarers with one of the following national officer endorsements are eligible to apply for this endorsement upon completion of the requirements in the following table:

Table 1 to § 11.317(d)—STCW Endorsement as Master of Vessels of Less Than 500 GT Limited to Near-Coastal Waters
Entry path from national endorsements | Sea service under authority of the endorsement ¹ | Competence—STCW Table A-II/3 ² | Training required by this section ³
Mate oceans or near-coastal, less than 500 GRT | None | Yes | Yes.
Mate towing vessel oceans or near-coastal | None | Yes | Yes.
Master oceans or near-coastal, less than 200 GRT | 6 months | Yes | Yes.
Mate oceans or near-coastal, less than 200 GRT | 12 months | Yes | Yes.
¹ This column provides the minimum additional service required of the seafarer in order to meet the requirements of this section.
² Complete any items in paragraph (a)(2) of this section not previously satisfied.
³ Complete any items in paragraph (a)(3) of this section not previously satisfied.

§ 11.319 Requirements to qualify for an STCW endorsement as Officer in Charge of a Navigational Watch (OICNW) of vessels of less than 500 GT (operational level).

(a) To qualify for an STCW endorsement as OICNW, an applicant must—

(1) Provide evidence of seagoing service as follows:

(i) Provide evidence of 36 months of service in the deck department on vessels operating in oceans, near-coastal waters, and/or Great Lakes. Service on inland waters, bays, or sounds that are navigable waters of the United States may be substituted for up to 50 percent of the required service. Experience gained in the engine department may be creditable for up to 3 months of the service requirements; or

(ii) Provide evidence of not less than 12 months of seagoing service as part of an approved training program that includes onboard training that meets the requirements of Section A-II/1 of the STCW Code (incorporated by reference, see § 11.102 of this part).

(2) Provide evidence of having performed during the required seagoing service, bridge watchkeeping duties, under the supervision of an officer holding the STCW endorsement as master, chief mate, or OICNW, for a period of not less than 6 months. The Coast Guard will accept service on vessels as boatswain, able seaman, or quartermaster while holding the appropriate deck watchkeeping rating endorsement, which may be accepted on a two-for-one basis to a maximum allowable substitution of 3 months (6 months of experience equals 3 months of creditable service);

(3) Provide evidence of meeting the standard of competence specified in Section A-II/1 of the STCW Code; and

(4) Provide evidence of having satisfactorily completed approved training in the following subject areas:

(i) Medical first-aid provider.

(ii) Radar observer, if serving on a vessel with this equipment.

(iii) Watchkeeping, including COLREGS and IMO standard marine communication phrases (SMCP).

(iv) Basic and advanced firefighting in accordance with § 11.303 of this subpart.

(v) Proficiency in survival craft and rescue boats other than fast rescue boats.

(vi) Visual signaling.

(vii) Bridge resource management;

(viii) ARPA, if serving on a vessel with this equipment.

(ix) GMDSS, if serving on a vessel with this equipment.

(x) ECDIS, if serving on a vessel with this equipment.

(b) For a renewal of an STCW endorsement as OICNW of vessels of less than 500 GT to be valid on or after January 1, 2017, each candidate must provide the following:

(1) Evidence of meeting the standard of competence in leadership and teamworking skills.

(2) Completion of approved training in ECDIS, if serving on a vessel with this equipment.

(c) The Coast Guard may exempt an applicant from meeting any individual knowledge, understanding, and proficiency required in Section A-II/3 of the STCW Code. These exemptions must be approved by the Coast Guard based upon vessel type. Under these circumstances, the credential may include a corresponding limitation.

(d) Seafarers with one of the following national officer endorsements are eligible to apply for this endorsement upon completion of the requirements in the following table:

Table 1 to § 11.319(d)—STCW Endorsement as Officer in Charge of a Navigational Watch (OICNW) of Vessels of Less Than 500 GT.
Entry path from national endorsements | Sea service under authority of the endorsement ¹ | Competence—STCW Table A-II/3 ² | Training required by this section ³
Mate oceans or near-coastal, less than 500 GRT | None | Yes | Yes.
Mate towing vessel oceans or near-coastal | None | Yes | Yes.
Master oceans or near-coastal, less than 200 GRT | 6 months | Yes | Yes.
Mate oceans or near-coastal, less than 200 GRT | 12 months | Yes | Yes.
¹ This column provides the minimum additional service required of the seafarer in order to meet the requirements of this section.
² Complete any items in paragraph (a)(2) of this section not previously satisfied.
³ Complete any items in paragraph (a)(3) of this section not previously satisfied.

§ 11.321 Requirements to qualify for an STCW endorsement as officer in charge of a navigational watch (OICNW) of vessels of less than 500 GT limited to near-coastal waters (operational level).

(a) To qualify for an STCW endorsement as OICNW, an applicant must—

(1) Provide evidence of seagoing service as follows:

(i) Twenty-four months of seagoing service in the deck department on vessels operating in oceans, near-coastal waters, and/or Great Lakes. Service on inland waters, bays, or sounds that are navigable waters of the United States may be substituted for up to 50 percent of the total required service. Experience gained in the engine department may be creditable for up to 3 months of the service requirements; or

(ii) Successful completion of an approved training program that includes seagoing service as required by the Coast Guard; or

(iii) Successful completion of approved training for this section and obtain 12 months of seagoing service;

(2) Provide evidence of meeting the standard of competence specified in Section A-II/3 of the STCW Code (incorporated by reference, see § 11.102 of this part); and

(3) Provide evidence of having satisfactorily completed approved training in the following subject areas:

(i) Medical first-aid provider.

(ii) Basic and advanced firefighting in accordance with § 11.303 of this subpart.

(iii) Proficiency in survival craft and rescue boats other than fast rescue boats.

(iv) Bridge resource management;

(v) ECDIS, if serving on a vessel with this equipment.

(vi) Radar observer, if serving on a vessel with this equipment.

(vii) ARPA, if serving on a vessel with this equipment.

(b) For a renewal of an STCW endorsement as OICNW of vessels of less than 500 GT limited to near-coastal waters to be valid on or after January 1, 2017, each candidate must provide the following:

(1) Evidence of meeting the standard of competence in leadership and teamworking skills.

(2) Completion of approved training in ECDIS, if serving on a vessel with this equipment.

(c) The Coast Guard may exempt an applicant from meeting any individual knowledge, understanding, and proficiency required in Section A-II/3 of the STCW Code. These exemptions must be approved by the Coast Guard based upon vessel type. Under these circumstances, the credential may include a corresponding limitation.

(d) Seafarers with one of the following national officer endorsements are eligible to apply for this endorsement upon completion of the requirements in the following table:

Table 1 to § 11.321(d)—STCW Endorsement as OICNW of Vessels of Less Than 500 GT Limited to Near-Coastal Waters
Entry path from national endorsements | Sea service under authority of the endorsement ¹ | Competence—STCW Table A-II/3 ² | Training required by this section ³
Mate oceans or near-coastal less than 500 GRT | None | Yes | Yes.
Mate towing vessel oceans or near-coastal | None | Yes | Yes.
Master oceans or near-coastal, less than 200 GRT | None | Yes | Yes.
Mate oceans or near-coastal, less than 200 GRT | 6 months | Yes | Yes.
¹ This column provides the minimum additional service required of the seafarer in order to meet the requirements of this section.
² Complete any items in paragraph (a)(2) of this section not previously satisfied.
³ Complete any items in paragraph (a)(3) of this section not previously satisfied.

§ 11.323 STCW engineer officer endorsements.

(a) Specific requirements for all STCW engineer officer endorsements are detailed in the applicable sections in this part.

(1) Chief engineer officer on vessels powered by main propulsion machinery of 3,000 kW/4,000 HP propulsion power or more (management level).

(2) Second engineer officer on vessels powered by main propulsion machinery of 3,000 kW/4,000 HP propulsion power or more (management level).

(3) Officer in charge of an engineering watch (OICEW) in a manned engineroom, or as a designated duty engineer in a periodically unmanned engineroom, on vessels powered by main propulsion machinery of 750 kW/1,000 HP propulsion power or more (operational level).

(4) Chief engineer officer on vessels powered by main propulsion machinery of between 750 kW/1,000 HP and 3,000 kW/4,000 HP propulsion power (management level).

(5) Second engineer officer on vessels powered by main propulsion machinery of 750 kW/1,000 HP to 3,000 kW/4,000 HP propulsion power (management level).

(6) Electro-technical officer on vessels powered by main propulsion machinery of 750 kW/1,000 HP or more (operational level).

(b) Limitations. (1) STCW engineer officer endorsements issued in accordance with §§ 11.325, 11.327, 11.329, 11.331, 11.333, and 11.335 of this subpart will be restricted to specific propulsion modes for steam, motor, or gas turbine-propelled vessels as appropriate.

(2) STCW engineer officer endorsements issued in accordance with §§ 11.325, 11.327, 11.329, 11.331, 11.333, and 11.335 of this subpart for motor or gas turbine-propelled vessels may be endorsed as limited to serve on vessels without auxiliary boilers, waste-heat boilers, distilling plants, oily water separators, or sewage treatment plants. An applicant may qualify for removal of any of these limitations by demonstrating the appropriate competencies.

(c) An engineer officer who does not hold an STCW endorsement may serve on seagoing vessels propelled by machinery of less than 750 kW/1,000 HP, the vessels specified in § 15.105(f) and (g) of this subchapter, and vessels operating on the Great Lakes or inland waters of the United States.

(d) An officer endorsement issued in the grade of chief engineer (limited) or assistant engineer (limited) allows the holder to serve within any propulsion power limitations on vessels of unlimited tonnage on inland waters, on vessels of less than 3,000 GT in Great Lakes service, and on the vessels specified in § 15.105(f) and (g) of this subchapter.

§ 11.325 Requirements to qualify for an STCW endorsement as chief engineer officer on vessels powered by main propulsion machinery of 3,000 kW/4,000 HP propulsion power or more (management level).

(a) To qualify for an STCW endorsement as chief engineer officer, an applicant must—

(1) Provide evidence of not less than 36 months of service as OICEW on ships powered by main propulsion machinery of 750 kW/1,000 HP propulsion power or more. This period may be reduced to not less than 24 months if the applicant has served for not less than 12 months as second engineer officer on ships powered by propulsion machinery of 3,000 kW/4,000 HP or more;

(2) Provide evidence of meeting the standard of competence specified in Section A-III/2 of the STCW Code (incorporated by reference, see § 11.102 of this part); and

(3) Provide evidence of having satisfactorily completed approved training in the following areas:

(i) Engineroom resource management (ERM) if not completed at the operational level.

(ii) Leadership and managerial skills.

(iii) Management of electrical and electronic control equipment.

(b) For a renewal of an STCW endorsement as chief engineer officer on vessels powered by main propulsion machinery of 3,000 kW/4,000 HP propulsion power or more to be valid on or after January 1, 2017, each candidate must provide evidence of successful completion of approved training in the following:

(1) ERM if not completed at the operational level.

(2) Leadership and managerial skills.

(3) Management of electrical and electronic control equipment.

(c) The Coast Guard may exempt an applicant from meeting any individual knowledge, understanding, and proficiency required in Section A-III/2 of the STCW Code. These exemptions must be approved by the Coast Guard based upon vessel type. Under these circumstances, the credential may include a corresponding limitation.

(d) Seafarers with one of the following national officer endorsements are eligible to apply for this endorsement upon completion of the requirements in the following table:

Table 1 to § 11.325(d)—STCW Endorsement as Chief Engineer Officer on Vessels Powered by Main Propulsion Machinery of 3,000kW/4,000HP Propulsion Power or More
Entry path from national endorsements | Sea service ¹ | Competence—STCW Table A-III/2 ² | Training required by this section ³
Chief engineer | None | Yes | Yes.
Chief engineer (limited) | 12 months | Yes | Yes.
Chief engineer (MODU) | 12 months/24 months ⁴ | Yes | Yes.
Chief engineer (OSV) | None | Yes | Yes.
Designated duty engineer, any horsepower ⁵ | 24 months as DDE | Yes | Yes.
¹ This column provides the minimum additional service required of the seafarer in order to meet the requirements of this section.
² Complete any items in paragraph (a)(2) of this section not previously satisfied.
³ Complete any items in paragraph (a)(3) of this section not previously satisfied.
⁴ Depending on the type of sea service used to obtain chief engineer (MODU) (refer to § 11.542 of this part)
⁵ STCW certificate should be limited to vessels less than 500 GRT.

§ 11.327 Requirements to qualify for an STCW endorsement as second engineer officer on vessels powered by main propulsion machinery of 3,000kW/4,000 HP propulsion power or more (management level).

(a) To qualify for an STCW endorsement as second engineer officer, an applicant must—

(1) Provide evidence of not less than 12 months of service as OICEW on vessels powered by main propulsion machinery of 750kW/1,000 HP or more; or 12 months of sea service as a chief engineer on vessels powered by propulsion machinery of vessels between 750kW/1,000 HP and 3,000 kW/4,000 HP;

(2) Provide evidence of meeting the standard of competence specified in Section A-III/2 of the STCW Code (incorporated by reference, see § 11.102 of this part); and

(3) Provide evidence of having satisfactorily completed approved training in the following areas:

(i) Engineroom resource management (ERM) if not completed at the operational level.

(ii) Leadership and managerial skills.

(iii) Management of electrical and electronic control equipment.

(b) For a renewal of an STCW endorsement as second engineer officer on vessels powered by main propulsion machinery of 3,000 kW/4,000 HP propulsion power or more to be valid on or after January 1, 2017, each candidate must provide evidence of successful completion of approved training in the following:

(1) ERM if not completed at the operational level.

(2) Leadership and managerial skills.

(3) Management of electrical and electronic control equipment.

(c) The Coast Guard may exempt an applicant from meeting any individual knowledge, understanding, and proficiency required in Section A-III/2 of the STCW Code. These exemptions must be approved by the Coast Guard based upon vessel type. Under these circumstances, the credential may include a corresponding limitation.

(d) Seafarers with one of the following national officer endorsements are eligible to apply for this endorsement upon completion of the requirements in the following table:

Table 1 to § 11.327(d)—STCW Endorsement as Second Engineer Officer on Vessels Powered by Main Propulsion Machinery of 3,000 kW/4,000 HP Propulsion Power or More
Entry path from national endorsements | Sea service ¹ | Competence—STCW Table A-III/2 ² | Training required by this section ³
First assistant engineer | None | Yes | Yes.
Second assistant engineer | None | Yes | Yes.
Third assistant engineer | 12 months | Yes | Yes.
Assistant engineer (limited) | 12 months | Yes | Yes.
Chief engineer MODU | 12 months | Yes | Yes.
Chief engineer OSV | None | Yes | Yes.
Designated duty engineer, unlimited ⁴ | 12 months as DDE | Yes | Yes.
¹ This column provides the minimum additional service required of the seafarer in order to meet the requirements of this section.
² Complete any items in paragraph (a)(2) of this section not previously satisfied.
³ Complete any items in paragraph (a)(3) of this section not previously satisfied.
⁴ STCW certificate should be limited to vessels less than 500 GRT.

§ 11.329 Requirements to qualify for an STCW endorsement as Officer in Charge of an Engineering Watch (OICEW) in a manned engineroom or designated duty engineer in a periodically unmanned engineroom on vessels powered by main propulsion machinery of 750 kW/1,000 HP propulsion power or more (operational level).

(a) To qualify for an STCW endorsement as OICEW, an applicant must—

(1) Provide evidence of seagoing service as follows:

(i) Thirty-six months of seagoing service in the engine department; or

(ii) Successful completion of an approved training program, which includes a combination of workshop skill training and seagoing service of not less than 12 months, and that meets the requirements of Section A-III/1 of the STCW Code (incorporated by reference, see § 11.102 of this part);

(2) Provide evidence of having performed during the required seagoing service, engine room watchkeeping duties, under the supervision of an officer holding the STCW endorsement as chief engineer officer or as a qualified engineer officer, for a period of not less than 6 months;

(3) Provide evidence of meeting the standard of competence specified in Section A-III/1 of the STCW Code; and

(4) Provide evidence of having satisfactorily completed approved training in the following subject areas:

(i) Medical first-aid provider.

(ii) Basic and advanced firefighting in accordance with § 11.303 of this subpart.

(iii) Proficiency in survival craft and rescue boats other than fast rescue boats.

(iv) Engineroom resource management (ERM).

(v) Engineering terminology and shipboard operations.

(vi) Auxiliary machinery.

(vii) Gas turbine plants, as applicable.

(viii) Steam plants, as applicable.

(ix) Motor plants, as applicable.

(x) Electrical machinery and basic electronics.

(xi) Control systems.

(b) Experience gained in the deck department may be creditable for up to 3 months of the service requirements in paragraph (a)(1)(i) of this section.

(c) For a renewal of an STCW endorsement as OICEW to be valid on or after January 1, 2017, each candidate must provide evidence of having satisfactorily completed ERM training and meeting the standard competence in leadership and teamworking skills if not previously completed.

(d) The Coast Guard may exempt an applicant from meeting any individual knowledge, understanding, and proficiency required in Section A-III/1 of the STCW Code. These exemptions must be approved by the Coast Guard based upon vessel type. Under these circumstances, the credential may include a corresponding limitation.

(e) Seafarers with one of the following national officer endorsements are eligible to apply for this endorsement upon completion of the requirements in the following table:

Table 1 to § 11.327(d)—STCW Endorsement as Second Engineer Officer on Vessels Powered by Main Propulsion Machinery of 3,000 kW/4,000 HP Propulsion Power or More
Entry path from national endorsements | Sea service ¹ | Competence—STCW Table A-III/2 ² | Training required by this section ³
First assistant engineer | None | Yes | Yes.
Second assistant engineer | None | Yes | Yes.
Third assistant engineer | 12 months | Yes | Yes.
Assistant engineer (limited) | 12 months | Yes | Yes.
Chief engineer MODU | 12 months | Yes | Yes.
Chief engineer OSV | None | Yes | Yes.
Designated duty engineer, unlimited ⁴ | 12 months as DDE | Yes | Yes.
¹ This column provides the minimum additional service required of the seafarer in order to meet the requirements of this section.
² Complete any items in paragraph (a)(2) of this section not previously satisfied.
³ Complete any items in paragraph (a)(3) of this section not previously satisfied.
⁴ STCW certificate should be limited to vessels less than 500 GRT.

§ 11.331 Requirements to qualify for an STCW endorsement as chief engineer officer on vessels powered by main propulsion machinery of 750 kW/1,000 HP or more and less than 3,000 kW/4,000 HP propulsion power (management level).

(a) To qualify for an STCW endorsement as chief engineer officer, an applicant must—

(1) Provide evidence of meeting the requirements for certification as OICEW, and have not less than 24 months of service on seagoing vessels powered by main propulsion machinery of not less than 750 kW/1,000 HP, of which not less than 12 months must be served while qualified to serve as second engineer officer. Experience gained in the deck department may be creditable for up to 2 months of the total service requirements;

(2) Provide evidence of meeting the standard of competence specified in Section A-III/3 of the STCW Code (incorporated by reference, see § 11.102 of this part); and

(3) Provide evidence of having satisfactorily completed approved training in the following areas:

(i) Engineroom resource management (ERM) if not completed at the operational level.

(ii) Leadership and managerial skills.

(iii) Management of electrical and electronic control equipment.

(b) For a renewal of an STCW endorsement as chief engineer officer on vessels powered by main propulsion machinery of 750 kW/1,000 HP or more and less than 3,000 kW/4,000 HP propulsion power to be valid on or after January 1, 2017, each candidate must provide evidence of successful completion of approved training in the following:

(1) ERM if not completed at the operational level.

(2) Leadership and managerial skills.

(3) Management of electrical and electronic control equipment.

(c) An engineer officer qualified to serve as second engineer officer on vessels powered by main propulsion machinery of 3,000 kW/4,000 HP or more, may serve as chief engineer officer on vessels powered by main propulsion machinery of 750 kW/1,000 HP or more and less than 3,000 kW/4,000 HP provided the certificate is so endorsed.

(d) The Coast Guard may exempt an applicant from meeting any individual knowledge, understanding, and proficiency required in Section A-III/3 of the STCW Code. These exemptions must be approved by the Coast Guard based upon vessel type. Under these circumstances, the credential may include a corresponding limitation.

(e) Seafarers with one of the following national officer endorsements are eligible to apply for this endorsement upon completion of the requirements in the following table:

Table 1 to § 11.331(e)—STCW Endorsement as Chief Engineer Officer on Vessels Powered by Main Propulsion Machinery of 750 kW/1,000 HP or More and Less Than 3,000 kW/4,000 HP Propulsion Power
Entry path from national endorsements | Sea service ¹ | Competence—STCW Table A-III/2 ² | Training required by this section ³
Chief engineer | None | Yes | Yes.
First assistant engineer | None | Yes | Yes.
Chief engineer (limited) | None | Yes | Yes.
Chief engineer OSV | None | Yes | Yes.
Chief engineer MODU | 12 months | Yes | Yes.
Designated duty engineer, 3,000 kW/4,000 HP | 12 months | Yes | Yes.
Designated duty engineer, 750 kW/1,000 HP | 24 months | Yes | Yes.
¹ This column provides the minimum additional service required of the seafarer in order to meet the requirements of this section.
² Complete any items in paragraph (a)(2) of this section not previously satisfied.
³ Complete any items in paragraph (a)(3) of this section not previously satisfied.

§ 11.333 Requirements to qualify for an STCW endorsement as second engineer officer on vessels powered by main propulsion machinery of 750kW/1,000 HP or more and less than 3,000 kW/4,000 HP propulsion power (management level).

(a) To qualify for an STCW endorsement as second engineer officer, an applicant must—

(1) Provide evidence of meeting the requirements for certification as OICEW, as well as serving for not less than 12 months as assistant engineer officer or engineer officer on vessels powered by main propulsion machinery of not less than 750 kW/1,000 HP. Experience gained in the deck department may be creditable for up to 1 month of the total service requirements;

(2) Provide evidence of meeting the standard of competence specified in Section A-III/3 of the STCW Code (incorporated by reference, see § 11.102 of this part); and

(3) Provide evidence of having satisfactorily completed approved training in the following areas:

(i) Engineroom resource management (ERM) if not completed at the operational level.

(ii) Leadership and managerial skills.

(iii) Management of electrical and electronic control equipment.

(b) For a renewal of an STCW endorsement as second engineer officer on vessels powered by main propulsion machinery of 750 kW/1,000 HP or more and less than 3,000 kW/4,000 HP propulsion power to be valid on or after January 1, 2017, each candidate must provide evidence of successful completion of approved training in the following:

(1) ERM if not completed at the operational level.

(2) Leadership and managerial skills.

(3) Management of electrical and electronic control equipment.

(c) The Coast Guard may exempt an applicant from meeting any individual knowledge, understanding, and proficiency required in Section A-III/3 of the STCW Code. These exemptions must be approved by the Coast Guard based upon vessel type. Under these circumstances, the credential may include a corresponding limitation.

(d) Seafarers with one of the following national officer endorsements are eligible to apply for this endorsement upon completion of the requirements in the following table:

Table 1 to § 11.333(d)—STCW Endorsement as Second Engineer Officer on Vessels Powered by Main Propulsion Machinery of 750 kW/1,000 HP or More and Less Than 3,000 kW/4,000 HP Propulsion Power
Entry path from national endorsements | Sea service ¹ | Competence—STCW Table A-III/2 ² | Training required by this section ³
First assistant engineer | None | Yes | Yes.
Second assistant engineer | None | Yes | Yes.
Third assistant engineer | 12 months | Yes | Yes.
Assistant engineer (limited) | None | Yes | Yes.
Assistant engineer OSV | None | Yes | Yes.
Assistant engineer MODU | 12 months | Yes | Yes.
¹ This column provides the minimum additional service required of the seafarer in order to meet the requirements of this section.
² Complete any items in paragraph (a)(2) of this section not previously satisfied.
³ Complete any items in paragraph (a)(3) of this section not previously satisfied.

§ 11.335 Requirements to qualify for an STCW endorsement as an electro-technical officer on vessels powered by main propulsion machinery of 750 kW/1,000 HP or more (operational level).

(a) To qualify for an STCW endorsement as an electro-technical officer (ETO), an applicant must—

(1) Provide evidence of 36 months combined workshop skills training and approved seagoing service of which not less than 30 months must be seagoing service in the engine department of vessels. Experience gained in the deck department may be creditable for up to 3 months of the service requirements; or completion of an approved training program, that includes a combination of workshop skill training and seagoing service of not less than 12 months, and which meets the requirements of Section A-III/6 of the STCW Code (incorporated by reference, see § 11.102 of this part);

(2) Provide evidence of meeting the standard of competence specified in Section A-III/6 of the STCW Code;

(3) Provide evidence of having satisfactorily completed approved training in the following subject areas:

(i) Medical first-aid provider.

(ii) Basic and advanced firefighting in accordance with § 11.303 of this subpart.

(iii) Proficiency in survival craft and rescue boats other than fast rescue boats; and

(4) Provide evidence of having satisfactorily completed approved professional training in the following subject areas:

(i) Onboard computer networking and security.

(ii) Radio electronics.

(iii) Integrated navigation equipment.

(iv) Ship propulsion and auxiliary machinery.

(v) Instrumentation and control systems.

(vi) High-voltage power systems.

(b) Any applicant who has served in a relevant capacity onboard a vessel for a period of not less than 12 months within the last 60 months and meets the standards of competence specified in Section A-III/6 of the STCW Code is considered by the Coast Guard to be suitably qualified but must provide evidence of—

(1) Seagoing service; and

(2) Having achieved the standards of competence specified in Section A-III/6 of the STCW Code.

(c) An applicant who holds an STCW endorsement as OICEW, second engineer officer, or chief engineer officer will be allowed to receive the ETO endorsement upon completion of the requirements in Section A-III/6 of the STCW Code.

(d) An applicant who does not hold any other national or STCW endorsement will be issued, upon completion of the requirements in this section, the ETO endorsement without any corresponding national endorsement.

§ 11.337 Requirements to qualify for an STCW endorsement as vessel security officer.

(a) The applicant for an endorsement as vessel security officer must present satisfactory documentary evidence in accordance with the requirements in 33 CFR 104.215.

(b) All applicants for an endorsement must meet the physical examination requirements in 46 CFR part 10, subpart C.

(c) All applicants for this endorsement must meet the safety and suitability requirements and the National Driver Registry review requirements in § 10.209(e) of this subchapter, unless they have met these requirements within the previous 5 years in connection with another endorsement.

Subpart D—Professional Requirements for National Deck Officer Endorsements

§ 11.401 Ocean and near-coastal national officer endorsements.

(a) Subject to the provisions of §§ 11.464(e) and 11.465(b) of this subpart, any license or MMC endorsement for service as master or mate on ocean waters qualifies the mariner to serve in the same grade on any waters, except towing vessels upon western rivers subject to the limitations of the endorsement.

(b) Subject to the provisions of §§ 11.464(e) and 11.465(b) of this subpart, any license or MMC endorsement issued for service as master or mate on near-coastal waters qualifies the mariner to serve in the same grade on Great Lakes and inland waters, except towing vessels upon western rivers subject to the limitations of the endorsement.

(c) Near-coastal endorsements for unlimited tonnage require the same number of years of service as the ocean-unlimited endorsements. The primary differences in these endorsements are the nature of the service and the scope of the required training, examination, and assessment.

(d) A master or mate on vessels of 200 GRT or more, and a master or mate on vessels under 200 GRT, may be endorsed for sail or auxiliary sail as appropriate. The applicant must present the equivalent total service required for conventional officer endorsements, including at least 1 year of deck experience on that specific type of vessel. For example, for an officer endorsement as master of vessels of less than 1,600 GRT endorsed for auxiliary sail, the applicant must meet the total experience requirements for the conventional officer endorsement, including time as mate, and the proper tonnage experience, including at least 1 year of deck service, on appropriately sized auxiliary sail vessels. For an endorsement to serve on vessels of less than 200 GRT, see the individual endorsement requirements.

(e) Service toward an oceans, near-coastal or STCW endorsement will be credited as follows:

(1) Service on the Great Lakes will be credited on a day-for-day basis.

(2) Service on inland waters, other than Great Lakes, that are navigable waters of the United States, may be substituted for up to 50 percent of the total required service.

(3) Service on vessels to which STCW applies, whether inland or coastwise, will be credited on a day-for-day basis.

§ 11.402 Tonnage requirements for national ocean or near-coastal endorsements for vessels of 1,600 GRT or more.

(a) To qualify for a national ocean or near-coastal endorsement for service on vessels of unlimited tonnage—

(1) All the required experience must be obtained on vessels of 100 GRT or more; and

(2) At least one-half of the required experience must be obtained on vessels of 1,600 GRT or more.

(b) If an applicant for a national endorsement as master or mate of unlimited tonnage does not have the service on vessels of 1,600 GRT or more as required by paragraph (a)(2) of this section, a tonnage limitation will be placed on the MMC based on the applicant's qualifying experience. The endorsement will be limited to the maximum tonnage on which at least 25 percent of the required experience was obtained, or 150 percent of the maximum tonnage on which at least 50 percent of the service was obtained, whichever is higher. However, the minimum tonnage limitation calculated according to this paragraph will be 2,000 GRT. Limitations are in multiples of 1,000 GRT using the next higher figure when an intermediate tonnage is calculated. When the calculated limitation equals or exceeds 10,000 GRT, the applicant is issued an unlimited tonnage endorsement.

(c) Tonnage limitations imposed under paragraph (b) of this section may be raised or removed in one of the following manners:

(1) When the applicant provides evidence of 6 months of service on vessels of 1,600 GRT or more in the highest grade endorsed, all tonnage limitations will be removed.

(2) When the applicant provides evidence of 6 months of service on vessels of 1,600 GRT or more in any capacity as an officer other than the highest grade for which he or she is endorsed, all tonnage limitations for the grade in which the service is performed will be removed and the next higher grade endorsement will be raised to the tonnage of the vessel on which the majority of the service was performed. The total cumulative service before and after issuance of the limited license or MMC officer endorsement may be considered in removing all tonnage limitations.

(3) When the applicant has 12 months of service as able seaman on vessels of 1,600 GRT or more while holding a license or endorsement as third mate, all tonnage limitations on the third mate's license or MMC officer endorsement will be removed.

(d) No applicant holding any national endorsement as master or mate of vessels of less than 1,600 GRT, less than 500 GRT, or less than 25-200 GRT may use the provisions of paragraph (c) of this section to increase the tonnages of his or her license or endorsement.

§ 11.403 Structure of national deck officer endorsements.

Figure 11.403 illustrates the national deck officer endorsement structure, including crossover points. The section numbers on the diagram refer to the specific requirements applicable.

§ 11.404 Service requirements for master of ocean or near-coastal self-propelled vessels of unlimited tonnage.

(a) The minimum service required to qualify an applicant for an endorsement as master of ocean or near-coastal self-propelled vessels of unlimited tonnage is—

(1) One year of service as chief mate on ocean self-propelled vessels; or

(2) While holding a license or MMC endorsement as chief mate of ocean self-propelled vessels of unlimited tonnage, 12 months of service on deck as follows:

(i) A minimum of 6 months of service as chief mate.

(ii) Service as second mate, third mate, or officer in charge of a navigational watch accepted on a two-for-one basis (12 months as officer in charge of a navigational watch equals 6 months of creditable service).

(b) An individual holding an endorsement or license as master of Great Lakes and inland, self-propelled vessels of unlimited tonnage, or master of inland, self-propelled vessels of unlimited tonnage, may obtain an endorsement as master of oceans or near-coastal self-propelled vessels of unlimited tonnage by providing evidence of sea service of not less than 24 months under the authority of the credential and by completing the prescribed examination in subpart I of this part. Service will be credited as follows:

(1) Service on the Great Lakes will be credited on a day-for-day basis up to 100 percent of the total required service.

(2) Service on inland waters, other than Great Lakes, that are navigable waters of the United States, will be credited on a day-for-day basis for up to 50 percent of the total required service.

(3) Service on vessels to which STCW applies, whether inland or coastwise, will be credited on a day-for-day basis.

(c) A person holding this endorsement may qualify for an STCW endorsement, according to § 11.305 of this part.

§ 11.405 Service requirements for chief mate of ocean or near-coastal self-propelled vessels of unlimited tonnage.

(a) The minimum service required to qualify an applicant for an endorsement as chief mate of ocean or near-coastal self-propelled vessels of unlimited tonnage is 1 year of service as officer in charge of a navigational watch on ocean self-propelled vessels while holding a license or MMC endorsement as second mate.

(b) Service towards an oceans, near-coastal, or STCW endorsement will be credited as follows:

(1) Service on the Great Lakes will be credited on a day-for-day basis.

(2) Service on inland waters, other than Great Lakes, that are navigable waters of the United States, may be substituted for up to 50 percent of the total required service.

(3) Service on vessels to which STCW applies, whether inland or coastwise, will be credited on a day-for-day basis.

(c) A person holding this endorsement may qualify for an STCW endorsement, according to § 11.307 of this part.

§ 11.406 Service requirements for second mate of ocean or near-coastal self-propelled vessels of unlimited tonnage.

(a) The minimum service required to qualify an applicant for an endorsement as second mate of ocean or near-coastal self-propelled vessels of unlimited tonnage is—

(1) One year of service as officer in charge of a navigational watch on ocean self-propelled vessels while holding a license or endorsement as third mate; or

(2) While holding a license or MMC endorsement as third mate of ocean self-propelled vessels of unlimited tonnage, 12 months of service on deck as follows:

(i) A minimum of 6 months service as officer in charge of a deck watch on ocean self-propelled vessels.

(ii) Service on ocean self-propelled vessels as boatswain, able seaman, or quartermaster while holding a certificate or MMC endorsement as able seaman, which may be accepted on a two-for-one basis to a maximum allowable substitution of six months (12 months of experience equals 6 months of creditable service).

(b) Service towards an oceans, near-coastal or STCW endorsement will be credited as follows:

(1) Service on the Great Lakes will be credited on a day-for-day basis up to 100 percent of the total required service.

(2) Service on inland waters, other than Great Lakes, that are navigable waters of the United States, will be credited on a day-for-day basis for up to 50 percent of the total required service.

(3) Service on vessels to which STCW applies, whether inland or coastwise, will be credited on a day-for-day basis.

(c) If an individual holds an endorsement or license as master of Great Lakes and inland self-propelled vessels of unlimited tonnage or master of inland self-propelled vessels of unlimited tonnage, he or she may obtain an endorsement as second mate of ocean or near-coastal self-propelled vessels of unlimited tonnage by completing the prescribed examination in subpart I of this part.

(d) A person holding this endorsement may qualify for an STCW endorsement, according to § 11.309 of this part.

§ 11.407 Service requirements for third mate of ocean or near-coastal self-propelled vessels of unlimited tonnage.

(a) The minimum service or training required to qualify an applicant for an endorsement as third mate of ocean or near-coastal self-propelled vessels of unlimited tonnage is—

(1) Three years of service in the deck department on ocean self-propelled vessels, with a minimum of 6 months of bridge watchkeeping duties under the supervision of the master or a qualified officer. Experience gained in the engine department on vessels of appropriate tonnage may be creditable for up to 3 months of the service requirements for this officer endorsement;

(2) Graduation from—

(i) The U.S. Merchant Marine Academy (deck curriculum);

(ii) The U.S. Coast Guard Academy with qualification as an underway officer in charge of a navigational watch, underway officer of the deck, or deck watch officer;

(iii) The U.S. Naval Academy with qualification as an underway officer in charge of a navigational watch, underway officer of the deck or deck watch officer; or

(iv) The deck class of a maritime academy approved by and conducted under rules prescribed by the Maritime Administrator and listed in part 310 of this title, including the ocean option program in the deck class of the Great Lakes Maritime Academy; or

(3) Satisfactory completion of a comprehensive apprentice mate training program approved by the Coast Guard.

(b) Graduation from the deck class of the Great Lakes Maritime Academy will qualify the graduate to be examined for an endorsement as third mate self-propelled vessels of unlimited tonnage with a route appropriate to the program completed.

(c) While holding a license or MMC endorsement as master of ocean or near-coastal self-propelled vessels of less than 1,600 GRT, 1 year of service as master on vessels of more than 200 GRT operating on ocean or near-coastal waters will qualify the applicant for an endorsement as third mate of ocean or near-coastal self-propelled vessels of unlimited tonnage.

(d) An individual holding an endorsement or license as mate of Great Lakes and inland, self-propelled vessels of unlimited tonnage, or master of inland, self-propelled vessels of unlimited tonnage, may obtain an endorsement as third mate of oceans or near-coastal self-propelled vessels of unlimited tonnage by completing the prescribed examination in subpart I of this part.

(e) A person holding this endorsement may qualify for an STCW endorsement, according to § 11.309 of this part.

§ 11.410 Requirements for deck officer endorsements for vessels of less than 1,600 GRT.

(a) Endorsements as master and mate of vessels of less than 1,600 GRT are issued in the following tonnage categories:

(1) Less than 1,600 GRT.

(2) Less than 500 GRT.

(3) Between 25 and 200 GRT in 50-ton increments and with appropriate mode of propulsion such as self-propelled, sail, or auxiliary sail.

(b) Experience gained in the engine department on vessels of appropriate tonnage may be creditable for up to 90 days of the service requirements for any master or mate endorsement in this category.

(c) An officer's endorsement in this category obtained with an orally assisted examination will be limited to 500 GRT. In order to raise that tonnage limit to 1,600 GRT, the written examination and service requirements must be satisfied.

§ 11.412 Service requirements for master of ocean or near-coastal self-propelled vessels of less than 1,600 GRT.

(a) The minimum service required to qualify an applicant for an endorsement as master of ocean or near-coastal self-propelled vessels of less than 1,600 GRT is—

(1) Four years total service on ocean or near-coastal waters. Service on Great Lakes and inland waters may substitute for up to 2 years of the required service. Two years of the required service must have been on vessels of more than 100 GRT. Two years of the required service must have been as a master or mate of self-propelled vessels, or master or mate (pilot) of towing vessels, or equivalent position while holding a license or MMC endorsement as master or mate of self-propelled vessels, or master or mate (pilot) of towing vessels. One year of the service as master or mate of self-propelled vessels, or master or mate (pilot) of towing vessels, or equivalent position must have been on vessels of more than 100 GRT; or

(2) One year of service on vessels of more than 100 GRT on ocean or near-coastal waters as a master or mate of self-propelled vessels, or master or mate of towing vessels while holding a license or MMC endorsement as mate of ocean self-propelled vessels of less than 1,600 GRT or as master or mate of towing vessels.

(b) An applicant holding a license or MMC endorsement as chief mate of ocean or near-coastal self-propelled vessels of 1,600 GRT or more is eligible for this endorsement without further examination. An applicant holding a license or MMC endorsement as second mate of ocean or near-coastal self-propelled vessels of 1,600 GRT or more is eligible for this endorsement upon completion of a limited examination.

(c) A person holding this endorsement may qualify for an STCW endorsement, according to § 11.311 of this part.

§ 11.414 Service requirements for mate of ocean self-propelled vessels of less than 1,600 GRT.

(a) The minimum service required to qualify an applicant for an endorsement as mate of self-propelled vessels of less than 1,600 GRT is—

(1) Three years of total service in the deck department of ocean or near-coastal self-propelled, sail, or auxiliary sail vessels, as follows:

(i) Service on Great Lakes and inland waters may substitute for up to 18 months of the required service.

(ii) One year of the required service must have been on vessels of more than 100 GRT.

(iii) One year of the required service must have been as a master or mate of self-propelled vessels, or master or mate (pilot) of towing vessels, or equivalent position while holding a license or MMC endorsement as master, mate, or master or mate (pilot) of towing vessels. Six months of the required service as master or mate of self propelled vessels, or master or mate (pilot) of towing vessels, or equivalent position must have been on vessels of more than 100 GRT; or

(2) Three years of total service in the deck department on ocean or near-coastal self-propelled, sail, or auxiliary sail vessels of more than 100 GRT. Six months of the required service must have been while performing bridge watchkeeping duties under the supervision of the master or a qualified officer.

(b) A person holding this endorsement may qualify for an STCW endorsement, according to § 11.309 of this part.

§ 11.416 Service requirements for mate of near-coastal self-propelled vessels of less than 1,600 GRT.

(a) The minimum service required to qualify an applicant for an endorsement as mate of near-coastal self-propelled vessels of less than 1,600 GRT is 2 years of total service in the deck department of ocean or near-coastal self-propelled, sail, or auxiliary sail vessels. Service on Great Lakes and inland waters may substitute for up to 1 year of the required service. One year of the required service must have been on vessels of more than 100 GRT. Six months of the required service must have been while performing bridge watchkeeping duties under the supervision of the master or a qualified officer.

(b) A person holding this endorsement may qualify for an STCW endorsement, according to § 11.309 of this part.

§ 11.418 Service requirements for master of ocean or near-coastal self-propelled vessels of less than 500 GRT.

(a) The minimum service required to qualify an applicant for an endorsement as master of ocean or near-coastal self-propelled vessels of less than 500 GRT is—

(1) Three years total of service on ocean or near-coastal waters. Service on Great Lakes and inland waters may substitute for up to 18 months of the required service. Two years of the required service must have been as a master, mate, or equivalent position while holding a license or MMC endorsement as master, mate, or operator of uninspected passenger vessels. One year of the required service as master, mate, or equivalent position must have been on vessels of more than 50 GRT; or

(2) One year of service on vessels of more than 50 GRT on ocean or near-coastal waters as a master or mate of self-propelled vessels, or master or mate of towing vessels while holding a license or MMC endorsement as mate of ocean self-propelled vessels of less than 500 GRT.

(b) The holder of a license or MMC endorsement as master or mate (pilot) of towing vessels authorizing service on oceans or near-coastal routes is eligible for an endorsement as master of ocean or near-coastal self-propelled vessels of less than 500 GRT after both 1 year of service as master or mate of towing vessels on oceans or near-coastal routes and completion of a limited examination.

(c) A person holding this endorsement may qualify for an STCW endorsement, according to §§ 11.307, 11.309, 11.311, 11.313, and 11.315 of this part.

§ 11.420 Service requirements for mate of ocean self-propelled vessels of less than 500 GRT.

(a) The minimum service required to qualify an applicant for an endorsement as mate of ocean self-propelled vessels of less than 500 GRT is 2 years of total service in the deck department of ocean or near-coastal self-propelled, sail, or auxiliary sail vessels. Service on Great Lakes and inland waters may substitute for up to 1 year of the required service. One year of the required service must have been as a master, mate, or equivalent position while holding a license or endorsement as master, mate, or operator of uninspected passenger vessels. Six months of the required service as master, mate, or equivalent position must have been on vessels of more than 50 GRT.

(b) A person holding this endorsement may qualify for an STCW endorsement, according to §§ 11.309, 11.317, 11.319, and 11.321 of this part.

§ 11.421 Service requirements for mate of near-coastal self-propelled vessels of less than 500 GRT.

(a) The minimum service required to qualify an applicant for an endorsement as mate of near-coastal self-propelled vessels of less than 500 GRT is 2 years of total service in the deck department of ocean or near-coastal self-propelled, sail, or auxiliary sail vessels. Service on Great Lakes and inland waters may substitute for up to 1 year of the required service. One year of the required service must have been on vessels of more than 50 GRT. Three months of the required service must have been while performing bridge watchkeeping duties under the supervision of the master or a qualified officer on vessels of more than 50 GRT.

(b) A person holding this endorsement may qualify for an STCW endorsement, according to §§ 11.309, 11.317, 11.319, and 11.321 of this part.

§ 11.422 Tonnage limitations and qualifying requirements for endorsements as master or mate of vessels of less than 200 GRT.

(a) Each national endorsement as master or mate of vessels of less than 200 GRT is issued with a tonnage limitation based on the applicant's qualifying experience. The tonnage limitation will be issued at the 25, 50, 100, or 200 GRT level. The endorsement will be limited to the maximum GRT on which at least 25 percent of the required experience was obtained, or 150 percent of the maximum GRT on which at least 50 percent of the service was obtained, whichever is higher. Limitations are as stated above, using the next higher figure when an intermediate tonnage is calculated. If more than 75 percent of the qualifying experience is obtained on vessels of 5 GRT or less, the MMC will automatically be limited to vessels of less than 25 GRT.

(b) The tonnage limitation may be raised as follows:

(1) For an endorsement as mate, with at least 45 days of additional service on deck of a vessel in the highest tonnage increment authorized by the officer endorsement.

(2) For an endorsement as master, with at least 90 days of additional service on deck of a vessel in the highest tonnage increment authorized by the master endorsement.

(3) With additional service, which, when combined with all previously accumulated service, will qualify the applicant for a higher tonnage officer endorsement under the basic formula specified in paragraph (a) of this section.

(4) With 6 months additional service in the deck department on vessels within the highest tonnage increment on the officer's license or MMC endorsement. In this case, the tonnage limitation may be raised one increment.

(c) When the service is obtained on vessels upon which no personnel need an officer endorsement or license, the Coast Guard must be satisfied that the nature of this required service (i.e., size of vessel, route, equipment, etc.) is a reasonable equivalent to the duties performed on vessels which are required to engage individuals with officer endorsements.

(d) Service gained in the engine room on vessels of 200 GRT or less may be creditable for up to 90 days of the deck service requirements for mate.

§ 11.424 Requirements for master of ocean self-propelled vessels of less than 200 GRT.

(a) The minimum service required to qualify an applicant for an officer endorsement as master of ocean self-propelled vessels of less than 200 GRT is—

(1) Three years of total service on ocean or near-coastal waters. Service on Great Lakes and inland waters may substitute for up to 18 months of the required service. Two years of the required service must have been as master, mate, or equivalent position while holding a license or MMC endorsement as master, as mate, or as operator of uninspected passenger vessels; or

(2) Two years of total service as a master or mate of ocean or near-coastal towing vessels. Completion of an examination is also required.

(b) In order to obtain an officer endorsement for sail or auxiliary sail vessels, the applicant must submit evidence of 12 months of service on sail or auxiliary sail vessels. The required 12 months of service may have been obtained prior to issuance of the master's license or MMC endorsement.

(c) A person holding this endorsement may qualify for an STCW endorsement, according to §§ 11.315, 11.317, 11.319, and 11.321 of this part.

§ 11.425 Requirements for mate of ocean self-propelled vessels of less than 200 GRT.

(a) The minimum service required to qualify for the endorsement as mate of ocean self-propelled vessels of less than 200 GRT is—

(1) Twelve months of total service in the deck department of ocean or near-coastal self-propelled, sail, or auxiliary sail vessels. Service on Great Lakes and inland waters may substitute for up to 6 months of the required service; or

(2) Three months of service in the deck department of self-propelled vessels operating on ocean, near-coastal, Great Lakes, or inland waters while holding a license or MMC endorsement as master of inland self-propelled, sail, or auxiliary sail vessels of less than 200 GRT.

(b) The holder of a license or MMC endorsement as operator of uninspected passenger vessels with a near-coastal route endorsement may obtain this endorsement by successfully completing an examination on rules and regulations for small passenger vessels.

(c) To obtain this officer endorsement for sail or auxiliary sail vessels, the applicant must submit evidence of 6 months of deck service on sail or auxiliary sail vessels.

(d) A license or MMC endorsement as master of near-coastal self-propelled vessels may be endorsed as mate of sail or auxiliary sail vessels upon presentation of 3 months of service on sail or auxiliary sail vessels.

(e) To obtain a tonnage endorsement for 100 GRT or more, the applicant must complete the additional examination topics indicated in subpart I of this part.

(f) A person holding this endorsement may qualify for an STCW endorsement, according to §§ 11.319 and 11.321 of this part.

§ 11.426 Requirements for master of near-coastal self-propelled vessels of less than 200 GRT.

(a) The minimum service required to qualify for a master of near-coastal self-propelled vessels of less than 200 GRT is—

(1) Two years total service on ocean or near-coastal waters. Service on Great Lakes and inland waters may substitute for up to 1 year of the required service. One year of the required service must have been as a master, mate, or equivalent position while holding a license or endorsement as master, mate, or operator of uninspected passenger vessels; or

(2) One year of total service as master or mate of towing vessels on ocean or near-coastal routes. Completion of an examination is also required.

(b) To obtain this officer endorsement for sail or auxiliary sail vessels, the applicant must submit evidence of 12 months of service on sail or auxiliary sail vessels. These 12 months of experience may have been obtained before qualifying for an officer endorsement.

(c) Holders of this endorsement are considered to be in compliance with the STCW Convention (incorporated by reference, see § 11.102) while operating within the limitations of this endorsement.

§ 11.427 Requirements for mate of near-coastal self-propelled vessels of less than 200 GRT.

(a) The minimum service required to qualify for the endorsement as mate of near-coastal self-propelled vessels of less than 200 GRT is—

(1) Twelve months of total service in the deck department of ocean or near-coastal self-propelled, sail, or auxiliary sail vessels. Service on Great Lakes and inland waters may substitute for up to 6 months of the required service; or

(2) Three months of service in the deck department of self-propelled vessels operating on ocean, near-coastal, Great Lakes, or inland waters while holding a license or MMC endorsement as master of inland self-propelled, sail, or auxiliary sail vessels of less than 200 GRT.

(b) The holder of a license or MMC endorsement as operator of uninspected passenger vessels with a near-coastal route endorsement may obtain this endorsement by successfully completing an examination on rules and regulations for small passenger vessels.

(c) To obtain this officer endorsement for sail or auxiliary sail vessels, the applicant must submit evidence of 6 months of deck service on sail or auxiliary sail vessels.

(d) A license or MMC endorsement as master of near-coastal self-propelled vessels may be endorsed as mate of sail or auxiliary sail vessels upon presentation of 3 months of service on sail or auxiliary sail vessels.

(e) To obtain a tonnage endorsement for 100 GRT or more, the applicant must complete the additional examination topics indicated in subpart I of this part.

(f) Holders of this endorsement are considered to be in compliance with the STCW Convention (incorporated by reference, see § 11.102) while operating within the limitations of this endorsement.

§ 11.428 Requirements for master of near-coastal self-propelled vessels of less than 100 GRT.

(a) The minimum service required to qualify for the endorsement as master of self-propelled, seagoing vessels of less than 100 GRT limited to domestic voyages upon near-coastal waters is 2 years of service in the deck department of a self-propelled vessel on ocean or near-coastal waters. Service on Great Lakes and inland waters may substitute for up to 1 year of the required service.

(b) To obtain an endorsement for sail or auxiliary sail vessels, the applicant must submit evidence of 12 months of service on sail or auxiliary-sail vessels. This required service may have been obtained before issuance of the license or MMC.

(c) Holders of this endorsement are considered to be in compliance with the STCW Convention (incorporated by reference, see § 11.102 of this part) while operating within the limitations of this endorsement.

(d) All endorsements issued for master or mate of vessels of less than 100 GRT are issued in tonnage increments based on the applicant's qualifying experience in accordance with the provisions of § 11.422 of this subpart.

§ 11.429 Requirements for a limited master of near-coastal self-propelled vessels of less than 100 GRT.

(a) An endorsement as limited master for service on near-coastal waters on vessels of less than 100 GRT may be issued to an applicant to be employed by organizations such as yacht clubs, marinas, formal camps, and educational institutions. An endorsement issued under this section is limited to the specific activity and the locality of the yacht club, marina, or camp. To obtain this restricted endorsement, an applicant must—

(1) Have 4 months of service on any waters in the operation of the type of vessel for which the endorsement is requested;

(2) Satisfactorily complete a safe boating course approved by the National Association of State Boating Law Administrators, or a safe boating course conducted by the U.S. Power Squadron or the American Red Cross, or a Coast Guard-approved course. This course must have been completed within 5 years before the date of application; and

(3) Pass a limited examination appropriate for the activity to be conducted and the route authorized.

(b) The first aid and cardiopulmonary resuscitation (CPR) course certificates required by § 11.201(i) of this part will only be required when, in the opinion of the Coast Guard, the geographic area over which service is authorized precludes obtaining medical services within a reasonable time.

(c) To obtain an endorsement for sail or auxiliary sail vessels, the applicant must submit evidence of 4 months of service on sail or auxiliary sail vessels. The required 4 months of service may have been obtained prior to issuance of the license or MMC endorsement.

(d) Holders of this endorsement are considered to be in compliance with the STCW Convention (incorporated by reference, see § 11.102 of this part) while operating within the limitations of this endorsement.

§ 11.430 Endorsements for the Great Lakes and inland waters.

(a) Any officer endorsement issued for service on Great Lakes and inland waters self-propelled vessels, excluding towing vessels, is valid on all of the inland waters of the United States as defined in § 10.107 of this subchapter.

(b) Any officer endorsement issued for service on inland waters self-propelled vessels, excluding towing vessels, is valid for the inland waters of the United States, excluding the Great Lakes.

(c) Any officer endorsement issued for service on inland waters or an inland route is valid for service on the sheltered waters of the Inside Passage between Puget Sound and Cape Spencer, Alaska.

(d) Because these officer endorsements authorize service on waters seaward of the International Regulations for Preventing Collisions at Sea (COLREGS) demarcation lines, as defined in 33 CFR part 80, the applicant must complete an examination on the COLREGS or the endorsement will exclude such waters.

(e) To obtain a master or mate endorsement with a tonnage limit of 200 GRT or more, whether an original, raise-in-grade, or increase in the scope of authority, the applicant must meet the training requirements in § 11.201(h) and (i) of this part and successfully complete radar observer training in § 11.480 of this part.

(f) Figure 11.430(f) illustrates the deck officer endorsement structure, including crossover points, for Great Lakes and inland waters service. The section numbers on the diagram refer to the specific requirements applicable.

§ 11.431 Tonnage requirements for Great Lakes and inland endorsements for vessels of 1,600 GRT or more.

(a) All required experience for Great Lakes and inland unlimited endorsements must be obtained on vessels of 100 GRT or more. At least one-half of the required experience must be obtained on vessels of 1,600 GRT or more.

(b) Tonnage limitations may be imposed on these endorsements in accordance with § 11.402(b) and (c) of this subpart.

§ 11.433 Requirements for master of Great Lakes and inland self-propelled vessels of unlimited tonnage.

(a) The minimum service required to qualify an applicant for an endorsement as master of Great Lakes and inland self-propelled vessels of unlimited tonnage is—

(1) One year of service as a mate or first-class pilot while acting in the capacity of first mate of Great Lakes self-propelled vessels of 1,600 GRT or more while holding a license or MMC endorsement as mate inland or first-class pilot of Great Lakes and inland self-propelled vessels of unlimited tonnage;

(2) Two years of service as master of self-propelled vessels of 1,600 GRT or more on inland waters, excluding the Great Lakes; or

(3) One year of service upon Great Lakes waters while holding a license or MMC endorsement as mate or first-class pilot of Great Lakes and inland self-propelled vessels of 1,600 GRT or more. A minimum of 6 months of this service must have been in the capacity of first mate. Service as second mate is accepted for the remainder on a two-for-one basis to a maximum of 6 months (2 days of service equals 1 day of creditable service).

(b) [Reserved]

§ 11.435 Requirements for master of inland self-propelled vessels of unlimited tonnage.

(a) The minimum service required to qualify an applicant for an endorsement as master of self-propelled vessels of unlimited tonnage on inland waters, excluding the Great Lakes is—

(1) One year of service as first-class pilot (of other than canal and small lakes routes) or mate of Great Lakes or inland self-propelled vessels of 1,600 GRT or more while holding a license or MMC endorsement as mate inland or first-class pilot of Great Lakes and inland self-propelled vessels of unlimited tonnage; or

(2) Two years of service performing bridge watchkeeping duties under the supervision of the master or a qualified officer while holding a mate/first-class pilot license or MMC endorsement.

(b) [Reserved]

§ 11.437 Requirements for mate of Great Lakes and inland self-propelled vessels of unlimited tonnage.

(a) The minimum service required to qualify an applicant for an endorsement as mate of Great Lakes and inland self-propelled vessels of unlimited tonnage is—

(1) Three years of service in the deck department of self-propelled vessels, at least 3 months of which must have been on vessels on inland waters and at least 6 months of which must have been while performing bridge watchkeeping duties under the supervision of the master or a qualified officer;

(2) Graduation from the deck class of the Great Lakes Maritime Academy; or

(3) While holding a license or MMC endorsement as master of Great Lakes and inland self-propelled vessels of less than 1,600 GRT, 1 year of service as master on vessels of 200 GRT or more. A tonnage limitation may be placed on this license in accordance with § 11.431 of this subpart.

(b) Service gained in the engine department on vessels of appropriate tonnage may be creditable for up to 6 months of the service requirements under paragraph (a)(1) of this section.

§ 11.442 Requirements for master of Great Lakes and inland self-propelled vessels of less than 1,600 GRT.

(a) The minimum service required to qualify an applicant for an endorsement as master of Great Lakes and inland self-propelled vessels of less than 1,600 GRT is—

(1) Three years of total service on vessels. Eighteen months of the required service must have been on vessels of 100 GRT or more. One year of the required service must have been as a master, mate, or equivalent position on vessels of 100 GRT or more while holding a license or MMC endorsement as master, mate, or master of towing vessels; or

(2) Six months of service as operator on vessels of 100 GRT or more while holding a license or MMC endorsement as master of towing vessels.

(b) [Reserved]

§ 11.444 Requirements for mate of Great lakes and inland self-propelled vessels of less than 1,600 GRT.

(a) The minimum service required to qualify an applicant for an endorsement as mate of Great Lakes and inland self-propelled vessels of less than 1,600 GRT is—

(1) Two years of total service in the deck department of self-propelled vessels. One year of the required service must have been on vessels of 100 GRT or more. Six months of the required service must have been while performing bridge watchkeeping duties under the supervision of the master or a qualified officer on vessels of 100 GRT or more;

(2) One year of total service as master of self-propelled, sail, or auxiliary sail vessels, or operator of uninspected passenger vessels of 50 GRT or more while holding a license or MMC endorsement as master of self-propelled vessels of less than 200 GRT or OUPV; or

(3) Six months of total service as mate (pilot) of towing vessels on vessels of 100 GRT or more.

(b) [Reserved]

§ 11.446 Requirements for master of Great Lakes and inland self-propelled vessels of less than 500 GRT.

(a) The minimum service required to qualify an applicant for an endorsement as master of Great Lakes and inland self-propelled vessels of less than 500 GRT is—

(1) Three years of total service on vessels. One year of the required service must have been as a master, mate, or equivalent position on vessels of 50 GRT or more while holding a license or MMC endorsement as master, mate, or OUPV.

(2) [Reserved]

(b) An applicant holding a license or MMC endorsement as master of ocean, near-coastal, or Great Lakes and inland towing vessels is eligible for this endorsement after 6 months of service as master of towing vessels and completion of a limited examination. This requires 3 1/2 years of service. Two years of this service must have been served while holding a license or MMC endorsement as master or mate (pilot) of towing vessels, or mate.

§ 11.448 Requirements for mate of Great Lakes and inland self-propelled vessels of less than 500 GRT.

The minimum service required to qualify an applicant for an endorsement as mate of Great Lakes and inland self-propelled vessels of less than 500 GRT is 2 years of total service in the deck department of self-propelled vessels. One year of the required service must have been on vessels of 50 GRT or more. Three months of the required service must have been while performing bridge watchkeeping duties under the supervision of the master or a qualified officer on vessels of 50 GRT or more.

§ 11.450 Tonnage limitations and qualifying requirements for endorsements as master or mate of Great Lakes and inland vessels of less than 200 GRT.

(a) Except as noted in paragraph (d) of this section, all endorsements issued for master or mate of vessels of less than 200 GRT are issued in 50 GRT increments based on the applicant's qualifying experience in accordance with the provisions of § 11.422 of this subpart.

(b) Service gained in the engineroom on vessels of less than 200 GRT may be creditable for up to 25 percent of the deck service requirements for mate.

(c) When the service is obtained on vessels upon which personnel with licenses or endorsements are not required, the Coast Guard must be satisfied that the nature of this required service (i.e., size of vessel, route, equipment, etc.) is a reasonable equivalent to the duties performed on vessels which are required to engage individuals with endorsements.

(d) If more than 75 percent of the qualifying experience is obtained on vessels of 5 GRT or less, the license will automatically be limited to vessels of less than 25 GRT.

§ 11.452 Requirements for master of Great Lakes and inland self-propelled vessels of less than 200 GRT.

(a) The minimum service required to qualify an applicant for an endorsement or license as master of Great Lakes and inland self-propelled vessels of less than 200 GRT is 1 year of service on vessels. Six months of the required service must have been as master, mate, or equivalent position while holding a license or endorsement as master or mate of self-propelled vessels, or master or mate (pilot) of towing vessels, or OUPV. To obtain authority to serve on the Great Lakes, 3 months of the required service must have been on Great Lakes waters; otherwise the endorsement will be limited to the inland waters of the United States (excluding the Great Lakes).

(b) To obtain an endorsement for sail or auxiliary sail vessels, the applicant must have 6 months of service on sail or auxiliary sail vessels. This required service may have been obtained prior to issuance of the license or MMC endorsement as master.

§ 11.454 Requirements for mate of Great Lakes and inland self-propelled vessels of less than 200 GRT.

(a) The minimum service required to qualify an applicant for an endorsement as mate of Great Lakes and inland self-propelled vessels of less than 200 GRT is 6 months of service in the deck department of self-propelled vessels. To obtain authority to serve on the Great Lakes, 3 months of the required service must have been on Great Lakes waters; otherwise the endorsement will be limited to the inland waters of the United States (excluding the Great Lakes).

(b) To obtain an endorsement for sail or auxiliary sail vessels, the applicant must submit evidence of 3 months of service on sail or auxiliary sail vessels.

(c) A mariner holding an endorsement as master of self-propelled vessels may be endorsed as mate of sail or auxiliary sail vessels upon presentation of 3 months service on sail or auxiliary sail vessels.

(d) The holder of a license or MMC endorsement as operator of inland uninspected passenger vessels may obtain this endorsement by successfully completing an examination on rules and regulations for small passenger vessels. To obtain authority to serve on the Great Lakes, 3 months of the required service must have been on Great Lakes waters; otherwise the endorsement will be limited to the inland waters of the United States (excluding the Great Lakes).

(e) To obtain a tonnage endorsement for 100 GRT or more, the applicant must complete the additional examination topics indicated in subpart I of this part.

§ 11.455 Requirements for master of Great Lakes and inland self-propelled vessels of less than 100 GRT.

(a) The minimum service required to qualify an applicant for an endorsement as master of Great Lakes and inland self-propelled vessels of less than 100 GRT is 1 year of total service in the deck department of self-propelled, sail, or auxiliary sail vessels. To obtain authority to serve on the Great Lakes, 3 months of the required service must have been on Great Lakes waters; otherwise the endorsement will be limited to the inland waters of the United States (excluding the Great Lakes).

(b) To obtain an endorsement for sail or auxiliary sail vessels, the applicant must submit evidence of 6 months of service on sail or auxiliary sail vessels. The required 6 months of service may have been obtained prior to issuance of the endorsement.

(c) All endorsements issued for master or mate of vessels of less than 100 GRT are issued in tonnage increments based on the applicant's qualifying experience in accordance with the provisions of § 11.422 of this subpart.

§ 11.456 Requirements for limited master of Great Lakes and inland self-propelled vessels of less than 100 GRT.

(a) An endorsement as limited master for vessels of less than 100 GRT upon Great Lakes and inland waters may be issued to an applicant to be employed by organizations such as formal camps, educational institutions, yacht clubs, and marinas with reduced service requirements. An endorsement issued under this paragraph is limited to the specific activity and the locality of the camp, yacht club, or marina. To obtain this restricted endorsement, an applicant must—

(1) Have 4 months of service in the operation of the type of vessel for which the endorsement is requested;

(2) Satisfactorily complete a safe boating course approved by the National Association of State Boating Law Administrators, a public education course conducted by the U.S. Power Squadron or the American Red Cross, or a Coast Guard-approved course. This course must have been completed within 5 years before the date of application; and

(3) Pass a limited examination appropriate for the activity to be conducted and the route authorized.

(b) The first aid and cardiopulmonary resuscitation (CPR) course certificates required by § 11.201(i) of this part will only be required when, in the opinion of the Coast Guard, the geographic area over which service is authorized precludes obtaining medical services within a reasonable time.

§ 11.457 Requirements for master of inland self-propelled vessels of less than 100 GRT.

(a) An applicant for an endorsement as master of inland self-propelled vessels of less than 100 GRT must present 1 year of service on any waters. In order to raise the tonnage limitation to more than 100 GRT, the examination topics indicated in subpart I of this part must be completed in addition to satisfying the experience requirements of § 11.452(a) of this subpart.

(b) To obtain an endorsement for sail or auxiliary sail vessels, the applicant must submit evidence of 6 months of service on sail or auxiliary sail vessels. The required 6 months of service may have been obtained prior to issuance of the license or MMC endorsement.

(c) All endorsements issued for master or mate of vessels of less than 100 GRT are issued in tonnage increments based on the applicant's qualifying experience in accordance with the provisions of § 11.422 of this subpart.

§ 11.459 Requirements for national endorsement as master or mate of rivers.

(a) An applicant for an endorsement as master of river self-propelled vessels of unlimited tonnage must meet the same service requirements as master of inland self-propelled vessels of unlimited tonnage.

(b) An applicant for an endorsement as master or mate of river self-propelled vessels, with a limitation of 25 to 1,600 GRT, must meet the same service requirements as those required by this subpart for the corresponding tonnage Great Lakes and inland self-propelled endorsement. Service on the Great Lakes is not, however, required.

§ 11.462 Requirements for national endorsement as master or mate of uninspected fishing industry vessels.

(a) This section applies to endorsements for masters and mates of all vessels, however propelled, navigating the high seas, which are documented to engage in the fishing industry, with the exception of—

(1) Wooden ships of primitive build;

(2) Unrigged vessels; and

(3) Vessels of less than 200 GRT.

(b) Endorsements as master or mate of uninspected fishing industry vessels are issued for either ocean or near-coastal routes, depending on the examination completed. To qualify for an uninspected fishing industry vessel endorsement, the applicant must satisfy the training and examination requirements of § 11.201(h)(1) of this part.

(c) An applicant for an endorsement as master of uninspected fishing industry vessels must have 4 years of total service on ocean or near-coastal routes. Service on Great Lakes or inland waters may substitute for up to 2 years of the required service. One year of the required service must have been as master, mate, or equivalent position while holding a license or MMC endorsement as master or mate of self-propelled vessels, or master or mate (pilot) of towing vessels, or OUPV.

(1) To qualify for an endorsement for less than 500 GRT, at least 2 years of the required service, including the 1 year as master, mate, or equivalent, must have been on vessels of 50 GRT or more.

(2) To qualify for an endorsement for less than 1,600 GRT, at least 2 years of the required service, including the 1 year as master, mate, or equivalent, must have been on vessels of 100 GRT or more.

(3) To qualify for an endorsement for more than 1,600 GRT, but not more than 5,000 GRT, the vessel tonnage upon which the 4 years of required service was obtained will be used to compute the tonnage. The endorsement is limited to the maximum tonnage on which at least 25 percent of the required service was obtained or 150 percent of the maximum tonnage on which at least 50 percent of the service was obtained, whichever is higher. Limitations are in multiples of 1,000 GRT, using the next higher figure when an intermediate tonnage is calculated. An endorsement as master of uninspected fishing industry vessels authorizing service on vessels more than 1,600 GRT also requires 1 year as master, mate, or equivalent on vessels of 100 GRT or more.

(4) The tonnage limitation for this endorsement may be raised using one of the following methods but cannot exceed 5,000 GRT. Limitations are in multiples of 1,000 GRT, using the next higher figure when an intermediate tonnage is calculated.

(i) Three months of service as master on a vessel results in a limitation in that capacity equal to the tonnage of that vessel rounded up to the next multiple of 1,000 GRT.

(ii) Six months of service as master on a vessel results in a limitation in that capacity equal to 150 percent of the tonnage of that vessel.

(iii) Six months of service as master on vessels more than 1,600 GRT results in raising the limitation to 5,000 GRT.

(iv) Six months of service as mate on vessels more than 1,600 GRT results in raising the limitation for master to the tonnage on which at least 50 percent of the service was obtained.

(v) Two years of service as a deckhand on a vessel while holding a license or MMC endorsement as master results in a limitation on the MMC equal to 150 percent of the tonnage of that vessel up to 5,000 GRT.

(vi) One year of service as deckhand on a vessel while holding a license or MMC endorsement as master results in a limitation on the MMC equal to the tonnage of that vessel.

(d) An applicant for an endorsement as mate of uninspected fishing industry vessels must have 3 years of total service on ocean or near-coastal routes. Service on Great Lakes or inland waters may substitute for up to 18 months of the required service.

(1) To qualify for an endorsement of less than 500 GRT, at least 1 year of the required service must have been on vessels of 50 GRT or more.

(2) To qualify for an endorsement of less than 1,600 GRT, at least 1 year of the required service must have been on vessels of 100 GRT or more.

(3) To qualify for an endorsement of more than 1,600 GRT, but not more than 5,000 GRT, the vessel tonnage upon which the 3 years of required service was obtained will be used to compute the tonnage. The endorsement is limited to the maximum tonnage on which at least 25 percent of the required service was obtained, or 150 percent of the maximum tonnage on which at least 50 percent of the service was obtained, whichever is higher. Limitations are in multiples of 1,000 GRT, using the next higher figure when an intermediate tonnage is calculated.

(4) The tonnage limitation on this endorsement may be raised using one of the following methods, but cannot exceed 5,000 GRT. Limitations are in multiples of 1,000 GRT, using the next higher figure when an intermediate tonnage is calculated.

(i) Three months of service as mate on a vessel results in a limitation in that capacity equal to the tonnage of that vessel rounded up to the next multiple of 1,000 GRT.

(ii) Six months of service as mate on a vessel results in a limitation in that capacity equal to 150 percent of the tonnage of that vessel.

(iii) Six months of service as mate on vessels more than 1,600 GRT results in raising the limitation to 5,000 GRT.

(iv) One year of service as deckhand on vessels more than 1,600 GRT while holding a license or MMC endorsement as mate, results in raising the limitation on the MMC to 5,000 GRT;

(v) Two years of service as a deckhand on a vessel while holding a license or MMC endorsed as mate results in a limitation on the MMC equal to 150 percent of the tonnage of that vessel up to 5,000 GRT.

(vi) One year of service as deckhand on a vessel while holding a license or MMC endorsement as mate results in a limitation on the MMC equal to the tonnage of that vessel.

(e) Applicants may request an oral examination on the subjects listed in subpart I of this part.

§ 11.463 General requirements for national endorsements as master, mate (pilot), and apprentice mate (steersman) of towing vessels.

(a) The Coast Guard issues the following endorsements for towing vessels:

(1) Master of towing vessels.

(2) Master of towing vessels, limited.

(3) Mate (pilot) of towing vessels.

(4) Apprentice mate (steersman).

(5) Apprentice mate (steersman), limited.

(b) An endorsement as master of towing vessels means an endorsement to operate towing vessels not restricted to local areas designated by OCMIs. This also applies to a mate (pilot) of towing vessels.

(c) For this section, “limited” means an endorsement to operate a towing vessel of less than 200 GRT only within a local area on the Great Lakes, inland waters, or Western Rivers designated by the OCMI.

(d) Mariners who met the training and service requirements for towing vessels before May 21, 2001, and have maintained a valid Coast Guard-issued credential may obtain a towing endorsement if they meet the following:

(1) Demonstrate at least 90 days of towing service before May 21, 2001.

(2) Provide evidence of successfully completing the apprentice mate exam, its predecessor exam, or a superior exam.

(3) Meet the renewal requirements in § 10.227(e)(6)(i) of this subchapter.

(e) Mariners who operated towing vessels in the offshore oil and mineral industry prior to October 15, 2010, may obtain a towing endorsement until December 24, 2018 as follows:

(1) Mariners who held officer endorsements as operator of uninspected towing vessels (OUTV) or mate or master of inspected self-propelled vessels may qualify for a towing endorsement if they meet the following:

(i) Provide evidence of at least 90 days of service on towing vessels in the offshore oil and mineral industry prior to October 15, 2010.

(ii) Provide evidence of successfully completing the apprentice mate (steersman) examination, its predecessor exam, or a superior exam.

(iii) Meet the renewal requirements in § 10.227(e)(6) of this subchapter.

(2) Mariners who have not held any of the officer endorsements listed in paragraph (e)(1) of this section may qualify for an endorsement as master of towing vessels if they meet the following:

(i) Provide evidence of at least 48 months of service on towing vessels in the offshore oil and mineral industry prior to October 15, 2010.

(ii) Successfully complete the appropriate apprentice mate (steersman) exam.

(3) Mariners who have not held any of the officer endorsements listed in paragraph (e)(1) of this section may qualify for an endorsement as mate of towing vessels if they meet the following:

(i) Provide evidence of at least 36 months of service on towing vessels in the offshore oil and mineral industry prior to October 15, 2010.

(ii) Successfully complete the appropriate apprentice mate (steersman) exam.

(f) Deck officers who serve on the following seagoing vessels must comply with the requirements of §§ 11.309 and 11.311 of this subpart for the appropriate STCW endorsement:

(1) A towing vessel on an oceans voyage operating beyond near-coastal waters.

(2) A towing vessel on an international voyage.

(3) A towing vessel of 200 GRT or more on a domestic, near-coastal voyage.

(g) Endorsements as mate (pilot) or master of towing vessels may be issued with a restriction to specific types of towing vessels and/or towing operations such as articulated tug barge (ATB) vessels that do not routinely perform all of the tasks identified in the Towing Officer Assessment Record (TOAR).

(h) Figure 11.463(h) illustrates the towing officer endorsement structure, including crossover points. The section numbers on the diagram refer to the specific requirements applicable.

§ 11.464 Requirements for national endorsements as master of towing vessels.

(a) An applicant for an endorsement as master of towing vessels with a route listed in column 1 of table 1 to this section, must complete the service requirements indicated in columns 2 through 5. Applicants may serve on the subordinate routes listed in column 5 without further endorsement.

Table 1 to § 11.464(a)—Requirements for Endorsement as Master of Towing Vessels ¹
1 | 2 | 3 | 4 | 5
Route endorsed | Total service ² | TOS ³ on T/V as mate (pilot) | TOS ³ on particular route | Sub-ordinate route authorized
(1) OCEANS (O) | 48 | 18 | 3 | NC, GL-I.
(2) NEAR-COASTAL (NC) | 48 | 18 | 3 | GL-I.
(3) GREAT LAKES-INLAND (GL-I) | 48 | 18 | 3 | None.
(4) WESTERN RIVERS (WR) | 48 | 18 | 3 | None.
¹ The holder of an endorsement as master of towing vessels may have an endorsement placed on the MMC as mate (pilot) of towing vessels for a route superior to the current route on which the holder has no operating experience after passing an examination for that additional route. After the holder completes 90 days of experience and completes a Towing Officer Assessment Record (TOAR) on that route, the Coast Guard will add it to the holder's endorsement as master of towing vessels and remove the endorsement for mate (pilot) of towing vessels.
² Service is in months.
³ TOS is time of service.

(b) A person holding this endorsement may qualify for an STCW endorsement, according to §§ 11.307, 11.311, 11.313, and 11.315 of this part.

(c) To obtain an endorsement as master of towing vessels (limited), applicants must complete the requirements listed in columns 2 through 5 of table 1 to paragraph (c) of this section.

Table 1 to § 11.464(c)—Requirements for National Endorsement as Master of Towing Vessels (Limited)
1 | 2 | 3 | 4 | 5
Route endorsed | Total service ¹ | TOS ² on T/V as limited apprentice mate (steersman) | TOAR or an approved course | TOS on particular route
LIMITED LOCAL AREA (LLA) | 36 | 18 | Yes | 3.
¹ Service is in months.
² TOS is time of service.

(d) Those holding a license or MMC endorsement as mate (pilot) of towing vessels, may have master of towing vessels (limited) added to their MMC for a limited local area within the scope of their current route.

(e) Before serving as master of towing vessels on the Western Rivers, mariners must possess 90 days of observation and training and their MMC must include an endorsement for Western Rivers.

(f) Each company must maintain evidence that every vessel it operates is under the direction and control of a mariner with the appropriate endorsement and experience, including 30 days of observation and training on the intended route other than Western Rivers.

(g) Those holding a license or MMC endorsement as a master of self-propelled vessels of more than 200 GRT, may operate towing vessels within any restrictions on their endorsement if they—

(1) Have a minimum of 30 days of training and observation on towing vessels for the route being assessed, except as noted in paragraph (f) of this section; and

(2) Either—

(i) Hold a completed Towing Officer Assessment Record (TOAR) described in § 10.404(c) of this part that shows evidence of assessment of practical demonstration of skills; or

(ii) Complete an approved training course.

(h) A license or MMC does not need to include a towing endorsement if mariners hold a TOAR or complete an approved training course.

§ 11.465 Requirements for national endorsements as mate (pilot) of towing vessels.

(a) To obtain an endorsement as mate (pilot) of towing vessels endorsed with a route listed in column 1 of Table 1 to paragaph (a) of this section, applicants must complete the service in columns 2 through 5. Mariners holding a license or MMC endorsement as master of towing vessels (limited) wishing to upgrade it to mate (pilot) of towing vessels must complete the service in columns 5 and 6. An endorsement with a route endorsed in column 1 authorizes service on the subordinate routes listed in column 7 without further endorsement. Time of service requirements as an apprentice mate (steersman) of towing vessels may be reduced by an amount equal to the time specified in the approval letter for a completed Coast Guard-approved training program.

Table 1 to § 11.465(a)—Requirements for National Endorsement as Mate (Pilot ¹) of Towing Vessels
1 | 2 | 3 | 4 | 5 | 6 | 7
Route endorsed | Total service ² | TOS ³ on T/V as apprentice mate (steersman) ⁴ | TOS on particular route | TOAR ⁵ or an approved course | 30 days of observation and training while holding master (limited) and pass an examination | Subordinate route authorized
(1) OCEANS (O) | 30 | 12 | 3 | YES | YES | NC, GL-I.
(2) NEAR-COASTAL (NC) | 30 | 12 | 3 | YES | YES | GL-I.
(3) GREAT LAKES-INLAND (GL-I) | 30 | 12 | 3 | YES | YES
(4) WESTERN RIVERS (WR) | 30 | 12 | 3 | YES | NO (90 days service required)
¹ For all inland routes, as well as Western Rivers, the endorsement as pilot of towing vessels is equivalent to that as mate of towing vessels. All qualifications and equivalencies are the same.
² Service is in months unless otherwise indicated.
³ TOS is time of service.
⁴ Time of service requirements as an apprentice mate (steersman) of towing vessels may be reduced by an amount equal to the time specified in the approval letter for a completed Coast Guard-approved training program.
⁵ TOAR is a Towing Officer Assessment Record.

(b) Before serving as mate (pilot) of towing vessels on the Western Rivers, mariners must possess 90 days of observation and training and have their MMC include an endorsement for Western Rivers.

(c) Each company must maintain evidence that every vessel it operates is under the direction and control of a mariner with the appropriate endorsement and experience, including 30 days of observation and training on the intended route other than Western Rivers.

(d) Those holding a license or MMC endorsement as a mate of inspected, self-propelled vessels of more than 200 GRT or one as first-class pilot, may operate towing vessels within any restrictions on their credential if they—

(1) Have a minimum of 30 days of training and observation on towing vessels for the route being assessed, except as noted in paragraph (b) of this section; and

(2) Hold a completed Towing Officer Assessment Record (TOAR) described in § 10.404(c) of this subchapter that shows evidence of assessment of practical demonstration of skills.

(e) A license or MMC does not need to include a towing endorsement if you hold a TOAR or a course completion certificate.

(f) Those holding any endorsement as a master of self-propelled vessels of any tonnage that is less than 200 GRT, except for the limited masters endorsements specified in §§ 11.429 and 11.456 of this subpart, may obtain an endorsement as mate (pilot) of towing vessels by meeting the following requirements:

(1) Providing proof of 36 months of service as a master under the authority of an endorsement described in this paragraph.

(2) Successfully completing the appropriate TOAR.

(3) Successfully completing the appropriate apprentice mate exam.

(4) Having a minimum of 30 days of training and observation on towing vessels for the route being assessed, except as noted in paragraph (b) of this section.

(g) An approved training course for mate (pilot) of towing vessels must include formal instruction and practical demonstration of proficiency either onboard a towing vessel or at a shoreside training facility before a designated examiner, and must cover the material (dependent upon route) required by Table 2 to § 11.910 of this part for apprentice mate (steersman), towing vessels on ocean and near-coastal routes; apprentice mate (steersman), towing vessels on Great Lakes and inland routes; or steersman, towing vessels on Western Rivers routes.

(h) A person holding this endorsement may qualify for an STCW endorsement, according to §§ 11.309, 11.317, 11.319, and 11.321 of this part.

§ 11.466 Requirements for national endorsements as apprentice mate (steersman) of towing vessels.

(a) As Table 1 to § 11.466(a) shows, to obtain an endorsement as apprentice mate (steersman) of towing vessels listed in column 1, endorsed with a route listed in column 2, mariners must complete the service requirements indicated in columns 3 through 6.

Table 1 to § 11.466(a)—Requirements for National Endorsement as Apprentice Mate (Steersman) of Towing Vessels
1 | 2 | 3 | 4 | 5 | 6
Endorsement | Route endorsed | Total service ¹ | TOS ² on T/V | TOS on particular route | Pass examination ³
(1) APPRENTICE MATE (STEERSMAN) | OCEANS (O) | 18 | 12 | 3 | YES.
| NEAR-COASTAL (NC) | 18 | 12 | 3 | YES.
| GREAT LAKES | 18 | 12 | 3 | YES.
| INLAND (GL-I) | 18 | 12 | 3 | YES.
| WESTERN RIVERS (WR) | 18 | 12 | 3 | YES.
(2) APPRENTICE MATE (STEERSMAN) (LIMITED) | NOT APPLICABLE | 18 | 12 | 3 | YES.
¹ Service is in months.
² TOS is time of service.
³ The examination for apprentice mate is specified in subpart I of this part.

(b) Those holding a license or endorsement as apprentice mate (steersman) of towing vessels may obtain a restricted endorsement as apprentice mate (steersman) (limited). This endorsement will go on the mariner's MMC after passing an examination for a route that is not included in the current endorsements and on which the mariners have no operating experience. Upon completion of 3 months of experience on that route, mariners may have the restriction removed.

§ 11.467 Requirements for a national endorsement as operator of uninspected passenger vessels of less than 100 GRT.

(a) This section applies to an applicant for the endorsement to operate an uninspected vessel of less than 100 GRT, equipped with propulsion machinery of any type, carrying six or fewer passengers.

(b) An endorsement as OUPV for near-coastal waters limits the holder to service on domestic, near-coastal waters not more than 100 miles offshore, the Great Lakes, and all inland waters. Endorsements issued for inland waters include all inland waters except the Great Lakes. Endorsements may be issued for a particular local area under paragraph (f) or paragraph (g) of this section.

(c) For an endorsement as OUPV on near-coastal waters, an applicant must have a minimum of 12 months of experience in the operation of vessels, including at least 3 months of service on vessels operating on ocean or near-coastal waters.

(d) For an endorsement as OUPV on the Great Lakes and inland waters, an applicant must have 12 months of service on Great Lakes or inland waters, including at least 3 months of service operating vessels on Great Lakes waters.

(e) For an endorsement as OUPV on inland waters, an applicant must have a minimum of 12 months of experience in the operation of vessels.

(f) A limited OUPV endorsement may be issued to an applicant to be employed by organizations such as formal camps, yacht clubs, educational institutions, and marinas. An endorsement issued under this paragraph will be limited to the specific activity and the locality of the camp, yacht club, or marina. In order to obtain this restricted endorsement, an applicant must—

(1) Have 3 months of service in the operation of the type of vessel for which the endorsement is requested;

(2) Satisfactorily complete a safe-boating course approved by the National Association of State Boating Law Administrators, or those public education courses conducted by the U.S. Power Squadron or the American National Red Cross or a Coast Guard-approved course; and

(3) Pass a limited examination appropriate for the activity to be conducted and the route authorized.

(4) Hold the first aid and cardiopulmonary resuscitation (CPR) course certificates required by § 11.201(i) of this part when, in the opinion of the Coast Guard, the geographic area over which service is authorized precludes obtaining medical services within a reasonable time.

(g) Restricted OUPV endorsements may be issued to applicants to be employed on inland navigable waters. An endorsement under this paragraph will be limited to specific bodies of water that have been approved by the cognizant OCMI. In order to obtain this endorsement, the applicant must be qualified for the endorsement under this section; however, the OCMI may modify the service and examination requirements as follows:

(1) At least 3 months of service in the operation of the type of vessel and on each body of water for which the endorsement is requested.

(2) Satisfactorily pass an examination appropriate for the activity to be conducted and the waters authorized.

(h) An applicant for an officer endorsement as OUPV who speaks Spanish, but not English, may be issued an officer endorsement restricted to the navigable waters of the United States in the vicinity of Puerto Rico.

§ 11.468 National officer endorsements for mobile offshore drilling units (MODUs).

Officer endorsements for service on MODUs authorize service on units of unlimited tonnage upon ocean waters while on location or while underway, as restricted on the endorsement, except when moving independently under their own power.

§ 11.470 National officer endorsements as offshore installation manager.

(a) Officer endorsements as offshore installation manager (OIM) include:

(1) OIM Unrestricted.

(2) OIM Surface Units on Location.

(3) OIM Surface Units Underway.

(4) OIM Bottom Bearing Units on Location.

(5) OIM Bottom Bearing Units Underway.

(b) To qualify for an endorsement as OIM unrestricted, an applicant must—

(1) Present evidence of one of the following:

(i) Four years of employment assigned to MODUs, including at least 1 year of service as driller, assistant driller, toolpusher, assistant toolpusher, barge supervisor, mechanical supervisor, electrician, crane operator, ballast control operator, or equivalent supervisory position on MODUs, with a minimum of 14 days of that supervisory service on surface units.

(ii) A degree from a program in engineering or engineering technology which is accredited by the Accreditation Board for Engineering and Technology (ABET). The National Maritime Center will give consideration to accepting education credentials from programs having other than ABET accreditation. An applicant qualifying through a degree program must also have at least 168 days of service as driller, assistant driller, toolpusher, assistant toolpusher, barge supervisor, mechanical supervisor, electrician, crane operator, ballast control operator, or equivalent supervisory position on MODUs, with a minimum of 14 days of that supervisory service on surface units;

(2) Present evidence of training course completion as follows:

(i) A certificate from a Coast Guard-approved stability course approved for OIM unrestricted.

(ii) A certificate from a Coast Guard-approved survival suit and survival craft training course.

(iii) A certificate from a firefighting training course as required by § 11.201(h) of this part; and

(3) Provide a recommendation signed by a senior company official which—

(i) Provides a description of the applicant's experience and qualifications;

(ii) Certifies that the individual has successfully directed, while under the supervision of an experienced rig mover, two rig moves each of surface units and of bottom bearing units; and

(iii) Certifies that one of the rig moves required under paragraph (b)(3)(ii) of this section was completed within 1 year preceding date of application.

(c) An applicant for an endorsement as OIM unrestricted who holds an unlimited license or MMC endorsement as master or chief mate must satisfy the requirements in paragraphs (b)(2) and (b)(3) of this section and have at least 84 days of service on surface units and at least 28 days of service on bottom bearing units.

(d) To qualify for an endorsement as OIM surface units on location, an applicant must—

(1) Present evidence of one of the following:

(i) Four years of employment assigned to MODUs, including at least 1 year of service as driller, assistant driller, toolpusher, assistant toolpusher, barge supervisor, mechanical supervisor, electrician, crane operator, ballast control operator or equivalent supervisory position on MODUs, with a minimum of 14 days of that supervisory service on surface units.

(ii) A degree from a program in engineering or engineering technology which is accredited by the Accreditation Board for Engineering and Technology (ABET). The National Maritime Center will give consideration to accepting education credentials from programs having other than ABET accreditation. An applicant qualifying through a degree program must also have at least 168 days of service as driller, assistant driller, toolpusher, assistant toolpusher, barge supervisor, mechanical supervisor, electrician, crane operator, ballast control operator, or equivalent supervisory position of MODUs, with a minimum of 14 days of that supervisory service on surface units; and

(2) Present evidence of training course completion as follows:

(i) A certificate from a Coast Guard-approved stability course approved for a license or MMC endorsement as OIM surface units.

(ii) A certificate from a Coast Guard-approved survival suit and survival craft training course.

(iii) A certificate from a firefighting training course as required by § 11.201(h) of this part.

(e) An applicant for an endorsement as OIM surface units on location who holds an unlimited license or MMC endorsement as master or chief mate must satisfy the requirements of paragraph (d)(2) of this section and have at least 84 days of service on surface units.

(f) To qualify for an endorsement as OIM surface units underway, an applicant must—

(1) Provide the following:

(i) Evidence of the experience described in paragraph (d)(1) of this section and a recommendation signed by a senior company official which—

(A) Provides a description of the applicant's experience and qualifications;

(B) Certifies that the individual has successfully directed, while under the supervision of an experienced rig mover, three rig moves of surface units; and

(C) Certifies that one of the rig moves required under paragraph (f)(1)(i)(B) of this section was completed within 1 year preceding date of application; or

(ii) A recommendation signed by a senior company official which—

(A) Provides a description of the applicant's experience and company qualifications program completed;

(B) Certifies that the applicant has witnessed ten rig moves either as an observer in training or as a rig mover under supervision;

(C) Certifies that the individual has successfully directed, while under the supervision of an experienced rig mover, five rig moves of surface units; and

(D) Certifies that one of the rig moves required under paragraph (f)(1)(ii)(C) of this section was completed within 1 year preceding the date of application; and

(2) Present evidence of training course completion as follows:

(i) A certificate from a Coast Guard-approved stability course approved for an OIM surface units endorsement.

(ii) A certificate from a Coast Guard-approved survival suit and survival craft training course.

(iii) A certificate from a firefighting training course as required by § 11.201(h) of this part.

(g) An applicant for endorsement as OIM surface units underway who holds an unlimited license or MMC endorsement as master or chief mate must satisfy the requirements in paragraph (f)(2) of this section and provide a company recommendation signed by a senior company official which—

(1) Provides a description of the applicant's experience and qualifications;

(2) Certifies that the individual has successfully directed, while under the supervision of an experienced rig mover, three rig moves on surface units; and

(3) Certifies that one of the rig moves required under paragraph (g)(2) of this section was completed within 1 year preceding the date of application.

(h) To qualify for an endorsement as OIM bottom bearing units on location, an applicant must—

(1) Present evidence of one of the following:

(i) Four years of employment assigned to MODUs, including at least 1 year of service as driller, assistant driller, toolpusher, assistant toolpusher, barge supervisor, mechanical supervisor, electrician, crane operator, ballast control operator, or equivalent supervisory position on MODUs.

(ii) A degree from a program in engineering or engineering technology that is accredited by ABET. The National Maritime Center will give consideration to accepting education credentials from programs having other than ABET accreditation. An applicant qualifying through a degree program must also have at least 168 days of service as driller, assistant driller, toolpusher, assistant toolpusher, barge supervisor, mechanical supervisor, electrician, crane operator, ballast control operator, or equivalent supervisory position on MODUs; and

(2) Present evidence of training course completion as follows:

(i) A certificate from a Coast Guard-approved survival suit and survival craft training course.

(ii) A certificate from a firefighting training course as required by § 11.201(h) of this part.

(i) An applicant for an endorsement as OIM bottom bearing units on location who holds an unlimited license or MMC endorsement as master or chief mate must satisfy paragraph (h)(2) of this section and have at least 28 days of service on bottom bearing units.

(j) To qualify for an endorsement as OIM bottom bearing units underway, an applicant must—

(1) Provide the following:

(i) Evidence of the experience described in paragraph (h)(1) of this section with a recommendation signed by a senior company official which—

(A) Provides a description of the applicant's experience and qualifications;

(B) Certifies that the individual has successfully directed, while under the supervision of an experienced rig mover, three rig moves of bottom bearing units; and

(C) Certifies that one of the rig moves required under paragraph (j)(1)(i)(B) of this section was completed within 1 year preceding date of application; or

(ii) A recommendation signed by a senior company official which—

(A) Provides a description of the applicant's experience and company qualifications program completed;

(B) Certifies that the applicant has witnessed ten rig moves either as an observer in training or as a rig mover under supervision;

(C) Certifies that the individual has successfully directed, while under the supervision of an experienced rig mover, five rig moves of bottom bearing units; and

(D) Certifies that one of the rig moves required under paragraph (j)(1)(ii)(C) of this section was completed within 1 year preceding date of application; and

(2) Present evidence of training course completion as follows:

(i) A certificate from a Coast Guard-approved stability course approved for a license or MMC endorsement as OIM bottom bearing units.

(ii) A certificate from a Coast Guard-approved survival suit and survival craft training course.

(iii) A certificate from a firefighting training course as required by § 11.201(h) of this part.

(k) An applicant for endorsement as OIM bottom bearing units underway who holds an unlimited license or MMC endorsement as master or chief mate must satisfy the requirements in paragraph (j)(2) of this section and provide a company recommendation signed by a senior company official, which—

(1) Provides a description of the applicant's experience and qualifications;

(2) Certifies that the individual has successfully directed, while under the supervision of an experienced rig mover, three rig moves of bottom bearing units; and

(3) Certifies that one of the rig moves required under paragraph (k)(2) of this section was completed within 1 year preceding the date of application.

§ 11.472 National officer endorsements as barge supervisor.

(a) To qualify for an endorsement as barge supervisor (BS), an applicant must—

(1) Present evidence of one of the following:

(i) Three years of employment assigned to MODUs including at least 168 days of service as driller, assistant driller, toolpusher, assistant tool pusher, mechanic, electrician, crane operator, subsea specialist, ballast control operator, or equivalent supervisory position on MODUs. At least 84 days of that service must have been as a ballast control operator, or barge supervisor trainee.

(ii) A degree from a program in engineering or engineering technology that is accredited by the Accreditation Board for Engineering and Technology (ABET). The National Maritime Center will give consideration to accepting education credentials from programs having other than ABET accreditation. An applicant qualifying through a degree program must also have at least 168 days of service as driller, assistant driller, toolpusher, assistant toolpusher, mechanic, electrician, crane operator, subsea specialist, ballast control operator, or equivalent supervisory position on MODUs. At least 84 days of that service must have been as a ballast control operator, or barge supervisor trainee; and

(2) Present evidence of training course completion as follows:

(i) A certificate from a Coast Guard-approved stability course approved for barge supervisor.

(ii) A certificate from a Coast Guard-approved survival suit and survival craft training course.

(iii) A certificate from a firefighting training course as required by § 11.201(h) of this part.

(b) An applicant for an endorsement as barge supervisor who holds an unlimited license or MMC endorsement as master or mate must satisfy the requirements in paragraph (a)(2) of this section and have at least 84 days of service as ballast control operator or barge supervisor trainee.

§ 11.474 National officer endorsements as ballast control operator.

(a) To qualify for an endorsement as ballast control operator (BCO), an applicant must—

(1) Present evidence of one of the following:

(i) One year of employment assigned to MODUs, including at least 28 days of service as a trainee under the supervision of an individual holding a license or MMC endorsement as ballast control operator.

(ii) A degree from a program in engineering or engineering technology that is accredited by the Accreditation Board for Engineering and Technology (ABET). The National Maritime Center will give consideration to accepting education credentials from programs having other than ABET accreditation. An applicant qualifying through a degree program must also have at least 28 days of service as a trainee under the supervision of an individual holding a license or MMC endorsement as ballast control operator; and

(2) Present evidence of training course completion as follows:

(i) A certificate from a Coast Guard-approved stability course approved for barge supervisor or ballast control operator.

(ii) A certificate from a Coast Guard-approved survival suit and survival craft training course.

(iii) A certificate from a firefighting training course as required by § 11.201(h) of this part.

(b) An applicant for an endorsement as BCO who holds an unlimited license or MMC endorsement as master, mate, chief engineer, or assistant engineer must satisfy the requirements in paragraph (a)(2) of this section and have at least 28 days of service as a trainee under the supervision of an individual holding an endorsement as BCO.

§ 11.480 Radar observer.

(a) This section contains the requirements that an applicant must meet to qualify as a radar observer.

(b) If an applicant meets the requirements of this section, one of the following radar observer endorsements will be added to his or her MMC:

(1) Radar observer (unlimited).

(2) Radar observer (inland waters and Gulf Intercoastal waterways (GIWW)).

(3) Radar observer (rivers).

(c) Radar observer (unlimited) is valid on all waters. Radar observer (inland waters and GIWW) is valid only for those waters other than the Great Lakes covered by the Inland Navigational Rules. Radar observer (rivers) is valid only on any river, canal, or similar body of water designated by the OCMI, but not beyond the boundary line.

(d) Except as provided by paragraph (e) of this section, each applicant for a radar observer endorsement or for renewal of a radar observer endorsement must complete the appropriate course approved by the Coast Guard, receive the appropriate certificate of training, and present the certificate or a copy of the certificate to the Coast Guard in person, by mail, fax, or other electronic means.

(e) A radar observer endorsement issued under this section is valid for 5 years from the date of issuance of the certificate of training from a course approved by the Coast Guard.

(f) A mariner may maintain the validity of a radar observer endorsement by completing a refresher or re-certification course approved for that purpose.

(g) An applicant for renewal of a license or MMC that does not need a radar observer endorsement may renew without meeting the requirements for the endorsement. However, a radar endorsement will not be placed on the MMC unless the mariner submits a course completion certificate or a copy of the certificate from an approved radar course.

(h) An applicant seeking to raise the grade of a license or MMC endorsement or increase its scope, where the increased grade or scope requires a radar observer certificate, may use an expired certificate to fulfill that requirement. However, a radar endorsement will not be placed on the MMC unless the mariner submits a course completion certificate or a copy of the certificate from an approved radar course.

§ 11.482 Assistance towing.

(a) This section contains the requirements to qualify for an endorsement authorizing a mariner to engage in assistance towing. Except as noted in this paragraph, holders of MMC officer and OUPV endorsements must have an assistance towing endorsement to engage in assistance towing. Holders of endorsements as master or mate (pilot) of towing vessels or master or mate endorsements authorizing service on inspected vessels of 200 GRT or more do not need the assistance towing endorsement.

(b) An applicant for an assistance towing endorsement must pass a written examination or complete a Coast Guard-approved course demonstrating his or her knowledge of assistance towing safety, equipment, and procedures.

(c) The holder of a license or MMC for master, mate, or operator endorsed for assistance towing is authorized to engage in assistance towing on any vessel within the scope of the license or MMC.

(d) The period of validity of the endorsement is the same as the license or MMC on which it is included, and it may be renewed with the MMC.

§ 11.491 National officer endorsements for service on offshore supply vessels.

(a) Each officer endorsement for service on offshore supply vessels (OSVs) authorizes service on OSVs as defined in 46 U.S.C. 2101(19) and as interpreted under 46 U.S.C. 14104(b), subject to any restrictions placed on the license or MMC.

(b) For those officers who previously received a 500 GRT limitation on their national officer endorsement due to the definition of OSV existing before October 15, 2010, the limitation will be raised to 1,600 GRT to be consistent with other national officer endorsements.

§ 11.493 Master (OSV).

(a) The minimum service required to qualify an applicant for an endorsement as master (OSV) of offshore supply vessels less than 1,600 GRT/3,000 GT is 24 months of total service as mate, chief mate, or master of ocean or near-coastal and/or Great Lakes on self-propelled vessels of more than 100 GRT. Service on inland waters may substitute for up to 50 percent of the required service. At least one-half of the required experience must be served as chief mate.

(b) The minimum service required to qualify an applicant for an endorsement as master (OSV) of 1,600 GRT/3,000 GT or more is 24 months of total service as mate, chief mate, or master of ocean or near-coastal and/or Great Lakes on self-propelled vessels of more than 100 GRT. At least one-half of the required experience must be served as chief mate and be obtained on vessels of 1,600 GRT/3,000 GT or more.

(c) If an applicant for an endorsement as master (OSV) of more than 1,600 GRT/3,000 GT does not have the service on vessels of 1,600 GRT/3,000 GT or more as required by paragraph (b) of this section, a tonnage limitation will be placed on the officer endorsement based on the applicant's qualifying experience. The endorsement will be limited to the maximum tonnage on which at least 25 percent of the required experience was obtained, or 150 percent of the maximum tonnage on which at least 50 percent of the service was obtained, whichever is higher. However, the minimum tonnage limitation calculated according to this paragraph will be 2,000 GRT. Limitations are in multiples of 1,000 GRT using the next higher figure when an intermediate tonnage is calculated. In no case will the limitation exceed 10,000 GRT/GT for OSVs unless the applicant meets the full requirements for an unlimited tonnage endorsement.

(d) A person holding an endorsement as master (OSV) may qualify for an STCW endorsement, according to §§ 11.305 and 11.311 of this part.

(e) The Coast Guard may exempt an applicant from meeting any requirement under STCW Regulation II/2 (incorporated by reference, see § 11.102 of this part) that the Coast Guard determines to be inappropriate or unnecessary for service on an OSV, or that the applicant meets under the equivalency provisions of Article IX of STCW.

§ 11.495 Chief mate (OSV).

(a) The minimum service required to qualify an applicant for an endorsement as chief mate (OSV) of offshore supply vessels less than 1,600 GRT/3,000 GT is 12 months of total service as mate, chief mate, or master of ocean or near-coastal and/or Great Lakes on self-propelled vessels of more than 100 GRT. Service on inland waters may substitute for up to 50 percent of the required service.

(b) The minimum service required to qualify an applicant for an endorsement as chief mate (OSV) of 1,600 GRT/3,000 GT or more is 12 months of total service as mate, chief mate, or master of ocean or near-coastal and/or Great Lakes on self-propelled vessels of more than 100 GRT. At least one-half of the required experience must be obtained on vessels of 1,600 GRT/3,000 GT or more.

(c) If an applicant for an endorsements as chief mate (OSV) of 1,600 GRT/3,000 GT or more does not have the service on vessels of 1,600 GRT/3,000 GT or more as required by paragraph (b) of this section, a tonnage limitation will be placed on the officer endorsement based on the applicant's qualifying experience. The endorsement will be limited to the maximum tonnage on which at least 25 percent of the required experience was obtained, or 150 percent of the maximum tonnage on which at least 50 percent of the service was obtained, whichever is higher. However, the minimum tonnage limitation calculated according to this paragraph will be 2,000 GRT. Limitations are in multiples of 1,000 GRT using the next higher figure when an intermediate tonnage is calculated. In no case will the limitation exceed 10,000 GRT/GT for OSVs unless the applicant meets the full requirements for an unlimited tonnage endorsement.

(d) A person holding an endorsement as chief mate (OSV) may qualify for an STCW endorsement, according to §§ 11.307 and 11.313 of this part.

(e) The Coast Guard may exempt an applicant from meeting any requirement under STCW Regulation II/2 (incorporated by reference, § 11.102 of this part) that the Coast Guard determines to be inappropriate or unnecessary for service on an OSV, or that the applicant meets under the equivalency provisions of Article IX of STCW.

§ 11.497 Mate (OSV).

(a) The minimum service required to qualify an applicant for an endorsement as mate (OSV) of offshore supply vessels is—

(1) Twenty-four months of total service in the deck department of ocean or near-coastal self-propelled, sail, or auxiliary sail vessels. Service on Great Lakes and inland waters may substitute for up to 1 year of the required service. One year of the required service must have been on vessels of more than 100 GRT; or

(2) One year of total service as part of an approved or accepted mate (OSV) training program.

(b) A person holding an endorsement as mate (OSV) may qualify for an STCW endorsement, according to § 11.309 of this part.

(c) The Coast Guard may exempt an applicant from meeting any requirement under STCW Regulation II/1 (incorporated by reference, see § 11.102 of this part) that the Coast Guard determines to be inappropriate or unnecessary for service on an OSV, or that the applicant meets under the equivalency provisions of Article IX of STCW.

Subpart E—Professional Requirements for National Engineer Officer Endorsements

§ 11.501 Grades and types of national engineer endorsements issued.

(a) National engineer endorsements are issued in the grades of—

(1) Chief engineer;

(2) First assistant engineer;

(3) Second assistant engineer;

(4) Third assistant engineer;

(5) Chief engineer (limited);

(6) Assistant engineer (limited);

(7) Designated duty engineer;

(8) Chief engineer uninspected fishing industry vessels;

(9) Assistant engineer uninspected fishing industry vessels;

(10) Chief engineer (MODU);

(11) Assistant engineer (MODU);

(12) Chief engineer (OSV); and

(13) Assistant engineer (OSV).

(b) Engineer endorsements issued in the grades of chief engineer (limited) and assistant engineer (limited) of steam, motor, and/or gas turbine-propelled vessels allow the holder to serve within any propulsion power limitations on vessels of unlimited tonnage on inland waters and of less than 1,600 GRT in ocean, near-coastal, or Great Lakes service in the following manner:

(1) Chief engineer (limited) may serve on oceans and near-coastal waters.

(2) Assistant engineer (limited) may serve on ocean and near-coastal waters.

(c) Engineer licenses or MMC endorsements issued in the grades of designated duty engineer of steam, motor, and/or gas turbine-propelled vessels allow the holder to serve within stated propulsion power limitations on vessels of less than 500 GRT in the following manner:

(1) Designated duty engineers limited to vessels of less than 1,000 HP or 4,000 HP may serve only on near-coastal or inland waters.

(2) Designated duty engineers-unlimited may serve on any waters.

(d) An engineer officer's license or MMC endorsement authorizes service on steam, motor, or gas turbine-propelled vessels or may authorize all modes of propulsion.

(e) A person holding an engineer license or MMC endorsement that is restricted to near-coastal waters may serve within the limitations of the license or MMC upon near-coastal, Great Lakes, and inland waters.

§ 11.502 General requirements for national engineer endorsements.

(a) For all original and raise of grade of engineer endorsements, at least one-third of the minimum service requirements must have been obtained on the particular mode of propulsion for which the applicant seeks endorsement.

(b) If an applicant desires to add a propulsion mode (steam, motor, or gas turbine) to his or her endorsement while holding a license or MMC officer endorsement in that grade, the following alternatives are acceptable:

(1) Four months of service as an observer on vessels of the new propulsion mode.

(2) Four months of service as an engineer officer at the operational level on vessels of the new propulsion mode.

(3) Six months of service as oiler, fireman/watertender, or junior engineer on vessels of the new propulsion mode.

(4) Completion of a Coast Guard-approved training course for this endorsement.

§ 11.503 Propulsion power limitations for national endorsements.

(a) Engineer endorsements of all grades and types may be subject to propulsion power limitations. Other than as provided in § 11.524 of this subpart for the designated duty engineer (DDE), the propulsion power limitation placed on a license or MMC endorsement is based on the applicant's qualifying experience considering the total shaft propulsion power of each vessel on which the applicant has served.

(b) When an applicant for an original or raise of grade of an engineer endorsement, other than a DDE, has not obtained at least 50 percent of the required experience on vessels of 4,000 HP/3,000 kW or more, a propulsion power limitation is placed on the MMC based on the applicant's qualifying experience. The endorsement is limited to the maximum propulsion power on which at least 25 percent of the required experience was obtained, or 150 percent of the maximum propulsion power on which at least 50 percent of the service was obtained, whichever is higher. Limitations are in multiples of 1,000 HP/750 kW, using the next higher figure when an intermediate horsepower is calculated. When the limitation as calculated equals or exceeds 10,000 HP/7,500 kW, an unlimited propulsion power endorsement is issued.

(c) The following service on vessels of 4,000 HP/3,000 kW or more will be considered qualifying for raising or removing the propulsion power limitations placed on an engineer endorsement:

(1) Six months of service in the highest-grade endorsed: Removal of all propulsion power limitations.

(2) Six months of service as an engineer officer in any capacity other than the highest grade for which the applicant is licensed or endorsed: Removal of all propulsion power limitations for the grade in which service is performed and raised to the next higher grade endorsement to the propulsion power of the vessel on which service was performed. The total cumulative service before and after issuance of the limited engineer endorsement may be considered in removing all propulsion power limitations.

(3) Twelve months of service as oiler or junior engineer while holding a license or MMC endorsement as third assistant engineer or assistant engineer (limited): Removal of all propulsion power limitations on third assistant engineer or assistant engineer's (limited) endorsement.

(4) Six months of service as oiler or junior engineer while holding a license or MMC endorsement as second assistant engineer: removal of all propulsion power limitations on third assistant engineer's endorsement.

(d) Raising or removing propulsion power limitations based on service required by paragraph (c) of this section may be granted without further written examination, if the Coast Guard considers further examination unnecessary.

§ 11.504 Application of deck service for national limited engineer endorsements.

Service gained in the deck department on vessels of appropriate tonnage may substitute for up to 25 percent or 6 months, whichever is less, of the service requirement for an endorsement as chief engineer (limited), assistant engineer (limited), or DDE.

§ 11.505 National engineer officer endorsements.

Figure 11.505(a) illustrates the national engineering endorsement structure, including crossover points.

Figure 11.505(a)—Structure of national engineer officer endorsements for non-seagoing service.

§ 11.510 Service requirements for national endorsement as chief engineer of steam, motor, and/or gas turbine-propelled vessels.

(a) The minimum service required to qualify an applicant for endorsement as chief engineer of steam, motor, and/or gas turbine-propelled vessels is—

(1) One year of service as first assistant engineer; or

(2) One year of service while holding a license or MMC endorsement as first assistant engineer. A minimum of 6 months of this service must have been as first assistant engineer, and the remainder must be as assistant engineer. Service as an assistant engineer other than first assistant engineer is accepted on a two-for-one basis to a maximum of 6 months (2 days of service as a second or third assistant engineer equals 1 day of creditable service).

(b) A person holding this endorsement may qualify for an STCW endorsement, according to §§ 11.325 and 11.331 of this part.

§ 11.512 Service requirements for national endorsement as first assistant engineer of steam, motor, and/or gas turbine-propelled vessels.

(a) The minimum service required to qualify an applicant for endorsement as first assistant engineer of steam, motor, and/or gas turbine-propelled vessels is—

(1) One year of service as an assistant engineer while holding a license or MMC with a second assistant engineer endorsement; or

(2) One year of service as a chief engineer (limited) and completing the appropriate examination described in subpart I of this part.

(b) A person holding this endorsement may qualify for an STCW endorsement, according to §§ 11.327, 11.331, and 11.333 of this part.

§ 11.514 Service requirements for national endorsement as second assistant engineer of steam, motor, and/or gas turbine-propelled vessels.

(a) The minimum service required to qualify an applicant for endorsement as second assistant engineer of steam, motor, and/or gas turbine-propelled vessels is—

(1) One year of service as an assistant engineer, while holding a license or MMC endorsement as third assistant engineer; or

(2) One year of service while holding a license or MMC endorsement as third assistant engineer, which includes—

(i) A minimum of 6 months of service as third assistant engineer; and

(ii) Additional service as a qualified member of the engine department, calculated on a two-for-one basis.

(b) A person holding this endorsement may qualify for an STCW endorsement, according to §§ 11.327, 11.329, and 11.333 of this part.

§ 11.516 Service requirements for national endorsement as third assistant engineer of steam, motor, and/or gas turbine-propelled vessels.

(a) The minimum service required to qualify an applicant for endorsement as third assistant engineer of steam, motor, and/or gas turbine-propelled vessels is—

(1) Three years of service in the engineroom of vessels, 2 years of which must have been as a qualified member of the engine department or equivalent position;

(2) Three years of service as an apprentice to the machinist trade engaged in the construction or repair of marine, locomotive, or stationary engines, together with 1 year of service in the engineroom as oiler, fireman/watertender, or junior engineer;

(3) Graduation from—

(i) The U.S. Merchant Marine Academy (engineering curriculum);

(ii) The U.S. Coast Guard Academy and completion of an onboard engineer officer qualification program required by the service;

(iii) The U.S. Naval Academy and completion of an onboard engineer officer qualification program required by the service; or

(iv) The engineering class of a Maritime Academy approved by and conducted under the rules prescribed by the Maritime Administrator and listed in part 310 of this title;

(4) Graduation from the marine engineering course of a school of technology accredited by the Accreditation Board for Engineering and Technology, together with 3 months of service in the engine department of steam, motor, or gas turbine-propelled vessels;

(5) Graduation from the mechanical or electrical engineering course of a school of technology accredited by the ABET, together with 6 months of service in the engine department of steam, motor, or gas turbine-propelled vessels;

(6) Satisfactory completion of a comprehensive apprentice engineers training program approved by the Coast Guard; or

(7) One year of service as assistant engineer (limited) of self-propelled vessels and completion of the appropriate examination described in subpart I of this part.

(b) Experience gained in the deck department on vessels of 100 GRT or more can be credited for up to 3 months of the service requirements under paragraph (a)(1) of this section.

(c) A person holding this endorsement may qualify for an STCW endorsement, according to §§ 11.327, 11.329, and 11,333 of this part.

§ 11.518 Service requirements for national endorsement as chief engineer (limited) of steam, motor, and/or gas turbine-propelled vessels.

(a) The minimum service required to qualify an applicant for endorsement as chief engineer (limited) of steam, motor, and/or gas turbine-propelled vessels is 5 years of total service in the engineroom of vessels. Two years of this service must have been as an engineer officer while holding an engineer officer endorsement. Thirty months of the service must have been as a qualified member of the engine department or equivalent position.

(b) A person holding this endorsement may qualify for an STCW endorsement, according to §§ 11.325 and 11.331 of this part.

§ 11.522 Service requirements for national endorsement as assistant engineer (limited) of steam, motor, and/or gas turbine-propelled vessels.

(a) The minimum service required to qualify an applicant for endorsement as assistant engineer (limited) of steam, motor, and/or gas turbine-propelled vessels is 3 years of service in the engineroom of vessels. Eighteen months of this service must have been as a qualified member of the engine department or equivalent position.

(b) A person holding this endorsement may qualify for an STCW endorsement, according to §§ 11.327, 11.329, and 11.333 of this part.

§ 11.524 Service requirements for national endorsement as designated duty engineer (DDE) of steam, motor, and/or gas turbine-propelled vessels.

(a) DDE endorsements are issued in three levels of propulsion power limitations dependent upon the total service of the applicant and completion of an appropriate examination. These endorsements are limited to vessels of less than 500 GRT on certain waters as specified in § 11.501 of this subpart.

(b) The service requirements for endorsements as DDE are—

(1) For designated duty engineer of steam, motor, and/or gas turbine-propelled vessels of unlimited propulsion power, the applicant must have 3 years of service in the engineroom. Eighteen months of this service must have been as a qualified member of the engine department or equivalent position;

(2) For designated duty engineer of steam, motor, and/or gas turbine-propelled vessels of less than 4,000 HP/3,000 kW, the applicant must have 2 years of service in the engineroom. One year of this service must have been as a qualified member of the engine department or equivalent position; and

(3) For designated duty engineer of steam, motor, and/or gas turbine-propelled vessels of less than 1,000 HP/750 kW, the applicant must have 1 year of service in the engineroom. Six months of this service must have been as a qualified member of the engine department or equivalent position.

(c) A person holding this endorsement may qualify for an STCW endorsement, according to §§ 11.325, 11.327, 11.329, and 11.331 of this part.

§ 11.530 Endorsements as engineers of uninspected fishing industry vessels.

(a) This section applies to endorsements for chief and assistant engineers of all vessels, however propelled, which are documented to engage in the fishing industry, with the exception of—

(1) Wooden ships of primitive build;

(2) Unrigged vessels; and

(3) Vessels of less than 200 GRT.

(b) Endorsements as chief engineer and assistant engineer of uninspected fishing industry vessels are issued for ocean waters and with propulsion power limitations in accordance with the provisions of § 11.503 of this subpart.

(c) For an endorsement as chief engineer, the applicant must have served 4 years in the engineroom of vessels. One year of this service must have been as an assistant engineer officer or equivalent position.

(d) For an endorsement as assistant engineer, an applicant must have served 3 years in the engine room of vessels.

(e) Two-thirds of the service required under this section must have been on motor vessels.

(f) Applicants may request an orally assisted examination on the subjects listed in subpart I of this part.

§ 11.540 Endorsements as engineers of mobile offshore drilling units (MODUs).

Endorsements as chief engineer (MODU) or assistant engineer (MODU) authorize service on certain self-propelled or non-self-propelled units of unlimited propulsion power where authorized by the vessel's certificate of inspection.

§ 11.542 Endorsement as chief engineer (MODU).

(a) To qualify for an endorsement as chief engineer (MODU) an applicant must—

(1) Present evidence of one of the following:

(i) Six years of employment assigned to MODUs, including 3 years of employment as mechanic, motorman, subsea engineer, electrician, barge engineer, toolpusher, unit superintendent, crane operator, or equivalent. Eighteen months of that employment must have been assigned to self-propelled or propulsion assisted units.

(ii) Two years of employment assigned to MODUs as an assistant engineer (MODU). Twelve months of that employment must have been assigned to self-propelled or propulsion assisted units; and

(2) Present evidence of completion of a firefighting training course as required by § 11.201(h) of this part.

(b) If an applicant successfully completes an examination and possesses the total required sea service for an endorsement as chief engineer (MODU), but does not possess the required sea service onboard self-propelled or propulsion assisted units, the Coast Guard may issue the applicant an endorsement limited to non-self-propelled units. The Coast Guard may remove the limitation upon presentation of satisfactory evidence of the required self-propelled sea service and completion of any additional required examination.

(c) A person holding this endorsement may qualify for an STCW endorsement, according to §§ 11.325, 11.327, and 11.331 of this part.

§ 11.544 Endorsement as assistant engineer (MODU).

(a) To qualify for an endorsement as assistant engineer (MODU) an applicant must—

(1) Present evidence of one of the following experience:

(i) Three years of employment assigned to MODUs including 18 months of employment as mechanic, motorman, subsea engineer, electrician, barge engineer, toolpusher, unit superintendent, crane operator, or equivalent. Nine months of that employment must have been assigned to self-propelled or propulsion assisted unit.

(ii) Three years of employment in the machinist trade engaged in the construction or repair of diesel engines and 1 year of employment assigned to MODUs in the capacity of mechanic, motorman, oiler, or equivalent. Nine months of that employment must have been assigned to self-propelled or propulsion assisted units.

(iii) A degree from a program in marine, mechanical, or electrical engineering technology that is accredited by the Accreditation Board for Engineering and Technology (ABET). The National Maritime Center will give consideration to accepting education credentials from programs having other than ABET accreditation. An applicant qualifying through a degree program must also have at least 6 months of employment in any of the capacities listed in paragraph (a)(1)(i) of this section aboard self-propelled or propulsion-assisted units; and

(2) Present evidence of completion of a firefighting training course as required by § 11.201(h) of this part.

(b) If an applicant successfully completes an examination and possesses the total required sea service for an endorsement as an assistant engineer (MODU), but does not possess the required sea service onboard self-propelled or propulsion assisted units, the Coast Guard may issue the applicant an endorsement limited to non-self-propelled units. The Coast Guard may remove the limitation upon presentation of the satisfactory evidence of the required self-propelled sea service and completion of any additional required examination.

(c) A person holding this endorsement may qualify for an STCW endorsement, according to §§ 11.329 and 11.333 of this part.

§ 11.551 Endorsements for service on offshore supply vessels.

Each endorsement for service on OSVs as chief engineer (OSV) or engineer (OSV) authorizes service on OSVs as defined in 46 U.S.C. 2101(19) and as interpreted under 46 U.S.C. 14104(b), subject to any restrictions placed on the MMC.

§ 11.553 Chief engineer (OSV).

(a) The minimum service required to qualify an applicant for an endorsement as chief engineer (OSV) is 4 years of total service in the engineroom of vessels. One year of this service must have been as an engineer officer while holding an engineer officer endorsement. Two years of the service must have been as a qualified member of the engine department or equivalent position.

(b) If an applicant has not obtained at least 50 percent of the required experience on vessels of 4,000 HP/3,000 kW or more, a propulsion power limitation is placed on the MMC based on the applicant's qualifying experience. The endorsement is limited to the maximum propulsion power on which at least 25 percent of the required experience was obtained, or 150 percent of the maximum propulsion power on which at least 50 percent of the service was obtained, whichever is higher. Limitations are in multiples of 1,000 HP/750 kW, using the next higher figure when an intermediate propulsion power is calculated. When the limitation as calculated equals or exceeds 10,000 HP/7,500 kW, an unlimited propulsion power endorsement is issued.

(c) A person holding an endorsement as chief engineer (OSV) may qualify for an STCW endorsement, according to §§ 11.325, 11.327, and 11.331 of this part.

(d) The Coast Guard may exempt an applicant from meeting any requirement under STCW Regulation III/2 (incorporated by reference, see § 11.102 of this part) that the Coast Guard determines to be inappropriate or unnecessary for service on an OSV, or that the applicant meets under the equivalency provisions of Article IX of STCW.

§ 11.555 Assistant engineer (OSV).

(a) The minimum service required to qualify an applicant for an endorsement as assistant engineer (OSV) of unlimited propulsion power is—

(1) Three years of service in the engineroom. Eighteen months of this service must have been as a qualified member of the engine department (QMED) or equivalent position; or

(2) One year of total service as part of an approved or accepted engineer (OSV) training program.

(b) The minimum service required to qualify an applicant for an endorsement as assistant engineer (OSV) of less than 4,000 HP/3,000 kW, is 2 years of service in the engineroom. One year of this service must have been as a QMED or equivalent position.

(c) The minimum service required to qualify an applicant for an endorsement as assistant engineer (OSV) of less than 1,000 HP/750 kW is 1 year of service in the engineroom. Six months of this service must have been as a QMED or equivalent position.

(d) A person holding an endorsement as assistant engineer (OSV) may qualify for an STCW endorsement, according to §§ 11.329 and 11.333 of this part.

(e) The Coast Guard may exempt an applicant from meeting any requirement under STCW Regulation III/1 (incorporated by reference, see § 11.102 of this part) that the Coast Guard determines to be inappropriate or unnecessary for service on an OSV, or that the applicant meets under the equivalency provisions of Article IX of STCW.

Subpart F—Credentialing of Radio Officers

§ 11.601 Applicability.

This subpart provides for endorsement as radio officers for employment on vessels, and for the issue of STCW endorsements for those qualified to serve as radio operators on vessels subject to the provisions on the Global Maritime Distress and Safety System (GMDSS) of Chapter IV of SOLAS (incorporated by reference, see § 11.102 of this part).

§ 11.603 Requirements for radio officers' endorsements.

Each applicant for an original endorsement or renewal of license must present a current first or second class radiotelegraph operator license issued by the Federal Communications Commission. The applicant must enter on the endorsement application form the number, class, and date of issuance of his or her Federal Communications Commission license.

§ 11.604 Requirements for an STCW endorsement for Global Maritime Distress and Safety System (GMDSS) radio operators.

Each applicant for an original endorsement must present a certificate of completion from a Coast Guard-approved course for operator of radio in the GMDSS meeting the requirements of Section A-IV/2 of the STCW Code (incorporated by reference, see § 11.102 of this part).

Subpart G—Professional Requirements for Pilots

§ 11.701 Scope of pilot endorsements.

(a) An applicant for an endorsement as first-class pilot need not hold any other officer endorsement issued under this part.

(b) The issuance of an endorsement as first-class pilot to an individual qualifies that individual to serve as pilot over the routes specified on the endorsement, subject to any limitations imposed under paragraph (c) of this section.

(c) The OCMI issuing an endorsement as first-class pilot imposes appropriate limitations commensurate with the experience of the applicant, with respect to class or type of vessel, tonnage, route, and waters.

(d) A license or MMC endorsement issued for service as a master, mate, or operator of uninspected towing vessels authorizes service as a pilot under the provisions of § 15.812 of this subchapter. Therefore, first-class pilot endorsements will not be issued with tonnage limitations of 1,600 GRT or less.

§ 11.703 Service requirements.

(a) The minimum service required to qualify an applicant for an endorsement as first-class pilot is predicated upon the nature of the waters for which pilotage is desired.

(1) General routes (routes not restricted to rivers, canals and small lakes. The applicant must have at least 36 months of service in the deck department of self-propelled vessels navigating on oceans, coastwise, and Great Lakes, or bays, sounds, and lakes other than the Great Lakes, as follows:

(i) Eighteen months of the 36 months of service must be performing bridge watchkeeping duties under the supervision of the master or a qualified officer.

(ii) At least 12 months of the 18 months of service required in paragraph (a)(1)(i) of this section must be on vessels operating on the class of waters for which pilotage is desired.

(2) River routes. The applicant must have at least 36 months of service in the deck department of any vessel including at least 12 months of service on vessels operating on the waters of rivers while the applicant is performing bridge watchkeeping duties under the supervision of the master or a qualified officer.

(3) Canal and small lakes routes. The applicant must have at least 24 months of service in the deck department of any vessel including at least 8 months of service on vessels operating on canals or small lakes.

(b) A graduate of the Great Lakes Maritime Academy in the deck class meets the service requirements of this section for an endorsement as first-class pilot on the Great Lakes.

(c) Completion of an approved or accepted pilot training course may be substituted for a portion of the service requirements of this section in accordance with § 10.404 of this subchapter. Additionally, roundtrips made during this training may apply toward the route familiarization requirements of § 11.705 of this subpart. An individual using substituted service must have at least 9 months of shipboard service.

(d) An individual holding a license or MMC endorsement as master or mate of inspected self-propelled vessels of more than 1,600 GRT meets the service requirements of this section for an endorsement as first-class pilot.

§ 11.705 Route familiarization requirements.

(a) The Officer in Charge, Marine Inspection (OCMI) has jurisdiction and determines within the range limitations specified in this section, the number of roundtrips required to qualify an applicant for a particular route, considering the following:

(1) The geographic configuration of the waterway.

(2) The type and size of vessels using the waterway.

(3) The abundance or absence of aids to navigation.

(4) The background lighting effects.

(5) The known hazards involved, including waterway obstructions or constrictions such as bridges, narrow channels, or sharp turns.

(6) Any other factors unique to the route that the OCMI deems appropriate.

(b) An applicant holding no other deck officer endorsement seeking an endorsement as first-class pilot must furnish evidence of having completed a minimum number of roundtrips, while serving as quartermaster, wheelsman, able seaman, apprentice pilot, or in an equivalent capacity, standing regular watches at the wheel or in the pilot house as part of routine duties, over the route sought. Evidence of having completed a minimum number of roundtrips while serving as an observer, properly certified by the master and/or pilot of the vessel, is also acceptable. The range of roundtrips for an endorsement is a minimum of 12 roundtrips and a maximum of 20 roundtrips. An applicant may have additional routes added to the first-class pilot endorsement by meeting the requirements in paragraph (c) of this section.

(c) An applicant who currently holds a deck officer license or MMC endorsement seeking an endorsement as first-class pilot for a particular route must furnish evidence of having completed the number of roundtrips over the route, specified by the OCMI, within the range limitations of this paragraph, for the particular grade of existing license or MMC endorsement held. The range of roundtrips for an endorsement is a minimum of eight roundtrips and a maximum of 15 roundtrips.

(d) Unless determined impracticable by the OCMI, 25 percent of the roundtrips required by the OCMI under this section must be made during the hours of darkness.

(e) One of the roundtrips required by the OCMI under this section must be made over the route within the 6 months immediately preceding the date of application.

(f) For an endorsement of unlimited tonnage, applicants must meet tonnage requirements for roundtrips specified in § 11.711(b) of this subpart.

§ 11.707 Examination requirements.

(a) An applicant for an endorsement as first-class pilot, except as noted in paragraph (b) of this section, is required to pass the examination described in subpart I of this part.

(b) An applicant for an extension of route, or an applicant holding a license or MMC endorsement as master or mate authorized to serve on vessels of more than 1,600 GRT seeking an endorsement as first-class pilot, is required to pass those portions of the examination described in subpart I of this part that concern the specific route for which endorsement is sought.

§ 11.709 Annual physical examination requirements.

(a) This section applies only to an individual who pilots a vessel of 1,600 GRT or more.

(b) Every person holding a license or MMC endorsement as first-class pilot must have a thorough physical examination each year, to be completed by the first day of the month following the anniversary of the individual's most recently completed Coast Guard-required physical examination. Every other year, in accordance with the medical certificate requirements in § 10.301(b) of this subchapter, the results of the physical examination must be recorded on a CG-719K form and submitted to the Coast Guard no later than 30 calendar days after completion of the physical examination.

(c) Each annual physical examination must meet the requirements specified in 46 CFR, part 10, subpart C and be recorded on a CG-719-K.

(d) An individual's first-class pilot endorsement becomes invalid on the first day of the month following the anniversary of the individual's most recently completed Coast Guard-required physical examination, if the person does not meet the physical examination requirement as provided in paragraph (b) of this section. The individual may not operate under the authority of that endorsement until a physical examination has been satisfactorily completed.

§ 11.711 Tonnage requirements.

(a) In order to obtain a first-class pilot endorsement authorizing service on vessels of unlimited tonnage over a particular route, the applicant must have sufficient experience on vessels of more than 1,600 GRT.

(b) For purposes of this section, an applicant is considered to have sufficient experience if the applicant has 18 months of experience as master, mate, quartermaster, wheelsman, able seaman, apprentice pilot, or in an equivalent capacity, standing regular watches at the wheel or in the pilothouse as part of routine duties, on vessels of 1,600 GRT or more, and two-thirds of the minimum number of roundtrips required for the route have been on vessels of 1,600 GRT or more.

(c) If an applicant does not have sufficient experience on vessels of 1,600 GRT or more, the endorsement will be for a limited tonnage until the applicant completes the 18 months of sea service, as mentioned in paragraph (b) of this section, on vessels of 1,600 GRT or more.

(d) For purposes of this section, for experience with respect to tonnage on towing vessels, the combined gross tonnage of the towing vessels and the vessels towed will be considered. However, the Coast Guard may require that all or a portion of the required number of roundtrips be obtained on self-propelled vessels of 1,600 GRT or more, when the Coast Guard determines that due to the nature of the waters and the overall experience of the applicant, self-propelled vessel experience is necessary to obtain a first-class pilot endorsement that is not restricted to tug and barge combinations.

§ 11.713 Requirements for maintaining current knowledge of waters to be navigated.

(a) If a first-class pilot has not served over a particular route within the past 60 months, that person's license or MMC endorsement is invalid for that route, and remains invalid until the individual has made one re-familiarization round trip over that route, except as provided in paragraph (b) of this section. Whether this requirement is satisfied or not has no effect on the renewal of other licenses or MMC endorsements. Roundtrips made within the 90-day period preceding renewal will be valid for the duration of the renewed license or MMC endorsement.

(b) For certain long or extended routes, the OCMI may, at his or her discretion, allow the re-familiarization requirement to be satisfied by reviewing appropriate navigation charts, coast pilots tide and current tables, local Notice to Mariners, and any other materials that would provide the pilot with current knowledge of the route. Persons using this method of re-familiarization must certify, when applying for renewal of their license or MMC endorsement, the material they have reviewed and the dates on which this was accomplished. Review within the 90-day period preceding renewal is valid for the duration of the renewed MMC endorsement.

Subpart H—Registration of Staff Officers and Miscellaneous Endorsements

§ 11.801 Applicability.

This subpart provides for the registration of staff officers for employment on vessels documented or numbered under the laws of the United States. Staff officers must be registered if serving on most vessels in ocean service or on the Great Lakes.

§ 11.803 Staff departments.

(a) Title 46 U.S.C. 8302 contains the requirements for staff departments on U.S. flag vessels.

(b) Title 46 U.S.C. 8302 does not apply to—

(1) A fishing or whaling vessel or yacht;

(2) A vessel operated only on bays, sounds, inland waters, and lakes (other than the Great Lakes); and

(3) A vessel ferrying passengers and cars on the Great Lakes.

§ 11.805 General requirements.

(a) The applicant for an endorsement as staff officer is not required to take any examination; however, the applicant must present to the Coast Guard a letter justifying the need for the endorsement.

(b) An applicant for a higher grade in the staff department must apply in the same manner as for an original endorsement and must surrender the previous Coast Guard-issued credentials upon issuance of the new MMC. A staff officer may serve in a lower grade of service for which he or she is registered.

(c) Title 46 U.S.C. 8302 addresses uniforms for staff officers who are members of the Naval Reserve.

(d) A duplicate MMC may be issued by the Coast Guard. (See § 10.229 of this subchapter.)

(e) An MMC is valid for a term of 5 years from the date of issuance. Procedures for renewing endorsements are found in § 10.227 of this subchapter.

(f) Each applicant for an original or a higher grade of endorsement, as described in paragraph (b) of this section, must produce evidence of having passed a chemical test for dangerous drugs or of qualifying for an exception from testing in § 16.220 of this subchapter. An applicant who fails a chemical test for dangerous drugs will not be issued an MMC.

§ 11.807 Experience requirements for registry.

(a) The applicant for a certificate of registry as staff officer must submit evidence of experience as follows:

(1) Chief purser. Two years of service aboard vessels performing duties relating to work in the purser's office.

(2) Purser. One year of service aboard vessels performing duties relating to work in the purser's office.

(3) Senior assistant purser. Six months of service aboard vessels performing duties relating to work in the purser's office.

(4) Junior assistant purser. Previous experience not required.

(5) Medical doctor. A valid license as physician or surgeon issued under the authority of a state or territory of the United States, the Commonwealth of Puerto Rico, or the District of Columbia.

(6) Professional nurse. A valid license as a registered nurse issued under authority of a state or territory of the United States, the Commonwealth of Puerto Rico, or the District of Columbia.

(7) Marine physician assistant. Successful completion of an accredited course of instruction for a physician's assistant or nurse practitioner program.

(8) Hospital corpsman. A rating of at least hospital corpsman or health services technician, first class in the U.S. Navy, U.S. Coast Guard, U.S. Marine Corps, or an equivalent rating in the U.S. Army (not less than Staff Sergeant, Medical Department, U.S.A.), or in the U.S. Air Force (not less than Technical Sergeant, Medical Department, U.S.A.F.), and a period of satisfactory service of at least 1 month in a military hospital or U.S. Public Health Service Hospital.

(b) Employment on shore in connection with a vessel's business may be accepted instead of service aboard vessels. Related shore employment is accepted in the ratio of 2 months of shore service to 1 month of creditable service aboard vessels.

(c) In computing the length of service required of an applicant for an endorsement, service of one season on vessels on the Great Lakes is counted as service of 1 year.

(d) In the event an applicant for an endorsement, other than medical doctor or professional nurse, presents evidence of other qualifications that, in the opinion of the Coast Guard, is equivalent to the experience requirements of this section and is consistent with the duties of a staff officer, the Coast Guard may issue the MMC.

§ 11.821 High-speed craft type-rating.

(a) This section is only applicable to those persons who will be serving or have served upon those vessels built and operated in accordance with the International Code of Safety for High Speed Craft (HSC Code).

(b) To qualify for a high-speed craft type-rating certificate (TRC) for operating vessels to which the HSC Code applies, an applicant must—

(1) Hold a valid officer endorsement for vessels of commensurate grade, tonnage, route, and/or horsepower; and

(2) Present evidence of successful completion of a Coast Guard-approved type rating training program.

(c) A separate TRC will be issued for each type and class of high speed craft. The original route will be as specified in the approved type rating program. Additional routes may be added to an existing TRC by completing at least 12 roundtrips over each route under the supervision of a type-rated master on the class of high speed craft the TRC will be valid for. Six of the trips must be made during the hours of darkness or a “daylight only” restriction will be imposed.

(d) A TRC will be valid for 2 years. The expiration date of a TRC will not be changed due to the addition of additional routes.

(e) To renew a TRC, an applicant must provide evidence of—

(1) At least 6 months of service in the appropriate position on the type crafts to which the TRC applies during the preceding 2 years, including at least 12 roundtrips over each route, together with evidence of a completed revalidation assessment; or

(2) Completion of an approved revalidation training program.

Subpart I—Subjects of Examinations

§ 11.901 General provisions.

(a) Where required by § 11.903 of this subpart, each applicant for an endorsement listed in that section must pass an examination on the appropriate subjects listed in this subpart.

(b) If the endorsement is to be limited in a manner that would render any of the subject matter unnecessary or inappropriate, the examination may be amended accordingly by the Coast Guard. Limitations that may affect the examination content are as follows:

(1) Restricted routes for reduced service officer endorsements (master or mate of vessels of less than 200 GRT, OUPV, or master or mate (pilot) of towing vessels).

(2) Limitations to a certain class or classes of vessels.

(c) Simulators used in assessments of competence required by subpart C of this part must meet the appropriate performance standards set out in Section A-I/12 of the STCW Code (incorporated by reference, see § 11.102 of this part). However, simulators installed or brought into use before February 1, 2002, need not meet these performance standards if they fulfill the objective of the assessment of competence or demonstration of proficiency.

§ 11.903 Officer endorsements requiring examinations.

(a) The following officer endorsements require examinations for issuance:

(1) Chief mate of ocean or near-coastal self-propelled vessels of unlimited tonnage (examined at the management level).

(2) Third mate of ocean or near-coastal self-propelled vessels of unlimited tonnage (examined at the operational level).

(3) Master of ocean or near-coastal self-propelled vessels of less than 1,600 GRT.

(4) Mate of ocean or near-coastal self-propelled vessels of less than 1,600 GRT.

(5) Master of near-coastal vessels less than 200 GRT.

(6) Mate of near-coastal vessels less than 200 GRT.

(7) Master of near-coastal vessels less than 100 GRT.

(8) Mate of near-coastal vessels less than 100 GRT.

(9) Master of Great Lakes and inland vessels of unlimited tonnage.

(10) Mate of Great Lakes and inland vessels of unlimited tonnage.

(11) Master of inland vessels of unlimited tonnage.

(12) Master of river vessels of unlimited tonnage.

(13) Master of Great Lakes and inland/river vessels less than 500 GRT or less than 1,600 GRT.

(14) Mate of Great Lakes and inland/river vessels less than 500 GRT or less than 1,600 GRT.

(15) Master of Great Lakes and inland/river vessels less than 200 GRT.

(16) Mate of Great Lakes and inland/river vessels less than 200 GRT.

(17) Master of Great Lakes and inland/river vessels less than 100 GRT.

(18) First-class pilot.

(19) Apprentice mate (steersman) of towing vessels.

(20) Apprentice mate (steersman) of towing vessels, limited.

(21) Offshore Installation Manager.

(22) Barge Supervisor.

(23) Ballast Control Operator.

(24) Operator of uninspected passenger vessels.

(25) Master of uninspected fishing industry vessels.

(26) Mate of uninspected fishing industry vessels.

(27) Master (OSV).

(28) Chief mate (OSV).

(29) Mate (OSV).

(30) First assistant engineer (limited or unlimited propulsion power).

(31) Third assistant engineer (limited or unlimited propulsion power).

(32) Chief engineer (limited) steam/motor vessels.

(33) Assistant engineer (limited) steam/motor vessels.

(34) Designated duty engineer steam/motor vessels.

(35) Chief engineer (uninspected fishing industry vessels).

(36) Assistant engineer (uninspected fishing industry vessels).

(37) Chief engineer (MODU).

(38) Assistant engineer (MODU).

(39) Chief engineer (OSV).

(40) Assistant engineer (OSV).

(b) In paragraphs (a)(1) through (4), and (a)(6), (7), (15), and (16) of this section, examinations will vary depending on route desired.

(c) The following officer endorsements do not require examinations:

(1) Master of oceans or near-coastal vessels of unlimited tonnage when upgrading from MMC officer endorsements, or a license and STCW endorsement as chief mate of oceans or near-coastal vessels of unlimited tonnage, provided the applicant has already been examined at the management level.

(2) Master of oceans or near-coastal vessels of unlimited tonnage when adding an endorsement as offshore installation manager (OIM).

(3) Master of oceans or near-coastal self-propelled vessels of less than 200 GRT, when upgrading from mate of near-coastal self-propelled vessels of less than 200 GRT. Master of oceans self-propelled vessels of less than 200 GRT would, however, require an examination in celestial navigation.

(4) Second mate of oceans or near-coastal vessels when upgrading from third mate of oceans or near-coastal vessels, provided the applicant has already been examined at the operational level.

(5) Master of Great Lakes and inland vessels, or river vessels of less than 200 GRT when upgrading from mate of less than 200 GRT on the same route.

(6) Chief engineer unlimited, provided the applicant has already been examined at the management level.

(7) Chief engineer limited to service on steam, motor, or gas turbine-propelled vessels of less than 10,000 HP/7,500 kW on near-coastal routes, provided the applicant has already been examined at the management level.

(8) Chief engineer limited to service on steam, motor, and/or gas turbine-propelled vessels of less than 4,000 HP/3,000 kW on near-coastal routes, provided the applicant has already been examined at the management level.

(9) Second assistant engineer when upgrading from third assistant engineer, provided the applicant has already been examined at the operational level.

§ 11.910 Subjects for deck officer endorsements.

Table 1 to § 11.910 gives the codes used in Table 2 to § 11.910 for all deck officers. Table 2 to § 11.910 indicates the examination subjects for each endorsement, by code number. Figures in the body of Table 2 to § 11.910, in place of the letter “x”, refer to notes.

Table 1 to § 11.910—Codes for Deck Officer Endorsements
Deck Officer Endorsements
1. Master/chief mate, oceans/near-coastal, unlimited tonnage.
2. Master, oceans/near-coastal, less than 500 GRT and less than 1,600 GRT.
3. Second mate/third mate, oceans/near-coastal, unlimited tonnage, and mate less than 500 GRT and less than 1600 GRT, oceans/near-coastal.
4. Master, oceans/near-coastal, and mate, near-coastal, less than 200 GRT (includes master, near-coastal, less than 100 GRT).
5. Operator, uninspected passenger vessels, near-coastal.
6. Operator, uninspected passenger vessels, Great Lakes/inland.
7. Apprentice mate, towing vessels, ocean (domestic trade) and near-coastal routes.
8. Apprentice mate (steersman), towing vessels, Great Lakes, and inland routes.
9. Steersman, towing vessels, Western Rivers.
10. Master, Great Lakes/inland, or master, inland, unlimited tonnage.
11. Mate, Great Lakes/inland, unlimited tonnage.
12. Master, Great Lakes/inland, less than 500 GRT and less than 1,600 GRT.
13. Mate, Great Lakes/inland, less than 500 GRT and less than 1,600 GRT.
14. Master or mate, Great Lakes/inland, less than 200 GRT (includes master, Great Lakes/inland, less than 100 GRT).
15. Master, rivers, unlimited tonnage.
16. Master, rivers, less than 500 GRT and less than 1,600 GRT.
17. Mate, rivers, less than 500 GRT and less than 1,600 GRT.
18. Master or mate, rivers, less than 200 GRT (includes master, rivers, less than 100 GRT).
19. Master, uninspected fishing industry vessels, oceans/near-coastal.
20. Mate, uninspected fishing industry vessels, oceans/near-coastal.
21. First-class pilot.
22. Master (OSV).
23. Chief mate (OSV).
24. Mate (OSV).

§ 11.920 Subjects for MODU endorsements.

Table 1 to § 11.920 gives the codes used in Table 2 to § 11.920 for MODU endorsements. Table 2 to § 11.920 indicates the examination subjects for each endorsement by the code number.

Table 1 to § 11.920—Codes for MODU Endorsements
1. OIM/Unrestricted.
2. OIM/Surface Units Underway.
3. OIM/Surface Units on Location.
4. OIM/Bottom Bearing Units Underway.
5. OIM/Bottom Bearing Units on Location.
6. Barge Supervisor.
7. Ballast Control Operator.

Table 2 to § 11.920—Subjects for MODU Licenses
Examination topics | 1 | 2 | 3 | 4 | 5 | 6 | 7
Watchkeeping:
COLREGS | X | X |  | X |  | X |
“Basic Principles for Navigational Watch” | X | X | X | X | X | X |
MODU obstruction lights | X |  | X |  | X | X |
Meteorology and oceanography:
Synoptic chart weather forecasting | X | X | X | X | X | X |
Characteristics of weather systems | X | X | X | X | X | X | X
Ocean current systems | X | X | X | X | X | X |
Tide and tidal current publications | X | X | X | X | X | X |
Stability, ballasting, construction and damage control:
Principles of ship construction, structural members | X | X | X | X | X | X | X
Trim and stability | X | X | X | X | X | X | X
Damaged trim and stability countermeasures | X | X | X | X |  | X | X
Stability and trim calculations | X | X | X | X |  | X | X
Load line requirements | X | X | X | X | X | X | X
Operating manual:
Rig characteristics and limitations | X | X | X | X | X | X | X
Hydrostatics data | X | X | X | X |  | X | X
Tank tables | X | X | X | X | X | X | X
KG limitations | X | X | X | X |  | X | X
Severe storm instructions | X | X | X | X | X | X | X
Transit instructions | X | X |  | X |  | X | X
On-station instructions | X |  | X |  | X | X | X
Unexpected list or trim | X | X | X | X |  | X | X
Ballasting procedures | X | X | X |  |  | X | X
Operation of bilge system | X | X | X | X |  | X | X
Leg loading calculations | X |  |  | X | X |  |
Completion of variable load form | X | X | X | X | X | X | X
Evaluation of variable load form | X | X | X | X | X | X | X
Emergency procedures | X | X | X | X | X | X | X
Maneuvering and handling:
Anchoring and anchor handling | X | X | X |  |  | X |
Heavy weather operations | X | X | X | X | X | X | X
Mooring, positioning | X | X | X | X |  | X | X
Moving, positioning | X | X |  | X |  | X |
Fire prevention and firefighting appliances:
Organization of fire drills | X | X | X | X | X | X | X
Classes and chemistry of fire | X | X | X | X | X | X | X
Firefighting systems | X | X | X | X | X | X | X
Firefighting equipment and regulations | X | X | X | X | X | X | X
Basic firefighting and prevention of fires | X | X | X | X | X | X | X
Emergency procedures and contingency plans:
Temporary repairs | X | X | X | X |  | X |
Fire or explosion | X | X | X | X | X | X | X
Abandon unit | X | X | X | X | X | X | X
Man overboard | X | X | X | X | X | X | X
Heavy weather | X | X | X | X | X | X | X
Collision | X | X | X | X | X | X | X
Failure of ballast control system | X | X | X |  |  | X | X
Mooring emergencies | X |  | X |  |  | X | X
Blowouts | X |  | X |  | X | X | X
H2S safety | X |  | X |  | X | X | X
General Engineering—Power plants and auxiliary systems:
Marine engineering terminology | X | X | X | X | X | X | X
Engineering equipment, operations and failures | X | X | X | X | X | X |
Offshore drilling operations |  |  |  |  |  |  | X
Deck seamanship—general:
Transfer of personnel | X | X | X | X | X | X |
Support boats/helicopters | X | X | X | X | X | X |
Cargo stowage and securing | X | X | X | X | X | X |
Hazardous materials/dangerous goods precautions | X | X | X | X | X | X |
Mooring equipment | X | X | X | X | X | X |
Crane use procedures and inspections | X | X | X | X | X | X |
Medical care:
Knowledge and use of:
First aid | X | X | X | X | X | X | X
First response medical action | X | X | X | X | X | X | X
Maritime law and regulation:
National maritime law:
Certification and documentation of vessels | X | X | X | X | X |  |
Ship sanitation | X | X | X | X | X |  |
Regulations for vessel inspection | X | X | X | X | X |  |
Pollution prevention regulations | X | X | X | X | X | X | X
Credentialing regulations | X | X | X | X | X |  |
Rules and regulations for MODUs | X | X | X | X | X | X |
International Maritime law:
International Maritime Organization | X | X | X | X | X |  |
International Convention on Load Lines | X | X | X | X |  |  | X
MARPOL 73/78 | X | X | X | X | X |  |
Personnel Management and Training:
Ship's business including:
Required logs and recordkeeping | X | X | X | X | X | X |
Casualty reports and records | X | X | X | X | X |  |
Communications:
Radio communications and FCC permit | X | X | X | X | X | X |
Radiotelephone procedures | X | X | X | X | X | X |
Lifesaving/Survival: |  |  |  |  |  |  |
Lifesaving appliance operation (launching, boat handling) | X | X | X | X | X | X | X
Procedures/rules for lifeboats, survival suits, personal flotation devices (PFDs), life rafts and emergency signals | X | X | X | X | X | X | X
Emergency radio transmissions | X | X | X | X | X | X | X
Survival at sea | X | X | X | X | X | X | X

§ 11.950 Examination subjects for engineer officer endorsements.

Table 1 to § 11.950 gives the codes used in Table 2 to § 11.950 for engineer officer endorsements. Table 2 to § 11.950 indicates the examination subjects for each endorsement by the code number.

Table 1 to § 11.950—Codes for Engineer Officer Endorsements
1. First assistant engineer (unlimited).
2. Third assistant engineer (unlimited).
3. Chief engineer (limited).
4. Assistant engineer (limited).
5. Designated duty engineer (unlimited).
6. Designated duty engineer (4,000 HP).
7. Designated duty engineer (1,000 HP).
8. Chief engineer (uninspected fishing industry vessels).
9. Assistant engineer (uninspected fishing industry vessels).
10. Chief engineer (MODU).
11. Assistant engineer (MODU).
12. Chief engineer (OSV unlimited).
13. Assistant engineer (OSV unlimited).
14. Chief engineer (OSV 4,000 HP).
15. Assistant engineer (OSV 4,000 HP).

Subpart J—Recognition of Other Parties' STCW Certificates

§ 11.1001 Purpose of rules.

(a) The rules in this subpart implement Regulation I/10 of the International Convention on Standards of Training, Certification and Watchkeeping for Seafarers, 1978 as amended (STCW) (incorporated by reference, see § 11.102 of this part) by establishing requirements and procedures for the recognition and endorsement of officer certificates of competence issued by other Parties to STCW.

(b) Specific regulations on the use of non-U.S. credentialed officers and mariners with officer endorsements (except those of master) are found in § 15.720 of this subchapter.

§ 11.1003 General requirements.

(a) The Coast Guard recognizes certificates only from countries that the United States has assured itself comply with requirements of the STCW Convention and STCW Code (incorporated by reference, see § 11.102 of this part).

(b) The Coast Guard will publish a list of countries whose certificates it will recognize.

(c) The Coast Guard will issue a “Certificate attesting recognition” to an applicant after ensuring the validity and authenticity of the credential (certificate of competency) issued by his or her country of origin.

(d) No application from a non-US citizen for a “Certificate attesting recognition” issued pursuant to this subpart will be accepted unless the applicant's employer satisfies the requirements of § 11.1005 of this subpart.

§ 11.1005 Employer application requirements.

(a) The employer must submit the following to the Coast Guard, as a part of the applicant's application for a “Certificate attesting recognition,” on behalf of the applicant:

(1) A signed report that contains all material disciplinary actions related to the applicant, such as, but not limited to, violence or assault, theft, drug and alcohol policy violations, and sexual harassment, along with an explanation of the criteria used by the employer to determine the materiality of those actions.

(2) A signed report regarding an employer-conducted background check. The report must contain—

(i) A statement that the applicant has successfully undergone an employer-conducted background check;

(ii) A description of the employer-conducted background check; and

(iii) All information derived from the employer-conducted background check.

(b) If a “Certificate attesting recognition” is issued to the applicant, the employer must maintain a detailed record of the seaman's total service on all authorized U.S. flag vessels, and must make that information available to the Coast Guard upon request.

(c) In addition to the initial material disciplinary actions report and the initial employer-conducted background check specified in paragraph (a) of this section, the employer must submit an annual material disciplinary actions report to update whether there have been any material disciplinary actions related to the applicant since the last material disciplinary actions report was submitted to the Coast Guard.

(d) The employer must also submit to the Coast Guard the applicant's copy of the following:

(1) Base credential (certificate of competency), as well as any other documentary evidence of proficiency (such as Basic Training in accordance with § 11.302 of this part, Basic/Advanced Firefighting in accordance with § 11.303 of this part, Survival Craft, etc.) to verify that the applicant meets the manning requirements. The documentation must include any necessary official translation into the English language.

(2) Valid medical certificate.

(3) Valid identification document, such as a passport or Seaman's Identity Document (SID).

(e) The employer is subject to the civil penalty provisions specified in 46 U.S.C. 8103(f) for any violation of this section.

§ 11.1007 Basis for denial.

An applicant for a “Certificate attesting recognition” of an officer certificate issued by another party must—

(a) Have no record of material disciplinary actions during employment on any U.S. flag vessel of the employer, as verified in writing by the owner or managing operator of the U.S. flag vessels on which the applicant will be employed; and

(b) Have successfully completed an employer-conducted background check, to the satisfaction of both the employer and the Coast Guard.

§ 11.1009 Restrictions.

(a) A “Certificate attesting recognition” of an STCW certificate issued by another party to a non-resident alien under this subpart authorizes service only on vessels owned and/or operated in accordance with § 15.720 of this subchapter.

(b) The certificate will be issued for service only in the department for which the application was submitted.

(c) No other certificate is authorized, unless all applicable requirements of this subpart and the STCW Convention (incorporated by reference, see § 11.102 of this part) are met, and the employer makes subsequent application for a new endorsement.

(d) This certificate is not valid for service on U.S. vessels operating in U.S. waters.

Subpart K—Officers on a Passenger Ship When on an International Voyage

§ 11.1101 Purpose of rules.

The rules in this subpart establish requirements for officers serving on passenger ships as defined in § 11.1103 of this subpart.

§ 11.1103 Definitions.

Passenger ship in this subpart means a ship carrying more than 12 passengers when on an international voyage.

§ 11.1105 General requirements for officer endorsements.

(a) To serve on a passenger vessel on international voyages, masters, deck officers, chief engineers and engineer officers, must—

(1) Meet the appropriate requirements of the STCW Regulation V/2 and of section A-V/2 of the STCW Code (incorporated by reference, see § 11.102 of this part) as follows:

(i) Masters, officers, and other personnel designated on the muster list to assist passengers in emergency situation onboard passenger ships must have completed training in crowd management specified in section A-V/2 of the STCW Code.

(ii) Personnel providing direct service to passengers in passenger spaces onboard passenger ships must have completed the safety training specified in section A-V/2 of the STCW Code.

(iii) Masters, chief engineer officers, chief mates, second engineer officers, and any person designated on muster lists of having responsibility for the safety of passengers in emergency situations onboard passenger ships must have completed approved training in crisis management and human behavior as specified in section A-V/2 of the STCW Code.

(iv) Masters, chief engineer officers, chief mates, second engineer officers, and every person assigned immediate responsibility for embarking and disembarking passengers, loading, discharging or securing cargo, or closing hull openings onboard Ro-Ro passenger ships must have completed approved training in passenger safety, cargo safety, and hull integrity as specified in section A-V/2 of the STCW Code; and

(2) Hold documentary evidence as proof of meeting these requirements through approved or accepted training.

(b) Seafarers who are required to be trained in accordance with paragraph (a) of this section must provide, at intervals not exceeding 5 years, evidence of maintaining the standard of competence.

(c) The Coast Guard will accept onboard training and experience, through evidence of 1 year of sea service within the last 5 years, as meeting the requirements of paragraph (b) of this section.

(d) Personnel serving onboard small passenger vessels engaged in domestic, near-coastal voyages, as defined in § 11.301(h) of this subchapter, are not subject to any obligation for the purpose of this STCW requirement.

32. Revise part 12 to read as follows:

PART 12—REQUIREMENTS FOR RATING ENDORSEMENTS

Subpart A—General
Sec.
12.101 Purpose.
12.103 Incorporation by reference.
12.105 Paperwork approval.
Subpart B—General Requirements for Rating Endorsements
12.201 General requirements for national and STCW rating endorsements.
12.203 Creditable service and equivalents for national and STCW ratings endorsements.
12.205 Examination procedures and denial of rating and STCW endorsements.
Subpart C—[Reserved]
Subpart D—Requirements for National Deck Rating Endorsements
12.401 General requirements for able seaman (A/B) endorsements.
12.403 Service or training requirements for able seaman (A/B) endorsements.
12.405 Examination and demonstration of ability for able seaman (A/B) endorsements.
12.407 General requirements for lifeboatman endorsements.
12.409 General requirements for lifeboatman-limited endorsements.
Subpart E—Requirements for National Engineer Rating Endorsements
12.501 General requirements for a qualified member of the engine department (QMED).
12.503 Service or training requirements.
12.505 Examination requirements.
Subpart F—Requirements for STCW Rating Endorsements
12.601 General requirements for STCW rating endorsements.
12.602 Basic training.
12.603 Requirements to qualify for an STCW endorsement as able seafarer-deck.
12.605 Requirements to qualify for an STCW endorsement as ratings forming part of a navigational watch (RFPNW).
12.607 Requirements to qualify for an STCW endorsement as rating as able seafarer-engine.
12.609 Requirements to qualify for an STCW endorsement as rating forming part of an engineering watch (RFPEW).
12.611 Requirements to qualify for an STCW endorsement as electro-technical rating (ETR) on vessels powered by main propulsion machinery of 750 kW/1,000 HP or more.
12.613 Requirements to qualify for an STCW endorsement in proficiency in survival craft and rescue boats other than fast rescue boats (PSC).
12.615 Requirements to qualify for an STCW endorsement in proficiency in survival craft and rescue boats other than lifeboats and fast rescue boats-limited (PSC-limited).
12.617 Requirements to qualify for an STCW endorsement in proficiency in fast rescue boats.
12.619 Requirements to qualify for an STCW endorsement as medical first-aid provider.
12.621 Requirements to qualify for an STCW endorsement as person in charge of medical care.
12.623 Requirements to qualify for an STCW endorsement as Global Maritime Distress and Safety System (GMDSS) at-sea maintainer.
12.625 Requirements to qualify for an STCW endorsement as vessel personnel with designated security duties.
12.627 Requirements to qualify for an STCW endorsement for security awareness.
Subpart G—Entry-Level National Ratings and Miscellaneous Ratings
12.701 Credentials required for entry-level and miscellaneous ratings.
12.703 General requirements for entry-level ratings.
12.705 Endorsements for persons enrolled in a Maritime Administration approved training program.
12.707 Student observers.
12.709 Apprentice engineers.
12.711 Apprentice mate.
Subpart H—Non-Resident Alien Members of the Steward's Department on U.S. Flag Large Passenger Vessels
12.801 Purpose.
12.803 General requirements.
12.805 Employer requirements.
12.807 Basis for denial.
12.809 Citizenship and identity.
12.811 Restrictions.
12.813 Alternative means of compliance.
Subpart I—Crewmembers on a Passenger Ship on an International Voyage
12.901 Purpose.
12.903 Definitions.
12.905 General requirements.

Authority: 31 U.S.C. 9701; 46 U.S.C. 2101, 2103, 2110, 7301, 7302, 7503, 7505, 7701, and 70105; Department of Homeland Security Delegation No. 0170.1.

Subpart A—General

§ 12.101 Purpose.

(a) The purpose of this part is to provide—

(1) A comprehensive and adequate means of determining and verifying the professional qualifications an applicant must possess to be eligible for certification to serve on merchant vessels of the United States; and

(2) A means of determining that an applicant is qualified to receive the endorsement required by the International Convention on Standards of Training, Certification and Watchkeeping for Seafarers, 1978, as amended (the STCW Convention, or STCW).

(b) The requirements applicable to approved and accepted training, training for a particular rating endorsement, and training and assessment associated with meeting the standards of competence established by the STCW Convention have been moved to 46 CFR part 10, subpart D.

§ 12.103 Incorporation by reference.

(a) Certain material is incorporated by reference into this part with the approval of the Director of the Federal Register under 5 U.S.C. 552(a) and 1 CFR part 51. To enforce any edition other than that specified in this section, the Coast Guard must publish a notice of change in the Federal Register and the material must be available to the public. All approved material is available for inspection at the Coast Guard, Office of Operating and Environmental Standards (CG-OES), 2100 Second Street SW., Stop 7126, Washington, DC 20593-7126, and is available from the sources listed below. It is also available for inspection at the National Archives and Records Administration (NARA). For information on the availability of this material at NARA, call 202-741-6030 or go to http://www.archives.gov/federal_register/code_of_federal_regulations/ibr_locations.html.

(b) International Maritime Organization (IMO), 4 Albert Embankment, London SE1 7SR, England:

(1) The Seafarers' Training, Certification and Watchkeeping Code, as amended, 2011 (the STCW Code), incorporation by reference approved for §§ 12.601, 12.602, 12.603, 12.605, 12.607, 12.609, 12.611, 12.613, 12.615, 12.617, 12.619, 12.621, 12.623, 12.811, and 12.905.

(2) [Reserved]

§ 12.105 Paperwork approval.

(a) This section lists the control numbers assigned by the Office of Management and Budget under the Paperwork Reduction Act of 1980 (Pub. L. 96-511) for the reporting and recordkeeping requirements in this part.

(b) The following control numbers have been assigned to the sections indicated:

(1) OMB 1625-0079—46 CFR 12.217 and 12.301.

(2) [Reserved]

Subpart B—General Requirements for Rating Endorsements

§ 12.201 General requirements for national and STCW rating endorsements.

(a) General. (1) An MMC issued to a deck or engineer officer will be endorsed for all entry-level ratings and any other ratings for which they qualify under this part. An applicant for any STCW endorsement must hold the appropriate national endorsement, unless otherwise specified.

(2) The authorized holder of any valid rating endorsement may serve in any capacity in the staff department of a vessel, except in those capacities requiring a staff officer; except that whenever the service includes the handling of food, no person may be so employed unless his or her credential bears the food handler's endorsement indicated by the notation “(F.H.)”.

(3) When an applicant meets the requirements for certification set forth in this part, the Coast Guard will issue the appropriate endorsement.

(b) Physical and medical requirements. The physical and medical requirements applicable to the endorsements in this subpart are found in 46 CFR part 10, subpart C.

§ 12.203 Creditable service and equivalents for national and STCW ratings endorsements.

Applicants for endorsements should refer to § 10.232 of this subchapter for information regarding requirements for documentation and proof of sea service.

§ 12.205 Examination procedures and denial of rating and STCW endorsements.

(a) The examination fee set out in Table 1 to § 10.219(a) of this subchapter must be paid before the applicant may take the first section of the examination.

(b) Upon receipt of an application for a rating endorsement, the Coast Guard will give any required examination as soon as practicable after determining that the applicant is otherwise qualified for the endorsement.

(c) An applicant for a rating endorsement who has been duly examined and failed the examination may seek reexamination at any time after the initial examination. However, an applicant who fails an examination for the third time must wait 90 days before re-testing. All examinations and retests must be completed within 1 year of approval for examination.

(d) Upon receipt of an application for an STCW endorsement, the Coast Guard will evaluate the applicant's qualifications. The Coast Guard will issue the appropriate endorsement after determining that the applicant satisfactorily meets all requirements for any requested STCW rating or qualification.

Subpart C—[Reserved]

Subpart D—Requirements for National Deck Rating Endorsements

§ 12.401 General requirements for able seaman (A/B) endorsements.

(a) General. An A/B is any person below officer and above ordinary seaman who holds a merchant mariner credential (MMC) or merchant mariner document (MMD) endorsed as A/B by the Coast Guard.

(b) Categories. The following categories of able seaman endorsements are established:

(1) Able seaman—unlimited.

(2) Able seaman—limited.

(3) Able seaman—special.

(4) Able seaman—offshore supply vessels.

(5) Able seaman-sail.

(6) Able seaman-fishing industry.

(c) Requirements for certification. To qualify for an endorsement as able seaman, an applicant must—

(1) Be at least 18 years of age;

(2) Pass the prescribed physical and medical examination requirements specified in 46 CFR, part 10, subpart C;

(3) Present evidence of having passed a chemical test for dangerous drugs or of qualifying for an exemption from testing as described in § 16.220 of this subchapter;

(4) Meet the sea service or training requirements set forth in this part;

(5) Pass an examination for able seaman;

(6) Qualify for an endorsement as lifeboatman or lifeboatman-limited; and

(7) Speak and understand the English language as would be required in performing the general duties of able seaman and during an emergency aboard ship.

(d) Additional requirements. (1) The holder of an MMC or MMD endorsed for the rating of A/B may serve in any rating in the deck department without obtaining an additional endorsement, provided—

(i) That the holder possesses the appropriate A/B endorsement for the service of the vessel; and

(ii) That the holder possesses the appropriate STCW endorsement when serving as an able seafarer-deck or Ratings forming part of the navigational watch on a seagoing ship.

(2) After March 24, 2014, any MMC endorsed as A/B will also be endorsed as lifeboatman or lifeboatman-limited, as appropriate.

(3) The A/B endorsement will clearly describe the type of rating that it represents (see paragraph (a) of this section).

§ 12.403 Service or training requirements for able seaman (A/B) endorsements.

(a) The minimum service required to qualify for the various categories of endorsement as able seaman is as follows:

(1) Able seaman—unlimited. Three years of service on deck on vessels operating on oceans or on the Great Lakes.

(2) Able seaman—limited. Eighteen months of service on deck on vessels of 100 GRT or more which operate in a service not exclusively confined to the rivers and smaller inland lakes of the United States.

(3) Able seaman—special. Twelve months of service on deck on vessels operating on oceans or the navigable waters of the United States, including the Great Lakes.

(4) Able seaman—offshore supply vessels. Six months of service on deck on vessels operating on oceans or on the navigable waters of the United States, including the Great Lakes.

(5) Able seaman—sail. Six months of service on deck on sailing school vessels, oceanographic research vessels powered primarily by sail, or equivalent sailing vessels operating on oceans or on the navigable waters of the United States, including the Great Lakes.

(6) Able seaman—fishing industry. Six months of service on deck, not as a processor, onboard vessels operating on oceans or on the navigable waters of the United States, including the Great Lakes.

(b) Approved training programs may be substituted for the required periods of service on deck as follows:

(1) A graduate of a school ship may be qualified for a rating endorsement as A/B, without further service, upon satisfactory completion of the program of instruction. For this purpose, “school ship” is interpreted to mean an institution that offers a complete approved program of instruction, including a period of at-sea training, in the skills appropriate to the rating of A/B.

(2) Training programs, other than those classified as a school ship, may be substituted for up to one-third of the required service on deck. The Coast Guard will determine the service/training ratio for each program and may allow a maximum of 3 days of deck service credit for each day of instruction.

§ 12.405 Examination and demonstration of ability for able seaman (A/B) endorsements.

(a) Before an applicant is issued an endorsement as an A/B, he or she must prove, to the satisfaction of the Coast Guard, by oral or other means of examination, or by actual demonstration in a Coast Guard-approved course, his or her knowledge of seamanship and the ability to carry out effectively all the duties that may be required of an A/B, including those of a lifeboatman or lifeboatman-limited.

(b) The examination, whether administered orally or by other means, must be conducted only in the English language and must consist of questions regarding—

(1) The applicant's knowledge of nautical terms, use of the compass for navigation, running lights, passing signals, and fog signals for vessels on the high seas, inland waters, or Great Lakes, and distress signals; and

(2) The applicant's knowledge of commands in handling the wheel by obeying orders passed to him or her as helmsman, and knowledge of the use of the engine room telegraph.

(c) The applicant must provide evidence, to the satisfaction of the Coast Guard, of the knowledge of principal knots, bends, splices, and hitches in common use by actually making them.

(d) The applicant must demonstrate, to the satisfaction of the Coast Guard, knowledge of pollution laws and regulations, procedures for discharge containment and cleanup, and methods for disposal of sludge and waste material from cargo and fueling operations.

§ 12.407 General requirements for lifeboatman endorsements.

(a) General. Every person fulfilling the manning requirements as lifeboatman on any United States vessel must hold an endorsement as lifeboatman. No endorsement as lifeboatman is required of any person employed on any unrigged vessel, except on a seagoing barge and on a tank barge navigating waters other than rivers and/or canals.

(b) Requirements for certification. (1) To qualify for an endorsement as lifeboatman, an applicant must—

(i) Be at least 18 years of age;

(ii) Pass the prescribed physical and medical examination requirements specified in 46 CFR, part 10, subpart C; and

(iii) Present evidence of having passed a chemical test for dangerous drugs or as having qualified for an exemption for testing described in § 16.220 of this subchapter.

(2) To be eligible for an endorsement as lifeboatman, an applicant must meet one of the following sea service requirements:

(i) At least 6 months of sea service in any department of vessels and the successful completion of an approved course.

(ii) At least 12 months of sea service in any department of vessels on ocean, coastwise, inland, and Great Lakes routes.

(3) Before an applicant is issued an endorsement as a lifeboatman, he or she must prove, to the satisfaction of the Coast Guard, by oral or other means of examination, and by actual practical demonstration of abilities, his or her knowledge of seamanship and the ability to carry out effectively all the duties that may be required of a lifeboatman. This requirement may be met by completion of an approved course in paragraph (b)(2)(i) of this section, provided the course includes actual practical demonstration of abilities.

(4) The practical demonstration must consist of a demonstration of the applicant's ability to—

(i) Take charge of a survival craft or rescue boat during and after launch;

(ii) Operate a survival craft engine;

(iii) Demonstrate the ability to row by actually pulling an oar in the boat;

(iv) Manage a survival craft and survivors after abandoning ship;

(v) Safely recover survival craft and rescue boats; and

(vi) Use locating and communication devices.

(5) The examination, whether administered orally or by other means, must be conducted only in the English language and must consist of questions regarding—

(i) Lifeboats and liferafts, the names of their essential parts, and a description of the required equipment;

(ii) The clearing away, swinging out, and lowering of lifeboats and liferafts, the handling of lifeboats under oars and sails, including questions relative to the proper handling of a boat in a heavy sea; and

(iii) The operation and functions of commonly used types of davits.

(6) An applicant, to be eligible for an endorsement as lifeboatman, must be able to speak and understand the English language as would be required in the rating of lifeboatman and in an emergency aboard ship.

§ 12.409 General requirements for lifeboatman-limited endorsements.

(a) General. Every person fulfilling the manning requirements for lifeboatman on any United States vessel fitted with liferafts, but not fitted with lifeboats, must hold an endorsement as lifeboatman or as lifeboatman-limited. No endorsement as lifeboatman or lifeboatman-limited is required of any person employed on any unrigged vessel, except on a seagoing barge and on a tank barge navigating waters other than rivers and/or canals.

(b) Requirements for certification. (1) To qualify for an endorsement as lifeboatman-limited, an applicant must—

(i) Be at least 18 years of age;

(ii) Pass the prescribed physical and medical examination requirements specified in 46 CFR Part 10, subpart C; and

(iii) Present evidence of having passed a chemical test for dangerous drugs or of having qualified for an exemption for testing, as described in § 16.220 of this subchapter.

(2) An applicant, to be eligible for an endorsement as lifeboatman-limited, must meet one of the following sea service requirements:

(i) At least 12 months of sea service in any department of vessels on ocean, coastwise, inland, and Great Lakes routes.

(ii) At least 6 months of sea service in any department of vessels, and successful completion of an approved course.

(3) Before an applicant is issued an endorsement as a lifeboatman-limited, he or she must prove, to the satisfaction of the Coast Guard, by oral or other means of examination, and by actual practical demonstration of abilities, his or her knowledge of seamanship and ability to carry out effectively all the duties that may be required of a lifeboatman-limited.

(4) The practical demonstration must consist of a demonstration of the applicant's ability to—

(i) Take charge of a rescue boat, liferaft, or other lifesaving apparatus during and after launch;

(ii) Operate a rescue boat engine;

(iii) Manage a survival craft and survivors after abandoning ship;

(iv) Safely recover rescue boats; and

(v) Use locating and communication devices.

(5) The examination, whether administered orally or by other means, must be conducted only in the English language and must consist of questions regarding—

(i) Liferafts, rescue boats, and other survival craft except lifeboats, the names of their essential parts, and a description and use of the required equipment;

(ii) The clearing away, launching, and handling of rescue craft, except lifeboats; and

(iii) The operation and functions of commonly used launching devices for rescue boats and survival craft other than lifeboats.

(6) An applicant, to be eligible for an endorsement as lifeboatman-limited, must be able to speak and understand the English language as would be required in the rating of lifeboatman-limited and in an emergency aboard ship.

Subpart E—Requirements for National Engineer Rating Endorsements

§ 12.501 General requirements for a qualified member of the engine department (QMED).

(a) General. A qualified member of the engine department is any person below officer and above the rating of coal passer or wiper, who holds an MMC or MMD endorsed as QMED by the Coast Guard.

(b) Categories. (1) Each QMED rating must be endorsed separately, unless the applicant qualifies for all QMED ratings, in which case the endorsement will read “QMED—any rating.” The ratings are—

(i) Fireman/Watertender;

(ii) Oiler;

(iii) Junior engineer;

(iv) Electrician/Refrigerating engineer; and

(v) Pumpman/Machinist.

(2) The Coast Guard will no longer issue original endorsements for deck engineer, deck/engine mechanic, or engineman, or individual endorsements for refrigerating engineer, machinist, electrician, and pumpman. However, a mariner who holds any of these endorsements may continue to renew them as long as he or she is otherwise qualified.

(3) If the holder of an endorsement as pumpman only or machinist only seeks the combined endorsement of pumpman/machinist, the mariner must pass the examination described in Table 1 to § 12.505(c) of this subpart.

(4) If the holder of an endorsement as electrician only or refrigerating engineer only seeks the combined endorsement of electrician/refrigerating engineer, the mariner must pass the examination described in Table 1 to § 12.505(c) of this subpart.

(c) Requirements for certification. To qualify for any endorsement as QMED, an applicant must—

(1) Be at least 18 years of age;

(2) Pass the prescribed physical and medical examination requirements specified in 46 CFR Part 10, subpart C;

(3) Present evidence of having passed a chemical test for dangerous drugs or of having qualified for an exemption from testing, as described in § 16.220 of this subchapter;

(4) Meet the sea service or training requirements in § 12.503 of this subpart;

(5) Pass an examination as QMED; and

(6) Speak and understand the English language as would be required in performing the general duties of QMED and during an emergency aboard ship.

§ 12.503 Service or training requirements.

(a) An applicant for an endorsement as QMED must provide the Coast Guard with proof of qualification based on 6 months of service in a rating at least equal to that of wiper or coal passer.

(b) Approved training programs may be substituted for the required periods of service as follows:

(1) A graduate of a school ship may qualify for a rating endorsement as QMED, without further service, upon satisfactory completion of the program of instruction. For this purpose, school ship is interpreted to mean an institution that offers a complete approved program of instruction, including a period of at-sea training, in the skills appropriate to the rating of QMED.

(2) Training programs, other than those classified as a school ship, may be substituted for up to one-half of the required service. The service/training ratio for each program is determined by the Coast Guard.

§ 12.505 Examination requirements.

(a) Before an applicant is issued an endorsement as QMED in the rating of oiler, fireman/watertender, junior engineer, pumpman/machinist, or electrician/refrigerating engineer, he or she must prove, to the satisfaction of the Coast Guard, by oral or other means of examination, his or her knowledge of the subjects listed in paragraph (c) of this section.

(b) The examination, whether administered orally or by other means, must be conducted only in the English language.

(c) Table 1 to § 12.505(c) provides a list of subjects required.

Table 1 to § 12.505(c)—Examination Subjects for QMED Ratings
Subjects | Pumpman/ machinist | Fireman/ watertender | Oiler | Electrician/ refrigerating engineer | Junior engineer
General subjects:
Auxiliary machinery | X | X | X | X | X
Basic safety procedures | X | X | X | X | X
Bearings | X |  | X | X | X
Care of equipment and machine parts | X | X | X | X | X
Deck machinery | X |  |  | X | X
Drawings and tables | X |  |  | X | X
Heat exchangers | X | X | X | X | X
Hydraulic principles | X |  |  | X | X
Instrumentation principles | X | X | X | X | X
Lubrication principles | X |  | X | X | X
Maintenance procedures | X | X | X | X | X
Measuring instruments | X | X | X | X | X
Pipes, fittings, and valves | X | X | X | X | X
Pollution prevention | X | X | X | X | X
Properties of fuel |  | X | X |  | X
Pumps, fans, and blowers | X |  |  | X | X
Refrigeration principles |  |  | X | X | X
Remote control equipment | X | X | X | X | X
Use of hand/power tools | X | X | X | X | X
Watch duties |  | X | X |  | X
Electrical subjects:
A/C circuits |  |  |  | X | X
Batteries |  |  |  | X | X
Calculations |  |  |  | X | X
Communication devices |  |  |  | X | X
D/C circuits |  |  |  | X | X
Distribution systems |  |  |  | X | X
Electronic principles |  |  |  | X | X
Generation equipment |  |  | X | X | X
Maintenance |  |  | X | X | X
Measuring devices |  |  |  | X | X
Motor controllers |  |  |  | X | X
Motors |  |  | X | X | X
Safety | X | X | X | X | X
Troubleshooting |  |  |  | X |
Safety and environmental protection subjects:
Communications | X | X | X | X | X
Damage control | X | X | X | X | X
Elementary first aid | X | X | X | X | X
Emergency equipment | X | X | X | X | X
Environmental awareness | X | X | X | X | X
Fire prevention | X | X | X | X | X
Firefighting equipment | X | X | X | X | X
Firefighting principles | X | X | X | X | X
General safety | X | X | X | X | X
Hazardous materials | X | X | X | X | X
Shipboard equipment and systems subjects:
Air conditioning |  |  |  | X | X
Ballast | X | X | X |  | X
Bilge | X | X | X |  | X
Compressed air | X | X | X | X | X
Desalination |  |  | X |  | X
Fuel oil storage/transfer |  | X | X |  | X
Fuel treatment |  | X | X |  | X
Heating/ventilation | X |  |  | X | X
Lubrication | X |  | X | X | X
Potable water |  |  | X |  | X
Refrigeration |  |  | X | X | X
Sanitary/sewage |  |  | X |  | X
Steering |  |  | X | X | X
Steam propulsion subjects:
Auxiliary turbines |  | X | X |  | X
Boiler fundamentals |  | X | X |  | X
Combustion principles |  | X | X |  | X
Condensate systems |  | X | X |  | X
Drive systems |  | X | X |  | X
Feedwater systems |  | X | X |  | X
Fuel service systems |  | X | X |  | X
Maintenance | X | X | X |  | X
Safety | X | X | X | X | X
Steam fundamentals | X | X | X |  | X
Turbine fundamentals |  | X | X |  | X
Motor propulsion subjects:
Air-charge systems |  |  | X |  | X
Cooling water systems |  |  | X |  | X
Diesel engine principles | X |  | X |  | X
Drive systems | X |  | X |  | X
Fuel service systems |  |  | X |  | X
Intake/exhaust |  |  | X |  | X
Lubrication systems | X |  | X |  | X
Starting systems |  |  | X |  | X
Waste heat/auxiliary boiler |  |  | X |  | X

Subpart F—Requirements for STCW Rating Endorsements

§ 12.601 General requirements for STCW rating endorsements.

(a) General. An applicant for any STCW endorsement must hold the appropriate national endorsement, unless otherwise specified. The Coast Guard will issue an STCW endorsement to qualified applicants for any of the following ratings or qualifications:

(1) Able seafarer-deck.

(2) Ratings forming part of a navigational watch (RFPNW).

(3) Able seafarer-engine.

(4) Ratings forming part of a watch in a manned engineroom or designated to perform duties in a periodically unmanned engineroom (RFPEW).

(5) Electro-technical rating on vessels powered by main propulsion machinery of 750 kW/1,000 HP or more.

(6) Proficiency in survival craft and rescue boats, other than fast rescue boats (PSC).

(7) Proficiency in survival craft and rescue boats, other than lifeboats and fast rescue boats (PSC-limited).

(8) Proficiency in fast rescue boats.

(9) Medical first-aid provider.

(10) Person in charge of medical care.

(11) GMDSS at-sea maintainer.

(12) Vessel personnel with designated security duties.

(13) Security awareness.

(b) Standard of competence. (1) The Coast Guard will accept one or more methods listed in the STCW Code to demonstrate meeting the standard of competence in this subpart. See Column 3, “Methods for demonstrating competence,” of the Tables of Competence in the STCW Code (incorporated by reference, see § 12.103 of this part). The Coast Guard will accept the following as evidence of meeting the standard of competence under each of these methods:

(i) In-service experience: Documentation of successful completion of assessments, approved or accepted by the Coast Guard, and signed by a qualified assessor, deck or engineering, as appropriate.

(ii) Training ship experience: Documentation of successful completion of an approved training program involving formal training and assessment onboard a training ship.

(iii) Simulator training: Documentation of successful completion of training and assessment from a Coast Guard-approved course involving maritime simulation.

(iv) Laboratory equipment training: Documentation of successful completion of training and assessments from an approved training course or completion certificate from an approved training school or facility.

(v) Practical training or instruction:

(A) Documentation of successful completion of assessment as part of structured/formal training or instruction provided by an organization or company as part of an accepted safety or quality management system; or

(B) Documentation of successful completion of an approved training course from a school or facility.

(vi) Specialist training: Documentation of successful completion of assessment as part of a company training or specialized training provided by a maritime or equipment specialist.

(vii) Workshop skills training: Documentation of successful completion of assessments or completion certificate from an approved training program, school or facility.

(viii) Training program: Documentation of successful completion of an approved training program.

(ix) Practical demonstration and practical demonstration of competence: Documentation of successful completion of assessments approved or accepted by the Coast Guard.

(x) Practical test and practical experience: Documentation of successful completion of assessments approved or accepted by the Coast Guard.

(xi) Examination: Successful completion of a Coast Guard examination.

(xii) Instruction or course: Documentation of successful completion of a course of instruction offered by an approved training school or facility.

(2) Knowledge components may be documented by—

(i) Successful completion of the Coast Guard examination for the associated rating endorsement;

(ii) Successful completion of an approved course; or

(iii) Successful completion of an approved program.

(3) The Coast Guard will publish assessment guidelines that should be used to document assessments that demonstrate meeting the standard of competence, as required by paragraph (b)(1) of this section. Organizations may develop alternative assessment documentation for demonstrations of competence; however, such documentation must be approved by the Coast Guard prior to its use and submittal with an application.

(c) Grandfathering. (1) Except as noted otherwise, each candidate who applies for a credential based on approved or accepted training or approved seagoing service that was started on or after March 24, 2014, or who applies for the MMC endorsement on or after January 1, 2017, must meet the requirements of this part.

(2) Except as noted by this subpart, seafarers holding an STCW endorsement prior to March 24, 2014, will not be required to complete any additional training required under this part to retain the STCW endorsements.

(3) Except as noted otherwise, candidates who apply for a credential based on approved or accepted training or approved seagoing service that was completed before March 24, 2014, may qualify under the requirements of this part existing before that date. This includes the assessments published prior to March 24, 2014, as well as the additional requirements for the STCW endorsement section.

(4) Except as noted by this subpart, the Coast Guard will continue to issue STCW endorsements meeting the requirements of this part existing before March 24, 2014, for seafarers identified in paragraph (c)(3) of this section, until January 1, 2017.

§ 12.602 Basic training.

(a) Applicants seeking an STCW rating endorsement must provide evidence, with their application, of meeting the standard of competence for basic training as described below:

(1) Personal survival techniques, as set out in Table A-VI/1-1 of the STCW Code (incorporated by reference, see § 12.103 of this part).

(2) Fire prevention and firefighting, as set out in Table A-VI/1-2 of the STCW Code.

(3) Elementary first aid, as set out in Table A-VI/1-3 of the STCW Code.

(4) Personal safety and social responsibilities, as set out in Table A-VI/1-4 of the STCW Code.

(b) Every 5 years, seafarers qualified in accordance with § 12.601 (a) of this subpart must provide evidence of maintaining the standard of competence for basic training (BT).

(c) The Coast Guard will accept onboard training and experience, through evidence of 1 year of sea service within the last 5 years for the following areas:

(1) Personal survival techniques, as set out in Table A-VI/1-1 of the STCW Code:

(i) Donning a lifejacket.

(ii) Boarding a survival craft from the ship, while wearing a lifejacket.

(iii) Taking initial actions on boarding a lifeboat to enhance chance of survival.

(iv) Streaming a lifeboat drogue or sea-anchor.

(v) Operating survival craft equipment.

(vi) Operating location devices, including radio equipment.

(2) Fire prevention and firefighting, as set out in Table A-VI/1-2 of the STCW Code:

(i) Using self-contained breathing apparatus.

(ii) Performing a rescue in a smoke-filled space, using an approved smoke-generating device aboard, while wearing a breathing apparatus.

(3) Elementary first aid, as set out in Table A-VI/1-3 of the STCW Code.

(4) Personal safety and social responsibilities, as set out in Table A-VI/1-4 of the STCW Code.

(d) The Coast Guard will only accept evidence of approved assessments conducted ashore for the following areas:

(1) Personal survival techniques, as set out in Table A-VI/1-1 of the STCW Code:

(i) Donning and use an immersion suit.

(ii) Safely jumping from a height into the water.

(iii) Righting an inverted liferaft while wearing a lifejacket.

(iv) Swimming while wearing a lifejacket.

(v) Keeping afloat without a lifejacket.

(2) Fire prevention and firefighting as set out in Table A-VI/1-2 of the STCW Code:

(i) Using various types of portable fire extinguishers.

(ii) Extinguishing smaller fires. e.g., electrical fires, oil fires, and propane fires.

(iii) Extinguishing extensive fires with water, using jet and spray nozzles.

(iv) Extinguishing fires with foam, powder, or any other suitable chemical agent.

(v) Fighting fire in smoke-filled enclosed spaces wearing self-contained breathing apparatuses.

(vi) Extinguishing fire with water fog or any other suitable firefighting agent in an accommodation room or simulated engine room with fire and heavy smoke.

(vii) Extinguishing oil fire with fog applicator and spray nozzles, dry chemical powder, or foam applicators.

(e) Applicants who cannot meet the requirement for 1 year of sea service within the last 5 years, as described in paragraph (c) of this section, will be required to meet the requirements of paragraph (a) of this section or complete approved or accepted refresher training.

§ 12.603 Requirements to qualify for an STCW endorsement as able seafarer-deck.

(a) To qualify for this endorsement as able seafarer-deck, an applicant must—

(1) Be not less than 18 years of age;

(2) Meet the requirements for certification as a RFPNW;

(3) While qualified as an RFPNW, have seagoing service in the deck department of—

(i) Not less than 18 months; or

(ii) Not less than 12 months and have completed approved training;

(4) Provide evidence of meeting the standard of competence specified in Table A-II/5 of the STCW Code (incorporated by reference, see § 12.103 of this part); and

(5) Provide evidence of having satisfactorily completed approved training in—

(i) Proficiency in survival craft and rescue boats other than fast rescue boats (PSC); or

(ii) Proficiency in survival craft and rescue boats, other than lifeboats or fast rescue boats-limited (PSC-limited), as appropriate.

(b) Until January 1, 2017, seafarers will be considered to have met the requirements of this section if they have served as a watchstanding A/B or as an RFPNW for a period of not less than 12 months within the 60 months prior to application.

(c) Seafarers holding a rating endorsement as able seaman before January 1, 2017, will be eligible for this endorsement upon showing evidence of—

(1) Holding an endorsement as an RFPNW; and

(2) Having satisfactorily completed approved training in—

(i) Proficiency in survival craft and rescue boats, other than fast rescue boats (PSC); or

(ii) Proficiency in survival craft and rescue boats, other than lifeboats or fast rescue boats-limited (PSC-limited), as appropriate.

(d) The Coast Guard may exempt an applicant from meeting any individual knowledge, understanding, and proficiency required in Section A-II/5 of the STCW Code. These exemptions must be approved by the Coast Guard, based upon vessel type. Under these circumstances, the endorsement may include a corresponding limitation.

(e) Except as provided in paragraphs (b) and (c) of this section, seafarers with the following national rating endorsements will be eligible for this endorsement upon completion of the requirements designated in this section:

Table 1 to § 12.603(e)—STCW Endorsement as Able Seafarer-Deck
Entry path from national endorsements | Sea service under authority of the endorsement ¹ | Competence—STCW Table A-II/4 ² | Competence—STCW Table A-II/5 ³ | Training required by this section ⁴
A/B unlimited | None | Y | Y | N
A/B limited | None | Y | Y | N
A/B special | 6 months ⁵ | Y | Y | N
A/B-offshore supply vessels | 12 months ⁶ | Y | Y | N
A/B sail | 12 months ⁶ | Y | Y | N
A/B-fishing industry | 12 months ⁶ | Y | Y | N
¹ This column provides the minimum additional service required of the seafarer already holding an RFPNW endorsement in order to meet the requirements of this section.
² Complete any items in paragraph (a)(2) of this section not previously satisfied.
³ Complete any items in paragraph (a)(4) of this section not previously satisfied.
⁴ Complete any items in paragraph (a)(5) of this section not previously satisfied.
⁵ The service may be reduced to 3 months if training has been completed as part of an approved training program meeting the requirements of paragraph (a)(4) of this section.
⁶ The service may be reduced to 6 months if training has been completed as part of an approved training program meeting the requirements of (a)(4) of this section.

§ 12.605 Requirements to qualify for an STCW endorsement as ratings forming part of a navigational watch (RFPNW).

(a) To qualify for endorsement as an RFPNW on a seagoing vessel of 500 GT or more, an applicant must—

(1) Be not less than 16 years of age;

(2) Provide evidence of service as follows:

(i) Six months of seagoing service, which includes training and experience associated with navigational watchkeeping functions and involves the performance of duties carried out under the supervision of the master, mate, or qualified STCW deck rating; or

(ii) Proof of successful completion of Coast Guard-approved or -accepted training, which includes not less than 2 months of approved seagoing service; and

(3) Provide evidence of meeting standards of competence prescribed in Table A-II/4 of the STCW Code (incorporated by reference, see § 12.103 of this part).

(b) The Coast Guard may exempt an applicant from meeting any individual knowledge, understanding, and proficiency required in Section A-II/4 of the STCW Code. These exemptions must be approved by the Coast Guard based upon vessel type. Under these circumstances, the endorsement may include a corresponding limitation.

(c) Seafarers with the following national rating endorsements will be eligible for this endorsement upon completion of requirements designated in this section:

Table 1 to § 12.605(c)—STCW Endorsement as RFPNW
Entry path from national endorsements | Sea service under authority of the endorsement ¹ | Competence—STCW Table A-II/4 ²
A/B unlimited | None | Y
A/B limited | None | Y
A/B special | None | Y
A/B-offshore supply vessels | None | Y
A/B sail | None | Y
A/B-fishing industry | None | Y
Ordinary seaman | 6 mo.³ | Y
¹ This column provides the minimum additional service required of the seafarer in order to meet the requirements of this section.
² Complete any items in paragraph (a)(3) of this section not previously satisfied.
³ The service may be reduced to 2 months if training has been completed as part of an approved training program meeting the requirements of paragraph (a)(2)(ii) of this section.

§ 12.607 Requirements to qualify for an STCW endorsement as rating as able seafarer-engine.

(a) To qualify for an STCW endorsement as an able seafarer-engine, an applicant must—

(1) Be not less than 18 years of age;

(2) Meet the requirements for certification as a ratings forming part of an engineering watch (RFPEW);

(3) While qualified as an RFPEW, have seagoing service in the engine department of—

(i) Not less than 12 months; or

(ii) Not less than 6 months and have completed approved training; and

(4) Provide evidence of meeting the standard of competence specified in Table A-III/5 of the STCW Code (incorporated by reference, see § 12.103 of this part).

(b) Until January 1, 2017, seafarers will be considered to have met the requirements of this section if they have served as a watchstanding Qualified Member of the Engine Department (QMED), junior engineer, oiler, fireman/watertender, deck-engine mechanic, or engineman in the engine department, or as an RFPEW for a period of not less than 12 months within the last 60 months prior to application.

(c) Seafarers holding a rating endorsement as QMED, junior engineer, electrician or electrician/refrigerating engineer, pumpman or pumpman/machinist, refrigerating engineer, or machinist before January 1, 2017, will be eligible for this endorsement upon showing evidence of holding an endorsement as an RFPEW.

(d) The Coast Guard may exempt an applicant from meeting any individual knowledge, understanding, and proficiency required in Section A-III/5 of the STCW Code. These exemptions must be approved by the Coast Guard based upon vessel type. Under these circumstances, the endorsement may include a corresponding limitation.

(e) Except as provided in paragraphs (b) and (c) of this section, seafarers with the following national rating endorsements will be eligible for this endorsement upon completion of requirements designated in this section:

Table 1 to § 12.607(e)—STCW Endorsement as Able Seafarer-Engine
Domestic QMED endorsement | Additional sea service for AS-E
Engineman | None.
Deck Engine Mechanic | None.
Electrician | 6 months.¹
Refrigerating Engineer | 6 months.¹
Pumpman | 6 months.¹
Machinist | 6 months.¹
¹ Service may be reduced to 3 months if training has been completed as part of an approved training program.

§ 12.609 Requirements to qualify for an STCW endorsement as rating forming part of an engineering watch (RFPEW).

(a) To qualify for an STCW endorsement as an RFPEW in a manned engine room or to qualify to be designated to perform duties in a periodically unmanned engine room, an applicant must—

(1) Be not less than 16 years of age;

(2) Provide evidence of service as follows:

(i) Six months of seagoing service, which includes training and experience associated with engine room functions, and involves the performance of duties carried out under the supervision of an engineer officer or a qualified STCW rating; or

(ii) Proof of successful completion of a Coast Guard-approved or -accepted training, which includes not less than 2 months approved seagoing service; and

(3) Provide evidence of meeting the standard of competence as specified in Table A-III/4 of the STCW Code (incorporated by reference, see § 12.103 of this part).

(b) The Coast Guard may exempt an applicant from meeting any individual knowledge, understanding, and proficiency required in Section A-III/4 of the STCW Code. These exemptions must be approved by the Coast Guard based upon vessel type. Under these circumstances, the endorsement may include a corresponding limitation.

(c) Seafarers with the following national rating endorsements will be eligible for this endorsement upon completion of requirements designated in this section:

Table 1 to § 12.609(c)—STCW Endorsement as RFPEW
Entry path from national endorsements | Sea service under authority of the endorsement ¹ | Competence—STCW Table A-III/4 ²
Any QMED | None | Y
Wiper | 6 months | Y
¹ This column provides the minimum additional service required of the seafarer in order to meet the requirements of this section.
² Complete any items in paragraph (a)(3) of this section not previously satisfied.

(d) Limitations. (1) STCW RFPEW endorsements issued in accordance with this section will be restricted to specific propulsion modes for steam, motor, or gas turbine-propelled vessels, as appropriate.

(2) STCW RFPEW endorsements issued in accordance with this section for motor or gas turbine-propelled vessels may be endorsed as limited to serve on vessels without auxiliary boilers, waste-heat boilers, or distilling plants. An applicant may qualify for removal of any of these limitations by demonstrating the appropriate competencies.

§ 12.611 Requirements to qualify for an STCW endorsement as electro-technical rating (ETR) on vessels powered by main propulsion machinery of 750 kW/1,000 HP or more.

(a) To qualify for an STCW endorsement as an electro-technical rating, an applicant must—

(1) Be not less than 18 years of age;

(2) Provide evidence of—

(i) Twelve months of seagoing service, that includes training and experience associated with engine room watchkeeping functions and involves the performance of duties carried out under the supervision of an engineer officer, electro-technical officer, or a qualified STCW engine rating;

(ii) Proof of successful completion of a Coast Guard-approved or -accepted program, which includes not less than 6 months of approved seagoing service; or

(iii) Qualifications meeting the standard of competence specified in Table A-III/7 of the STCW Code (incorporated by reference, see § 12.103 of this part) and approved seagoing service of not less than 3 months;

(3) Provide evidence of meeting the standard of competence specified in Table A-III/7 of the STCW Code; and

(4) Provide evidence of completion of an approved course in—

(i) Computer systems and maintenance; and

(ii) High-voltage power systems.

(b) An applicant who holds an STCW endorsement as able seafarer-engine and a national rating endorsement as electrician, electrician/refrigerating engineer, or junior engineer will be issued the ETR endorsement upon completion of the requirements in Section A-III/7 of the STCW Code and evidence of completion of the training required in paragraph (a)(4) of this section.

(c) Seafarers with the following national rating endorsement will be eligible for this endorsement upon completion of the requirements designated in this section:

Table 1 to § 12.611(c)—STCW Endorsement as Electro-§ Technical Rating
Entry path from national endorsements | Sea service under authority of the endorsement ¹ | Competence—STCW Table A-III/7 ²
Electrician/refrigerating engineer | None | Y
Junior engineer | None | Y
¹ This column provides the minimum additional service required of the seafarer in order to meet the requirements of this section.
² Complete any items in paragraph (a)(3) of this section not previously satisfied.

§ 12.613 Requirements to qualify for an STCW endorsement in proficiency in survival craft and rescue boats other than fast rescue boats (PSC).

(a) To qualify for an STCW endorsement in proficiency in survival craft and rescue boats other than fast rescue boats (PSC), the applicant must—

(1) Be at least 18 years of age;

(2) Meet the requirements for a lifeboatman endorsement in § 12.407 of this part and Table A-VI/2-1 of the STCW Code (incorporated by reference, see § 12.103 of this part); and

(3) Complete basic training (BT), found in § 12.601(c) of this subpart.

(b) Continued professional competence. (1) Seafarers qualified in accordance with paragraph (a) of this section must provide evidence of maintaining the standard of competence as set out in Table A-VI/2-1 of the STCW Code every 5 years.

(2) The Coast Guard will accept onboard training and experience, through evidence of 1 year of sea service within the last 5 years, as meeting the requirements of paragraph (b)(1) of this section for the following areas, as set out in Table A-VI/2-1 of the STCW Code:

(i) Taking charge of a survival craft or rescue boat during and after launch, including—

(A) Interpreting the markings on survival craft as to the number of persons they are intended to carry;

(B) Giving correct commands for launching and boarding survival craft, clearing the ship, and handling and disembarking persons from survival craft;

(C) Preparing and safely launch survival craft, operating its engine, and clearing the ship's side quickly; and

(D) Safely recovering survival craft and rescue boats.

(ii) Operating a survival craft engine, including—

(A) Rowing and steering a boat and steer by compass;

(B) Using individual items of equipment of survival craft, except for pyrotechnics; and

(C) Rigging devices to aid location.

(iii) Using locating devices, including communication and signaling apparatus, including—

(A) Using of portable radio equipment for survival craft.

(B) [Reserved]

(iv) Applying first aid to survivors.

(3) The Coast Guard will only accept evidence of assessments conducted ashore as meeting the requirements of paragraph (b)(1) of this section for the areas not included in paragraph (b)(2) of this section, as set out in Table A-VI/2-1 of the STCW Code.

(4) Applicants who cannot meet the requirement for 1 year of sea service within the last 5 years, as described in paragraph (b)(2) of this section, will be required to meet the requirements of paragraph (a) of this section or complete approved or accepted refresher training.

(c) Seafarers holding an MMD or MMC endorsement as lifeboatman before January 1, 2017 will be eligible for this endorsement upon showing evidence of sea service of not less than 12 months within the last 60 months. The sea service must be completed prior to January 1, 2017.

§ 12.615 Requirements to qualify for an STCW endorsement in proficiency in survival craft and rescue boats other than lifeboats and fast rescue boats-limited (PSC-limited).

(a) To qualify for an STCW endorsement in proficiency in survival craft and rescue boats other than lifeboats and fast rescue boats-limited (PSC-limited), the applicant must—

(1) Be at least 18 years of age;

(2) Meet the requirements for a lifeboatman-limited endorsement in § 12.409 of this part and Table A-VI/2-1 of the STCW Code (incorporated by reference, see § 12.103 of this part); and

(3) Complete BT, found in § 12.601(c) of this subpart.

(b) Continued professional competence. (1) Seafarers qualified in accordance with paragraph (a) of this section must provide evidence of maintaining the standard of competence as set out in Table A-VI/2-1 of the STCW Code every 5 years.

(2) The Coast Guard will accept onboard training and experience, through evidence of 1 year of sea service within the last 5 years, as meeting the requirements of paragraph (b)(1) of this section for the following areas, as set out in Table A-VI/2-1 of the STCW Code:

(i) Taking charge of a survival craft or rescue boat during and after launch including—

(A) Interpreting the markings on survival craft as to the number of persons they are intended to carry;

(B) Giving correct commands for launching and boarding rescue boats and survival craft other than lifeboats, clearing the ship, and handling and disembarking persons from survival craft;

(C) Preparing and safely launching rescue boats and survival craft, other than lifeboats, starting the engine, and clearing the ship's side quickly; and

(D) Safely recovering rescue boats.

(ii) Managing survivors and survival craft after abandoning ship, including—

(A) Steering a rescue boat and steer by compass;

(B) Using individual items of equipment of survival craft other than lifeboats, except for pyrotechnics; and

(C) Rigging devices to aid location.

(iii) Using locating devices, including communication and signaling apparatuses, including—

(A) Using portable radio equipment for rescue boats and survival craft;

(B) [Reserved]

(iv) Applying first aid to survivors.

(3) The Coast Guard will only accept evidence of assessments conducted ashore as meeting the requirements of paragraph (b)(1) of this section for the areas not included in paragraph (b)(2) of this section as set out in Table A-VI/2-1 of the STCW Code.

(4) Applicants who cannot meet the requirement for 1 year of sea service within the last 5 years, as described in paragraph (b)(2) of this section, will be required to meet the requirements of paragraph (a) of this section or complete approved or accepted refresher training.

(c) Seafarers holding an MMD or MMC endorsement as lifeboatman-limited before January 1, 2017, will be eligible for this endorsement upon showing evidence of sea service of not less than 12 months within the last 60 months. The sea service must be completed prior to January 1, 2017.

§ 12.617 Requirements to qualify for an STCW endorsement in proficiency in fast rescue boats.

(a) To qualify for an STCW endorsement in proficiency in fast rescue boats, an applicant must—

(1) Be not less than 18 years of age;

(2) Hold an endorsement in proficiency in survival craft and rescue boats other than fast rescue boats (PSC) or in proficiency in survival craft and rescue boats other than lifeboats and fast rescue boats-limited (PSC-limited) under this subpart;

(3) Provide evidence of successful completion of a Coast Guard-approved or -accepted course; and

(4) Provide evidence of meeting the standard of competence specified in Table A-VI/2-2 of the STCW Code (incorporated by reference, see § 12.103 of this part).

(b) Continued professional competence. (1) Seafarers qualified in accordance with paragraph (a) of this section must provide evidence of maintaining the standard of competence as set out in Table A-VI/2-2 of the STCW Code every 5 years.

(2) The Coast Guard will accept onboard training and experience, through evidence of 1 year of sea service within the last 5 years, as meeting the requirements of paragraph (b)(1) of this section for the following areas, as set out in Table A-VI/2-2 of the STCW Code:

(i) Taking charge of a fast rescue boat during and after launch, including—

(A) Controlling safe launching, operating of the engine, and recovering a fast rescue boat;

(B) Handling a fast rescue boat in prevailing weather and sea conditions;

(C) Using communication and signaling equipment between the fast rescue boat and a helicopter and a ship;

(D) Using the emergency equipment carried; and

(E) Carrying out search patterns, taking account of environmental factors.

(ii) [Reserved]

(3) The Coast Guard will only accept evidence of assessments conducted ashore as meeting the requirements of paragraph (b)(1) of this section for the areas not included in paragraph (b)(2) of this section, as set out in Table A-VI/2-2 of the STCW Code.

(4) Applicants who cannot meet the requirement for 1 year of sea service within the last 5 years, as described in paragraph (b)(2) of this section, will be required to meet the requirements of paragraph (a)(3) of this section or complete approved or accepted refresher training.

§ 12.619 Requirements to qualify for an STCW endorsement as medical first-aid provider.

(a) To qualify for an STCW endorsement as medical first-aid provider, an applicant must—

(1) Provide evidence of successful completion of an approved course in medical first aid; and

(2) Provide evidence of meeting the standard of competence specified in Table A-VI/4-1 of the STCW Code (incorporated by reference, see § 12.103 of this part).

(b) An applicant holding one of the following credentials is qualified for an endorsement as medical first-aid provider:

(1) A valid professional license listed in § 11.807(a)(5) or (a)(6) of this subchapter, without restriction or limitation placed upon it by the issuing State.

(2) A rating listed in § 11.807(a)(7) or (a)(8) of this subchapter.

§ 12.621 Requirements to qualify for an STCW endorsement as person in charge of medical care.

(a) To qualify for an STCW endorsement as person in charge of medical care, an applicant must—

(1) Provide evidence of successful completion of an approved course that leads to an endorsement for seafarers designated to take charge of medical care onboard a ship; and

(2) Provide evidence of meeting the standard of competence specified in Table A-VI/4-2 of the STCW Code (incorporated by reference, see § 12.103 of this part).

(b) An applicant holding any of the following credentials is qualified for an endorsement as person in charge of medical care:

(1) A valid professional license listed in § 11.807(a)(5) or (a)(6) of this subchapter, without restriction or limitation placed upon it by the issuing State.

(2) A rating listed in § 11.807(a)(7) or (a)(8) of this subchapter.

§ 12.623 Requirements to qualify for an STCW endorsement as Global Maritime Distress and Safety System (GMDSS) at-sea maintainer.

To qualify for an STCW endorsement as GMDSS at-sea maintainer, an applicant must—

(a) Be not less than 18 years of age;

(b) Provide evidence of—

(1) Successful completion of a training program that covers at least the scope and content of the training outlined in Section B-IV/2 of the STCW Code (incorporated by reference, see § 12.103 of this part); or

(2) Passing an approved GMDSS at-sea maintainer course; and

(c) Hold a valid Federal Communications Commission (FCC) certificate as GMDSS at-sea maintainer.

§ 12.625 Requirements to qualify for an STCW endorsement as vessel personnel with designated security duties.

(a) An applicant for an STCW endorsement as vessel personnel with designated security duties must—

(1) Present satisfactory documentary evidence, such as a certificate or letter signed by a company official, or a certificate of completion from a Coast Guard-accepted or Coast Guard-approved course, of meeting the requirements in 33 CFR 104.220;

(2) Meet the physical examination requirements in 46 CFR Part 10, subpart C; and

(3) Meet the safety and suitability requirements and the National Driver Registry review requirements in § 10.209(e) of this subchapter, unless the applicant has met these requirements within the previous 5 years in connection with another endorsement.

(b) Until March 24, 2014, seafarers will be able to apply for an endorsement as vessel personnel with designated security duties by—

(1) Having completed approved seagoing service with designated security duties, for a period of at least 6 months in total during the preceding 3 years;

(2) Having performed security functions considered to be equivalent to the seagoing service required in paragraph (b)(1) of this section; or

(3) Successfully completing Coast Guard-accepted or Coast Guard-approved training.

§ 12.627 Requirements to qualify for an STCW endorsement for security awareness.

(a) An applicant for an endorsement for security awareness must—

(1) Present satisfactory documentary evidence, such as a certificate or letter signed by a company official, or a certificate of completion from a Coast Guard-accepted or Coast Guard-approved course, of meeting the requirements in 33 CFR 104.225;

(2) Meet the physical examination requirements in 46 CFR, part 10, subpart C; and

(3) Meet the safety and suitability requirements and the National Driver Registry review requirements in § 10.209(e) of this subchapter, unless the applicant has met these requirements within the previous 5 years in connection with another endorsement.

(b) Until March 24, 2014, seafarers will be able to apply for an endorsement in security awareness by—

(1) Having performed approved seagoing service for a period of at least 6 months in total during the preceding 3 years;

(2) Having performed security functions considered to be equivalent to the seagoing service required in paragraph (b)(1) of this section; or

(3) Successfully completing Coast Guard-accepted or Coast Guard-approved training.

Subpart G—Entry-Level National Ratings and Miscellaneous Ratings

§ 12.701 Credentials required for entry-level and miscellaneous ratings.

Every person employed or engaged on a vessel subject to 46 U.S.C. 8701, must produce an MMC or MMD with the appropriate endorsement to the master or person in charge (PIC), if appropriate, before signing shipping articles.

§ 12.703 General requirements for entry-level ratings.

(a) Rating endorsements will be issued without professional examination to applicants in capacities other than able seaman, lifeboatman, lifeboatman-limited, tankerman, or QMED, including—

(1) Ordinary seaman;

(2) Wiper;

(3) Steward's department; and

(4) Steward's department (F.H.).

(b) Holders of MMCs or MMDs endorsed as ordinary seaman may serve in any unqualified rating in the deck or steward's department, except as a food handler.

(c) Holders of MMCs or MMDs endorsed as wiper may serve in any unqualified rating in the engine or steward's department, except as a food handler.

(d) Only MMCs or MMDs endorsed as steward's department (F.H.) will authorize the holder's service in any capacity in the steward's department, including food handler.

§ 12.705 Endorsements for persons enrolled in a Maritime Administration-approved training program.

MMCs issued to individuals obtaining sea service as part of an approved training curriculum while enrolled at either the United States Merchant Marine Academy or a deck or engineering class of a Maritime Academy approved by and conducted under the rules prescribed by the Maritime Administrator and listed in 46 CFR Part 310 will include an endorsement of cadet (deck) or cadet (engine), as appropriate, and lifeboatman. Individuals obtaining sea service as part of such an approved training curriculum must do so in the capacity of cadet (deck) or cadet (engine), as appropriate, notwithstanding any other rating endorsements the individual may hold or any other capacity in which the individual may have previously served.

§ 12.707 Student observers.

Students in technical schools who are enrolled in courses in marine management, naval architecture, and ship operations, and who present a letter or other documentary evidence that they are enrolled, will be issued an MMC endorsed as “student observer—any department” and may be signed on ships as such. Students holding these endorsements will not take the place of any of the crew, or replace any of the regular required crew.

§ 12.709 Apprentice engineers.

(a) Persons enrolled in an engineer training program approved by the Coast Guard, and who present a letter or other documentary evidence that they are enrolled, may be issued an MMC endorsed as apprentice engineer and may be signed on ships as such. The endorsement as apprentice engineer may be in addition to other endorsements; however, this endorsement does not authorize the holder to replace any of the regular required crew.

(b) Persons holding the endorsement as apprentice engineer are deemed to be seamen.

§ 12.711 Apprentice mate.

(a) A person enrolled in a mate training program approved by the Coast Guard, and who presents a letter or other documentary evidence that he or she is enrolled, may be issued an MMC rating endorsement as apprentice mate and may be signed on a vessel in this capacity. The rating endorsement as apprentice mate may be in addition to other endorsements; however, this endorsement does not authorize the holder to replace any of the regular required crew.

(b) Persons holding the endorsement as apprentice mate are deemed to be seamen.

Subpart H—Non-Resident Alien Members of the Steward's Department on U.S. Flag Large Passenger Vessels

§ 12.801 Purpose.

The rules in this subpart implement 46 U.S.C. 8103(k) by establishing requirements for the issuance of MMCs, valid only for service in the steward's department of U.S. flag large passenger vessels, to non-resident aliens.

§ 12.803 General requirements.

(a) Unless otherwise specified in this subpart, non-resident alien applicants for Coast Guard-issued MMCs are subject to all applicable requirements contained in this subchapter.

(b) No application for an MMC from a non-resident alien issued pursuant to this subpart will be accepted unless the applicant's employer satisfies all of the requirements of § 12.805 of this subpart.

§ 12.805 Employer requirements.

(a) The employer must submit the following to the Coast Guard, as a part of the applicant's MMC application, on behalf of the applicant:

(1) A signed report that contains all material disciplinary actions related to the applicant, such as, but not limited to, violence or assault, theft, drug and alcohol policy violations, and sexual harassment, along with an explanation of the criteria used by the employer to determine the materiality of those actions.

(2) A signed report regarding an employer-conducted background check. The report must contain—

(i) A statement that the applicant has successfully undergone an employer-conducted background check;

(ii) A description of the employer-conducted background check, including all databases and records searched. The background check must, at a minimum, show that the employer has reviewed all information reasonably and legally available to the owner or managing operator, including the review of available court and police records in the applicant's country of citizenship, and any other country in which the applicant has received employment referrals, or resided, for the past 20 years prior to the date of application; and

(iii) All information derived from the employer-conducted background check.

(3) An employer-conducted background check, which must be conducted to the satisfaction of the Coast Guard for an MMC to be issued to the applicant.

(b) If an MMC is issued to the applicant, the report and information required in paragraph (a)(2) of this section must be securely kept by the employer on the U.S. flag large passenger vessel on which the applicant is employed. The report and information must remain on the last U.S. flag large passenger vessel on which the applicant was employed until such time as the MMC is returned to the Coast Guard in accordance with paragraph (d) of this section.

(c) If an MMC or a transportation worker identification credential (TWIC) is issued to the applicant, each MMC and TWIC must be securely kept by the employer on the U.S. flag large passenger vessel on which the applicant is employed. The employer must maintain a detailed record of the seaman's total service on all authorized U.S. flag large passenger vessels, and must make that information available to the Coast Guard upon request, to demonstrate that the limitations of § 12.811(c) of this subpart have not been exceeded.

(d) In the event that the seaman's MMC and/or TWIC expires, the seaman's visa status terminates, the seaman serves onboard the U.S. flag large passenger vessel(s) for 36 months in the aggregate as a nonimmigrant crewman, the employer terminates employment of the seaman, or, if the seaman otherwise ceases working with the employer, the employer must return the MMC to the Coast Guard and/or the TWIC to the Transportation Security Administration (TSA) within 10 days of the event.

(e) In addition to the initial material disciplinary actions report and the initial employer-conducted background check specified in paragraph (a) of this section, the employer must—

(1) Submit to the National Maritime Center an annual material disciplinary actions report to update whether there have been any material disciplinary actions related to the applicant since the last material disciplinary actions report was submitted to the Coast Guard. The annual material disciplinary actions report must—

(i) Be submitted to the satisfaction of the Coast Guard in accordance with the same criteria set forth in paragraph (a)(1) of this section, except that the period of time examined for the material disciplinary actions report need only extend back to the date of the last material disciplinary actions report; and

(ii) Be submitted to the Coast Guard on or before the anniversary of the issuance date of the MMC; and

(2) Conduct a background check each year that the MMC is valid to search for any changes that might have occurred since the last employer-conducted background check was performed. The annual background check must—

(i) Be conducted to the satisfaction of the Coast Guard in accordance with the same criteria set forth in paragraph (a)(2) of this section, except that the period of time examined during the annual background check need only extend back to the date of the last background check; and

(ii) Be submitted to the Coast Guard on or before the anniversary of the issuance date of the MMC.

(f) The employer is subject to the civil penalty provisions specified in 46 U.S.C. 8103(f) for any violation of this section.

§ 12.807 Basis for denial.

In addition to the requirements for an MMC established elsewhere in this subchapter, and the basis for denial established in §§ 10.209, 10.211, and 10.213 of this subchapter, an applicant for an MMC issued pursuant to this subpart must—

(a) Have been employed for a period of at least 1 year on a foreign flag passenger vessel that is under the same common ownership or control as the U.S. flag large passenger vessel on which the applicant will be employed upon issuance of an MMC under this subpart;

(b) Have no record of material disciplinary actions during the employment required under paragraph (a) of this section, as verified in writing by the owner or managing operator of the U.S. flag large passenger vessel on which the applicant will be employed;

(c) Have successfully completed an employer-conducted background check to the satisfaction of both the employer and the Coast Guard; and

(d) Meet the citizenship and identity requirements of § 12.809 of this subpart.

§ 12.809 Citizenship and identity.

(a) Instead of the requirements of § 10.221 of this subchapter, a non-resident alien may apply for a Coast Guard-issued MMC, endorsed and valid only for service in the steward's department of a U.S. flag large passenger vessel, as defined in 46 U.S.C. 8103(k)(5)(B), if he or she is employable in the United States under the Immigration and Nationality Act (8 U.S.C. 1101, et seq.), including an alien crewman described in section 101 (a)(15)(D)(i) of that Act.

(b) To meet the citizenship and identity requirements of this subpart, an applicant must present an unexpired passport issued by the government of the country of which the applicant is a citizen or subject, and either a valid U.S. C-1/D Crewman Visa or another valid U.S. visa or authority deemed acceptable by the Coast Guard.

(c) Any non-resident alien applying for an MMC under this subpart may not be a citizen of, or a temporary or permanent resident of, a country designated by the Department of State as a “State Sponsor of Terrorism” pursuant to section 6(j) of the Export Administration Act of 1979 (50 U.S.C. App. 2405(j)) or section 620A of the Foreign Assistance Act of 1961 (22 U.S.C. 2371).

§ 12.811 Restrictions.

(a) An MMC issued to a non-resident alien under this subpart authorizes service only in the steward's department of the U.S. flag large passenger vessel(s), that is/are under the same common ownership and control as the foreign flag passenger vessel(s) on which the non-resident alien served to meet the requirements of § 12.807(a) of this subpart.

(1) The MMC will be endorsed for service in the steward's department, in accordance with § 12.703 of this part.

(2) The MMC may also be endorsed for service as a food handler if the applicant meets the requirements of § 12.703 of this part.

(3) No other rating or endorsement is authorized, except lifeboatman or lifeboatman-limited, in which case all applicable requirements of this subchapter and the STCW Convention and STCW Code (incorporated by reference, see § 12.103 of this part) must be met.

(b) The following restrictions must be printed on the MMC, or be listed in an accompanying Coast Guard letter, or both:

(1) The name and official number of all U.S. flag vessels on which the non-resident alien may serve. Service is not authorized on any other U.S. flag vessel.

(2) Upon issuance, the MMC must remain in the custody of the employer at all times.

(3) Upon termination of employment, the MMC must be returned to the Coast Guard within 10 days, in accordance with § 12.805 of this subpart.

(4) A non-resident alien issued an MMC under this subpart may not perform watchstanding, engine room duty watch, or vessel navigation functions.

(5) A non-resident alien issued an MMC under this subpart may perform emergency-related duties, provided that—

(i) The emergency-related duties do not require any other rating or endorsement, except lifeboatman or lifeboatman-limited as specified in paragraph (a)(3) of this section;

(ii) The non-resident alien has completed familiarization and basic training (BT), as required in § 15.1105 of this subchapter;

(iii) If the non-resident alien serves as a lifeboatman or lifeboatman-limited, he or she has the necessary lifeboatman or lifeboatman-limited endorsement; and

(iv) The non-resident alien has completed the training for crewmembers on passenger ships performing duties involving safety or care for passengers, as required in § 15.1103 of this subchapter.

(c) A non-resident alien may only serve for an aggregate period of 36 months of actual service on all authorized U.S. flag large passenger vessels combined under the provisions of this subpart.

(d) Once this 36-month limitation is reached, the MMC becomes invalid and must be returned to the Coast Guard under § 12.805(d) of this subpart, and the non-resident alien is no longer authorized to serve in a position requiring an MMC on any U.S. flag large passenger vessel.

(e) An individual who successfully adjusts his or her immigration status to become either an alien lawfully admitted for permanent residence to the United States, or a citizen of the United States, may apply for an MMC, subject to the requirements of § 10.221 of this subchapter, without any restrictions or limitations imposed by this subpart.

§ 12.813 Alternative means of compliance.

(a) The owner or managing operator of a U.S. flag large passenger vessel seeking to employ non-resident aliens issued MMCs under this subpart may submit a plan to the Coast Guard, which, if approved, will serve as an alternative means of complying with the requirements of this subpart.

(b) The plan must address all the elements contained in this subpart, as well as the related elements contained in § 15.530 of this subchapter, to the satisfaction of the Coast Guard.

Subpart I—Crewmembers on a Passenger Ship on an International Voyage

§ 12.901 Purpose.

This subpart establishes requirements for the qualification of ratings serving on passenger ships as defined in § 12.903 of this part.

§ 12.903 Definitions.

Passenger ship in this subpart means a ship carrying more than 12 passengers when on an international voyage.

§ 12.905 General requirements.

(a) Any seafarer may serve on a passenger vessel on an international voyage and perform duties that involve safety or care for passengers, only after—

(1) Meeting the appropriate requirements of the STCW Regulation V/2 and of section A-V/2 of the STCW Code (incorporated by reference, see § 12.103 of this part); and

(2) Holding documentary evidence to show that the mariner meets these requirements through approved or accepted training.

(b) Seafarers who are required to be trained in accordance with paragraph (a)(1) of this section must, at intervals not exceeding 5 years, provide evidence of maintaining the standard of competence.

(c) The Coast Guard will accept onboard training and experience, through evidence of 1 year of sea service within the last 5 years, as meeting the requirements of paragraph (a)(2) of this section.

(d) Personnel serving onboard small passenger vessels engaged in domestic, near-coastal voyages, as defined in § 15.105(g)(1) of this subchapter, are not subject to any obligation for the purpose of this STCW requirement.

PART 13—CERTIFICATION OF TANKERMAN

33. The authority citation for part 13 continues to read as follows:

Authority: 44 U.S.C. 3507; 46 U.S.C. 3703, 7317, 8703, 9102; Department of Homeland Security Delegation No. 0170.1.

34. Revise § 13.101 to read as follows:

§ 13.101 Purpose.

This part describes the various tankerman endorsements issued by the Coast Guard on a merchant mariner credential (MMC).

(a) This part prescribes the requirements for the following endorsements:

(1) Tankerman-PIC.

(2) Tankerman-PIC (Barge).

(3) Restricted Tankerman-PIC.

(4) Restricted Tankerman-PIC (Barge).

(5) Tankerman-assistant.

(6) Tankerman-engineer.

(b) This part prescribes the requirements for the following STCW endorsements:

(1) Advanced oil tanker cargo operation.

(2) Advanced chemical tanker cargo operation.

(3) Advanced liquefied gas tanker cargo operation.

(4) Basic oil and chemical tanker cargo operation.

(5) Basic liquefied gas tanker cargo operation.

35. Add § 13.103 to read as follows:

§ 13.103 Incorporation by reference.

(a) Certain material is incorporated by reference into this part with the approval of the Director of the Federal Register under 5 U.S.C. 552(a) and 1 CFR part 51. To enforce any edition other than that specified in this section, the Coast Guard must publish a notice of change in the Federal Register and the material must be available to the public. All approved material is available for inspection at the Coast Guard, Office of Operating and Environmental Standards (CG-OES), 2100 2nd St. SW., Stop 7126, Washington, DC 20593-7126, 202-372-1405, and is available from the sources listed below. It is also available for inspection at the National Archives and Records Administration (NARA). For information on the availability of this material at NARA, call 202-741-6030 or go to http://www.archives.gov/federal_register/code_of_federal_regulations/ibr_locations.html.

(b) International Maritime Organization (IMO), 4 Albert Embankment, London SE1 7SR, England:

(1) The Seafarers' Training, Certification and Watchkeeping Code, as amended, 2011 (the STCW Code), approved for incorporation by reference in §§ 13.601, 13.603, 13.605, 13.607, 13.609, and 13.611; and

(2) [Reserved]

§ 13.106 [Amended]

36. In § 13.106, remove the word “chapter” and add, in its place, the word “subchapter”.

37. Amend § 13.107 as follows:

a. In paragraph (a), remove the words “OCMI at an REC” and add, in their place, the words “Coast Guard”; remove the words “ “Tankerman-PIC” ” and add, in their place, the words “tankerman-PIC”; and remove the words “Tankerman-Engineer” and add, in their place, the words “tankerman-engineer”;

b. In paragraph (b), remove the words “OCMI at an REC” and add, in their place, the words “Coast Guard”; and remove the words “ “Tankerman-PIC (Barge)” ” and add, in their place, the words “tankerman-PIC (barge)”;

c. In paragraph (c), remove the words “OCMI at an REC” and add, in their place, the words “Coast Guard”; remove the words “ “Tankerman-Assistant” ” and add, in their place, the words “tankerman-assistant”; and remove the word “shall” and add, in its place, the word “must”;

d. Revise paragraphs (d), (e), and (f) to read as set forth below; and

e. Remove paragraph (g).

§ 13.107 Tankerman endorsement: General.

* * * * *

(d) If an applicant meets the requirements of subpart E of this part, the Coast Guard may endorse his or her MMC as tankerman-engineer. No person holding this endorsement may act as a PIC or tankerman-assistant of any transfer of liquid cargo in bulk, or of cargo-tank cleaning unless he or she also holds an endorsement authorizing such service. A person holding this endorsement and acting in this capacity has the primary responsibility, on his or her self-propelled tank vessel carrying dangerous liquid (DL) or liquefied gas (LG), for maintaining both the cargo systems and equipment for transfer of liquid cargo in bulk. No person licensed or credentialed under part 11 of this chapter may serve as a chief engineer, first assistant engineer, or cargo engineer aboard an inspected self-propelled tank vessel when liquid cargo in bulk or cargo residue is carried unless he or she holds an endorsement as tankerman-engineer or equivalent.

(e) If an applicant meets the requirements of § 13.111 of this subpart, the Coast Guard may place on his or her MMC an endorsement as a tankerman-PIC restricted according to the definitions of “restricted tankerman endorsement” in § 10.107 of this subchapter.

(f) This section does not apply to any person solely by reason of his or her involvement in bunkering or fueling.

§ 13.109 [Amended]

38. In § 13.109, remove paragraph (c).

39. Revise § 13.111 to read as follows:

§ 13.111 Restricted tankerman endorsement.

(a) An applicant may apply for a tankerman endorsement restricted to specific cargoes, specific vessels, or groups of vessels (such as uninspected towing vessels and Oil Spill Response Vessels), specific facilities, and/or specific employers. The Coast Guard will evaluate each application and may modify the applicable requirements for the endorsement, allowing for special circumstances and for whichever restrictions the endorsement will state.

(b) To qualify for a restricted tankerman-PIC endorsement, an applicant must meet §§ 13.201 (excluding paragraph (c)(4)), 13.203, and 13.205 of this part.

(1) Twenty-five percent of the service described in § 13.203(a) of this part must have occurred within the past 5 years.

(2) Two of the transfers described in § 13.203(b) of this part must have occurred within the past 5 years.

(c) To qualify for a restricted tankerman-PIC (barge) endorsement, an applicant must meet §§ 13.301 (excluding paragraph (c)(4)), 13.303, and 13.305 of this part.

(1) Twenty-five percent of the service described in § 13.303(a) of this part must have occurred within the past 5 years.

(2) Two of the transfers described in § 13.303(b) of this part must have occurred within the past 5 years.

(d) To qualify for a restricted tankerman-PIC (barge) endorsement restricted to a tank-cleaning and gas-freeing facility, an applicant must—

(1) Be at least 18 years old;

(2) Apply on a form provided by the Coast Guard;

(3) Present evidence of passing a physical and medical examination according to § 13.125 of this part;

(4) Present evidence in the form of a letter, which must be dated within the 5 years prior to the application for the credential, on company letterhead from the operator of the facility stating that OSHA considers the applicant a “competent person (as designated under 29 CFR 1915.7)” for the facility and that the applicant has the knowledge necessary to supervise tank-cleaning and gas-freeing; and

(5) Be capable of speaking and understanding, in English, all instructions needed to commence, conduct, and complete a transfer of cargo, and of reading and understanding the English found in the Declaration of Inspection, vessel response plans, and Cargo Information Cards.

(e) The restricted tankerman-PIC (barge) endorsement restricted to a tank-cleaning and gas-freeing facility is valid only while the applicant is employed by the operator of the facility that provided the letter of service required by paragraph (d)(4) of this section, and this and any other appropriate restrictions will appear in the endorsement.

(f) A restricted tankerman-PIC endorsement limited to operation on vessels inside the boundary line is not valid where STCW certification is required.

40. Add § 13.115 to read as follows:

§ 13.115 Chemical testing requirements.

Each applicant for an original tankerman endorsement must provide evidence of having passed a chemical test for dangerous drugs or of qualifying for an exemption from testing in § 16.220 of this chapter as specified in § 10.225(b)(5) of this subchapter.

41. Add § 13.117 to read as follows:

§ 13.117 Re-issuance of expired tankerman endorsements.

Whenever an applicant applies for re-issuance of an endorsement as any tankerman rating more than 12 months after expiration of the previous endorsement, the applicant must meet the requirements for an original endorsement.

42. Revise § 13.120 to read as follows:

§ 13.120 Renewal of tankerman endorsement.

An applicant seeking renewal of a tankerman endorsement or an STCW endorsement valid for service on tank vessels must meet the requirements of § 10.227 of this subchapter, except § 10.227(e)(1), for renewing an MMC and meet the following additional requirements:

(a) For endorsements as tankerman-PIC, advanced oil and chemical tanker cargo operation; and advanced liquefied gas tanker cargo operations, present evidence of—

(1) At least 90 days of service during the preceding 5 years onboard a tank vessel for which the endorsement is valid, performing duties appropriate to the tankerman endorsement held; and participation in at least two transfers of liquid cargo in bulk of the type for which the endorsement is valid within the preceding 5 years; or

(2) Completion of an approved course for Tankship: Dangerous Liquids or Tankship: Liquefied Gases, appropriate for the endorsement to be renewed, within the previous 5 years.

(b) For endorsements as tankerman-assistant, basic oil and chemical tanker cargo operation; and basic liquefied gas tanker cargo operations, present evidence of—

(1) At least 90 days of service during the preceding 5 years onboard a tank vessel for which the endorsement is valid, performing duties appropriate to the tankerman endorsement held; or

(2) Completion of an approved course for Tankship: Dangerous Liquids or Tankship: Liquefied Gases, appropriate for the endorsement to be renewed, within the previous 5 years.

(c) For endorsements as tankerman-PIC (Barge), present evidence of—

(1) Participation in at least two transfers of liquid cargo in bulk of the type for which the endorsement is valid, within the preceding 5 years; or

(2) Completion of a course approved for this purpose, appropriate for the endorsement to be renewed, within the previous 5 years.

(d) For endorsements as tankerman-engineer, present evidence of—

(1) At least 90 days of service during the preceding 5 years onboard a tank vessel for which the endorsement is valid, performing duties appropriate to the tankerman endorsement held; or

(2) Completion of a course approved for this purpose, appropriate for the endorsement to be renewed, within the previous 5 years.

43. Revise § 13.121 to read as follows:

§ 13.121 Courses for tankerman endorsements.

(a) This section prescribes the requirements, beyond those in §§ 10.302 and 10.304 of this subchapter, applicable to schools offering courses required for a tankerman endorsement and courses that are a substitute for experience with transfers of liquid cargo in bulk required for the endorsement.

(b) A course that uses simulated transfers to train students in loading and discharging tank vessels may replace up to two loadings and two discharges, one commencement and one completion of loading, and one commencement and one completion of discharge required for a tankerman-PIC or tankerman-PIC (barge) endorsement. The request for approval of the course must specify those segments of a transfer that the course will simulate. The letter from the Coast Guard approving the course will state the number and kind of segments that the course will replace.

(c) The liquid cargo course required for an endorsement as—

(1) Tankerman-PIC DL is Tankship: Dangerous Liquids;

(2) Tankerman-PIC (barge) DL is Tank Barge: Dangerous Liquids;

(3) Tankerman-PIC LG is Tankship: Liquefied Gases;

(4) Tankerman-PIC (barge) LG is Tank Barge: Liquefied Gases;

(5) Tankerman assistant DL is Tankship: Familiarization (Dangerous Liquids);

(6) Tankerman assistant LG is Tankship: Familiarization (Liquefied Gases);

(7) Tankerman-engineer DL is Tankship: Dangerous Liquids; and

(8) Tankerman-engineer LG is Tankship: Liquefied Gases.

(d) The firefighting course required for an endorsement as—

(1) Tankerman-PIC (barge) is Tank Barge: Firefighting or basic firefighting; and

(2) Tankerman-PIC, tankerman-assistant, and tankerman-engineer is basic firefighting.

(e) The Coast Guard will evaluate and approve the curricula of courses to ensure adequate coverage of the required subjects. Training may employ classroom instruction, demonstrations, or simulated or actual operations.

(1) The course curricula for Tankship Familiarization must consist of the topics identified in Table 1 to § 13.121(e) of this subpart.

(2) The course curricula for tankerman-PIC, tankerman-PIC (barge), and tankerman-engineer endorsements must consist of the topics identified in Table 2 to § 13.121(e) of this subpart.

(3) The course curricula for firefighting courses must consist of the topics identified in Table 3 to § 13.121(e) of this subpart.

Table 1 to § 13.121(e)
Tankship familiarization topics | 1 | 2
Basic knowledge of tankers: |  |
types of oil and chemical vessels or liquefied gas tanker vessels | X | X
general arrangement and construction | X | X
Basic knowledge of cargo operations: |  |
piping systems and valves | X | X
cargo pumps and cargo handling equipment | X | X
loading and unloading and care in transit | X | X
tank cleaning, purging, gas-freeing and inerting | X | X
Basic knowledge of the physical properties of oil and chemicals: |  |
pressure and temperature, including vapor pressure/temperature relationship | X |
types of electrostatic charge generation | X |
chemical symbols | X |
Basic knowledge of the physical properties of liquefied gases, including: |  |
properties and characteristics |  | X
pressure and temperature, including vapor pressure/temperature relationship |  | X
types of electrostatic charge generation |  | X
chemical symbols |  | X
Knowledge and understanding of tanker safety culture and safety management | X | X
Basic knowledge of the hazards associated with tanker operations, including: |  |
health hazards | X | X
environmental hazards | X | X
reactivity hazards | X | X
corrosion hazards | X | X
explosion and flammability hazards | X | X
sources of ignition | X | X
electrostatic hazards | X | X
toxicity hazards | X | X
vapor leaks and clouds | X | X
extremely low temperatures |  | X
pressure hazards |  | X
Basic knowledge of hazard controls: |  |
inerting, water padding, drying agents and monitoring techniques | X | X
anti-static measures | X | X
ventilation | X | X
segregation | X | X
cargo inhibition | X | X
importance of cargo compatibility | X | X
atmospheric control | X | X
gas testing | X | X
Understanding of information on a Material Safety Data Sheet (MSDS) | X | X
Function and proper use of gas-measuring instruments and similar equipment | X | X
Proper use of safety equipment and protective devices, including: |  |
breathing apparatus and tank-evacuating equipment | X | X
protective clothing and equipment | X | X
resuscitators | X | X
rescue and escape equipment | X | X
Basic knowledge of safe working practices and procedures in accordance with legislation and industry guidelines and personal shipboard safety relevant to oil and chemical tankers, including: |  |
precautions to be taken when entering enclosed spaces | X | X
precautions to be taken before and during repair and maintenance work | X | X
safety measures for hot and cold work | X | X
electrical safety | X | X
ship/shore safety checklist | X | X
Basic knowledge of first aid with reference to a Material Safety Data Sheet (MSDS) | X | X
Basic knowledge of emergency procedures, including emergency shutdown | X | X
Basic knowledge of the effects of oil and chemical pollution on human and marine life | X | X
Basic knowledge of shipboard procedures to prevent pollution | X | X
Basic knowledge of measures to be taken in the event of spillage, including the need to: |  |
report relevant information to the responsible persons | X | X
assist in implementing shipboard spill-containment procedures | X | X
prevent brittle fracture |  | X
Column 1—Tankship familiarization (dangerous liquids).
Column 2—Tankship familiarization (liquefied gases).

Table 2 to § 13.121(e)
Tankship and tank barge course topics | 1 | 2 | 3 | 4
General characteristics, compatibility, reaction, firefighting procedures, and safety precautions for the cargoes of: |  |  |  |
Bulk liquids defined as Dangerous Liquids in 46 CFR Part 13 | X | X |  |
Bulk liquefied gases & their vapors defined as Liquefied Gases in 46 CFR Part 13 |  |  | X | X
Knowledge and understanding of the physical and chemical properties of oil and chemical cargoes | X |  |  |
Physical phenomena of liquefied gas, including: |  |  |  |
Basic concept |  |  | X | X
Compression and expansion |  |  | X | X
Mechanism of heat transfer |  |  | X | X
Potential hazards of liquefied gas, including: |  |  |  |
Chemical and physical properties |  |  | X | X
Combustion characteristics |  |  | X | X
Results of gas release to the atmosphere |  |  | X | X
Health hazards (skin contact, inhalation, and ingestion) |  |  | X | X
Control of flammability range with inert gas |  |  | X | X
Thermal stress in structure and piping of vessel |  |  | X | X
Cargo systems, including: |  |  |  |
Principles of containment systems | X | X | X | X
Construction, materials, coating, & insulation of cargo tanks |  |  | X | X
General arrangement of cargo tanks | X | X | X | X
Venting and vapor-control systems | X | X | X | X
Cargo-handling systems, including: |  |  |  |
Piping systems, valves, pumps, and expansion systems | X | X | X | X
Operating characteristics | X | X | X | X
Instrumentation systems, including: |  |  |  |
Cargo-level indicators | X | X | X | X
Gas-detecting systems | X |  | X | X
Temperature-monitoring systems, cargo | X |  | X | X
Temperature-monitoring systems, hull |  |  | X | X
Automatic-shutdown systems | X |  | X | X
AuXiliary systems, including: |  |  |  |
Ventilation, inerting | X | X | X | X
Valves, including: |  |  |  |
Quick-closing | X | X | X | X
Remote-control | X | X | X | X
Pneumatic | X | X | X | X
Excess-flow | X | X | X | X
Safety-relief | X | X | X | X
Pressure-vacuum | X | X | X | X
Heating-systems: cofferdams & ballast tanks |  |  | X | X
Operations connected with the loading and discharging of cargo, including: |  |  |  |
Lining up the cargo and vapor-control systems | X | X | X | X
Pre-transfer inspections and completion of the Declaration of Inspection | X | X | X | X
Hooking up of cargo hose, loading arms, and grounding-strap | X | X | X | X
Starting of liquid flow | X | X | X | X
Calculation of loading rates | X |  | X |
Discussion of loading | X | X | X | X
Ballasting and deballasting | X | X | X | X
Topping off of the cargo tanks | X | X | X | X
Discussion of discharging | X | X | X | X
Stripping of the cargo tanks | X | X |  |
Monitoring of transfers | X | X | X | X
Gauging of cargo tanks | X | X | X | X
Disconnecting of cargo hoses or loading arms | X | X | X | X
Cargo-tank-cleaning procedures and precautions | X | X |  |
Slop arrangements | X |  |  |
Ship-to-ship transfers | X |  |  |
Operating procedures and sequence for: |  |  |  |
Inerting of cargo tanks and void spaces | X | X | X | X
Cooldown and warmup of cargo tanks |  |  | X | X
Gas-freeing | X | X | X | X
Loaded or ballasted voyages | X |  | X |
Testing of cargo-tank atmospheres for oxygen & cargo vapor | X | X | X | X
Stability and stress considerations connected with loading and discharging of cargo | X | X | X | X
Loadline, draft, and trim | X | X | X | X
Disposal of boil-off, including: |  |  |  |
System design |  |  | X | X
Safety features |  |  | X | X
Stability-letter requirements | X |  | X |
Emergency procedures, including notice to appropriate authorities, for: |  |  |  |
Fire | X | X | X | X
Collision | X | X | X | X
Grounding | X | X | X | X
Equipment failure | X | X | X | X
Leaks and spills | X | X | X |
Structural failure | X | X | X | X
Emergency discharge of cargo | X | X | X | X
Entering cargo tanks | X | X | X | X
Emergency shutdown of cargo-handling | X | X | X | X
Emergency systems for closing cargo tanks | X | X |  |
Rules & regulations (international and Federal, for all tank vessels) on conducting operations and preventing pollution | X | X | X | X
Pollution prevention, including: |  |  |  |
Procedures to prevent air and water pollution | X | X | X | X
Measures to take in event of spillage | X | X | X | X
Danger from drift of vapor cloud | X | X | X | X
Environmental protection equipment, including oil discharge monitoring equipment | X |  |  |
Terminology for tankships carrying oil and chemicals | X |  |  |
Terminology for tank barges carrying oil and chemicals |  | X |  |
Terminology for tankships carrying liquefied gases |  |  | X |
Terminology for tank barges carrying liquefied gases |  |  |  | X
Principles & procedures of crude-oil-washing (COW) systems, including: |  |  |  |
Purpose | X |  |  |
Equipment and design | X |  |  |
Operations | X |  |  |
Safety precautions | X |  |  |
Maintenance of plant and equipment | X |  |  |
Principles & procedures of the inert-gas systems (IGSs), including: |  |  |  |
Purpose | X |  | X |
Equipment and design | X |  | X |
Operations | X |  | X |
Safety precautions | X |  | X |
Maintenance of plant and equipment | X |  | X |
Principles & procedures of vapor-control systems, including: |  |  |  |
Purpose | X | X | X | X
Principles | X | X | X | X
Coast Guard regulations | X | X | X | X
Hazards | X | X | X | X
Active system components | X | X | X | X
Passive system components | X | X | X | X
Operating procedures, including: |  |  |  |
Testing and inspection requirements | X | X | X | X
Pre-transfer procedures | X | X | X | X
Connecting sequence | X | X | X | X
Start-up sequence | X | X | X | X
Normal operations | X | X | X | X
Loading and unloading plans | X |  |  |
Emergency procedures | X | X | X | X
Cargo-hazard-information systems | X | X | X | X
Safe entry into confined spaces, including: |  |  |  |
Testing tank atmospheres for oxygen & hydrocarbon vapors | X | X |  |
Definition and hazards of confined spaces | X | X | X | X
Cargo tanks and pumprooms | X | X | X | X
Evaluation and assessment of risks and hazards | X | X | X | X
Safety precautions and procedures | X | X | X | X
Enclosed space rescue | X |  |  |
Personnel protective equipment (PPE) and clothing | X | X | X | X
Maintenance of PPE | X | X | X | X
Dangers of skin contact | X | X | X | X
Inhalation of vapors | X | X |  |
Electricity and static electricity—hazards and precautions | X | X | X | X
Emergency procedures | X | X | X | X
Federal regulations, national standards & industry guidelines | X | X | X | X
Inspections by marine chemists & competent persons, including hot-work permits & procedures | X | X | X | X
Vessel response plans: |  |  |  |
Purpose, content, and location of information | X | X | X | X
Procedures for notice and mitigation of spills | X | X | X | X
Geographic-specific appendices | X | X | X | X
Vessel-specific appendices | X | X | X | X
Emergency-action checklist | X | X | X | X
Column 1—Tankship: Dangerous Liquids.
Column 2—Tank Barge: Dangerous Liquids.
Column 3—Tankship: Liquefied Gases.
Column 4—Tank Barge: Liquefied Gases.

Table 3 to § 13.121(e)
Firefighting course topics | 1 | 2
Elements of fire (Fire triangle):
Fuel | X | X
Source of ignition | X | X
Oxygen | X | X
Ignition sources (general):
Chemical |  | X
Biological |  | X
Physical |  | X
Ignition sources applicable to barges | X |
Definitions of flammability and combustibility: |  |
Flammability | X | X
Ignition point | X | X
Burning temperature | X | X
Burning speed |  | X
Thermal value |  | X
Lower flammable limit | X | X
Upper flammable limit | X | X
Flammable range | X | X
Inerting |  | X
Static electricity | X | X
Flash point | X | X
Auto-ignition | X | X
Spread of fire:
By radiation | X | X
By convection | X | X
By conduction | X | X
Reactivity | X | X
Fire classifications and applicable extinguishing agents | X | X
Main causes of fires:
Oil leakage | X | X
Smoking | X | X
Overheating pumps | X | X
Galley appliances |  | X
Spontaneous ignition | X | X
Hot work | X | X
Electrical apparatus |  | X
Reaction, self-heating, and auto-ignition |  | X
Fire prevention:
General | X | X
Fire hazards of DL and LG | X | X
Fire detection:
Fire- and smoke-detection systems |  | X
Automatic fire alarms |  | X
Firefighting equipment:
Fire mains, hydrants |  | X
International shore-connection |  | X
Smothering-installations, carbon dioxide (CO2), foam * * * |  | X
Pressure-water spray system in special-category spaces |  | X
Automatic sprinkler system |  | X
Emergency fire pump, emergency generator |  | X
Chemical-powder applicants |  | X
General outline of required and mobile apparatus |  | X
Fireman's outfit, personal equipment |  | X
Breathing apparatus |  | X
Resuscitation apparatus |  | X
Smoke helmet or mask |  | X
Fireproof life-line and harness |  | X
Fire hose, nozzles, connections, and fire axes |  | X
Fire blankets |  | X
Portable fire extinguishers | X | X
Limitations of portable and semiportable extinguishers | X | X
Emergency procedures:
Arrangements:
Escape routes | X | X
Means of gas-freeing tanks | X | X
Class A, B, and C divisions |  | X
Inert-gas system |  | X
Ship firefighting organization:
General alarms |  | X
Fire-control plans, muster stations, and duties |  | X
Communications |  | X
Periodic shipboard drills |  | X
Patrol system |  | X
Basic firefighting techniques:
Sounding alarm | X | X
Locating and isolating fires | X | X
Stopping leakage of cargo | X | X
Jettisoning |  | X
Inhibiting |  | X
Cooling |  | X
Smothering |  | X
Sizing up situation | X |
Locating information on cargo | X |
Extinguishing | X | X
Extinguishing with portable units | X | X
Setting reflash watch | X | X
Using additional personnel | X | X
Firefighting extinguishing-agents:
Water (solid jet, spray, fog, and flooding) |  | X
Foam (high, medium and low expansion) |  | X
Carbon dioxide (CO2) | X | X
Aqueous-film-forming foam (AFFF) |  | X
Dry chemicals | X | X
Use of extinguisher on:
Flammable and combustible liquids | X | X
Manifold-flange fire | X | X
Drip-pan fire | X | X
Pump fire | X | X
Drills for typical fires on barges | X |
Field exercises:
Extinguish small fires using portable extinguishers:
Electrical | X | X
Manifold-flange | X | X
Drip-pan | X | X
Pump | X | X
Use self-contained breathing apparatus (SCBA) |  | X
Extinguish extensive fires with water |  | X
Extinguish fires with foam, or chemical |  | X
Fight fire in smoke-filled enclosed space wearing SCBA |  | X
Extinguish fire with water fog in an enclosed space with heavy smoke |  | X
Extinguish oil fire with fog applicator and spray nozzles, dry-chemical, or foam applicators |  | X
Effect a rescue in a smoke-filled space while wearing breathing apparatus |  | X
Column 1—tankerman-PIC (barge).
Column 2—tankerman-PIC, tankerman-engineer, and tankerman-assistant.

§ 13.123 [Amended]

44. In § 13.123, remove the word “shall” and add, in its place, the word “must”; remove the text “%” and add, in its place, the word “percent”; and remove the word “five” and add, in its place, the number “5”.

§ 13.125 [Amended]

45. In § 13.125, remove the word “shall” and add, in its place, the word “must”; and after the words “physical requirements of”, remove the words “§ 10.215 of this chapter, excluding paragraph (d)(2) of that section” and add, in their place, the words “part 10, subpart C, of this chapter”.

46. Amend § 13.127 as follows:

a. Revise paragraph (a) to read as set forth below;

b. In paragraph (b) introductory text, remove the words “paragraph (a)(2)” and add, in their place, the words “paragraph (a)(3)”;

c. In paragraphs (b)(2) and (b)(5), remove the word “four” and add, in its place, the number “4”;

d. In paragraph (b)(4), after the word “one discharge”, remove the word “a” and add, in its place, the words “conducted during each”;

f. In paragraph (b)(6), remove the word “cargo” wherever it appears;

g. In paragraph (b)(7), after the words “Declaration of Inspection, the connection of”, remove the word “cargo”; and after the words “the start of the”, remove the word “cargo”;

h. In paragraph (b)(9), remove the words “§ 13.203(b) or 13.303(b)” and add, in their place, the words “§§ 13.203(b) or 13.303(b) of this subchapter”; and

i. Add new paragraph (c) to read as follows:

§ 13.127 Service: General.

(a) A service letter must be signed by the owner, operator, master, or chief engineer of the vessel and must specify the following:

(1) The name of the vessel, official number for the vessel, and date of service for each vessel.

(2) For endorsements as tankerman-PIC, tankerman-PIC (barge), and tankerman-assistant, the classification of cargo (DL, LG, or, for a restricted endorsement, a specific product) handled while the applicant accumulated the service.

(3) The dates, the numbers and kinds of transfers the applicants have participated in, the ports or terminals, if applicable, and the number of transfers that involved commencement or completion of loading or discharge.

(4) For endorsements as tankerman-PIC or tankerman-PIC (barge), that the applicant has demonstrated to the satisfaction of the signer that he or she is fully capable of supervising transfers of liquid cargo, including—

(i) Pre-transfer inspection;

(ii) Pre-transfer conference and execution of the Declaration of Inspection;

(iii) Connection of cargo hoses or loading-arms;

(iv) Line-up of the cargo system for loading and discharge;

(v) Start of liquid flow during loading;

(vi) Start of cargo pump and increase of pressure to normal discharge pressure;

(vii) Calculation of loading-rates;

(viii) Monitoring;

(ix) Topping-off of cargo tanks during loading;

(x) Stripping of cargo tanks;

(xi) Ballasting and deballasting, if appropriate;

(xii) Disconnection of the cargo hoses or loading-arms; and

(xiii) Securing of cargo systems.

(5) For endorsements as tankerman-engineer, that the applicant has demonstrated to the satisfaction of the signer that he or she is fully capable of supervising transfers of fuel oil, including—

(i) Pre-transfer inspection;

(ii) Pre-transfer conference and execution of the Declaration of Inspection;

(iii) Connection of hoses or loading-arms;

(iv) Line-up of the piping system for loading and transfer of fuel oil;

(v) Start of liquid flow during loading;

(vi) Calculation of loading rates;

(vii) Monitoring;

(viii) Topping-off of tanks during loading;

(ix) Disconnection of the hoses or loading arms; and

(x) Securing of fuel oil systems.

* * * * *

(c) Service on Articulated Tug Barges (ATBs). Service on ATBs with an aggregate tonnage of 1,600 GRT or more will be creditable on a case-by-case basis and with prior authorization by the Coast Guard, provided the ATB equipment is comparable to tank vessel equipment. The Coast Guard may issue blanket authorizations for classes of ATBs.

47. Revise § 13.129 to read as follows:

§ 13.129 Quick-reference table for tankerman endorsements.

Table 1 to § 13.129 provides a guide to the requirements for various tankerman endorsements. Provisions in the reference sections are controlling.

Table 1 to § 13.129
Category | Minimum age | Physical required | Service | Recency of service | Proof of service | Firefighting | Cargo training | English language
Tankerman-PIC Subpart B | 18; 13.201(a) | Yes; Part 10, subpart C | 13.203 | 13.123 | 13.205 | 13.201(c)(3) | 13.201(c)(4) | 13.201(d).
Tankerman-PIC (Barge) Subpart C | 18; 13.301(a) | Yes; Part 10, subpart C | 13.303 | 13.123 | 13.305 | 13.301(c)(3) | 13.301(c)(4) | 13.301(d).
Tankerman-Assistant Subpart D | 18; 13.401(a) | Yes; Part 10, subpart C | 13.401(e)(2) | 13.123 | 13.405 | 13.401(d) | 13.401(e)(1) | 13.401(f).
Tankerman-Engineer Subpart E | 18; 13.501(a) | Yes; Part 10, subpart C | 13.503 | 13.123 | 13.505 | 13.501(c)(3) | 13.501(c)(4) | 13.501(d).
Restricted Tankerman-PIC | 18; 13.111(b) | Yes; Part 10, subpart C | 13.111(b) | 13.111(b) | 13.111(b) | 13.111(b) | No | 13.111(b).
Restricted Tankerman-PIC (Barge) | 18; 13.111(c) | Yes; Part 10, subpart C | 13.111(c) | 13.111(c) | 13.111(c) | 13.111(c) | No | 13.111(c).
Restricted Tankerman-PIC (Barge), Facility | 18; 13.111(d)(1) | Yes; Part 10, subpart C | 13.111(d)(4) | No | 13.111(d)(4) | No | No | 13.111(d)(5).

48. Revise the heading for subpart B to read as follows:

Subpart B—Requirements for Tankerman-PIC Endorsement

49. Revise § 13.201 to read as follows:

§ 13.201 Original application for tankerman-PIC endorsement.

Each applicant for an original tankerman-PIC endorsement must—

(a) Be at least 18 years old;

(b) Apply on a form provided by the Coast Guard;

(c) Present evidence of—

(1) Passing a physical and medical examination in accordance with § 13.125 of this part;

(2) Service on tankships in accordance with § 13.203 of this subpart;

(3) Completion of an approved firefighting course that provides training in the subjects listed in Table 1 to § 13.121(g) of this part completed within 5 years of the date of application for the endorsement, unless he or she has previously submitted such a certificate for a license, tankerman endorsement, or officer endorsement on an MMC; and

(4) Completion of an approved course for Tankship: Dangerous Liquids or Tankship: Liquefied Gases appropriate to the endorsement applied for within the previous 5 years. A course certificate used for original issuance or renewal of an endorsement cannot be used for a subsequent renewal of the same endorsement; and

(d) Be capable of speaking and understanding, in English, all instructions needed to commence, conduct, and complete a transfer of cargo, and be capable of reading and understanding the English language found in the Declaration of Inspection, vessel response plans, and Material Safety Data Sheet.

50. Amend § 13.203 as follows:

a. Revise the section heading to read as set forth below;

b. In the introductory text, remove the words ““Tankerman-PIC”” and add, in their place, the words “tankerman-PIC”; and remove the word “shall” and add, in its place, the word “must”;

c. In paragraph (a), remove the word “shall” and add, in its place, the word “must”; and

d. In paragraphs (b) introductory text and (c) introductory text, remove the word “shall” and add, in its place, the word “must”; and remove the words ““Tankerman-PIC”” and add, in their place, the words “tankerman-PIC”.

§ 13.203 Service requirements.

* * * * *

51. Amend § 13.205 as follows:

a. Revise the section heading to read as set forth below; and

b. In the introductory text, remove the words “Service must be proved by” and add, in their place, the words “Proof of service must be provided in”.

§ 13.205 Proof of service for tankerman-PIC endorsement.

* * * * *

§ 13.207 [Removed]

52. Remove § 13.207.

§ 13.209 [Removed]

53. Remove § 13.209.

54. Revise the heading for subpart C to read as follows:

Subpart C—Requirements for Tankerman-PIC (Barge) Endorsement

55. Revise § 13.301 to read as follows:

§ 13.301 Original application for tankerman-PIC (barge) endorsement.

Each applicant for a tankerman-PIC (barge) endorsement must—

(a) Be at least 18 years old;

(b) Apply on a form provided by the Coast Guard;

(c) Present evidence of—

(1) Passing a physical and medical examination according to § 13.125 of this part;

(2) Service on tank vessels in accordance with § 13.303 of this subpart;

(3) Completion of an approved Tank Barge: Firefighting course providing training in the subjects identified in Table 1 to § 13.121(g) of this part completed within 5 years of the date of application for the endorsement, unless he or she has previously submitted such a certificate for a license, tankerman endorsement, or officer endorsement on an MMC; and

(4) Completion of an approved Tank Barge: Dangerous Liquids or Tank Barge: Liquefied Gases course appropriate for the endorsement applied for within the previous 5 years. A course certificate used for original issuance or renewal of an endorsement cannot be used for a subsequent renewal of the same endorsement; and

(d) Be capable of speaking, and understanding, in English, all instructions needed to commence, conduct, and complete a transfer of cargo, and be capable of reading and understanding the English language found in the Declaration of Inspection, vessel response plans, and Material Safety Data Sheet.

56. Amend § 13.303 as follows:

a. Revise the section heading to read as set forth below;

b. In the introductory text, remove the words ““Tankerman-PIC (Barge)”” and add, in their place, the words “tankerman-PIC (barge)”; and remove the word “shall” and add, in its place, the word “must”;

c. In paragraph (a) introductory text, remove the word “shall” and add, in its place, the word “must”;

d. In paragraph (b) introductory text, remove the words ““Tankerman-PIC” or “Tankerman-PIC (barge),”” and add, in their place, the words “tankerman-PIC or tankerman-PIC (barge),”; and

e. In paragraph (c) introductory text, remove the words ““Tankerman-PIC (Barge)”” and add, in their place, the words “tankerman-PIC (barge)”; and remove the word “shall” and add, in its place, the word “must”.

§ 13.303 Service requirements.

* * * * *

57. Amend § 13.305 as follows:

a. Revise the section heading to read as set forth below; and

b. Remove the words “Service must be proved by” and add, in their place, the words “Proof of service must be provided in”; and remove the words “paragraph (a)(3)(vii)” and add, in their place, the words “paragraph (a)(4)(vii)”.

§ 13.305 Proof of service for tankerman-PIC (barge).

* * * * *

§ 13.307 [Removed]

58. Remove § 13.307.

§ 13.309 [Removed]

59. Remove § 13.309.

60. Revise the heading for subpart D to read as follows:

Subpart D—Requirements for Tankerman-Assistant Endorsement

61. Revise § 13.401 to read as follows:

§ 13.401 Original application for tankerman-assistant endorsement.

Each applicant for a tankerman-assistant endorsement must—

(a) Be at least 18 years old;

(b) Apply on a form provided by the Coast Guard;

(c) Present evidence of passing a physical and medical examination according to § 13.125 of this part;

(d) Present evidence of completion of an approved firefighting course providing training in the subjects identified in Table 1 to § 13.121(g) of this part completed within 5 years of the date of application for the endorsement, unless he or she has previously submitted such a certificate for a license, tankerman endorsement, or officer endorsement on an MMC;

(e) Present evidence of either—

(1) Completion of an approved Tankship Familiarization course providing training in the subjects identified in Table 1 to § 13.121(e) of this part within the previous 5 years. A course certificate used for original issuance or renewal of an endorsement cannot be used for a subsequent renewal of the same endorsement; or

(2) At least 90 days of deck service on tankships or self-propelled tank vessels certified to carry DL or LG appropriate to the endorsement applied for and successfully complete a professional examination for the topics identified in Table 1 to § 13.121(e) of this part; and

(f) Be capable of speaking and understanding, in English, all instructions needed to commence, conduct, and complete a transfer of cargo.

62. Revise § 13.403 to read as follows:

§ 13.403 Service requirements.

(a) Each applicant already holding an MMD or MMC endorsed tankerman-assistant for DL and seeking one for LG, or the converse, must—

(1) Provide evidence of at least half the service required in § 13.401(e)(2) of this subpart and successfully complete a professional examination for the topics identified in Table 1 to § 13.121(e) of this part appropriate to the endorsement applied for; or

(2) Complete a course in DL or LG appropriate to the endorsement applied for as prescribed in § 13.401(e)(1) of this subpart.

(b) [Reserved]

63. Revise § 13.405 to read as follows:

§ 13.405 Proof of service for tankerman-assistant endorsement.

Service must be proved by either—

(a) A letter on company letterhead from the owner, operator, or master of a tankship or self-propelled tank vessel. The letter must specify—

(1) The name of the vessel(s), the applicable dates, and the port(s) or terminal(s);

(2) The classification of cargo (DL or LG) carried while the applicant accumulated the service;

(3) The number of days of deck service the applicant accumulated on the tankship or self-propelled tank vessel; and

(4) That the applicant has demonstrated an understanding of cargo transfer and a sense of responsibility that, in the opinion of the signer, will allow the applicant to safely carry out duties respecting cargo transfer and transfer equipment assigned by the PIC of the transfer without direct supervision by the PIC; or

(b) Certificates of Discharge from tankships with the appropriate classification of cargo (DL, LG, or both); and a letter on company letterhead from the owner, operator, or master of one of the tankships or self-propelled tank vessels stating that he or she has demonstrated—

(1) An understanding of cargo transfers; and

(2) A sense of responsibility that, in the opinion of the signer, will allow him or her to safely carry out duties respecting cargo and its equipment assigned by the PIC of the transfer without direct supervision by the PIC.

§ 13.407 [Removed]

64. Remove § 13.407.

§ 13.409 [Removed]

65. Remove § 13.409.

66. Revise the heading for subpart E to read as follows:

Subpart E—Requirements for Tankerman-Engineer Endorsement

67. Revise § 13.501 to read as follows:

§ 13.501 Original application for tankerman-engineer endorsement.

Each applicant for a tankerman-engineer endorsement must—

(a) Be at least 18 years old;

(b) Apply on a form provided by the Coast Guard;

(c) Present evidence of—

(1) Passing a physical and medical examination according to § 13.125 of this part;

(2) Service on tankships and self-propelled tank vessels in accordance with § 13.503 of this subpart;

(3) Completion of an approved firefighting course providing training in the subjects identified in Table 1 to § 13.121(g) of this part completed within 5 years of the date of application for the endorsement, unless he or she has previously submitted such a certificate for a license, tankerman endorsement, or officer endorsement on an MMC; and

(4) Completion of an approved Tankship course in dangerous liquids or liquefied gases, appropriate for the endorsement applied for within the previous 5 years. A course certificate used for original issuance or renewal of an endorsement cannot be used for a subsequent renewal of the same endorsement; and

(d) Be capable of speaking and understanding, in English, all instructions needed to commence, conduct, and complete a transfer of cargo or fuel.

68. Amend § 13.503 as follows:

a. Revise the section heading to read as set forth below;

b. In paragraph (a) introductory text, remove the words “Tankerman-Engineer” and add, in their place, the words “tankerman-engineer”; and remove the word “shall” and add, in its place, the word “must”; and

c. In paragraph (b), remove the words “Tankerman-Engineer” and add, in their place, the words “tankerman-engineer”; after the words “and seeking”, remove the word “one” and add, in its place, the words “an endorsement”, and after the words “or the converse,”, remove the word “shall” and add, in its place, the word “must”.

§ 13.503 Service requirements.

* * * * *

69. Amend § 13.505 by revising the section heading to read as follows:

§ 13.505 Proof of service for tankerman-engineer endorsement.

* * * * *

§ 13.507 [Removed]

70. Remove § 13.507

§ 13.509 [Removed]

71. Remove § 13.509

72. Add new subpart F, consisting of §§ 13.601 through 13.611, to read as follows:

Subpart F—Requirements for STCW Tankerman Endorsements
Sec.
13.601 General.
13.603 Requirements to qualify for an STCW endorsement for advanced oil tanker cargo operations.
13.605 Requirements to qualify for an STCW endorsement for advanced chemical tanker cargo operations.
13.607 Requirements to qualify for an STCW endorsement for advanced liquefied gas tanker cargo operations.
13.609 Requirements to qualify for an STCW endorsement for basic oil and chemical tanker cargo operations.
13.611 Requirements to qualify for an STCW endorsement for basic liquefied gas tanker cargo operations.

Subpart F—Requirements for STCW Tankerman Endorsements

§ 13.601 General.

(a) When all tankerman endorsements are issued, renewed, or otherwise modified, the Coast Guard will determine, upon request, whether the applicant meets the requirements for an STCW tankerman endorsement for service on seagoing vessels. If the applicant is qualified, the Coast Guard will issue the appropriate endorsement. An applicant for any STCW endorsement must hold the appropriate national endorsement unless otherwise specified.

(b) Applicants for an STCW tankerman endorsement must—

(1) Meet the training and service requirements for the endorsement sought; and

(2) Meet the appropriate standard of competence identified in the STCW Code (incorporated by reference, see § 13.103 of this part).

(c) The Coast Guard will accept the following as proof of meeting the standards of competence:

(1) In-service experience: Documentation of successful completion of assessments, approved or accepted by the Coast Guard, and signed by a qualified assessor, deck or engineering, as appropriate.

(2) Training ship experience: Documentation of successful completion of an approved training program involving formal training and assessment onboard a school ship.

(3) Simulator training: Documentation of successful completion of training and assessment from a Coast Guard-approved course involving maritime simulation.

(4) Training program: Documentation of successful completion of an approved training program involving formal training and assessments.

(d) The Coast Guard will publish guidelines that should be used to document successful demonstrations of competence. Organizations may develop alternative assessment documentation for demonstrations of competence ; however, such documentation must be approved by the Coast Guard prior to its use and submittal with an application.

§ 13.603 Requirements to qualify for an STCW endorsement for advanced oil tanker cargo operations.

(a) Every applicant for an endorsement in advanced oil tanker cargo operations must—

(1) Qualify for a national endorsement as tankerman-PIC dangerous liquid;

(2) Meet the standards of competence identified in Table A-V/1-1-2 of the STCW Code (incorporated by reference, see § 13.103 of this part); and

(3) Provide evidence of 90 days of sea service onboard oil tankers. The Coast Guard will accept service submitted to qualify for a national endorsement as required in § 13.203 of this part, provided that the service was on oil tankers.

(b) Applicants may qualify for an endorsement in advanced oil tanker cargo operations with a limitation to non-self-propelled vessels. To qualify for this endorsement, an applicant must—

(1) Hold a national endorsement as tankerman-PIC (barge) dangerous liquids;

(2) Provide evidence of meeting the standards of competence identified in Table A-V/1-1-2 of the STCW Code; and

(3) Provide evidence of at least 90 days of service, whether shore-based or vessel-based, on one or more oil tankers. The Coast Guard will accept service submitted to qualify for a national endorsement required in § 13.303 of this part, provided that the service was on oil tankers.

(c) Applicants may qualify for an endorsement in advanced oil tanker cargo operations with a limitation to maintenance and repair of cargo equipment. To qualify for this endorsement, an applicant must—

(1) Qualify for a national endorsement as tankerman-engineer;

(2) Provide evidence of meeting the standards of competence identified in Table A-V/1-1-2 of the STCW Code applicable to maintenance and repair of cargo equipment; and

(3) Provide evidence of—

(i) At least 90 days of service as an engineering officer on oil tankers;

(ii) At least 90 days of rating or cadet service on deck or in the engine department on oil tankers; or

(iii) A combination of the service in paragraphs (c)(3)(i) and (c)(3)(ii) of this section.

(d) Applicants holding an endorsement in advanced chemical tanker cargo operations or advanced liquefied gas tanker cargo operations may qualify for an endorsement in advanced oil tanker cargo operations by completing, in a supernumerary capacity, an approved training program onboard oil tankers. The program must be at least 1 month and include at least three loading and three discharge operations.

(e) Grandfathering. Seafarers holding valid tankerman-PIC dangerous liquid, tankerman-PIC (barge) dangerous liquid, or tankerman-engineer endorsements issued prior to March 24, 2014, will be issued STCW endorsements for advanced oil and chemical tanker cargo operations, with any appropriate limitations, without meeting the requirements of this section. Seafarers holding an endorsement as tankerman-PIC (barge) dangerous liquid, and holding an advanced oil tanker cargo operations endorsement issued on or before March 24, 2014, will be limited to non-self-propelled vessels. Seafarers holding an endorsement as tankerman-engineer, and holding an advanced oil tanker cargo operations endorsement issued on or before March 24, 2014, will be limited to maintenance and repair of cargo equipment. After March 24, 2014, all seafarers applying for an original endorsement in advanced oil tanker cargo operations must meet the requirements of this section.

§ 13.605 Requirements to qualify for an STCW endorsement for advanced chemical tanker cargo operations.

(a) Every applicant for an endorsement in advanced chemical tanker cargo operations must:

(1) Qualify for a national endorsement as tankerman-PIC dangerous liquid;

(2) Meet the standards of competence identified in Table A-V/1-1-3 of the STCW Code (incorporated by reference, see § 13.103 of this part); and

(3) Provide evidence of 90 days of sea service onboard chemical tankers. The Coast Guard will accept service submitted to qualify for a national endorsement as required in § 13.203 of this part, provided that the service was on chemical tankers.

(b) Applicants may qualify for an endorsement in advanced chemical tanker cargo operations with a limitation to non-self-propelled vessels. To qualify for this endorsement, an applicant must:

(1) Qualify for a national endorsement as tankerman-PIC (barge) dangerous liquid;

(2) Provide evidence of meeting the standards of competence identified in Table A-V/1-1-3 of the STCW Code; and

(3) Provide evidence of at least 90 days of service, whether shore-based or vessel-based, on chemical tankers. The Coast Guard will accept service submitted to qualify for a national endorsement as required in § 13.303 of this part, provided that the service was on chemical tankers.

(c) Applicants may qualify for an endorsement in advanced chemical tanker cargo operations with a limitation to maintenance and repair of cargo equipment. To qualify for this endorsement, an applicant must:

(1) Qualify for a national endorsement as tankerman-engineer;

(2) Provide evidence of meeting the standards of competence identified in Table A-V/1-1-3 of the STCW Code applicable to maintenance and repair of cargo equipment; and

(3) Provide evidence of—

(i) At least 90 days of service as an engineering officer on chemical tankers;

(ii) At least 90 days of rating or cadet service on deck or in the engine department on chemical tankers; or

(iii) A combination of the service in paragraphs (c)(3)(i) and (c)(3)(ii) of this section.

(d) Applicants holding an endorsement in advanced oil tanker cargo operations or advanced liquefied gas tanker cargo operations may qualify for an endorsement in advanced chemical tanker cargo operations by completing, in a supernumerary capacity, an approved training program onboard chemical tankers. The program must be at least 1 month and include at least three loading and three discharge operations.

(e) Grandfathering. Seafarers holding valid tankerman-PIC dangerous liquid, tankerman-PIC (barge) dangerous liquid, or tankerman-engineer endorsements issued prior to March 24, 2014 will be issued STCW endorsements for advanced oil and chemical tanker cargo operations, with any appropriate limitations, without meeting the requirements of this section. Seafarers holding an endorsement as tankerman-PIC (barge) dangerous liquid, and holding an advanced chemical tanker cargo operations endorsement issued on or before March 24, 2014, will be limited to non-self-propelled vessels. Seafarers holding an endorsement as tankerman-engineer, and holding an advanced chemical tanker cargo operations endorsement issued on or before March 24, 2014, will be limited to maintenance and repair of cargo equipment. After March 24, 2014, all seafarers applying for an original endorsement in advanced chemical tanker cargo operations must meet the requirements of this section.

§ 13.607 Requirements to qualify for an STCW endorsement for advanced liquefied gas tanker cargo operations.

(a) Every applicant for an endorsement in advanced liquefied gas tanker cargo operations must:

(1) Qualify for a national endorsement as tankerman-PIC liquefied gas;

(2) Meet the standards of competence identified in Tables A-V/1-2-2 of the STCW Code (incorporated by reference, see § 13.103 of this part); and

(3) Provide evidence of 90 days of service on liquefied gas tankers. The Coast Guard will accept service submitted to qualify for a national endorsement as required in § 13.203 of this part, provided that the service was on liquefied gas tankers.

(b) Applicants may qualify for an endorsement in advanced liquefied gas tanker cargo operations with a limitation to non-self-propelled vessels. To qualify for this endorsement, an applicant must:

(1) Qualify for a national endorsement as tankerman-PIC (barge) liquefied gas;

(2) Provide evidence of meeting the standards of competence identified in Table A-V/1-2-2 of the STCW Code; and

(3) Provide evidence of at least 90 days of service, whether shore-based or vessel-based, on liquefied gas tankers. The Coast Guard will accept service submitted to qualify for a national endorsement as required in § 13.303 of this part, provided that the service was on liquefied gas tankers.

(c) Applicants may qualify for an endorsement in advanced liquefied gas tanker cargo operations with a limitation to maintenance and repair of cargo equipment. To qualify for this endorsement, an applicant must:

(1) Qualify for a national endorsement as tankerman-engineer;

(2) Provide evidence of meeting the standards of competence identified in Table A-V/1-2-2 of the STCW Code applicable to maintenance and repair of cargo equipment; and

(3) Provide evidence of—

(i) At least 90 days of service as an engineering officer on liquefied gas tankers;

(ii) At least 90 days of rating or cadet service on deck or in the engine department on liquefied gas tankers; or

(iii) A combination of the service in paragraphs (c)(3)(i) and (c)(3)(ii) of this section.

(d) Applicants holding an endorsement in advanced oil tanker cargo operations or advanced chemical tanker cargo operations may qualify for an endorsement in advanced liquefied gas tanker cargo operations by completing, in a supernumerary capacity, an approved training program onboard liquefied gas tankers. The program must be at least 1 month and include at least three loading and three discharge operations.

(e) Grandfathering. Seafarers holding valid tankerman-PIC liquefied gas, tankerman-PIC (barge) liquefied gas, or tankerman-engineer endorsements issued prior to March 24, 2014, will be issued an STCW endorsement for advanced liquefied gas tanker cargo operations, with any appropriate limitations, without meeting the requirements of paragraph (a) of this section. Seafarers holding an endorsement as tankerman-PIC (barge) liquefied gas, and holding an advanced liquefied gas tanker cargo operations endorsement issued on or before March 24, 2014, will be limited to non-self-propelled vessels. Seafarers holding an endorsement as tankerman-engineer, and holding an advanced liquefied gas tanker cargo operations endorsement issued on or before March 24, 2014, will be limited to maintenance and repair of cargo equipment. After March 24, 2014, all seafarers applying for an original endorsement in advanced liquefied gas tanker operations must meet the requirements of this section.

§ 13.609 Requirements to qualify for an STCW endorsement for basic oil and chemical tanker cargo operations.

(a) Every applicant for an endorsement in basic oil and chemical tanker operations must:

(1) Qualify for a national endorsement as tankerman-assistant dangerous liquid; and

(2) Provide evidence of meeting the standards of competence identified in Table A-V/1-1-1 of the STCW Code (incorporated by reference, see § 13.103 of this part).

(b) Grandfathering. Seafarers holding a valid tankerman-assistant dangerous liquid or tankerman-engineer endorsement issued prior to March 24, 2014 will be issued an STCW endorsement for basic oil and chemical tanker cargo operations without meeting the requirements of paragraph (a) of this section. After March 24, 2014, all seafarers applying for an original endorsement in basic oil and chemical tanker operations must meet the requirements of this section.

§ 13.611 Requirements to qualify for an STCW endorsement for basic liquefied gas tanker cargo operations.

(a) Every applicant for an endorsement in basic liquefied gas tanker operations must:

(1) Qualify for a national endorsement as tankerman-assistant liquefied gas; and

(2) Provide evidence of meeting the standards of competence identified in Table A-V/1-2-1 of the STCW Code (incorporated by reference, see § 13.103 of this part).

(b) Grandfathering. Seafarers holding a valid tankerman-assistant liquefied gas or tankerman-engineer endorsement issued prior to March 24, 2014, will be issued an STCW endorsement for basic liquefied gas tanker cargo operations without meeting the requirements of paragraph (a) of this section. After March 24, 2014, all seafarers applying for an original endorsement in basic liquefied gas tanker operations must meet the requirements of this section.

PART 14—SHIPMENT AND DISCHARGE OF MERCHANT MARINERS

73. The authority citation for part 14 continues to read as follows:

Authority: 5 U.S.C. 552; 46 U.S.C. Chapters 103 and 104; 46 U.S.C. 70105.

§ 14.201 [Amended]

74. Amend § 14.201 as follows:

a. In paragraph (a), remove the word “shall” wherever it appears and add, in its place, the word “must”; and

b. In paragraph (b), after the words “Except as provided by § 14.203”, add the words “of this subpart”; and remove the words “gross tons” wherever they appear and add, in their place, the word “GRT”.

§ 14.205 [Amended]

75. In § 14.205, remove the word “shall” and add, in its place, the word “must”.

76. Revise § 14.207 to read as follows:

§ 14.207 Content and form of shipping articles.

(a)(1) The content and form of shipping articles for each vessel of the United States of 100 GRT or more upon a foreign or intercoastal voyage must comply with the requirements of 46 U.S.C. 10302, 10303, 10304, and 10305. The articles must identify the nature of the voyage and specify at least the name, license, MMD or MMC number, capacity of service, time due onboard to begin work, name and address of the next of kin, and wages due to each merchant mariner, either who was discharged or whose services were otherwise terminated during the month.

(2) The content and form of articles for each such vessel upon a coastwise voyage (including a voyage on the Great Lakes) must also comply with the requirements of 46 U.S.C. 10502. The articles must specify at least the matter identified by paragraph (a)(1) of this section, except that they must not specify the wages due to the mariner. The wages section of the form must be left blank for coastwise voyages.

(b) Any shipping company that manually prepares the articles may, upon request, obtain a form from the Coast Guard.

(c) Any company that electronically prepares the articles may develop its own software or buy it off the shelf; but, in either of these cases, it must secure approval to use the software for these purposes from the National Maritime Center at any of the addresses provided in § 14.103 of this part.

§ 14.209 [Amended]

77. In § 14.209, remove the word “shall” and add, in its place, the word “must”.

§ 14.211 [Amended]

78. In § 14.211, remove the word “shall” and add, in its place, the word “must”.

79. Amend § 14.213 as follows:

a. In paragraph (a), remove the word “shall” wherever it appears, and add, in its place, the word “must”;

b. Revise paragraph (b) to read as set forth below; and

c. In paragraph (c), remove the word “shall” and add, in its place, the word “must”.

§ 14.213 Report of shipment of merchant mariner.

* * * * *

(b) When a vessel of the United States sails exclusively on the Great Lakes—

(1) Each master or individual in charge must, at the commencement of the season, or once the vessel is put into service, whichever occurs earlier, send one copy of articles, signed by the master and by each mariner, to the owner, charterer, or managing operator;

(2) The master or individual in charge must every 60 days send supplementary particulars of engagement covering each mariner engaged during this period, signed by the master and by each mariner, to the owner, charterer, or managing operator; and

(3) The master or individual in charge must, at the close of the season, or once the vessel is withdrawn from service, whichever occurs later, send articles, signed by the master and by each mariner, to the owner, charterer, or managing operator.

* * * * *

§ 14.301 [Amended]

80. In § 14.301, remove the word “shall” wherever it appears and add, in its place, the word “must”.

§ 14.303 [Amended]

81. In § 14.303, remove the words “the master shall” and add, in their place, the words “the master must”; and remove the words “the consular officer shall” and add, in their place, the words “the consular officer will”.

§ 14.305 [Amended]

82. In § 14.305, remove the word “shall” and add, in its place, the word “must”.

83. Amend § 14.307 as follows:

a. Revise paragraph (a) to read as set forth below; and

b. In paragraphs (b) through (e), remove the word “shall” wherever it appears and add, in its place, the word “must”.

§ 14.307 Entries on certificate of discharge.

(a) Each master or individual in charge of a vessel must, for each merchant mariner being discharged from the vessel, prepare a certificate of discharge and two copies, whether by writing or typing them on the prescribed form with permanent ink or generating them from computer in the prescribed format, and must sign them with permanent ink. The prescribed format for a certificate of discharge is the same as the current form CG-718A. The form has the mariner's printed name, signature, citizenship, MMD or MMC number, certification statement, date, master's signature, rate/rank the mariner is serving on the voyage, date and place of shipment, date and place of discharge, name of the vessel, name of the operating company, official number of the vessel, class of the vessel, and nature of the voyage.

* * * * *

§ 14.309 [Amended]

84. Amend § 14.309 as follows:

a. In paragraph (a) introductory text, remove the word “shall” and add, in its place, the word “must”;

b. In paragraph (a)(3), after the word “certificate”, add the words “of discharge”; and

c. In paragraph (b), remove the word “shall” and add, in its place, the word “must”.

§ 14.311 [Amended]

85. Amend § 14.311 as follows:

a. In paragraph (a), remove the word “shall” and add, in its place, the word “may; after the words “certificates of discharge to”, remove the word “an” and add, in its place, the word “the”; and remove the words “which the shipping company may request from the National Maritime Center” and add, in their place, the words “provided by the Coast Guard in § 14.103 of this part”; and

b. In paragraph (b), remove the word “shall” wherever it appears and add, in its place, the word “must”.

86. Amend § 14.313 as follows:

a. In paragraphs (a) and (b), remove the word “shall” wherever it appears and add, in its place, the word “must”;

b. Redesignate paragraph (c) as paragraph (d); and

c. Add new paragraph (c) to read as follows:

§ 14.313 Storage of shipping articles and of certificates of discharge.

* * * * *

(c) Articles sent for storage to the address in § 14.103(a) of this part that are not prepared in accordance with paragraph (a) of this section may be returned to the shipping company for correction.

* * * * *

§ 14.403 [Amended]

87. Amend § 14.403 as follows:

a. In paragraph (a) introductory text, remove the words “Department of Transportation” and add, in their place, the words “Department of Homeland Security”; and

b. In paragraph (a)(2), remove the word “shall” and add, in its place, the word “must”.

§ 14.405 [Amended]

88. Amend § 14.405 as follows:

a. In paragraph (a), remove the words “OCMI of the Coast Guard” and add, in their place, the words “Coast Guard OCMI”;

b. In paragraph (c), remove the word “OCMI” wherever it appears; and remove the word “shall” and add, in its place, the word “must”; and

c. In paragraph (d), before the word “OCMI”, wherever it appears, add the words “Coast Guard”; and remove the word “shall” and add, in its place, the word “must”.

89. Amend § 14.407 as follows:

a. In paragraph (a), remove the words “gross tons” and add, in their place, the word “GRT”; remove the word “shall” wherever it appears and add, in its place, the word “must”; and after the words “in the form of a copy of a certificate of discharge, or electronically”, add the words “to the address provided in § 14.103 of this part”;

b. In paragraph (b), remove the word “shall” and add, in its place, the word “must”; after the words “a copy of each certificate”, add the words “of discharge”; remove the words “After January 3, 1997, the” and add, in their place, the word “The”; and after the words “copies of certificates”, add the words “of discharge”;

c. In paragraph (c), remove the word “shall” and add, in its place, the word “must”; and after the words “on a certificate”, add the words “of discharge”;

d. Revise paragraph (d) to read as set forth below;

e. In paragraph (e), remove the word “shall” and add, in its place, the word “must”; and

f. Add new paragraph (f) to read as follows:

§ 14.407 Reports.

* * * * *

(d) Each oceanographic company must keep all original articles and copies of all certificates of discharge for 3 years. After 3 years the company must prepare the original shipping articles in alphabetical order by vessel name and send to the address in § 14.103(a) of this part for storage at the Federal Records Center at Suitland, Maryland. The company may dispose of the copies of certificates of discharge. The Coast Guard will dispose of copies of certificates submitted manually, once the information is entered into its sea-service database and is validated.

* * * * *

(f) Articles sent for storage to the address in § 14.103(a) of this part that are not prepared in accordance with paragraph (d) of this section may be returned to the company for correction.

PART 15—MANNING REQUIREMENTS

90. The authority citation for part 15 continues to read as follows:

Authority: 44 U.S.C. 3507; 46 U.S.C. 2101, 2103, 3306, 3703, 8101, 8102, 8104, 8105, 8301, 8304, 8502, 8503, 8701, 8702, 8901, 8902, 8903, 8904, 8905(b), 8906, 9102, and 8103; and Department of Homeland Security Delegation No. 0170.1.

§ 15.101 [Amended]

91. In § 15.101, remove the words “the regulations in”; and remove the words “parts E & F,”.

92. Revise § 15.103 to read as follows:

§ 15.103 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the Coast Guard, Office of Operating and Environmental Standards (CG-OES), 2703 Martin Luther King Avenue SE. Stop 7509, Washington, DC 20593-7509, 202-372-1405, and is available from the sources listed below. It is also available for inspection at the National Archives and Records Administration (NARA). For information on the availability of this material at NARA, call 202-741-6030, or go to http://www.archives.gov/federal_register/code_of_federal_regulations/ibr_locations.html.

(b) International Maritime Organization (IMO), 4 Albert Embankment, London, SE1 7SR England:

(1) The International Convention on Standards of Training, Certification and Watchkeeping for Seafarers, 1978, as amended, 2011 (STCW Convention), incorporation by reference approved for §§ 15.403, 15.404, 15.1103, 15.1105, and 15.1109.

(2) The Seafarers' Training, Certification and Watchkeeping Code, as amended, 2011 (STCW Code), incorporation by reference approved for § 15.1109.

(3) The International Convention for the Safety of Life at Sea, 1974 (SOLAS), approved for incorporation by reference in §§ 15.818 and 15.1103.

93. Revise § 15.105 to read as follows:

§ 15.105 General.

(a) The regulations in this part apply to all vessels that are subject to the manning requirements contained in the navigation and shipping laws of the United States, including uninspected vessels (46 U.S.C. 7101-9308).

(b) The navigation and shipping laws state that a vessel may not be operated unless certain manning requirements are met. In addition to establishing a minimum number of officers and rated crew to be carried onboard certain vessels, they establish minimum qualifications concerning licenses and MMC endorsements, citizenship, and conditions of employment. It is the responsibility of the owner, charterer, managing operator, master, or person in charge or in command of the vessel to ensure that appropriate personnel are carried to meet the requirements of the applicable navigation and shipping laws and regulations.

(c) Inspected vessels are issued a Certificate of Inspection (COI) which indicates the minimum complement of officers and crew (including lifeboatmen) considered necessary for safe operation. The COI complements the statutory requirements but does not supersede them.

(d) Uninspected vessels operating on an international voyage may be issued a safe manning certificate indicating the minimum complement of qualified mariners necessary for safe operation.

(e) The regulations in subpart K of this part apply to seagoing vessels subject to the International Convention on Standards of Training, Certification and Watchkeeping for Seafarers, 1978, as amended (STCW).

(f) Persons serving on any of the following vessels, or any owner or operator of any of these vessels, do not need to meet the requirements of subpart K of this part, because the vessels are exempt from application of STCW:

(1) Fishing vessels as defined in 46 U.S.C. 2101(11)(a).

(2) Fishing vessels used as fish-tender vessels as defined in 46 U.S.C. 2101(11)(c).

(3) Barges as defined in 46 U.S.C. 102, including non-self-propelled mobile offshore drilling units.

(4) Vessels operating exclusively on the Great Lakes or on the inland waters of the U.S. in the Straits of Juan de Fuca or on the Inside Passage between Puget Sound and Cape Spencer.

(5) Pilot vessels engaged on pilotage duty.

(g) Owners and operators, and personnel serving on the following small vessels engaged exclusively on domestic, near-coastal voyages are in compliance with subpart K of this part and are, therefore, not subject to further requirements for the purposes of the STCW Convention:

(1) Small passenger vessels subject to subchapter T or K of 46 CFR chapter I.

(2) Vessels of less than 200 GRT, other than passenger vessels subject to subchapter H of 46 CFR chapter I.

(3) Uninspected passenger vessels (UPVs) as defined in 46 U.S.C. 2101(42)(B).

(h) Personnel serving on vessels identified in paragraphs (g)(1) and (g)(2) of this section may be issued, without additional proof of qualification, an appropriate STCW endorsement on their license or MMC when the Coast Guard determines that such an endorsement is necessary to enable the vessel to engage on a single international voyage of a non-routine nature. The STCW endorsement will be expressly limited to service on the vessel or the class of vessels and will not establish qualification for any other purpose.

Subparts C through J [Redesignated as Subparts D through K]

94. Redesignate subparts C through J as subparts D through K.

Subpart C [Added and reserved]

95. Add and reserve a new subpart C.

96. Revise newly redesignated subpart D to read as follows:

Subpart D—Manning Requirements; All Vessels
Sec.
15.401 Employment and service within restrictions of credential.
15.403 When credentials for ratings are required.
15.404 Requirements for serving onboard a vessel.
15.405 Familiarity with vessel characteristics.
15.410 Credentialed individuals for assistance towing vessels.
15.415 [Reserved]

Subpart D—Manning Requirements; All Vessels

§ 15.401 Employment and service within restrictions of credential.

(a) A person may not employ or engage an individual, and an individual may not serve, in a position in which an individual is required by law or regulation to hold a license, certificate of registry, Merchant Mariner's Document (MMD), Transportation Worker Identification Credential (TWIC) and/or Merchant Mariner Credential (MMC), unless the individual holds all credentials required, as appropriate, authorizing service in the capacity in which the individual is engaged or employed, and the individual serves within any restrictions placed on the credential. An individual holding an active license, certificate of registry, MMD, or MMC issued by the Coast Guard must also hold a valid TWIC issued by the Transportation Security Administration unless the individual is exempt under 46 CFR 10.203(b)(1).

(b) A person may not employ or engage an individual, and an individual may not serve in a position in which it is required by law or regulation that the individual hold an MMC endorsed with a national endorsement, as well as a corresponding STCW endorsement for service outside the boundary line.

(c) A person may not employ or engage an individual in a position required to hold an MMC unless that individual maintains a current medical certificate. Medical certificates must be issued and will remain current for the following periods of time, unless otherwise noted on the certificate:

(1) After January 1, 2017, two years for individuals serving on vessels to which STCW applies unless the mariner is under the age of 18, in which case the maximum period of validity will be 1 year.

(2) Two years for individuals serving as a first-class pilot or those individuals serving as pilots on vessels of 1,600 GRT or more under § 15.812 of this part.

(3) Five years for all other mariners.

(d) Each individual referred to in paragraph (a) of this section must hold an MMD or MMC that serves as identification, with an appropriate endorsement for the position in which the seaman serves, and the MMD or MMC, along with a valid medical certificate, must be presented to the master of the vessel at the time of employment or before signing Articles of Agreement.

(e) Each individual below the grades of officer and staff officer employed on any U.S. flag merchant vessel of 100 GRT or more must possess a valid MMD or MMC issued by the Coast Guard, except as noted below:

(1) Mariners on vessels navigating exclusively on rivers and lakes, except the Great Lakes, as defined in § 10.107 of this subchapter.

(2) Mariners below the rank of officer employed on any non-self-propelled vessel, except seagoing barges and barges to which 46 U.S.C. chapter 37 applies.

(3) Personnel not designated with any safety or security duties onboard casino vessels.

(f) Every person employed on a vessel with dual tonnages (both domestic and international) must hold a credential authorizing service appropriate to the tonnage scheme under which the vessel is manned and operating.

§ 15.403 When credentials for ratings are required.

(a) Every seaman referred to in this section, when required, must produce a valid MMC or MMD with all applicable rating endorsements for the position sought, a valid TWIC unless the mariner is exempt under 46 CFR 10.203(b)(2), and a valid medical certificate to the master of the vessel at the time of his or her employment before signing Articles of Agreement. Seamen who do not possess one of these credentials may be employed at a foreign port or place within the limitations specified in § 15.720 of this part.

(b)(1) Every person below the grades of officer and staff officer employed on any U.S. flag merchant vessel of 100 GRT or more, except those navigating rivers exclusively and the smaller inland lakes, must possess a valid MMC or MMD, along with a valid medical certificate, with all appropriate endorsements for the positions served.

(2) No endorsements are required of any person below the rank of officer employed on any barges except seagoing barges and barges to which 46 U.S.C. chapter 37 applies.

(3) No endorsements are required of any person below the rank of officer employed on any sail vessel of less than 500 net tons while not carrying passengers for hire and while not operating outside the line dividing inland waters from the high seas. 33 U.S.C. 151.

(c) Each person serving as an able seafarer-deck, or a rating forming part of a navigational watch (RFPNW), on a seagoing vessel of 500 GT or more must hold an STCW endorsement certifying him or her as qualified to perform the navigational function at the support level, in accordance with the STCW Convention (incorporated by reference, see § 15.103 of this part).

(d) Each person serving as an able seafarer-engine, or a rating forming part of an engineering watch (RFPEW), on a seagoing vessel driven by main propulsion machinery of 1,000 HP/750 kW propulsion power or more must hold an STCW endorsement certifying him or her as qualified to perform the marine-engineering function at the support level, in accordance with the STCW Convention.

(e) Notwithstanding any other rule in this part, no person subject to this part serving on any of the following vessels needs an STCW endorsement:

(1) Vessels exempted from the application of the STCW Convention, including—

(i) Fishing vessels as defined in 46 U.S.C. 2101(11)(a);

(ii) Fishing vessels used as fish-tender vessels as defined in 46 U.S.C. 2101(11)(c);

(iii) Barges as defined in 46 U.S.C. 102, including non-self-propelled mobile offshore-drilling units;

(iv) Vessels operating exclusively on the Great Lakes; or

(v) Pilot vessels engaged in pilotage duty.

(2) Vessels not subject to any obligation under the STCW Convention due to their special operating conditions as small vessels engaged in domestic, near-coastal voyages, including—

(i) Small passenger vessels subject to subchapter T or K of 46 CFR chapter I;

(ii) Vessels of less than 200 GRT (other than passenger vessels subject to subchapter H of 46 CFR) chapter I; or

(iii) Uninspected passenger vessels as defined in 46 U.S.C. 2101(42)(B).

§ 15.404 Requirements for serving onboard a vessel.

(a) Ratings Forming Part of a Navigational Watch (RFPNW). Each person serving as an RFPNW on a seagoing vessel of 500 GT or more, subject to the STCW Convention (incorporated by reference, see § 15.103 of this part), must hold an STCW endorsement attesting to his or her qualifications to perform the navigational function at the support level.

(b) Able seaman. Each person serving as a rating as able seaman on a U.S. flag vessel must hold an MMC endorsed as able seaman, except that no credential as able seaman is required of any person employed on any tug or towboat on the bays and sounds connected directly with the seas, or on any barges except seagoing barges or tank barges. Each person serving as an able seaman on a seagoing vessel subject to the STCW Convention must also hold an STCW endorsement as able seafarer-deck.

(c) Ratings Forming Part of an Engineering Watch (RFPEW). Each person serving as an RFPEW in a manned engineroom or designated to perform duties in a periodically unmanned engineroom, on a seagoing vessel driven by main propulsion machinery of 1,000 HP/750 kW propulsion power or more, must hold an STCW endorsement attesting to his or her qualifications to perform the marine-engineering function at the support level.

(d) Qualified Member of the Engine Department (QMED). (1) The holder of an MMD or MMC endorsed with one or more QMED ratings may serve in any unqualified rating in the engine department without obtaining an additional endorsement.

(2) A QMED may serve as a qualified rating in the engine department only in the specific ratings endorsed on his or her MMD or MMC.

(3) Persons serving on vessels subject to the STCW Convention as junior engineer, pumpman/machinist, or electrician/refrigeration engineer must also hold an STCW endorsement as able seafarer-engine.

(e) Lifeboatman. Every person assigned duties as a lifeboatman must hold a credential attesting to such proficiency. Persons serving on vessels subject to the STCW Convention must also hold an STCW endorsement in proficiency in survival craft and rescue boats other than fast rescue boats (PSC).

(f) Lifeboatman-limited. Every person assigned duties onboard a vessel that is not required to carry lifeboats and is required to employ a lifeboatman must hold an endorsement as either lifeboatman or lifeboatman-limited. Persons serving on vessels subject to the STCW Convention must also hold an STCW endorsement in proficiency in survival craft and rescue boats other than lifeboats and fast rescue boats—limited (PSC—limited).

(g) Fast rescue boats. Every person engaged or employed in a position requiring proficiency in fast rescue boats must hold an endorsement attesting to such proficiency.

(h) Entry level. Every person employed in a rating other than able seaman or QMED on a U.S. flag vessel on which MMCs are required must hold an MMD or MMC endorsed as wiper, ordinary seaman, steward's department, or steward's department (F.H.).

(i) Person in charge of medical care. Every person designated to take charge of medical care onboard vessels subject to the STCW Convention must hold an MMD or MMC endorsed as person in charge of medical care.

(j) Medical first-aid provider. Every person designated to provide medical first aid onboard vessels subject to the STCW Convention must hold an MMD or MMC endorsed as medical first-aid provider or a deck or engineer officer endorsement.

(k) GMDSS radio operator or maintainer. Every person responsible for the operation or shipboard maintenance of GMDSS radio equipment onboard vessels subject to the STCW Convention must hold an MMD or MMC endorsed as GMDSS radio operator or GMDSS radio maintainer, as appropriate.

§ 15.405 Familiarity with vessel characteristics.

Each credentialed crewmember must become familiar with the relevant characteristics of the vessel appropriate to his or her duties and responsibilities prior to assuming those duties and responsibilities. As appropriate, these may include, but are not limited to, general arrangement of the vessel, maneuvering characteristics, proper operation of the installed navigation equipment, proper operation of firefighting and lifesaving equipment, stability and loading characteristics, emergency duties, and main propulsion and auxiliary machinery, including steering gear systems and controls.

§ 15.410 Credentialed individuals for assistance towing vessels.

Every assistance towing vessel must be under the direction and control of an individual holding a license or MMC authorizing him or her to engage in assistance towing under the provisions of § 11.482 of this subchapter.

§ 15.415 [Reserved]

§ 15.505 [Amended]

97. In § 15.505, remove the words “changes in manning as indicated” and add, in their place, the words “changes to the manning required”; and remove the words “certificate of inspection”, wherever they appear, and add, in their place, the word “COI”.

98. Revise § 15.515 to read as follows:

§ 15.515 Compliance with certificate of inspection.

(a) Except as provided by § 15.725 of this part, no vessel may be navigated unless it has in its service and onboard the crew complement required by the COI.

(b) Any time passengers are embarked on a passenger vessel, the vessel must have the crew complement required by the COI, whether the vessel is underway, at anchor, made fast to shore, or aground. However, the master may allow reduced crew for limited or special operating conditions subject to the approval of the OCMI.

(c) No vessel subject to inspection under 46 U.S.C. 3301 will be navigated unless it is under the direction and control of an individual who holds an appropriate license or officer endorsement on his or her MMC.

99. Revise § 15.520 to read as follows:

§ 15.520 Mobile offshore drilling units (MODUs).

(a) The requirements in this section for MODUs supplement other requirements in this part.

(b) The OCMI determines the minimum number of officers and crew (including lifeboatmen) required for the safe operation of inspected MODUs. In addition to other factors listed in this part, the specialized nature of the MODU is considered in determining the specific manning levels.

(c) A license or officer endorsement on an MMC as offshore installation manager (OIM), barge supervisor (BS), or ballast control operator (BCO) authorizes service only on MODUs. A license or endorsement as OIM is restricted to the MODU type and mode of operation specified on the credential.

(d) When underway, a self-propelled MODU, other than a drillship, must be under the command of an individual who holds a license as master endorsed as OIM, or an MMC endorsed as master and OIM. When not underway, such a vessel must be under the command of an individual holding the appropriate OIM credential.

(e) A drillship must be under the command of an individual who holds a license or MMC officer endorsement as master. When a drillship is on location, or is maintaining its position with a dynamic positioning system, the individual in command must hold a license as master endorsed as OIM or an MMC with master and OIM officer endorsements.

(f) A non-self-propelled MODU must be under the command of an individual who holds a license or MMC officer endorsement as OIM.

(g) An individual serving as mate on a self-propelled surface unit when underway, other than a drillship, must hold an appropriate license, or an MMC endorsed as mate and BS or BCO. When not underway, such a vessel may substitute an individual holding the appropriate BS or BCO endorsement for the mate, if permitted by the cognizant OCMI.

(h) An individual holding a license or MMC officer endorsement as BS is required on a non-self-propelled surface unit other than a drillship.

(i) An individual holding a license or MMC officer endorsement as BS may serve as BCO.

(j) The OCMI issuing the MODU's COI may authorize the substitution of chief or assistant engineer (MODU) for chief or assistant engineer, respectively, on self-propelled or propulsion-assisted surface units, except drillships. The OCMI may also authorize the substitution of assistant engineer (MODU) for assistant engineer on drillships.

(k) Requirements in this part concerning radar observers do not apply to non-self-propelled MODUs.

(l) A surface MODU underway or on location, when afloat and equipped with a ballast control room, must have that ballast control room manned by an individual holding a license or MMC officer endorsement authorizing service as BCO.

100. Revise the heading in § 15.525 to read as follows:

§ 15.525 Additional manning requirements for tank vessels.

* * * * *

101. Revise § 15.530 to read as follows:

§ 15.530 Large passenger vessels

(a) The owner or operator of a U.S. flag large passenger vessel must ensure that any non-resident alien holding a Coast Guard-issued MMC described in part 12, subpart H of this subchapter is provided the rights, protections, and benefits of the International Labor Organization's Merchant Shipping (Minimum Standards) Convention of 1976.

(b) On U.S. flag large passenger vessels, non-resident aliens holding a Coast Guard-issued MMC described in part 12, subpart H of this subchapter—

(1) May only be employed in the steward's department on the vessel(s) specified on the MMC or accompanying Coast Guard letter under § 12.811 of this subchapter;

(2) May only be employed for an aggregate period of 36 months of actual service on all authorized U.S. flag large passenger vessels combined, under § 12.811 of this subchapter;

(3) May not perform watchstanding, engine room duty watch, or vessel navigation functions, under § 12.811 of this subchapter; and

(4) May perform emergency-related duties only if, under § 12.811 of this subchapter—

(i) The emergency-related duties do not require any other rating or endorsement, except lifeboatman as specified in § 12.811 of this subchapter;

(ii) The non-resident alien has completed familiarization and basic training, as required in § 15.1105 of this part;

(iii) The non-resident alien, if serving as a lifeboatman, has the necessary lifeboatman's endorsement; and

(iv) The non-resident alien has completed the training for crewmembers on passenger ships performing duties involving safety or care for passengers, as required in part 12, subpart J of this subchapter.

(c) No more than 25 percent of the total number of ratings on a U.S. flag large passenger vessel may be aliens, whether admitted to the United States for permanent residence or authorized for employment in the United States as non-resident aliens.

(d) The owner or operator of a U.S. flag large passenger vessel employing non-resident aliens holding Coast Guard-issued MMCs described in part 12, subpart H of this subchapter must—

(1) Retain custody of all non-resident alien MMCs for the duration of employment, under § 12.811 of this subchapter; and

(2) Return all non-resident alien MMCs to the Coast Guard upon termination of employment, under § 12.811 of this subchapter.

(e) The owner or operator of a U.S. flag large passenger vessel employing non-resident aliens holding Coast Guard-issued MMCs described in part 12, subpart H of this subchapter is subject to the civil penalty provisions specified in 46 U.S.C. 8103(f), for any violation of this section.

102. Revise § 15.605 to read as follows:

§ 15.605 Credentialed operators for uninspected passenger vessels.

Each uninspected passenger vessel (UPV) must be under the direction and control of an individual credentialed by the Coast Guard, as follows:

(a) Every UPV of 100 GRT or more, as defined by 46 U.S.C. 2101(42)(A), must be under the command of an individual holding a license or MMC endorsed as master. When navigated, it must be under the direction and control of a credentialed master, pilot, or mate.

(b) Every self-propelled UPV as defined by 46 U.S.C. 2101(42)(B) must be under the direction and control of an individual holding a license or MMC endorsed as or equivalent to an operator of an uninspected passenger vessel (OUPV).

(c) Personnel serving on UPVs engaged on international voyages must meet the requirements of subpart K of this part.

103. Amend § 15.610 as follows:

a. Revise paragraphs (a) and (b)(1) to read as set forth below;

b. In paragraph (b) introductory text, after the words “endorsement for that route”, remove the text “,” and add, in its place, the word “or”; after the words “for the Western Rivers, or”, add the word “who”; and after the words “meets the requirements of paragraph (a)”, add the words “of this section”; and

c. In paragraph (b)(2), after the words “during hours of darkness, and”, add the words “provide evidence that”; and remove the words “round trip of the 12” and add, in their place, the words “of the four roundtrips was”.

§ 15.610 Master and mate (pilot) of towing vessels.

(a) Except as provided in this paragraph, every towing vessel of at least 8 meters (26 feet) in length, measured from end to end over the deck (excluding sheer), must be under the direction and control of a person holding a license or MMC officer endorsement as master or mate (pilot) of towing vessels, or as master or mate of vessels of greater than 200 GRT, holding either an endorsement on his or her license or MMC for towing vessels or a completed Towing Officer Assessment Record (TOAR) signed by a designated examiner indicating that the officer is proficient in the operation of towing vessels. This requirement does not apply to any vessel engaged in assistance towing.

(b) * * *

(1) To operate a towing vessel with tank barges, or a tow of barges carrying hazardous materials regulated under subchapters N or O of this chapter, an officer in charge of the towing vessel must have completed 12 roundtrips over this route as an observer, with at least three of those trips during hours of darkness, and provide evidence that at least one of the 12 roundtrips was completed within the last 5 years.

* * * * *

§ 15.701 [Amended]

104. Amend § 15.701 as follows:

a. In paragraph (a) introductory text, after the number “1936”, add the words “(see 46 U.S.C. 8304)”;

b. In paragraph (a)(3), remove the comma symbol;

c. In paragraph (b), remove the word “chapter” and add, in its place, the word “subchapter”;

d. In paragraph (c), after the words “foreign flag vessel to which the”, add the words “Officers Competency Certificates”; and

e. In paragraph (d), remove the word “five” and add, in its place, the number “5”.

105. Amend § 15.705 as follows:

a. In paragraph (a), remove the words “is the law applicable” and add, in their place, the word “applies”; remove the word “watch” in the third sentence and add, in its place, the word ““watch””; and remove the words “certificate of inspection” and add, in their place, the word “COI or other safe manning document”;

b. Revise paragraph (b) to read as set forth below;

c. In paragraph (c)(2), after the word “or”, remove the text “,”;

d. In paragraph (d), remove the words “26 feet” and add, in their place, the words “8 meters (26 feet)”; between the number “24” and the word “hour”, add the text “-”; and after the number “1936”, add the words “(see 46 U.S.C. 8304)”;

e. Revise paragraph (e) to read as set forth below;

f. In paragraph (f) introductory text, remove the words “gross tons” and add, in their place, the word “GRT”;

g. In paragraph (f)(1), after the words “remainder of that 24-hour period” add the text “,”; and

h. In paragraph (f)(2), after the words “in any 24-hour period” add the text “,”.

§ 15.705 Watches.

* * * * *

(b) Subject to exceptions, 46 U.S.C. 8104 requires that when a master of a seagoing vessel of more than 100 GRT establishes watches for the officers, sailors, coal passers, firemen, oilers, and watertenders, “the personnel shall be divided, when at sea, into at least three watches and shall be kept on duty successively to perform ordinary work incidental to the operation and management of the vessel.” Solely for the purposes of this part, the Coast Guard interprets “sailors” to mean those members of the deck department other than officers, whose duties involve the mechanics of conducting the ship on its voyage, such as helmsman (wheelsman), lookout, etc., and which are necessary to the maintenance of a continuous watch. The term “sailors” is not interpreted to include able seamen and ordinary seamen not performing these duties.

* * * * *

(e) Fish processing vessels are subject to various provisions of 46 U.S.C. 8104 concerning watches, including—

(1) For fish processing vessels that entered into service before January 1, 1988, the following watch requirements apply to the officers and deck crew:

(i) If more than 5,000 GRT—three watches.

(ii) If more than 1,600 GRT and not more than 5,000 GRT—two watches.

(iii) If not more than 1,600 GRT—no watch division specified; or

(2) For fish processing vessels that entered into service after December 31, 1987, the following watch requirements apply to the officers and deck crew:

(i) If more than 5,000 GRT—three watches.

(ii) If not more than 5,000 GRT and having more than 16 individuals onboard, primarily employed in the preparation of fish or fish products—two watches.

(iii) If not more than 5,000 GRT and having not more than 16 individuals onboard, primarily employed in the preparation of fish or fish products—no watch division specified.

* * * * *

§ 15.710 [Amended]

106. In § 15.710(c), remove the words “on board” and add, in their place, the word “onboard”.

107. Amend § 15.720 as follows:

a. Revise the heading of § 15.720 to read as set forth below;

b. In paragraph (d), remove the word “shall” and add, in its place, the word “must”; remove the words “which is equivalent in” and add, in their place, the words “that required”; and after the words “other qualifications”, add the word “equivalent”; and

c. Add new paragraph (e) to read as follows:

§ 15.720 Use of non-U.S.-credentialed personnel.

* * * * *

(e) Non-U.S.-credentialed officers serving onboard vessels subject to STCW must hold a “Certificate attesting recognition” in accordance with part 11, subpart J of this subchapter. A mariner may serve for a period not to exceed 3 months onboard the vessel while the Coast Guard is processing his or her application for such a certificate.

§ 15.725 [Amended]

108. In § 15.725, after the words “A report of sailing short must be filed”, remove the words “in writing”; remove the words “Officer in Charge, Marine Inspection (OCMI)” and add, in their place, the word “OCMI”; and remove the word “twelve” and add, in its place, the number “12”.

§ 15.730 [Amended]

109. Amend § 15.730 as follows:

a. In paragraph (a) introductory text, remove the words “gross tons” and add, in their place, the word “GRT”;

b. In paragraph (a)(1), after the words “and lakes”, remove the text “(”; and after the word “Lakes”, remove the text ”)”;

c. In paragraph (a)(2), after the words “manned barge”, remove the text “(”; and after the word “applies”, remove the text ”)”;

d. In paragraph (a)(6), remove the words “1600 gross tons” and add, in their place, the words “1,600 GRT”; remove the word “enters” and add, in its place, the word “entered”; remove the words “on board” and add, in their place, the word “onboard”; after the words “or fish products; and”, remove the text “,”; and

e. In paragraph (b), remove the words “on board” wherever they appear and add, in their place, the word “onboard”.

110. Amend § 15.805 as follows:

a. In paragraph (a) introductory text, remove the second instance of the word “master”;

b. In paragraph (a)(1), remove the words “gross tons” and add, in their place, the word “GRT”;

c. In paragraphs (a)(2) and (a)(3), after the word “vessel”, remove the text “.” and add, in its place, the text “;”;

d. In paragraph (a)(4), after the word “vessel”, remove the text “.” and add, in its place, the words “; and”;

e. In paragraph (a)(5) introductory text, before the words “26 feet” remove the words “at least”; remove the words “under the” and add, in their place, the word “in”; and remove the words “gross register tons (GRT)” and add, in their place, the word “GRT”;

f. In paragraph (a)(5)(ii), remove the words “with officer endorsement for” and add, in their place, the words “endorsed for master of”;

g. In paragraph (a)(6), remove the words “gross tons” and add, in their place, the word “GRT”;

h. Add new paragraph (a)(7) to read as set forth below;

i. Redesignate paragraph (b) as paragraph (c); and

j. Add new paragraph (b) to read as follows:

§ 15.805 Master.

(a) * * *

(7) Every uninspected passenger vessel engaged on an international voyage.

(b) On vessels subject to STCW, the individual meeting the requirement of this section must also hold an STCW endorsement as master with the appropriate tonnage for the vessel which he or she is operating, except as noted in § 15.105(g) of this part for vessels on domestic near-coastal voyages.

* * * * *

111. Amend § 15.810 as follows:

a. In paragraphs (b)(1) and (b)(2), remove the words “1000 gross tons” and add, in their place, the words “1,000 GRT”;

b. In paragraph (b)(3), remove the words “100 or more gross tons” and add, in their place, the words “100 GRT or more”; remove the words “1000 gross tons” and add, in their place, the words “1,000 GRT”; and remove the words “200 gross tons” and add, in their place, the words “200 GRT”;

c. In paragraphs (b)(4) and (b)(5), remove the words “100 gross tons” and add, in their place, the words “100 GRT”;

d. In paragraph (c), remove the words “200 gross tons” and add, in their place, the words “200 GRT”;

e. In paragraph (d) introductory text, before the words “26 feet” remove the words “at least”;

f. In paragraph (d)(2)(i), remove the words “Towing Officer's Assessment Record (TOAR)” and add, in their place, the word “TOAR”; and

g. Add new paragraph (g) to read as follows:

§ 15.810 Mates.

* * * * *

(g) On vessels subject to STCW, the individual meeting the requirement of this section must also hold an STCW endorsement as officer in charge of a navigational watch with the appropriate tonnage for the vessel which he or she is operating, except as noted in § 15.105 (g) of this part for vessels on domestic near-coastal voyages.

112. Revise § 15.812 to read as follows:

§ 15.812 Pilots.

(a) Except as specified in paragraph (f) of this section, the following vessels, not sailing on register, when underway on the navigable waters of the United States, must be under the direction and control of an individual qualified to serve as pilot under paragraph (b) or (c) of this section, as appropriate:

(1) Coastwise seagoing vessels propelled by machinery and subject to inspection under 46 U.S.C. Chapter 33, and coastwise seagoing tank barges subject to inspection under 46 U.S.C. Chapter 37.

(2) Vessels that are not authorized by their COI to proceed beyond the Boundary Line established in part 7 of this chapter, are in excess of 1,600 GRT propelled by machinery, and are subject to inspection under 46 U.S.C. Chapter 33.

(3) Vessels operating on the Great Lakes, that are propelled by machinery and subject to inspection under 46 U.S.C. Chapter 33, or are tank barges subject to inspection under 46 U.S.C. Chapter 37.

(b) The following individuals may serve as a pilot on a vessel subject to paragraph (a) of this section, when underway on the navigable waters of the United States that are designated areas:

(1) An individual holding a valid first-class pilot's license or MMC officer endorsement as first-class pilot, operating within the restrictions of his or her credential, may serve as pilot on any vessel to which this section applies.

(2) An individual holding a valid license or MMC officer endorsement as master or mate, employed aboard a vessel within the restrictions of his or her credential, may serve as pilot on a vessel of not more than 1,600 GRT propelled by machinery, described in paragraphs (a)(1) and (a)(3) of this section, provided he or she—

(i) Is at least 21 years old;

(ii) Is able to show current knowledge of the waters to be navigated, as required in § 11.713 of this subchapter; and

(iii) Provides evidence of completing a minimum of four roundtrips over the route to be traversed while in the wheelhouse as watchstander or observer. At least one of the roundtrips must be made during the hours of darkness if the route is to be traversed during darkness.

(3) An individual holding a valid license or MMC officer endorsement as master, mate, or operator employed aboard a vessel within the restrictions of his or her credential, may serve as pilot on a tank barge or tank barges totaling not more than 10,000 GRT/GT, described in paragraphs (a)(1) and (a)(3) of this section, provided he or she—

(i) Is at least 21 years old;

(ii) Is able to show current knowledge of the waters to be navigated, as required in § 11.713 of this subchapter;

(iii) Has a current physical examination in accordance with the provisions of § 11.709 of this subchapter;

(iv) Has at least 6 months of service in the deck department on towing vessels engaged in towing operations; and

(v) Provides evidence of completing a minimum of 12 roundtrips over the route to be traversed, as an observer or under instruction in the wheelhouse. At least three of the roundtrips must be made during the hours of darkness if the route is to be traversed during darkness.

(c) An individual holding a valid license or MMC officer endorsement as master, mate, or operator, employed aboard a vessel within the restrictions of his or her credential, may serve as a pilot for a vessel subject to paragraphs (a)(1) and (a)(2) of this section, when underway on the navigable waters of the United States that are not designated areas of pilotage waters, provided he or she—

(1) Is at least 21 years old;

(2) Is able to show current knowledge of the waters to be navigated, as required in § 11.713 of this subchapter; and

(3) Has a current physical examination in accordance with the provisions of § 11.709 of this subchapter.

(d) In any instance in which the qualifications of a person satisfying the requirements for pilotage through the provisions of this subpart are questioned by the Coast Guard, the individual must, within a reasonable time, provide the Coast Guard with documentation proving compliance with the applicable portions of paragraphs (b) and (c) of this section.

(e) Federal pilotage requirements contained in paragraphs (a) through (d) of this section are summarized in the following two quick reference tables:

(1) Table 1 to § 15.812(e)(1) provides a guide to the pilotage requirements for inspected, self-propelled vessels.

Table 1 to § 15.812(e)(1)—Quick Reference Table for Federal Pilotage Requirements for U.S.-Inspected, Self-Propelled Vessels, Not Sailing on Register
| Designated areas of pilotage waters (routes for which First-Class Pilot's licenses or MMC officer endorsements are issued) | Non-designated areas of pilotage waters (between the 3-mile line and the start of traditional pilotage routes)
Inspected self-propelled vessels greater than 1,600 GRT, authorized by their COI to proceed beyond the Boundary Line, or operating on the Great Lakes | First-Class Pilot | Master or Mate may serve as pilot if he or she— 1. Is at least 21 years old; 2. Has an annual physical exam; and 3. Maintains current knowledge of the waters to be navigated.¹
Inspected self-propelled vessels not more than 1,600 GRT, authorized by their COI to proceed beyond the Boundary Line, or operating on the Great Lakes | First-Class Pilot, or Master or Mate may serve as pilot if he or she— 1. Is at least 21 years old; 2. Maintains current knowledge of the waters to be navigated; and¹ 3. Has four roundtrips over the route.² | Master or Mate may serve as pilot if he or she— 1. Is at least 21 years old; 2. Has an annual physical exam; and 3. Maintains current knowledge of the waters to be navigated.¹
Inspected self-propelled vessels greater than 1,600 GRT, not authorized by their COI to proceed beyond the Boundary Line (inland route vessels); other than vessels operating on the Great Lakes | First-Class Pilot | Master or Mate may serve as pilot if he or she— 1. Is at least 21 years old; 2. Has an annual physical exam; and 3. Maintains current knowledge of the waters to be navigated.¹
Inspected self-propelled vessels not more than 1,600 GRT, not authorized by their COI to proceed beyond the Boundary Line (inland route vessels); other than vessels operating on the Great Lakes | No pilotage requirement | No pilotage requirement.
¹ One roundtrip within the past 60 months.
² If the route is to be traversed during darkness, one of the four roundtrips must be made during darkness.

(2) Table 1 to § 15.812(e)(2) provides a guide to the pilotage requirements for tank barges.

Table 1 to § 15.812(e)(2)—Quick Reference Table for Federal Pilotage Requirements for U.S.-Inspected Tank Barges, Not Sailing on Register
| Designated areas of pilotage waters (routes for which First-Class Pilot's licenses or MMC officer endorsements are issued) | Non-designated areas of pilotage waters (between the 3-mile line and the start of traditional pilotage routes)
Tank Barges greater than 10,000 GRT/GT, authorized by their COI to proceed beyond the Boundary Line, or operating on the Great Lakes | First-Class Pilot Master, Mate, or Master, Mate (Pilot) of towing vessels may serve as pilot if he or she: 1. Is at least 21 years old; 2. Has an annual physical exam; 3. Maintains current knowledge of the waters to be navigated;¹ and 4. Has at least 6 months' service in the deck department on towing vessels engaged in towing | Master, Mate, or Master, Mate (Pilot) of towing vessels may serve as pilot if he or she: 1. Is at least 21 years old; 2. Has an annual physical exam; ² 3. Maintains current knowledge of the waters to be navigated;¹ and 4. Has at least 6 months' service in the deck department on towing vessels engaged in towing operations
Tank Barges 10,000 GRT/GT or less, authorized by their COI to proceed beyond the Boundary Line, or operating on the Great Lakes | First-Class Pilot, or Master, Mate, or Master, Mate (Pilot) of towing vessels may serve as pilot if he or she: 1. Is at least 21 years old; 2. Has an annual physical exam; ² 3. Maintains current knowledge of the waters to be navigated; ¹ 4. Has at least 6 months' service in the deck department on towing vessels engaged in towing operations; and 5. Has 12 roundtrips over the route.³
Tank Barges authorized by their COI for inland routes only (lakes, bays, and sounds/rivers); other than vessels operating on the Great Lakes | No pilotage requirement | No pilotage requirement.
¹ One roundtrip within the past 60 months.
² Annual physical exam does not apply to an individual who will serve as a pilot of a tank barge of less than 1,600 GRT.
³ If the route is to be traversed during darkness, three of the 12 roundtrips must be made during darkness.

(f) In Prince William Sound, Alaska, coastwise seagoing vessels over 1,600 GRT and propelled by machinery and subject to inspection under 46 U.S.C. Chapter 37 must—

(1) When operating from 60°49′ north latitude to the Port of Valdez, be under the direction and control of an individual holding a valid license or MMC endorsed as pilot who—

(i) Is operating under the authority of a license or MMC;

(ii) Holds a license issued by the State of Alaska; and

(iii) Is not a crewmember of the vessel; and

(2) Navigate with either two credentialed deck officers on the bridge or an individual holding a valid license or MMC endorsed as pilot, when operating south of 60°49′ north latitude and in the approaches through Hinchinbrook Entrance and in the area bounded—

(i) On the West by a line 1 mile west of the western boundary of the Traffic Separation Scheme;

(ii) On the East by 146°00′ West longitude;

(iii) On the North by 60°49′ North latitude; and

(iv) On the South by that area of Hinchinbrook Entrance within the territorial sea bounded by 60°07′ North latitude and 146°31.5′ West longitude.

113. Amend § 15.815 as follows:

a. In paragraph (a), remove the words “gross tons” and add, in their place, the word “GRT”; and remove the word “shall” and add, in its place, the word “must”;

b. Revise paragraph (b) to read as set forth below;

c. In paragraph (c), remove the words “on board” and add, in their place, the word “onboard”; and before the words “26 feet”, remove the word “approximately”;

d. In paragraph (d), remove the word “their” and add, in its place, the words “his or her”; and

e. Revise paragraph (e) to read as follows.

§ 15.815 Radar observers.

* * * * *

(b) Each person who is employed or serves as pilot in accordance with Federal law onboard radar-equipped vessels of 300 GRT or over must hold an endorsement as radar observer.

* * * * *

(e) For this section, “readily available” means that the documentation must be provided to the Coast Guard, or other appropriate Federal agency, within 48 hours of a request by the Coast Guard or other agency. The documentation may be provided by the individual, or his or her company representative, electronically, by facsimile, or physical copy.

114. Add § 15.816 to read as follows:

§ 15.816 Automatic radar plotting aids (ARPAs).

Every person in the required complement of deck officers, including the master, on seagoing vessels equipped with automatic radar plotting aids (ARPAs), except those vessels listed in § 15.105(f) and (g) of this part, must hold an appropriate STCW endorsement valid for vessels equipped with ARPA.

115. Add § 15.817 to read as follows:

§ 15.817 Global Maritime Distress and Safety System (GMDSS) radio operator.

Every person in the required complement of deck officers, including the master, on seagoing vessels equipped with a GMDSS, except those vessels listed in § 15.105(f) and (g) of this part, must provide evidence of a valid STCW endorsement as GMDSS radio operator.

116. Add § 15.818 to read as follows:

§ 15.818 Global Maritime Distress and Safety System (GMDSS) at-sea maintainer.

Every person employed or engaged to maintain GMDSS equipment at sea, when the service of a person so designated is used to meet the maintenance requirements of SOLAS Regulation IV/15 (incorporated by reference, see § 15.103 of this part), must provide documentary evidence that he or she is competent to maintain GMDSS equipment at sea.

117. Amend § 15.820 as follows:

a. In paragraph (a) introductory text, remove the words “on board” and add, in their place, the word “onboard”; after the words “the following”, remove the word “inspected”; and after the words “mechanically propelled”, add the word “inspected”;

b. In paragraph (a)(1), remove the words “200 gross tons and over.” and add, in their place, the words “200 GRT and over;”;

c. In paragraph (a)(2), remove the words “200 gross tons.” and add, in their place, the words “200 GRT; and”

d. In paragraph (a)(3), remove the words “300 gross tons and over” and add, in their place, the words “300 GRT or more”;

e. Redesignate paragraph (b) as paragraph (c);

f. Add new paragraph (b) as set forth below; and

g. In newly redesignated paragraph (c), remove the words “gross tons or over” and add, in their place, the words “GRT or more”.

§ 15.820 Chief engineer.

* * * * *

(b) On vessels subject to STCW, the individual meeting the requirement of this section must also hold an STCW endorsement as chief engineer with the appropriate propulsion power for the vessel upon which he or she is operating, except as noted in § 15.105(g) of this part for vessels on domestic near-coastal voyages.

* * * * *

118. Revise § 15.825 as follows:

§ 15.825 Engineers.

(a) An individual in charge of an engineering watch on a mechanically propelled, seagoing, documented vessel of 200 GRT or more, other than an individual described in § 15.820 of this subpart, must hold an appropriately endorsed license or MMC authorizing service as an assistant engineer.

(b) On vessels subject to STCW, the individual meeting the requirement of this section must also hold an STCW endorsement as officer in charge of an engineering watch with the appropriate propulsion power for the vessel upon which he or she is operating, except as noted in § 15.105(g) of this part for vessels on domestic near-coastal voyages.

(c) The OCMI determines the minimum number of credentialed engineers required for the safe operation of inspected vessels.

§ 15.830 [Amended]

119. In § 15.830, after the word “requirements”, add the words “as found in 47 CFR part 13 and 47 CFR part 80”.

120. Amend § 15.840 as follows:

a. In paragraph (a), remove the words “gross tons” and add, in their place, the word “GRT”; remove the word “1east” and add, in its place, the word “least”; and remove the words “two watch” and add, in their place, the words “two-watch”;

b. In paragraph (b), after the words “offshore supply vessel”, add the word “(OSV)”; and remove the word “chapter” and add, in its place, the word “subchapter”;

c. Redesignate paragraph (c) as new paragraph (d);

d. Add new paragraph (c) as set forth below; and

e. In newly redesignated paragraph (d), after the words “person in charge”, add the word “(PIC)”.

§ 15.840 Able seamen.

* * * * *

(c) On vessels subject to STCW, the individual meeting the requirement of this section must also hold an STCW endorsement as ratings forming part of a navigational watch or able seafarer-deck (according to § 15.404(a) and (b) of this part), except as noted in § 15.105 (g) of this part for vessels on domestic near-coastal voyages.

* * * * *

121. Revise § 15.845 to read as follows:

§ 15.845 Lifeboatmen.

(a) The number of lifeboatmen required for a vessel is specified in part 199 of this chapter; however, on vessels not equipped with lifeboats, a lifeboatman may be replaced by a lifeboatman-limited.

(b) On vessels subject to STCW, the individual meeting the requirement of this section must also hold an STCW endorsement for proficiency in survival craft, except as noted in § 15.105 (g) of this part for vessels on domestic near-coastal voyages.

122. Revise § 15.850 to read as follows:

§ 15.850 Lookouts.

(a) The requirements for the maintenance of a proper lookout are specified in Rule 5 of the International Regulations for Preventing Collisions at Sea, 1972 (33 U.S.C. 1602(c)), and Rule 5 of the Inland Navigational Rules Act of 1980 (33 CFR part 83). Lookout is a function to be performed by a member of a navigational watch.

(b) On vessels subject to STCW, the individual meeting the requirement of this section must also hold at least an STCW deck endorsement as rating forming part of a navigational watch, except as noted in § 15.105(g) of this part for vessels on domestic near-coastal voyages.

§ 15.855 [Amended]

123. Amend § 15.855 as follows:

a. In paragraph (a), remove the word “shall” and add, in its place, the word “must”;

b. In paragraph (b), remove the words “gross tons” and add, in their place, the word “GRT”; and remove the words “on board” and add, in their place, the word “onboard”;

c. In paragraph (c) introductory text, remove the words “gross tons” and add, in their place, the word “GRT”; and

d. In paragraph (c)(6), after the words “in accordance with § 15.705”, add the words “of this part”.

124. Revise § 15.860 to read as follows:

§ 15.860 Tankerman.

(a) The OCMI enters on the COI issued to each manned tank vessel subject to the regulations in this chapter the number of crewmembers required to hold valid MMDs or MMCs with the proper tankerman endorsement. Table 1 to § 15.860(a) of this section provides the minimum requirements for tankermen aboard manned tank vessels; Table 2 to § 15.860(a) of this section provides the tankerman endorsements required for personnel aboard tankships.

Table 1 to § 15.860(a)—Minimum Requirements for Tankermen Aboard Manned Tank Vessels
Tank vessels | Tankerman-PIC | Tankerman assistant | Tankerman engineer | Tankerman-PIC or tankerman-PIC (barge)
Tankship Certified for Voyages Beyond Boundary Line:
Over 5,000 GRT | 2 | 3 | 2 |
5,000 GRT or less | 2 |  | ¹ 2 |
Tankship Not Certified for Voyages Beyond Boundary Line | ² 2 |  |  |
Tank Barge |  |  |  | ³ 2
¹ If only one engineer is required, then only one tankerman-engineer is required.
² If the total crew complement is one or two persons, then only one tankerman-PIC is required.
³ If the total crew complement is one or two persons, then only one tankerman-PIC or tankerman-PIC (barge) is required.

Table 2 to 15.860(a)—Tankermen Endorsements Required for Personnel Aboard Tankships
[Endorsement for the classification of the bulk liquid cargo or residues carried]
Tankship certified for voyages beyond boundary line | Tankerman-PIC |  | Tankerman engineer | Tankerman assistant
Master | X |  |  |
Chief Mate | X |  |  |
Chief Engineer | X | or | X |
First Assistant Engineer | X | or | X |
Cargo Engineer | X | or | X |
Credentialed Officer Acting as PIC of Transfer of Liquid Cargo in Bulk | X |  |  |
Credentialed Officer or Crewmember Not Directly Supervised by PIC |  |  |  | X

(b) For each tankship of more than 5,000 GRT certified for voyages beyond the boundary line as described in part 7 of this chapter—

(1) At least two tankerman-PICs or restricted tankerman-PICs must be carried;

(2) At least three tankerman-assistants must be carried; and

(3) At least two tankerman-engineers must be carried.

(c) For each tankship of 5,000 GRT or less certified for voyages beyond the boundary line, as described in part 7 of this chapter—

(1) At least two tankerman-PICs or restricted tankerman-PICs must be carried; and

(2) At least two tankerman-engineers must be carried, unless only one engineer is required, in which case at least one tankerman-engineer must be carried.

(d) For each tankship not certified for voyages beyond the boundary line, as described in part 7 of this chapter, if the total crew complement is—

(1) One or two, at least one tankerman-PIC or restricted tankerman-PIC must be carried; or

(2) More than two, at least two tankerman-PICs or restricted tankerman-PICs must be carried.

(e) For each tank barge manned under § 31.15-5 of this chapter, if the total crew complement is—

(1) One or two, at least one tankerman-PIC, restricted tankerman-PIC, tankerman-PIC (barge), or restricted tankerman-PIC (barge) must be carried; or

(2) More than two, at least two tankerman-PICs, restricted tankerman-PICs, tankerman-PICs (barge), or restricted tankerman-PICs (barge) must be carried.

(f) The following personnel aboard each tankship certified for voyages beyond the boundary line, as described in part 7 of this chapter, must hold valid MMDs or MMCs, endorsed as follows:

(1) The master and chief mate must each hold a tankerman-PIC or restricted tankerman-PIC endorsement.

(2) The chief, first assistant, and cargo engineers must each hold a tankerman-engineer or tankerman-PIC endorsement.

(3) Each credentialed officer acting as the PIC of a transfer of liquid cargo in bulk must hold a tankerman-PIC or restricted tankerman-PIC endorsement.

(4) Each officer or crewmember who is assigned by the PIC duties and responsibilities related to the cargo or cargo-handling equipment during a transfer of liquid cargo in bulk, but is not directly supervised by the PIC, must hold a tankerman-assistant endorsement.

(g) The endorsements required by this section must be for the classification of the liquid cargo in bulk or of the cargo residue being carried.

(h) All individuals serving on tankships certified for voyages beyond the boundary line, as described in part 7 of this chapter, must hold an appropriate STCW endorsement, as follows:

(1) For tankerman-PIC, an STCW endorsement as Advanced Oil Tanker Cargo Operations, Advanced Chemical Tanker Cargo Operations, or Advanced Liquefied Gas Tanker Cargo Operations, as appropriate.

(2) For tankerman-Assistant, an STCW endorsement as Basic Oil and Chemical Tanker Cargo Operations, or Basic Liquefied Gas Tanker Cargo Operations, as appropriate.

(3) For a tankerman-PIC (barge), an STCW endorsement as Advanced Oil Tanker Cargo Operations, Advanced Chemical Tanker Cargo Operations, or Advanced Liquefied Gas Tanker Cargo Operations, as appropriate, including endorsements with a limitation for non-self-propelled vessels.

(4) For a tankerman-engineer, an STCW endorsement as Advanced Oil Tanker Cargo Operations, or Advanced Chemical Tanker Cargo Operations, as appropriate, including endorsements with a limitation to maintenance and repair of cargo equipment.

125. Add new § 15.865 to newly redesignated subpart H to read as follows:

§ 15.865 Qualified member of the engine department (QMED).

(a) Every person serving under the authority of a rating endorsement as QMED on any United States vessel requiring QMED must hold an endorsement as QMED.

(b) On vessels subject to STCW, certain seafarers meeting the requirement of this section must also hold either an STCW endorsement as able seafarer-engine or rating forming part of an engineering watch or designated to perform duties in a periodically unmanned engineroom (according to § 15.404(c) and (d) of this part), except as noted in § 15.105(g) of this part for vessels on domestic near-coastal voyages.

126. Amend § 15.901 as follows:

a. Revise the heading of § 15.901 to read as set forth below;

b. In paragraph (a), remove the words “over 200 gross tons” and add, in their place, the words “200 GRT or more”; remove the words “100 gross tons” and add, in their place, the words “100 GRT”; and after the words “on the individual's license or MMC”, add the words “, without further endorsement”; and

c. In paragraphs (b), (c), and (d), after the words “mate of inspected”, remove the text “,”; and after the words “on the individual's license or MMC”, add the words “, without further endorsement”.

§ 15.901 Inspected vessels of less than 100 GRT.

* * * * *

127. Amend § 15.905 as follows:

a. In paragraph (a), after the words “pilot of an inspected”, remove the text “,”; remove the words “under 100 gross tons” and add, in their place, the words “of less than 100 GRT”; and after the words “other than” and before the word “tonnage”, remove the word “gross”;

b. In paragraph (b), after the words “pilot of an inspected”, remove the text “,”; and remove the words “at least 100 gross tons” and add, in their place, the words “100 GRT or more”; and

c. Revise paragraph (c) to read as follows:

§ 15.905 Uninspected passenger vessels.

* * * * *

(c) An individual holding a license or MMC endorsed as mate of an inspected self-propelled vessel (other than Great Lakes, inland, or river vessels of less than 200 GRT) is authorized to serve as operator of uninspected passenger vessels of less than 100 GRT within any restrictions, other than tonnage limitations, on the individual's license or MMC.

128. Revise § 15.915 to read as follows:

§ 15.915 Engineer officer endorsements.

The following licenses and MMC officer endorsements authorize the holder to serve as noted, within any restrictions on the license or MMC, and as provided by § 15.401 of this part:

(a) A designated duty engineer license or endorsement authorizes service as chief or assistant engineer on vessels of less than 500 GT in the following manners:

(1) A designated duty engineer limited to vessels of less than 1,000 horsepower or less than 4,000 horsepower may serve only on near-coastal, Great Lakes, or inland waters.

(2) A designated duty engineer with no horsepower limitations may serve on any waters.

(3) When serving on a vessel to which STCW applies, the appropriate STCW endorsement must also be held.

(b) A chief engineer (limited) license or endorsement authorizes service as chief or assistant engineer on vessels of any gross tons on inland waters and of less than 1,600 GRT on ocean, near-coastal, or Great Lakes waters.

(c) An assistant engineer (limited) license or endorsement authorizes service on vessels of any gross tons on inland waters and of less than 1,600 GRT on ocean, near-coastal, or Great Lakes waters.

129. Revise newly redesignated subpart K to read as follows:

Subpart K—Vessels Subject to Requirements of STCW
Sec.
15.1101 General.
15.1103 Employment and service within the restrictions of an STCW endorsement or of a certificate of training.
15.1105 Familiarization and basic training (BT).
15.1107 Maintenance of merchant mariners' records by owner or operator.
15.1109 Watches.
15.1111 Work hours and rest periods.
15.1113 Security personnel.

Subpart K—Vessels Subject to Requirements of STCW

§ 15.1101 General.

(a) Except as noted in paragraphs (a)(1) and (2) of this section, the regulations in this subpart apply to seagoing vessels as defined in § 10.107 of this subchapter.

(1) The following vessels are exempt from application of the STCW Convention:

(i) Fishing vessels as defined in 46 U.S.C. 2101(11)(a).

(ii) Fishing vessels used as fish-tender vessels as defined in 46 U.S.C. 2101(11)(c).

(iii) Barges as defined in 46 U.S.C. 102, including non-self-propelled MODUs.

(iv) Vessels operating exclusively on the Great Lakes or on the inland waters of the U.S., in the Straits of Juan de Fuca, or on the Inside Passage between Puget Sound and Cape Spencer.

(v) Pilot vessels engaged on pilotage duty.

(2) The following small vessels engaged exclusively on domestic voyages are not subject to any obligation for the purposes of the STCW Convention:

(i) Small passenger vessels subject to subchapter T or K of 46 CFR chapter I.

(ii) Vessels of less than 200 GRT (other than passenger vessels subject to subchapter H of 46 CFR chapter I).

(iii) Uninspected passenger vessels as defined in 46 U.S.C. 2101(42)(B).

(b) Masters, mates, and engineers serving on vessels identified in paragraphs (a)(2)(i) and (a)(2)(ii) of this section may be issued, without additional proof of qualification, an appropriate STCW endorsement when the Coast Guard determines that such a document is necessary to enable the vessel to engage on a single international voyage of a non-routine nature. The STCW endorsement will be expressly limited to service on the vessel or the class of vessels and will not establish qualification for any other purpose.

§ 15.1103 Employment and service within the restrictions of an STCW endorsement or of a certificate of training.

(a) Onboard a seagoing vessel of 500 GT or more, driven by main propulsion machinery of 1,000 HP/750 kW propulsion power or more or on an international voyage beyond the boundary line as described in part 7 of this chapter, no person may employ or engage any person to serve, and no person may serve, in a position requiring a person to hold an STCW endorsement, including master, chief mate, chief engineer officer, second engineer officer, officer of the navigational or engineering watch, or GMDSS radio operator, unless the person serving holds an appropriate, valid STCW endorsement issued in accordance with part 11 of this subchapter.

(b) Onboard a seagoing vessel of 500 GT or more, no person may employ or engage any person to serve, and no person may serve, as an RFPNW, except for training, unless the person serving holds an appropriate, valid STCW endorsement issued in accordance with part 12 of this subchapter.

(c) As of January 1, 2017, onboard a seagoing vessel of 500 GT or more, no person may employ or engage any person to serve, and no person may serve, as an able seafarer-deck, except for training, unless the person serving holds an appropriate, valid STCW endorsement issued in accordance with part 12 of this subchapter.

(d) Onboard a seagoing vessel driven by main propulsion machinery of 1,000 HP/750 kW propulsion power or more, no person may employ or engage any person to serve, and no person may serve, as an RFPEW, nor may any person be designated to perform duties in a periodically unmanned engine-room, except for training or for the performance of duties of an unskilled nature, unless the person serving holds an appropriate, valid STCW endorsement issued in accordance with part 12 of this subchapter.

(e) As of January 1, 2017, onboard a seagoing vessel driven by main propulsion machinery of 1,000 HP/750 kW propulsion power or more, no person may employ or engage any person to serve, and no person may serve, as an able seafarer-engine, except for training, unless the person serving holds an appropriate, valid STCW endorsement issued in accordance with part 12 of this subchapter.

(f) Onboard a passenger ship, as defined by the Convention for the Safety of Life at Sea, 1974, as amended (SOLAS) (incorporated by reference, see § 15.103 of this part), on an international voyage, any person serving as master, chief mate, mate, chief engineer, engineer officer, or any person holding a license, MMD, or MMC and performing duties relating to safety, cargo handling, or care for passengers, must meet the appropriate requirements of Regulation V/2 of the STCW Convention (incorporated by reference, see § 15.103 of this part). These individuals must hold documentary evidence to show they meet these requirements.

(g) Onboard a seagoing vessel required to comply with provisions of the GMDSS in Chapter IV of SOLAS, no person may employ or engage any person to serve, and no person may serve, as the person designated to maintain GMDSS equipment at sea, when the service of a person so designated is used to meet the maintenance requirements of SOLAS Regulation IV/15, which allows for capability of at-sea electronic maintenance to ensure that radio equipment is available for radio communication, unless the person so serving holds documentary evidence that he or she is competent to maintain GMDSS equipment at sea.

(h) Medical certificate. (1) A person may not employ or engage an individual unless that individual maintains a current medical certificate.

(2) After January 1, 2017, all persons employed or engaged onboard vessels to which STCW applies must hold a medical certificate valid for 2 years unless the mariner is under the age of 18, in which case the maximum period of validity will be 1 year.

(3) If a mariner's medical certificate expires during a voyage, it will remain valid until the next United States port of call, provided that the period after expiration does not exceed 90 days.

§ 15.1105 Familiarization and basic training (BT).

(a) Onboard a seagoing vessel to which this subpart applies, no person may assign any person to perform shipboard duties, and no person may perform those duties, unless the person performing them has received—

(1) Training in personal survival techniques as set out in the standard of competence under Regulation VI/1 of the STCW Convention (incorporated by reference, see § 15.103 of this part); or

(2) Sufficient familiarization training or instruction that he or she—

(i) Can communicate with other persons onboard about elementary safety matters and understand informational symbols, signs, and alarm signals concerning safety;

(ii) Knows what to do if a person falls overboard; if fire or smoke is detected; or if the fire alarm or abandon-ship alarm sounds;

(iii) Can identify stations for muster and embarkation, and emergency-escape routes;

(iv) Can locate and don life jackets;

(v) Can raise the alarm and knows the use of portable fire extinguishers;

(vi) Can take immediate action upon encountering an accident or other medical emergency before seeking further medical assistance onboard; and

(vii) Can close and open the fire doors, weather-tight doors, and watertight doors fitted in the vessel other than those for hull openings.

(b) Onboard a seagoing vessel to which this subpart applies, no person may assign a shipboard duty or responsibility to any person who is serving in a position that must be filled as part of the required crew complement, and no person may perform any such duty or responsibility, unless he or she is familiar with it and with all of the vessel's arrangements, installations, equipment, procedures, and characteristics relevant to his or her routine and emergency duties or responsibilities, in accordance with Regulation I/14 of the STCW Convention.

(c) Onboard a seagoing vessel to which this subpart applies, no person may assign a shipboard duty or responsibility to any person who is serving in a position that must be filled as part of the required crew complement or who is assigned a responsibility on the muster list, and no person may perform any such duty or responsibility, unless the person performing it can produce evidence of having—

(1) Received appropriate approved basic training or instruction as set out in the standards of competence under Regulation VI/1 of the STCW Convention, with respect to personal survival techniques, fire prevention and fire-fighting, elementary first aid, and personal safety and social responsibilities; and

(2) Maintained the standard of competence under Regulation VI/1 of the STCW Convention, with respect to personal survival techniques, fire prevention and fire-fighting, elementary first aid, and personal safety and social responsibilities, every 5 years.

(d) Fish-processing vessels in compliance with the provisions of 46 CFR part 28 on instructions, drills, and safety orientation are deemed to be in compliance with the requirements of this section on familiarization and basic training.

§ 15.1107 Maintenance of merchant mariners' records by owner or operator.

For every credentialed mariner employed on a U.S.-documented seagoing vessel, the owner or operator must ensure that the following information is maintained and readily accessible to those in management positions, including the master of the vessel, who are responsible for the safety of the vessel, compliance with laws and regulations, and for the prevention of marine pollution:

(a) Experience and training relevant to assigned shipboard duties (i.e., record of training completed, ship-specific familiarization and of relevant on-the-job experience acquired).

(b) Copies of the mariner's current credentials.

§ 15.1109 Watches.

Except those serving on vessels listed in § 15.105(f) and (g) of this part, each master of a vessel that operates beyond the boundary line, as described in part 7 of this chapter, must ensure observance of the principles concerning watchkeeping set out in Regulation VIII/2 of the STCW Convention and section A-VIII/2 of the STCW Code (both incorporated by reference, see § 15.103 of this part).

§ 15.1111 Work hours and rest periods.

(a) Every person assigned duty as officer in charge of a navigational or engineering watch, or duty as ratings forming part of a navigational or engineering watch, or designated safety, prevention of pollution, and security duties onboard any vessel that operates beyond the boundary line, as described in part 7 of this chapter, must receive—

(1) A minimum of 10 hours of rest in any 24-hour period; and

(2) 77 hours of rest in any 7-day period.

(b) The hours of rest required under paragraph (a) of this section may be divided into no more than two periods in any 24-hour period, one of which must be at least 6 hours in length, and the interval between consecutive periods of rest must not exceed 14 hours.

(c) The requirements of paragraph (a) and (b) of this section need not be maintained in the case of an emergency or drill or in other overriding operational conditions.

(d) The minimum period of rest required under paragraph (a) of this section may not be devoted to watchkeeping or other duties.

(e) Watchkeeping personnel remain subject to the work-hour limits in 46 U.S.C. 8104 and to the conditions under which crewmembers may be required to work.

(f) The master must post watch schedules where they are easily accessible. They must cover each affected person under paragraph (a) of this section, and must take into account the rest requirements of this section as well as port rotations and changes in the vessel's itinerary.

(g) Records of daily hours of rest must be maintained onboard the vessel. Each affected person under paragraph (a) of this section must receive a copy of the records pertaining to them, which will be endorsed by the master or by a person authorized by the master and by the seafarer.

(h) For every seafarer on call, such as when a machinery space is unattended, the seafarer must have an adequate compensatory rest period if the normal period of rest is disturbed by call-outs to work.

(i) The master of the vessel may suspend the schedule of hours of rest and require a seafarer to perform any hours of work necessary for the immediate safety of the ship, persons onboard, or cargo, or for the purpose of giving assistance to other ships or persons in distress at sea. As soon as practicable after the situation has been restored, the master must ensure that any seafarer who has performed work in a scheduled rest period is provided with an adequate period of rest.

(j) In exceptional circumstances, the master may authorize exceptions from the hours of rest required under paragraph (a) and (b) of this section provided that:

(1) The hours of rest provided for in paragraph (a)(1) of this section may be divided into no more than three periods, one of which must be at least 6 hours in length, and neither of the other two periods are permitted to be less than one hour in length.

(i) Exceptions to paragraph (a)(1) of this section must not extend beyond two 24-hour periods in any 7-day period; and,

(ii) The intervals between consecutive periods of rest must not exceed 14 hours.

(2) Exceptions to paragraphs (a)(2) and (b) of this section must not be less than 70 hours of rest in any 7-day period.

(3) Exceptions to paragraph (a)(2) of this section are not allowed for more than two consecutive weeks, and the intervals between two periods of exceptions to paragraph (a)(2) must not be less than twice the duration of the longer exception.

§ 15.1113 Security personnel.

(a) Onboard a seagoing vessel of 500 GT or more to which the International Ship and Port Facility Security (ISPS) Code applies, all persons performing duties as Vessel Security Officer (VSO) must hold a valid endorsement as VSO.

(b) Persons who hold an endorsement as VSO will be deemed to satisfy the requirements for vessel personnel with designated security duties in paragraph (c) of this section.

(c) After March 24, 2014, onboard a seagoing vessel of 500 GT or more to which the ISPS Code applies, all personnel with designated security duties must hold a valid endorsement as vessel personnel with designated security duties, or a certificate of course completion or documentary evidence of onboard training from an appropriate Coast Guard-accepted or Coast Guard-approved course meeting the requirements of 33 CFR 104.220.

(d) Persons who hold an endorsement as vessel personnel with designated security duties, or a certificate of course completion or documentary evidence of onboard training from an appropriate Coast Guard-accepted or Coast Guard-approved course for vessel personnel with designated security duties, will be deemed to satisfy the requirements for all other vessel personnel in paragraph (e) of this section.

(e) After March 24, 2014, onboard a seagoing vessel of 500 GT or more to which the ISPS Code applies, all other vessel personnel must hold a valid endorsement in security awareness, or a certificate of course completion from an appropriate Coast Guard-accepted or Coast Guard-approved course, or documentary evidence of onboard training meeting the requirements of 33 CFR 104.225.

(f) After March 24, 2014, onboard a seagoing vessel of 500 GT or more to which the ISPS Code applies, all contractors, whether part-time, full-time, temporary, or permanent, must have knowledge of the requirements in 33 CFR 104.225, through training or equivalent job experience. Vessel owners and operators must maintain records documenting this requirement and produce those records to the Coast Guard upon request.

Dated: November 15, 2013.
Robert J. Papp Jr.,
Admiral, U.S. Coast Guard Commandant.

[FR Doc. 2013-28032 Filed 12-23-13; 8:45 am]

BILLING CODE 9110-04-P